DEPARTMENT OF HEALTH AND HUMAN SERVICES

Centers for Medicare & Medicaid Services

42 CFR Parts 412 and 413

[CMS-1470-P]

RIN 0938-AL89

Medicare Program; Proposed Changes to the Hospital Inpatient Prospective Payment Systems and Fiscal Year 2004 Rates

AGENCY: Centers for Medicare and Medicaid Services (CMS), HHS.

ACTION: Proposed rule.

SUMMARY: We are proposing to revise the Medicare hospital inpatient prospective payment systems (IPPS) for operating and capital costs to implement changes arising from our continuing experience with these systems. In addition, in the Addendum to this proposed rule, we are describing proposed changes to the amounts and factors used to determine the rates for Medicare hospital inpatient services for operating costs and capital-related costs. These changes would be applicable to discharges occurring on or after October 1, 2003. We also are setting forth proposed rate-of-increase limits as well as proposed policy changes for hospitals and hospital units excluded from the IPPS.

Among other changes that we are proposing are changes to the policies governing postacute care transfers, payments to hospitals for the direct and indirect costs of graduate medical education, determination of hospital beds and patient days for payment adjustment purposes, and payments to critical access hospitals (CAHs).

DATES: Comments will be considered if received at the appropriate address, as provided below, no later than 5 p.m. on July 18, 2003.

ADDRESSES: Mail written comments (an original and three copies) to the following address only: Centers for Medicare & Medicaid Services, Department of Health and Human Services, Attention: CMS-1470-P, P.O. Box 8010, Baltimore, MD 21244-1850.

If you prefer, you may deliver, by hand or courier, your written comments (an original and three copies) to one of the following addresses:

Room 443-G, Hubert H. Humphrey Building, 200 Independence Avenue, SW., Washington, DC 20201, or

Room C5-14-03, Central Building, 7500 Security Boulevard, Baltimore, MD 21244-1850.

(Because access to the interior of the Humphrey Building is not readily available to persons without Federal Government identification, commenters are encouraged to leave their comments in the CMS drop slots located in the main lobby of the building. A stamp-in clock is available for commenters who wish to retain proof of filing by stamping in and keeping an extra copy of the comments being filed.)

Comments mailed to those addresses specified as appropriate for courier delivery may be delayed and could be considered late.

Because of staffing and resource limitations, we cannot accept comments by facsimile (FAX) transmission. In commenting, please refer to file code CMS-1470-P.

For information on viewing public comments see the beginning of the SUPPLEMENTARY INFORMATION section.

For comments that relate to information collection requirements, mail a copy of comments to the following addresses:

Centers for Medicare & Medicaid Services, Office of Strategic Operations and Regulatory Affairs, Security and Standards Group, Office of Regulations Development and Issuances, Room N2-14-26, 7500 Security Boulevard, Baltimore, Maryland 21244-1850. Attn: Julie Brown, CMS-1470-P; and

Office of Information and Regulatory Affairs, Office of Management and Budget, Room 3001, New Executive Office Building, Washington, DC 20503, Attn: Brenda Aguilar, CMS Desk Officer.

FOR FURTHER INFORMATION CONTACT:

Stephen Phillips, (410) 786-4548, Operating Prospective Payment, Diagnosis-Related Groups (DRGs), Wage Index, New Medical Services and Technology, Patient Transfers, Counting Beds and Patient Days, and Hospital Geographic Reclassifications Issues;

Tzvi Hefter, (410) 786-4487, Capital Prospective Payment, Excluded Hospitals, Nursing and Allied Health Education, Graduate Medical Education, and Critical Access Hospital Issues.

SUPPLEMENTARY INFORMATION:

Inspection of Public Comments

Comments received timely will be available for public inspection as they are received, generally beginning approximately 3 weeks after publication of a document, in Room C5-12-08 of the Centers for Medicare & Medicaid Services, 7500 Security Blvd., Baltimore, MD, on Monday through Friday of each week from 8:30 a.m. to 5 p.m. Please call (410) 786-7197 to schedule an appointment to view public comments.

Availability of Copies and Electronic Access

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $10.00. As an alternative, you can view and photocopy the Federal Register document at most libraries designated as Federal Depository Libraries and at many other public and academic libraries throughout the country that receive the Federal Register.

This Federal Register document is also available from the Federal Register online database through GPO Access, a service of the U.S. Government Printing Office. Free public access is available on a Wide Area Information Server (WAIS) through the Internet and via asynchronous dial-in. Internet users can access the database by using the World Wide Web; the Superintendent of Documents home page address is http://www.access.gpo.gov/nara_docs/, by using local WAIS client software, or by telnet to swais.access.gpo.gov, then login as guest (no password required). Dial-in users should use communications software and modem to call (202) 512-1661; type swais, then login as guest (no password required).

Table of Contents

I. Background

A. Summary

B. Major Contents of This Proposed Rule

II. Proposed Changes to DRG Classifications and Relative Weights

A. Background

B. DRG Reclassification

1. General

2. Review of DRGs for CC Split

3. MDC 1 (Diseases and Disorders of the Nervous System)

a. Revisions of DRGs 1 and 2

b. DRG 23 (Nontraumatic Stupor and Coma)

4. MDC 5 (Diseases and Disorders of the Circulatory System)

a. DRG 478 (Other Vascular Procedures With CC) and DRG 479 (Other Vascular Procedures Without CC)

b. DRGs 514 (Cardiac Defibrillator Implant With Cardiac Catheterization) and 515 (Cardiac Defibrillator Implant Without Cardiac Catheterization)

5. MDC 8 (Diseases and Disorders of the Musculoskeletal System and Connective Tissue)

6. MDC 15 (Newborns and Other Neonates with Conditions Originating in the Perinatal Period)

a. Nonneonate Diagnoses

b. Heart Failure Codes for Newborns and Neonates

7. MDC 17 (Myeloproliferative Diseases and Disorders and Poorly Differentiated Neoplasms)

8. MDC 23 (Factors Influencing Health Status and Other Contracts with Health Services)

a. Implantable Devices

b. Malignancy Codes

9. Medicare Code Editor (MCE) Change

10. Surgical Hierarchies

11. Refinement of Complications and Comorbidities (CC)

12. Review of Procedure Codes in DRGs 468, 476, and 477

a. Moving Procedure Codes from DRG 468 or DRG 477 to MDCs

b. Reassignment of Procedures among DRGs 468, 476, and 477

c. Adding Diagnosis Codes to MDCs

13. Changes to the ICD-9-CM Coding System

14. Other Issues

a. Cochlear Implants

b. Burn Patients on Mechanical Ventilation

c. Multiple Level Spinal Fusion

d. Heart Assist System Implant

e. Drug-Eluting Stents

f. Artificial Anal Spincter

C. Recalibration of DRG Weights

D. Proposed LTC-DRG Reclassifications and Relative Weights for LTCHs for FY 2004

1. Background

2. Proposed Changes in the LTC-DRG Classifications

a. Background

b. Patient Classifications into DRGs

3. Development of the Proposed FY 2004 LTC-DRG Relative Weights

a. General Overview of Development of the LTC-DRG Relative Weights

b. Data

c. Hospital-Specific Relative Value Methodology

d. Low Volume LTC-DRGs

4. Steps for Determining the Proposed FY 2004 LTC-DRG Relative Weights

E. Add-On Payments for New Services and Technologies

1. Background

2. FY 2004 Status of Technology Approved for FY 2003 Add-On Payments: Drotrecogin Alfa (Activated)—Xigris®

3. FY 2004 Applicants for New Technology Add-On Payments

a. Bone Morphogenetic Proteins (BMPs) for Spinal Fusions

b. GLIADEL® Wafer

4. Review of the High-Cost Threshold

5. Technical Changes

III. Proposed Changes to the Hospital Wage Index

A. Background

B. Proposed FY 2004 Wage Index Update

C. FY 2004 Wage Index Proposals

1. Elimination of Wage Costs Associated with Rural Health Clinics and Federally Qualified Health Centers

2. Paid Hours

D. Verification of Wage Data from the Medicare Cost Reports

E. Computation of the Proposed FY 2004 Wage Index

F. Proposed Revisions to the Wage Index Based on Hospital Redesignation

1. General

2. Effects of Reclassification

G. Requests for Wage Data Corrections

H. Modification of the Process and Timetable for Updating the Wage Index

IV. Other Decisions and Proposed Changes to the IPPS for Operating Costs and GME Costs

A. Transfer Payment Policy

1. Transfers to Another Acute Care Hospital

2. Technical Correction

3. Expanding the Postacute Care Transfer Policy to Additional DRGs

B. Rural Referral Centers

1. Case-Mix Index

2. Discharges

C. Indirect Medical Education (IME) Adjustment and Disproportionate Share Hospital (DSH) Adjustment

1. Available Beds and Patient Days: Background

2. Unoccupied Beds

3. Nonacute Care Beds and Days

4. Observation Beds and Swing-Beds

5. Labor, Delivery, Recovery, and Postpartum Beds and Days

6. Days Associated with Demonstration Projects under Section 1115 of the Act

7. Dual-Eligible Patient Days

8. Medicare+Choice (M+C) Days

D. Medicare Geographic Classification Review Board (MGCRB) Reclassification Process

E. Costs of Approved Nursing and Allied Health Education Activities

1. Background

2. Continuing Education Issue for Nursing and Allied Health Education Activities

3. Programs Operated by Wholly Owned Subsidiary Educational Institutions of Hospitals

F. Payment for Direct Costs of Graduate Medical Education

1. Background

2. Prohibition Against Counting Residents Where Other Entities First Incur the Training Costs

3. Rural Track FTE Limitation for Purposes of Direct GME and IME for Urban Hospitals that Establish Separately Accredited Approved Medical Programs in a Rural Area

a. Change in the Amount of Rural Training Time Required for an Urban Hospital to Qualify for an Increase in the Rural Track FTE Limitation

b. Inclusion of Rural Track FTE Residents in the Rolling Average Calculation

4. Technical Changes Related to Affiliated Groups and Affiliated Agreements

G. Notification of Updates to the Reasonable Compensation Equivalent (RCE) Limits

1. Background

2. Publication of the Updated RCE Limits

V. PPS for Capital-Related Costs

VI. Proposed Changes for Hospitals and Hospital Units Excluded from the IPPS

A. Payments to Excluded Hospitals and Hospital Units

1. Payments to Existing Excluded Hospitals and Hospital Units

2. Updated Caps for New Excluded Hospitals and Units

3. Implementation of a PPS for IRFs

4. Implementation of a PPS for LTCHs

B. Payment for Services Furnished at Hospitals-Within-Hospitals and Satellite Facilities

C. Clarification of Classification Requirements for LTCHs

D. Criteria for Payment on a Reasonable Cost Basis for Clinical Diagnostic Laboratory Services Performed by CAHs

E. Technical Changes

VII. MedPAC Recommendations

VIII. Other Required Information

A. Requests for Data from the Public

B. Collection of Information Requirements

Regulation Text

Addendum—Proposed Schedule of Standardized Amounts Effective with Discharges Occurring On or After October 1, 2003 and Update Factors and Rate-of-Increase Percentages Effective With Cost Reporting Periods Beginning On or After October 1, 2003

Tables

Table 1A—National Adjusted Operating Standardized Amounts, Labor/Nonlabor

Table 1C—Adjusted Operating Standardized Amounts for Puerto Rico, Labor/Nonlabor

Table 1D—Capital Standard Federal Payment Rate

Table 2—Hospital Average Hourly Wage for Federal Fiscal Years 2002 (1998 Wage Data), 2003 (1999 Wage Data), and 2004 (2000 Wage Data) Wage Indexes and 3-Year Average of Hospital Average Hourly Wages

Table 3A—3-Year Average Hourly Wage for Urban Areas

Table 3B—3-Year Average Hourly Wage for Rural Areas

Table 4A—Wage Index and Capital Geographic Adjustment Factor (GAF) for Urban Areas

Table 4B—Wage Index and Capital Geographic Adjustment Factor (GAF) for Rural Areas

Table 4C—Wage Index and Capital Geographic Adjustment Factor (GAF) for Hospitals That Are Reclassified

Table 4F—Puerto Rico Wage Index and Capital Geographic Adjustment Factor (GAF)

Table 4G—Pre-Reclassified Wage Index for Urban Areas

Table 4H—Pre-Reclassified Wage Index for Rural Areas

Table 5—List of Diagnosis-Related Groups (DRGs), Relative Weighting Factors, and Geometric and Arithmetic Mean Length of Stay (LOS)

Table 6A—New Diagnosis Codes

Table 6B—New Procedure Codes

Table 6C—Invalid Diagnosis Codes

Table 6D—Invalid Procedure Codes

Table 6E—Revised Diagnosis Code Titles

Table 6F—Revised Procedure Code Titles

Table 6G—Additions to the CC Exclusions List

Table 6H—Deletions from the CC Exclusions List

Table 7A—Medicare Prospective Payment System Selected Percentile Lengths of Stay FY 2002 MedPAR Update December 2002 GROUPER V20.0

Table 7B—Medicare Prospective Payment System Selected Percentile Lengths of Stay FY 2002 MedPAR Update December 2002 GROUPER V21.0

Table 8A—Statewide Average Operating Cost-to-Charge Ratios for Urban and Rural Hospitals (Case Weighted) March 2003

Table 8B—Statewide Average Capital Cost-to-Charge Ratios (Case Weighted) March 2003

Table 9—Hospital Reclassifications and Redesignations by Individual Hospital—FY 2004

Table 10—Mean and Standard Deviations by Diagnosis-Related Groups (DRGs)—FY 2004

Table 11—Proposed LTC-DRGs Relative Weights and Geometric and Five-Sixths of the Average Length of Stay—FY 2004

Appendix A—Regulatory Impact Analysis

Appendix B—Recommendation of Update Factors for Operating Cost Rates of Payment for Inpatient Hospital Services

Acronyms

AHIMA American Health Information Management Association

AHA American Hospital Association

CAH Critical access hospital

CBSAs Core Based Statistical Areas

CC Complication or comorbidity

CMS Centers for Medicare & Medicaid Services

CMSA Consolidated Metropolitan Statistical Areas

COBRA Consolidated Omnibus Reconciliation Act of 1985, Pub. L. 99-272

CPI Consumer Price Index

CRNA Certified registered nurse anesthetist

DRG Diagnosis-related group

DSH Disproportionate share hospital

FDA Food and Drug Administration

FQHC Federally qualified health center

FTE Full-time eguivalent

FY Federal fiscal year

GME Graduate medical education

HIPC Health Information Policy Council

HIPAA Health Insurance Portability and Accountability Act, Pub. L. 104-191

HHA Home health agency

ICD-9-CM International Classification of Diseases, Ninth Revision, and Clinical Modification

ICD-10-PCS International Classification of Diseases Tenth Edition, and Procedure Coding System

IME Indirect medical education

IPPS Acute care hospital inpatient prospective payment system

IRF Inpatient Rehabilitation Facility

LDRP Labor, delivery room, and postpartum

LTC-DRG Long-term care diagnosis-related group

LTCH Long-term care hospital

MCE Medicare Code Editor

MDC Major diagnostic category

MDH Medicare-dependent small rural hospital

MedPAC Medicare Payment Advisory Commission

MedPAR Medicare Provider Analysis and Review File

MEI Medicare Economic Index

MGCRB Medicare Geographic Classification Review Board

MPFS Medicare Physician Fee Schedule

MSA Metropolitan Statistical Area

NECMA New England County Metropolitan Areas

NCHS National Center for Health Statistics

NCHVS National Committee on Health and Vital Statistics

O.R. Operating room

PPS Prospective payment system

PRA Per resident amount

ProPAC Prospective Payment Assessment Commission

PRRB Provider Reimbursement Review Board

RCE Reasonable compensation equivalent

RHC Rural health center

RRC Rural referral center

SCH Sole community hospital

SNF Skilled nursing facility

TEFRA Tax Equity and Fiscal Responsibility Act of 1982, Pub. L. 97-248

UHDDS Uniform Hospital Discharge Data Set

I. Background

A. Summary

1. Acute Care Hospital Inpatient Prospective Payment System (IPPS)

Section 1886(d) of the Social Security Act (the Act) sets forth a system of payment for the operating costs of acute care hospital inpatient stays under Medicare Part A (Hospital Insurance) based on prospectively set rates. Section 1886(g) of the Act requires the Secretary to pay for the capital-related costs of hospital inpatient stays under a prospective payment system (PPS). Under these PPSs, Medicare payment for hospital inpatient operating and capital-related costs is made at predetermined, specific rates for each hospital discharge. Discharges are classified according to a list of diagnosis-related groups (DRGs).

The base payment rate is comprised of a standardized amount that is divided into a labor-related share and a nonlabor-related share. The labor-related share is adjusted by the wage index applicable to the area where the hospital is located; and if the hospital is located in Alaska or Hawaii, the nonlabor-related share is adjusted by a cost-of-living adjustment factor. This base payment rate is multiplied by the DRG relative weight.

If the hospital treats a high percentage of low-income patients, it receives a percentage add-on payment applied to the DRG-adjusted base payment rate. This add-on payment, known as the disproportionate share hospital (DSH) adjustment, provides for a percentage increase in Medicare payments to hospitals that qualify under either of two statutory formulas designed to identify hospitals that serve a disproportionate share of low-income patients. For qualifying hospitals, the amount of this adjustment may vary based on the outcome of the statutory calculations.

If the hospital is an approved teaching hospital, it receives a percentage add-on payment for each case paid under the IPPS (known as the indirect medical education (IME) adjustment). This percentage varies, depending on the ratio of residents to beds.

Additional payments may be made for cases that involve new technologies that have been approved for special add-on payments. To qualify, a new technology must demonstrate that it is a substantial clinical improvement over technologies otherwise available, and that, absent an add-on payment, it would be inadequately paid under the regular DRG payment.

The costs incurred by the hospital for a case are evaluated to determine whether the hospital is eligible for an additional payment as an outlier case. This additional payment is designed to protect the hospital from large financial losses due to unusually expensive cases. Any outlier payment due is added to the DRG-adjusted base payment rate, plus any DSH, IME, and new technology add-on adjustments.

Although payments to most hospitals under the IPPS are made on the basis of the standardized amounts, some categories of hospitals are paid the higher of a hospital-specific rate based on their costs in a base year (the higher of FY 1982, FY 1987, or FY 1996) or the IPPS rate based on the standardized amount. For example, sole community hospitals (SCHs) are the sole source of care in their areas, and Medicare-dependent, small rural hospitals (MDHs) are a major source of care for Medicare beneficiaries in their areas. Both of these categories of hospitals are afforded this special payment protection in order to maintain access to services for beneficiaries (although MDHs receive only 50 percent of the difference between the IPPS rate and their hospital-specific rates if the hospital-specific rate is higher than the IPPS rate).

Section 1886(g) of the Act requires the Secretary to pay for the capital-related costs of inpatient hospital services “in accordance with a prospective payment system established by the Secretary.” The basic methodology for determining capital prospective payments is set forth in our regulations at 42 CFR 412.308 and 412.312. Under the capital PPS, payments are adjusted by the same DRG for the case as they are under the operating IPPS. Similar adjustments are also made for IME and DSH as under the operating IPPS. In addition, hospitals may receive an outlier payment for those cases that have unusually high costs.

The existing regulations governing payments to hospitals under the IPPS are located in 42 CFR part 412, subparts A through M.

2. Hospitals and Hospital Units Excluded From the IPPS

Under section 1886(d)(1)(B) of the Act, as amended, certain specialty hospitals and hospital units are excluded from the IPPS. These hospitals and units are: Psychiatric hospitals and units, rehabilitation hospitals and units; long-term care hospitals (LTCHs); children's hospitals; and cancer hospitals. Various sections of the Balanced Budget Act of 1997 (Pub. L. 105-33), the Medicare, Medicaid and SCHIP [State Children's Health Insurance Program] Balanced Budget Refinement Act of 1999 (Pub. L. 106-113), and the Medicare, Medicaid, and SCHIP Benefits Improvement and Protection Act of 2000 (Pub. L. 106-554) provide for the implementation of PPSs for rehabilitation hospitals and units (referred to as inpatient rehabilitation facilities (IRFs)), psychiatric hospitals and units, and LTCHs, as discussed below. Children's hospitals and cancer hospitals continue to be paid under reasonable cost-based reimbursement.

The existing regulations governing payments to excluded hospitals and hospital units are located in 42 CFR parts 412 and 413.

a. Inpatient Rehabilitation Facilities. Under section 1886(j) of the Act, as amended, rehabilitation hospitals and units (IRFs) have been transitioned from payment based on a blend of reasonable cost reimbursement subject to a hospital-specific annual limit under section 1886(b) of the Act and prospective payments for cost reporting periods beginning January 1, 2002 through September 30, 2002, to payment on a full prospective payment system basis effective for cost reporting periods beginning on or after October 1, 2002 (66 FR 41316, August 7, 2001 and 67 FR 49982, August 1, 2002). The existing regulations governing payments under the IRF PPS are located in 42 CFR part 412, subpart P.

b. LTCHs. Under the authority of sections 123(a) and (c) of Pub. L. 106-113 and section 307(b)(1) of Pub. L. 106-554, LTCHs are being transitioned from being paid for inpatient hospital services based on a blend of reasonable cost-based reimbursement under section 1886(b) of the Act to fully Federal prospective rates during a 5-year period, beginning with cost reporting periods that start on or after October 1, 2002. For cost reporting periods beginning on or after October 1, 2006, LTCHs will be paid under the fully Federal prospective payment rate (the August 30, 2002 LTCH PPS final rule (67 FR 55954)). LTCHs may elect to be paid based on full PPS payments instead of a blended payment in any year during the 5-year transition period. The existing regulations governing payment under the LTCH PPS are located in 42 CFR part 412, subpart O.

c. Psychiatric Hospitals and Units. Sections 124(a) and (c) of Pub. L. 106-113 provide for the development of a per diem PPS for payment for inpatient hospital services furnished in psychiatric hospitals and units under the Medicare program, effective for cost reporting periods beginning on or after October 1, 2002. This system must include an adequate patient classification system that reflects the differences in patient resource use and costs among these hospitals and maintain budget neutrality. We are in the process of developing a proposed rule, to be followed by a final rule, to implement the PPS for psychiatric hospitals and units.

3. Critical Access Hospitals

Under sections 1814, 1820, and 1834(g) of the Act, payments are made to critical access hospitals (CAHs) (that is, rural hospitals or facilities that meet certain statutory requirements) for inpatient and outpatient services on a reasonable cost basis. Reasonable cost is determined under the provisions of section 1861(v)(1)(A) of the Act and existing regulations under 42 CFR parts 413 and 415.

4. Payments for Graduate Medical Education

Under section 1886(a)(4) of the Act, costs of approved educational activities are excluded from the operating costs of inpatient hospital services. Hospitals with approved graduate medical education (GME) programs are paid for the direct costs of GME in accordance with section 1886(h) of the Act; the amount of payment for direct GME costs for a cost reporting period is based on the hospital's number of residents in that period and the hospital's costs per resident in a base year. The existing regulations governing payments to the various types of hospitals are located in 42 CFR part 413.

B. Major Contents of This Proposed Rule

In this proposed rule, we are setting forth proposed changes to the Medicare IPPS for operating costs and for capital-related costs in FY 2004. We also are proposing changes relating to payments for GME costs, payments to CAHs, and payments to providers classified as psychiatric hospitals and units that continue to be excluded from the IPPS and paid on a reasonable cost basis. The proposed changes would be effective for discharges occurring on or after October 1, 2003.

The following is a summary of the major changes that we are proposing to make:

1. Proposed Changes to the DRG Reclassifications and Recalibrations of Relative Weights

As required by section 1886(d)(4)(C) of the Act, we adjust the DRG classifications and relative weights annually. Based on analyses of Medicare claims data, we are proposing to establish a number of new DRGs and make changes to the designation of diagnosis and procedure codes under other existing DRGs. Our proposed changes for FY 2004 are set forth in section II. of this preamble.

Among the proposed changes discussed are:

• Expanding the number of DRGs that are split on the basis of the presence or absence of complications or comorbidities (CCs). The DRGs we are proposing to split are: DRG 4 (Spinal Procedures), DRG 5 (Extracranial Vascular Procedures), DRG 231 (Local Excision and Removal of Internal Fixation Devices Except Hip and Femur) and DRG 400 (Lymphoma and Leukemia With Major O.R. Procedure).

• Creating two new DRGs to differentiate current DRG 514 (Cardiac Defibrillator Implant With Cardiac Catheterization) on the basis of whether the patient does or does not experience any of the following symptoms: acute myocardial infarction, heart failure, or shock.

• Changing the DRG assignments of certain congenital anomalies that currently result in patients being assigned to newborn DRGs even when the patient is actually an adult. We also are adding to the list of major problems in newborns that affect DRG assignment.

• Modifying DRG 492 (Chemotherapy With Acute Leukemia as Secondary Diagnosis) to include in this DRG cases receiving high-dose Interleukin-2 (IL-2) chemotherapy for patients with advanced renal cell cancer and advanced melanoma.

We also are presenting our analysis of applicants for add-on payments for high-cost new medical technologies.

2. Proposed Changes to the Hospital Wage Index

In section III. of this preamble, we discuss proposed revisions to the wage index and the annual update of the wage data. Specific issues addressed in this section include the following:

• The proposed FY 2004 wage index update, using wage data from cost reporting periods that began during FY 2000.

• Proposed exclusion of the wage data for rural health centers (RHCs) and Federally qualified health centers (FQHCs) from the calculation of the FY 2004 wage index.

• Proposed exclusion of paid hours associated with military and jury duty leave from the wage index calculation, and request for comments on possible exclusion of paid lunch or meal break hours.

• Proposed revisions to the wage index based on hospital redesignations and reclassifications.

• Proposed amendments to the timetable for reviewing and verifying the wage data that will be in effect for the FY 2005 wage index.

3. Other Decisions and Proposed Changes to the PPS for Inpatient Operating and GME Costs

In section IV. of this preamble, we discuss several provisions of the regulations in 42 CFR parts 412 and 413 and set forth certain proposed changes concerning the following:

• Proposed expansion of the current postacute transfer policy to 19 additional DRGs.

• Proposed clarification of our policies that would be applied to counting hospital beds and patient days, in particular with regard to the treatment of swing-beds and observation beds, for purposes of the IME and DSH adjustments.

• Proposed changes in our policy relating to nursing and allied health education payments to wholly owned subsidiary educational institutions of hospitals.

• Proposed clarification of policy relating to application of redistribution of costs and community support funds in determining a hospital's resident training costs.

• Proposed change in the amount of rural training time required for an urban hospital to qualify for an increase in the rural track FTE limitation.

• Proposed inclusion of FTE residents training in rural tracks in a hospital's rolling average calculation.

4. PPS for Capital-Related Costs

In section V., of this preamble, we discuss the payment requirements for capital-related costs. We are not proposing any changes to the policies on payments to hospitals for capital-related costs.

5. Proposed Changes for Hospitals and Hospital Units Excluded from the IPPS

In section VI., of this preamble, we discuss the following proposals concerning excluded hospitals and hospital units and CAHs:

• Revisions relating to the operation of excluded “grandfathered” hospitals-within-hospitals in effect on September 30, 1999.

• Clarification of the classification criteria for LTCHs.

• Clarification of the policy on payments for laboratory services provided by a CAH to patients outside a CAH.

6. Determining Prospective Payment Operating and Capital Rates and Rate-of-Increase Limits

In the Addendum to this proposed rule, we set forth proposed changes to the amounts and factors for determining the FY 2004 prospective payment rates for operating costs and capital-related costs. We also establish the proposed threshold amounts for outlier cases. In addition, we address update factors for determining the rate-of-increase limits for cost reporting periods beginning in FY 2004 for hospitals and hospital units excluded from the PPS.

7. Impact Analysis

In Appendix A, we set forth an analysis of the impact that the proposed changes described in this proposed rule would have on affected hospitals.

8. Proposed Recommendation of Update Factor for Hospital Inpatient Operating Costs

As required by sections 1886(e)(4) and (e)(5) of the Act, Appendix B provides our recommendation of the appropriate percentage change for FY 2004 for the following:

• Large urban area and other area average standardized amounts (and hospital-specific rates applicable to SCHs and MDHs) for hospital inpatient services paid under the IPPS for operating costs.

• Target rate-of-increase limits to the allowable operating costs of hospital inpatient services furnished by hospitals and hospital units excluded from the IPPS.

9. Discussion of Medicare Payment Advisory Commission Recommendations

Under section 1805(b) of the Act, the Medicare Payment Advisory Commission (MedPAC) is required to submit a report to Congress, no later than March 1 of each year, that reviews and makes recommendations on Medicare payment policies. This annual report makes recommendations concerning hospital inpatient payment policies. In section VII., of this preamble, we discuss the MedPAC recommendations and any actions we are proposing to take with regard to them (when an action is recommended). For further information relating specifically to the MedPAC March 1 report or to obtain a copy of the report, contact MedPAC at (202) 653-7220 or visit MedPAC's Web site at: http://www.medpac.gov.

II. Proposed Changes to DRG Classifications and Relative Weights

A. Background

Section 1886(d) of the Act specifies that the Secretary shall establish a classification system (referred to as DRGs) for inpatient discharges and adjust payments under the IPPS based on appropriate weighting factors assigned to each DRG. Therefore, under the IPPS, we pay for inpatient hospital services on a rate per discharge basis that varies according to the DRG to which a beneficiary's stay is assigned. The formula used to calculate payment for a specific case multiplies an individual hospital's payment rate per case by the weight of the DRG to which the case is assigned. Each DRG weight represents the average resources required to care for cases in that particular DRG relative to the average resources used to treat cases in all DRGS.

Congress recognized that it would be necessary to recalculate the DRG relative weights periodically to account for changes in resource consumption. Accordingly, section 1886(d)(4)(C) of the Act requires that the Secretary adjust the DRG classifications and relative weights at least annually. These adjustments are made to reflect changes in treatment patterns, technology, and any other factors that may change the relative use of hospital resources. The proposed changes to the DRG classification system and the proposed recalibration of the DRG weights for discharges occurring on or after October 1, 2003 are discussed below.

B. DRG Reclassification

1. General

Cases are classified into DRGs for payment under the IPPS based on the principal diagnosis, up to eight additional diagnoses, and up to six procedures performed during the stay. In a small number of DRGs, classification is also based on the age, sex, and discharge status of the patient. The diagnosis and procedure information is reported by the hospital using codes from the International Classification of Diseases, Ninth Revision, Clinical Modification (ICD-9-CM).

For FY 2003, cases are assigned to one of 510 DRGs in 25 major diagnostic categories (MDCs). Most MDCs are based on a particular organ system of the body. For example, MDC 6 is Diseases and Disorders of the Digestive System. This approach is used because the clinical care is generally organized in accordance with the organ system affected. However, some MDCs are not constructed on this basis because they involve multiple organ systems (for example, MDC 22 (Burns)). The table below lists the 25 MDCs.

| Major Diagnostic Categories
1 | Diseases and Disorders of the Nervous System.
2 | Diseases and Disorders of the Eye.
3 | Diseases and Disorders of the Ear, Nose, Mouth, and Throat.
4 | Diseases and Disorders of the Respiratory System.
5 | Diseases and Disorders of the Circulatory System.
6 | Diseases and Disorders of the Digestive System.
7 | Diseases and Disorders of the Hepatobiliary System and Pancreas.
8 | Diseases and Disorders of the Musculoskeletal System and Connective Tissue.
9 | Diseases and Disorders of the Skin, Subcutaneous Tissue and Breast.
10 | Endocrine, Nutritional and Metabolic Diseases and Disorders.
11 | Diseases and Disorders of the Kidney and Urinary Tract.
12 | Diseases and Disorders of the Male Reproductive System.
13 | Diseases and Disorders of the Female Reproductive System.
14 | Pregnancy, Childbirth, and the Puerperium.
15 | Newborns and Other Neonates with Conditions Originating in the Perinatal Period.
16 | Diseases and Disorders of the Blood and Blood Forming Organs and Immunological Disorders.
17 | Myeloproliferative Diseases and Disorders and Poorly Differentiated Neoplasms.
18 | Infectious and Parasitic Diseases (Systemic or Unspecified Sites).
19 | Mental Diseases and Disorders.
20 | Alcohol/Drug Use and Alcohol/Drug Induced Organic Mental Disorders.
21 | Injuries, Poisonings, and Toxic Effects of Drugs.
22 | Burns.
23 | Factors Influencing Health Status and Other Contacts with Health Services.
24 | Multiple Significant Trauma.
25 | Human Immunodeficiency Virus Infections.

In general, cases are assigned to an MDC based on the patient's principal diagnosis before assignment to a DRG. However, for FY 2003, there are eight DRGs to which cases are directly assigned on the basis of ICD-9-CM procedure codes. These are the DRGs for heart, liver, bone marrow, lung transplants, simultaneous pancreas/kidney, and pancreas transplants (DRGs 103, 480, 481, 495, 512, and 513, respectively) and the two DRGs for tracheostomies (DRGs 482 and 483). Cases are assigned to these DRGs before classification to an MDC.

Within most MDCs, cases are then divided into surgical DRGs and medical DRGs. Surgical DRGs are based on a hierarchy that orders operating room (O.R.) procedures or groups of O.R. procedures by resource intensity. Medical DRGs generally are differentiated on the basis of diagnosis and age (less than or greater than 17 years of age). Some surgical and medical DRGs are further differentiated based on the presence or absence of a complication or a comorbidity (CC).

Generally, nonsurgical procedures and minor surgical procedures not usually performed in an operating room are not treated as O.R. procedures. However, there are a few non-O.R. procedures that do affect DRG assignment for certain principal diagnoses, such as extracorporeal shock wave lithotripsy for patients with a principal diagnosis of urinary stones.

Patients' diagnosis, procedure, discharge status, and demographic information is fed into the Medicare claims processing systems and subjected to a series of automated screens called the Medicare Code Editor (MCE). These screens are designed to identify cases that require further review before classification into a DRG.

After screening through the MCE and any further development of the claims, cases are classified into the appropriate DRG by the Medicare GROUPER software program. The GROUPER program was developed as a means of classifying each case into a DRG on the basis of the diagnosis and procedure codes and, for a limited number of DRGs, demographic information (that is, sex, age, and discharge status).

After cases are screened through the MCE and assigned to a DRG by the GROUPER, a payment is calculated by the PRICER software. The PRICER calculates the payments for each case covered by the IPPS based on the DRG relative weight and factors associated with each hospital, such as IME and DSH adjustments.

The records for all Medicare hospital inpatient discharges are maintained in the Medicare Provider Analysis and Review (MedPAR) file. The data in this file are used to evaluate possible DRG classification changes and to recalibrate the DRG weights. However, in the July 30, 1999 IPPS final rule (64 FR 41500), we discussed a process for considering non-MedPAR data in the recalibration process. In order for the use of particular data to be feasible, we must have sufficient time to evaluate and test the data. The time necessary to do so depends upon the nature and quality of the data submitted. Generally, however, a significant sample of the data should be submitted by mid-October for consideration in conjunction with the next year's proposed rule, so that we can test the data and make a preliminary assessment as to the feasibility of using the data. Subsequently, a complete database should be submitted by early December for consideration in conjunction with the next year's proposed rule.

Many of the changes to the DRG classifications are the result of specific issues brought to our attention by interested parties. We encourage individuals with concerns about the DRG classifications to bring those concerns to our attention in a timely manner so they can be carefully considered for possible inclusion in the next proposed rule and so any proposed changes may be subjected to public review and comment. Therefore, similar to the timetable for interested parties to submit non-MedPAR data for consideration in the DRG recalibration process, concerns about DRG classification issues should be brought to our attention no later than early December in order to be considered and possibly included in the next annual proposed rule updating the IPPS.

The changes we are proposing to the DRG classification system for FY 2004 GROUPER version 21.0 and to the methodology to recalibrate the DRG weights are set forth below. Unless otherwise noted, our DRG analysis is based on data from the December 2002 update of the FY 2002 MedPAR file, which contains hospital bills received through December 31, 2002, for discharges in FY 2002.

2. Review of DRGs for CC Split

In an effort to improve the clinical and cost cohesiveness of the DRG classification system, we have evaluated whether additional DRGs should be split based on the presence or absence of a CC. There are currently 116 paired CC split DRGs. We last performed a systematic evaluation and considered changes to the DRGs to recognize the within-DRG cost differences based on the presence or absence of CCs in 1994 (May 27, 1994 IPPS proposed rule, 59 FR 27715). In 1994, we described a refined DRG system based on a list of secondary diagnoses that have a major effect on the resources used by hospitals in treating patients across DRGs. We analyzed how the presence of the secondary diagnosis affected resource use compared to other secondary diagnoses, and classified these secondary diagnoses as non-CC, CC, or major CC. After finalizing the classification of secondary diagnoses, we evaluated which collapsed DRGs should be split on the basis of the presence 8 of a major CC, other CC, or both.¹ However, this refined system was not implemented because we did not believe it would be prudent policy to make changes for which we could not predict the effect on the case-mix (the average DRG relative weight for all cases) and, thus, payments (60 FR 29209). We were concerned that we would be unable to fulfill the requirement of section 1886(d)(4)(C)(iii) of the Act that aggregate payments may not be affected by DRG reclassification and recalibration of weighting factors. That is, our experience has been that hospitals respond to major changes to the DRGs by changing their coding practices in ways that increase total payments (for example, by beginning to include ICM-9-CM codes that previously did not affect payment for a case). Because changes in coding behavior do not represent a real increase in the severity of the overall mix of cases, total payments should not increase. The only way to ensure this behavioral response does not lead to higher total payments is to make an offsetting adjustment to the system in advance of the fiscal year when the changes are effective.

¹ The complete description of the analysis was published in the Health Care Financing Review (Edwards, N., Honemann, D., Burley, D., Navarro, M., “Refinement of the Medicare Diagnosis-Related Groups to Incorporate a Measure of Severity,” Health Care Financing Review, Winter 1994, Vol. 16, No. 2, p. 45).

Section 301(e) of the Medicare, Medicaid, and SCHIP Benefits Improvement and Protection Act of 2000 Public Law 106-554 authorized the Secretary to make such a prospective adjustment to the average standardized amounts for discharges occurring on or after October 1, 2001, to ensure the total payment impacts of changes to the DRGs do not result in any more or less total spending than would otherwise occur without the changes (budget neutrality).

Pending a decision whether to replace ICD-9-CM with another classification system, we are not proposing to proceed with implementing a refined DRG system at this time. The refined DRG system discussed in the 1994 Federal Register involved a complete and thorough assessment of all of the ICD-9-CM diagnosis codes in order to establish an illness severity level associated with each code. Rather than undertaking the time-consuming process of establishing illness severity levels for all ICD-9-CM codes at this time, we believe the more prudent course would be to delay this evaluation pending the potential replacement of ICD-9-CM. For example, the National Committee on Health and Vital Statistics (NCHVS) is considering making a recommendation to the Secretary on whether to recommend the adoption of ICD-10-CM and the ICD-10-Procedure Coding System (PCS) as the national uniform standard coding system for inpatient reporting.

In the meantime, we have undertaken an effort to identify groups of DRGs where a CC-split appears most justified. Our analysis identified existing DRGs that meet the following criteria: a reduction in variance in charges within the DRG of at least 4 percent; fewer than 75 percent of all patients in the current DRG would be assigned to the with-CC DRG; and the overall payment impact (higher payments for cases in the with-CC DRG offset by lower payments for cases in the without-CC DRG) is at least $40 million.

The following four DRGs meet these criteria: DRG 4 (Spinal Procedures) and DRG 5 (Extracranial Vascular Procedures) in MDC 1 (Diseases and Disorders of the Nervous System); DRG 231 (Local Excision and Removal of Internal Fixation Devices Except Hip and Femur) in MDC 8 (Diseases and Disorders of the Musculoskeletal and Connective Tissue); and DRG 400 (Lymphoma and Leukemia with Major O.R. Procedure) in MDC 17 (Myeloproliferative Diseases and Disorders and Poorly Differentiated Neoplasms).

The following data indicate that the presence or absence of a CC was found to have a significant impact on patient charges and average length of stays in these four DRGs.

DRG | Number of cases | Average charges | Average length of stay
DRG 4 (Current) | 4,488 | $35,074 | 7.3
With CC | 2,514 | 46,071 | 10.0
Without CC | 1,974 | 21,070 | 3.9
DRG 5 (Current) | 64,942 | 18,613 | 2.9
With CC | 29,296 | 23,213 | 4.1
Without CC | 35,646 | 14,833 | 2.0
DRG 231 (Current) | 8,971 | 20,147 | 4.9
With CC | 4,565 | 25,948 | 6.9
Without CC | 4,406 | 14,136 | 2.9
DRg 400 (Current) | 4,275 | 39,953 | 9.0
With CC | 2,990 | 49,044 | 11.2
Without CC | 1,285 | 18,799 | 4.0

Therefore, we are proposing to establish the following new DRGs: proposed DRG 531 (Spinal Procedures With CC) and proposed DRG 532 (Spinal Procedures Without CC) in MDC 1; proposed DRG 533 (Extracranial Vascular Procedures With CC) and proposed DRG 534 (Extracranial Vascular Procedures Without CC) in MDC 1; proposed DRG 537 (Local Excision and Removal of Internal Fixation Devices Except Hip and Femur With CC) and proposed DRG 538 (Local Excision and Removal of Internal Fixation Devices Except Hip and Femur Without CC) in MDC 8; and proposed DRG 539 (Lymphoma and Leukemia With Major O.R. Procedure With CC) and DRG 540 (Lymphoma and Leukemia With Major O.R. Procedure Without CC) in MDC 17. We are proposing that DRGs 4, 5, 231, and 400 would become invalid.

3. MDC 1 (Diseases and Disorders of the Nervous System)

a. Revisions of DRGs 1 and 2. In the FY 2003 IPPS final rule, we split DRGs 1 and 2 (Craniotomy Age >17 With and Without CC, respectively) based on the presence or absence of a CC (67 FR 49986). We have received several proposals related to devices or procedures that are used in a small subset of cases from these DRGs. These proposals argue that the current payment for these devices or procedures under DRGs 1 and 2 is inadequate.²

² We also examined the issue of treating brain tumors through the implantation of chemotherapy wafers. This analysis is discussed later in this preamble under section II.E.2.b. relative to the application for new technology add-on payments for the GLIADEL® Wafer.

Therefore, we undertook an analysis of the charges of various procedures and diagnoses within DRGs 1 and 2 to assess whether further changes to these DRGs may be warranted. Currently, the average charges for cases assigned to DRGs 1 and 2 are approximately $55,000 and $30,000, respectively. We are proposing to create two separate new DRGs for: Cases with an intracranial vascular procedure and a principal diagnosis of an intracranial hemorrhage; and craniotomy cases with a ventricular shunt procedure (absent another procedure). The former set of cases are much more expensive than those presently in DRGs 1 and 2; the latter set of cases are much less expensive.

(1) Intracranial Vascular Procedures

Our analysis indicated that patients with an intracranial vascular procedure and a principal diagnosis of an intracranial hemorrhage were significantly more costly than other cases in DRGs 1 and 2. These patients have an acute condition with a high severity of illness and risk of mortality. There were 917 cases in DRGs 1 and 2 with an intracranial vascular procedure and a principal diagnosis of hemorrhage with average charges of approximately $113,884, which are much higher than the average charges of DRGs 1 and 2 noted above.

We also found 890 cases that had an intracranial vascular procedure without a principal diagnosis of hemorrhage (for example, nonruptured aneurysms). These cases are generally less acutely ill than those involving ruptured aneurysms, and have a lower risk of mortality. Among these 890 cases, the average charges were approximately $52,756, which are much more similar to the average charges for all cases in DRGs 1 and 2.

Based on this analysis, we are proposing to create new DRG 528 (Intracranial Vascular Procedure With a Principal Diagnosis of Hemorrhage) for patients with an intracranial vascular procedure and an intracranial hemorrhage. We are proposing that cases involving intracranial vascular procedures without a principal diagnosis of hemorrhage would remain in DRGs 1 and 2.

Proposed new DRG 528 would have the following principal diagnoses:

• 094.87, Syphilitic ruptured cerebral aneurysm

• 430, Subarachnoid hemorrhage

• 431, Intracerebral hemorrhage

• 432.0, Nontraumatic extradural hemorrhage

• 432.1, Subdural hemorrhage

• 432.9, Unspecified intracranial hemorrhage

And operating room procedures:

• 02.13, Ligation of meningeal vessel

• 38.01, Incision of vessel, intracranial vessels

• 38.11, Endarterectomy, intracranial vessels

• 38.31, Resection of vessel with anastomosis, intracranial vessels

• 38.41, Resection of vessel with replacement, intracranial vessels

• 38.51, Ligation and stripping of varicose veins, intracranial vessels

• 38.61, Other excision of vessels, intracranial vessels

• 38.81, Other surgical occlusion of vessels, intracranial vessels

• 39.28, Extracranial-intracranial (EC-IC) vascular bypass

• 39.51, Clipping of aneurysm

• 39.52, Other repair of aneursym

• 39.53, Repair of arteriovenous fistula

• 39.72, Endovascular repair or occlusion of head and neck vessels

• 39.79, Other endovascular repair of aneurysm of other vessels

(2) Ventricular Shunt Procedures

We also found that craniotomy patients who had a ventricular shunt procedure (absent another procedure) were significantly less costly than other craniotomy patients in DRGs 1 and 2. Ventricular shunts are normally performed for draining intracranial fluid. A ventricular shunt is a less extensive procedure than the other intracranial procedures in DRGs 1 and 2. As a result, if a ventricular shunt is the only intracranial procedure performed, these cases will typically be less costly.

There were 4,373 cases in which only ventricular shunt procedures were performed. These cases had average charges of approximately $27,188. However, the presence or absence of a CC had a significant impact on patient charges and lengths of stay. There were 2,533 cases with CC, with average charges of approximately $33,907 and an average length of stay of 8.2 days. In contrast, there were 1,840 cases without CC, with average charges of approximately $17,939 and an average length of stay of 3.7 days.

Therefore, we are proposing to create two new DRGs, splitting on CC, for patients with only a vascular shunt procedure: proposed new DRG 529 (Ventricular Shunt Procedures With CC) and proposed new DRG 530 (Ventricular Shunt Procedures Without CC).

Proposed new DRG 529 would consist of any principal diagnosis in MDC 5, with the presence of a CC and one of the following operating room procedures:

• 02.31, Ventricular shunt to structure in head and neck

• 02.32, Ventricular shunt to circulatory system

• 02.33, Ventricular shunt to thoracic cavity

• 02.34, Ventricular shunt to abdominal cavity and organs

• 02.35, Ventricular shunt to urinary system

• 02.39, Other operations to establish drainage of ventricle

• 02.42, Replacement of ventricular shunt

• 02.43, Removal of ventricular shunt

Proposed new DRG 530 would consist of any principal diagnosis in MDC 5 with one of the operating room procedures listed above for the proposed new DRG 529, but without the presence of a CC.

b. DRG 23 (Nontraumatic Stupor and Coma). In DRG 23 (Nontraumatic Stupor and Coma), there are currently six principal diagnoses identified by the following ICD-9-CM diagnosis codes: 348.4, Compression of the brain; 348.5, Cerebral edema; 780.01, Coma; 780.02, Transient alteration of awareness; 780.03, Persistent vegetative state; and 780.09, Other alteration of consciousness. Code 780.02 is often used to describe the diagnosis of psychiatric patients rather than the diagnosis of patients with severe neurological disorders. The treatment plan for a patient with “transient alteration of awareness” is clinically very different from the treatment plan for a coma patient. Furthermore, many patients with this diagnosis are treated in psychiatric facilities rather than in acute care hospitals.

Although there are neurological patients who present with the complaint of “transient alteration of awareness,” the cause of this alteration of consciousness is commonly identified, and the principal diagnosis for the hospital admission is the etiology of the alteration of consciousness rather than the symptom itself. For the few remaining neurological patients for whom the cause is not identified and for whom code 780.02 is assigned as the principal diagnosis, we still believe that the care of these patients is different than the care of patients with coma or cerebral edema.

Because we believe the patients with a principal diagnosis of “transient alteration of consciousness” are more clinically related to the patients in DRG 429 (Organic Disturbances and Mental Retardation) in MDC 19 (Mental Diseases and Disorders), we are proposing that patients who are assigned a principal diagnosis of code 780.02 will be assigned to DRG 429 instead of DRG 23. DRG 429 also contains similar diagnoses, such as code 293.81, Organic delusional syndrome and code 293.82, Organic hallucinosis syndrome. We note that the charges for the patient cases in DRGs 23 and 429 are very similar ($11,559 and $11,713, respectively), so the proposed movement of code 780.02 from DRG 23 to DRG 429 would have minimal payment impact. Moving this diagnosis code would also consolidate diagnoses treated frequently in psychiatric hospitals in those DRGs that are likely to be a part of the upcoming proposed Medicare psychiatric facility PPS.

4. MDC 5 (Diseases and Disorders of the Circulatory System)

a. DRG 478 (Other Vascular Procedures With CC) and DRG 479 (Other Vascular Procedures Without CC)

Code 37.64 (Removal of heart assist system) in DRGs 478 and 479 describes the operative, as opposed to bedside, removal of a heart assist system. Based on comments we received suggesting that code 37.64 was inappropriately assigned to DRGs 478 and 479, we reviewed the MedPAR data for both DRGs 478 and 479 and DRG 110 (Major Cardiovascular Procedures With CC) and DRG 111 (Major Cardiovascular Procedures Without CC) to assess the appropriate assignment of code 37.64.

We found that there were only 17 cases of code 37.64 in DRGs 478 and 479, with an average length of stay of 14.1 days and average charges of $105,153. There were a total of 90,591 cases in DRGs 478 and 479 that did not contain code 37.64. These cases had an average length of stay of 6.6 days and average charges of $31,879. In DRGs 110 and 111, we found an average length of stay of 8.1 days, with average charges of $54,653.

We are proposing to remove code 37.64 from DRGs 478 and 479 and reassign it to DRGs 110 and 111. The surgical removal of a heart assist system is a major cardiovascular procedure and, therefore, more appropriately assigned to DRGs 110 and 111. Accordingly, we believe this DRG assignment for this procedure is more clinically and financially appropriate.

b. DRGs 514 (Cardiac Defibrillator Implant With Cardiac Catheterization) and 515 (Cardiac Defibrillator Implant Without Cardiac Catheterization)

(1) Cardiac Defibrillator Implant With Cardiac Catheterization With Acute Myocardial Infarction

We received a recommendation that we modify DRG 514 (Cardiac Defibrillator Implant With Cardiac Catheterization) and DRG 515 (Cardiac Defibrillator Implant Without Cardiac Catheterization) so that these DRGs are split based on the presence or absence of acute myocardial infarction, heart failure, or shock. We note that the increased cost of treating cardiac patients with acute myocardial infarction, heart failure, or shock is recognized in the payment logic for pacemaker implants (DRG 115 (Permanent Cardiac Pacemaker Implant With Acute Myocardial Infarction, Heart Failure or Shock, or AICD Lead or Generator) and DRG 116 (Other Permanent Cardiac Pacemaker Implant)).

We examined FY 2002 MedPAR data regarding the number of cases and the average charges for DRGs 514 and 515. The results of our examination are summarized in the following table.

DRG | Number of cases | Average charges | With AMI, heart failure, or shock count | Average charges
514 | 16,743 | $97,133 | 3,623 | $120,852
515 | 4,674 | 76,537 | 935 | 84,140

A cardiac catheterization is generally performed to establish the nature of the patient's cardiac problem and determine if implantation of a cardiac defibrillator is appropriate. Generally, the cardiac catheterization can be done on an outpatient basis. Patients who are admitted with acute myocardial infarction, heart failure, or shock and have a cardiac catheterization are generally acute patients who require emergency implantation of the defibrillator. Thus, there are very high costs associated with these patients.

We found that the average charges for patients with cardiac catheterizations who also had acute myocardial infarction, heart failure, or shock were $120,852, compared to the average charges for all DRG 514 cases of $97,133. Therefore, we are proposing to split DRG 514 and create a new DRG for patients receiving a cardiac defibrillator implant with cardiac catheterization and with acute myocardial infarction, heart failure, or shock.

Patients without cardiac catheterization generally have had the need for the defibrillator established on an outpatient basis prior to admission. We found 935 cases with acute myocardial infarction, heart failure, or shock, with average charges of $84,140. The average charges for all cases in DRG 515 were $76,537. Because of the relatively small number of patients and the less-than-10-percent charge difference for patients in DRG 515 who have acute myocardial infarction, heart failure, or shock, we are not proposing to create a separate DRG for patients with a cardiac defibrillator implant without cardiac catheterization with acute myocardial infarction, heart failure, or shock.

Specifically, we are proposing to create two new DRGs that would replace the current DRG 514. The two new DRGs would have the same procedures currently listed for DRG 514, but would be split based on the presence or absence of acute myocardial infarction, heart failure, or shock. The proposed new DRGs would be DRG 535 (Cardiac Defibrillator Implant With Cardiac Catheterization and With Acute Myocardial Infarction, Heart Failure, or Shock) and DRG 536 (Cardiac Defibrillator Implant With Cardiac Catheterization and Without Acute Myocardial Infarction, Heart Failure, or Shock). Proposed new DRG 536 would exclude the following principal diagnosis codes from MDC 5 associated with acute myocardial infarction, heart failure, or shock.

• 398.91, Rheumatic heart failure

• 402.01, Malignant hypertensive heart disease with heart failure

• 402.11, Benign hypertensive heart disease with heart failure

• 402.91, Hypertensive heart disease not otherwise specified with heart failure

• 404.01, Malignant hypertensive heart and renal disease with heart failure

• 404.03, Malignant hypertensive heart and renal disease with heart failure and renal failure

• 404.11, Benign hypertensive heart and renal disease with heart failure

• 404.13, Benign hypertensive heart and renal disease with heart failure and renal failure

• 404.91, Hypertensive heart and renal disease not otherwise specified with heart failure

• 404.93, Hypertensive heart and renal disease not otherwise specified with heart failure and renal failure

• 410.01, AMI anterolateral, initial

• 410.11, AMI anterior wall, initial

• 410.21, AMI inferolateral, initial

• 410.31, AMI inferopost, initial

• 410.41, AMI inferior wall, initial

• 410.51, AMI lateral not elsewhere classified, initial

• 410.61, True posterior infarction, initial

• 410.71, Subendocardial infarction, initial

• 410.81, AMI not elsewhere classified, initial

• 410.91, AMI not otherwise specified, initial

• 428.0, Congestive heart failure, not otherwise specified

• 428.1, Left heart failure

• 428.20, Systolic heart failure, not otherwise specified

• 428.21, Acute systolic heart failure

• 428.22, Chronic systolic heart failure

• 428.23, Acute on chronic systolic heart failure

• 428.30, Diastolic heart failure, not otherwise specified

• 428.31, Acute diastolic heart failure

• 428.32, Chronic diastolic heart failure

• 428.33, Acute on chronic diastolic heart failure

• 428.40, Combined systolic and diastolic heart failure not otherwise specified

• 428.41, Acquired combined systolic and diastolic heart failure

• 428.42, Chronic combined systolic and diastolic heart failure

• 428.43, Acute on chronic combined systolic and diastolic heart failure

• 428.9, Heart failure, not otherwise specified

• 785.50, Shock, not otherwise specified

• 785.51, Cardiogenic shock

(2) Cardiac Resynchronization Therapy (CRT)

We received a comment from a provider who pointed out that we did not include the following combination of codes under the list of procedure combinations that would lead to an assignment of DRG 514 or DRG 515:

• 39.75, Implantation of automatic cardioverter/defibrillator lead(s) only

• 00.54, Implantation or replacement of cardiac resynchronization defibrillator, pulse generator device only [CRT-D]

The commenter pointed out that cases are assigned to DRGS 514 and 515 when a total cardiodefibrillator or CRT-D system is implanted. In addition, cases are assigned to DRGs 514 and 515 when implantation of a variety of combinations of defibrillator leads and device combinations are reported. The commenter indicated that total defibrillator and CRT-D system may be replaced with completely new systems or all new devices and leads, and added that it is also possible to replace a generator, a lead, or a combination of generators and up to three leads.

When the CRT-D generator (code 00.54) and one of the cardioverter/defibrillator leads are replaced, the case currently is assigned to DRG 115 (Permanent Cardiac Pacemaker Implant with AMI, Heart Failure, or Shock or AICD Lead or Generator Procedure). The commenter recommended that we include the combination of codes 39.75 and 00.54 as a combination that would result in assignment to DRG 514 or DRG 515, as do other combinations of generators and leads. Our medical advisors agree with this recommendation. As discussed previously, we are proposing to delete DRG 514 and replace it with proposed new DRGs 535 and 536. Therefore, we are proposing to add codes 39.75 and 00.54 to the list of procedure combinations that would result in assignment to DRG 515 or new proposed DRGs 535 and 536.

5. MDC 8 (Diseases and Disorders of the Musculoskeletal System and Connective Tissue)

We received a comment that two codes for cervical fusion of the spine are not included within DRG 519 (Cervical Spinal Fusion With CC) and DRG 520 (Cervical Spinal Fusion Without CC). The two cervical fusion codes are:

• 81.01, Atlas-axis spinal fusion

• 81.31, Refusion of atlas-axis

The atlas-axis includes the first two vertebrae of the cervical spine (C1 and C2). These two cervical fusion codes are currently assigned to DRG 497 (Spinal Fusion Except Cervical With CC) and DRG 498 (Spinal Fusion Except Cervical Without CC). Because codes 81.01 and 81.31 involve the cervical spine, we are proposing to remove these codes from DRGs 497 and 498 and reassign them to DRGs 519 and 520.

6. MDC 15 (Newborns and Other Neonates With Conditions Originating in the Perinatal Period)

a. Nonneonate Diagnoses. As indicated earlier, ICD-9-CM diagnosis codes are assigned to MDCs based on 25 groupings corresponding to a single organ system or etiology and, in general, are associated with a particular medical specialty. MDC 15 is comprised of diagnoses that relate to newborns and other neonates with conditions originating in the perinatal period. Some of the codes included in MDC 15 consist of conditions that originate in the neonatal period but can persist throughout life. These conditions are referred to as congenital anomalies. When an older (not neonate) population is treated for a congenital anomaly, DRG assignment problems can arise. For instance, if a patient is over 65 years old and is admitted with a congenital anomaly, it is not appropriate to assign the patient to a newborn DRG. This situation occurs when a congenital anomaly code is classified within MDC 15.

We have received a recommendation to move the following congenital anomaly codes from MDC 15 and reassign them to other appropriate MDCs based on the body system being treated:

• 758.9, Chromosome anomaly, not otherwise specified

• 759.4, Conjoined twins

• 759.7, Multiple congenital anomalies, not elsewhere classified

• 759.81, Prader-Willi syndrome

• 759.83, Fragile X syndrome

• 759.89, Specified congenital anomalies, not elsewhere classified

• 759.9, Congenital anomaly, not otherwise specified

• 779.7, Periventricular leukomalacia

• 795.2, Abnormal chromosomal analysis

Each of the congenital anomaly diagnosis codes recommended for reassignment represents a condition that is frequently addressed beyond the neonatal period. In addition, the assignment of these congenital anomaly codes as principal diagnosis currently results in assignment to MDC 15.

We have evaluated the recommendation and agree that each of the identified codes represents a condition that is frequently addressed beyond the neonate period and should therefore be removed from the list of principal diagnoses that result in assignment to MDC 15. Therefore, we are proposing to change the MDC and DRG assignments of the congenital anomaly codes as specified in the following table. The table shows the principal diagnosis code for the congenital anomaly and the proposed MDC and DRG to which the code would be assigned.

Principal diagnosis code in MDC 15 | Code title | Proposed MDC assignment | Proposed DRG assignment
758.9 | Chromosome anomaly, not otherwise specified | 23 | 467 (Other Factors Influencing Health Status).
759.4 | Conjoined twins | 6 | 188, 189, and 190 (Other Digestive System Diagnoses, Age >17 with CC, Age >17 without CC, and Age 0-17, respectively).
759.7 | Multiple congenital anomalies, not elsewhere classified | 8 | 256 (Other Musculoskeletal System and Connective Tissue Diagnoses).
759.81 | Prader-Willi syndrome | 8 | 256 (Other Musculoskeletal System and Connective Tissue Diagnoses).
759.83 | Fragile X syndrome | 19 | 429 (Organic Disturbances and Mental Retardation).
759.89 | Specified congenital anomalies, not elsewhere classified | 8 | 256 (Other Musculoskeletal System and Connective Tissue Diagnoses).
759.9 | Congenital anomaly, not otherwise specified | 23 | 467 (Other Factors Influencing Health Status).
779.7 | Periventricular leukomalacia | 1 | 34 and 35 (Other Disorders of Nervous System with CC, and without CC, respectively).
795.2 | Abnormal chromosomal analysis | 23 | 467 (Other Factors Influencing Health Status).

b. Heart Failure Codes for Newborns and Neonates. Under MDC 15, cases of newborns and neonates with major problems may be assigned to DRG 387 (Prematurity With Major Problems) or DRG 389 (Full-Term Neonate With Major Problems). Existing DRG 387 has three components: (1) Principal or secondary diagnosis of prematurity; (2) principal or secondary diagnosis of major problem (these are the diagnoses that define MDC 15); or (3) secondary diagnosis of major problem (these are diagnoses that do not define MDC 15, so they will only be secondary diagnosis codes for patients assigned to MDC 15). To be assigned to DRG 389, the neonate must have one of the principal or secondary diagnoses listed under the DRG.

We have received correspondence suggesting that the following diagnosis codes for heart failure, which are currently in MDC 5, be added to the list of major problems for neonates under MDC 15.

Diagnosis code | Title
428.20 | Systolic heart failure, not otherwise specified.
428.21 | Acute systolic heart failure.
428.22 | Chronic systolic heart failure.
428.23 | Acute on chronic systolic heart failure.
428.30 | Diastolic heart failure, not otherwise specified.
428.31 | Acute diastolic heart failure.
428.32 | Chronic diastolic heart failure.
428.33 | Acute on chronic diastolic heart failure.
428.40 | Systolic/diastolic heart failure, not otherwise specified.
428.41 | Acute systolic/diastolic heart failure.
428.42 | Chronic systolic/diastolic heart failure.
428.43 | Acute on chronic systolic/diastolic heart failure.

These heart failure-related diagnosis codes were new codes as of October 1, 2002. They were an expansion of the previous 4-digit codes for heart failure and provided additional detail about the specific type of heart failure. The other codes for heart failure that existed prior to October 1, 2002, are classified as major problems within MDC 15 and are currently assigned to DRGs 387 and DRG 389.

We agree that diagnosis codes 428.20 through 428.43 listed in the chart above should be included as principal diagnosis of major problem codes within MDC 15 and, therefore, are proposing to add them to DRG 387 and 389.

7. MDC 17 (Myeloproliferative Diseases and Disorders and Poorly Differentiated Neoplasms)

High-dose Interleukin-2 (IL-2) Chemotherapy is a hospital inpatient-based regimen requiring administration by experienced oncology professionals. It is used for the treatment of patients with advanced renal cell cancer and advanced melanoma. Unlike traditional cytotoxic chemotherapies that attack cancer cells themselves, Interleukin-2 is designed to enhance the body's defenses by mimicking the way natural IL-2 activates the immune system and stimulates the growth and activity of cancer-killing cells. The IL-2 product on the market was approved for use by the Food and Drug Administration (FDA) in 1992.

High-dose IL-2 therapy is performed only in very specialized treatment settings, such as an intensive care unit or a bone marrow transplant unit. This therapy requires oversight by oncology health care professionals experienced in the administration and management of patients undergoing this intensive treatment because of the severity of the side effects. Unlike most cancer therapies, high-dose IL-2 therapy is associated with predictable toxicities that require extensive monitoring. Often patients require one-on-one nursing or physician care for extended portions of their stay.

High-dose IL-2 therapy is significantly different from conventional chemotherapy in terms of the resources required to administer it. Conventional chemotherapy may be given to patients either on an outpatient basis or through a series of short (that is, 1 to 3 day) inpatient stays.

High-dose IL-2 therapy is given during two separate hospital admissions. For the first cycle, the IL-2 is administered every 8 hours over 5 days. Patients are then discharged to rest at home for several days and then are admitted for the second cycle of therapy, in which the same regimen and dosing is repeated. The two cycles complete the first course of high-dose IL-2 therapy. This regimen may be repeated at 8 to 12 weeks if the patient is responding. The maximum number of courses for any one patient is predicted to be five courses.

Not all patients with end-stage renal cell carcinoma or end-stage melanoma are appropriate candidates for high-dose IL-2 chemotherapy. It is estimated that there are between 15,000 and 20,000 patients in the United States who have one of these two types of cancer. However, only 20 percent of those patients will be appropriate candidates for the rigors of the treatment regimen. It is further estimated that, annually, approximately 1,300 of these patients will be Medicare beneficiaries. However, allegedly due to the level of payment for the DRGs to which these cases are currently assigned, we have been informed by industry sources that only between 100 and 200 Medicare patients receive the treatment each year. According to these industry sources, several treatment centers have had to discontinue their high-dose IL-2 therapy programs for end-stage renal cell carcinoma or end-stage melanoma because of the low Medicare payment.

According to industry sources, the wholesale cost of IL-2 is approximately $700 per vial. Dosages range between 15 and 20 vials per treatment, or between $10,500 and $14,000 per patient, per cycle, for the cost of the IL-2 drug alone. There is no ICD-9-CM procedure code that currently identifies patients receiving this therapy. Therefore, it is not possible to identify directly these cases in the MedPAR data. Currently, this therapy is coded using the more general ICD-9-CM code 99.28 (Injection or infusion of biologic response modifier). When we addressed this issue previously in the August 1, 2000 IPPS final rule (65 FR 47067) by examining cases for which procedure code 99.28 was present, our analysis was inconclusive due to the wide range of cases identified (1,179 cases across in 136 DRGs). However, recent data collected by the industry on 30 Medicare beneficiaries who received high-dose IL-2 therapy during FY 2002 show average charges for these cases of approximately $54,000.

Depending on the principal diagnosis reported, patients receiving high-dose IL-2 therapy may be assigned to one of the following five DRGs: DRG 272 (Major Skin Disorder With CC) and DRG 273 (Major Skin Disorder Without CC) in MDC 9; DRG 318 (Kidney and Urinary Tract Neoplasms With CC) and DRG 319 (Kidney and Urinary Tract Neoplasms Without CC) in MDC 11; and DRG 410 (Chemotherapy Without Leukemia as Secondary Diagnosis) in MDC 17. The following table illustrates the average charges for patients in these DRGs.

DRG | Average charges
272 | $14,997
273 | 9,128
318 | 16,892
319 | 9,583
410 | 16,103

Because of the need to identify the subset of patients receiving this type of treatment, the ICD-9-CM Coordination and Maintenance Committee determined, based on its consideration at the December 6, 2002 public meeting, that a new code for high-dose IL-2 therapy was warranted. Therefore, a new code has been created in the 00 Chapter of ICD-9-CM (Procedures and Interventions, Not Elsewhere Classified), in category 00.1 (Pharmaceuticals) at 00.15 (High-dose infusion Interleukin-2 (IL-2)), effective October 1, 2003.

We believe patients receiving high-dose IL-2 therapy are clinically similar to other cases currently assigned to DRG 492 (Chemotherapy With Acute Leukemia as Secondary Diagnosis) in MDC 17. The average charge for patients currently assigned to DRG 492 is $55,581. Currently, DRG 492 requires one of the following two principal diagnoses:

• V58.1, Encounter for chemotherapy

• V67.2, Followup examination following chemotherapy

• And one of the following secondary diagnoses:

• 204.00, Acute lymphoid leukemia without mention of remission

• 204.01, Acute lymphoid leukemia with remission

• 205.00, Acute myeloid leukemia without mention of remission

• 205.01, Acute myeloid leukemia with remission

• 206.00, Acute monocytic leukemia without mention of remission

• 206.01, Acute monocytic leukemia with remission

• 207.00, Acute erythremia and erythroleukemia without mention of remission

• 207.01, Acute erythremia and erythroleukemia with remission

• 208.00, Acute leukemia of unspecified cell type without mention of remission

• 208.01, Acute leukemia of unspecified cell type without mention of remission

We are proposing to modify DRG 492 by adding new procedure code 00.15 to the logic. Assignment to this DRG would require the same two V-code principal diagnosis codes as listed above (V58.1 and V67.2), but would require either one of the leukemia codes listed as a secondary diagnosis, or would require the procedure code 00.15. In addition, we are proposing to change the title of DRG 492 to “Chemotherapy With Acute Leukemia or With Use of High Dose Chemotherapy Agent”.

We will monitor cases with procedure code 00.15 as these data become available, and consider potential further refinements to DRG 492 as necessary.

8. MDC 23 (Factors Influencing Health Status and Other Contacts With Health Services)

a. Implantable Devices. We received a comment regarding three ICD-9-CM diagnosis codes that are currently assigned to MDC 23: V53.01 (Fitting and adjustment of cerebral ventricular (communicating) shunt); V53.02 (Neuropacemaker (brain) (peripheral nerve) (spinal cord)); and V53.09 (Fitting and adjustment of other devices related to nervous system and special senses). The commenter suggested that we move these three codes from MDC 23 to MDC 1 (Diseases and Disorders of the Nervous System) because these codes are used as the principal diagnosis for admissions involving removal, replacement, and reprogramming of devices such as cerebral ventricular shunts, neurostimulators, intrathecal infusion pumps and thalamic stimulators.

Currently, if these diagnosis codes are reported alone without an O.R. procedure, the case would be assigned to DRG 467 (Other Factors Influencing Health Status). However, if an O.R. procedure is reported with the principal diagnosis of V53.01, V53.02, or V53.09, the case would be assigned to DRG 461 (O.R. Procedure with Diagnoses of Other Contact with Health Services).

In our analysis of the MedPAR data, we found 30 cases assigned to DRG 467 and 179 cases assigned to DRG 461 with one of these codes as principal diagnosis. We found that the procedures reported with one of these diagnosis codes were procedures in MDC 1. The most frequent procedure was 86.06 (Insertion of totally implantable infusion pump).

Because the procedures that are routinely used with these codes are in MDC 1, it would be appropriate to assign these diagnosis codes to MDC 1. As the commenter also stated, this assignment would be consistent with how fitting and adjustments of devices are handled within other MDCs, such as in MDC 5 (Disease and Disorders of the Circulatory System) and MDC 11 (Diseases and Disorders of the Kidney and Urinary Tract). Diagnosis codes V53.31 (Cardiac pacemaker), V53.32 (Automatic implantable cardiac defibrillator), and V53.39 (Other cardiac device) are used for fitting and adjustment of cardiac devices and are assigned to MDC 5. Diagnosis code V53.6 (Urinary devices) is used for fitting and adjustment of urinary devices and is assigned to MDC 11.

Therefore, we are proposing to move V53.01, V53.02, and V53.09 from MDC 23 to MDC 1 when an O.R. procedure is performed. If no O.R. procedure is performed, these diagnosis codes would be assigned to DRG 34 (Other Disorders of Nervous System With CC) or DRG 35 (Other Disorders of Nervous System Without CC). If an O.R. procedure is performed on a patient assigned with one of these codes as the principal diagnosis, the case would be assigned to the DRG in MDC 1 to which the O.R. procedure is assigned.

b. Malignancy Codes. We received correspondence that indicated that when we recognized code V10.48 (History of malignancy, epididymis) as a new code for FY 2002, we did not include the code as a history of malignancy code in DRG 465 (Aftercare with History of Malignancy as Secondary Diagnosis). All other history of malignancy codes were included in DRG 465.

We agree that code V10.48 should have been included in the list of history of malignancy codes within DRG 465 and, therefore, are proposing to add it to the list of secondary diagnoses in DRG 465.

9. Medicare Code Editor (MCE) Change

As explained under section II.B.1. of this preamble, the MCE is a software program that detects and reports errors in the coding of Medicare claims data.

We received a request to examine the MCE edit “Adult Diagnosis—Age Greater than 14” because currently the edit rejects claims for patients under age 15 who are being treated for gall bladder disease. We reviewed this issue with our pediatric consultants and determined that, although incidence is rare, gallbladder disease does occur in patients under age 15. Therefore, we are proposing to modify the MCE by removing the following codes from the edit “Adult Diagnosis—Age Greater Than 14”:

• 574.00, Calculus of gallbladder with acute cholecystitis without mention of obstruction

• 574.01, Calculus of gallbladder with acute cholecystitis with obstruction

• 574.10, Calculus of gallbladder with other cholecystitis without mention of obstruction

• 574.11, Calculus of gallbladder with other cholecystitis with obstruction

• 574.20, Calculus of gallbladder without mention of cholecystitis without mention of obstruction

• 574.21, Calculus of gallbladder without mention of cholecystitis with obstruction

• 574.30, Calculus of bile duct with acute cholecystitis without mention of obstruction

• 574.31, Calculus of bile duct with acute cholecystitis with obstruction

• 574.40, Calculus of bile duct with other cholecystitis without mention of obstruction

• 574.41, Calculus of bile duct with other cholecystitis with obstruction

• 574.50, Calculus of bile duct without mention of cholecystitis without mention of obstruction

• 574.51, Calculus of bile duct without mention of cholecystitis with obstruction

• 574.60, Calculus of gallbladder and bile duct with acute cholecystitis without mention of obstruction

• 574.61, Calculus of gallbladder and bile duct with acute cholecystitis with obstruction)

• 574.70, Calculus of gallbladder and bile duct with other cholecystitis without mention of obstruction

• 574.71, Calculus of gallbladder and bile duct with other cholecystitis with obstruction

• 574.80, Calculus of gallbladder and bile duct with acute and chronic cholecystitis without mention of obstruction

• 574.81, Calculus of gallbladder and bile duct with acute and chronic cholecystitis with obstruction

• 574.90, Calculus of gallbladder and bile duct without cholecystitis without mention of obstruction

• 574.90, Calculus of gallbladder and bile duct without cholecystitis with obstruction

• 575.0, Acute cholecystitis

• 575.10, Cholecystitis, not otherwise specified

• 575.11, Chronic cholecystitis

• 575.12, Acute and chronic cholecystitis

• 575.2, Obstruction of gallbladder

• 575.3, Hydrops of gallbladder

• 576.0, Postcholecystectomy syndrome

• 577.1, Chronic pancreatitis

10. Surgical Hierarchies

Some inpatient stays entail multiple surgical procedures, each one of which, occurring by itself, could result in assignment of the case to a different DRG within the MDC to which the principal diagnosis is assigned. Therefore, it is necessary to have a decision rule within the GROUPER by which these cases are assigned to a single DRG. The surgical hierarchy, an ordering of surgical classes from most resource-intensive to least resource-intensive, performs that function. Application of this hierarchy ensures that cases involving multiple surgical procedures are assigned to the DRG associated with the most resource-intensive surgical class.

Because the relative resource intensity of surgical classes can shift as a function of DRG reclassification and recalibrations, we reviewed the surgical hierarchy of each MDC, as we have for previous reclassifications and recalibrations, to determine if the ordering of classes coincides with the intensity of resource utilization.

A surgical class can be composed of one or more DRGs. For example, in MDC 11, the surgical class “kidney transplant” consists of a single DRG (DRG 302) and the class “kidney, ureter and major bladder procedures” consists of three DRGs (DRGs 303, 304, and 305). Consequently, in many cases, the surgical hierarchy has an impact on more than one DRG. The methodology for determining the most resource-intensive surgical class involves weighting the average resources for each DRG by frequency to determine the weighted average resources for each surgical class. For example, assume surgical class A includes DRGs 1 and 2 and surgical class B includes DRGs 3, 4, and 5. Assume also that the average charge of DRG 1 is higher than that of DRG 3, but the average charges of DRGs 4 and 5 are higher than the average charge of DRG 2. To determine whether surgical class A should be higher or lower than surgical class B in the surgical hierarchy, we would weight the average charge of each DRG in the class by frequency (that is, by the number of cases in the DRG) to determine average resource consumption for the surgical class. The surgical classes would then be ordered from the class with the highest average resource utilization to that with the lowest, with the exception of “other O.R. procedures” as discussed below.

This methodology may occasionally result in assignment of a case involving multiple procedures to the lower-weighted DRG (in the highest, most resource-intensive surgical class) of the available alternatives. However, given that the logic underlying the surgical hierarchy provides that the GROUPER search for the procedure in the most resource-intensive surgical class, this result is unavoidable.

We note that, notwithstanding the foregoing discussion, there are a few instances when a surgical class with a lower average charge is ordered above a surgical class with a higher average charge. For example, the “other O.R. procedures” surgical class is uniformly ordered last in the surgical hierarchy of each MDC in which it occurs, regardless of the fact that the average charge for the DRG or DRGs in that surgical class may be higher than that for other surgical classes in the MDC. The “other O.R. procedures” class is a group of procedures that are only infrequently related to the diagnoses in the MDC but are still occasionally performed on patients in the MDC with these diagnoses. Therefore, assignment to these surgical classes should only occur if no other surgical class more closely related to the diagnoses in the MDC is appropriate.

A second example occurs when the difference between the average charges for two surgical classes is very small. We have found that small differences generally do not warrant reordering of the hierarchy because, as a result of reassigning cases on the basis of the hierarchy change, the average charges are likely to shift such that the higher-ordered surgical class has a lower average charge than the class ordered below it.

Based on the preliminary recalibration of the DRGs, we are proposing modifications of the surgical hierarchy as set forth below.

At this time, we are proposing to revise the surgical hierarchy for the pre-MDC DRGs, MDC 1 (Diseases and Disorders of the Nervous System), MDC 5 (Diseases and Disorders of the Circulatory System), MDC 8 (Diseases and Disorders of the Musculoskeletal System and Connective Tissue), and MDC 17 (Myeloproliferative Disease and Disorders, Poorly Differentiated Neoplasms for Lymphoma and Leukemia) as follows:

• In the pre-MDC DRGs, we are proposing to reorder DRG 513 (Pancreas Transplant) above DRG 512 (Simultaneous Pancreas/Kidney Transplant).

• In MDC 1, we are proposing to reorder DRG 3 (Craniotomy Age 0-17) above DRG 528 (Intracranial Vascular Procedures with Principal Diagnosis Hemorrhage); DRG 528 above DRGs 1 and 2 (Craniotomy Age >17 With and Without CC, respectively); DRGs 1 and 2 above DRGs 529 and 530 (Ventricular Shunt Procedures With and Without CC, respectively); DRGs 529 and 530 above DRGs 531 and 532 (Spinal Procedures With and Without CC, respectively); DRGs 531 and 532 above DRGs 533 and 534 (Extracranial Procedures With and Without CC, respectively); and DRGs 533 and 534 above DRG 6 (Carpal Tunnel Release).

• In MDC 5, we are proposing to reorder DRG 535 (Cardiac Defibrillator Implant With Cardiac Catheterization With AMI, Heart Failure, or Shock) above DRG 536 (Cardiac Defibrillator Implant With Cardiac Catheterization Without AMI, Heart Failure, or Shock), and DRG 536 above DRG 515 (Cardiac Defibrillator Implant Without Cardiac Catheterization).

• In MDC 8, we are proposing to reorder DRGs 537 and 538 (Local Excision and Removal of Internal Fixation Devices Except Hip and Femur With and Without CC, respectively) above DRG 230 (Local Excision and Removal of Internal Fixation Devices of Hip and Femur).

• In MDC 17, we are proposing to reorder DRGs 539 and 540 (Lymphoma and Leukemia With Major O.R. Procedure With and Without CC, respectively) above DRGs 401 and 402 (Lymphoma and Non-Acute Leukemia With Other O.R. Procedures With and Without CC, respectively).

11. Refinement of Complications and Comorbidities (CC) List

In the September 1, 1987 final notice (52 FR 33143) concerning changes to the DRG classification system, we modified the GROUPER logic so that certain diagnoses included on the standard list of CCs would not be considered valid CCs in combination with a particular principal diagnosis. Thus, we created the CC Exclusions List. We made these changes for the following reasons: (1) To preclude coding of CCs for closely related conditions; (2) to preclude duplicative coding or inconsistent coding from being treated as CCs; and (3) to ensure that cases are appropriately classified between the complicated and uncomplicated DRGs in a pair. We developed this standard list of diagnoses, using physician panels, to include those diagnoses that, when present as a secondary condition, would be considered a substantial complication or comorbidity. In previous years, we have made changes to the standard list of CCs, either by adding new CCs or deleting CCs already on the list. At this time, we are not proposing to delete any of the diagnosis codes on the CC list.

In the May 19, 1987 proposed notice (52 FR 18877) concerning changes to the DRG classification system, we explained that the excluded secondary diagnoses were established using the following five principles:

• Chronic and acute manifestations of the same condition should not be considered CCs for one another (as subsequently corrected in the September 1, 1987 final notice (52 FR 33154)).

• Specific and nonspecific (that is, not otherwise specified (NOS)) diagnosis codes for the same condition should not be considered CCs for one another.

• Codes for the same condition that cannot coexist, such as partial/total, unilateral/bilateral, obstructed/unobstructed, and benign/malignant, should not be considered CCs for one another.

• Codes for the same condition in anatomically proximal sites should not be considered CCs for one another.

• Closely related conditions should not be considered CCs for one another.

The creation of the CC Exclusions List was a major project involving hundreds of codes. The FY 1988 revisions were intended only as a first step toward refinement of the CC list in that the criteria used for eliminating certain diagnoses from consideration as CCs were intended to identify only the most obvious diagnoses that should not be considered CCs of another diagnosis. For that reason, and in light of comments and questions on the CC list, we have continued to review the remaining CCs to identify additional exclusions and to remove diagnoses from the master list that have been shown not to meet the definition of a CC. (See the September 30, 1988 final rule (53 FR 38485) for the revision made for the discharges occurring in FY 1989; the September 1, 1989 final rule (54 FR 36552) for the FY 1990 revision; the September 4, 1990 final rule (55 FR 36126) for the FY 1991 revision; the August 30, 1991 final rule (56 FR 43209) for the FY 1992 revision; the September 1, 1992 final rule (57 FR 39753) for the FY 1993 revision; the September 1, 1993 final rule (58 FR 46278) for the FY 1994 revisions; the September 1, 1994 final rule (59 FR 45334) for the FY 1995 revisions; the September 1, 1995 final rule (60 FR 45782) for the FY 1996 revisions; the August 30, 1996 final rule (61 FR 46171) for the FY 1997 revisions; the August 29, 1997 final rule (62 FR 45966) for the FY 1998 revisions; the July 31, 1998 final rule (63 FR 40954) for the FY 1999 revisions, the August 1, 2000 final rule (65 FR 47064) for the FY 2001 revisions; the August 1, 2001 final rule (66 FR 39851) for the FY 2002 revisions; and the August 1, 2002 final rule (67 FR 49998) for the FY 2003 revisions.) In the July 30, 1999 final rule (64 FR 41490), we did not modify the CC Exclusions List for FY 2000 because we did not make any changes to the ICD-9-CM codes for FY 2000.

We are proposing a limited revision of the CC Exclusions List to take into account the proposed changes that will be made in the ICD-9-CM diagnosis coding system effective October 1, 2003. (See section II.B.13. of this preamble for a discussion of ICD-9-CM changes.) These proposed changes are being made in accordance with the principles established when we created the CC Exclusions List in 1987.

Tables 6G and 6H in the Addendum to this proposed rule contain the revisions to the CC Exclusions List that would be effective for discharges occurring on or after October 1, 2003. Each table shows the principal diagnoses with changes to the excluded CCs. Each of these principal diagnoses is shown with an asterisk, and the additions or deletions to the CC Exclusions List are provided in an indented column immediately following the affected principal diagnosis.

CCs that are added to the list are in Table 6G—Additions to the CC Exclusions List. Beginning with discharges on or after October 1, 2003, the indented diagnoses would not be recognized by the GROUPER as valid CCs for the asterisked principal diagnosis.

CCs that are deleted from the list are in Table 6H—Deletions from the CC Exclusions List. Beginning with discharges on or after October 1, 2003, the indented diagnoses would be recognized by the GROUPER as valid CCs for the asterisked principal diagnosis.

Copies of the original CC Exclusions List applicable to FY 1988 can be obtained from the National Technical Information Service (NTIS) of the Department of Commerce. It is available in hard copy for $133.00 plus shipping and handling. A request for the FY 1988 CC Exclusions List (which should include the identification accession number (PB) 88-133970) should be made to the following address: National Technical Information Service, United States Department of Commerce, 5285 Port Royal Road, Springfield, VA 2216l; or by calling (800) 553-6847.

Users should be aware of the fact that all revisions to the CC Exclusions List (FYs 1989, 1990, 1991, 1992, 1993, 1994, 1995, 1996, 1997, 1998, 1999, 2000, 2002, and 2003) and those in Tables 6G and 6H of the final rule for FY 2004 must be incorporated into the list purchased from NTIS in order to obtain the CC Exclusions List applicable for discharges occurring on or after October 1, 2003. (Note: There was no CC Exclusions List in FY 2001 because we did not make changes to the ICD-9-CM codes for FY 2001.)

Alternatively, the complete documentation of the GROUPER logic, including the current CC Exclusions List, is available from 3M/Health Information Systems (HIS), which, under contract with CMS, is responsible for updating and maintaining the GROUPER program. The current DRG Definitions Manual, Version 20.0, is available for $225.00, which includes $15.00 for shipping and handling. Version 21.0 of this manual, which includes the final FY 2003 DRG changes, is available for $225.00. These manuals may be obtained by writing 3M/HIS at the following address: 100 Barnes Road, Wallingford, CT 06492; or by calling (203) 949-0303. Please specify the revision or revisions requested.

12. Review of Procedure Codes in DRGs 468, 476, and 477

Each year, we review cases assigned to DRG 468 (Extensive O.R. Procedure Unrelated to Principal Diagnosis), DRG 476 (Prostatic O.R. Procedure Unrelated to Principal Diagnosis), and DRG 477 (Nonextensive O.R. Procedure Unrelated to Principal Diagnosis) to determine whether it would be appropriate to change the procedures assigned among these DRGs.

DRGs 468, 476, and 477 are reserved for those cases in which none of the O.R. procedures performed are related to the principal diagnosis. These DRGs are intended to capture atypical cases, that is, those cases not occurring with sufficient frequency to represent a distinct, recognizable clinical group. DRG 476 is assigned to those discharges in which one or more of the following prostatic procedures are performed and are unrelated to the principal diagnosis:

• 60.0, Incision of prostate

• 60.12, Open biopsy of prostate

• 60.15, Biopsy of periprostatic tissue

• 60.18, Other diagnostic procedures on prostate and periprostatic tissue

• 60.21, Transurethral prostatectomy

• 60.29, Other transurethral prostatectomy

• 60.61, Local excision of lesion of prostate

• 60.69, Prostatectomy, not elsewhere classified

• 60.81, Incision of periprostatic tissue

• 60.82, Excision of periprostatic tissue

• 60.93, Repair of prostate

• 60.94, Control of (postoperative) hemorrhage of prostate

• 60.95, Transurethral balloon dilation of the prostatic urethra

• 60.99, Other operations on prostate

All remaining O.R. procedures are assigned to DRGs 468 and 477, with DRG 477 assigned to those discharges in which the only procedures performed are nonextensive procedures that are unrelated to the principal diagnosis. The original list of the ICD-9-CM procedure codes for the procedures we consider nonextensive procedures, if performed with an unrelated principal diagnosis, was published in Table 6C in section IV. of the Addendum to the September 30, 1988 final rule (53 FR 38591). As part of the final rules published on September 4, 1990 (55 FR 36135), August 30, 1991 (56 FR 43212), September 1, 1992 (57 FR 23625), September 1, 1993 (58 FR 46279), September 1, 1994 (59 FR 45336), September 1, 1995 (60 FR 45783), August 30, 1996 (61 FR 46173), and August 29, 1997 (62 FR 45981), we moved several other procedures from DRG 468 to 477, and some procedures from DRG 477 to 468. No procedures were moved in FY 1999, as noted in the July 31, 1998 final rule (63 FR 40962); in FY 2000, as noted in the July 30, 1999 final rule (64 FR 41496); in FY 2001, as noted in the August 1, 2000 final rule (65 FR 47064); or in FY 2002, as noted in the August 1, 2001 final rule (66 FR 39852).

In the August 1, 2002 final rule (67 FR 49999), we did not move any procedures from DRG 477. However, we did move procedures codes from DRG 468 and placed them in more clinically coherent DRGs.

a. Moving Procedure Codes from DRG 468 or DRG 477 to MDCs. We annually conduct a review of procedures producing assignment to DRG 468 or DRG 477 on the basis of volume, by procedure, to see if it would be appropriate to move procedure codes out of these DRGs into one of the surgical DRGs for the MDC into which the principal diagnosis falls. The data are arrayed two ways for comparison purposes. We look at a frequency count of each major operative procedure code. We also compare procedures across MDCs by volume of procedure codes within each MDC.

We identify those procedures occurring in conjunction with certain principal diagnoses with sufficient frequency to justify adding them to one of the surgical DRGs for the MDC in which the diagnosis falls. Based on this year's review, we did not identify any necessary changes in procedures under DRG 477. Therefore, we are not proposing to move any procedures from DRG 477 to one of the surgical DRGs.

However, we have identified a necessary proposed change under DRG 468 relating to code 50.29 (Other destruction of lesion of liver). We were contacted by a hospital about the fact that code 50.29 is not currently included in MDC 6 (Diseases and Disorders of the Digestive System). The hospital pointed out that it is not uncommon for patients to have procedures performed on the liver when they are admitted for a condition that is classified in MDC 6. For example, DRGs 170 and 171 (Other Digestive System O.R. Procedures With and Without CC, respectively) in MDC 6 currently include liver procedures such as biopsy of the liver. The hospital disagreed with the assignment of code 50.29 to DRG 468 when performed on a patient with a principal diagnosis in MDC 6. We believe that the commenter is correct and are proposing to assign code 50.29 to DRGs 170 and 171 in MDC 6.

b. Reassignment of Procedures among DRGs 468, 476, and 477. We also annually review the list of ICD-9-CM procedures that, when in combination with their principal diagnosis code, result in assignment to DRGs 468, 476, and 477, to ascertain if any of those procedures should be reassigned from one of these DRGs to another of these DRGs based on average charges and length of stay. We look at the data for trends such as shifts in treatment practice or reporting practice that would make the resulting DRG assignment illogical. If we find these shifts, we would propose moving cases to keep the DRGs clinically similar or to provide payment for the cases in a similar manner. Generally, we move only those procedures for which we have an adequate number of discharges to analyze the data. Based on our review this year, we are not proposing to move any procedures from DRG 468 to DRGs 476 or 477, from DRG 476 to DRGs 468 or 477, or from DRG 477 to DRGs 468 or 476.

c. Adding Diagnosis or Procedure Codes to MDCs. Based on our review this year, we are not proposing to add any diagnosis codes to MDCs.

However, we have identified several procedures that we propose to move from DRG 468 and add to DRGs 476 and 477 because the procedures are nonextensive:

• 38.21, Biopsy of blood vessel

• 77.42, Biopsy of scapula, clavicle and thorax [ribs and sternum]

• 77.43, Biopsy of radius and ulna

• 77.44, Biopsy of carpals and metacarpals

• 77.45, Biopsy of femur

• 77.46, Biopsy of patella

• 77.47, Biopsy of tibia and fibula

• 77.48, Biopsy of tarsals and metatarsals

• 77.49, Biopsy of other bones

• 92.27, Implantation or insertion of radioactive elements

13. Changes to the ICD-9-CM Coding System

As described in section II.B.1. of this preamble, the ICD-9-CM is a coding system that is used for the reporting of diagnoses and procedures performed on a patient. In September 1985, the ICD-9-CM Coordination and Maintenance Committee was formed. This is a Federal interdepartmental committee, co-chaired by the National Center for Health Statistics (NCHS) and CMS, charged with maintaining and updating the ICD-9-CM system. The Committee is jointly responsible for approving coding changes, and developing errata, addenda, and other modifications to the ICD-9-CM to reflect newly developed procedures and technologies and newly identified diseases. The Committee is also responsible for promoting the use of Federal and non-Federal educational programs and other communication techniques with a view toward standardizing coding applications and upgrading the quality of the classification system.

The ICD-9-CM Manual contains the list of valid diagnosis and procedure codes. (The ICD-9-CM Manual is available from the Government Printing Office on CD-ROM for $23.00 by calling (202) 512-1800.) The NCHS has lead responsibility for the ICD-9-CM diagnosis codes included in the Tabular List and Alphabetic Index for Diseases, while CMS has lead responsibility for the ICD-9-CM procedure codes included in the Tabular List and Alphabetic Index for Procedures.

The Committee encourages participation in the above process by health-related organizations. In this regard, the Committee holds public meetings for discussion of educational issues and proposed coding changes. These meetings provide an opportunity for representatives of recognized organizations in the coding field, such as the American Health Information Management Association (AHIMA), the American Hospital Association (AHA), and various physician specialty groups as well as physicians, medical record administrators, health information management professionals, and other members of the public, to contribute ideas on coding matters. After considering the opinions expressed at the public meetings and in writing, the Committee formulates recommendations, which then must be approved by the agencies.

The Committee presented proposals for coding changes for implementation in FY 2004 at a public meeting held on December 6, 2002, and finalized the coding changes after consideration of comments received at the meetings and in writing by January 10, 2003. Those coding changes are announced later in this section of the preamble. Copies of the Committee procedure minutes of the 2002 meetings can be obtained from the CMS home page at: http://www.cms.gov/paymentsystems/icd9/. The diagnosis minutes are found at: http://www.cdc.gov/nchs/icd9.htm. Paper copies of these minutes are no longer available and the mailing list has been discontinued.

The first of the 2003 public meetings was held on April 3, 2003. In the September 7, 2001 final rule implementing the IPPS new technology add-on payments (66 FR 46906), we indicated we would attempt to include all proposals discussed and approved at the April meeting as part of the code revisions effective the following October. Because this proposed rule is being published after the April meeting, we are able to include all new codes that were approved subsequent to that meeting in Table 6F of the Addendum to this proposed rule, including the DRG assignments.

For a report of procedure topics discussed at the April 2003 meeting, see the Summary Report at: http://www.cms.hhs.gov/paymentsystems/icd9/. For a report of the diagnosis topics discussed at the April 2003 meeting, see the Summary Report at: http:/www.cdc.gov/nchs/icd9.htm.

We encourage commenters to address suggestions on coding issues involving diagnosis codes to: Donna Pickett, Co-Chairperson; ICD-9-CM Coordination and Maintenance Committee; NCHS; Room 2404, 3311 Toledo Road, Hyattsville, MD 20782. Comments may be sent by E-mail to: dfp4@cdc.gov.

Questions and comments concerning the procedure codes should be addressed to: Patricia E. Brooks, Co-Chairperson; ICD-9-CM Coordination and Maintenance Committee; CMS, Center for Medicare Mangement, Hospital and Ambulatory Policy Group, Division of Acute Care; C4-08-06; 7500 Security Boulevard; Baltimore, MD 21244-1850. Comments may be sent by E-mail to: pbrooks@cms.hhs.gov.

The ICD-9-CM code changes that have been approved will become effective October 1, 2003. The new ICD-9-CM codes are listed, along with their DRG classifications, in Tables 6A and 6B (New Diagnosis Codes and New Procedure Codes, respectively) in the Addendum to this proposed rule. As we stated above, the code numbers and their titles were presented for public comment at the ICD-9-CM Coordination and Maintenance Committee meetings. Both oral and written comments were considered before the codes were approved. In this proposed rule, we are only soliciting comments on the proposed DRG classification of these new codes.

For codes that have been replaced by new or expanded codes, the corresponding new or expanded diagnosis codes are included in Table 6A. New procedure codes are shown in Table 6B. Diagnosis codes that have been replaced by expanded codes or other codes or have been deleted are in Table 6C (Invalid Diagnosis Codes). These invalid diagnosis codes will not be recognized by the GROUPER beginning with discharges occurring on or after October 1, 2003. Table 6D contains invalid procedure codes. Revisions to diagnosis code titles are in Table 6E (Revised Diagnosis Code Titles), which also includes the DRG assignments for these revised codes. Table 6F includes a revised procedure code title for FY 2003.

The Department of Health and Human Services has been actively working on the development of new coding systems to replace the ICD-9-CM. For example, the ICD-10-CM (for diagnoses) and the ICD-10-PCS (for procedures) were developed to replace ICD-9-CM. These efforts have become increasingly important because of the many problems with the ICD-9-CM, which was implemented 24 years ago.

Implementing ICD-10-PCS as a national standard was discussed at the December 6, 2002, ICD-9-CM Coordination and Maintenance Committee meeting. A complete report of the meeting, including examples of letters supporting and opposing ICD-10-PCS, can be found at the CMS web site: www.cms.hhs.gov/paymentsystems/icd9/. Also, the Secretary has asked the NCVHS to recommend whether or not the country should replace ICD-9-CM as a national coding standard with ICD-10-CM and ICD-10-PCS. A complete report on the activities of this committee can be found at: http://www.ncvhs.hhs.gov.

14. Other Issues

In addition to the specific topics discussed in section II.B.1. through 13. of this proposed rule, we considered a number of other DRG-related issues. Below is a summary of the issues that were addressed.

a. Cochlear Implants. Cochlear implants were first covered by Medicare in 1986 and were assigned to DRG 49 (Major Head and Neck Procedures) in MDC 3 (Diseases and Disorders of the Ear, Nose, Mouth, and Throat). This is the highest weighted surgical DRG in MDC 3. However, commenters have contended that this DRG is clinically and economically inappropriate and have requested a specific DRG for cochlear implants. The commenters contend that, like heart assist systems (we created a new DRG last year, DRG 525 (Heart Assist System Implant) in MDC 5), cochlear implants are low incidence procedures with disproportionately high costs compared to other procedures within DRG 49.

As we stated in the FY 2003 final rule in our discussion regarding the creation of DRG 525 (67 FR 49989), we found 185 heart assist system cases in DRG 104 (Cardiac Valve and Other Major Cardiothoracic Procedures with Cardiac Catheterization) and 90 cases in DRG 105 (Cardiac Valve and Other Major Cardiothoracic Procedures without Cardiac Catheterization). The average charges for these cases were approximately $36,000 and $85,000, higher than the average charges for cases in DRGS 104 and 105, respectively, but they represented only a small fraction of all cases in these DRGs (1.3 percent and 0.5 percent, respectively). Therefore, despite the drastically higher average charges for heart assist systems, the relative volume was insufficient to affect the DRG weight to any great degree.

In our analysis of the FY 2002 MedPAR file, we found 134 cochlear implant cases out of 1,637 cases assigned to DRG 49, which represent more than 8 percent of the total cases in DRG 49. Compared to the situation with the heart assist system implant cases in DRGs 104 and 105, cochlear implants do have a greater effect on the relative weight for DRG 49. Also, while average charges for cochlear implant cases are significantly more than other cases in DRG 49 (average charges for cochlear implant cases were $51,549 compared to $25,052 for noncochlear implant cases), this difference is much less than the $36,000 and $85,000 differences for heart assist systems cited above.

Although we are concerned about the disparity between the average costs and payments for cochlear implant patients, we also have concerns about establishing a separate DRG for these cases. Doing so could create an incentive for some of these procedures to be shifted from outpatient settings, where most are currently performed. Even among current cochlear implant cases, our analysis found the average length of stay for Medicare patients receiving this procedure in the inpatient setting was just over 1 day, indicating minimal inpatient care is necessary for these cases. It is unclear whether a shift toward more inpatient stays would be appropriate.

We also are concerned whether the volume of cochlear implant cases across all hospitals performing this procedure warrants establishing a new DRG. The DRG relative weights reflect an average cost per case, with the costs of some procedures above the DRG mean costs and some below the mean. It is expected that hospitals will offset losses for certain procedures with payment gains for other procedures, while responding to incentives to maintain efficient operations. An excessive proliferation of new DRGs for specific technologies would fundamentally alter this averaging concept.

Accordingly, for the reasons cited above, we are not proposing to change the DRG assignment of cochlear implants at this time. However, we encourage public comments as to whether a new DRG for cochlear implants (or some other solution) is warranted.

b. Burn Patients on Mechanical Ventilation. Concerns have been raised by hospitals treating burn patients that the current DRG payment for burn patients on mechanical ventilation is not adequate. The DRG assignment for these cases depends on whether the hospital performed the tracheostomy, or the tracheostomy was performed prior to transfer to the hospital. If the hospital does not actually perform the tracheostomy, the case is assigned to one of the burn DRGs in MDC 22 (Burns). If the hospital performs a tracheostomy, the case is assigned to DRG 482 (Tracheostomy for Face, Mouth, and Neck Diagnoses) or DRG 483 (Tracheostomy with Mechanical Ventilation 96 + Hours, Except Face, Mouth and Neck Diagnoses).

In the August 1, 2002 final rule, we modified DRGs 482 and 483 to recognize code 96.72 (Continuous mechanical ventilation for 96 consecutive hours or more) for the first time in the DRG assignment (67 FR 49996). We noted that many patients assigned to DRG 483 did not have code 96.72 recorded. We believed this was due, in part, to the limited number of procedure codes (six) that can be submitted on the current billing form, and the fact that code 96.72 did not affect the DRG assignment (prior to FY 2003). We stated that we would give future consideration to further modifying DRGs 482 and 483 based on the presence of code 96.72. We anticipate that cases of patients receiving 96 or more hours of continuous mechanical ventilation are more expensive than other tracheostomy patients. Once code 96.72 is reported more frequently, we will be better able to assess the need for future revisions to DRGs 482 and 483.

To assess the payment for burn patients on mechanical ventilation when the hospital did not perform the tracheostomy, we analyzed data on cases reporting both code 96.72 and diagnosis code V44.0 (Tracheostomy status). We had hoped that these cases would show patients on long-term ventilation who were admitted to the hospital with a tracheostomy in place. Our data did not include any cases reported in any of the burn DRGs with codes 96.72 and V44.0. We then analyzed data on the frequency of cases reporting code 96.72 along with diagnosis code V46.1 (Respirator dependence). We found only 5 of these cases in the burn DRGs. With so few cases reporting code 96.72, it is difficult for us to determine the effect of long-term ventilation on reimbursement for burn cases.

All hospitals, including those that treat burn patients, are encouraged to increase the reporting of code 96.72 for patients who are on continuous mechanical ventilation for 96 or more hours. With better data, we would be able to determine how best to make any future DRG modification for all patients on long-term mechanical ventilation.

c. Multiple Level Spinal Fusion. We received a comment recommending the establishment of new DRGs that would differentiate between the number of levels of vertebrae involved in a spinal fusion procedure. The commenter noted that the ICD-9-CM Coordination and Maintenance Committee discussed adding a new series of codes to identify multiple levels of spinal fusions at its December 6, 2002 meeting.

The following codes were approved by the Committee, effective for October 1, 2003, and are listed in Table 6B in the Addendum to this proposed rule:

• 81.62, Fusion or refusion of 2-3 vertebrae

• 81.63, Fusion or refusion of 4-8 vertebrae

• 81.64, Fusion or refusion of 9 or more vertebrae

The commenter conducted an analysis to support redefining the spinal fusion DRGs using these new ICD-9-CM codes. Using the CMS FY 2001 Standard Analytical File data for physicians and hospitals as the basis for its analysis, the commenter linked a 5-percent sample of hospital spinal fusion cases with the corresponding physician claims. Because there were no ICD-9-CM codes to identify multiple level fusions in 2001, multiple level fusions were identified using Current Procedural Terminology (CPT) codes on the physician claims.

The analysis found that increasing the levels fused from 1 to 2 levels to 3 or more levels increased the mean standardized charges by 38 percent for lumbar/thoracic fusions, and by 47 percent for cervical fusions. The commenter then recommended redefining the spinal fusion DRGs to differentiate between 1 to 2 level spinal fusions and multilevel spinal fusions.

The following current spinal fusion DRGs separate cases based on whether or not a CC is present: DRG 497 (Spinal Fusion Except Cervical With CC) and DRG 498 (Spinal Fusion Except Cervical Without CC); and DRG 519 (Cervical Spinal Fusion With CC) and DRG 520 (Cervical Spinal Fusion Without CC). The difference in charges associated with the current CC-split is only slightly greater than the difference attributable to the number of levels fused as found by the commenter's analysis. Therefore, at this time, we are not proposing to redefine these DRGs to differentiate on the basis of the number of levels fused.

We note that adopting the commenter's recommendation would necessitate adjusting the DRG relative weights using non-MedPAR data, because Medicare claims data with the new ICD-9-CM codes will not be available until the FY 2003 MedPAR file. Although we considered this possibility, we believe the more prudent course, given that the current DRG structure actually appears to differentiate appropriately among these cases, is to wait until sufficient data with the new multilevel spinal fusion codes are available before making a final determination on whether multilevel spinal fusions should be incorporated into the DRG structure.

d. Heart Assist System Implant. During the comment period for the FY 2003 IPPS proposed rule on which the FY 2003 IPPS final rule was based, we received a suggestion that we develop a new heart transplant DRG entitled “Heart Transplant with Left Ventricular Assist Device (LVAD).” The commenter stated that, because a great number of LVAD cases remain inpatients until heart transplant occurs, there is a disparity in costs between heart transplant patients who receive LVADs during the stay and those who do not. Cases in which heart transplantation occurs during the hospitalization are assigned to DRG 103 (Heart Transplant). Therefore, the costs of LVAD cases are included in the DRG relative weight for DRG 103. However, we noted that we would continue to monitor these types of cases.

When we reviewed the FY 2002 MedPAR data, we identified only 21 cases in DRG 103 that listed a procedure code that would indicate the use of an LVAD. We do not believe this is a sufficient number of cases to support creation of an additional DRG. Therefore, we are not proposing a change to the structure of either DRG 103 or DRG 525 at this time.

e. Drug-Eluting Stents. In the August 1, 2002 final rule, we created two new temporary DRGs to reflect cases involving the insertion of a drug-eluting coronary artery stent as signified by the presence of code 36.07 (Insertion of drug-eluting coronary artery stent): DRG 526 (Percutaneous Cardiovascular Procedure With Drug-Eluting Stent With AMI); and DRG 527 (Percutaneous Cardiovascular Procedure With Drug-Eluting Stent Without AMI). We expect that when claims data are available that reflect the use of these stents, we will combine drug-eluting stent cases with other cases in DRGs 516 and 517.

In the absence of MedPAR data reflecting the use of drug-eluting stents, it was necessary to undertake several calculations to establish the FY 2003 DRG relative weights for these two new DRGs. First, based on prices where drug-eluting stents are currently being used and the average price of currently available stents, we calculated a price differential of approximately $1,200. Assuming average hospital charge markups for this technology (based on weighted average cost-to-charge ratios), the anticipated charge differential between nondrug-eluting and drug-eluting stents would be approximately $2,664 per stent. However, we recognize that some cases involve more than one stent. Using an average of 1.5 stents per procedure, we estimate that the net incremental charge for cases that would receive drug-eluting stents is $3,996.

In order to determine accurately the DRG relative weights for these two new DRGs relative to all other DRGs, we also must estimate the volume of cases likely to occur. We used the manufacturer's estimate that as many as 43 percent of current stent patients will receive drug-eluting stents during FY 2003 to calculate the FY 2003 DRG relative weights, although we prorated this percentage since the new DRGs did not become active until April 1, 2003. Even though the DRG will become active on April 1, 2003, we expect that hospitals did not use this technology before FDA approval. (We intend to identify and review any cases with the code 36.07 that occurred prior to FDA approval.) Therefore, no payments are expected to have been made under these DRGs for cases occurring before FDA approval.

In determining the FY 2004 proposed DRG relative weights for DRGs 526 and 527, we assumed that 43 percent of coronary stent cases (those with code 36.06 (Insertion of nondrug-eluting coronary artery stent)) from DRGs 516 and 517 would be reassigned to new DRGs 526 and 527 (with code 36.07), and the charges of these cases would be increased $3,996 per case, to approximate the higher charges associated with the drug-eluting stents in DRGs 526 and 527. The relative weights for DRGs 516 and 517 are calculated based on the charges of the cases estimated to remain in these two DRGs.

We are proposing to maintain DRGs 526 and 527 for FY 2004, and to adopt the same methodology to establish the relative weights as we used for FY 2003. The FDA issued a decision on April 24, 2003 approving drug-eluting stents. For the final rule, we will use the best available data at that time to establish the FY 2004 relative weights for DRGs 526 and 527.

f. Artificial Anal Sphincter. The ICD-9-CM Coordination and Maintenance Committee created two new codes to describe procedures involving an artificial anal sphincter for use for discharges occurring on or after October 1, 2002. One code (49.75, Implantation or revision of artificial anal sphincter) is used to identify cases involving implantation or revision of an artificial anal sphincter. The second code (49.76, Removal of artificial anal sphincter) is used to identify cases involving the removal of the device. In Table 6B of the August 1, 2002 IPPS final rule (67 FR 50242), we assigned both codes to one of four MDCs based on principal diagnosis, and to one of six DRGs within those MDCs as follows: MDC 6, DRG 157 (Anal and Stomal Procedures With CC) and DRG 158 (Anal and Stomal Procedures Without CC); MDC 9 (Diseases and Disorders of the Skin, Subcutaneous Tissue and Breast), DRG 267 (Perianal and Pilonidal Procedures); MDC 21 (Injuries, Poisonings, and Toxic Effect of Drugs), DRG 442 (Other O.R. Procedures for Injuries With CC) and DRG 443 (Other O.R. Procedures for Injuries Without CC); and MDC 24 (Multiple Significant Trauma), DRG 486 (Other O.R. Procedures for Multiple Significant Trauma).

We have received a request that we review these DRG assignments. According to the requester, the artificial anal sphincter procedures are expensive and the payment does not adequately cover a hospital's costs in the most likely occurring DRGs 157 and 158. The requester submitted data showing cases involving artificial anal sphincters with average charges of $44,000, and suggested that we assign codes 49.75 and 49.76 in MDC 6 to DRG 170 (Other Digestive System O.R. Procedures With CC) and DRG 171) (Other Digestive System O.R. Procedures Without CC) because DRG 170 and DRG 171 are higher weighted than DRGs 157 and 158.

At this time, we are not proposing to assign these cases to DRGs 170 and 171. Although we recognize the data submitted by the commenter appear to show this procedure is associated with above average costs in the DRGs to which these cases are assigned, we believe the current assignment is the most clinically appropriate at this time. As noted above, the procedure codes to identify the implantation, revision, or removal of these devices were effective beginning on October 1, 2002. Therefore, we propose to monitor the costs of these cases using actual Medicare cases with these codes included from the FY 2003 MedPAR that will be used for the FY 2004 DRG relative weights.

C. Recalibration of DRG Weights

We are proposing to use the same basic methodology for the FY 2004 recalibration as we did for FY 2003 (August 1, 2002 IPPS final rule (67 FR 50008). That is, we are proposing to recalibrate the DRG weights based on charge data for Medicare discharges using the most current charge information available (the FY 2002 MedPAR file).

The MedPAR file is based on fully coded diagnostic and procedure data for all Medicare inpatient hospital bills. FY 2002 MedPAR data include discharges occurring between October 1, 2001 and September 30, 2002, based on bills received by CMS through December 31, 2002, from all hospitals subject to the IPPS and short-term acute care hospitals in Maryland (which is under a waiver from the IPPS under section 1814(b)(3) of the Act). The FY 2002 MedPAR file includes data for approximately 11,404,829 Medicare discharges. Discharges for Medicare beneficiaries enrolled in a Medicare+Choice managed care plan are excluded from this analysis. The data include hospitals that subsequently became CAHs, although no data are included for hospitals after the point they are certified as CAHs.

The proposed methodology used to calculate the DRG relative weights from the FY 2002 MedPAR file is as follows:

• To the extent possible, all the claims were regrouped using the DRG classification revisions discussed in section II.B. of this preamble.

• Charges were standardized to remove the effects of differences in area wage levels, indirect medical education and disproportionate share payments, and, for hospitals in Alaska and Hawaii, the applicable cost-of-living adjustment.

• The average standardized charge per DRG was calculated by summing the standardized charges for all cases in the DRG and dividing that amount by the number of cases classified in the DRG. A transfer case is counted as a fraction of a case based on the ratio of its transfer payment under the per diem payment methodology to the full DRG payment for nontransfer cases. That is, transfer cases paid under the transfer methodology equal to half of what the case would receive as a nontransfer would be counted as 0.5 of a total case.

• Statistical outliers were eliminated by removing all cases that are beyond 3.0 standard deviations from the mean of the log distribution of both the charges per case and the charges per day for each DRG.

• The average charge for each DRG was then recomputed (excluding the statistical outliers) and divided by the national average standardized charge per case to determine the relative weight.

• The transplant cases that were used to establish the relative weight for heart and heart-lung, liver, and lung transplants (DRGs 103, 480, and 495) were limited to those Medicare-approved transplant centers that have cases in the FY 2000 MedPAR file. (Medicare coverage for heart, heart-lung, liver, and lung transplants is limited to those facilities that have received approval from CMS as transplant centers.)

• Organ acquisition costs for kidney, heart, heart-lung, liver, lung, pancreas, and intestinal (or multivisceral organs) transplants continue to be paid on a reasonable cost basis. Because these acquisition costs are paid separately from the prospective payment rate, it is necessary to subtract the acquisition charges from the total charges on each transplant bill that showed acquisition charges before computing the average charge for the DRG and before eliminating statistical outliers.

When we recalibrated the DRG weights for previous years, we set a threshold of 10 cases as the minimum number of cases required to compute a reasonable weight. We used that same case threshold in recalibrating the proposed DRG weights for FY 2004. Using the FY 2002 MedPAR data set, there are 42 DRGs that contain fewer than 10 cases. We computed the weights for these low-volume DRGs by adjusting the proposed FY 2003 weights of these DRGs by the percentage change in the average weight of the cases in the other DRGs.

The proposed new weights are normalized by an adjustment factor (1.45510) so that the average case weight after recalibration is equal to the average case weight before recalibration. This adjustment is intended to ensure that recalibration by itself neither increases nor decreases total payments under the IPPS.

As noted below in section IV.A.2., we are proposing to expand the transfer policy applicable to postacute care transfers from 10 DRGs currently to an additional 19 DRGs, beginning in FY 2004. Because we count a transfer case as a fraction of a case as described above in the recalibration process, any expansion of the postacute care transfer policy to 19 additional DRGs would affect the proposed relative weights for those DRGs. Therefore, we calculated the proposed FY 2004 normalization factor comparing the case-mix using the proposed FY 2004 DRG relative weights in which we treated postacute care transfer cases in the 19 DRGs proposed to be added to the postacute transfer policy for FY 2004 as a fraction of a case with the case-mix using the FY 2003 DRG relative weights without treating cases in these 19 additional DRGs as transfer cases.

Section 1886(d)(4)(C)(iii) of the Act requires that, beginning with FY 1991, reclassification and recalibration changes be made in a manner that assures that the aggregate payments are neither greater than nor less than the aggregate payments that would have been made without the changes. Although normalization is intended to achieve this effect, equating the average case weight after recalibration to the average case weight before recalibration does not necessarily achieve budget neutrality with respect to aggregate payments to hospitals because payments to hospitals are affected by factors other than average case weight. Therefore, as we have done in past years and as discussed in section II.A.4.a. of the Addendum to this proposed rule, we are proposing to make a budget neutrality adjustment to ensure that the requirement of section 1886(d)(4)(C)(iii) of the Act is met.

D. Proposed LTC-DRG Reclassifications and Relative Weights for LTCHs for FY 2004

1. Background

In the March 7, 2003 LTCH PPS proposed rule (68 FR 11234), we proposed to change the LTCH PPS annual payment rate update cycle to be effective July 1 through June 30 instead of October 1 through September 30. In addition, since the patient classification system utilized under the LTCH PPS is based directly on the DRGs used under the IPPS for acute care hospitals, in that same proposed rule, we proposed that the annual update of the long-term care diagnosis-related group (LTC-DRG) classifications and relative weights would continue to remain linked to the annual reclassification and recalibration of the CMS-DRGs under the IPPS.

The annual update to the IPPS DRGs is based on the annual revisions to the ICD-9-CM codes and is effective each October 1. In the health care industry, annual changes to the ICD-9-CM codes are effective for discharges occurring on or after October 1 each year. The use of the ICD-9-CM coding system is also compliant with the requirements of the Health Insurance Portability and Accountability Act (HIPAA), Pub. L. 104-191, under 45 CFR Parts 160 and 162. Therefore, the manual and electronic versions of the GROUPER software, which are based on the ICD-9-CM codes, are also revised annually and effective for discharges occurring on or after October 1 each year. Because the LTC-DRGs are based on the patient classification system used under the IPPS (CMS-DRGs), which is updated annually and effective for discharges occurring on or after October 1 through September 30 each year, in the March 7, 2003 LTCH PPS proposed rule (68 FR 11234), we proposed to continue to update the LTC-DRG classifications and relative weights to be effective for discharges occurring on or after October 1 through September 30 each year.

As we explained in the March 7, 2003 LTCH PPS proposed rule (68 FR 11234), the FY 2004 DRGs and relative weights used under the IPPS had not yet been proposed, and we were unable to propose updated LTC-DRGs and relative weights at that time. Therefore, since the LTC-DRG classifications and relative weights would continue to be based on the annual updates to the IPPS DRGs, we proposed that proposed revisions to the LTC-DRG classifications and relative weights would be presented for public comment in the IPPS proposed rule and finalized in the IPPS final rule, to be effective October 1, 2003 through September 30, 2004.

For FY 2003, version 20.0 of the DRG GROUPER is being utilized under both the IPPS and the LTCH PPS. The LTC-DRG classifications and relative weights are shown in Table 3 of the Addendum to the August 30, 2002 for FY 2003 final rule (67 FR 56076-56084) and in Table 3 of the Addendum to the March 7, 2003 LTCH PPS proposed rule (68 FR 11285 through 11292). Below we discuss the proposed LTC-DRGs and relative weights for FY 2004 based on the proposed changes to the hospital IPPS DRGs (GROUPER version 21.0) discussed in section II. of this preamble.

2. Proposed Changes in the LTC-DRG Classifications

a. Background. Section 123 of Pub. L. 106-113 specifically requires that the PPS for LTCHs be a per discharge system with a DRG-based patient classification system reflecting the differences in patient resources and costs in LTCHs while maintaining budget neutrality. Section 307(b)(1) of Pub. Law 106-554 modified the requirements of section 123 of Pub. L. 106-113 by specifically requiring that the Secretary examine “the feasibility and the impact of basing payment under such a system [the LTCH PPS] on the use of existing (or refined) hospital diagnosis-related groups (DRGs) that have been modified to account for different resource use of long-term care hospital patients as well as the use of the most recently available hospital discharge data.”

In accordance with section 307(b)(1) of Pub. L. 106-554 and § 412.515 of our existing regulations, the LTCH PPS uses information from LTCH patient records to classify patient cases into distinct LTC-DRGs based on clinical characteristics and expected resource needs. The LTC-DRGs used as the patient classification component of the LTCH PPS correspond to the DRGs under the IPPS for acute care hospitals. Thus, in this proposed rule, we are proposing to use the proposed IPPS version 21.0 GROUPER for FY 2004 to process LTCH PPS claims. The proposed changes to the IPPS DRG classification system for FY 2004 (Grouper 21.0) are discussed in section II.B. of this preamble.

Under the LTCH PPS, we determine relative weights for each of the IPPS DRGs to account for the difference in resource use by patients exhibiting the case complexity and multiple medical problems characteristic of LTCHs. In a departure from the IPPS, as we discussed in the August 30, 2002 final rule (67 FR 55985), we use low volume LTC-DRGs (less than 25 LTCH cases) in determining the LTC-DRG weights, since LTCHs do not typically treat the full range of diagnoses as do acute care hospitals. In order to deal with the large number of low volume LTC-DRGs (DRGs with fewer than 25 cases), we group those low volume LTC-DRGs into 5 quintiles based on average charge per discharge. (A listing of the composition of low volume quintiles for the FY 2003 LTC-DRGs (based on FY 2001 MedPAR data) appears in the August 30, 2002 final rule at 67 FR 55986-55988). We also adjusted for cases in which the stay at the LTCH is five-sixths of the geometric average length of stay; that is, short-stay outlier cases (§ 412.529). (A detailed discussion of the application of the Lewin Group model that was used to develop the LTC-DRGs appears in the August 30, 2002 final rule at 67 FR 55978).

b. Patient Classifications into DRGs. Generally, under the LTCH PPS, Medicare payment is made at a predetermined specific rate for each discharge; that is, payment varies by the LTC-DRG to which a beneficiary's stay is assigned. Similar to case classification for acute care hospitals under the IPPS (see section II.B. of this preamble), cases are classified into LTC-DRGs for payment under the LTCH PPS based on the principal diagnosis, up to eight additional diagnoses, and up to six procedures performed during the stay, as well as age, sex, and discharge status of the patient. The diagnosis and procedure information is reported by the hospital using codes from the ICD-9-CM.

As discussed above in section II.B. of this preamble, the DRGs are organized into 25 Major Diagnostic Categories (MDCs), most of which are based on a particular organ system of the body; the remainder involve multiple organ systems (such as MDC 22, Burns). Accordingly, the principal diagnosis determines MDC assignment. Within most MDCs, cases are then divided into surgical DRGs and medical DRGs. Some surgical and medical DRGs are further differentiated based on the presence or absence of CCs. (See section II.B. of this preamble for further discussion of surgical DRGs and medical DRGs.)

Because the assignment of a case to a particular LTC-DRG will help determine the amount that will be paid for the case, it is important that the coding is accurate. As is the case under the IPPS, classifications and terminology used in the LTCH PPS are consistent with the ICD-9-CM and the Uniform Hospital Discharge Data Set (UHDDS), as recommended to the Secretary by the National Committee on Vital and Health Statistics (“Uniform Hospital Discharge Data: Minimum Data Set, National Center for Health Statistics, April 1980”) and as revised in 1984 by the Health Information Policy Council (HIPC) of the U.S. Department of Health and Human Services. We wish to point out again that the ICD-9-CM coding terminology and the definitions of principal and other diagnoses of the UHDDS are consistent with the requirements of the Administrative Simplification Act of 1996 of the HIPAA (45 CFR Parts 160 and 162).

As we stated in the August 30, 2002 LTCH PPS final rule (67 FR 55981), the emphasis on the need for proper coding cannot be overstated. Inappropriate coding of cases can adversely affect the uniformity of cases in each LTC-DRG and produce inappropriate weighting factors at recalibration and result in inappropriate payments under the LTCH PPS. LTCHs are to follow the same coding guidelines used by the acute care hospitals to ensure accuracy and consistency in coding practices. There will be only one LTC-DRG assigned per long-term care hospitalization; it will be assigned at the discharge. Therefore, it is mandatory that the coders continue to report the same principal diagnosis on all claims and include all diagnostic codes that coexist at the time of admission, that are subsequently developed, or that affect the treatment received. Similarly, all procedures performed during that stay are to be reported on each claim. (For further information on the use of ICD-9-CM codes under the LTCH PPS, see the August 30, 2002 LTCH PPS final rule (67 FR 55979-55983).)

Upon the discharge of the patient from a LTCH, the LTCH must assign appropriate diagnosis and procedure codes from the ICD-9-CM. As of October 16, 2002, a LTCH that was required to comply with the HIPAA Administrative Simplification Standards and that had not obtained an extension in compliance with the Administrative Compliance Act (Pub. L. 107-105) is obligated to comply with the standards at 45 CFR 162.1002 and 45 CFR 162.1102. Completed claim forms are to be submitted to the LTCH's Medicare fiscal intermediary.

Medicare fiscal intermediaries enter the clinical and demographic information into their claims processing systems and subject this information to a series of automated screening processes called the Medicare Code Editor (MCE). These screens are designed to identify cases that require further review before assignment into a DRG can be made. (For more information on types of cases selected for further development, see the August 30, 2002 LTCH PPS final rule (67 FR 55979).)

After screening through the MCE, each LTCH claim will be classified into the appropriate LTC-DRG by the Medicare LTCH GROUPER. The LTCH GROUPER is specialized computer software based on the same GROUPER used under the IPPS. After the LTC-DRG is assigned, the Medicare fiscal intermediary determines the prospective payment by using the Medicare PRICER program, which accounts for LTCH hospital-specific adjustments. As provided for under the IPPS, we provide an opportunity for the LTCH to review the LTC-DRG assignments made by the fiscal intermediary and to submit additional information within a specified timeframe (§ 412.513(c)).

The GROUPER is used both to classify past cases in order to measure relative hospital resource consumption to establish the DRG weights and to classify current cases for purposes of determining payment. The records for all Medicare hospital inpatient discharges are maintained in the MedPAR file. The data in this file are used to evaluate possible DRG classification changes and to recalibrate the DRG weights during our annual update (as discussed in section II. of this preamble). The LTC-DRG weights are based on data for the population of LTCH discharges, reflecting the fact that LTCH patients represent a different patient mix than patients in short-term acute care hospitals.

3. Development of the Proposed FY 2004 LTC-DRG Relative Weights

a. General Overview of Development of the LTC-DRG Relative Weights. As we stated in the August 30, 2002 LTCH PPS final rule (67 FR 55984), one of the primary goals for the implementation of the LTCH IPPS is to pay each LTCH an appropriate amount for the efficient delivery of care to Medicare patients. The system must be able to account adequately for each LTCH's case-mix in order to ensure both fair distribution of Medicare payments and access to adequate care for those Medicare patients whose care is more costly. To accomplish these goals, we adjust the LTCH PPS standard Federal prospective payment system rate by the LTC-DRG relative weights in determining payment to LTCHs for each case.

Under the LTCH PPS, relative weights for each LTC-DRG are a primary element used to account for the variations in cost per discharge and resource utilization among the payment groups (§ 412.515). To ensure that Medicare patients classified to each LTC-DRG have access to an appropriate level of services and to encourage efficiency, we calculate a relative weight for each LTC-DRG that represents the resources needed by an average inpatient LTCH case in that LTC-DRG. For example, cases in a LTC-DRG with a relative weight of 2 will, on average, cost twice as much as cases in a LTC-DRG with a weight of 1.

b. Data. To calculate the proposed LTC-DRG relative weights for FY 2004 in this proposed rule, we obtained total Medicare allowable charges from FY 2002 Medicare hospital bill data from the December 2002 update of the MedPAR file, and we used the proposed Version 21.0 of the CMS GROUPER used under the acute care hospital inpatient IPPS as discussed above in section II.B. of this preamble. Consistent with the methodology under the hospital IPPS, we are proposing to recalculate the FY 2004 LTC-DRG relative weights based on the best available data for the final rule.

As we discussed in further detail in the August 30, 2002 LTCH PPS final rule (67 FR 55984), based on comments regarding the data used in the development of the LTCH prospective payment system, we have excluded the data from LTCHs that are all-inclusive rate providers and LTCHs that are reimbursed in accordance with demonstration projects authorized under section 402(a) of Public Law 90-248 (42 U.S.C. 1395b-1) or section 222(a) of Public Law 92-603 (42 U.S.C. 1395b-1). Therefore, in the development of the proposed FY 2004 LTC-DRG relative weights we have excluded the data of the 22 all-inclusive rate providers and the 3 LTCHs that are paid in accordance with demonstration projects.

In addition, as we discussed in the August 30, 2002 LTCH PPS final rule (67 FR 55989), a data problem regarding the proposed FY 2003 LTC-DRG relative weight values that were determined using MedPAR (claims) data for FYs 2000 and 2001 was brought to our attention. Following notification of this problem, we researched the commenter's claims and determined that, given the long stays at LTCHs, some providers had submitted multiple bills for payment under the TEFRA reimbursement system for the same stay. Based upon our research, we became aware of the following situation: In certain LTCHs, hospital personnel apparently reported a different principal diagnosis on each bill since, under the TEFRA system, payment was not dependent upon principal diagnosis as it is under a DRG-based system. These claims from the MedPAR file were run through the LTCH GROUPER and used in determining the proposed FY 2003 relative weights for each LTC-DRG.

Since this issue was brought to our attention and we discovered that only data from the final bills were being extracted for the MedPAR file, it was possible that the original MedPAR file was not receiving the correct principal diagnosis. Therefore, in the August 30, 2002 final rule (67 FR 55989), we addressed the problem by identifying all LTCH cases in the FY 2001 MedPAR file for which multiple bills were submitted. For each of these cases, beginning with the first bill and moving forward consecutively through subsequent bills for that stay, we recorded the first unique diagnosis codes up to 10 and the first unique procedure codes up to 10. We then used these codes to appropriately group each LTCH case to a LTC-DRG for FY 2003.

As we noted above, we are proposing to use LTCH claims data from the FY 2002 MedPAR file for the determination of the proposed FY 2004 LTC-DRG relative weights. Since at the time (FY 2002) LTCHs were still reimbursed under the TEFRA reasonable cost-based system, some LTCHs also had submitted multiple bills for Medicare payment for the same stay. Thus, in certain LTCHs, hospital personnel were apparently still reporting a different principal diagnosis on each bill since, under the TEFRA system in FY 2002, payment was not dependent upon principal diagnosis as it is under a DRG-based system. Therefore, we are proposing to follow the same methodology outlined above to determine the appropriate diagnosis and procedure codes for those multiple bill LTCH cases in the FY 2002 MedPAR files, and we are proposing to use these codes to group each LTCH case to a proposed LTC-DRG for FY 2004. Since the LTCH PPS was implemented for cost reporting periods beginning on or after October 1, 2002 (FY 2003), we believe that this problem will be self-correcting as LTCHs submit more completely coded data in the future.

c. Hospital-Specific Relative Value Methodology. As we discussed in the August 30, 2002 LTCH PPS final rule (67 FR 55985), by nature LTCHs often specialize in certain areas, such as ventilator-dependent patients and rehabilitation and wound care. Some case types (DRGs) may be treated, to a large extent, in hospitals that have, from a perspective of charges, relatively high (or low) charges. Such nonarbitrary distribution of cases with relatively high (or low) charges in specific LTC-DRGs has the potential to inappropriately distort the measure of average charges. To account for the fact that cases may not be randomly distributed across LTCHs, as explained in that same final rule (67 FR 55985), we use a hospital-specific relative value method to calculate the proposed LTC-DRG relative weights instead of the methodology used to determine the proposed DRG relative weights under the hospital IPPS described above in section II.C. of this preamble. We believe this method will remove this hospital-specific source of bias in measuring LTCH average charges. Specifically, we reduce the impact of the variation in charges across providers on any particular LTC-DRG relative weight by converting each LTCH's charge for a case to a relative value based on that LTCH's average charge.

Under the hospital-specific relative value method, as we explained in the August 30, 2002 LTCH PPS final rule (67 FR 55985), we standardize charges for each LTCH by converting its charges for each case to hospital-specific relative charge values and then adjusting those values for the LTCH's case-mix. The adjustment for case-mix is needed to rescale the hospital-specific relative charge values (which, by definition, averages 1.0 for each LTCH). The average relative weight for a LTCH is its case-mix, so it is reasonable to scale each LTCH's average relative charge value by its case-mix. In this way, each LTCH's relative charge value is adjusted by its case-mix to an average that reflects the complexity of the cases it treats relative to the complexity of the cases treated by all other LTCHs (the average case-mix of all LTCHs).

In accordance with the methodology established in the August 30, 2002 LTCH PPS final rule (67 FR 55985), we standardize charges for each case by first dividing the adjusted charge for the case (adjusted for short-stay outliers under § 412.529 as described in section II.D.4. (step 3) of this preamble) by the average adjusted charge for all cases at the LTCH in which the case was treated. Short-stay outliers under § 412.529 are cases with a length of stay that is less than or equal to five-sixths the average length of stay of the LTC-DRG. The average adjusted charge reflects the average intensity of the health care services delivered by a particular LTCH and the average cost level of that LTCH. The resulting ratio is multiplied by that LTCH's case-mix index to determine the standardized charge for the case.

Multiplying by the LTCH's case-mix index accounts for the fact that the same relative charges are given greater weight in a LTCH with higher average costs than they would at a LTCH with low average costs which is needed to adjust each LTCH's relative charge value to reflect its case-mix relative to the average case-mix for all LTCHs. Because we standardize charges in this manner, we count charges for a Medicare patient at a LTCH with high average charges as less resource intensive than they would be at a LTCH with low average charges. For example, a $10,000 charge for a case in a LTCH with an average adjusted charge of $17,500 reflects a higher level of relative resource use than a $10,000 charge for a case in a LTCH with the same case-mix, but an average adjusted charge of $35,000. We believe that the adjusted charge of an individual case more accurately reflects actual resource use for an individual LTCH because the variation in charges due to systematic differences in the markup of charges among LTCHs is taken into account.

d. Low Volume LTC-DRGs. In order to account for LTC-DRGs with low volume (that is, with fewer than 25 LTCH cases), in accordance with the methodology we established in the August 30, 2002 LTCH PPS final rule (67 FR 55985), we group those low volume LTC-DRGs into one of five categories (quintiles) based on average charges, for the purposes of determining relative weights. For this proposed rule, using LTCH cases from the December 2002 update of the FY 2002 MedPAR file, we identified 163 proposed LTC-DRGs that contained between 1 and 24 cases. This list of proposed LTC-DRGs was then divided into one of the five proposed low volume quintiles, each containing a minimum of 32 proposed LTC-DRGs (163/5 = 32 with 3 proposed LTC-DRGs as the remainder). For FY 2004, we are proposing to make an assignment to a specific low volume quintile by sorting the 163 low volume proposed LTC-DRGs in ascending order by average charge. Since the number of proposed LTC-DRGs with less than 25 LTCH cases is not evenly divisible by five, the average charge of the low volume proposed LTC-DRG was used to determine which proposed low volume quintile received the additional proposed LTC-DRG. After sorting the 163 low volume proposed LTC-DRGs in ascending order, we are proposing that the first fifth (32) of low volume proposed LTC-DRGs with the lowest average charge would be grouped into Quintile 1. Since the average charge of the 33rd proposed LTC-DRG in the sorted list is closer to the previous proposed LTC-DRG's average charge (assigned to proposed Quintile 1) than to the average charge of the 34th proposed LTC-DRG on the sorted list (to be assigned to proposed Quintile 2), we are proposing to place it into proposed Quintile 1. The highest average charge cases would then be grouped into proposed Quintile 5. This process would be repeated through the remaining low volume proposed LTC-DRGs so that 3 proposed low volume quintiles would contain 33 proposed LTC-DRGs and 2 proposed low volume quintiles would contain 32 proposed LTC-DRGs.

In order to determine the proposed relative weights for the proposed LTC-DRGs with low volume for FY 2004, in accordance with the methodology established in the August 30, 2002 LTCH PPS final rule (67 FR 55985), we would use the five proposed low volume quintiles described above. The proposed composition of each of the five low volume quintiles shown below in Table 1 would be used in determining the proposed LTC-DRG relative weights for FY 2004. We would determine a proposed relative weight and (geometric) average length of stay for each of the five proposed low volume quintiles using the formula that we are proposing to apply to the regular proposed LTC-DRGs (25 or more cases), as described below in section II.D.4. of this preamble. We are proposing to assign the same proposed relative weight and average length of stay to each of the proposed LTC-DRGs that make up that proposed low volume quintile. We note that as this system is dynamic, it is possible that the number and specific type of LTC-DRGs with a low volume of LTCH cases will vary in the future. We use the best available claims data in the MedPAR file to identify low volume LTC-DRGs and to calculate the relative weights based on our methodology.

Table 1.—Proposed Composition of Low Volume Quintiles
Proposed LTC-DRG | Description
Proposed Quintile 1
044 | ACUTE MAJOR EYE INFECTIONS
047 | OTHER DISORDERS OF THE EYE AGE >17 W/O CC
065 | DYSEQUILIBRIUM
066 | EPISTAXIS
069 | OTITIS MEDIA & URI AGE >17 W/O CC
072 | NASAL TRAUMA & DEFORMITY
128 | DEEP VEIN THROMBOPHLEBITIS
149 | MAJOR SMALL & LARGE BOWEL PROCEDURES W/O CC
178 | UNCOMPLICATED PEPTIC ULCER W/O CC
192 | PANCREAS, LIVER & SHUNT PROCEDURES W/O CC
262 | BREAST BIOPSY & LOCAL EXCISION FOR NON-MALIGNANCY
273 | MAJOR SKIN DISORDERS W/O CC
276 | NON-MALIGNANT BREAST DISORDERS
305 | KIDNEY,URETER & MAJOR BLADDER PROC FOR NON-NEOPL W/O CC
311 | TRANSURETHRAL PROCEDURES W/O CC
319 | KIDNEY & URINARY TRACT NEOPLASMS W/O CC
328 | URETHRAL STRICTURE AGE >17 W CC
339 | TESTES PROCEDURES, NON-MALIGNANCY AGE >17
342 | CIRCUMCISION AGE >17
348 | BENIGN PROSTATIC HYPERTROPHY W CC
349 | BENIGN PROSTATIC HYPERTROPHY W/O CC
376 | POSTPARTUM & POST ABORTION DIAGNOSES W/O O.R. PROCEDURE
385 | NEONATES, DIED OR TRANSFERRED TO ANOTHER ACUTE CARE FACILITY
399 | RETICULOENDOTHELIAL & IMMUNITY DISORDERS W/O CC
420 | FEVER OF UNKNOWN ORIGIN AGE >17 W/O CC
428 | DISORDERS OF PERSONALITY & IMPULSE CONTROL
431 | CHILDHOOD MENTAL DISORDERS
432 | OTHER MENTAL DISORDER DIAGNOSES
455 | OTHER INJURY, POISONING & TOXIC EFFECT DIAG W/O CC
465 | AFTERCARE W HISTORY OF MALIGNANCY AS SECONDARY DIAGNOSIS
509 | FULL THICKNESS BURN W/O SKIN GRFT OR INH INJ W/O CC OR SIG TRAUMA
511 | NON-EXTENSIVE BURNS W/O CC OR SIGNIFICANT TRAUMA
540 | LYMPHOMA AND LEUKEMIA WITH MAJOR O.R. PROCEDURE WITHOUT CC
Proposed Quintile 2
021 | VIRAL MENINGITIS
022 | HYPERTENSIVE ENCEPHALOPATHY
031** | CONCUSSION AGE >17 W CC
046 | OTHER DISORDERS OF THE EYE AGE >17 W CC
053 | SINUS & MASTOID PROCEDURES AGE >17
084 | MAJOR CHEST TRAUMA W/O CC
177 | UNCOMPLICATED PEPTIC ULCER W CC
193 | BILIARY TRACT PROC EXCEPT ONLY CHOLECYST W OR W/O C.D.E. W CC
194* | BILIARY TRACT PROC EXCEPT ONLY CHOLECYST W OR W/O C.D.E. W/O CC
200 | HEPATOBILIARY DIAGNOSTIC PROCEDURE FOR NON-MALIGNANCY
206 | DISORDERS OF LIVER EXCEPT MALIG, CIRR, ALC HEPA W/O CC
208 | DISORDERS OF THE BILIARY TRACT W/O CC
211 | HIP & FEMUR PROCEDURES EXCEPT MAJOR JOINT AGE >17 W/O CC
232 | ARTHROSCOPY
234 | OTHER MUSCULOSKELET SYS & CONN TISS O.R. PROC W/O CC
237 | SPRAINS, STRAINS, & DISLOCATIONS OF HIP, PELVIS & THIGH
275 | MALIGNANT BREAST DISORDERS W/O CC
299 | INBORN ERRORS OF METABOLISM
309 | MINOR BLADDER PROCEDURES W/O CC
323 | URINARY STONES W CC, &/OR ESW LITHOTRIPSY
324 | URINARY STONES W/O CC
341 | PENIS PROCEDURES
344 | OTHER MALE REPRODUCTIVE SYSTEM O.R. PROCEDURES FOR MALIGNANCY
367 | MALIGNANCY, FEMALE REPRODUCTIVE SYSTEM W/O CC
414 | OTHER MYELOPROLIF DIS OR POORLY DIFF NEOPL DIAG W/O CC
421 | VIRAL ILLNESS AGE >17
454 | OTHER INJURY, POISONING & TOXIC EFFECT DIAG W CC
473 | ACUTE LEUKEMIA W/O MAJOR O.R. PROCEDURE AGE >17
497** | SPINAL FUSION W CC
502 | KNEE PROCEDURES W PDX OF INFECTION W/O CC
506 | FULL THICKNESS BURN W SKIN GRAFT OR INHAL INJ W CC OR SIG TRAUMA
507* | FULL THICKNESS BURN W SKIN GRFT OR INHAL INJ W/O CC OR SIG TRAUMA
508 | FULL THICKNESS BURN W/O SKIN GRFT OR INHAL INJ W CC OR SIG TRAUMA
510 | NON-EXTENSIVE BURNS W CC OR SIGNIFICANT TRAUMA
529 | VENTRICULAR SHUNT PROCEDURES WITH CC
Proposed Quintile 3
031* | CONCUSSION AGE >17 W CC
032 | CONCUSSION AGE >17 W/O CC
063 | OTHER EAR, NOSE, MOUTH & THROAT O.R. PROCEDURES
083 | MAJOR CHEST TRAUMA W CC
117 | CARDIAC PACEMAKER REVISION EXCEPT DEVICE REPLACEMENT
119 | VEIN LIGATION & STRIPPING
158 | ANAL & STOMAL PROCEDURES W/O CC
194** | BILIARY TRACT PROC EXCEPT ONLY CHOLECYST W OR W/O C.D.E. W/O CC
197 | CHOLECYSTECTOMY EXCEPT BY LAPAROSCOPE W/O C.D.E. W CC
218 | LOWER EXTREM & HUMER PROC EXCEPT HIP, FOOT, FEMUR AGE >17 W CC
223 | MAJOR SHOULDER/ELBOW PROC, OR OTHER UPPER EXTREMITY PROC W CC
228 | MAJOR THUMB OR JOINT PROC, OR OTH HAND OR WRIST PROC W CC
257 | TOTAL MASTECTOMY FOR MALIGNANCY W CC
293 | OTHER ENDOCRINE, NUTRIT & METAB O.R. PROC W/O CC
295 | DIABETES AGE 0-35
317 | ADMIT FOR RENAL DIALYSIS
345 | OTHER MALE REPRODUCTIVE SYSTEM O.R. PROC EXCEPT FOR MALIGNANCY
347*** | MALIGNANCY, MALE REPRODUCTIVE SYSTEM, W/O CC
352 | OTHER MALE REPRODUCTIVE SYSTEM DIAGNOSES
369 | MENSTRUAL & OTHER FEMALE REPRODUCTIVE SYSTEM DISORDERS
402 | LYMPHOMA & NON- ACUTE LEUKEMIA W OTHER O.R. PROC W/O CC
408 | MYELOPROLIF DISORD OR POORLY DIFF NEOPL W OTHER O.R.PROC
410 | CHEMOTHERAPY W/O ACUTE LEUKEMIA AS SECONDARY DIAGNOSIS
411 | HISTORY OF MALIGNANCY W/O ENDOSCOPY
419 | FEVER OF UNKNOWN ORIGIN AGE >17 W CC
443 | OTHER O.R. PROCEDURES FOR INJURIES W/O CC
447 | ALLERGIC REACTIONS AGE >17
449 | POISONING & TOXIC EFFECTS OF DRUGS AGE >17 W CC
450 | POISONING & TOXIC EFFECTS OF DRUGS AGE >17 W/O CC
497* | SPINAL FUSION W CC
498* | SPINAL FUSION W/O CC
503 | KNEE PROCEDURES W/O PDX OF INFECTION
505 | EXTENSIVE 3RD DEGREE BURNS W/O SKIN GRAFT
507** | FULL THICKNESS BURN W SKIN GRFT OR INHAL INJ W/O CC OR SIG TRAUMA
518 | PERCUTANEOUS CARDIVASCULAR PROC W/O CORONARY ARTERY STENT OR AMI
Proposed Quintile 4
008 | PERIPH & CRANIAL NERVE & OTHER NERV SYST PROC W/O CC
061 | MYRINGOTOMY W TUBE INSERTION AGE >17
095*** | PNEUMOTHORAX W/O CC
124 | CIRCULATORY DISORDERS EXCEPT AMI, W CARD CATH & COMPLEX DIAG
125 | CIRCULATORY DISORDERS EXCEPT AMI, W CARD CATH W/O COMPLEX DIAG
150 | PERITONEAL ADHESIOLYSIS W CC
152 | MINOR SMALL & LARGE BOWEL PROCEDURES W CC
157 | ANAL & STOMAL PROCEDURES W CC
161 | INGUINAL & FEMORAL HERNIA PROCEDURES AGE >17 W CC
191 | PANCREAS, LIVER & SHUNT PROCEDURES W CC
195 | CHOLECYSTECTOMY W C.D.E. W CC
210 | HIP & FEMUR PROCEDURES EXCEPT MAJOR JOINT AGE >17 W CC
226 | SOFT TISSUE PROCEDURES W CC
227 | SOFT TISSUE PROCEDURES W/O CC
230 | LOCAL EXCISION & REMOVAL OF INT FIX DEVICES OF HIP & FEMUR
268 | SKIN, SUBCUTANEOUS TISSUE & BREAST PLASTIC PROCEDURES
306 | PROSTATECTOMY W CC
308 | MINOR BLADDER PROCEDURES W CC
310 | TRANSURETHRAL PROCEDURES W CC
312 | URETHRAL PROCEDURES, AGE >17 W CC
360 | VAGINA, CERVIX & VULVA PROCEDURES
394 | OTHER O.R. PROCEDURES OF THE BLOOD AND BLOOD FORMING ORGANS
427 | NEUROSES EXCEPT DEPRESSIVE
479*** | OTHER VASCULAR PROCEDURES W/O CC
486 | OTHER O.R. PROCEDURES FOR MULTIPLE SIGNIFICANT TRAUMA
493 | LAPAROSCOPIC CHOLECYSTECTOMY W/O C.D.E. W CC
494* | LAPAROSCOPIC CHOLECYSTECTOMY W/O C.D.E. W/O CC
498** | SPINAL FUSION W/O CC
500 | BACK & NECK PROCEDURES EXCEPT SPINAL FUSION W/O CC
517 | PERCUTANEOUS CARDIVASCULAR PROC W NON-DRUG ELUTING STENT W/O AMI
519 | CERVICAL SPINAL FUSION W CC
532 | SPINAL PROCEDURES WITHOUT CC
538 | LOCAL EXCISION AND REMOVAL OF INTERNAL FIXATION DEVICES EXCEPT HIP AND FEMUR WITHOUT CC
Proposed Quintile 5
001 | CRANIOTOMY AGE >17 W CC
055 | MISCELLANEOUS EAR, NOSE, MOUTH & THROAT PROCEDURES
075 | MAJOR CHEST PROCEDURES
077 | OTHER RESP SYSTEM O.R. PROCEDURES W/O CC
108 | OTHER CARDIOTHORACIC PROCEDURES
110 | MAJOR CARDIOVASCULAR PROCEDURES W CC
115 | PRM CARD PACEM IMPL W AMI,HRT FAIL OR SHK,OR AICD LEAD OR GNRTR P
116 | OTH PERM CARD PACEMAK IMPL OR PTCA W CORONARY ARTERY STENT IMPLNT
118 | CARDIAC PACEMAKER DEVICE REPLACEMENT
154 | STOMACH, ESOPHAGEAL & DUODENAL PROCEDURES AGE >17 W CC
168 | MOUTH PROCEDURES W CC
171*** | OTHER DIGESTIVE SYSTEM O.R. PROCEDURES W/O CC
201 | OTHER HEPATOBILIARY OR PANCREAS O.R. PROCEDURES
209 | MAJOR JOINT & LIMB REATTACHMENT PROCEDURES OF LOWER EXTREMITY
216 | BIOPSIES OF MUSCULOSKELETAL SYSTEM & CONNECTIVE TISSUE
261 | BREAST PROC FOR NON-MALIGNANCY EXCEPT BIOPSY & LOCAL EXCISION
266*** | SKIN GRAFT &/OR DEBRID EXCEPT FOR SKIN ULCER OR CELLULITIS W/O CC
288 | O.R. PROCEDURES FOR OBESITY
304 | KIDNEY,URETER & MAJOR BLADDER PROC FOR NON-NEOPL W CC
365 | OTHER FEMALE REPRODUCTIVE SYSTEM O.R. PROCEDURES
401 | LYMPHOMA & NON-ACUTE LEUKEMIA W OTHER O.R. PROC W CC
406 | MYELOPROLIF DISORD OR POORLY DIFF NEOPL W MAJ O.R.PROC W CC
412 | HISTORY OF MALIGNANCY W ENDOSCOPY
441 | HAND PROCEDURES FOR INJURIES
471 | BILATERAL OR MULTIPLE MAJOR JOINT PROCS OF LOWER EXTREMITY
482 | TRACHEOSTOMY FOR FACE,MOUTH & NECK DIAGNOSES
488 | HIV W EXTENSIVE O.R. PROCEDURE
494** | LAPAROSCOPIC CHOLECYSTECTOMY W/O C.D.E. W/O CC
499 | BACK & NECK PROCEDURES EXCEPT SPINAL FUSION W CC
501 | KNEE PROCEDURES W PDX OF INFECTION W CC
515 | CARDIAC DEFIBRILATOR IMPLANT W/O CARDIAC CATH
534 | EXTRACRANIAL VASCULAR PROCEDURES WITHOUT CC
536 | CARDIAC DEFIB IMPLANT WITH CARDIAC CATH WITHOUT AMI/HF/SHOCK
* One of the original 163 low volume proposed LTC-DRGs initially assigned to a different proposed low volume quintile; reassigned to this proposed low volume quintile in addressing nonmonotonicity (see step 5 below).
** One of the original 163 low volume proposed LTC-DRGs initially assigned to this proposed low volume quintile; reassigned to a different proposed low volume quintile in addressing nonmonotonicity (see step 5 below).
*** One of the original 163 low volume proposed LTC-DRGs initially assigned to this proposed low volume quintile; removed from the proposed low volume quintiles in addressing nonmonotonicity (see step 5 below).

4. Steps for Determining the Proposed FY 2004 LTC-DRG Relative Weights

As we noted previously, the proposed FY 2004 LTC-DRG relative weights are determined in accordance with the methodology established in the August 30, 2002 LTCH PPS final rule (67 FR 55989-55991). In summary, LTCH cases must be grouped in the appropriate proposed LTC-DRG, while taking into account the low volume proposed LTC-DRGs as described above, before the proposed FY 2004 LTC-DRG relative weights can be determined. After grouping the cases in the appropriate proposed LTC-DRG, we are proposing to calculate the proposed relative weights for FY 2004 in this proposed rule by first removing statistical outliers and cases with a length of stay of 7 days or less. Next, we are proposing to adjust the number of cases in each proposed LTC-DRG for the effect of short-stay outlier cases under § 412.529. The short-stay adjusted discharges and corresponding charges would be used to calculate “relative adjusted weights” in each proposed LTC-DRG using the hospital-specific relative value method described above.

Below we discuss in detail the steps for calculating the proposed FY 2004 LTC-DRG relative weights, in accordance with the methodology established in the August 30, 2002 LTCH PPS final rule (67 FR 55989-55991).

Step 1—Remove statistical outliers. The first step in the calculation of the proposed FY 2004 LTC-DRG relative weights is to remove statistical outlier cases. We define statistical outliers as cases that are outside of 3.0 standard deviations from the mean of the log distribution of both charges per case and the charges per day for each proposed LTC-DRG. These statistical outliers would be removed prior to calculating the proposed relative weights. We believe that they may represent aberrations in the data that distort the measure of average resource use. Including those LTCH cases in the calculation of the proposed relative weights could result in an inaccurate proposed relative weight that does not truly reflect relative resource use among the proposed LTC-DRGs.

Step 2—Remove cases with a length of stay of 7 days or less. The proposed FY 2004 LTC-DRG relative weights should reflect the average of resources used on representative cases of a specific type. Generally, cases with a length of stay 7 days or less do not belong in a LTCH, since such stays do not fully receive or benefit from treatment that is typical in a LTCH stay and full resources are often not used in the earlier stages of admission to a LTCH. If we were to include stays of 7 days or less in the computation of the proposed FY 2004 LTC-DRG relative weights, the value of many proposed relative weights would decrease and, therefore, payments would decrease to a level that may no longer be appropriate.

We do not believe that it would be appropriate to compromise the integrity of the payment determination for those LTCH cases that actually benefit from and receive a full course of treatment at a LTCH, in order to include data from these very short-stays. Thus, in determining the proposed FY 2004 LTC-DRG relative weights, we remove LTCH cases with a length of stay of 7 days or less.

Step 3—Adjust charges for the effects of short-stay outliers. The third step in the calculation of the proposed FY 2004 LTC-DRG relative weights is to adjust each LTCH's charges per discharge for short-stay outlier cases (that is, a patient with a length of stay that is less than or equal to five-sixths the average length of stay of the LTC-DRG as described in the August 30, 2002 LTCH PPS final rule (67 FR 55977).

We make this adjustment by counting a short-stay outlier as a fraction of a discharge based on the ratio of the length of stay of the case to the average length of stay for the proposed LTC-DRG for nonshort-stay outlier cases. This has the effect of proportionately reducing the impact of the lower charges for the short-stay outlier cases in calculating the average charge for the proposed LTC-DRG. This process produces the same result as if the actual charges per discharge of a short-stay outlier case were adjusted to what they would have been had the patient's length of stay been equal to the average length of stay of the proposed LTC-DRG.

As we explained in the August 30, 2002 LTCH PPS final rule (67 FR 55990), counting short-stay outlier cases as full discharges with no adjustment in determining the proposed LTC-DRG relative weights would lower the proposed LTC-DRG relative weight for affected proposed LTC-DRGs because the relatively lower charges of the short-stay outlier cases would bring down the average charge for all cases within a proposed LTC-DRG. This would result in an “underpayment” to nonshort-stay outlier cases and an “overpayment” to short-stay outlier cases. Therefore, in this proposed rule, in accordance with the methodology established in the August 30, 2002 LTCH PPS final rule (67 FR 55990), we adjust for short-stay outlier cases under § 412.529 in this manner since it would result in more appropriate payments for all LTCH cases.

Step 4—Calculate the proposed FY 2004 LTC-DRG relative weights on an iterative basis. The process of calculating the LTC-DRG relative weights using the hospital specific relative value methodology is iterative. First, for each LTCH case, we calculate a hospital-specific relative charge value by dividing the short-stay outlier adjusted charge per discharge (see step 3) of the LTCH case (after removing the statistical outliers (see step 1)) and LTCH cases with a length of stay of 7 days or less (see step 2) by the average charge per discharge for the LTCH in which the case occurred. The resulting ratio is then multiplied by the LTCH's case-mix index to produce an adjusted hospital-specific relative charge value for the case. An initial case-mix index value of 1.0 is used for each LTCH.

For each proposed LTC-DRG, the proposed FY 2004 LTC-DRG relative weight is calculated by dividing the average of the adjusted hospital-specific relative charge values (from above) for the proposed LTC-DRG by the overall average hospital-specific relative charge value across all cases for all LTCHs. Using these recalculated proposed LTC-DRG relative weights, each LTCH's average proposed relative weight for all of its cases (case-mix) is calculated by dividing the sum of all the LTCH's proposed LTC-DRG relative weights by its total number of cases. The LTCHs' hospital-specific relative charge values above are multiplied by these hospital specific case-mix indexes. These hospital-specific case-mix adjusted relative charge values are then used to calculate a new set of proposed LTC-DRG relative weights across all LTCHs. In this proposed rule, this iterative process is continued until there is convergence between the weights produced at adjacent steps, for example, when the maximum difference is less than 0.0001.

Step 5—Adjust the proposed FY 2004 LTC-DRG relative weights to account for nonmonotonically increasing relative weights. As explained in section II.B. of this preamble, the proposed FY 2004 CMS DRGs, upon which the proposed FY 2004 LTC-DRGs are based, contain “pairs” that are differentiated based on the presence or absence of CCs. The proposed LTC-DRGs with CCs are defined by certain secondary diagnoses not related to or inherently a part of the disease process identified by the principal diagnosis, but the presence of additional diagnoses does not automatically generate a CC. As we discussed in the August 30, 2002 LTCH PPS final rule (67 FR 55990), the value of monotonically increasing relative weights rises as the resource use increases (for example, from uncomplicated to more complicated). The presence of CCs in a proposed LTC-DRG means that cases classified into a “without CC” proposed LTC-DRG are expected to have lower resource use (and lower costs). In other words, resource use (and costs) are expected to decrease across “with CC”/“without CC” pairs of proposed LTC-DRGs.

For a case to be assigned to a proposed LTC-DRG with CCs, as we explained in the August 30, 2002 LTCH PPS final rule (67 FR 55990), more coded information is called for (that is, at least one relevant secondary diagnosis), than for a case to be assigned to a proposed LTC-DRG “without CCs” (which is based on only one principal diagnosis and no relevant secondary diagnoses). Currently, the LTCH claims data include both accurately coded cases without complications and cases that have complications (and cost more) but were not coded completely. Both types of cases are grouped to a proposed LTC-DRG “without CCs” since only one principal diagnosis was coded. Since LTCHs were previously paid under cost-based reimbursement, which is not based on patient diagnoses, LTCHs' coding for these cases may not have been as detailed as possible.

Thus, in developing the FY 2003 LTC-DRG relative weights for the LTCH PPS based on FY 2001 claims data, as we explained in the August 30, 2002 LTCH PPS final rule (67 FR 55990), we found on occasion that the data suggested that cases classified to the LTC-DRG “with CCs” of a “with CC”/“without CC” pair had a lower average charge than the corresponding LTC-DRG “without CCs.” Similarly, based on FY 2002 claims data, we also found on occasion that the data suggested that cases classified to the proposed LTC-DRG “with CCs” of a “with CC”/“without CC” pair would have a lower average charge than the corresponding proposed LTC-DRG “without CCs” for FY 2004.

We believe this anomaly may be due to coding that may not have fully reflected all comorbidities that were present. Specifically, LTCHs may have failed to code relevant secondary diagnoses, which resulted in cases that actually had CCs being classified into a “without CC” LTC-DRG. It would not be appropriate to pay a lower amount for the “with CC” LTC-DRG. Therefore, in this proposed rule, in accordance with the methodology established in that same final rule (67 FR 55990-55991), we grouped both the cases “with CCs” and “without CCs” together for the purpose of calculating the proposed FY 2004 LTC-DRG relative weights. We continue to employ this methodology to account for nonmonotonically increasing relative weights until we have adequate data to calculate appropriate separate weights for these anomalous LTC-DRG pairs. We expect that, as was the case when we first implemented the IPPS, this problem will be self-correcting, as LTCHs submit more completely coded data in the future.

As we discussed in the August 30, 2002 LTCH PPS final rule (67 FR 55990), there are three types of “with CC” and “without CC” pairs that were nonmonotonic, that is, where the “without CC” proposed LTC-DRG would have a higher average charge than the “with CC” proposed LTC-DRG. For this proposed rule, using the LTCH cases in the December 2002 update of the FY 2002 MedPAR file, we identified two of the types of nonmonotonic LTC-DRG pairs.

The first category of nonmonotonically increasing relative weights for proposed FY 2004 LTC-DRG pairs “with and without CCs” contains no pairs of proposed LTC-DRGs in which both the proposed LTC-DRG “with CCs” and the proposed LTC-DRG “without CCs” had 25 or more LTCH cases and, therefore, would not fall into one of the 5 proposed low volume quintiles. For that type of nonmonotonic LTC-DRG pair, in accordance with the methodology established in the August 30, 2002 LTCH PPS final rule (67 FR 55990-55991), we would combine the LTCH cases and compute a new proposed relative weight based on the case-weighted average of the combined LTCH cases of the proposed LTC-DRGs. The case-weighted average charge is determined by dividing the total charges for all LTCH cases by the total number of LTCH cases for the combined proposed LTC-DRG. This new proposed relative weight would then be assigned to both of the proposed LTC-DRGs in the pair. However, as there are no pairs that fall into this category, in this proposed rule, we are proposing that, for FY 2004, there would be zero proposed LTC-DRGs in this category.

The second category of nonmonotonically increasing relative weights for proposed LTC-DRG pairs with and without CCs consists of 5 pairs of proposed LTC-DRGs that has fewer than 25 cases, and each proposed LTC-DRG would be grouped to different proposed low volume quintiles in which the “without CC” proposed LTC-DRG would be in a higher-weighted proposed low volume quintile than the “with CC” proposed LTC-DRG. For those pairs, in accordance with the methodology established in the August 30, 2002 LTCH PPS final rule (67 FR 55990-55991), we combine the LTCH cases and determine the case-weighted average charge for all LTCH cases. The case-weighted average charge is determined by dividing the total charges for all LTCH cases by the total number of LTCH cases for the combined proposed LTC-DRG. Based on the case-weighted average LTCH charge, we determine which proposed low volume quintile the “combined proposed LTC-DRG” would be grouped. Both proposed LTC-DRGs in the pair are then grouped into the same proposed low volume quintile, and thus would have the same proposed relative weight. For the FY 2004, in this proposed rule, we are proposing that the following proposed LTC-DRGs would be in this category: Proposed LTC-DRGs 31 and 32 (proposed low volume quintile 3); proposed LTC-DRGs 193 and 194 (proposed low volume quintile 2); proposed LTC-DRGs 493 and 494 (proposed low volume quintile 4); proposed LTC-DRGs 497 and 498 (proposed low volume quintile 3); and proposed LTC-DRGs 506 and 507 (proposed low volume quintile 2).

The third category of nonmonotonically increasing relative weights for proposed LTC-DRG pairs with and without CCs consists of 5 pairs of proposed LTC-DRGs where one of the proposed LTC-DRGs has fewer than 25 LTCH cases and is grouped to a proposed low volume quintile and the other proposed LTC-DRG has 25 or more LTCH cases and has its own proposed LTC-DRG relative weight, and the proposed LTC-DRG “without CCs” has the higher proposed relative weight. In accordance with the methodology established in the August 30, 2002 LTCH PPS final rule (67 FR 55990 and 55991), we remove the proposed low volume LTC-DRG from the proposed low volume quintile and combine it with the other proposed LTC-DRG for the computation of a new proposed relative weight for each of these proposed LTC-DRGs. This new proposed relative weight is assigned to both proposed LTC-DRGs, so they each have the same proposed relative weight. For FY 2004, in this proposed rule, we are proposing the following proposed LTC-DRGs would be in this category: Proposed LTC-DRGs 94 and 95; proposed LTC-DRGs 170 and 171; proposed LTC-DRGs 265 and 266; proposed LTC-DRGs 346 and 347; and proposed LTC-DRGs 478 and 479.

Step 6—Determine a proposed FY 2004 LTC-DRG relative weight for LTC-DRGs with no LTCH cases. As we stated above, we determine the proposed relative weight for each proposed LTC-DRG using charges reported in the December 2002 update of the FY 2002 MedPAR file. Of the 518 proposed LTC-DRGs for FY 2004, we identified 164 proposed LTC-DRGs for which there were no LTCH cases in the database. That is, based on data from the FY 2002 MedPAR file used in this proposed rule, no patients who would have been classified to those proposed LTC-DRGs were treated in LTCHs during FY 2002 and, therefore, no charge data were reported for those proposed LTC-DRGs. Thus, in the process of determining the proposed LTC-DRG relative weights, we are unable to determine proposed weights for these 164 proposed LTC-DRGs using the methodology described in steps 1 through 5 above. However, since patients with a number of the diagnoses under these proposed LTC-DRGs may be treated at LTCHs beginning in FY 2004, in accordance with the methodology established in the August 30, 2002 LTCH PPS final rule (67 FR 55991), we assign proposed relative weights to each of the 164 “no volume” proposed LTC-DRGs based on clinical similarity and relative costliness to one of the remaining 354 (518−164 = 354) proposed LTC-DRGs for which we are able to determine proposed relative weights, based on FY 2002 claims data.

As there are currently no LTCH cases in these “no volume” proposed LTC-DRGs, in accordance with the methodology established in the August 30, 2002 LTCH PPS final rule (67 FR 55991), we determine proposed relative weights for the 164 proposed LTC-DRGs with no LTCH cases in the FY 2002 MedPAR file used in this proposed rule by grouping them to the appropriate proposed low volume quintile. This methodology is consistent with our methodology used in determining proposed relative weights to account for the proposed low volume LTC-DRGs described above.

As we described in the August 30, 2002 LTCH PPS final rule (67 FR 55991), our methodology for determining proposed relative weights for the “no volume” proposed LTC-DRGs is as follows: First, we crosswalk the no volume proposed LTC-DRGs by matching them to other similar proposed LTC-DRGs for which there were LTCH cases in the FY 2002 MedPAR file based on clinical similarity and intensity of use of resources as determined by care provided during the period of time surrounding surgery, surgical approach (if applicable), length of time of surgical procedure, post-operative care, and length of stay. We assign the proposed relative weight for the applicable proposed low volume quintile to the no volume proposed LTC-DRG if the proposed LTC-DRG to which it is crosswalked is grouped to one of the proposed low volume quintiles. If the proposed LTC-DRG to which the no volume proposed LTC-DRG is crosswalked is not one of the proposed LTC-DRGs to be grouped to one of the proposed low volume quintiles, we compare the proposed relative weight of the proposed LTC-DRG to which the no volume proposed LTC-DRG is crosswalked to the proposed relative weights of each of the five proposed quintiles and we assign the no volume proposed LTC-DRG the proposed relative weight of the proposed low volume quintile with the closest weight. For this proposed rule, a list of the no volume proposed FY 2004 LTC-DRGs and the proposed FY 2004 LTC-DRG to which it is crosswalked in order to determine the appropriate proposed low volume quintile for the assignment of a proposed relative weight for FY 2004 is shown below in Table 2.

Table 2.—Proposed No Volume LTC-DRG Crosswalk and Proposed Quintile Assignment for FY 2004
LTC-DRG | Description | Cross walked LTC-DRG | Low volume quintile assigned
2 | CRANIOTOMY AGE > 17 W/O CC | 1 | Quintile 5.
3 | CRANIOTOMY AGE 0-17 | 1 | Quintile 5.
6 | CARPAL TUNNEL RELEASE | 251 | Quintile 1.
26 | SEIZURE & HEADACHE AGE 0-17 | 25 | Quintile 2.
30 | TRAUMATIC STUPOR & COMA, COMA <1 HR AGE 0-17 | 29 | Quintile 3.
33 | CONCUSSION AGE 0-17 | 25 | Quintile 2.
36 | RETINAL PROCEDURES | 47 | Quintile 1.
37 | ORBITAL PROCEDURES | 47 | Quintile 1.
38 | PRIMARY IRIS PROCEDURES | 47 | Quintile 1.
39 | LENS PROCEDURES WITH OR WITHOUT VITRECTOMY | 47 | Quintile 1.
40 | EXTRAOCULAR PROCEDURES EXCEPT ORBIT AGE >17 | 47 | Quintile 1.
41 | EXTRAOCULAR PROCEDURES EXCEPT ORBIT AGE 0-17 | 47 | Quintile 1.
42 | INTRAOCULAR PROCEDURES EXCEPT RETINA, IRIS & LENS | 47 | Quintile 1.
43 | HYPHEMA | 47 | Quintile 1.
45 | NEUROLOGICAL EYE DISORDERS | 46 | Quintile 2.
48 | OTHER DISORDERS OF THE EYE AGE 0-17 | 47 | Quintile 1.
49 | MAJOR HEAD & NECK PROCEDURES | 64 | Quintile 4.
50 | SIALOADENECTOMY | 63 | Quintile 3.
51 | SALIVARY GLAND PROCEDURES EXCEPT SIALOADENECTOMY | 63 | Quintile 3.
52 | CLEFT LIP & PALATE REPAIR | 63 | Quintile 3.
54 | SINUS & MASTOID PROCEDURES AGE 0-17 | 63 | Quintile 3.
56 | RHINOPLASTY | 72 | Quintile 1.
57 | T&A PROC, EXCEPT TONSILLECTOMY &/OR ADENOIDECTOMY ONLY, AGE >17 | 63 | Quintile 3.
58 | T&A PROC, EXCEPT TONSILLECTOMY &/OR ADENOIDECTOMY ONLY, AGE 0-17 | 63 | Quintile 3.
59 | TONSILLECTOMY &/OR ADENOIDECTOMY ONLY, AGE >17 | 63 | Quintile 3.
60 | TONSILLECTOMY &/OR ADENOIDECTOMY ONLY, AGE 0-17 | 63 | Quintile 3.
62 | MYRINGOTOMY W TUBE INSERTION AGE 0-17 | 63 | Quintile 3.
67 | EPIGLOTTITIS | 63 | Quintile 3.
70 | OTITIS MEDIA & URI AGE 0-17 | 69 | Quintile 1.
71 | LARYNGOTRACHEITIS | 97 | Quintile 2.
74 | OTHER EAR, NOSE, MOUTH & THROAT DIAGNOSES AGE 0-17 | 69 | Quintile 1.
81 | RESPIRATORY INFECTIONS & INFLAMMATIONS AGE 0-17 | 69 | Quintile 1.
91 | SIMPLE PNEUMONIA & PLEURISY AGE 0-17 | 90 | Quintile 2.
98 | BRONCHITIS & ASTHMA AGE 0-17 | 97 | Quintile 2.
104 | CARDIAC VALVE & OTHER MAJOR CARDIOTHORACIC PROC W CARDIAC CATH | 110 | Quintile 5.
105 | CARDIAC VALVE & OTHER MAJOR CARDIOTHORACIC PROC W/O CARDIAC CATH | 110 | Quintile 5.
106 | CORONARY BYPASS W PTCA | 110 | Quintile 5.
107 | CORONARY BYPASS W CARDIAC CATH | 110 | Quintile 5.
109 | CORONARY BYPASS W/O PTCA OR CARDIAC CATH | 110 | Quintile 5.
111 | MAJOR CARDIOVASCULAR PROCEDURES W/O CC | 110 | Quintile 5.
137 | CARDIAC CONGENITAL & VALVULAR DISORDERS AGE 0-17 | 136 | Quintile 2.
146 | RECTAL RESECTION W CC | 148 | Quintile 5.
147 | RECTAL RESECTION W/O CC | 148 | Quintile 5.
151 | PERITONEAL ADHESIOLYSIS W/O CC | 150 | Quintile 4.
153 | MINOR SMALL & LARGE BOWEL PROCEDURES W/O CC | 152 | Quintile 4.
155 | STOMACH, ESOPHAGEAL & DUODENAL PROCEDURES AGE >17 W/O CC | 171 | Quintile 5.
156 | STOMACH, ESOPHAGEAL & DUODENAL PROCEDURES AGE 0-17 | 171 | Quintile 5.
159 | HERNIA PROCEDURES EXCEPT INGUINAL & FEMORAL AGE >17 W CC | 161 | Quintile 4.
160 | HERNIA PROCEDURES EXCEPT INGUINAL & FEMORAL AGE >17 W/O CC | 161 | Quintile 4.
162 | INGUINAL & FEMORAL HERNIA PROCEDURES AGE >17 W/O CC | 178 | Quintile 1.
163 | HERNIA PROCEDURES AGE 0-17 | 178 | Quintile 1.
164 | APPENDECTOMY W COMPLICATED PRINCIPAL DIAG W CC | 148 | Quintile 5.
165 | APPENDECTOMY W COMPLICATED PRINCIPAL DIAG W/O CC | 149 | Quintile 1.
166 | APPENDECTOMY W/O COMPLICATED PRINCIPAL DIAG W CC | 148 | Quintile 5.
167 | APPENDECTOMY W/O COMPLICATED PRINCIPAL DIAG W/O CC | 149 | Quintile 1.
169 | MOUTH PROCEDURES W/O CC | 72 | Quintile 1.
184 | ESOPHAGITIS, GASTROENT & MISC DIGEST DISORDERS AGE 0-17 | 183 | Quintile 2.
186 | DENTAL ORAL DIS EXCEPT EXTRACTIONS & RESTORATIONS, AGE 0-17 | 185 | Quintile 2.
187 | DENTAL EXTRACTIONS & RESTORATIONS | 185 | Quintile 2.
190 | OTHER DIGESTIVE SYSTEM DIAGNOSES AGE 0-17 | 189 | Quintile 2.
196 | CHOLECYSTECTOMY W C.D.E. W/O CC | 197 | Quintile 3.
198 | CHOLECYSTECTOMY EXCEPT BY LAPAROSCOPE W/O C.D.E. W/O CC | 197 | Quintile 3.
199 | HEPATOBILIARY DIAGNOSTIC PROCEDURE FOR MALIGNANCY | 200 | Quintile 2.
212 | HIP & FEMUR PROCEDURES EXCEPT MAJOR JOINT AGE 0-17 | 211 | Quintile 2.
219 | LOWER EXTREM & HUMER PROC EXCEPT HIP, FOOT, FEMUR AGE >17 W/O CC | 218 | Quintile 3.
220 | LOWER EXTREM & HUMER PROC EXCEPT HIP, FOOT, FEMUR AGE 0-17 | 218 | Quintile 3.
224 | SHOULDER, ELBOW OR FOREARM PROC, EXC MAJOR JOINT PROC, W/O CC | 234 | Quintile 2.
229 | HAND OR WRIST PROC, EXCEPT MAJOR JOINT PROC, W/O CC | 234 | Quintile 2.
252 | FX, SPRN, STRN & DISL OF FOREARM, HAND, FOOT AGE 0-17 | 234 | Quintile 2.
255 | FX, SPRN, STRN & DISL OF UPARM, LOWLEG EX FOOT AGE 0-17 | 234 | Quintile 2.
258 | TOTAL MASTECTOMY FOR MALIGNANCY W/O CC | 257 | Quintile 3.
259 | SUBTOTAL MASTECTOMY FOR MALIGNANCY W CC | 257 | Quintile 3.
260 | SUBTOTAL MASTECTOMY FOR MALIGNANCY W/O CC | 257 | Quintile 3.
267 | PERIANAL & PILONIDAL PROCEDURES | 158 | Quintile 1.
279 | CELLULITIS AGE 0-17 | 78 | Quintile 1.
282 | TRAUMA TO THE SKIN, SUBCUT TISS & BREAST AGE 0-17 | 281 | Quintile 2.
286 | ADRENAL & PITUITARY PROCEDURES | 292 | Quintile 4.
289 | PARATHYROID PROCEDURES | 293 | Quintile 3.
290 | THYROID PROCEDURES | 293 | Quintile 3.
291 | THYROGLOSSAL PROCEDURES | 293 | Quintile 3.
298 | NUTRITIONAL & MISC METABOLIC DISORDERS AGE 0-17 | 297 | Quintile 2.
303 | KIDNEY,URETER & MAJOR BLADDER PROCEDURES FOR NEOPLASM | 304 | Quintile 5.
307 | PROSTATECTOMY W/O CC | 306 | Quintile 4.
313 | URETHRAL PROCEDURES, AGE >17 W/O CC | 311 | Quintile 1.
314 | URETHRAL PROCEDURES, AGE 0-17 | 311 | Quintile 1.
322 | KIDNEY & URINARY TRACT INFECTIONS AGE 0-17 | 326 | Quintile 2.
327 | KIDNEY & URINARY TRACT SIGNS & SYMPTOMS AGE 0-17 | 326 | Quintile 2.
329 | URETHRAL STRICTURE AGE >17 W/O CC | 328 | Quintile 1.
330 | URETHRAL STRICTURE AGE 0-17 | 328 | Quintile 1.
333 | OTHER KIDNEY & URINARY TRACT DIAGNOSES AGE 0-17 | 332 | Quintile 1.
334 | MAJOR MALE PELVIC PROCEDURES W CC | 345 | Quintile 3.
335 | MAJOR MALE PELVIC PROCEDURES W/O CC | 345 | Quintile 3.
336 | TRANSURETHRAL PROSTATECTOMY W CC | 341 | Quintile 2.
337 | TRANSURETHRAL PROSTATECTOMY W/O CC | 341 | Quintile 2.
338 | TESTES PROCEDURES, FOR MALIGNANCY | 339 | Quintile 1.
340 | TESTES PROCEDURES, NON-MALIGNANCY AGE 0-17 | 339 | Quintile 1.
343 | CIRCUMCISION AGE 0-17 | 339 | Quintile 1.
351 | STERILIZATION, MALE | 339 | Quintile 1.
353 | PELVIC EVISCERATION, RADICAL HYSTERECTOMY & RADICAL VULVECTOMY | 365 | Quintile 5.
354 | UTERINE,ADNEXA PROC FOR NON-OVARIAN/ADNEXAL MALIG W CC | 365 | Quintile 5.
355 | UTERINE,ADNEXA PROC FOR NON-OVARIAN/ADNEXAL MALIG W/O CC | 365 | Quintile 5.
356 | FEMALE REPRODUCTIVE SYSTEM RECONSTRUCTIVE PROCEDURES | 360 | Quintile 4.
357 | UTERINE & ADNEXA PROC FOR OVARIAN OR ADNEXAL MALIGNANCY | 360 | Quintile 4.
358 | UTERINE & ADNEXA PROC FOR NON-MALIGNANCY W CC | 360 | Quintile 4.
359 | UTERINE & ADNEXA PROC FOR NON-MALIGNANCY W/O CC | 360 | Quintile 4.
361 | LAPAROSCOPY & INCISIONAL TUBAL INTERRUPTION | 149 | Quintile 1.
362 | ENDOSCOPIC TUBAL INTERRUPTION | 149 | Quintile 1.
363 | D&C, CONIZATION & RADIO-IMPLANT, FOR MALIGNANCY | 367 | Quintile 2.
364 | D&C, CONIZATION EXCEPT FOR MALIGNANCY | 367 | Quintile 2.
370 | CESAREAN SECTION W CC | 369 | Quintile 3.
371 | CESAREAN SECTION W/O CC | 367 | Quintile 2.
372 | VAGINAL DELIVERY W COMPLICATING DIAGNOSES | 367 | Quintile 2.
373 | VAGINAL DELIVERY W/O COMPLICATING DIAGNOSES | 367 | Quintile 2.
374 | VAGINAL DELIVERY W STERILIZATION &/OR D&C | 367 | Quintile 2.
375 | VAGINAL DELIVERY W O.R. PROC EXCEPT STERIL &/OR D&C | 367 | Quintile 2.
377 | POSTPARTUM & POST ABORTION DIAGNOSES W O.R. PROCEDURE | 367 | Quintile 2.
378 | ECTOPIC PREGNANCY | 369 | Quintile 3.
379 | THREATENED ABORTION | 376 | Quintile 1.
380 | ABORTION W/O D&C | 376 | Quintile 1.
381 | ABORTION W D&C, ASPIRATION CURETTAGE OR HYSTEROTOMY | 376 | Quintile 1.
382 | FALSE LABOR | 376 | Quintile 1.
383 | OTHER ANTEPARTUM DIAGNOSES W MEDICAL COMPLICATIONS | 376 | Quintile 1.
384 | OTHER ANTEPARTUM DIAGNOSES W/O MEDICAL COMPLICATIONS | 376 | Quintile 1.
386 | EXTREME IMMATURITY | 367 | Quintile 2.
387 | PREMATURITY W MAJOR PROBLEMS | 367 | Quintile 2.
388 | PREMATURITY W/O MAJOR PROBLEMS | 367 | Quintile 2.
389 | FULL TERM NEONATE W MAJOR PROBLEMS | 367 | Quintile 2.
390 | NEONATE W OTHER SIGNIFICANT PROBLEMS | 367 | Quintile 2.
391 | NORMAL NEWBORN | 376 | Quintile 1.
392 | SPLENECTOMY AGE >17 | 194 | Quintile 2.
393 | SPLENECTOMY AGE 0-17 | 194 | Quintile 2.
396 | RED BLOOD CELL DISORDERS AGE 0-17 | 399 | Quintile 1.
405 | ACUTE LEUKEMIA W/O MAJOR O.R. PROCEDURE AGE 0-17 | 404 | Quintile 2.
407 | MYELOPROLIF DISORD OR POORLY DIFF NEOPL W MAJ O.R. PROC W/O CC | 408 | Quintile 3.
417 | SEPTICEMIA AGE 0-17 | 416 | Quintile 3.
422 | VIRAL ILLNESS & FEVER OF UNKNOWN ORIGIN AGE 0-17 | 420 | Quintile 1.
446 | TRAUMATIC INJURY AGE 0-17 | 445 | Quintile 2.
448 | ALLERGIC REACTIONS AGE 0-17 | 455 | Quintile 1.
451 | POISONING & TOXIC EFFECTS OF DRUGS AGE 0-17 | 455 | Quintile 1.
481 | BONE MARROW TRANSPLANT | 394 | Quintile 1.
484 | CRANIOTOMY FOR MULTIPLE SIGNIFICANT TRAUMA | 1 | Quintile 5.
485 | LIMB REATTACHMENT, HIP AND FEMUR PROC FOR MULTIPLE SIGNIFICANT TR | 209 | Quintile 5.
491 | MAJOR JOINT & LIMB REATTACHMENT PROCEDURES OF UPPER EXTREMITY | 209 | Quintile 5.
492 | CHEMOTHERAPY W ACUTE LEUKEMIA AS SECONDARY DIAGNOSIS | 410 | Quintile 3.
496 | COMBINED ANTERIOR/POSTERIOR SPINAL FUSION | 210 | Quintile 4.
504 | EXTENSIVE 3RD DEGREE BURNS W SKIN GRAFT | 468 | Quintile 5.
516 | PERCUTANEOUS CARDIVASCULAR PROCEDURE W AMI | 578 | Quintile 3.
520 | CERVICAL SPINAL FUSION W/O CC | 498 | Quintile 3.
525 | HEART ASSIST SYSTEM IMPLANT | 468 | Quintile 5.
526 | PERCUTANEOUS CARVIOVASCULAR PROC W DRUG-ELUTING STENT W AMI | 517 | Quintile 4.
527 | PERCUTANEOUS CARVIOVASCULAR PROC W DRUG-ELUTING STENT W/O AMI | 517 | Quintile 4.
528 | INTRACRANIAL VASCLUAR PROCEDURES WITH PDX HEMORRHAGE | 1 | Quintile 5.
530 | VENTRICULAR SHUNT PROCEDURES WITHOUT CC | 529 | Quintile 2.
531 | SPINAL PROCEDURES WITH CC | 519 | Quintile 4.
533 | EXTRACRANIAL VASCULAR PROCEDURES WITH CC | 534 | Quintile 5.
535 | CARDIAC DEFIB IMPLANT WITH CARDIAC CATH WITH AMI/HF/SHOCK | 515 | Quintile 5.
537 | LOCAL EXCISION AND REMOVAL OF INTERNAL FIXATION DEVICES EXCEPT HIP AND FEMUR WITH CC | 253 | Quintile 2.
539 | LYMPHOMA AND LEUKEMIA WITH MAJOR O.R. PROCEDURE WITH CC | 401 | Quintile 5.

To illustrate this methodology, which was established in the August 30, 2002 LTCH PPS final rule (67 FR 55991), for determining the proposed relative weights for the 164 proposed LTC-DRGs with no LTCH cases, we are providing the following examples, which refer to the no volume proposed LTC-DRGs crosswalk information for FY 2004 provided above in Table 2:

Example 1: There were no cases in the FY 2002 MedPAR file used for this proposed rule for proposed LTC-DRG 163 (Hernia Procedures Age 0-17). Since the procedure is similar in resource use and the length and complexity of the procedures and the length of stay are similar, we determined that proposed LTC-DRG 178 (Uncomplicated Peptic Ulcer Without CC), which is assigned to proposed low volume quintile 1 for the purpose of determining the proposed FY 2004 relative weights, would display similar clinical and resource use. Therefore, we are proposing to assign the same proposed relative weight of LTC-DRG 178 of 0.5711 (proposed Quintile 1) for FY 2004 (Table 11 in the Addendum to this proposed rule) to proposed LTC-DRG 163.

Example 2: There were no LTCH cases in the FY 2002 MedPAR file used in this proposed rule for proposed LTC-DRG 91 (Simple Pneumonia and Pleurisy Age 0-17). Since the severity of illness in patients with bronchitis and asthma is similar in patients regardless of age, we determined that proposed LTC-DRG 90 (Simple Pneumonia and Pleurisy Age >17 Without CC) would display similar clinical and resource use characteristics and have a similar length of stay to proposed LTC-DRG 91. There were over 25 cases in proposed LTC-DRG 90. Therefore, it would not be assigned to a proposed low volume quintile for the purpose of determining the proposed LTC-DRG relative weights. However, under our established methodology, proposed LTC-DRG 91, with no LTCH cases, would need to be grouped to a proposed low volume quintile. We identified that the proposed low volume quintile with the closest weight to proposed LTC-DRG 90 (0.7429; see Table 11 in the Addendum to this proposed rule) would be proposed low volume quintile 2 (0.7347; see Table 11 in the Addendum to this proposed rule). Therefore, we are proposing to assign proposed LTC-DRG 91 a proposed relative weight of 0.7347 for FY 2004.

Furthermore, in accordance with the methodology established in the August 30, 2002 final rule (67 FR 55991), we are proposing LTC-DRG relative weights of 0.0000 for heart, kidney, liver, lung, pancreas, and simultaneous pancreas/kidney transplants (proposed LTC-DRGs 103, 302, 480, 495, 512, and 513, respectively) for FY 2004 because Medicare will only cover these procedures if they are performed at a hospital that has been certified for the specific procedures by Medicare and presently no LTCH has been so certified.

Based on our research, as we discussed in that same final rule (67 FR 55995), we found that most LTCHs only perform minor surgeries, such as minor small and large bowel procedures, to the extent any surgeries are performed at all. Given the extensive criteria that must be met to become certified as a transplant center for Medicare, we believe it is unlikely that any LTCHs would become certified as a transplant center. In fact, in the nearly 20 years since the implementation of the IPPS, there has never been a LTCH that even expressed an interest in becoming a transplant center.

However, if in the future a LTCH applies for certification as a Medicare-approved transplant center, we believe that the application and approval procedure would allow sufficient time for us to propose appropriate weights for the LTC-DRGs affected. At the present time, we would only include these six transplant proposed LTC-DRGs in the GROUPER program for administrative purposes. Since we use the same GROUPER program for LTCHs as is used under the acute care hospital IPPS, removing these LTC-DRGs would be administratively burdensome.

Again, we note that as this system is dynamic, it is entirely possible that the number of proposed LTC-DRGs with a zero volume of LTCH cases based on the system will vary in the future. We used the best most recent available claims data in the MedPAR file to identify zero volume proposed LTC-DRGs and to determine the relative weights in this final rule.

Table 11 in the Addendum to this proposed rule lists the proposed LTC-DRGs and their respective proposed relative weights, geometric mean length of stay, and five-sixths of the geometric mean length of stay (to assist in the determination of short-stay outlier payments under § 412.529) for FY 2004.

E. Add-On Payments for New Services and Technologies

1. Background

Sections 1886(d)(5)(K) and (L) of the Act establish a process of identifying and ensuring adequate payment for new medical services and technologies under the IPPS. Section 1886(d)(5)(K)(ii)(I) of the Act specifies that the process must apply to a new medical service or technology if, “based on the estimated costs incurred with respect to discharges involving such service or technology, the DRG prospective payment rate otherwise applicable to such discharges under this subsection is inadequate.” Section 1886(d)(5)(K)(vi) of the Act specifies that a medical service or technology will be considered “new” if it meets criteria established by the Secretary after notice and opportunity for public comment.

Section 412.87(b)(1) of our existing regulations provides that a new technology will be an appropriate candidate for an additional payment when it represents an advance in medical technology that substantially improves, relative to technologies previously available, the diagnosis or treatment of Medicare beneficiaries (see the September 7, 2001 final rule (66 FR 46902)). Section 412.87(b)(3) provides that, to receive special payment treatment, new technologies meeting this clinical definition must be demonstrated to be inadequately paid otherwise under the DRG system. To assess whether technologies would be inadequately paid under the DRGs, we established this threshold at one standard deviation beyond the geometric mean standardized charge for all cases in the DRGs to which the new technology is assigned (or the case-weighted average of all relevant DRGs, if the new technology occurs in many different DRGs). Table 10 in the Addendum to this proposed rule lists the proposed qualifying criteria by DRG, based on the discharge data that we are using to calculate the proposed FY 2004 DRG weights. The thresholds that will be published in the final rule for FY 2004 will be used to evaluate applicants for new technology add-on payments during FY 2005.

In addition to the clinical and cost criteria, we established that, in order to qualify for the new technology add-on payments, a specific technology must be “new” under the requirements of § 412.87(b)(2) of our regulations. The statutory provision contemplated the special payment treatment for new technologies until such time as data are available to reflect the cost of the technology in the DRG weights through recalibration (no less than 2 years and no more than 3 years). There is a lag of 2 to 3 years from the point a new technology is first introduced on the market and when data reflecting the use of the technology are used to calculate the DRG weights. For example, data from discharges occurring during FY 2002 are used to calculate the proposed FY 2004 DRG weights in this proposed rule.

Technology may be considered “new” for purposes of this provision within 2 or 3 years after the point at which data begin to become available reflecting the costs of the technology. After we have recalibrated the DRGs to reflect the costs of an otherwise new technology, the special add-on payment for new technology will cease (§ 412.87(b)(2)). For example, an approved new technology that received FDA approval in October 2002 would be eligible to receive add-on payments as a new technology at least until FY 2005 (discharges occurring before October 1, 2004), when data reflecting the costs of the technology would be used to recalibrate the DRG weights. Because the FY 2005 DRG weights will be calculated using FY 2003 MedPAR data, the costs of such a new technology would likely be reflected in the FY 2005 DRG weights.

Similar to the timetable for applying for new technology add-on payments during FY 2004, we are proposing that applicants for FY 2005 must submit a formal request, including a full description of the clinical applications of the technology and the results of any clinical evaluations demonstrating that the new technology represents a substantial clinical improvement, along with a significant sample of data to demonstrate the technology meets the high-cost threshold, no later than early October 2003. We are proposing that a complete database must be submitted no later than mid-December 2003. Complete application information is available at our Web site at: http://www.cms.hhs.gov/providers /hipps/default.asp. To allow interested parties to identify the technologies under review before the publication of the annual proposed rule, the Web site also lists the tracking forms completed by each applicant.

The new technology add-on payment policy provides additional payments for cases with high costs involving eligible new technologies while preserving some of the incentives under the average-based payment system. The payment mechanism is based on the cost to hospitals for the new technology. Under § 412.88, Medicare pays a marginal cost factor of 50 percent for the costs of the new technology in excess of the full DRG payment. If the actual costs of a new technology case exceed the DRG payment by more than the estimated costs of the new technology, Medicare payment is limited to the DRG payment plus 50 percent of the estimated costs of the new technology.

The report language accompanying section 533 of Public Law 106-554 indicated Congressional intent that the Secretary implement the new mechanism on a budget neutral basis (H.R. Conf. Rep. No. 106-1033, 106th Cong., 2nd Sess. at 897 (2000)). Section 1886(d)(4)(C)(iii) of the Act requires that the adjustments to annual DRG classifications and relative weights must be made in a manner that ensures that aggregate payments to hospitals are not affected. Therefore, we account for projected payments under the new technology provision during the upcoming fiscal year at the same time we estimate the payment effect of changes to the DRG classifications and recalibration. The impact of additional payments under this provision would then be included in the budget neutrality factor, which is applied to the standardized amounts and the hospital-specific amounts.

Because any additional payments directed toward new technology under this provision must be offset to ensure budget neutrality, it is important to consider carefully the extent of this provision and ensure that only technologies representing substantial advances are recognized for additional payments. In that regard, we indicated that we would discuss in the annual proposed and final rules those technologies that were considered under this provision; our determination as to whether a particular technology meets our criteria to be considered new; whether it is determined further that cases involving the new technology would be inadequately paid under the existing DRG payment; and any assumptions that went into the budget neutrality calculations related to additional payments for that new technology, including the expected number, distribution, and costs of these cases.

To balance appropriately the Congress' intent to increase Medicare's payments for eligible new technologies with concern that the total size of those payments not result in significantly reduced payments for other cases, we set a target limit for estimated add-on payments for new technology under the provisions of sections 1886(d)(5)(K) and (L) of the Act at 1.0 percent of estimated total operating prospective payments.

If the target limit is exceeded, we would reduce the level of payments for approved technologies across the board, to ensure estimated payments do not exceed the limit. Using this approach, all cases involving approved new technologies that would otherwise receive additional payments would still receive special payments, albeit at a reduced amount. Although the marginal payment rate for individual technologies would be reduced, this reduction would be offset by large overall payments to hospitals for new technologies under this provision.

2. FY 2004 Status of Technology Approved for FY 2003 Add-On Payments: Drotrecogin Alfa (Activated)—Xigris®

In the August 1, 2002 IPPS final rule, we stated that cases involving the administration of Xigris® (a biotechnology product that is a recombinant version of naturally occurring Activated Protein C (APC)) as identified by the presence of code 00.11 (Infusion of drotrecogin alfa (activated)) are eligible for additional payments of up to $3,400 (50 percent of the average cost of the drug)” (67 FR 50013). (The August 1, 2002 final rule contains a detailed discussion of this technology.) Although Xigris® was approved by the FDA in November 2001, it did not qualify for add-on payments until discharges on or after October 1, 2002. Consequently, FY 2002 discharges (between October 1, 2001 and September 30, 2002) may not reflect full utilization of the technology due to the absence of the add-on payment.

Therefore, for FY 2004, we are proposing to continue to make add-on payments for cases involving the administration of Xigris® as identified by the presence of code 00.11. Based on preliminary analysis of the incidence of Xigris® in the first quarter FY 2003 MedPAR file, we are proposing to revise downward our estimate of total add-on payments for Xigris®. For FY 2003, we estimated that total add-on payments would be approximately $74.8 million (22,000 Medicare patients who would be eligible for a $3,400 add-on payment). For FY 2004, we are estimating the total add-on payments would be approximately $50 million (based on 14,000 Medicare patients who would be eligible for a $3,400 add-on payment). We are proposing that this additional payment would be included in the DRG reclassification and recalibration budget neutrality factor, which is applied to the standardized amounts and the hospital-specific amounts. However, we will reevaluate our assumptions regarding this estimate based on preliminary claims data from the FY 2003 MedPAR file before the publication of the FY 2004 IPPS final rule.

3. FY 2004 Applicants for New Technology Add-On Payments

We received two applications for new technologies to be designated eligible for inpatient add-on payments for new technology for FY 2004. A discussion of these applications and our determinations on these applications appears below.

a. Bone Morphogenetic Proteins (BMPs) for Spinal Fusions. An application was submitted by Medtronic Sofamor Danek for the InFUSE™ Bone Graft/LT-CAGE®” Lumbar Tapered Fusion Device for approval as a new technology eligible for add-on payments. A similar application was submitted last year but was denied because, based on the available data, the technology did not exceed the one standard deviation threshold above the average charges for the DRGs to which the technology is assigned.

The product is applied through use of an absorbable collagen sponge and an interbody fusion device, which is then implanted at the fusion site. The patient undergoes a spinal fusion, and the product is placed at the fusion site to promote bone growth. This procedure is done in place of the more traditional use of autogenous iliac crest bone graft. For a more detailed discussion about InFUSE™ Bone Graft/LT-CAGE® Lumbar Tapered Fusion, see the August 1, 2002 IPPS final rule (67 FR 50016).

On July 2, 2002, the FDA approved InFUSE™ Bone Graft/LT-CAGE® for spinal fusion procedures in skeletally mature patients at one level. Therefore, based on the FDA's approval, multilevel use of this technology would be off-label. In the August 1, 2002 IPPS final rule (67 FR 50017), we stated this technology would meet the cost threshold only if the added costs of multilevel fusions were taken into account. Because the FDA had not approved this technology for multilevel fusions, and the applicant had not submitted data to demonstrate this technology is a substantial clinical improvement for multilevel fusions (the clinical trial upon which the application was based was a single-level fusion trial), we could not issue a substantial clinical improvement determination for multilevel fusions and, consequently, did not consider the costs associated with multilevel fusions in our analysis of whether this technology met the cost threshold. Therefore, because the average charges for this new technology, when used for single-level spinal fusions, did not exceed the threshold to qualify for new technology add-on payment of $37,815, we denied this application for add-on payments for FY 2003. For similar reasons, we did not consider data on the charges for multilevel fusions in our analysis of whether this technology meets the cost threshold for FY 2004.

In its application for add-on payments for FY 2004, Medtronic used data from CMS' FY 2001 Standard Analytical File for physicians and hospitals. The analysis linked a 5-percent sample of hospital spinal fusions cases with the corresponding physician claims. Because there were no ICD-9-M codes to identify multilevel fusions in 2001, multilevel fusions were identified using CPT codes on the physician claims. Average charges were taken from actual cases used in clinical trials.

After grouping these cases into one, two, and three or more levels fused in DRGs 497 and 498 (Spinal Fusion Except Cervical With and Without CC, respectively), the applicant then calculated average charges assuming the use of the InFUSE™ Bone Graft/LT-CAGE® for these cases. For DRG 497, the estimated single-level fusion average charge was $41,321; for DRG 498, the estimated single-level fusion average charge was $37,200. Because these DRGs are not currently split for different numbers of fusion levels involved, Medtronic has calculated its own standard deviation of average charges to determine the threshold for these DRGs using the 5-percent sample data. For DRG 497, the threshold (calculated by Medtronic) was $45,646, which is greater than the estimated average charge of $41,321 for single-level fusions noted above. For DRG 498, the threshold (calculated by Medtronic) was $36,935, which is less than the average charges for single-level fusions in this DRG as noted above.

However, we note the thresholds to qualify for the new technology add-on payments for FY 2003 published in Table 10 of the August 1, 2002 IPPS final rule for DRGs 497 and 498 were $58,040 and $41,923, respectively. These thresholds were computed based on all cases assigned to these DRGs, and do not differentiate between the number of spinal levels fused. Because we are not proposing to redefine these DRGs to differentiate cases on the basis of the number of levels of the spine fused in the manner suggested by the applicant's analysis, the thresholds published in last year's final rule are applicable for a new technology to qualify for add-on payments in these DRGs for FY 2004. Therefore, because the averages calculated by the applicant for single-level fusions do not exceed the published thresholds, we are proposing not to approve this technology on the basis of this analysis.

The applicant also submitted data from actual cases involving the InFUSE™ Bone Graft/LT-CAGE® with single level fusions only. The data submitted included 31 claims from 4 hospitals (only one Medicare patient was included in the sample). All 31 cases were from DRG 498. The average standardized charge for these cases was $47,172. Based on these data, the average standardized charge exceeds the threshold for DRG 498. However, we note that this limited sample excludes any cases from DRG 497.

We note that, effective for discharges occurring on or after October 1, 2002, ICD-9-CM codes 84.51 (Insertion of interbody spinal fusion device) and 84.52 (Insertion of recombinant bone morphogenetic protein) are effective to identify cases involving this technology. Therefore, in an effort to resolve the difficulties in obtaining sufficient data upon which to determine whether this technology exceeds the applicable threshold, we intend to review available MedPAR data for the first several months of FY 2003 to identify these cases and calculate their average standardized charges to compare with the thresholds. We anticipate some of these cases will involve multilevel spinal fusions, and it will be necessary to identify those cases in order to remove them from the calculation of the average charges.

If the technology meets the cost threshold based on the MedPAR data, we will evaluate whether it qualifies as a substantial clinical improvement. According to the applicant:

“InFUSE™ Bone Graft is more appropriate to use and has been proven more effective in its use than autogenous iliac crest bone graft, when either is placed in the LT-Cage™ Lumbar Tapered Fusion Device for anterior lumbar interbody fusion. Use of InFUSE™ Bone Graft instead of autogenous iliac crest bone graft:

• Obviates iliac crest bone graft donor site morbidity.

• Reduces operative time, blood loss and hospitalization.

• Results in greater fusion success.

• We found that the Oswestry Low Back Pain Disability score and SF-36 Physical Component and Pain Index score were consistently 10 percent better in the InFUSE™ Bone Graft group than the autogenous iliac bone graft group.

• Enables earlier return to work.”

Among the issues we will consider are: Does avoiding the complications associated with the iliac crest bone harvesting procedure constitute a substantial clinical improvement; and, with the increased rate of osteoarthritis and osteoporosis in the Medicare population, is there evidence that the technology represents a substantial clinical improvement in spinal fusions among this population? We are particularly interested in data on the results of aged Medicare patients who have been treated with BMP, and any basic biology bench data on the results of using BMP in osteoporotic bones.

b. GLIADEL® Wafer. Glioblastoma Multiforme (GBM) is the most common and most aggressive of the primary brain tumors. Standard care for patients diagnosed with GBM is surgical resection and radiation. According to the manufacturer (Guilford Pharmaceuticals), the GLIADEL® Wafer is indicated for use as an adjunct to surgery to prolong survival in patients with recurrent GBM. Implanted directly into the cavity that is created when a brain tumor is surgically removed, GLIADEL® delivers chemotherapy directly to the site where tumors are most likely to recur.

The FDA approved GLIADEL® Wafer on September 23, 1996, for use as an adjunct to surgery to prolong survival in patients with recurrent GBM for whom surgical resection is indicated. In announcing its approval, the FDA indicated that GLIADEL® was approved:

“ * * * based on the results of a multi-center placebo controlled study in 222 patients who had recurrent malignant glioma after initial treatment with surgery and radiation therapy. Following surgery to remove the tumor, half of the patients were treated with GLIADEL® implants and half with placebo. In patients with glioblastoma multiforme, the 6-month survival rate increased from 36 percent with placebo to 56 percent with GLIADEL®. Median survival increased from 20 weeks with placebo to 28 weeks with GLIADEL®. In patients with pathologic diagnoses other than glioblastoma multiforme, GLIADEL® had no effect on survival.”

Guilford Pharmaceuticals has requested that GLIADEL® still be considered new because, until a new ICD-9-CM code (00.10 Implementation of Chemotherapeutic Agent) was established on October 1, 2002, it was not possible to identify specifically these cases in the MedPAR data. However, as noted previously, technology will no longer be considered new after the costs of the technology are reflected in the DRG weights. Because the costs of GLIADEL® are currently reflected in the DRG weights (despite the absence of a specific code), GLIADEL® does not meet our criterion that a medical service or technology be “new”. That is, FY 2002 MedPAR data used to calculate the proposed DRG weights for FY 2004 include cases where GLIADEL® was administered (and the corresponding charges of these cases, include charges associated with GLIADEL®). On February 26, 2003, the FDA approved GLIADEL® for use in newly diagnosed patients with high-grade malignant glioma as an adjunct to surgery and radiation. However, our understanding is that many newly diagnosed patients were already receiving this therapy. To the extent this is true, the charges associated with this use of GLIADEL® are also reflected in the DRG relative weights.

According to Guilford's application, the current average wholesale price of GLIADEL® is $10,985. Guilford submitted charge data for 23 Medicare patients at 7 hospitals from FY 2000. The charges were then standardized and adjusted for inflation using the hospital market basket inflation factor (from 2000 to 2003) in order to determine an inflated average standardized charge of $33,002. Guilford points out that this charge narrowly misses the DRG 2 threshold published in Table 10 of the August 1, 2002 IPPS final rule of $34,673. However, we note that, according to the manufacturer, as many as 60 percent of current GLIADEL® cases may be assigned to DRG 1 based on the presence of CCs. Based on this assumption, the qualifying threshold for GLIADEL® would be $54,312 (60 percent of the DRG 1 threshold of $67,404, and 40 percent of the DRG 2 threshold of $34,673).

As mentioned above in section II.B.3.a. of this proposed rule, we examined the definitions of DRGs 1 and 2 to determine whether they could be improved, and we are proposing to create a new DRG for patients with an intracranial vascular procedure and an intracranial hemorrhage and two new DRGs for patients with only a vascular shunt procedure (splitting on the presence or absence of a CC). We also compared the data submitted in the application on the charges for GLIADEL® cases with the charges of other procedures in DRGs 1 and 2. We found that, although the $33,002 average standardized charge reported is just below the qualifying threshold in DRG 2, it is actually well below the mean average standardized charge for DRG 1 ($42,092). As noted previously, as many as 60 percent of current GLIADEL® cases may be assigned to DRG 1 based on the presence of CCs. Therefore, we do not believe that any change to the DRG assignment of cases receiving GLIADEL® is warranted at this time. However, we will continue to monitor our data to determine whether a change is warranted in the future.

4. Review of the High-Cost Threshold

The current cost threshold for a new technology to qualify for add-on payments is that the average standardized charges of cases involving the new technology must be demonstrated to exceed one standard deviation beyond the mean standardized charges of the DRG to which the new technology will be assigned. When we established this threshold in the September 7, 2001 final rule, we expressed our belief that it is important to establish a threshold that recognizes the variability in costs per case within DRGs and maintains the fundamental financial incentives of the IPPS (66 FR 46917).

In its comments on this approach, MedPAC supported the one standard deviation threshold. However, others, particularly representatives of the manufacturers of new technology, have argued this threshold is too high, and that virtually no new technology would qualify for the special payment provision.

We are concerned that establishing higher payments for a great number of new technologies may be inflationary because the add-on payments reduce the efficiency incentives hospitals face when new technologies must otherwise be financed out of current payments for similar cases. Traditionally, new technologies were required to compete with existing treatment methods on clinical and cost criteria. Add-on payments are intended to give new technologies a competitive boost relative to existing treatment methods with the goal of encouraging faster and more widespread adoption of new technologies.

Much of the current variation around the mean within any particular DRG is due to the range of procedures contained within each DRG. Generally, some of these procedures will be more expensive than the mean and some will be less expensive. The threshold should be set high enough to ensure that it identifies truly high-cost technologies. If the threshold were set too low (for example, at $2,500, as some have suggested), additional technologies may qualify merely by association with a procedure only slightly more costly than the mean for the DRG.

For example, consider a DRG with five different procedures and mean charges of $15,000. The mean charges for each procedure are distributed around $15,000, as illustrated in the following table. A qualifying threshold of $2,500 would result in any new technology that is only used for the fifth procedure automatically qualifying for new technology add-on payments (unless the new technology had the unlikely effect of lowering the mean cost for cases with this procedure by at least $2,500). This is because the average charge of $20,000 for cases in this procedure already exceeds the mean charges for the DRG plus $2,500.

Procedure | Mean charge
1 | $10,000
2 | 12,000
3 | 15,000
4 | 17,000
5 | 20,000

At the same time, we recognize that the very limited number of applications that have been submitted the past 2 years (five for FY 2003; two for FY 2004) may indicate that only a very small number of the new technologies that come onto the market every year are costly enough even to apply for new technology add-on payments. Therefore, for FY 2005 and subsequent Fiscal Years, we are proposing to reduce the threshold to 75 percent of one standard deviation beyond the geometric mean standardized charge for all cases in the DRG to which the new medical service or technology is assigned (proposed § 412.87(b)(3)).

Based on our analysis of the thresholds for FY 2004, this proposed change would reduce the average threshold across all DRGs to qualify for the add-on payments from approximately $9,900 above the mean standardized charges for each DRG to approximately $7,400. This reduction would maintain the averaging principles of the IPPS while easing the requirement somewhat to allow more technologies to qualify. Furthermore, the situation illustrated above, where a technology qualifies on the basis of its association with a high cost procedure, is much less likely to occur as a result of this reduction than if the threshold were reduced dramatically.

5. Technical Changes

Subpart H of part 412 describes payments to hospitals under IPPS. We have become aware of references to the calculation of IPPS payments in this subpart that inadvertently omit references to new technology add-on payments. For example, § 412.112(c) describes the basis for per case payments. This section refers to outlier payments under subpart F, but was not revised to reflect the implementation of the new technology add-on payments. Therefore, we are proposing to amend § 412.112(c) to add a new paragraph (d) to include a reference to additional payments for new medical services or technologies under subpart F.

Section 412.116(e) currently states that payments for outlier cases are not made on an interim basis. That is, for hospitals receiving payments under a biweekly, lump-sum payment methodology, outlier payments are not included in the calculation of the lump-sum payment amounts. Rather, outlier payments are calculated on a case-by-case basis. Similarly, due to the unique nature of the new technology add-on payments, we are proposing that they would also be calculated on a case-by-case basis rather than included in the calculation of interim payment amounts. Therefore, we are proposing to revise § 412.116(e) to include this policy.

III. Proposed Changes to the Hospital Wage Index

A. Background

Section 1886(d)(3)(E) of the Act requires that, as part of the methodology for determining prospective payments to hospitals, the Secretary must adjust the standardized amounts “for area differences in hospital wage levels by a factor (established by the Secretary) reflecting the relative hospital wage level in the geographic area of the hospital compared to the national average hospital wage level.” In accordance with the broad discretion conferred under the Act, we currently define hospital labor market areas based on the definitions of Metropolitan Statistical Areas (MSAs), Primary MSAs (PMSAs), and New England County Metropolitan Areas (NECMAs) issued by the Office of Management and Budget (OMB). OMB also designates Consolidated MSAs (CMSAs). A CMSA is a metropolitan area with a population of one million or more, comprising two or more PMSAs (identified by their separate economic and social character). For purposes of the hospital wage index, we use the PMSAs rather than CMSAs since they allow a more precise breakdown of labor costs. If a metropolitan area is not designated as part of a PMSA, we use the applicable MSA. Rural areas are areas outside a designated MSA, PMSA, or NECMA. For purposes of the wage index, we combine all of the rural counties in a State to calculate a rural wage index for that State.

We note that, effective April 1, 1990, the term Metropolitan Area (MA) replaced the term MSA (which had been used since June 30, 1983) to describe the set of metropolitan areas consisting of MSAs, PMSAs, and CMSAs. The terminology was changed by OMB in the March 30, 1990 Federal Register to distinguish between the individual metropolitan areas known as MSAs and the set of all metropolitan areas (MSAs, PMSAs, and CMSAs) (55 FR 12154). For purposes of the IPPS, we will continue to refer to these areas as MSAs.

Under section 1886(d)(8)(B) of the Act, hospitals in certain rural counties adjacent to one or more MSAs are considered to be located in one of the adjacent MSAs if certain standards are met. Under section 1886(d)(10) of the Act, the Medicare Geographic Classification Review Board (MGCRB) considers applications by hospitals for geographic reclassification from a rural area to a MSA, one rural area to another rural area, or from one MSA to another MSA, for purposes of payment under the IPPS.

In a December 27, 2000 notice published in the Federal Register (65 FR 82228), the Office of Management and Budget (OMB) issued its revised standards for defining MSAs. In that notice, OMB indicated that it plans to announce in calendar year 2003 new definitions of “Core Based Statistical Areas” (CBSAs) based on the new standards and the Census 2000 data. The new standards establish two categories of CBSAs: (1) Metropolitan Statistical Areas (50,000 or more), and (2) Micropolitan Statistical Areas (10,000 to 49,999). After these new CBSAs are announced, we will evaluate the new area designations and their possible effects on the Medicare hospital wage index. Therefore, the earliest these new CBSA definitions would be used is the FY 2005 wage index.

Beginning October 1, 1993, section 1886(d)(3)(E) of the Act requires that we update the wage index annually. Furthermore, this section provides that the Secretary base the update on a survey of wages and wage-related costs of short-term, acute care hospitals. The survey should measure, to the extent feasible, the earnings and paid hours of employment by occupational category, and must exclude the wages and wage-related costs incurred in furnishing skilled nursing services. As discussed below in section III.F. of this preamble, we also take into account the geographic reclassification of hospitals in accordance with sections 1886(d)(8)(B) and 1886(d)(10) of the Act when calculating the wage index.

Section 1886(d)(3)(E) of the Act also provides for the collection of data every 3 years on the occupational mix of employees for each short-term, acute care hospital participating in the Medicare program, in order to construct an occupational mix adjustment to the wage index. The initial collection of these data must be completed by September 30, 2003, for application beginning October 1, 2004 (the FY 2005 wage index). In the April 4, 2003 Federal Register (68 FR 16516), we published a notice of intent to collect calendar year 2002 data from hospitals. There is a 60-day public comment period on that notice. After considering and responding to the comments we receive, we plan to send the surveys to all IPPS hospitals (and hospitals in Maryland that are under a waiver from the IPPS) through the fiscal intermediaries. We intend to collect these data to be incorporated in the FY 2005 wage index after notice and opportunity for public comment.

B. Proposed FY 2004 Wage Index Update

The proposed FY 2004 wage index values (effective for hospital discharges occurring on or after October 1, 2003 and before October 1, 2004) in section V. of the Addendum to this proposed rule are based on the data collected from the Medicare cost reports submitted by hospitals for cost reporting periods beginning in FY 2000 (the FY 2003 wage index was based on FY 1999 wage data).

The proposed FY 2004 wage index includes the following categories of data associated with costs paid under the IPPS (as well as outpatient costs), which were also included in the FY 2003 wage index:

• Salaries and hours from short-term, acute care hospitals.

• Home office costs and hours.

• Certain contract labor costs and hours.

• Wage-related costs.

Consistent with the wage index methodology for FY 2003, the proposed wage index for FY 2004 also excludes the direct and overhead salaries and hours for services not subject to IPPS payment, such as SNF services, home health services, costs related to GME (teaching physicians and residents) and certified registered nurse anesthetists (CRNAs), and other subprovider components that are not paid under the IPPS.

C. FY 2004 Wage Index Proposals

1. Elimination of Wage Costs Associated With Rural Health Clinics and Federally Qualified Health Centers

In the FY 2001 IPPS final rule, we discussed removing from the wage index the salaries, hours, and wage-related costs of hospital-based rural health clinics (RHCs) and Federally qualified health centers (FQHCs) because Medicare pays for these costs outside of the IPPS (65 FR 47074). We noted that because RHC and FQHC costs were not separately reported on Worksheet S-3 of the Medicare cost report, we could not exclude these costs from the prior wage indexes. We further noted that we would evaluate the exclusion of RHC and FQHC wage data in developing the FY 2004 wage index. We now have revised Worksheet S-3 so that it allows for the separate reporting of RHC and FQHC wage costs and hours beginning with FY 2000. Therefore, as we now have the ability to exclude these costs from the wage index, beginning with the FY 2004 wage index, we are proposing to exclude the wage costs and hours data for RHCs and FQHCs from the hospital wage index calculation. An analysis of the effects of this change is included in the Appendix A of this proposed rule.

2. Paid Hours

It has been the longstanding policy of CMS to calculate the wage index using paid hours rather than hours worked (58 FR 46299). This policy reflects our belief that paid hours more appropriately reflect a hospital's total wage costs, which include amounts paid for actual time worked and for covered leave periods (for example, annual, sick, and holiday leave). Therefore, the inclusion of paid lunch hours in the wage index is consistent with our inclusion of other paid nonworking hours.

Several hospitals have requested that we exclude paid lunch or meal break hours from the wage index calculation. At these hospitals, the typical workday is 7½ working hours, plus a ½ hour paid meal break, for a total of 8 paid hours. These hospitals, some of which are municipal-owned and required by their overarching union contracts to provide paid lunch hours, believe they are disadvantaged by wage index policy that requires paid lunch hours to be included in calculating the wage index.

The hospitals argue that their practice of paying employees for meal breaks is not substantially different, in practice, from other hospitals whose employees do not receive paid lunch hours but who are on call during their lunch periods. These hospitals further argue that this policy causes them, in some cases due to union contracts beyond the hospital's control, to be the only hospitals with this category of nonproductive hours included in the wage index.

We are soliciting comments on our policy that paid lunch hours should be excluded from the wage index. Specifically, we would like a broader understanding of the issue of whether some hospitals may, in fact, be truly disadvantaged by this policy through no fault of their own. Any change in our policy would not be implemented until, at the earliest, the FY 2005 wage index.

Some hospitals and associations have also recommended that we exclude the paid hours associated with military and jury duty leave from the wage index calculation. They state that, unlike other paid leave categories for which workers are usually paid at their full hourly rates (for example, annual, sick, and holiday), hospitals typically pay employees on military or jury duty only a fraction of their normal pay. The amount that the hospital pays is intended to only supplement the earnings that the employee receives from the government, so that, while performing military or civic duties, the employee can continue to be paid the same salary level as if he or she were still working at the hospital.

The hospitals and associations believe that including the lower pay rates associated with employees' military and jury duty leave unfairly decreases a hospital's average hourly wage and, therefore, its wage index value. Therefore, we are proposing to exclude from the wage index the paid hours associated with military and jury duty leave, beginning with the FY 2005 wage index. The associated salaries would continue to be reported on Worksheet S-3, Part II, Line 1 of the Medicare cost report.

D. Verification of Wage Data From the Medicare Cost Reports

The data for the proposed FY 2004 wage index were obtained from Worksheet S-3, Parts II and III of the FY 2000 Medicare cost reports. The data file used to construct the proposed wage index includes FY 2000 data submitted to us as of February 18, 2003. As in past years, we performed an intensive review of the wage data, mostly through the use of edits designed to identify aberrant data.

We asked our fiscal intermediaries to revise or verify data elements that resulted in specific edit failures. Some unresolved data elements are included in the calculation of the proposed FY 2004 wage index, pending their resolution before calculation of the final FY 2004 wage index. We instructed the intermediaries to complete their verification of questionable data elements and to transmit any changes to the wage data no later than April 4, 2003. We believe all unresolved data elements will be resolved by the date the final rule is issued. The revised data will be reflected in the final rule.

Also, as part of our editing process, we removed data for 110 hospitals that failed edits. We identified 72 hospitals with incomplete or inaccurate data resulting in zero or negative, or otherwise aberrant, average hourly wages. Therefore, wage data from these hospitals were removed from the calculation. We have notified the fiscal intermediaries of these hospitals and will continue to work with the fiscal intermediaries to correct these data whenever possible. As a result, the proposed FY 2004 wage index is calculated based on FY 2000 wage data for 4,593 hospitals.

In constructing the proposed FY 2004 wage index, we include the wage data for facilities that were IPPS hospitals in FY 2000, even for those facilities that have terminated their participation in the program as hospitals or have since been designated as a critical access hospital (CAH), as long as those data do not fail any of our edits for reasonableness. We believe that including the wage data for these hospitals is, in general, appropriate to reflect the economic conditions in the various labor market areas during the relevant past period.

However, we received correspondence suggesting that the wage data for hospitals that have subsequently been redesignated as CAHs should be removed from the wage index calculation because CAHs are unique compared to other short-term, acute care hospitals. CAHs are limited to only 15 acute care beds. An additional 10 beds may be designated as swing-beds, but only 15 beds can be used at one time to serve acute care patients. CAHs tend to be located in isolated, rural areas. We solicit comment on whether we should exclude wage data from such hospitals from the wage index calculation. However, we have included the data for CAHs in the proposed FY 2004 wage index if the CAH was paid under the IPPS during FY 2000.

E. Computation of the Proposed FY 2004 Wage Index

The method used to compute the proposed FY 2004 wage index follows:

Step 1—As noted above, we based the proposed FY 2004 wage index on wage data reported on the FY 2000 Medicare cost reports. We gathered data from each of the non-Federal, short-term, acute care hospitals for which data were reported on the Worksheet S-3, Parts II and III of the Medicare cost report for the hospital's cost reporting period beginning on or after October 1, 1999 and before October 1, 2000. In addition, we included data from some hospitals that had cost reporting periods beginning before October 1999 and reported a cost reporting period covering all of FY 2000. These data were included because no other data from these hospitals would be available for the cost reporting period described above, and because particular labor market areas might be affected due to the omission of these hospitals. However, we generally describe these wage data as FY 2000 data. We note that, if a hospital had more than one cost reporting period beginning during FY 2000 (for example, a hospital had two short cost reporting periods beginning on or after October 1, 1999 and before October 1, 2000), we included wage data from only one of the cost reporting periods, the longer, in the wage index calculation. If there was more than one cost reporting period and the periods were equal in length, we included the wage data from the later period in the wage index calculation. We have removed the wage data of CAHs, after the effective date of the CAH designation, from the calculation of the proposed wage index.

Step 2—Salaries—Beginning with the FY 2003 wage index, the method used to compute a hospital's average hourly wage excludes all GME and CRNA costs.

In calculating a hospital's average salaries plus wage-related costs, we subtracted from Line 1 (total salaries) the GME and CRNA costs reported on lines 2, 4.01, and 6, the Part B salaries reported on Lines 3, 5 and 5.01, home office salaries reported on Line 7, and excluded salaries reported on Lines 8 and 8.01 (that is, direct salaries attributable to SNF services, home health services, and other subprovider components not subject to the IPPS). We also subtracted from Line 1 the salaries for which no hours were reported on Line 4. To determine total salaries plus wage-related costs, we added to the net hospital salaries the costs of contract labor for direct patient care, certain top management, pharmacy, laboratory, and nonteaching physician Part A services (Lines 9, 9.01, 9.02, and 10), home office salaries and wage-related costs reported by the hospital on Lines 11 and 12, and nonexcluded area wage-related costs (Lines 13, 14, and 18).

We note that contract labor and home office salaries for which no corresponding hours are reported were not included. In addition, wage-related costs for nonteaching physician Part A employees (Line 18) are excluded if no corresponding salaries are reported for those employees on Line 4.

Step 3—Hours—With the exception of wage-related costs, for which there are no associated hours, we computed total hours using the same methods as described for salaries in Step 2.

Step 4—For each hospital reporting both total overhead salaries and total overhead hours greater than zero, we then allocated overhead costs to areas of the hospital excluded from the wage index calculation. First, we determined the ratio of excluded area hours (sum of Lines 8 and 8.01 of Worksheet S-3, Part II) to revised total hours (Line 1 minus the sum of Part II, Lines 2, 3, 4.01, 5, 6, 7, and Part III, Line 13 of Worksheet S-3). We then computed the amounts of overhead salaries and hours to be allocated to excluded areas by multiplying the above ratio by the total overhead salaries and hours reported on Line 13 of Worksheet S-3, Part III. Next, we computed the amounts of overhead wage-related costs to be allocated to excluded areas using three steps: (1) We determined the ratio of overhead hours (Part III, Line 13) to revised hours (Line 1 minus the sum of Lines 2, 3, 4.01, 5, 6, and 7); (2) we computed overhead wage-related costs by multiplying the overhead hours ratio by wage-related costs reported on Part II, Lines 13, 14, and 18; and (3) we multiplied the computed overhead wage-related costs by the above excluded area hours ratio. Finally, we subtracted the computed overhead salaries, wage-related costs, and hours associated with excluded areas from the total salaries (plus wage-related costs) and hours derived in Steps 2 and 3.

Step 5—For each hospital, we adjusted the total salaries plus wage-related costs to a common period to determine total adjusted salaries plus wage-related costs. To make the wage adjustment, we estimated the percentage change in the employment cost index (ECI) for compensation for each 30-day increment from October 14, 1999 through April 15, 2001 for private industry hospital workers from the Bureau of Labor Statistics' Compensation and Working Conditions. We use the ECI because it reflects the price increase associated with total compensation (salaries plus fringes) rather than just the increase in salaries. In addition, the ECI includes managers as well as other hospital workers. This methodology to compute the monthly update factors uses actual quarterly ECI data and assures that the update factors match the actual quarterly and annual percent changes. The factors used to adjust the hospital's data were based on the midpoint of the cost reporting period, as indicated below.

Midpoint of Cost Reporting Period
After | Before | Adjustment factor
10/14/1999 | 11/15/1999 | 1.06794
11/14/1999 | 12/15/1999 | 1.06447
12/14/1999 | 01/15/2000 | 1.06083
01/14/2000 | 02/15/2000 | 1.05713
02/14/2000 | 03/15/2000 | 1.05335
03/14/2000 | 04/15/2000 | 1.04954
04/14/2000 | 05/15/2000 | 1.04571
05/14/2000 | 06/15/2000 | 1.04186
06/14/2000 | 07/15/2000 | 1.03786
07/14/2000 | 08/15/2000 | 1.03356
08/14/2000 | 09/15/2000 | 1.02898
09/14/2000 | 10/15/2000 | 1.02425
10/14/2000 | 11/15/2000 | 1.01953
11/14/2000 | 12/15/2000 | 1.01482
12/14/2000 | 01/15/2001 | 1.01004
01/14/2001 | 02/15/2001 | 1.00509
02/14/2001 | 03/15/2001 | 1.00000
03/14/2001 | 04/15/2001 | 0.99491

For example, the midpoint of a cost reporting period beginning January 1, 2000 and ending December 31, 2000 is June 30, 2000. An adjustment factor of 1.03786 would be applied to the wages of a hospital with such a cost reporting period. In addition, for the data for any cost reporting period that began in FY 2000 and covered a period of less than 360 days or more than 370 days, we annualized the data to reflect a 1-year cost report. Annualization is accomplished by dividing the data by the number of days in the cost report and then multiplying the results by 365.

Step 6—Each hospital was assigned to its appropriate urban or rural labor market area before any reclassifications under section 1886(d)(8)(B) or section 1886(d)(10) of the Act. Within each urban or rural labor market area, we added the total adjusted salaries plus wage-related costs obtained in Step 5 for all hospitals in that area to determine the total adjusted salaries plus wage-related costs for the labor market area.

Step 7—We divided the total adjusted salaries plus wage-related costs obtained under both methods in Step 6 by the sum of the corresponding total hours (from Step 4) for all hospitals in each labor market area to determine an average hourly wage for the area.

Step 8—We added the total adjusted salaries plus wage-related costs obtained in Step 5 for all hospitals in the nation and then divided the sum by the national sum of total hours from Step 4 to arrive at a national average hourly wage. Using the data as described above, the national average hourly wage is $24.5439.

Step 9—For each urban or rural labor market area, we calculated the hospital wage index value by dividing the area average hourly wage obtained in Step 7 by the national average hourly wage computed in Step 8.

Step 10—Following the process set forth above, we developed a separate Puerto Rico-specific wage index for purposes of adjusting the Puerto Rico standardized amounts. (The national Puerto Rico standardized amount is adjusted by a wage index calculated for all Puerto Rico labor market areas based on the national average hourly wage as described above.) We added the total adjusted salaries plus wage-related costs (as calculated in Step 5) for all hospitals in Puerto Rico and divided the sum by the total hours for Puerto Rico (as calculated in Step 4) to arrive at an overall average hourly wage of $11.5431 for Puerto Rico. For each labor market area in Puerto Rico, we calculated the Puerto Rico-specific wage index value by dividing the area average hourly wage (as calculated in Step 7) by the overall Puerto Rico average hourly wage.

Step 11—Section 4410 of Pub. L. 105-33 provides that, for discharges on or after October 1, 1997, the area wage index applicable to any hospital that is located in an urban area of a State may not be less than the area wage index applicable to hospitals located in rural areas in that State. Furthermore, this wage index floor is to be implemented in such a manner as to ensure that aggregate prospective payment system payments are not greater or less than those that would have been made in the year if this section did not apply. For FY 2004, this change affects 141 hospitals in 44 MSAs. The MSAs affected by this provision are identified by a footnote in Table 4A in the Addendum of this proposed rule.

F. Proposed Revisions to the Wage Index Based on Hospital Redesignation

1. General

Under section 1886(d)(10) of the Act, the Medicare Geographic Classification Review Board (MGCRB) considers applications by hospitals for geographic reclassification for purposes of payment under the IPPS. Hospitals can elect to reclassify for the wage index or the standardized amount, or both, and as individual hospitals or as rural groups. Generally, hospitals must be proximate to the labor market area to which they are seeking reclassification and must demonstrate characteristics similar to hospitals located in that area. Hospitals must apply for reclassification to the MGCRB, which issues its decisions by the end of February for reclassification to become effective for the following fiscal year (beginning October 1). The regulations applicable to reclassifications by the MGCRB are in §§ 412.230 through 412.280.

Section 1886(d)(10)(D)(v) of the Act provides that, beginning with FY 2001, a MGCRB decision on a hospital reclassification for purposes of the wage index is effective for 3 fiscal years, unless the hospital elects to terminate the reclassification. Section 1886(d)(10)(D)(vi) of the Act provides that the MGCRB must use the 3 most recent years' average hourly wage data in evaluating a hospital's reclassification application for FY 2003 and any succeeding fiscal year.

Section 304(b) of Pub. L. 106-554 provides that the Secretary must establish a mechanism under which a statewide entity may apply to have all of the geographic areas in the State treated as a single geographic area for purposes of computing and applying a single wage index, for reclassifications beginning in FY 2003. The implementing regulations for this provision are at § 412.235.

Section 1886(d)(8)(B) of the Act permits a hospital located in a rural county adjacent to one or more urban areas to be designated as being located in the MSA to which the greatest number of workers in the county commute (1) If the rural county would otherwise be considered part of an urban area under the standards published in the Federal Register for designating MSAs (and for designating NECMAs), and (2) if the commuting rates used in determining outlying counties (or, for New England, similar recognized area) were determined on the basis of the aggregate number of resident workers who commute to (and, if applicable under the standards, from) the central county or counties of all contiguous MSAs (or NECMAs). Hospitals that meet these criteria are deemed urban for purposes of the standardized amounts and for purposes of assigning the wage index.

Revised MSA standards were published in the December 27, 2000 Federal Register (65 FR 82228). We are working with the Census Bureau to compile a list of hospitals that meet the new standards based on the 2000 census data; however, that work is not yet complete. Therefore, for purposes of calculating the proposed wage indexes in this proposed rule, we used the list of qualifying hospitals based on the 1990 MSA standards.

However, if the updated list of hospitals meeting the new standards based on the 2000 census data is available in time, we will incorporate it in the final rule to be published by August 1, 2003. To the extent hospitals otherwise reclassified by the MGCRB for FY 2004 are adversely affected by their inclusion on or exclusion from the new list, we will address this in the final rule. Among the options we may consider in the final rule to address situations where hospitals may be adversely affected are: Assigning adversely affected hospitals the highest applicable wage index; or extending the opportunity for adversely affected hospitals to withdraw from a reclassification by the MGCRB for FY 2004.

2. Effects of Reclassification

The methodology for determining the wage index values for redesignated hospitals is applied jointly to the hospitals located in those rural counties that were deemed urban under section 1886(d)(8)(B) of the Act and those hospitals that were reclassified as a result of the MGCRB decisions under section 1886(d)(10) of the Act. Section 1886(d)(8)(C) of the Act provides that the application of the wage index to redesignated hospitals is dependent on the hypothetical impact that the wage data from these hospitals would have on the wage index value for the area to which they have been redesignated. Therefore, as provided in section 1886(d)(8)(C) of the Act,³ the wage index values were determined by considering the following:

³ Although section 1886(d)(8)(C)(iv)(I) of the Act also provides that the wage index for an urban area may not decrease as a result of redesignated hospitals if the urban area wage index is below the wage index for rural areas in the State in which the urban area is located, this was effectively made moot by section 4410 of Public Law 105-33, which provides that the area wage index applicable to any hospital that is located in an urban area of a State may not be less than the area wage index applicable to hospitals located in rural areas in that State.

Also, section 1886(d)(8)(C)(iv)(II) of the Act provides that an urban area's wage index may not decrease as a result of redesignated hospitals if the urban area is located in a State that is composed of a single urban area.

• If including the wage data for the redesignated hospitals would reduce the wage index value for the area to which the hospitals are redesignated by 1 percentage point or less, the area wage index value determined exclusive of the wage data for the redesignated hospitals applies to the redesignated hospitals.

• If including the wage data for the redesignated hospitals reduces the wage index value for the area to which the hospitals are redesignated by more than 1 percentage point, the area wage index determined inclusive of the wage data for the redesignated hospitals (the combined wage index value) applies to the redesignated hospitals.

• Rural areas whose wage index values would be reduced by excluding the wage data for hospitals that have been redesignated to another area continue to have their wage index values calculated as if no redesignation had occurred (otherwise, redesignated rural hospitals are excluded from the calculation of the rural wage index).

• The wage index value for a redesignated rural hospital cannot be reduced below the wage index value for the rural areas of the State in which the hospital is located.

If including the wage data for the redesignated hospitals increases the wage index value for the urban area to which the hospitals are redesignated, both the area and the redesignated hospitals receive the combined wage index value. Otherwise, the hospitals located in the urban area receive a wage index excluding the wage data of hospitals redesignated into the area.

The wage data for a reclassified urban hospital is included in both the wage index calculation of the area to which the hospital is reclassified (subject to the rules described above) and the wage index calculation of the urban area where the hospital is physically located.

The proposed wage index values for FY 2004 are shown in Tables 4A, 4B, 4C, and 4F in the Addendum to this proposed rule. Hospitals that are redesignated should use the wage index values shown in Table 4C. Areas in Table 4C may have more than one wage index value because the wage index value for a redesignated urban or rural hospital cannot be reduced below the wage index value for the rural areas of the State in which the hospital is located, and those areas have hospitals from more than one State reclassified into them.

Tables 3A and 3B in the Addendum of this proposed rule list the 3-year average hourly wage for each labor market area before the redesignation of hospitals, based on FYs 1998, 1999, and 2000 cost reporting periods. Table 3A lists these data for urban areas and Table 3B lists these data for rural areas. In addition, Table 2 in the Addendum to this proposed rule includes the adjusted average hourly wage for each hospital from the FY 1998 and FY 1999 cost reporting periods, as well as the FY 2000 period used to calculate the proposed FY 2004 wage index. The 3-year averages are calculated by dividing the sum of the dollars (adjusted to a common reporting period using the method described previously) across all 3 years, by the sum of the hours. If a hospital is missing data for any of the previous years, its average hourly wage for the 3-year period is calculated based on the data available during that period.

At the time this proposed wage index was constructed, the MGCRB had completed its review of FY 2004 reclassification requests. We have included in this proposed rule Table 9, which shows hospitals that have been reclassified under either section 1886(d)(8) or section 1886(d)(10)(D) of the Act. This table includes hospitals reclassified for FY 2004 by the MGCRB (73 for wage index, 66 for the standardized amount, and 33 for both the wage index and the standardized amount), as well as hospitals that were reclassified for the wage index in either FY 2002 (476) or FY 2003 (56) and are, therefore, in either the second or third year of their 3-year reclassification. This table also includes hospitals located in urban areas that have been designated rural in accordance with section 1886(d)(8)(E) of the Act (14). In addition, it includes rural hospitals redesignated to an urban area under section 1886(d)(8)(B) of the Act for purposes of the standardized amount and the wage index (42).

Under § 412.273, hospitals that have been reclassified by the MGCRB are permitted to withdraw their applications within 45 days of the publication of this proposed rule in the Federal Register. Similarly, hospitals may terminate an existing 3-year reclassification within 45 days of the publication of this proposed rule. The request for withdrawal of an application for reclassification or termination of an existing 3-year reclassification that would be effective in FY 2003 must be received by the MGCRB within 45 days of the publication of this proposed rule. If a hospital elects to withdraw its wage index application after the MGCRB has issued its decision but prior to the above date, it may later cancel its withdrawal in a subsequent year and request the MGCRB to reinstate its wage index reclassification for the remaining fiscal year(s) of the 3-year period (§ 412.273(b)(2)(i)). The request to cancel a prior withdrawal must be made in writing to the MGCRB no later than the deadline for submitting reclassification applications for the following fiscal year (§ 412.273(d)). For further information about withdrawing, terminating, or canceling a previous withdrawal or termination of a 3-year reclassification for wage index purposes, we refer the reader to § 412.273, as well as the August 1, 2002 IPPS final rule (67 FR 50065) and the August 1, 2001 IPPS final rule (66 FR 39887).

Any changes to the wage index that result from withdrawals of requests for reclassification, wage index corrections, appeals, and the Administrator's review process will be incorporated into the wage index values published in the final rule following this proposed rule. Therefore, the final wage indexes will likely be different from those published in this proposed rule, and, in some cases, they may be quite different. Although, as described above, the statute provides that a reclassified rural hospital may not have a lower wage index after reclassification than before, there is no similar protection for urban hospitals. Therefore, hospitals should carefully evaluate the impacts of their reclassifications prior to the deadline for withdrawing from an approved reclassification.

Applications and other information about MGCRB reclassifications may be obtained via the CMS internet Web site at http://cms.hhs.gov/providers/prrb/mgcinfo.asp, or by calling the MGCRB at (410) 786-1174. The mailing address of the MGCRB is: 2520 Lord Baltimore Drive, Suite L, Baltimore, MD 21244-2670.

As noted previously, OMB plans to announce new definitions of CBSAs by the middle of this year, and the earliest these new CBSA definitions would be used for the wage index is FY 2005. Applications for reclassification by the MGCRB for FY 2005 will be due by September 2, 2003. However, by that time, we will not have completed our analysis of the new CBSAs. Therefore, hospitals submitting applications for reclassification by the MGCRB for FY 2005 should base those applications on the current MSAs. We will assess the implications of the new CBSAs on hospitals' reclassification requests in the FY 2005 proposed rule.

G. Requests for Wage Data Corrections

The preliminary wage data file was made available on January 10, 2003 (and subsequently on February 4, 2003), through the Internet on CMS's Web site at http://www.cms.hhs.gov/providers/hipps/default.asp. In a memorandum dated December 31, 2002, we instructed all Medicare fiscal intermediaries to inform the IPPS hospitals they service of the availability of the wage data file and the process and timeframe for requesting revisions (including the specific deadlines listed below). We also instructed the fiscal intermediaries to advise hospitals that these data are made available directly through their representative hospital organizations.

If a hospital wished to request a change to its data as shown in that wage data file, the hospital was to submit corrections along with complete, detailed supporting documentation to its intermediary by February 17, 2003 (this deadline was initially announced as February 10, 2003, but was changed due to the need to repost some of the data). Hospitals were notified of this deadline and of all other possible deadlines and requirements, including the requirement to review and verify their data as posted on the preliminary wage data file on the Internet, through the December 31, 2002 memorandum referenced above.

After reviewing requested changes submitted by hospitals, fiscal intermediaries transmitted any revised cost reports to CMS and forwarded a copy of the revised Worksheet S-3, Parts II and III to the hospitals by April 4, 2003. In addition, fiscal intermediaries were to notify hospitals of the changes or the reasons that changes were not accepted. These deadlines are necessary to allow sufficient time to review and process the data so that the final wage index calculation can be completed for the development of the final FY 2004 prospective payment rates to be published by August 1, 2003.

If a hospital disagreed with the fiscal intermediary's resolution of a policy issue (for example, whether a general category of cost is allowable in the wage data), the hospital could have contacted CMS in an effort to resolve the issue. We note that the April 4, 2003 deadline also applied to these requests. Requests were required to be sent to CMS at the address below (with a copy to the hospital's fiscal intermediary). The request must have fully documented all attempts by the hospital to resolve the dispute through the process described above, including copies of relevant correspondence between the hospital and the fiscal intermediary. During review, we do not consider issues such as the adequacy of a hospital's supporting documentation, as we believe that fiscal intermediaries are generally in the best position to make evaluations regarding the appropriateness of these types of issues (which should have been resolved earlier in the process).

Hospitals should also examine Table 2 in the Addendum to this proposed rule to verify their data. Table 2 contains each hospital's adjusted average hourly wage used to construct the wage index values for the past 3 years, including the FY 2000 data used to construct the proposed FY 2004 wage index. We note that the hospital average hourly wages shown in Table 2 only reflect changes made to a hospital's data and transmitted to CMS prior to February 18, 2003.

We will release a final wage data file in May 2003 to hospital associations and the public on the Internet at http://www.cms.hhs.gov/providers/hipps/default.asp. The May 2003 public use file will be made available solely for the limited purpose of identifying any potential errors made by CMS or the fiscal intermediary in the entry of the final wage data that result from the correction process described above (revisions submitted to CMS by the fiscal intermediaries by April 4, 2003). If, after reviewing the May 2003 final file, a hospital believes that its wage data are incorrect due to a fiscal intermediary or CMS error in the entry or tabulation of the final wage data, it should send a letter to both its fiscal intermediary and CMS that outlines why the hospital believes an error exists and provide all supporting information, including relevant dates (for example, when it first became aware of the error).

CMS and the fiscal intermediaries must receive these requests no later than June 6, 2003. Requests mailed to CMS should be sent to: Centers for Medicare & Medicaid Services, Center for Medicare Management, Attention: Wage Index Team, Division of Acute Care, C4-07-05, 7500 Security Boulevard, Baltimore, MD 21244-1850.

Each request also must be sent to the hospital's fiscal intermediary. The intermediary will review requests upon receipt and contact CMS immediately to discuss its findings.

At this point in the process, that is, after the release of the May 2003 wage index file, changes to the hospital wage data will only be made in those very limited situations involving an error by the intermediary or CMS that the hospital could not have known about before its review of the final wage data file. Specifically, neither the intermediary nor CMS will approve the following types of requests:

• Requests for wage data corrections that were submitted too late to be included in the data transmitted to CMS by fiscal intermediaries on or before April 4, 2003.

• Requests for correction of errors that were not, but could have been, identified during the hospital's review of the January 2003 wage data file.

• Requests to revisit factual determinations or policy interpretations made by the intermediary or CMS during the wage data correction process.

Verified corrections to the wage index received timely (that is, by June 6, 2003) will be incorporated into the final wage index in the final rule to be published by August 1, 2003, and to be effective October 1, 2003.

We have created the process described above to resolve all substantive wage data correction disputes before we finalize the wage data for the FY 2004 payment rates. Accordingly, hospitals that did not meet the procedural deadlines set forth above will not be afforded a later opportunity to submit wage data corrections or to dispute the intermediary's decision with respect to requested changes. Specifically, our policy is that hospitals that do not meet the procedural deadlines set forth above will not be permitted to challenge later, before the Provider Reimbursement Review Board, the failure of CMS to make a requested data revision (See W. A. Foote Memorial Hospital v. Shalala, No. 99-CV-75202-DT (E.D. Mich. 2001)).

Again, we believe the wage data correction process described above provides hospitals with sufficient opportunity to bring errors in their wage data to the fiscal intermediaries' attention. Moreover, because hospitals will have access to the final wage data by early May 2003, they will have the opportunity to detect any data entry or tabulation errors made by the fiscal intermediary or CMS before the development and publication of the FY 2004 wage index by August 1, 2003, and the implementation of the FY 2004 wage index on October 1, 2003. If hospitals avail themselves of this opportunity, the wage index implemented on October 1 should be accurate. Nevertheless, in the event that errors are identified after that date, we retain the right to make midyear changes to the wage index under very limited circumstances.

Specifically, in accordance with § 412.63(x)(2) of our existing regulations, we make midyear corrections to the wage index for an area only if a hospital can show that the intermediary or CMS made an error in tabulating its data. This provision is not available to a hospital seeking to revise another hospital's data that may be affecting the requesting hospital's wage index. As described earlier, the requesting hospital must show that it could not have known about the error, or that it did not have the opportunity to correct the error, before the publication of the FY 2004 wage index. As indicated earlier, since a hospital will have the opportunity to verify its data, and the fiscal intermediary will notify the hospital of any changes, we do not expect that midyear corrections will be necessary. However, if the correction of a data error changes the wage index value for an area, the revised wage index value will be effective prospectively from the date the correction is approved.

H. Modification of the Process and Timetable for Updating the Wage Index

Although the wage data correction process described in section III.G. of this preamble has proven successful in the past for ensuring that the wage data used each year to calculate the wage indexes are generally reliable and accurate, we continue to be concerned about the growing volume of wage data revisions initiated by hospitals after the release of the first public use file in February. This issue has been discussed previously in the FY 1998 IPPS proposed rule (62 FR 29918) and in the FY 2002 IPPS proposed rule (66 FR 22682). In each discussion, we describe the increasing number of revisions to wage data between the proposed rule and the final rule.

Currently, the fiscal intermediaries are required to conduct initial desk reviews on or before November 15 in advance of the preparation of the preliminary wage data public use file in early January (see Program Memorandum A-02-94, October 4, 2002). Furthermore, they are required to address items that fall outside the established thresholds. This may involve further review of the supplementary documentation or contacting the hospital for additional documentation. In addition, fiscal intermediaries are required to notify State hospital associations regarding hospitals that fail to respond to issues raised during the desk review. These actions are to be completed in advance of sending the data to CMS to prepare the preliminary wage data public use file in early January. However, as we have indicated in prior Federal Registers, as much as 30 percent of hospitals subsequently request revisions to their data after the preliminary wage data file is made available.

This high volume of revisions results in an additional workload for the fiscal intermediaries. In particular, much of a fiscal intermediary's efforts prior to submitting the data to prepare the preliminary public use file may be in vain if the hospital subsequently revises all of its data prior to the early February deadline (which is the hospital's right at that point). Therefore, we are proposing to modify the process to release the preliminary wage data file prior to requiring the fiscal intermediaries to conduct their initial desk reviews on the data. This unaudited data would be available on the Internet by early October rather than early January. Hospitals would review this file to ensure it contains their correct data as submitted on their cost reports and request any changes by early November. At that time, the fiscal intermediaries would review the revision requests and conduct desk reviews of the data including all approved changes.

Under this proposed revised timetable, the fiscal intermediaries would notify the hospitals in early February of any changes to the wage data as a result of the desk reviews and the resolution of the hospitals' early November change requests. The fiscal intermediaries would also submit the revisions to CMS in early February. Hospitals would then have until early March to submit requests to the fiscal intermediaries for reconsideration of adjustments made by the fiscal intermediaries as a result of the desk review. Other than requesting reconsideration of desk review adjustments, hospitals would not be able to submit new requests for additional changes that were not submitted by early November. By early April, the fiscal intermediaries would notify all hospitals of their decisions regarding the hospitals' requests to reconsider desk review adjustments and submit all of the revised wage data to CMS. From this point (early April) until the publication of the final rule, the process would be identical to the current timetable. Similar to the current timetable, hospitals would also have the opportunity in early April to request CMS consideration of policy disputes.

We believe that the proposed revision of the schedule would improve the quality of the wage index by initiating hospitals' review of their data sooner and allowing the fiscal intermediaries to focus their reviews on the final data submitted by hospitals to be included in the wage index. In addition, we would receive the revised data in time to incorporate them into the wage indexes published in the proposed rule, resulting in fewer changes from the proposed rule to the final rule. This will improve the ability of hospitals to assess whether they should request a withdrawal from a MGCRB reclassification. Because the decision of whether to withdraw a wage index reclassification must be made prior to publication of the final rule, this proposed schedule should decrease the likelihood that the final wage index will be dramatically different from the proposed wage index.

The following table illustrates the proposed timetable that would be applicable for the development of the FY 2005 wage index:

Timeframe | Steps in wage index development process
Early October | Preliminary and unaudited wage data file published as a public use file (PUF) on CMS Web site.
Early November | Deadline for hospitals to send requests for revisions to the fiscal intermediaries.
Early February | Fiscal intermediaries review revisions and desk review wage data; notify hospitals of changes and resolution of revision requests; and submit preliminary revised data to CMS.
Early March | Deadline for hospitals to request wage data reconsideration of desk review adjustments and provide adequate documentation to support the request.
Early April | Deadline for the fiscal intermediaries to submit additional revisions resulting from the hospitals' reconsideration requests. This is also the deadline for hospitals to request CMS intervention in cases where the hospital disagrees with the fiscal intermediary's policy interpretations.
Early May * | Release of final wage data PUF on CMS Web site.
Early June * | Deadline for hospitals to submit correction requests, to both CMS and their fiscal intermediary, for errors due to the mishandling of the final wage data by CMS or the fiscal intermediary.
August 1 * | Publication of the final rule.
October 1 * | Effective date of updated wage index.
* Indicates no change from prior years.

IV. Other Decisions and Proposed Changes to the IPPS for Operating Costs and GME Costs

A. Transfer Payment Policy (§ 412.4)

Existing regulations at § 412.4(a) define discharges under the IPPS as situations in which a patient is formally released from an acute care hospital or dies in the hospital. Section 412.4(b) defines transfers from one acute care hospital to another, and § 412.4(c) defines transfers to certain postacute care providers. Our policy provides that, in transfer situations, full payment is made to the final discharging hospital and each transferring hospital is paid a per diem rate for each day of the stay, not to exceed the full DRG payment that would have been made if the patient had been discharged without being transferred.

The per diem rate paid to a transferring hospital is calculated by dividing the full DRG payment by the geometric mean length of stay for the DRG. Based on an analysis that showed that the first day of hospitalization is the most expensive (60 FR 45804), our policy provides for payment that is double the per diem amount for the first day (§ 412.4(f)(1)). Transfer cases are also eligible for outlier payments. The outlier threshold for transfer cases is equal to the fixed-loss outlier threshold for nontransfer cases, divided by the geometric mean length of stay for the DRG, multiplied by the length of stay for the case, plus one day.

1. Transfers to Another Acute Care Hospital (§ 412.4(b))

Medicare adopted its IPPS transfer policy because, if we were to pay the full DRG payment regardless of whether a patient is transferred or discharged, there would be a strong incentive for hospitals to transfer patients to another IPPS hospital early in their stay in order to minimize costs while still receiving the full DRG payment. The transfer policy adjusts the payments to approximate the reduced costs of transfer cases.

Currently, when a patient chooses to depart from a hospital against the medical opinion of treating physicians, the case is treated as a left against medical advice (LAMA) discharge and coded as discharge status “07-Left Against Medical Advice (LAMA)” on the inpatient billing claim form. Because, by definition, LAMA discharges are assumed not to involve the active participation of the hospital administration, our policy has been to treat LAMA cases as discharges. This policy applies even if the patient is admitted to another hospital on the date of the LAMA discharge. Consequently, we currently make a full DRG payment for any discharge coded as a LAMA case.

However, we are concerned that some hospitals may be incorrectly coding transfers as LAMA cases. The Office of Inspector General (OIG) issued a report in March 2002 (A-06-99-00045), asserting that of the approximately 60,000 LAMA discharges annually, 1,500 patients were subsequently admitted to another IPPS hospital the same day. The OIG performed a detailed review of the medical records at selected hospitals and found evidence that the hospitals actively participated in transferring the patients to a different IPPS hospital, yet the hospital coded the claim as a LAMA. OIG cited several examples of these cases:

“In the first example, the transferring hospital did not have an inpatient room available for the patient, who had been in the emergency room for 24 hours. The medical record showed that the treating physician contacted another PPS hospital to determine whether the hospital could accept the patient. Specifically, the medical record stated: ‘Upon request of the patient, [hospital name] was contacted since there is a good possibility of transferring patient to [name of hospital]. At present, he has been in emergency room for 24 hours waiting for a bed.’ ”

In this example, despite the overt participation of the physician in securing the admission to the other IPPS hospital and the fact that the transferring hospital did not have an inpatient room available for the patient, the claim was submitted as a LAMA discharge, rather than as a transfer to another IPPS hospital.

“In the second example, the patient was brought to the first hospital by ambulance. Subsequently, the patient's family indicated that they wanted a neurologist at another hospital to render the treatment needed by the patient. The attending physician contacted the neurologist in order to determine if the neurologist would accept, admit, and treat the patient. The medical record contained ample evidence of knowledge and participation of the transferring hospital, and the discharge should have been reported as a PPS transfer. Specifically, the medical record stated: ‘Patient's family wanted to sign the patient out against medical advice and take her to [name of hospital]. The physician spoke with the neurologist at [name of hospital], who agreed to accept the patient. The patient's family signed the patient discharged against medical advice. All the risks of self-discharge were explained.’ ”

In this case, although the medical record indicated the patient wanted to leave against medical advice, there is also evidence that the patient's attending physician at the hospital participated in the transfer to another IPPS hospital. While we do not wish to discourage such participation and cooperation in cases where a transfer occurs, this situation would seem almost indistinguishable from other transfer situations. For instance, we have long recognized situations where patients are transferred from a rural hospital to an urban hospital for a surgical procedure, then back to the rural hospital to complete the recuperative care, as appropriate transfer situations as long as the transfers are medically appropriate. In such a case, the rural hospital would receive a payment under the transfer policy for the first portion of the stay, the urban hospital would also receive payment under the transfer policy for the care it provided, and the rural hospital would receive a full DRG payment as the discharging hospital for the recuperative care it provided upon the patient's return from the urban hospital. In such situations, each portion of the stay may be assigned a different DRG.

Therefore, we are proposing to expand our definition of a transfer under § 412.4(b) to include all patients who are admitted to another IPPS hospital on the same day that the patient is discharged from an IPPS hospital, unless the first (transferring) hospital can demonstrate that the patient's treatment was completed at the time of discharge from that hospital. In other words, unless the same-day readmission is to treat a condition that is unrelated to the condition treated during the original admission (for example, the beneficiary is in a car accident later that day), any situation where the beneficiary is admitted to another IPPS hospital on the same date that he or she is discharged from an IPPS hospital would be considered a transfer, even if the patient left against medical advice from the first hospital.

Although we considered proposing a policy that would be based on whether the hospital actively participated in the transfer, and exempting from the transfer definition cases where the hospital had absolutely no knowledge that the patient intended to go to another hospital, we are not proposing such a policy for two reasons. First, it would be difficult to administer equitably a policy that required a determination as to whether the hospital or the physician had knowledge of the patient's intentions. Such a policy would require fiscal intermediaries to make a difficult judgment call in many cases. Second, if we were to base the determination of whether a case is a transfer on the level of involvement of the hospital and the physician caring for the patient, we would be creating a financial disincentive to hospitals for ensuring an efficient and cooperative transfer once a decision has been made by the patient or the patient's family to leave the hospital.

We recognize that, in some cases, a hospital cannot know the patient will go to another hospital. However, we note the claims processing system can identify cases coded as discharges where the date of discharge matches the admission date at another hospital. In these cases, the fiscal intermediary will notify the hospital of the need to submit an adjustment claim. However, if the hospital can present documentation showing that the patient's care associated with the admission to the hospital was completed before discharge, consistent with our current policy, the transfer policy will not be applied.

2. Technical Correction

Section 412.4(b)(2) defines a discharge from one inpatient area of the hospital to another area of the hospital as a transfer. Although this situation may be viewed as an intrahospital transfer, it does not implicate the transfer policy under the IPPS. Therefore, to avoid confusion and to be consistent with the proposed changes to § 412.4(b) described at section IV.A.3. of this preamble, we are proposing to delete existing § 412.4(b)(2) from the definition of a transfer.

3. Expanding the Postacute Care Transfer Policy to Additional DRGs (§§ 412.4(c) and (d))

Under section 1886(d)(5)(J) of the Act, a “qualified discharge” from one of 10 DRGs selected by the Secretary, to a postacute care provider is treated as a transfer case beginning with discharges on or after October 1, 1998. This section requires the Secretary to define and pay as transfers all cases assigned to one of 10 DRGs selected by the Secretary, if the individuals are discharged to one of the following postacute care settings:

• A hospital or hospital unit that is not a subsection 1886(d) hospital. (Section 1886(d)(1)(B) of the Act identifies the hospitals and hospital units that are excluded from the term “subsection (d) hospital” as psychiatric hospitals and units, rehabilitation hospitals and units, children's hospitals, long-term care hospitals, and cancer hospitals.)

• A SNF (as defined at section 1819(a) of the Act).

• Home health services provided by a home health agency, if the services relate to the condition or diagnosis for which the individual received inpatient hospital services, and if the home health services are provided within an appropriate period (as determined by the Secretary).

In the July 31, 1998 IPPS final rule (63 FR 40975 through 40976), we specified the appropriate time period during which we would consider a discharge to postacute home health services to constitute a transfer as within 3 days after the date of discharge. Also, in the July 31, 1998 final rule, we did not include in the definition of postacute care transfer cases patients transferred to a swing-bed for skilled nursing care (63 FR 40977).

Section 1886(d)(5)(J) of the Act directed the Secretary to select 10 DRGs based upon a high volume of discharges to postacute care and a disproportionate use of postacute care services. As discussed in the July 31, 1998 final rule, these 10 DRGs were selected in 1998 based on the MedPAR data from FY 1996. Using that information, we identified and selected the first 20 DRGs that had the largest proportion of discharges to postacute care (and at least 14,000 such transfer cases). In order to select 10 DRGs from the 20 DRGs on our list, we considered the volume and percentage of discharges to postacute care that occurred before the mean length of stay and whether the discharges occurring early in the stay were more likely to receive postacute care. We identified the following DRGs to be subject to the special 10 DRG transfer rule:

• DRG 14 (Intracranial Hemorrhage and Stroke with Infarction (formerly “Specific Cerebrovascular Disorders Except Transient Ischemic Attack”));

• DRG 113 (Amputation for Circulatory System Disorders Except Upper Limb and Toe);

• DRG 209 (Major Joint Limb Reattachment Procedures of Lower Extremity);

• DRG 210 (Hip and Femur Procedures Except Major Joint Procedures Age >17 With CC);

• DRG 211 (Hip and Femur Procedures Except Major Joint Procedures Age >17 Without CC);

• DRG 236 (Fractures of Hip and Pelvis);

• DRG 263 (Skin Graft and/or Debridement for Skin Ulcer or Cellulitis With CC);

• DRG 264 (Skin Graft and/or Debridement for Skin Ulcer or Cellulitis Without CC);

• DRG 429 (Organic Disturbances and Mental Retardation); and

• DRG 483 (Tracheostomy With Mechanical Ventiliation 96+ Hours or Principal Diagnosis Except Face, Mouth, and Neck Diagnoses (formerly “Tracheostomy Except for Face, Mouth, and Neck Diagnoses”)).

Similar to the policy for transfers between two acute care hospitals, the transferring hospital in a postacute care transfer for 7 of the 10 DRGs receives twice the per diem rate the first day and the per diem rate for each following day of the stay before the transfer, up to the full DRG payment. However, 3 of the 10 DRGs exhibit a disproportionate share of costs very early in the hospital stay in postacute care transfer situations. For these 3 DRGs, hospitals receive 50 percent of the full DRG payment plus the single per diem (rather than double the per diem) for the first day of the stay and 50 percent of the per diem for the remaining days of the stay, up to the full DRG payment. This is consistent with section 1886(d)(5)(J)(i) of the Act, which recognizes that in some cases “a substantial portion of the costs of care are incurred in the early days of the inpatient stay.”

Section 1886(d)(5)(J)(iv) of the Act authorizes the Secretary to expand the postacute transfer policy beyond 10 DRGs. In the May 9, 2002 IPPS proposed rule, we discussed the possibility of expanding this policy to either all DRGs or a subset of additional DRGs (we identified 13 additional DRGs in that proposed rule) (67 FR 31455). However, as discussed further in the August 1, 2002 final rule (65 FR 50048), we did not expand the postacute transfer provision to additional DRGs for FY 2003. The commenters on the options in the May 9, 2002 proposed rule raised many issues regarding the impact of expanding this policy that we needed to consider further before proceeding. In particular, due to the limited time between the close of the comment period and the required publication date of August 1, we were unable to completely analyze and respond to all of the points that were raised. We indicated that we would continue to conduct research to assess whether further expansion of this policy may be warranted and, if so, how to design any such refinements.

Many commenters on the May 9, 2002 proposed rule argued that, in a system based on averages, expansion of the postacute care transfer policy negatively influences, and in fact penalizes, hospitals for efficient care. They claimed that this policy indiscriminately penalizes hospitals for efficient treatment and for ensuring that patients receive the right care at the right time in the right place. They believed that the postacute care transfer provision creates an inappropriate incentive for hospitals to keep patients longer.

Commenters also expressed concern that the expansion of the transfer provision violates the fundamental principle of the IPPS. The DRG system is based on payments that will, on average, be adequate. These commenters argued that expansion of the postacute care transfer policy would give the IPPS a per-diem focus and would mean that hospitals would be paid less for shorter than average lengths of stay, although they would not be paid more for the cases that are longer than average (except for outlier cases).

We agree that the transfer policy should not hamper the provision of effective patient care, and any future expansion must consider both the need to reduce payments to reflect cost-shifting due to reductions in length of stay attributable to early transfers to postacute care and the need to ensure that payments, on average, remain adequate to ensure effective patient care. Therefore, we have assessed the extent to which the current postacute transfer policy balances these objectives.

The table below displays the results of our analysis. We first examined whether the 10 DRGs included in the policy continue to exhibit a relatively high percentage of cases transferred to postacute care settings, particularly among cases with lengths of stay shorter than the geometric mean for the DRG (these cases would be affected by the reduced payments for transfers). The table shows that these DRGs continue to contain high percentages of cases transferred to postacute care settings similar to those we reported in the FY 1999 final rule (63 FR 40975). These results would appear to demonstrate that the postacute transfer policy has not greatly altered hospitals' treatment patterns for these cases.

This similarity in treatment patterns is further evidenced by the fact that, for 6 of the 10 DRGs, the geometric mean length of stay has continued to decline in the 5 years since the policy was implemented. Accordingly, hospitals have continued to transfer many patients in these DRGs before the mean length of stay, despite the transfer policy. As we stated in the July 31, 1998 final rule, the transfer provision adjusts payments to hospitals to reflect the reduced lengths of stay arising from the shift of patient care from the acute care setting to the postacute setting (63 FR 40977). This policy does not require a change in physician clinical decisionmaking nor in the manner in which physicians and hospitals practice medicine: it simply addresses the appropriate level of payments once those decisions have been made.

With respect to whether this policy alters the fundamental averaging principles of the IPPS, we believe the current policy, which targets specific DRGs where evidence shows hospitals have aggressively moved care to postacute care settings, does not alter the averaging principles of the system. In fact, it could be said to enhance those principles because a transfer case is counted as only a fraction of a case toward DRG recalibration based on the ratio of its transfer payment to the full DRG payment for nontransfer cases. This methodology ensures the DRG weight calculation is consistent with the payment policy for transfer cases. The last column of the table below indicates that all but three of these DRGs have experienced increases in DRG weights since the policy was implemented. By reducing the contribution of transfer cases to the calculation of the DRG average charge, the relative weights (the result of dividing the DRG average charge by the national average charge per case) are higher than they would otherwise be. This is because transfers, particularly short-stay transfers, have lower total charges, on average.

DRG | DRG title | All transfer cases | Percent of all cases transferred to postacute care setting | Percent of all cases transferred prior to mean length of stay | Percent change in mean length of stay FYs 92-98 | Percent change in mean length of stay FYs 98-03 | Percent change in DRG relative weight FYs 98-03
14 | Intracranial Hemorrhage and Stroke with Infarction | 143,649 | 48.88 | 11.74 | −29.17 | −5.88 | 8.53
113 | Amputation for Circulatory System Disorders Except Upper Limb and Toe | 24,470 | 66.57 | 30.12 | −32.17 | 7.22 | 9.21
209 | Major Joint and Limb Reattachment Procedures of Lower Extremity | 244,969 | 66.66 | 19.76 | −47.52 | −15.09 | −8.09
210 | Hip and Femur Procedures Except Major Joint Age >17 With CC | 87,253 | 76.26 | 35.67 | −42.98 | −6.15 | 0.1
211 | Hip and Femur Procedures Except Major Joint Age >17 Without CC | 20,239 | 72.38 | 15.89 | −44.44 | −8.00 | 1.39
236 | Fractures of Hip and Pelvis | 26,583 | 69.86 | 11.20 | −34.85 | −6.98 | −1.43
263 | Skin Graft and/or Debridement for Skin Ulcer or Cellulitis with CC | 13,158 | 62.00 | 31.35 | −41.45 | 4.49 | 9.36
264 | Skin Graft and/or Debridement for Skin Ulcer or Cellulitis Without CC | 1,759 | 49.97 | 18.81 | −37.21 | 1.85 | 5.36
429 | Organic Disturbances and Mental Retardation | 30,349 | 53.25 | 15.22 | −28.95 | −12.96 | −5.27
483 | Tracheostomy With Mechanical Ventilation 96 + Hours or Principal Diagnosis Except Face, Mouth, and Neck Diagnoses | 21,818 | 52.93 | 27.34 | −15.29 | 2.37 | 1.38

After determining the current 10 DRG postacute care transfer policy appears to be appropriately balancing the objectives to reduce payments to reflect cost-shifting due to reductions in length of stay attributable to early postacute care transfers and to ensure that payments, on average, remain adequate to ensure effective patient care, we once again undertook the analysis to identify additional DRGs to which the policy may be expanded. However, it should be noted that, at this time, we have decided not to expand the policy to all DRGs. Although we still believe expanding the postacute care transfer policy to all DRGs might be the most equitable approach because a policy that is limited to certain DRGs may result in disparate payment treatment across hospitals, at this time, we believe an incremental expansion is appropriate. That is, we believe further analysis is necessary to assess whether it would be appropriate to apply a reduced payment for postacute care transfers across all DRGs. In particular, it is important to attempt to distinguish between DRGs where the care is increasingly being shifted to postacute care sites versus DRGs where some patients have always been discharged to postacute care early in the stay. For the latter DRGs, it may not be appropriate to reduce payment for these DRGs if the base payment already reflects a similar postacute care utilization rate (for example, in these cases there would be no cost shifting).

As described below, we have identified an additional 19 DRGs, based on declining mean lengths of stay and high percentages of postacute transfers, for which an expansion of the current policy appears warranted.

MedPAC has also conducted analysis on the current postacute care transfer policy. Most recently, in its March 2003 Report to Congress, MedPAC recommended adding 13 additional DRGs to the 10 DRGs covered under the current policy (page 46). The 13 DRGs were the same DRGs included in one of our proposals to expand the postacute care transfer policy in last year's IPPS proposed rule. MedPAC did not recommend expanding the policy to include all DRGs at this time, noting that this expansion might reduce payments to some hospitals by as much as 4 percent. Rather, it suggested evaluating the impact of a limited expansion before extending the policy to more DRGs.

MedPAC's report cites several reasons for expanding the postacute care transfer policy beyond the current 10 DRGs. First, it notes the continuing shifts in services from the acute care setting to the postacute care setting. Second, the report points to different postacute care utilization for different hospitals, particularly based on geographic location. Third, the report states: “the expanded transfer policy provides a better set of incentives to protect beneficiaries from potential premature discharge to postacute care.” Fourth, MedPAC notes that the policy improves payment equity across hospitals by: Reducing payments to hospitals that transfer patients to postacute care while making full payments to hospitals that provide all of the acute inpatient services in an acute care setting; and maintaining more accurate DRG weights that reflect the true resource utilization required to provide the full course of acute inpatient care, as distinguished from the partial services provided to patients who are transferred to postacute care.

Since the publication of last year's rule, we have conducted an extensive analysis to identify the best method by which to expand the postacute care transfer policy. Similar to the analysis used to identify the current 10 DRGs, we are proposing to identify DRGs with high postacute care transfer rates and at least 14,000 transfer cases. However, rather than ranking DRGs on the basis of the percentage of all postacute care transfers, we are proposing to rank DRGs on the basis of the percentage of postacute care transfers occurring before the DRG geometric mean length of stay. This is because only transfers that occur before the geometric mean length of stay, minus one day due to the policy that hospitals receive double the per diem for the first day, are impacted by the transfer policy. In order to focus on those DRGs where this policy would have the most impact, we are proposing to include only DRGs where at least 10 percent of all cases that were transferred to postacute care before the geometric mean length of stay. The next proposed criterion is to identify DRGs with at least a 7-percent decline in length of stay over the past 5 years (from FY 1998 to FY 2003). This criterion would focus on those DRGs for which hospitals have been most aggressively discharging patients sooner into postacute care settings. Finally, we are proposing to include only DRGs with a geometric mean length of stay of at least 3 days because the full payment is reached on the second day for a DRG with a 3-day length of stay.

Using these criteria, we have identified 19 additional DRGs to include in the postacute care transfer policy. However, some of the 13 DRGs proposed last year (and included in MedPAC's proposed expansion) are not included in this proposed rule. For example, DRGs 79 and 80 (Respiratory Infections and Inflammations Age >17 With and Without CC, respectively) were included in last year's proposed expansion but are not included in this proposed rule for FY 2004. DRGs 79 and 80 are excluded from this proposed rule because they did not exhibit a decline in length of stay of at least 7 percent over the past 5 years.

We note that 7 of these 19 DRGs are paired DRGs (that is, they contain a CC and no-CC split). Because these DRGs are paired DRGs (that is, the only difference in the cases assigned to DRG 130, for example, as opposed to DRG 131 is that the patient has a complicating or comorbid condition), we are proposing to include both DRGs under this expanded policy. If we were to include only DRG 130 in the transfer policy, there would be an incentive for hospitals not to include any code that would identify a complicating or comorbid condition, so that a transfer case would be assigned to DRG 131 instead of DRG 130.

Using the selection criteria described above, we identified the following 19 DRGs that we are proposing to include under the postacute care transfer policy (in addition to the 10 DRGs already subject to the policy).

DRG | DRG title | All transfer cases | Percent of all cases transferred to postacute care setting | Percent of cases transferred prior to mean length of stay | Percent change in mean length of stay FYs 1992-1998 | Percent change in mean length of stay FYs 1998-2003
12 | Degenerative Nervous System Disorders | 39,034 | 54.13 | 13.10 | −21.74 | −12.00
24 | Seizure and Headache Age >17 With CC | 19,239 | 35.67 | 11.63 | −20.75 | −7.69
25 | Seizure and Headache Age >17 Without CC | 4,738 | 19.15 | 2.15 | −14.29 | −10.71
89 | Simple Pneumonia and Pleurisy Age > 17 With CC | 175,441 | 34.86 | 11.37 | −18.31 | −11.11
90 | Simple Pneumonia and Pleurisy Age >17 Without CC | 9,544 | 20.86 | 2.82 | −20.37 | −15.00
121 | Circulatory Disorders With AMI and Major Complication, Discharged Alive | 79,242 | 52.52 | 20.46 | −21.95 | −11.67
122 | Circulatory Disorders With AMI Without Major Complications Discharged Alive | 33,028 | 48.91 | 24.09 | −26.67 | −23.08
130 | Peripheral Vascular Disorders With CC | 31,106 | 37.78 | 14.27 | −13.11 | −11.76
131 | Peripheral Vascular Disorders Without CC | 5,723 | 23.08 | 5.42 | −4.44 | −19.51
239 | Pathological Fractures and Musculoskeletal and Connective Tissue Malignancy | 23,188 | 53.54 | 21.96 | −22.67 | −7.55
243 | Medical Back Problems | 36,772 | 41.49 | 13.61 | −14.00 | −7.50
277 | Cellulitis Age >17 With CC | 35,015 | 37.77 | 14.03 | −21.43 | −7.84
278 | Cellulitis Age >17 Without CC | 6,526 | 22.05 | 3.11 | −18.87 | −10.00
296 | Nutritional and Miscellaneous Metabolic Disorders Age >17 With CC | 104,216 | 40.05 | 11.88 | −21.67 | −9.30
297 | Nutritional and Miscellaneous Metabolic Disorders Age >17 Without CC | 12,649 | 28.03 | 2.17 | −17.50 | −10.00
320 | Kidney and Urinary Tract Infectious Age >17 With CC | 77,669 | 44.64 | 12.40 | −23.88 | −8.51
321 | Kidney and Urinary Tract Infections Age >17 Without CC | 8,610 | 29.90 | 5.67 | −20.41 | −13.89
462 | Rehabilitation | 147,211 | 56.59 | 22.69 | −22.54 | −11.43
468 | Extensive O.R. Procedure Unrelated to Principal Diagnosis | 24,783 | 44.51 | 18.53 | −20.30 | −7.07

We are proposing to revise § 412.4(d) to incorporate these additional 19 DRGs as qualifying DRGs for transfer payments and to make a conforming change to § 412.4(c).

We also examined whether any of these DRGs would qualify for the alternative payment methodology of 50 percent of the full DRG payment plus the per diem for the first day of the stay, and 50 percent of the per diem for the remaining days of the stay, up to the full DRG payment specified in existing regulations under § 412.4(f). To identify the DRGs that might qualify, the average charges for all cases with a length of stay of 1 day were compared to the average charges of all cases in a particular DRG. To qualify for the alternative methodology, the average charges of 1-day discharge cases must be at least 50 percent of the average charges for all cases in the DRG.

Based on this analysis, we determined that 5 out of the 19 DRGs would qualify for this payment method (DRGs 25, 122, 131, 297, and 321). However, the fact that the average charges of 1-day stays equal at least 50 percent of the average charges for all cases in these DRGs is due to the very short lengths of stay for these DRGs. Therefore, we do not believe that it is necessary to include them in the alternative payment methodology. For example, for a DRG with a 3-day geometric mean length of stay, full DRG payment will be met on the second day of the stay, regardless of which payment methodology is used. Therefore, we are proposing that none of the 19 additional DRGs that we are proposing to add to the postacute care transfer policy would be paid under the alternative payment methodology.

We also have analyzed the 10 DRGs that are currently subject to the postacute care transfer policy. Of the three DRGs that are receiving payments under the special payment (transfers after 1 day incur charges equal to at least 50 percent of the average charges for all cases). Unlike the five DRGs that would otherwise meet this criterion, the geometric mean lengths of stay of both DRG 209 and 211 are over 4 days. In addition, DRG 210 is currently paid under the special payment methodology, but our current analysis indicates average charges for one day stays are less than 50 percent of the average charges for all cases in the DRG. Nonetheless, DRG 210 is a paired with DRG 211, which meets the criteria. Therefore, we are proposing DRG 210 will continue to be paid under the special payment methodology. Similar to our rationale for including both paired DRGs when one qualifies for inclusion in the postacute care transfer policy, we are including both DRGs in this pair under the special payment methodology. Accordingly, we are proposing that only DRGs 209, 210, and 211 that are currently paid under the alternative transfer payment methodology would continue to be paid under this methodology.

Finally, we note that the OIG has prepared several reports that examined hospitals' compliance with proper coding of patients' discharge status as transferred under our guidelines, and has found substantial noncompliance leading to excessive payments.⁴ Specifically, the OIG found hospitals submitting claims indicating the patient had been discharged when, in fact, the patient was transferred to a postacute care setting. As we indicated in the May 8, 1998 Federal Register (63 FR 25593), hospitals found to be intentionally engaging in such practices may be investigated for fraudulent or abusive billing practices. We intend to work with the OIG to develop the most appropriate response to ensure all hospitals become compliant with our guidelines.

⁴ The OIG report identification numbers are: A-04-00-02162, A-04-00-01220 and A-04-01210. A fourth report is expected out soon.

B. Rural Referral Centers (§ 412.96)

Under the authority of section 1886(d)(5)(C)(i) of the Act, the regulations at § 412.96 set forth the criteria that a hospital must meet in order to qualify under the IPPS as a rural referral center. For discharges occurring before October 1, 1994, rural referral centers received the benefit of payment based on the other urban amount rather than the rural standardized amount. Although the other urban and rural standardized amounts are the same for discharges beginning with that date, rural referral centers continue to receive special treatment under both the DSH payment adjustment and the criteria for geographic reclassification.

Rural referral centers with a disproportionate share percentage of at least 30 percent are not subject to the 5.25 percent cap on DSH payments that is applicable to other rural hospitals (with the exception of rural hospitals with 500 or more beds). Rural referral centers are not subject to the proximity criteria when applying for geographic reclassification, and they do not have to meet the requirement that a hospital's average hourly wage must exceed 106 percent of the average hourly wage of the labor market area where the hospital is located.

As discussed in Federal Register documents at 62 FR 45999 and 63 FR 26325, under section 4202 of Public Law 105-33, a hospital that was classified as a rural referral center for FY 1991 is to be considered as a rural referral center for FY 1998 and later years so long as that hospital continues to be located in a rural area and does not voluntarily terminate its rural referral center status. Effective October 1, 2000, if a hospital located in what is now an urban area was ever a rural referral center, it is reinstated to rural referral center status (65 FR 47089). Otherwise, a hospital seeking rural referral center status must satisfy the applicable criteria.

One of the criteria under which a hospital may qualify as a rural referral center is to have 275 or more beds available for use (§ 412.96(b)(1)(ii)). A rural hospital that does not meet the bed size requirement can qualify as a rural referral center if the hospital meets two mandatory prerequisites (a minimum case-mix index and a minimum number of discharges) and at least one of three optional criteria (relating to specialty composition of medical staff, source of inpatients, or referral volume) (§ 412.96(c)(1) through (c)(5)). (See also the September 30, 1988 Federal Register (53 FR 38513).) With respect to the two mandatory prerequisites, a hospital may be classified as a rural referral center if—

• The hospital's case-mix index is at least equal to the lower of the median case-mix index for urban hospitals in its census region, excluding hospitals with approved teaching programs, or the median case-mix index for all urban hospitals nationally; and

• The hospital's number of discharges is at least 5,000 per year, or, if fewer, the median number of discharges for urban hospitals in the census region in which the hospital is located. (The number of discharges criterion for an osteopathic hospital is at least 3,000 discharges per year, as specified in section 1886(d)(5)(C)(i) of the Act.)

1. Case-Mix Index

Section 412.96(c)(1) provides that CMS will establish updated national and regional case-mix index values in each year's annual notice of prospective payment rates for purposes of determining rural referral center status. The methodology we use to determine the proposed national and regional case-mix index values is set forth in regulations at § 412.96(c)(1)(ii). The proposed national mean case-mix index value for FY 2004 includes all urban hospitals nationwide, and the proposed regional values for FY 2004 are the median values of urban hospitals within each census region, excluding those hospitals with approved teaching programs (that is, those hospitals receiving indirect medical education payments as provided in § 412.105). These proposed values are based on discharges occurring during FY 2002 (October 1, 2001 through September 30, 2002) and include bills posted to CMS' records through December 2002.

We are proposing that, in addition to meeting other criteria, if they are to qualify for initial rural referral center status for cost reporting periods beginning on or after October 1, 2003, rural hospitals with fewer than 275 beds must have a case-mix index value for FY 2002 that is at least—

• 1.3374; or

• The median case-mix index value (not transfer-adjusted) for urban hospitals (excluding hospitals with approved teaching programs as identified in § 412.105) calculated by CMS for the census region in which the hospital is located.

The proposed median case-mix index values by region are set forth in the following table:

Region | Case-mix index value
1. New England (CT, ME, MA, NH, RI, VT) | 1.2252
2. Middle Atlantic (PA, NJ, NY) | 1.2270
3. South Atlantic (DE, DC, FL, GA, MD, NC, SC, VA, WV) | 1.3157
4. East North Central (IL, IN, MI, OH, WI) | 1.2485
5. East South Central (AL, KY, MS, TN) | 1.2511
6. West North Central (IA, KS, MN, MO, NE, ND, SD) | 1.1841
7. West South Central (AR, LA, OK, TX) | 1.2733
8. Mountain (AZ, CO, ID, MT, NV, NM, UT, WY) | 1.3511
9. Pacific (AK, CA, HI, OR, WA) | 1.2834

The preceding numbers will be revised in the final rule to the extent required to reflect the updated FY 2002 MedPAR file, which will contain data from additional bills received through March 31, 2002.

Hospitals seeking to qualify as rural referral centers or those wishing to know how their case-mix index value compares to the criteria should obtain hospital-specific case-mix index values (not transfer-adjusted) from their fiscal intermediaries. Data are available on the Provider Statistical and Reimbursement (PS&R) System. In keeping with our policy on discharges, these case-mix index values are computed based on all Medicare patient discharges subject to DRG-based payment.

2. Discharges

Section 412.96(c)(2)(i) provides that CMS will set forth the national and regional numbers of discharges in each year's annual notice of prospective payment rates for purposes of determining rural referral center status. As specified in section 1886(d)(5)(C)(ii) of the Act, the national standard is set at 5,000 discharges. We are proposing to update the regional standards based on discharges for urban hospitals' cost reporting periods that began during FY 2002 (that is, October 1, 2001 through September 30, 2002).

Therefore, we are proposing that, in addition to meeting other criteria, a hospital, if it is to qualify for initial rural referral center status for cost reporting periods beginning on or after October 1, 2003, must have as the number of discharges for its cost reporting period that began during FY 2002 a figure that is at least—

• 5,000 (3,000 for an osteopathic hospital); or

• The median number of discharges for urban hospitals in the census region in which the hospital is located, as indicated in the following table:

Region | Number of discharges
1. New England (CT, ME, MA, NH, RI, VT) | 7,476
2. Middle Atlantic (PA, NJ, NY) | 8,906
3. South Atlantic (DE, DC, FL, GA, MD, NC, SC, VA, WV) | 9,497
4. East North Central (IL, IN, MI, OH, WI) | 8,439
5. East South Central (AL, KY, MS, TN) | 6,894
6. West North Central (IA, KS, MN, MO, NE, ND, SD) | 3,991
7. West South Central (AR, LA, OK, TX) | 7,629
8. Mountain (AZ, CO, ID, MT, NV, NM, UT, WY) | 8,908
9. Pacific (AK, CA, HI, OR, WA) | 7,021

These numbers will be revised in the final rule based on the latest available cost report data.

C. Indirect Medical Education (IME) Adjustment (§ 412.105) and Disproportionate Share Hospital (DSH) Adjustment (§ 412.105)

1. Available Beds and Patient Days: Background (§ 412.105(b) and § 412.106(a)(1)(ii))

Section 1886(d)(5)(B) of the Act provides that subsection (d) hospitals that have residents in approved graduate medical education (GME) programs receive an additional payment for each discharge of Medicare beneficiaries to reflect the higher indirect patient care costs of teaching hospitals relative to nonteaching hospitals. The existing regulations regarding the calculation of this additional payment, known as the indirect medical education (IME) adjustment, are located at § 412.105. The additional payment is based on the IME adjustment factor, calculated using hospitals' ratios of residents to beds. The determination of the number of beds, based on available bed days, is specified at § 412.105(b). This determination of the number of available beds is also applicable for other purposes, including the level of the disproportionate share hospital (DSH) adjustment payments under § 412.106(a)(l)(i).

Section 1886(d)(5)(F) of the Act specifies two methods for a hospital to qualify for the Medicare DSH adjustment. The primary method, which is the subject of a provision in this proposed rule, is for a hospital to qualify based on a complex statutory formula under which payment adjustments are based on the level of the DSH patient percentage. The first computation includes the number of patient days that are furnished to patients who were entitled to both Medicare Part A and Supplemental Security Income (SSI) benefits. This number is divided by the total number of patient days that are associated with patients entitled to benefits under Medicare Part A. The second computation includes hospital patient days that are furnished to patients who, for those days, were eligible for Medicaid but were not entitled to benefits under Medicare Part A. This number is divided by the number of total hospital inpatient days in the same period.

Hospitals whose DSH patient percentage exceeds 15 percent are eligible for a DSH payment adjustment (prior to April 1, 2001, the qualifying DSH patient percentage varied, in part, by the number of beds (66 FR 39882)). The DSH payment adjustment may vary based on the DSH patient percentage and the type of hospital: the statute provides for different adjustments for urban hospitals with 100 or more beds and rural hospitals with 500 or more beds, hospitals that qualify as rural referral centers or SCHs, and other hospitals.

We are combining our discussion of proposed changes to the policies for counting beds and patient days, in relation to the calculations at §§ 412.105(b) and 412.106(a)(1)(ii) because the underlying concepts are similar, and we believe they should generally be interpreted in a consistent manner for both purposes. Specifically, we are proposing to clarify that beds and patient days that are counted for these purposes should be limited to beds or patient days in hospital units or wards that would be directly included in determining the allowable costs of inpatient hospital care payable under the IPPS on the Medicare cost reports. As a preliminary matter, beds and patient days associated with these beds that are located in units or wards that are excluded from the IPPS (for example, psychiatric or rehabilitation units), and thus from the determination of allowable costs of inpatient hospital care under the IPPS on the Medicare cost report, are not to be counted for purposes of §§ 412.105(b) and 412.106(a)(1)(ii). The remainder of this discussion pertains to beds and patient days associated with these beds that are located in units or wards that are not excluded from the IPPS and for which costs are included in determining the allowable costs of inpatient hospital care under the IPPS on the Medicare cost report. For example, neonatal intensive care unit beds are included in the determination of available beds because the costs and patient days associated with these beds are directly included in the determination of the allowable costs of inpatient hospital care under the IPPS. In contrast, beds and patient days associated with these beds that are located in excluded distinct-part psychiatric or rehabilitation units would not be counted for purposes of §§ 412.105(b) and 412.106(a)(1)(ii) under any circumstances, because the costs associated with those units or wards are excluded from the determination of the costs of allowable inpatient care under IPPS.

This policy has been upheld in the past by various courts. (See, for example, Little Co. of Mary Hospital and Health Care Centers v. Shalala, 165 F.3d 1162 (7th Cir. 1999; Grant Medical Center v. Shalala, 905 F. Supp. 460 (S.D. Ohio 1995); Sioux Valley Hospital v. Shalala, No. 93-3741SD, 1994 U.S. App. LEXIS 17759 (8th Cir. July 20, 1996) (unpublished table decision); Amisub v. Shalala, No. 94-1883 (TFH) (D.D.C. December 4, 1995) (mem.).) In these cases, the courts agreed with the Secretary's position distinguishing between the treatment of neonatal intensive care unit beds and well-baby nursery beds based on the longstanding policy of CMS that neonatal intensive care unit days are considered intensive care days (part of inpatient routine care) rather than nursery days.

Our policies on counting beds are applied consistently for both IME and DSH although the incentives for hospitals can be different for IME and DSH. For purposes of IME, teaching hospitals have an incentive to minimize their number of available beds in order to increase the resident-to-bed ratio and maximize the IME adjustment. On the other hand, for DSH purposes, urban hospitals with under 100 beds and rural hospitals with under 500 beds may have an incentive to increase their bed count in order to qualify for the higher DSH payments for urban hospitals with over 100 beds (or rural hospitals with over 500 beds).

However, some courts have applied our current rules in a manner that is inconsistent with our current policy and that would result in inconsistent treatment of beds, patient days, and costs. For example, in Clark Regional Medical Center v. United States Department of Health & Human Services, 314 F.3d 241 (6th Cir. 2002), the court upheld the district court's ruling that all bed types not specifically excluded from the definition of available bed days in the regulations must be included in the count of available bed days. Similarly, in a recent decision in the Ninth Circuit Court of Appeals Alhambra v. Thompson, 259 F.3d 1071 (Ninth Cir. 2001), the court ruled that days attributable to groups of beds that are not separately certified as distinct part beds (that is, nonacute care beds in which care provided is at a level below the level of routine inpatient acute care) but are adjacent to or in an acute care “area” are included in the “areas of the hospital that are subject to the prospective payment system” and should be counted in calculating the Medicare DSH patient percentage.

These courts considered subregulatory guidance (program instructions) in formulating their decisions. Although this proposed rule would clarify the underlying principles for our bed and patient days counting policies and would amend the relevant regulations to be consistent with these clarifications, we recognize the need to revise some of our program instructions to make them fully consistent with these clarifications and will act to do so as soon as possible.

While some of the topics discussed below pertain only to counting available beds (unoccupied beds) and some only to counting patient days (section 1115 waiver days, dual-eligible days, and Medicare+Choice days), several important topics are applicable to both bed-counting and day-counting policies (nonacute care beds and days, observation beds and days, and swing-beds and days). Therefore, for ease of discussion, we have combined all topics pertaining to counting available beds and patient days together in the following discussion.

2. Unoccupied Beds

The current policy for counting hospital beds for IME and DSH is specified at § 412.105(b). That count is based on total available bed days during the hospital's cost reporting period, divided by the number of days in the cost reporting period. The regulations specify certain types of beds to be excluded from this count (for example, beds or bassinets in the healthy newborn nursery, custodial care beds, and beds in excluded distinct part hospital units).

Further instructions for counting beds are detailed in section 2405.3, Part I, of the Medicare Provider Reimbursement Manual (PRM). That section states that a bed must be permanently maintained for lodging inpatients and it must be available for use and housed in patient rooms or wards. Thus, beds in a completely or partially closed wing of the facility are considered available only if the hospital can put the beds into use when they are needed.

Currently, if a bed can be staffed for inpatient care either by nurses on staff or from a nurse registry within 24 to 48 hours, the unoccupied bed is determined available.⁵ In most cases, it is a straightforward matter to determine whether unoccupied beds can be staffed within this timeframe because they are located in a unit that is otherwise staffed and occupied (an unoccupied bed is available for patient care but it is not occupied by a patient on a particular day). The determination is not as simple in situations where a room in an otherwise occupied unit has been altered for other purposes, such as for a staff lounge or for storage.

⁵ This policy was first articulated in correspondence to the Blue Cross and Blue Shield Association (BCBSA) on November 2, 1988, and published in BCBSA's Administrative Bulletin #1841, 88.01, on November 18, 1988.

Section 2405.3 of the PRM states that beds in unoccupied rooms or wards are to be excluded from the bed count if the associated costs are excluded from depreciable plant assets because the area is not available for patient use. However, issues continue to arise with regard to how to treat entire units or even entire floors that are unoccupied over a period of time. For example, in one recent Provider Reimbursement Review Board (PRRB) decision, the hospital acknowledged that an entire floor was temporarily unoccupied for approximately 2 years. Rooms on the floor were used for office space, storage and outpatient services. The PRRB ruled that current rules allowed these beds to be counted. Specifically, the PRRB found the beds could reasonably be made ready for inpatient use within 24 to 48 hours, the rooms were counted on the hospital's cost report as depreciable plant assets available for patient care, and the hospital could adequately provide patient care in the beds using staff nurses or nurses from a nurse registry. Upon review, the Administrator also ultimately upheld this decision based on existing policies and instructions.

We do not believe that an accurate bed count should include beds that are essentially hypothetical in nature; for example, when the beds are on a floor that is not used for inpatient care throughout the entire cost reporting period (and, indeed, may have been used for other purposes). Followed to the extreme, a hospital could count every bed in its facility, even if it had no intention of ever using a bed for inpatient care, as long as it would be theoretically possible to place an inpatient in the bed. We do not believe such a result would accurately reflect a hospital's inpatient bed capacity. Even though some teaching hospitals have an incentive to minimize the bed count for payment purposes, some DSH hospitals have an incentive to maximize the bed count for the same reason. Our current policy is intended to reflect a hospital's bed count as accurately as possible, achieving a balance between capturing short-term shifts in occupancy and long-term changes in capacity. Therefore, we believe further clarification and refinement of our policies relating to counting available beds is necessary.

In the FY 2003 IPPS proposed rule published on May 9, 2002 (67 FR 31462), we proposed that, if a hospital's reported bed count results in an occupancy rate (average daily census of patients divided by the number of beds) below 35 percent, the applicable bed count, for purposes of establishing the number of available beds for that hospital would exclude beds that would result in an average annual occupancy rate below 35 percent. However, at the time the FY 2003 IPPS final rule was published on August 1, 2002 (67 FR 50060), we decided not to proceed with the proposed changes as final and to reconsider the issue as part of a future comprehensive analysis of our bed and patient day counting policies.

In this proposed rule, rather than establish a minimum standard occupancy rate, we are proposing to determine whether beds in a unit are available based upon whether the unit was used to provide patient care of a level generally payable under the IPPS (“IPPS level of care”) at any time during the 3 preceding months. If any of the beds in the unit were used to provide an IPPS level of care at any time during the preceding 3 months, all of the beds in the unit are counted for purposes of determining available bed days during the current month. If no patient care of a type generally payable under the IPPS was provided in that unit during the 3 preceding months, the beds in the unit are to be excluded from the determination of available bed days during the current month (proposed §§ 412.105(b)(2) and 412.106(a)(1)(ii)(C)).

For example, our policy as to how to count beds during minor renovations of units, wards, or individual rooms has been that unless the space costs are treated as nonallowable, the beds would be counted. Under the policy we are proposing, beds in an otherwise unoccupied unit that are occupied (for purposes of providing IPPS-level care) at any time during the 3 preceding months would be counted as available for the current month. This would apply even if the rooms were undergoing renovation during a portion of that 3-month period.

We believe a unit or ward can be defined as a group of rooms staffed by nurses assigned to a single nursing station. In most cases, the patients treated within a single unit or ward will receive a similar level of care (that is, acute, intensive, rehabilitation, psychiatric, or skilled nursing). However, we encourage comments on the most useful definition of a unit or ward.

We believe this proposed policy would provide a clear standard for both hospitals and fiscal intermediaries to use to determine whether otherwise unoccupied beds should be counted. We note that if the required time period for excluding the unoccupied beds were to be set too low, hospitals could potentially manipulate their available bed count by not admitting any patients to a unit during low occupancy periods, thereby distorting the measure of hospital size. We believe 3 months, one quarter of a hospital's fiscal year, represents a reasonable standard for determining that a unit is not being used to provide patient care and may be excluded from the hospital's available bed count.

It is also necessary to consider our policy with respect to individual beds within rooms located in an otherwise occupied unit when those beds are used for alternative purposes. For example, section 2405.3 of the PRM states that beds used for the following are excluded from the definition (of a bed): Postanesthesia or postoperative recovery rooms, outpatient areas, emergency rooms, ancillary departments nurses' and other staff residences, and other such areas as are regularly maintained and utilized for only a portion of the stay of patients or for purposes other than inpatient lodging. In some situations, beds used for these excluded purposes may be intermingled with acute care inpatient beds.

Beds being used to provide specific categories of nonacute services, such as outpatient services in an observation bed or skilled nursing services in a swing-bed, are excluded from the count. As discussed later, this flows from our policy that the bed days are treated consistently with the assignment of the costs on the Medicare cost report of the services provided in the bed.

In the case of individual rooms in an otherwise occupied unit that are altered to be used for other uses besides inpatient care, we are proposing the bed(s) should be counted if a patient could be admitted to the room within 24 hours (proposed § 412.105(b)(3)). This would apply even if the bed(s) were not currently located in the room, as long as a bed could be physically placed in the room and made available within 24 hours. We are proposing that it would no longer be necessary for the hospital to determine whether a bed could be staffed within 24 to 48 hours. For example, in the case of a room that has been altered for use as a staff lounge, if the room could be made available to house a patient merely by replacing the lounge furniture with a patient bed, the bed should be counted as available.

Under this proposal, other than when an inpatient room is used to provide observation services, labor/delivery room services, or skilled nursing services in a swing-bed (all discussed later in this proposed rule), the alternative purpose of the room is only relevant if it impacts whether the room could be made available for patient occupancy within 24 hours. If the hospital was fully occupied (no other room was available), and the room still was not put into service when needed, that would provide evidence that the room could not be made available and beds in the room should be excluded from the bed count.

Therefore, we are proposing to amend § 412.105(b) to indicate that the bed days in a unit that is unoccupied by patients receiving IPPS-level care for the 3 preceding months are to be excluded from the available bed day count for the current month. We are further proposing the beds in a unit that was occupied for IPPS-level care during the 3 preceding months should be counted unless they could not be made available for patient occupancy within 24 hours, or they are used to provide outpatient observation services or swing-bed skilled nursing care.

3. Nonacute Care Beds and Days

As noted above, these policies are consistent with the reporting of the days, costs, and beds that are used to calculate the costs of hospital inpatient care in individual cost centers on the Medicare cost report. Furthermore, since the IME and DSH adjustments are part of the IPPS, we read the statute to apply only to inpatient beds and days.

Under the existing provisions of § 412.105(b), the regulations specifically exclude beds or bassinets in the healthy newborn nursery, custodial care beds, or beds in excluded distinct part hospital units as types of beds excluded from the count of available beds.

Existing regulations at § 412.106(a)(1)(ii) state that the number of patient days used in the DSH percentage calculation includes only those days attributable to areas of the hospital that are subject to the IPPS and excludes all others. This regulation was added after being proposed in the March 22, 1988 Federal Register (53 FR 9339), and made final in the September 30, 1988 Federal Register (53 FR 38479). At that time, we indicated that, “based on a reading of the language in section 1886(d)(5)(F) of the Act, which implements the disproportionate share provision, we are in fact required to consider only those inpatient days to which the prospective payment system applies in determining a prospective payment hospital's eligibility for a disproportionate share adjustment.” Using this reasoning, we stated that the DSH patient percentage calculation should only include patient days associated with the types of services paid under the IPPS.

As noted previously, a recent decision in the Ninth Circuit Court of Appeals (Alhambra v. Thompson) ruled that days attributable to groups of beds that are not separately certified as distinct part beds (that is, nonacute care beds in which care provided is at a level below the level of routine inpatient acute care), but are adjacent to or in an acute care “area,” are included in the “areas of the hospital that are subject to the prospective payment system” and should be counted in calculating the Medicare DSH patient percentage.

In light of the Ninth Circuit decision that our rules were not sufficiently clear to permit exclusion of bed days based on the area where the care is provided, we are proposing to revise our regulations to be more specific. Therefore, in this proposed rule, we are proposing to clarify that beds and patient days are excluded from the calculations at § 412.105(b) and § 412.106(a)(1)(ii) if the nature of the care provided in the unit or ward is inconsistent with what is typically furnished to acute care patients, regardless of whether these units or wards are separately certified or are located in the same general area of the hospital as a unit or ward used to provide an acute level of care. Although the intensity of care may vary within a particular unit, such that some patients may be acute patients while others are nonacute, we understand that a patient-by-patient review of whether the care received would be paid under the IPPS would be unduly burdensome. Therefore, we believe it is more practical to permit the application of this principle based upon the location at which the services were furnished.

In particular, we are proposing to revise our regulations to clarify that the beds and patient days attributable to a nonacute care unit or ward should not be included in the calculations at § 412.105(b) and § 412.106(a)(1)(ii), even if the unit is not separately certified by Medicare as a distinct-part unit and even if the unit or ward is within the same general location of the hospital as areas that are subject to the IPPS.

Exceptions to this policy are outpatient observation and swing-bed days, which are excluded from the count of available bed days even if the care is provided in an acute care unit. Our policies pertaining to these beds are discussed further below. Another exception is healthy newborn nursery days. The costs, days, and beds of a healthy newborn nursery are excluded from inpatient calculations for Medicare purposes. Meanwhile, for the purpose of computing the Medicaid patient share computation of the DSH patient percentages, these days are included both as Medicaid patient days and as total patient days. Nursery costs are not directly included in calculating Medicare hospital inpatient care costs because Medicare does not generally cover services for infants. However, Medicaid does offer extensive coverage to infants, and nursery costs would be directly included in calculating Medicaid hospital inpatient care costs. Therefore, these costs, days, and beds are excluded for Medicare purposes, but included for determining the Medicaid DSH percentage. (This policy was previously communicated through a memorandum to CMS Regional Offices on February 27, 1997.)

Generally, as discussed previously, if the nature of the care provided in the unit or ward is consistent with what is typically furnished to acute care patients, and, therefore, would be characteristic of services paid under the IPPS, the patient days, beds, and costs of that unit or ward would be classified as inpatient acute care (except for observation bed days and swing bed days, as discussed later in this preamble). Conversely, if the intensity and type of care provided in the unit or ward are not typical of a service that would be paid under the IPPS (for example, nonacute care), we are proposing that the beds and patient days attributable to a nonacute care unit or ward should not be included in the calculations of beds and patient days at § 412.105(b) and § 412.106(a)(1)(ii).

This proposed policy is not intended to focus on the level or type of care provided to individual patients in a unit, but rather on the level and type of care provided in the unit as a whole. For example, the bed days for a patient participating in an experimental procedure that is not covered under the IPPS should be counted as long as the patient is treated in a unit of the hospital that generally provides acute inpatient care normally payable under the IPPS. The expectation is that a patient located in an acute care unit or ward of the hospital is receiving a level of care that is consistent with what would be payable under the IPPS.

There are instances where services that are provided in units excluded from the IPPS (such as rehabilitation and psychiatric distinct-part units) are consistent with the level of care that would qualify for payment under the IPPS. However, §§ 412.105(b) and 412.106(a)(1)(ii) specifically exclude the beds and patient days associated with these excluded units. That exclusion is because the costs of care provided in these units are paid outside the IPPS, even though some of the care provided is of a type that would be payable under the IPPS if the care was provided in an IPPS unit.

We are proposing to revise § 412.105(b) to clarify that beds in units or wards established or used to provide a level of care that is not consistent with what would be payable under the IPPS cannot be counted (proposed paragraph (b)(1)). We also are proposing to revise the DSH regulations at § 412.106(a)(1)(ii) to clarify that the number of patient days includes only those attributable to patients that receive care in units or wards that furnish a level of care that would generally be payable under the IPPS (proposed paragraph (a)(1)(ii)(C)).

We note these proposed revisions are clarifications of our regulations to reflect our longstanding interpretation of the statutory intent, especially relating to the calculation of the Medicare DSH patient percentage.

4. Observation Beds and Swing-Beds

Observation services are those services furnished by a hospital on the hospital's premises that include use of a bed and periodic monitoring by a hospital's nursing or other staff in order to evaluate an outpatient's condition or to determine the need for a possible admission to the hospital as an inpatient. When a hospital places a patient under observation but has not formally admitted him or her as an inpatient, the patient initially is treated as an outpatient. Consequently, the observation bed days are not recognized under the IPPS as part of the inpatient operating costs of the hospital.

Observation services may be provided in a distinct observation bed area, but they may also be provided in a routine inpatient care area. In either case, our policy is the bed days attributable to beds used for observation services are excluded from the counts of available bed days and patient days at §§ 412.105(b) and 412.106(a)(1)(ii). This policy was clarified in a memorandum that was sent to all CMS Regional Offices (for distribution to fiscal intermediaries) dated February 27, 1997, which stated that if a hospital provides observation services in beds that are generally used to provide hospital inpatient services, the equivalent days that those beds are used for observation services should be excluded from the count of available bed day count (even if the patient is ultimately admitted as an acute inpatient).

A swing-bed is a bed otherwise available for use to provide acute inpatient care that is also occasionally used to provide SNF care. The criteria to qualify as a swing-bed hospital are located under § 482.66, and for a swing-bed CAH under § 485.645. Under § 413.114(a)(1), payment for posthospital SNF care furnished in swing-beds is in accordance with the provisions of the prospective payment system for SNF care (effective for services furnished in cost reporting periods beginning on and after July 1, 2002). Similar to observation beds and patient days, swing-beds and patient days are excluded from the counts of available bed days and patient days at §§ 412.105(b) and 412.106(a)(1)(ii) when the swing-bed is used to furnish SNF care.⁶

⁶ Ibid.

Observation beds and swing-beds are both special, frequently temporary, alternative uses of acute inpatient care beds. That is, only the days an acute inpatient care unit bed is used to provide outpatient observation services are to be deducted from the available bed count under § 412.105(b). Otherwise, the bed is considered available for acute care services (as long as it otherwise meets the criteria to be considered available). This same policy applies for swing-beds. The policies to exclude observation bed days and swing-bed days stem from the fact that these bed days are not payable under the IPPS (unless the patient is ultimately admitted, in the case of observation bed days).

Some hospitals have contested our policy excluding swing-beds and patient days and observation beds and patient days under existing §§ 412.105(b) and 412.106(a)(1)(ii). For example, in Clark Regional Medical Center v. United States Department of Health & Human Services, 314 F.3d 241 (6th Cir. 2002), the court upheld the district court's ruling that all bed types not specifically excluded from the definition of available bed days in the regulations must be included in the count of available bed days. The hospitals involved in this decision wanted to include observation and swing-bed days in their bed count calculation in order to qualify for higher DSH payments as 100 bed hospitals. The Court found that “the listing of beds to be excluded from the count restricts the class of excluded beds only to those specifically listed.” Because observation beds and swing-beds are not currently specifically mentioned in § 412.105(b) as being excluded from the bed count, the Court ruled that these beds must be included in the count.

The list of the types of beds excluded from the count under existing § 412.105(b) was never intended to be an exhaustive list of all of the types of beds to be excluded from the bed count under this provision. In fact, over the years, specific bed types have been added to the list as clarifications of the types of beds to be excluded, not as new exclusions (see the September 1, 1994 Federal Register (59 FR 45373) and September 1, 1995 Federal Register (60 FR 45810), where we clarified exclusions under our policy that were not previously separately identified in the regulation text).

Courts also have recently found that observation and swing-bed days are included under the ‘plain meaning’ of § 412.106(a)(1)(ii), which reads: “The number of patient days includes only those days attributable to areas of the hospital that are subject to the prospective payment system and excludes all others.” However, the preamble language when this provision was promulgated clarified its meaning (53 FR 38480):

• “Although previously the Medicare regulations did not specifically define the inpatient days for use in the computation of a hospital's disproportionate share patient percentage, we believe that, based on a reading of the language in section 1886(d)(5)(F) of the Act, which implements the disproportionate share provision, we are in fact required to consider only those inpatient days to which the prospective payment system applies in determining a prospective payment hospital's eligibility for a disproportionate share adjustment.”

Our policy excluding outpatient observation and swing-bed days is consistent with this regulatory interpretation of days to be counted under § 412.106(a)(1)(ii). That is, the services provided in these beds are not payable under the IPPS (unless the patient is admitted, in the case of observation bed days).

As outlined previously, our consistent and longstanding policy, which has been reviewed and upheld previously by several courts, including the United States District Court for the District of Columbia, is based on the principle of counting beds in the same manner as the patient days and costs are treated. Our policy to exclude observation and swing-bed days under the regulations at § 412.105(b) and § 412.106(a)(1)(ii) stems from this policy.

However, we are proposing to amend our policy with respect to observation bed days of patients who ultimately are admitted. As noted previously, our current policy is that these bed days are excluded from the available bed day and the patient day counts. This policy was communicated in a memorandum to all CMS Regional Offices on February 27, 1997. Specifically, we are proposing that, if a patient is admitted as an acute inpatient subsequent to receiving outpatient observation services, because the charges of the observation ancillary services the patient receives are currently treated as inpatient charges on the cost report, in order to be consistent with our policy to treat the costs and patient days consistently, we will begin to include the patient bed days associated with the observation services in the inpatient bed day count.

In order to avoid any potential future misunderstandings about our policies regarding the exclusion of observation and swing-bed days under the regulations at § 412.105(b) and § 412.106(a)(1)(ii), we are proposing to revise our regulations to specify our policy that observation and swing-bed bed days are to be excluded from the counts of both available beds and patient days, unless a patient treated in an observation bed is ultimately admitted, in which case the beds and days would be included in those counts.

5. Labor, Delivery, Recovery, and Postpartum Beds and Days

Prior to December 1991, Medicare's policy on counting days for maternity patients required an inpatient day to be counted for an admitted maternity patient in the labor/delivery room at the census taking hour. This is consistent with Medicare policy for counting days for admitted patients in any other ancillary department at the census-taking hour. However, based on decisions adverse to the government regarding this policy in a number of Federal courts of appeal, including the United States Court of Appeals for the District of Columbia Circuit, the policy regarding the counting of inpatient days for maternity patients was revised.

Therefore, our current policy regarding the treatment of labor and delivery bed days was initially described in Section 2205.2 of the PRM. Section 2205.2. of the PRM states that a maternity inpatient in the labor/delivery room at midnight is not included in the census of inpatient routine care if the patient has not occupied an inpatient routine bed at some time since admission. For example, if a Medicaid patient is in the labor room at the census and has not yet occupied a routine bed, the bed day is not counted as a routine bed day of care in Medicaid or total days and, therefore, is not included in the counts under existing §§ 412.105(b) and 412.106(a)(1)(ii). If the patient is in the labor room at the census but had first occupied a routine bed, a routine bed day is counted, in Medicaid and total days, for DSH purposes and for apportioning the cost of routine care on the cost report (consistent with our longstanding policy to treat days, costs, and beds similarly).

Increasingly, hospitals are redesigning their maternity areas from separate labor and delivery rooms apart from the postpartum rooms, to single labor, delivery room, and postpartum (LDRP) rooms. In order to appropriately track the days and costs of LDRP rooms, it is necessary to apportion them between the labor and delivery ancillary cost center and the routine adults and pediatrics cost center. This is done by determining the proportion of the patient's stay in the LDRP room that the patient was receiving ancillary services (labor and delivery) as opposed to routine adult and pediatric services (recovery and postpartum).

An example of this would be if 25 percent of the patient's time in the LDRP room was for labor/delivery services and 75 percent for routine care, over the course of a 4-day stay in the LDRP room. In that case, 75 percent of the time the patient spent in the LDRP room is applied to the total bed days and costs (resulting in 3 routine adults and pediatrics bed days for this patient, 75 percent of 4 total days). The resulting days (or portion of days) are included in total days and in Medicaid days for all purposes. For purposes of determining hospital bed count, the time when the beds are unoccupied should be counted as available bed days using an average percentage (for example, 75 percent adults and pediatrics and 25 percent ancillary) based on all patients. In other words, 75 percent of the days the bed is unoccupied would be counted in the available bed count.

We realize that it may be burdensome for a hospital to determine for each patient in this type of room the amount of time spent in labor/delivery and the amount of time spent receiving routine care. Alternatively, the hospital could calculate an average percentage of time patients receive ancillary services, as opposed to routine inpatient care during a typical month, to apply the rest of the year.

6. Days Associated with Demonstration Projects Under Section 1115 of the Act

Some States extend medical benefits to a given population that could not have been made eligible for Medicaid under a State plan amendment under section 1902(r)(2) or section 1931(b) of the Act, under a demonstration under a section 1115(a)(2) demonstration project (also referred to as a section 1115 waiver). These populations are specific, finite populations identifiable in the award letters and special terms and conditions for the demonstrations.

On January 20, 2000, we issued an interim final rule with comment period (65 FR 3136), followed by a final rule issued on August 1, 2000 (65 FR 47086 through 47087), to allow hospitals to include the patient days of all populations that receive benefits under a section 1115 demonstration project in calculating the Medicare DSH adjustment. Previously, hospitals were to include only those days for populations under the section 1115 demonstration project who were, or could have been made, eligible under a State plan. Patient days of those expansion waiver groups who could not be made eligible for medical assistance under the State plan were not to be included for determining Medicaid patient days in calculating the Medicare DSH patient percentage. Under the January 20, 2000 interim final rule with comment period (65 FR 3137), hospitals could include in the numerator of the Medicaid fraction those patient days for individuals who receive benefits under a section 1115 expansion waiver demonstration project (effective with discharges occurring on or after January 20, 2000).

In the January 20, 2000 interim final rule with comment period, we explained that including the section 1115 expansion populations “in the Medicare DSH calculation is fully consistent with the Congressional goals of the Medicare DSH adjustment to recognize the higher costs to hospitals of treating low-income individuals covered under Medicaid.”

Since that revision, we have become aware that there are certain section 1115 demonstration projects that serve expansion populations with benefit packages so limited that the benefits are not similar to the medical assistance available under a Medicaid State plan. These section 1115 demonstration projects extend coverage only for specific services and do not include inpatient care in the hospital. Because of the limited nature of the coverage offered, the population involved may have a significantly higher income than traditional Medicaid beneficiaries.

In allowing hospitals to include patient days related to section 1115 expansion waiver populations, our intention was to include patient days of section 1115 expansion waiver populations who receive benefits under the demonstration project that are similar to those available to traditional Medicaid beneficiaries, including inpatient benefits. Because of the differences between expansion populations in these limited benefit demonstrations and traditional Medicaid beneficiaries, we are proposing that the Medicare DSH calculation should exclude from treatment as Medicaid patient days those patient days attributable to limited benefit section 1115 expansion waiver populations (proposed § 412.106(b)(4)(i)).

For example, a State may extend a family planning benefit to an individual for 2 years after she has received the 60-day postpartum benefit under Medicaid, or a State may choose to provide a family planning benefit to all individuals below a certain income level, regardless of having previously received the Medicaid postpartum benefit. This is a limited, temporary benefit that is generally administered in a clinic setting (see section 1905(a)(4)(C) of the Act). Also, a number of States are developing demonstrations that are limited to providing beneficiaries an outpatient prescription drug benefit. Generally, these limited benefits under a demonstration project do not include inpatient benefits. If a hospital were to include the days attributable to patients receiving benefits under such a limited benefit, the hospital would be able to receive higher DSH payments, perhaps substantially, for patients who may otherwise be insured for inpatient care. For example, these limited demonstrations provide benefits that may be needed to supplement private insurance coverage for individuals who do not have incomes low enough to qualify for Medicaid under the State plan. We do not believe such patients should be counted in the DSH patient percentage as eligible for title XIX.

As we have noted previously, at the time the Congress enacted the Medicare DSH adjustment provision, there were no approved section 1115 demonstration projects involving expansion populations and the statute does not address the treatment of these days. Although we did not initially include patient days for individuals who receive extended benefits only under a section 1115 demonstration project, we nevertheless expanded our policy in the January 20, 2000 revision to these rules to include such patient days. We now believe that this reading is warranted only to the extent that those individuals receive inpatient benefits under the section 1115 demonstration project.

Therefore, we are proposing to revise § 412.106(b)(4)(i) to clarify that patients must be eligible for medical assistance inpatient hospital benefits under an approved State Medicaid plan (or similar benefits, including inpatient hospital benefits, under a section 1115 demonstration project) in order for their hospital inpatient days to be counted as Medicaid days in the calculation of a hospital's DSH patient percentage. Under this proposed clarification, hospital inpatient days attributed to patients who do not receive coverage for inpatient hospital benefits either under the approved State plan or through a section 1115 demonstration would not be counted in the calculation of Medicaid days for purposes of determining a hospital's DSH patient percentage.

Under this reading, in the examples given above, the days associated with a hospital inpatient who receives coverage of prescription drugs or family planning services on an outpatient basis, but no inpatient hospital coverage, through either a Medicaid State plan or a section 1115 demonstration, would not be counted as Medicaid days for purposes of determining the DSH patient percentage.

This proposed revision would address an unintended potential consequence of our interpretation that hospitals may include in the DSH calculation patient days associated with section 1115 demonstration populations (65 FR 3136). As discussed above, that interpretation was based on our finding that individuals receiving a comprehensive benefit package under a section 1115 demonstration project could appropriately be included in the numerator of the Medicaid fraction even though the statute does not require such an inclusion, but did not address individuals who were receiving limited benefit packages under a section 1115 demonstration project.

7. Dual-Eligible Patient Days

As described above, the DSH patient percentage is equal to the sum of the percentage of Medicare inpatient days attributable to patients entitled to both Medicare Part A and SSI benefits, and the percentage of total inpatient days attributable to patients eligible for Medicaid but not entitled to Medicare Part A benefits. If a patient is a Medicare beneficiary who is also eligible for Medicaid, the patient is considered dual-eligible and the patient days are included in the Medicare fraction of the DSH patient percentage but not the Medicaid fraction. This is consistent with the language of section 1886(d)(5)(F)(vi)(II) of the Act, which specifies that patients entitled to benefits under Part A are excluded from the Medicaid fraction.

This policy currently applies even after the patient's Medicare coverage is exhausted. In other words, if a dual-eligible patient is admitted without any Medicare Part A coverage remaining, or the patient exhausts Medicare Part A coverage while an inpatient, his or her patient days are counted in the Medicare fraction before and after Medicare coverage is exhausted. This is consistent with our inclusion of Medicaid patient days even after the patient's Medicaid coverage is exhausted.

We are proposing to change our policy, to begin to count in the Medicaid fraction of the DSH patient percentage the patient days of dual-eligible Medicare beneficiaries whose Medicare coverage has expired. We note the statute referenced above stipulates that patient days attributable to patients entitled to benefits under Medicare Part A are to be excluded from the Medicaid fraction, while the statute specifies the Medicaid fraction is to include patients who are eligible for Medicaid.

As noted above, our current policy regarding dual-eligible patient days is that they are counted in the Medicare fraction and excluded from the Medicaid fraction, even if the patient's Medicare Part A coverage has been exhausted. We believe this interpretation is consistent with the statutory intent of section 1886(d)(5)(F)(vi)(II) of the Act. However, we recognize there are other plausible interpretations. In addition, on a more practical level, we recognize it is often difficult for fiscal intermediaries to differentiate the days for dual-eligible patients whose Part A coverage has been exhausted. The degree of difficulty depends on the data provided by the States, which may vary from one State to the next. Some States identify all dual-eligible beneficiaries in their lists of Medicaid patient days provided to the hospitals, while in other States the fiscal intermediary must identify patient days attributable to dual-eligible beneficiaries by matching Medicare Part A bills with the list of Medicaid patients provided by the State. The latter case is problematic when Medicare Part A coverage is exhausted because no Medicare Part A bill may be submitted for these patients. Thus, the fiscal intermediary has no data by which to readily verify any adjustment for these cases in the Medicaid data provided by the hospital. Currently, the fiscal intermediaries are reliant on the hospitals to identify the days attributable to dual-eligible beneficiaries so these days can be excluded from the Medicaid patient days count.

Therefore, in order to facilitate consistent handling of these days across all hospitals, we are proposing that the days of patients who have exhausted their Medicare Part A coverage will no longer be included in the Medicare fraction. Instead, we are proposing these days should be included in the Medicaid fraction of the DSH calculation. (We note that not all SSI recipients are Medicaid eligible. Therefore, it will not be automatic that the patient days of SSI recipients will be counted in the Medicaid fraction when their Part a coverage expires.)

Under this proposed change, before a hospital could count patient days attributable to dual-eligible beneficiaries in the Medicaid fraction, the hospital must submit documentation to the fiscal intermediary that justifies including the days in the Medicaid fraction after the Medicare Part A benefits have been exhausted. That is, if the State provides data on all the days associated with all dual-eligible patients treated at a hospital, regardless of whether the beneficiary had Medicare Part A coverage, the hospital is responsible for providing documentation showing which days should be included in the Medicaid fraction because Medicare Part A coverage was exhausted.

8. Medicare+Choice (M+C) Days

Under § 422.1, an M+C plan “means health benefits coverage offered under a policy or contract by an M+C organization that includes a specific set of health benefits offered at a uniform premium and uniform level of cost-sharing to all Medicare beneficiaries residing in the service area of the M+C plan.” Generally, each M+C plan must provide coverage of all services that are covered by Medicare Part A and Part B (or just Part B if the M+C plan enrollee is only entitled to Part B).

We have received questions whether patients enrolled in an M+C Plan should be counted in the Medicare fraction or the Medicaid fraction of the DSH patient percentage calculation. The question stems from whether M+C plan enrollees are entitled to benefits under Medicare Part A since M+C plans are administered through Medicare Part C.

We note that, under § 422.50, an individual is eligible to elect an M+C plan if he or she is entitled to Medicare Part A and enrolled in Part B. However, once a beneficiary has elected to join an M+C plan, that beneficiary's benefits are no longer administered under Part A.

Therefore, we are proposing to clarify that once a beneficiary elects Medicare Part C, those patient days attributable to the beneficiary should not be included in the Medicare fraction of the DSH patient percentage. These patient days should be included in the count of total patient days in the Medicaid fraction (the denominator), and the patient's days for the M+C beneficiary who is also eligible for Medicaid would be included in the numerator of the Medicaid fraction.

D. Medicare Geographic Classification Review Board (MGCRB) Reclassification Process (§ 412.230)

With the creation of the MGCRB, beginning in FY 1991, under section 1886(d)(10) of the Act, hospitals could request reclassification from one geographic location to another for the purpose of using the other area's standardized amount for inpatient operating costs or the wage index value, or both (September 6, 1990 interim final rule with comment period (55 FR 36754), June 4, 1991 final rule with comment period (56 FR 25458), and June 4, 1992 proposed rule (57 FR 23631)). Implementing regulations in subpart L of part 412 (§§ 412.230 et seq.) set forth criteria and conditions for redesignations for purposes of the wage index or the average standardized amount, or both, from rural to urban, rural to rural, or from an urban area to another urban area, with special rules for SCHs and rural referral centers.

Effective with reclassifications for FY 2003, section 1886(d)(10)(D)(vi)(II) of the Act provides that the MGCRB must use the average of the 3 years of hourly wage data from the most recently published data for the hospital when evaluating a hospital's request for reclassification. The regulations at § 412.230(e)(2)(ii) stipulate that the wage data are taken from the CMS hospital wage survey used to construct the wage index in effect for prospective payment purposes. To evaluate applications for wage index reclassifications for FY 2004, the MGCRB used the 3-year average hourly wages published in Table 2 of the August 1, 2002 IPPS final rule (67 FR 50135). These average hourly wages are taken from data used to calculate the wage indexes for FY 2001, FY 2002, and FY 2003, based on cost reporting periods beginning during FY 1997, FY 1998, and FY 1999, respectively.

Last year, we received a comment suggesting that we allow for the correction of inaccurate data from prior years as part of a hospital's bid for geographic reclassification (67 FR 50027). The commenter suggested that not to allow corrections to the data results in inequities in the calculation in the average hourly wage for purposes of reclassification. In the August 1, 2002 IPPS final rule, we responded:

“Hospitals have ample opportunity to verify the accuracy of the wage data used to calculate their wage index and to request revisions, but must do so within the prescribed timelines. We consistently instruct hospitals that they are responsible for reviewing their data and availing themselves to the opportunity to correct their wage data within the prescribed timeframes. Once the data are finalized and the wage indexes published in the final rule, they may not be revised, except through the mid-year correction process set forth in the regulations at § 412.63(x)(2). Accordingly, it has been our consistent policy that if a hospital does not request corrections within the prescribed timeframes for the development of the wage index, the hospital may not later seek to revise its data in an attempt to qualify for MGCRB reclassification.

“Allowing hospitals the opportunity to revise their data beyond the timelines required to finalize the data used to calculate the wage index each year would lessen the importance of complying with those deadlines. The likely result would be that the data used to compute the wage index would not be as carefully scrutinized because hospitals would know they may change it later, leading to inaccuracy in the data and less stability in the wage indexes from year to year.”

Since responding to this comment in the FY 2003 IPPS final rule, we have become aware of a situation in which a hospital does not meet the criteria to reclassify because its wage data were erroneous in prior years, and these data are now being used to evaluate its reclassification application. In addition, in this situation, the hospital's wage index was subject to the rural floor because the hospital was located in an urban area with an actual wage index below the statewide rural wage index for the State, and it was for a time period preceding the requirement for using 3 years of data. Therefore, the hospital contends, it had no incentive to ensure its wage data were completely accurate. (However, we would point out that hospitals are required to certify that their cost reports submitted to CMS are complete and accurate. Furthermore, inaccurate or incomplete reporting may have other payment implications beyond the wage index.)

While we continue to have all of the concerns we expressed in last year's final rule, we now more fully understand this particular hospital's situation. Although we do have administrative authority to establish a policy allowing corrections for this particular set of circumstances, we are concerned about establishing a precedent that could reduce the importance of ensuring that the final wage data published in the annual IPPS final rule are complete and accurate. As we indicated in our response last year, we are concerned this could lead to less accuracy and stability in the wage indexes from year to year.

However, we are soliciting comments on whether it may be appropriate to establish a policy whereby, for the limited purpose of qualifying for reclassification based on data from years preceding the establishment of the 3-year requirement (that is, cost reporting years beginning before FY 2000), a hospital in an urban area that was subject to the rural floor for the period during which the wage data the hospital wishes to revise were used to calculate the wage index, a hospital may request that its wage data be revised.

E. Costs of Approved Nursing and Allied Health Education Activities (§ 413.85)

1. Background

Medicare has historically paid providers for the share of the costs that providers incur in connection with approved educational activities. The activities may be divided into the following three general categories to which different payment policies apply:

• Approved graduate medical education (GME) programs in medicine, osteopathy, dentistry, and podiatry. Medicare makes direct and indirect medical education payments to hospitals for residents training in these programs. Existing policy on direct GME payment is found at 42 CFR 413.86, and for indirect GME payment at 42 CFR 412.105.

• Approved nursing and allied health education programs operated by the provider. The costs of these programs are excluded from the definition of inpatient hospital operating costs and are not included in the calculation of payment rates for hospitals paid under the IPPS or in the calculation of payments to hospitals and hospital units excluded from the IPPS that are subject to the rate-of-increase ceiling. These costs are separately identified and “passed through” (that is, paid separately on a reasonable cost basis). Existing regulations on nursing and allied health education program costs are located at 42 CFR 413.85.

• All other costs that can be categorized as educational programs and activities are considered to be part of normal operating costs and are included in the per discharge amount for hospitals subject to the IPPS, or are included as reasonable costs that are subject to the rate-of-increase limits for hospitals and hospital units excluded from the IPPS.

In this section, we are proposing to clarify our policy governing payments to hospitals for provider-operated nursing and allied health education programs. Under the regulations at § 413.85 (“Cost of approved nursing and allied health educational activities”), Medicare makes reasonable cost payment to hospitals for provider-operated nursing and allied health education programs. A program is considered to be provider-operated if the hospital meets the criteria specified in § 413.85(f), which means the hospital directly incurs the training costs, controls the curriculum and the administration of the program, employs the teaching staff, and provides and controls both clinical training and classroom instruction (where applicable) of a nursing or allied health education program.

In the January 12, 2001 Federal Register (66 FR 3358), we published a final rule that clarified the policy for payments for approved nursing and allied health education activities in response to section 6205(b)(2) of the Omnibus Budget Reconciliation Act of 1989 (Pub. L. 101-239) and sections 4004(b)(1) and (2) of the Omnibus Budget Reconciliation Act of 1990 (Pub. L. 101-508).

Section 6205(b)(2) of Public Law 101-239 directed the Secretary to publish regulations clarifying the rules governing allowable costs of approved educational activities. The Secretary was directed to publish regulations to specify the conditions under which those costs are eligible for pass-through, including the requirement that there be a relationship between the approved nursing or allied health education program and the hospital. Section 4004(b)(1) of Public Law 101-508 provides an exception to the requirement that programs be provider-operated to receive pass-through payments. The section provides that, effective for cost reporting periods beginning on or after October 1, 1990, if certain conditions are met, the costs incurred by a hospital (or by an educational institution related to the hospital by common ownership or control) for clinical training (as defined by the Secretary) conducted on the premises of the hospital under an approved nursing or allied health education program that is not operated by the hospital are treated as pass-through costs and paid on the basis of reasonable cost. Section 4004(b)(2) of Public Law 101-508 sets forth the conditions that a hospital must meet to receive payment on a reasonable cost basis under section 4004(b)(1).

2. Continuing Education Issue for Nursing and Allied Health Education

Since publication of the January 12, 2001 final rule on nursing and allied health education, we have encountered questions concerning the substantive difference between provider-operated continuing education programs for nursing and allied health education (which would not be reimbursable under Medicare on a reasonable cost basis) and provider-operated approved programs that are eligible to receive Medicare reasonable cost payment. In that final rule, we stated that Medicare would generally provide reasonable cost payment for “programs of long duration designed to develop trained practitioners in a nursing or allied health discipline, such as professional nursing or occupational therapy. This is contrasted with a continuing education program of a month to a year in duration in which a practitioner, such as a registered nurse, receives training in a specialized skill such as enterostomal therapy. While such training is undoubtedly valuable in enabling the nurse to treat patients with special needs and in improving the level of patient care in a provider, the nurse, upon completion of the program, continues to function as a registered nurse, albeit one with special skills. Further distinction can be drawn between this situation and one in which a registered nurse undergoes years of training to become a CRNA. For these reasons, the costs of continuing education training programs are not classified as costs of approved educational activities that are passed-through and paid on a reasonable cost basis. Rather, they are classified as normal operating costs covered by the prospective payment rate or, for providers excluded from the IPPS, as costs subject to the target rate-of-increase limits” (66 FR 3370).

Accordingly, upon publication of the final rule, we revised § 413.85(h)(3) to include continuing education programs in the same category as “educational seminars and workshops that increase the quality of medical care or operating efficiency of the provider.” Costs associated with continuing education programs, as stated above, are recognized as normal operating costs and are paid in accordance with applicable principles.

We received an inquiry requesting further clarification on what is meant by continuing education. It is our belief that provider-operated programs that do not lead to any specific certification in a specialty would be classified as continuing education. By certification, we do not mean certification in a specific skill, such as when an individual is certified to use a specific piece of machinery or perform a specific procedure. Rather, we believe certification would mean the ability to perform in the specialty as a whole.

Although, in the past, we believe we have allowed hospitals to be paid for operating a pharmacy “residency” program, it has come to our attention that those programs do not meet the criteria for approval as a certified program. Once individuals have finished their undergraduate degree in pharmacy, there are some individuals who go on to participate in 1-year hospital-operated postundergraduate programs. It is our understanding that many individuals complete the 1-year postundergraduate program practice pharmacy inside the hospital setting. However, we also understand that there are pharmacists who do not complete the 1-year postundergraduate program, but have received the undergraduate degree in pharmacy, who also practice pharmacy inside the hospital setting. Because pharmacy students need not complete the 1-year residency program to be eligible to practice pharmacy in the hospital setting, the 1-year programs that presently are operated by hospitals would be considered continuing education, and therefore, would be ineligible for pass-through reasonable cost payment.

We understand that all individuals who wish to be nurses practicing in a hospital must either complete a 4-year degree program in a university setting, a 2-year associate degree in a community or junior college setting, or a diploma program traditionally offered in a hospital setting. Since participants that complete a provider-operated diploma nursing program could not practice as nurses without that training, the diploma nursing programs are not continuing education programs and, therefore, may be eligible for pass-through treatment.

Because of the apparent confusion concerning continuing education programs in the nursing and allied health reasonable cost context, we are proposing to revise § 413.85(h)(3) to state that educational seminars, workshops, and continuing education programs in which the employees participate that enhance the quality of medical care or operating efficiency of the provider and, effective October 1, 2003, do not lead to certification required to practice or begin employment in a nursing or allied health specialty, would be treated as educational activities that are part of normal operating costs. We also are proposing to add a conforming definition of “certification” for purposes of nursing and allied health education under § 413.85(c) to mean “the ability to practice or begin employment in a specialty as a whole.”

3. Programs Operated by Wholly Owned Subsidiary Educational Institutions of Hospitals

Another matter that has come to CMS’ attention since publication of the January 12, 2001 final rule (66 FR 3363) on nursing and allied health education concerns the preamble language of the rule, which states:

“Concerning those hospitals that have established their own educational institution to meet accrediting standards, we believe that, in some cases, these providers can be eligible to receive payment for the classroom and clinical training of students in approved programs. If the provider demonstrates that the educational institution it has established is wholly within the provider's control and ownership and that the provider continues to incur the costs of both the classroom and clinical training portions of the program, the costs would continue to be paid on a reasonable cost basis. An independent college would not meet these criteria.

“An example of a program that could be considered provider-operated would be one in which the hospital is the sole corporate member of the college, elects the board of trustees, has board members in common, employs the faculty and pays the salaries, controls the administration of the program and the curriculum, and provides the site for the clinical and classroom training on the premises of the hospital. We believe that, in these situations, the community has not undertaken to finance the training of health professionals; the provider has merely restructured its provider-operated program to meet certain State or accrediting requirements. In most cases, providers have aligned themselves with already established educational institutions. We note that a program operated by an educational institution that is related to the provider through common ownership or control would not be considered to meet the criteria for provider operated.” (66 FR 3363)

We have received a question from a hospital that pertains to the cited preamble language in the narrow circumstance where the hospital previously received Medicare reasonable cost payment for direct operation of nursing or allied health education programs and then established its own wholly owned subsidiary college to operate the programs, in order to meet accreditation standards. The hospital has continued to receive Medicare payments after the hospital moved operation of the programs to the wholly owned subsidiary college. The hospital believes that, based on the cited preamble language regarding wholly owned subsidiary colleges and the lack of prior specific guidance on this particular organizational structure (as well as its continued receipt of pass-through payments) and because the hospital continues to pay all of the costs of the nursing and allied health education programs, the hospital is still the direct operator of the programs and should continue to receive pass-through treatment. However, we believe that once the hospital moved the direct operation of its nursing and allied health education programs to the college, the programs no longer met our provider-operated criteria at § 413.85(f). At the very least, it appears that the hospital did not hire the faculty for the program(s) and did not have direct control of the curriculum of the program(s) after operation was transferred to the wholly owned subsidiary college. As we stated in the preamble language quoted above: “a program operated by an educational institution that is related to the provider through common ownership or control would not be considered to meet the criteria for provider operated” (66 FR 3363).

However, we understand that some hospitals, including this hospital, may have interpreted the preamble language that stated, “if the provider demonstrates that the educational institution it has established is wholly within the provider's control and ownership and that the provider continues to incur the costs of both the classroom and clinical training portions of the program, the costs would continue to be paid on a reasonable cost basis” (Ibid.), to mean that hospitals that establish wholly owned subsidiary colleges or educational institutions would continue to receive Medicare reasonable cost payment if the hospitals incur the costs of the classroom instruction and clinical training. We are proposing to clarify that transferring operation of previously provider-operated programs to educational institutions, even if the institutions are wholly owned by the hospital, does not necessarily mean that the programs continue to meet our provider-operated criteria under § 413.85(f). In order to remain provider operated, the hospital must have direct control of the program; the hospital itself must employ the teaching staff, have direct control of the program curriculum, and meet other requirements, as stated at § 413.85(f).

While we are proposing to clarify that merely operating programs through a wholly owned subsidiary college does not constitute direct operation of nursing or allied health education programs unless the hospital itself meets the requirements of the regulations at § 413.85(f), we believe it would be unfair to recoup Medicare payments that have already been made to hospitals that meet this very narrow fact pattern. Therefore, we are proposing that Medicare would not recoup reasonable cost payment from hospitals that have received pass-through payments for portions of cost reporting periods occurring on or before October 1, 2003 (the effective date of finalizing this proposed rule) for the nursing or allied health education program(s) where the program(s) had originally been operated by the hospital, and then operation of the program(s) had been transferred by the hospital to a wholly owned subsidiary educational institution in order to meet accreditation standards prior to October 1, 2003, and where the hospital had continuously incurred the costs of both the classroom and clinical training portions of the programs at the educational institution.

In addition, we are proposing that, for portions of cost reporting periods occurring on or after October 1, 2003, such a hospital would continue to receive reasonable cost payments for the clinical training costs incurred by the hospital for the program(s) described above that were previously provider operated. However, we are further proposing that, with respect to classroom costs, only those classroom costs incurred by the hospital for the courses that were paid by Medicare on a reasonable cost basis and included in the hospital's provider-operated program(s) could continue to be reimbursed on a reasonable cost basis. That is, Medicare would pay on a reasonable cost basis for the classroom costs associated with the courses provided as part of the nursing and allied health education programs (for example, the courses relating to the theory and practice of the particular nursing and allied health discipline(s)) that were offered by the hospital when the hospital was the direct operator of the program(s).

We believe this proposed policy is appropriate since continued pass-through payment will allow these hospitals to maintain equal footing with other hospitals that receive pass-through payments and have maintained their provider-operated programs. In addition, it would not be equitable to discontinue longstanding Medicare pass-through payment to these hospitals (in fact, reasonable cost payment to at least one of these hospitals for nonprovider-operated programs preceded the publication of the January 12, 2001 final rule on nursing and allied health education payments by many years) that restructured operation of their nursing and allied health education program(s) as wholly owned subsidiaries in order to meet accreditation standards while relying on their understanding of CMS' prior expressions of provider-operated requirements and the recent preamble language. If these providers were now forced to restructure in order to meet the requirements of § 413.85(f), they would not be able to maintain their accreditation.

We note that Congress has specifically expressed its intent that providers that have restructured their programs to be operated by a wholly owned subsidiary educational institution in order to meet accreditation standards should continue to receive Medicare reasonable cost payment. In the conference report accompanying the Consolidated Appropriations Resolution for FY 2003, Congress stated:

“The conferees are particularly concerned about nursing and allied health educational programs that cannot meet the regulations set forth at 42 CFR 413.85(f) solely as a result of regional educational accrediting criteria. Given the shortage of nursing and allied health professionals, the conferees support the payment of costs on a reasonable cost basis for a hospital that has historically been the operator of nursing and allied health education programs(s) that qualified for Medicare payments under 42 CFR 413.85, but, solely in order to meet educational standards, subsequently relinquishes some control over the program(s) to an educational institution, which meets regional accrediting standards; is wholly owned by the provider; and is supported by the hospital, that is, the hospital is incurring the costs of both the classroom and clinical training of the program.” (H.R. Rep. No. 108-10, 108th Cong., 1st Sess., 1115 (2003).)

However, the proposed policy does not allow these hospitals to be paid for additional classroom costs for courses that were not paid on a reasonable cost basis to the hospitals in conjunction with their provider-operated programs (for example, additional classes needed to meet degree requirements). We believe that to allow pass-through payment for those additional costs would provide these hospitals with an unfair advantage over other hospitals with provider-operated programs.

We note that any hospital that chooses to restructure its programs to be operated by a wholly owned subsidiary educational institution on or after the effective date of this proposal when finalized (October 1, 2003) would not be eligible for pass-through payments under this proposed provision unless the hospital continues to meet the requirements of § 413.85(f). We believe it is appropriate to limit the proposed payments to hospitals that restructured before this proposed rule is made final because our policy with respect to programs by a wholly owned subsidiary of a hospital will have been clarified in that final rule.

We are proposing to revise § 413.85 by adding new paragraphs (d)(1)(iii) and (g)(3) to reflect this proposed payment policy.

F. Payment for Direct Costs of Graduate Medical Education (§ 413.86)

1. Background

Under section 1886(h) of the Act, Medicare pays hospitals for the direct costs of graduate medical education (GME). The payments are based in part on the number of residents trained by the hospital. Section 1886(h)(4)(F) of the Act caps the number of allopathic and osteopathic residents that hospitals may count for direct GME.

Section 1886(h) of the Act, as added by section 9202 of the Consolidated Omnibus Budget Reconciliation Act (COBRA) of 1985 (Pub. L. 99-272) and implemented in regulations at § 413.86(e), establishes a methodology for determining payments to hospitals for the costs of approved GME programs. Section 1886(h)(2) of the Act, as added by COBRA, sets forth a payment methodology for the determination of a hospital-specific, base-period per resident amount (PRA) that is calculated by dividing a hospital's allowable costs of GME for a base period by its number of residents in the base period. The base period is, for most hospitals, the hospital's cost reporting period beginning in FY 1984 (that is, the period of October 1, 1983 through September 30, 1984). The PRA is multiplied by the weighted number of full-time equivalent (FTE) residents working in all areas of the hospital complex (or nonhospital sites, when applicable), and the hospital's Medicare share of total inpatient days to determine Medicare's direct GME payments.

Existing regulations at § 413.86(e)(4) specify the methodology for calculating each hospital's weighted average PRA and the steps for determining whether a hospital's PRA will be revised.

2. Prohibition Against Counting Residents Where Other Entities First Incur the Training Costs

a. General Background on Methodology for Determining FTE Resident Count. As we explain earlier in this preamble, Medicare makes both direct and indirect GME payments to hospitals for the training of residents. Direct GME payments are reimbursed in accordance with section 1886(h) of the Act, based generally on hospital-specific PRAs, the number of FTE residents a hospital trains, and the hospital's Medicare patient share. The indirect costs of GME are reimbursed in accordance with section 1886(d)(5)(B) of the Act, based generally on the ratio of the hospital's FTE residents to the number of hospital beds. It is well-established that the calculation of both direct GME and IME payments is affected by the number of FTE residents that a hospital is allowed to count; generally, the greater the number of FTE residents a hospital counts, the greater the amount of Medicare direct GME and IME payments the hospital will receive. In an attempt to end the implicit incentive for hospitals to increase the number of FTE residents, Congress instituted a cap on the number of allopathic and osteopathic residents a hospital is allowed to count for direct GME and IME purposes under the provisions of section 1886(h)(4)(F) (direct GME) and section 1886(d)(5)(B)(v) (IME) of the Act. Dental and podiatric residents were not included in this statutorily mandated cap.

With respect to reimbursement of direct GME costs, since July 1, 1987, hospitals have been allowed to count the time residents spend training in sites that are not part of the hospital (referred to as “nonprovider” or “nonhospital sites”) under certain conditions. Section 1886(h)(4)(E) of the Act requires that the Secretary's rules concerning computation of FTE residents for purposes of separate reimbursement of direct GME costs “provide that only time spent in activities relating to patient care shall be counted and that all the time so spent by a resident under an approved medical residency training program shall be counted towards the determination of full-time equivalency, without regard to the setting in which the activities are performed, if the hospital incurs all, or substantially all, of the costs for the training program in that setting.” (Section 1886(h)(4)(E) of the Act, as added by section of 9314 of the Omnibus Budget Reconciliation Act of 1986, Pub. L. 99-509.)

Regulations on time spent by residents training in nonhospital sites for purposes of direct GME payment were first implemented in the September 29, 1989 final rule (54 FR 40286). We stated in that rule (under § 413.86(f)(3)) that a hospital may count the time residents spend in nonprovider settings for purposes of direct GME payment if the residents spend their time in patient care activities and there is a written agreement between the hospital and the nonprovider entity stating that the hospital will incur all or substantially all of the costs of the program. The regulations at that time defined “all or substantially all” of the costs to include the residents’ compensation for the time spent at the nonprovider setting.

Prior to October 1, 1997, for IME payment purposes, hospitals could only count the time residents spend training in areas subject to the IPPS and outpatient areas of the hospital. Section 4621(b)(2) of the Balanced Budget Act of 1997 (Pub. L. 105-33) revised section 1886(d)(5)(B) of the Act to allow providers to count time residents spend training in nonprovider sites for IME purposes, effective for discharges occurring on or after October 1, 1997. Specifically, section 1886(d)(5)(B)(iv) of the Act was amended to provide that “all the time spent by an intern or resident in patient care activities under an approved medical residency program at an entity in a non-hospital setting shall be counted towards the determination of full-time equivalency if the hospital incurs all, or substantially all, of the costs for the training program in that setting.”

In the regulations at §§ 412.105(f)(1)(ii)(C) and 413.86(f)(4) (as issued in the July 31, 1998 Federal Register), we specify the requirements a hospital must meet in order to include a resident training in a nonhospital site in its FTE count for Medicare reimbursement for portions of cost reporting periods occurring on or after January 1, 1999 for both direct GME and for IME payments. The regulations at § 413.86(b) redefine “all or substantially all of the costs for the training program in the nonhospital setting” as the residents' salaries and fringe benefits (including travel and lodging where applicable), and the portion of the cost of teaching physicians' salaries and fringe benefits attributable to direct GME. A written agreement between the hospital and the nonhospital site is required before the hospital may begin to count residents training at the nonhospital site; the agreement must provide that the hospital will incur the costs of the resident's salary and fringe benefits while the resident is training in the nonhospital site. The hospital must also provide reasonable compensation to the nonhospital site for supervisory teaching activities, and the written agreement must specify that compensation amount.

b. Inappropriate Counting of FTE Residents. As we stated above, dental residents, along with podiatric residents, are excepted from the statutory cap on the count of FTE residents for both direct GME and IME payment purposes. We have become aware of a practice pertaining to the counting of FTE residents at a nonhospital site, particularly dental residents, that we see as inappropriate under Medicare policy. Most often, the situation involves dental schools that, for a number of years, have been training dental residents in programs at the dental schools of universities affiliated with teaching hospitals, and the schools have been directly incurring the costs of the dental residents training at the dental schools (for example, the teaching faculty costs, the resident salary costs, the office space costs, and any overhead expenses of the programs). We also understand that there are dental clinics at these dental schools that treat patients (that is, are involved in “patient care activities”).

As a result of the provisions that Congress added to allow hospitals to count FTE residents and receive IME payment, as well as direct GME payment, if the hospital incurs “all or substantially all” the costs of training residents in nonhospital settings, a significant number of dental schools are shifting the resident training costs of the dental programs from the schools to the hospital, and thus to the Medicare program, when the hospitals count the FTE dental residents training in these dental schools (that is, “nonhospital sites”) under the regulations at § 413.86(f)(4). Furthermore, in the case of training dentists at dental school clinics, as a result of this cost-shifting and because dental residents are excepted from the cap, hospitals are receiving significant amounts of Medicare direct GME and IME payments when they have incurred relatively small costs of the residents training in a dental school.

The following actual situations are illustrative of the inappropriate application of Medicare direct GME and IME policy that we have found:

• An academic medical center hospital associated with a university has been training allopathic residents for at least 20 years. Prior to 1999, the university s affiliated dental school had always incurred the costs of dental residency programs at the dental school. Beginning with the hospital's cost report for its fiscal year ending in 1999, for the first time ever, the hospital has requested direct GME and IME payment for an additional 67 FTE residents because the hospital claims it has begun to incur “all or substantially all” of the costs of the dental residents training in the university's affiliated dental school, in accordance with the regulations at § 413.86(f)(4).

• A university dental school in one State has been incurring the costs of dental residency programs at its dental school for several years. Beginning in FY 1999, a teaching hospital in a neighboring State decided to begin incurring “all or substantially all” of the costs of the dental residents training in the dental clinics in the program (which is located in a different State from the hospital) in order to receive Medicare direct GME and IME payment for an additional 60 FTE residents.

• In another situation, a teaching hospital on the East Coast of the United States has requested direct GME and IME payment for an additional 60 FTE dental residents, some of whom are training in dental programs at nonhospital sites located in Hawaii, New Mexico, and the Netherlands, because it has begun to incur “all or substantially all” of the costs of dental residents training in those remote “nonhospital sites”. Prior to 1999, the costs for these dental programs were funded by nonhospital sources.

We note that such inappropriate cost-shifting practices are by no means limited to the dental school context. Indeed, we understand that there are some hospitals with resident counts below their direct GME and IME FTE resident caps that have recently (as of October 1, 1997, when it became possible to receive significant IME payments under the amendment made by Pub. L. 105-33) started to incur “all or substantially all” of the costs of residents who had been training at sites outside of the hospital without any financial assistance from the hospital, in order for the hospital to count those FTE residents and receive Medicare direct GME and IME payments for the additional residents. The actual costs of the programs that are being shifted from nonhospital entities to hospitals are relatively small, compared to the direct GME and IME payments that hospitals receive as a result of incurring “all or substantially all” of the training costs.

• In another example, an academic medical center hospital in one State asked Medicare to allow it to count an additional 10 FTEs for both direct GME and IME payment, beginning with its fiscal year ending 1999 cost report, because the hospital claims it is incurring all or substantially all of the costs of training osteopathic family practice residents in a walk-in clinic. The osteopathic family practice residency program had previously been sponsored by this clinic for several years and the residents do not participate in any training at the hospital.

c. Congressional Intent. Congress has delegated broad authority to the Secretary to implement a policy on the count of FTE residents for purposes of calculating direct GME and IME payments. For IME payment, section 1886(d)(5)(B) of the Act simply states that “the Secretary shall provide for an additional payment amount” which includes “the ratio of the hospital's full-time equivalent interns and residents to beds.” The methodology to compute the count of FTE residents for IME is not established in the statute. Similarly, for direct GME, section 1886(h)(4)(A) of the Act states that “the Secretary shall establish rules consistent with this paragraph for the computation of the number of full-time equivalent residents in an approved medical residency training program.”

Although not in the context of the general rules for counting FTE residents, Congress similarly acknowledged its intent to defer to the Secretary with respect to the rules for implementing “limits” or caps on the number of FTE residents hospitals may count for purposes of direct GME and IME payment. The conference agreement that accompanied Pub. L. 105-33, which established a cap on the number of allopathic and osteopathic residents a hospital may count, states—

“[T]he Conferees recognize that such limits raise complex issues, and provide for specific authority for the Secretary to promulgate regulations to address the implementation of this provision. The Conferees believe that rulemaking by the Secretary would allow careful but timely consideration of this matter, and that the record of the Secretary's rulemaking would be valuable when Congress revisits this provision.” (H.R. Conf. Rep. No. 105-217, 105th Cong., 1st Sess., 821 (1997).

The absence of statutory specificity on determining FTE counts in these situations and the declared Congressional delegations of authority to the Secretary on the subject are clear indications that Congress has given the Secretary broad discretion to promulgate reasonable regulations in order to implement the policy on the counting of residents for direct GME and IME payments.

When Congress enacted the nonhospital site provisions for both direct GME and IME, Congress intended to address application of the FTE count policy to situations where the training site had been the hospital. The intent was to create incentives for hospitals to move resident training from the hospital to nonhospital settings. We believe that Congress did not intend for hospitals to be able to add to their FTE counts residents that had historically trained outside the hospital in other settings. Training in those nonhospital settings had historically occurred without Congress offering any financial incentive to hospitals to move the training out of the hospital.

This Congressional intent is evident in the legislative history of both the direct GME and the IME provisions on nonhospital settings. First, legislative history associated with passage of the direct GME provision (as part of Pub. L. 99-509) indicates that Congress intended to broaden the scope of settings in which a hospital could train its residents and still receive separate direct GME cost reimbursement, and to provide incentives to hospitals for training residents in primary care programs. The Conference committee report indicates that “[s]ince it is difficult to find sufficient other sources of funding [than hospitals and Medicare] for the costs of such training, [that is, training in freestanding primary care settings such as family practice clinics or ambulatory surgery centers] assignments to these settings are discouraged. It is the Committee's view that training in these settings is desirable, because of the growing trend to treat more patients out of the inpatient hospital setting and because of the encouragement it gives to primary care.” (Emphasis added.) (H.R. Rep. No. 99-727, 99th Cong., 1st Sess., 70 (1986).)

Thus, from the start of the policy allowing payment for training in nonprovider sites, we believe Congress intended to create a monetary incentive for hospitals to rotate residents from the hospital to the nonhospital settings. We believe Congress did not intend for hospitals to be paid for residents who had previously been training at nonhospital sites without hospital funding.

Further, in the Conference committee report accompanying the provision of Pub. L. 105-33 on IME payment for training in nonhospital settings, Congress stated that “[t]he conference agreement includes new permission for hospitals to rotate residents through nonhospital settings, without reduction in indirect medical education funds.” (Emphasis added.) (H.R. Conf. Rep. No. 105-217, 105th Cong., 1st Sess., 817 (1997).)

We note that, prior to enactment of Pub. L. 105-33, if a hospital rotated a resident to train at a nonhospital site, the hospital could not count the time the resident spent at the nonhospital site for purposes of Medicare IME payments. As a result, the lack of IME payments acted as a disincentive and discouraged hospitals from rotating residents out of the hospital. Therefore, Congress authorized hospitals to count residents in nonhospital sites for IME purposes as a specific incentive to encourage hospitals to rotate their residents to nonhospital sites (and not to encourage hospitals to incur the costs of a program at a nonhospital site that had already been funded by other sources). This legislative intent becomes more apparent when the nature of the Medicare IME payment is considered. The Medicare IME payment is inherently a payment that reflects the increased operating costs of treating inpatients as a result of the hospital having a residency program. For example, as explained in the September 29, 1989 final rule (54 FR 40286), the indirect costs of medical education might include added costs resulting from an increased number of tests ordered by residents as compared to the number of tests normally ordered by more experienced physicians.

The IME payment is an adjustment that is made for each Medicare discharge from the areas subject to the IPPS in a teaching hospital. The authorization by Congress for IME payments relating to nonhospital services while residents are training at nonhospital sites would be absurd if not viewed as an incentive to transfer existing residency training from the hospital to the nonhospital setting. We do not believe Congress intended to permit such IME payments to be allowable to the hospital that is incurring “all or substantially all the costs” of residents training in nonhospital sites except in the situation where the hospital rotated residents from the hospital to the nonhospital settings. The illustrative situations described above in which nonhospital sites, such as dental schools, are shifting the costs of existing programs to the hospitals are not consistent with the intent of Congress to encourage hospitals to rotate residents from the hospital setting to nonhospital sites.

Thus, we believe Congress intended both cited provisions of the Act on counting residents in nonhospital sites for purposes of direct GME and IME payments to be limited to situations in which hospitals rotate residents from the hospital to the nonhospital settings, and not situations in which nonhospital sites transfer the costs of an existing program at a nonhospital site to the hospital.

d. Medicare Principles on Redistribution of Costs and Community Support. It is longstanding Medicare policy that if the community has undertaken to bear the costs of medical education, these costs are not to be assumed by the Medicare program. In addition, medical education costs that have been incurred by an educational institution may not be redistributed to the Medicare program. Indeed, these concepts, community support and redistribution of costs, have been a part of Medicare GME payment policy since the inception of the Medicare program. Both the House and Senate Committee reports accompanying Pub. L. 89-97 (the authorizing Medicare statute) indicate that Congress intended Medicare to share in the costs of medical education only in situations in which the community has not stepped in to incur them:

“Many hospitals engage in substantial education activities, including the training of medical students, internship and residency programs, the training of nurses and the training of various paramedical personnel. Educational activities enhance the quality of care in an institution and it is intended, until the community undertakes to bear such education costs in some other way, that a part of the net cost of such activities * * * should be considered as an element in the cost of patient care, to be borne to an appropriate extent by the hospital insurance program. (Emphasis added.) (S. Rep. No. 404, 89th Cong., 1st Sess., 36 (1965); H.R. Rep. No. 213, 89th Cong., 1st Sess., 32 (1965).)

The principle behind the congressional committee report language for Pub. L. 89-97 that Medicare would share in the costs of educational activities until communities bore them in some other way has guided Medicare policy on educational activities from the inception of the Medicare program. The principles of community support and redistribution of costs associated with payment for GME have been continually reiterated in various regulations, manual provisions, and implementing instructions to fiscal intermediaries. As recently as the final rule published in the Federal Register on January 12, 2001, we stated:

“We note that the proposed revisions in the proposed rule inadvertently did not include community support as the basis for an offset from the allowed cost of a GME or nursing and allied health program. In this final rule, we restate our longstanding policy that Medicare will share in the costs of educational activities of providers where communities have not assumed responsibility for financing these programs. Medicare's policy is to offset from otherwise allowable education costs, community funding for these activities.” (66 FR 3368)

We note the instructions that CMS (then HCFA) gave to its Regional Offices in the 1990 audit instructions for purposes of calculating the direct GME base period PRA specifically addressed redistribution of costs and community support in the GME context:

“Where costs for services related to medical education activities have historically been borne by the university, it is assumed the community has undertaken to support these activities, and subsequent allocation of these costs to a hospital constitutes a redistribution of costs from an educational institution to a patient care institution. In such a situation, these costs are not allowable under the Medicare program. (See 42 CFR 413.85(c) and HCFA Pub. L. 15-1, § 406). For example, if in the past the hospital did not identify and claim costs attributable to the time teaching physicians spent supervising I&Rs [interns and residents] working at the hospital, it is assumed that these costs were borne by the university. Therefore, the hospital may not claim these costs in subsequent cost reports.” (Instructions for Implementing Program Payments for Graduate Medical Education to ARAs for Medicare, Director of Office of Financial Operations of the Health Care Financing Administration, BPO-F12, February 12, 1990.)

Furthermore, the regulation at § 413.85(c) that was originally issued in the Federal Register on September 30, 1986 (51 FR 34793) (which was further refined, but conceptually left unchanged, as of March 12, 2001) addressed the Congressional intent not to increase program costs, as well. That paragraph (c) stated:

“Educational Activities. Many providers engage in education activities including training programs for nurses, medical students, interns and residents, and various paramedical specialties * * * . Although the intent of the program is to share in the support of educational activities customarily or traditionally carried on by providers in conjunction with operations, it is not intended that this program should participate in increased costs resulting from redistribution of costs from educational institutions or units to patient care institutions or units.”

The Secretary of Health and Human Services interpreted this provision to deny reimbursement of educational costs that were borne in prior years by a hospital's affiliated medical school. The U.S. Supreme Court affirmed the Secretary's interpretation of the redistribution of costs regulation in Thomas Jefferson University v. Shalala (“Thomas Jefferson”), 512 U.S. 504 (1994). The Court found of § 413.85(c) that:

“The regulation provides, in unambiguous terms, that the ‘costs’ of these educational activities will not be reimbursed when they are the result of a ‘redistribution,' or shift, of costs of an ‘educational' facility to a ‘patient care’ facility.” (Emphasis added.) (Thomas Jefferson, 512 U.S. at 514). Thus, the Supreme Court in Thomas Jefferson held that it is well within the Secretary's discretion to interpret the language at § 413.85(c), which was specifically derived from the legislative history of the original enacting Medicare legislation quoted above, to impose a substantive limitation on medical education payment.

The Supreme Court's opinion in Thomas Jefferson lends substantial support and credibility to CMS’ longstanding policy on community support and redistribution of costs in the GME context.

e. Application of Redistribution of Costs and Community Support Principles. As we have described above, we have discovered an inappropriate application of Medicare direct GME and IME payment policies relating to the counting of FTE residents in nonhospital settings. As stated previously, we believe that: (1) Congress has given the Secretary broad discretion to implement policy on FTE resident counts; (2) Congress intended that the nonhospital site policy for both direct GME and IME would encourage hospitals to move resident training from the hospital to nonhospital settings, not to enable nonhospital sites to shift the costs of already established residency programs in the nonhospital site to the hospital; and (3) since the inception of the Medicare program, CMS’ policy has been consistent with the intent of Congress that Medicare would only share in the costs of medical education until the community assumes the costs. The Supreme Court has specifically found that CMS’ implementation of the redistribution of costs and community support principles is “reasonable.” (Thomas Jefferson, 512 U.S. at 514.)

Accordingly, we are proposing that residents training at nonhospital sites may be counted in a hospital's FTE resident count only where the principles of redistribution of costs and community support are not violated. We are proposing this policy at this time to address the inappropriate practice of nonhospital sites shifting costs to hospitals solely to allow the hospitals to count residents training in the nonhospital sites. However, we believe the concepts of redistribution of costs and community support are equally relevant to the counting of FTEs residents by a hospital in general.

We note again that the Medicare program has a long tradition of applying redistribution of costs and community support principles to medical education payments. As we have stated above, both the House and Senate Committee reports accompanying Pub. L. 89-97 (the 1965 authorizing Medicare statute) indicate that Congress intended Medicare to share in the costs of medical education only where the community has not stepped in to incur them.

We believe it is appropriate to employ the principles of redistribution of costs and community support to specifically address the inappropriate scenarios described above whereby hospitals attempt to inflate their FTE resident counts by assuming payment of training costs for residents in nonhospital sites that were previously funded by a nonhospital entity. Therefore, we are proposing to specify the application of the redistribution of costs and community support principles by adopting the definitions (with some modification to reflect the methodology for counting FTE residents applicable to GME) of “community support” and “redistribution of costs” at § 413.85(c), which relate to nursing and health education program costs, for use at § 413.86(b), which relates to GME. In addition, we are proposing a general rule at proposed § 413.86(i) on the application of community support and redistribution of costs principles to the counting of FTE residents for GME. We are proposing to (1) make the provisions under § 413.86(f) relating to determining the number of FTE residents subject to the provisions of the proposed § 413.86(i); (2) add a proposed § 413.86(f)(4) in order to clarify that the principles of redistribution of costs and community support are applicable to the counting of FTE residents, including when the residents are training in nonhospital settings; and (3) making the provisions of the proposed § 413.86(i) specifically applicable to determining the number of FTE residents under § 413.86(g)(4) through (6) and (g)(12).

The general rule at proposed § 413.86(i) contains two provisions. Proposed § 413.86(i)(1) states the principles of community support and redistribution of costs: In relation to community support, we are proposing that if the community has undertaken to bear the costs of medical education through community support, the training costs of residents that are paid through community support are not considered GME costs to the hospital for purposes of Medicare payment. In relation to redistribution of costs, we are proposing that the costs of training residents that constitute a redistribution of costs from an educational institution to the hospital are not considered GME costs to the hospital for purposes of Medicare payment.

In applying the redistribution of costs and community support principles, we are proposing under § 413.86(i)(2) to state that a hospital must continuously incur direct GME costs of residents training in a particular program at a training site since the date the residents first began training in that site in order for the hospital to count the FTE residents in accordance with the provisions of paragraphs (f) and (g)(4) through (g)(6), and (g)(12) of § 413.86.

We note that our reasons for specifically referencing the applicability of the principles of community support and redistribution of costs at § 413.86(f)(4), the paragraph concerning counting residents training in nonhospital settings for direct GME purposes, are twofold. First, although we are already making the proposed § 413.86(i) applicable to § 413.86(f), which would make the principles applicable to each paragraph under § 413.86(f), in consideration of the inappropriate applications we have identified of the GME FTE-counting policy with respect to counting residents in nonhospital sites, we believe it is appropriate to also specifically address the applicability of the redistribution of costs and community support principles to § 413.86(f)(4). In addition, we note that the proposed reference at § 413.86(f)(4) has implications for IME payment as well, as explained below.

Under existing § 412.105(f)(1)(ii)(C), the rule for the counting of FTE residents training in nonhospital settings for IME payment, there is a specific reference indicating that the criteria set forth in § 413.86(f)(4) must be met in order for a hospital to count the FTE residents training in nonhospital settings for purposes of IME payments. Thus, if under proposed § 413.86(f)(4)(iv) (the paragraph making redistribution of costs and community support principles applicable) a hospital is not permitted to count the FTE residents training in a nonhospital site because of redistribution of costs or community support, the hospital would not be permitted to count the FTE residents for purposes of IME payment as well, because the IME regulation at § 412.105(f)(1)(ii)(C) requires the criteria under § 413.86(f)(4) to be met.

As we have stated above, payment for IME is based on the concept that, as a direct result of the hospital's resident training program, the costs the hospital incurs for patient care are increased. When Congress included section 1886(d)(5)(B)(iv) of the Act as part of Public Law 105-33, the statute expanded the circumstances under which IME payments to a hospital could be made by allowing the hospital to count the number of residents training outside the hospital setting under certain conditions. Even though it is clear that those residents training outside the hospital cannot have any impact on patient care costs to the hospital, Congress nevertheless allowed the hospital to receive IME payments when the hospital counts FTE residents training in a nonhospital setting in accordance with section 1886(d)(5)(B)(iv) of the Act, where those residents would otherwise have trained in the hospital setting. As we have stated, Congress created an incentive (or removed a disincentive) with the provisions of Public Law 105-33 for hospitals to rotate residents to nonhospital settings by allowing hospitals to continue to receive IME payment as if the residents continued to train in the hospital setting. If there is a redistribution of costs or community support, we believe IME payment to the hospital would be contrary to Congressional intent to encourage the hospital to rotate residents from the hospital to the nonhospital site.

In addition, when Congress included section 1886(d)(5)(B)(iv) of the Act as part of Public Law 105-33, the statutory authority for IME payment was premised on the hospital incurring the direct GME costs of the residents: “all the time spent by an intern or resident in patient care activities under an approved medical residency program at an entity in a nonhospital setting shall be counted towards the determination of full-time equivalency if the hospital incurs all, or substantially all, of the costs for the training program in that setting.” (Emphasis added.) (Section 4621(b)(2) of Public Law 105-33; section 1886(d)(5)(B)(iv) of the Act.) We believe Congress intended the hospital to incur direct GME costs of the program in the nonhospital site in order to count the FTE residents training in nonhospital settings for purposes of IME payment. Thus, in the situation where a hospital incurred direct GME costs but there was redistribution of costs or community support, a disallowance of direct GME payments as well as a disallowance of IME payments is appropriate.

Although we are stating generally that the principles of community support and redistribution of cost have applied since the inception of Medicare to graduate medical education payment, as we have stated above, we have identified relatively recent inappropriate application of the nonhospital site policy for counting FTE residents. Therefore, we believe it is appropriate to propose to identify January 1, 1999, as the date our fiscal intermediaries should use to determine whether a hospital or another entity has been incurring the costs of training in a particular program at a training setting for purposes of determining whether there has been a redistribution of costs or community support. We are proposing that January 1, 1999 be used as the date the fiscal intermediaries should use for determinations, since it may be difficult for our fiscal intermediaries to obtain from hospitals contemporaneous documentation that the hospitals have appropriately been incurring the direct GME costs in earlier fiscal years. We believe the January 1, 1999 date should simplify confirmation by our fiscal intermediaries and hospitals of whether the hospital or another entity had been incurring the costs of the program in particular training settings and whether redistribution of costs or community support had occurred. We have chosen the January 1, 1999 date because of administrative convenience and feasibility, so that necessary data are both valid and available, and in recognition of the fact that our fiscal intermediaries must prioritize their limited audit resources. While we are not requiring our fiscal intermediaries to determine whether a hospital had been incurring the training costs of a program prior to the January 1, 1999 date, if the fiscal intermediaries determine that there is a redistribution of costs or community support exists with respect to certain residents prior to January 1, 1999, a disallowance of direct GME and IME payments with respect to those FTE residents would certainly be required.

Since calculation of a hospital's FTE resident count is dependent upon whether the hospital incurred the training costs, we are proposing to require each teaching hospital and its fiscal intermediary to determine which entity had been incurring the training costs at least since January 1, 1999. For example, if a nonhospital entity, such as a school of medicine or dentistry, had incurred the costs of training the residents anytime on or after January 1, 1999, and a hospital subsequently begins to incur direct GME costs of training those FTE residents, the hospital would not qualify to count those FTE residents for purposes of direct GME and IME payments.

We note that the proposal states that a hospital must have been continuously incurring the costs of the training since the date the residents first began training in that program. Accordingly, if a hospital had at one time incurred the costs of training residents in a particular program, whether at the hospital or in a nonhospital setting, but a nonhospital institution later assumed the costs of training in that setting, even if the hospital assumed payment for the training costs again, the hospital could not then count those residents for purposes of direct GME and IME payments.

We note that if a hospital incurs the direct GME costs, whether training takes place inside the hospital or in a nonhospital setting, in a new residency program, the hospital may be eligible to count the FTE residents as specified by the regulations under § 413.86(g)(6).

Consistent with the policy on redistribution of costs and community support discussed above, if a hospital incurs the direct GME costs of additional FTE residents training in an existing program in a hospital setting where the costs of the existing program had been incurred by a nonhospital entity and the hospital has continuously funded the additional residents in the existing program in the hospital setting since the date the residents first began training there, the redistribution of costs or community support principles would not prohibit the hospital from counting the additional FTE residents for purposes of direct GME and IME payments.

We note that, under existing policy, to count residents in a nonhospital setting, a hospital is required to incur for “all or substantially all of the costs of the program” in that setting. In other words, a hospital is required to assume financial responsibility for the full complement of residents training in a nonhospital site in a particular program in order to count any FTE residents training there for purposes of IME payment. A hospital cannot count any FTE residents if it incurs “all or substantially all of the costs” for only a portion of the FTE residents in that program training setting. This policy is derived from the language of the IME and direct GME provisions of the statute on counting residents in nonhospital settings; both sections 1886(d)(5)(B)(iv) and 1886(h)(4)(E) of the Act state that the hospital must incur “all, or substantially all, of the costs for the training program in that setting.” (Emphasis added.) In contrast, as explained earlier, it is permissible under the proposed policy on the application of the redistribution of costs and community support principles for the hospital to count FTE residents where the hospital incurs direct GME costs of FTE residents that are added to an existing program, even though the hospital may not count the existing FTE residents due to the application of the redistribution of costs or community support rules. In the nonhospital setting, as a result of the interaction of these two separate FTE counting requirements—(1) that the hospital must not violate the redistribution of costs and the community support principles in order to count the resident FTEs in the nonhospital settings, and (2) that the hospital must incur “all or substantially all” of the costs for the training program in that setting—a hospital would be prohibited from counting FTE residents added to an existing program at a nonhospital site unless the hospital incurs all or substantially all of the costs of training all of the residents in that program at that setting. That is, even if the hospital incurs all or substantially of the costs for all of the training program at the nonhospital site, the hospital would only be able to count the additional FTE residents who were not excluded by application of the redistribution of costs or community support principles.

For example, training in a general dentistry program with 10 FTE residents has taken place at a school of dentistry for 20 years. The school of dentistry has been incurring the training costs of the general dentistry residents since the inception of the program. Beginning in 2003, the school of dentistry has decided to add an additional 5 FTE residents to the program, and Hospital A decides to incur “all or substantially all” the costs of those 5 additional FTE residents only. Applying the policy concerning redistribution of costs and community support in combination with the policy on incurring all or substantially all of the costs, the hospital could not count the additional 5 FTE residents in the dental school since it is not paying for all or substantially all of the costs of the program. Even if the hospital were to incur all or substantially all of the costs for the training program for all 15 FTE residents, the hospital could not count the 10 FTEs that were part of the existing general dentistry program because of the redistribution of costs and community support principles; it would be a redistribution of costs for the hospital to begin to incur direct GME costs of the 10 FTE residents when the dental school had previously been incurring those costs.

We note that such a result does not occur when a new program is established in the nonhospital site. If, from the outset of the program, the hospital incurs direct GME costs and also incurs “all or substantially all” of the costs for the training program for all the new residents training at the site, there would be no redistribution of costs or community support, and the hospital could count all of those residents in the new program in its FTE count (subject, of course, to the hospital's 1996 FTE resident cap).

We also note that the interaction of the two provisions discussed above—redistribution of costs and community support, and “all or substantially all”—does not occur when counting FTE residents training inside the hospital, since a hospital is not required to incur “all or substantially all” of the costs for the training program inside the hospital.

Furthermore, if one hospital had incurred the direct GME costs of training residents in a particular program in a nonhospital site from one point in time, for example, 1995 through 1999, and then another hospital consecutively incurs the costs from 2000 and thereafter, the second hospital may be eligible to receive direct GME and IME payments for training the FTE residents from the point in time where the second hospital incurred the direct GME costs, and the redistribution and community support exclusions would not apply. The second hospital may be eligible to receive Medicare direct GME and IME payments because the costs were incurred previously by a hospital, and not either the community or the university. Therefore, there was neither community support nor redistribution of costs.

The following are some examples to clarify how these proposed policies would be implemented:

Example 1

Since 1995, 10 FTE residents in an internal medicine program have been training in the Community Clinic. In accordance with the current provisions of § 413.86(f), Hospital A has incurred all or substantially all of the costs of training the 10 FTE residents since 1995. Assuming the current provisions of the regulations at §§ 412.105(f)(1)(ii)(C) and 413.86(f)(3) and (f)(4) are met, Hospital A may continue to receive IME and direct GME payments for 10 FTE residents because Hospital A had incurred direct GME costs continuously (as evidenced by contemporaneous documentation since January 1, 1999), as specified in our proposed regulation.

Beginning July 1, 2004, in addition to continuing to incur all or substantially all of the costs of the first 10 FTE internal medicine residents training in the nonhospital site, Hospital A also incurs all or substantially all of the costs of training an additional 3 FTE internal medicine residents at that site. Accordingly, beginning July 1, 2004, Hospital A may count all 13 FTE residents training in the Community Clinic for purposes of direct GME and IME payments, assuming Hospital A does not exceed its FTE cap for IME and direct GME.

Example 2

Since 1995, 2.25 dental FTE residents in a dental school program were training in a dental clinic at the dental school. While the 2.25 FTEs were training at the clinic, the dental school paid for all of the costs of the dental program. Prior to July 1, 2000, Hospital A signed a written agreement with the clinic to incur all or substantially all of the costs of training the 2.25 FTE residents, from July 1, 2000 and onward. Thus, beginning with July 1, 2000, the dental school no longer incurred the costs of the program at this nonhospital site. In this scenario (even if Hospital A inappropriately received direct GME and IME payments for the 2.25 FTEs since July 1, 2000), Hospital A may not receive direct GME or IME payment for the 2.25 FTE residents training in the clinic because there would have been a redistribution of costs associated with training these 2.25 FTE residents from the dental school to the hospital.

Example 3

Since 1995, 2.25 FTE residents in a family practice program were training in a physicians' group practice. While the 2.25 FTEs were training at the physicians' practice, a school of medicine paid for the costs of the family practice residency program. Prior to July 1, 2000, Hospital A signed a written agreement with the physicians' practice to send 1 additional family practice FTE resident to the physicians' practice and to incur all or substantially all of the costs of training the original 2.25 FTE residents and the 1 additional FTE, from July 1, 2000 and onward. Thus, beginning with July 1, 2000, the school of medicine no longer incurred the costs of the program at this nonhospital site. Hospital A may not count the 2.25 FTE residents that had been training since 1995 in that physicians' practice for purposes of direct GME and IME payments because the training costs were shifted from the school of medicine to the hospital. However, Hospital A may count the 1 FTE resident the hospital began to rotate for training in the physicians' practice because there was no cost-shifting for that resident and Hospital A incurred “all or substantially all” of the costs of the entire family practice program in the physicians' office setting.

Example 4

Residents in a surgery program have been rotating from a hospital to two nonhospital clinics, Clinic A and Clinic B, since 1996. The training of the surgery residents in Clinic A has been supported by a nonhospital institution since 1996, while the hospital has incurred all or substantially all of the costs of the surgery residents in Clinic B since 1996. The hospital cannot count the surgery FTE residents training in Clinic A, even if it begins to pay for all of the costs of the program at that site, since a nonhospital institution had supported the training in Clinic A since 1996 (in other words, the redistribution of costs and community support principles would prohibit the hospital from counting these FTE residents). However, if the hospital continues to incur all or substantially all of the costs of the surgery residents in Clinic B, the hospital may count the FTE residents training in Clinic B for purposes of direct GME and IME payments because there would be no cost-shifting to the hospital for these residents and the hospital would incur all or substantially all of the costs for the training program in that setting.

3. Rural Track FTE Limitation for Purposes of Direct GME and IME for Urban Hospitals that Establish Separately Accredited Approved Medical Programs in a Rural Area (§§ 412.105(f)(1)(x) and 413.86(g)(12)) a. Change in the Amount of Rural Training Time Required for an Urban Hospital to Qualify for an Increase in the Rural Track FTE Limitation. To encourage the training of physicians in rural areas, section 407(c) of Pub. L. 106-113 amended sections 1886(d)(5)(B) and 1886(h)(4)(H) of the Act to add a provision that, in the case of an urban hospital that establishes separately accredited approved medical residency training programs (or rural tracks) in a rural area or has an accredited training program with an integrated rural track, an adjustment shall be made to the urban hospital's cap on the number of residents. For direct GME, the amendment applies to payments to hospitals for cost reporting periods beginning on or after April 1, 2000; for IME, the amendment applies to discharges occurring on or after April l, 2000.

Section 407(c) of Pub. L. 106-113 did not define a “rural track” or an “integrated rural track,” nor are these terms defined elsewhere in the Act or in any applicable regulations.

Currently, there are a number of accredited 3-year primary care residency programs in which residents train for 1 year of the program at an urban hospital and are then rotated for training for the other 2 years of the 3-year program to a rural facility(ies). These separately accredited “rural track” programs are recognized by the Accreditation Council of Graduate Medical Education (ACGME) as “1-2” rural track programs. As far as CMS is able to determine, ACGME is the only accrediting body to “separately accredit” rural track residency programs, a requirement specified in Pub. L. 106-113.

We implemented the rural track program provisions of section 1886(d)(5)(B) and 1886(h)(4)(H) of the Act to address these “1-2” programs and to account for other programs that are not specifically “1-2” programs but that include rural training components. As stated above, since there is no existing definition of “rural track” or “integrated rural track,” we define at § 413.86(b) a “rural track” and an “integrated rural track” as an approved medical residency training program established by an urban hospital in which residents train for a portion of the program at the urban hospital and then rotate for a portion of the program to a rural hospital(s) or to a rural nonhospital site(s). We have previously noted that the terms “rural track” and “integrated rural track,” for purposes of this definition, are synonymous.

To implement these provisions, we revised § 413.86 to add paragraph (g)(11) (since redesignated as (g)(12)), and § 412.105 to add paragraph (f)(1)(x) to specify that, for direct GME, for cost reporting periods beginning on or after April 1, 2000, or, for IME, for discharges occurring on or after April 1, 2000, an urban hospital that establishes a new residency program, or has an existing residency program, with a rural track (or an integrated rural track) may, under certain circumstances, include in its FTE count residents in those rural tracks, in addition to the residents subject to the FTE cap at § 413.86(g)(4). (See the August 1, 2000 interim final rule with comment period (65 FR 47033) and the August 1, 2001 IPPS final rule (66 FR 39902)). These regulations specify that an urban hospital may count the residents in the rural track in excess of the hospital's FTE cap up to a “rural track FTE limitation” for that hospital. We defined this rural track FTE limitation at § 413.86(b) as the maximum number of residents (as specified in § 413.86(g)(12)) training in a rural track residency program that an urban hospital may include in its FTE count, in addition to the number of FTE residents already included in the hospital's FTE cap.

Generally, the rural track policy is divided into two categories: rural track programs in which residents are rotated to a rural area for at least two-thirds of the duration of the program; and rural track programs in which residents are rotated to a rural area for less than two-thirds of the duration of the program. Currently, family practice is the only specialty that has separately accredited rural track programs. As previously noted, to account for other specialties that have program lengths greater than or less than 3 years, or that are not “1-2” programs, but may establish separately accredited rural track residency programs that are longer than 3 years, our regulations specify that residents must train in the rural area for “two-thirds of the duration of the program,” rather than “2 out of 3 program years,” in order for the urban hospital to count FTEs in the rural track (up to the rural track FTE limitation) in addition to the residents included in the hospital's FTE limitation. Thus, for example, under current policy, if a surgery program, which is a 5-year program, were to establish a separately accredited rural track, the urban hospital must rotate the surgery residents to the rural area for at least two-thirds of the duration of the 5-year program in order to qualify to count those FTEs in excess of the hospital's FTE cap, as provided in § 413.86(g)(12) and § 412.105(f)(1)(x).

Accordingly, our policy for determining whether an urban hospital qualifies for an adjustment to the FTE cap for training residents in rural areas is dependent upon the proportion of time the residents spend training in the rural areas. If the time spent training in rural areas (either at a rural hospital or a rural nonhospital site) constitutes at least two-thirds of the duration of the program, then the urban hospital may include the time the residents train at that urban hospital in determining GME payments. However, if the urban hospital rotates residents to rural areas for a period of time that is less than two-thirds of the duration of the program, although the rural hospital may count the time the residents train at the rural hospital if the program is new, the urban hospital may not include the time the residents train at the urban hospital for GME payment purposes (unless it can do so within the hospital's FTE cap).

When we first implemented this policy on rural tracks, it was consistent with our understanding of how the ACGME accredits rural track “1-2” programs, in which residents train for 1 year of the program at an urban hospital and are then rotated for training years 2 and 3 to a rural facility. We believed that the ACGME did not separately accredit an approved program as a rural track program unless it met this “1-2” condition; that is, the residents were spending one-third of program training in the urban area and two-thirds of the program training in the rural area. However, we have recently learned that there are a few rural track programs that are separately accredited by the ACGME as “1-2” rural track programs, but the residents in these programs are not training in rural areas for at least two-thirds of the duration of the program. We understand that in certain instances in which the case-mix of the rural facilities might not be sufficiently broad to provide the residents with an acceptable range of training opportunities, the ACGME allows the residents in program years 2 and 3 to return to the urban hospital for some training in both years. However, because the training in years 2 and 3 is predominantly occurring at the rural locations, the ACGME still separately accredits the urban and rural portions as a “1-2” program.

The existing regulations at §§ 412.105(f)(1)(x) and 413.86(g)(12) specify two main criteria for an urban hospital to count the time spent by residents training in a rural track while at the urban hospital in excess of the hospital's FTE limitation: (1) The program must be separately accredited by the ACGME; and (2) the time spent training in rural areas (either at a rural hospital or a rural nonhospital site) must constitute at least two-thirds of the duration of the program.

We believe that an urban hospital that operates a program that is separately accredited by the ACGME as a “1-2” program, but in which residents train in rural areas for more than half but less than two-thirds of the duration of the program, should still be allowed to count those FTE residents for GME payment purposes. Therefore, to be consistent with the ACGME accreditation practices, we are proposing to revise our regulations. Proposed § 413.86(g)(12) would still address our policy that an urban hospital qualifies for an adjustment to the FTE cap for training in rural areas based upon the proportion of time the residents spend training in the rural areas. However, instead of using a “two-thirds” model to specify the amount of time residents are training in the rural areas, as the framework exists under current policy, the proposal would use, at §§ 413.86(g)(12)(i) through (iv), a “one-half of the time” model to specify the amount of time residents are training in rural areas. This proposal would address the limited cases where ACGME separately accredits programs as “1-2” rural tracks but residents in those programs train in the rural areas less than two-thirds of the time, although greater than one-half of the time. Specifically, we are proposing at § 413.86(g)(12) to state:

• If an urban hospital rotates residents to a separately accredited rural track program at a rural hospital(s) for two-thirds of the duration of the program for cost reporting periods beginning on or after April 1, 2000 and before October 1, 2003, or for more than one-half of the duration of the program for cost reporting periods beginning on or after October 1, 2003, the urban hospital may include those residents in its FTE count for the time the rural track residents spend at the urban hospital.

• If an urban hospital rotates residents to a separately accredited rural track program at a rural nonhospital site(s) for two-thirds of the duration of the program for cost reporting periods beginning on or after April 1, 2000, and before October 1, 2003, or for more than one-half of the duration of the program for cost reporting periods beginning on or after October 1, 2003, the urban hospital may include those residents in its FTE count, subject to the requirements under § 413.86(f)(4).

• If an urban hospital rotates residents in the rural track program to a rural hospital(s) for less than two-thirds of the duration of the program for cost reporting periods beginning on or after April 1, 2002, and before October 1, 2003, or for one-half or less than one-half of the duration of the program for cost reporting periods beginning on or after October 1, 2003, the rural hospital may not include those residents it its FTE count (if the rural track is not a new program under § 413.86(g)(6)(iii), or if the rural hospital's FTE count exceeds that hospital's FTE cap), nor may the urban hospital include those residents when calculating its rural track FTE limitation.

• If an urban hospital rotates residents in the rural track program to a rural nonhospital site(s) for a period of time that is less than two-thirds of the duration of the program for cost reporting periods beginning on or after April 1, 2002, and before October 1, 2003, or for one-half or less than one-half of the duration of the program for cost reporting periods beginning on or after October 1, 2003, the urban hospital may include those residents in its FTE count, subject to the requirements under § 413.86(f)(4).

We also are proposing to make a conforming change to § 412.105(f)(1)(x) to make these proposed provisions applicable to IME payments for discharges occurring on or after October 1, 2003.

We believe this proposal produces a more equitable result than the existing policy; the proposal encompasses what we believe to be all situations in which the ACGME separately accredits rural track programs and in which residents in the programs spend a majority of the time training in rural settings, fulfilling the intent of Congress for Medicare to provide GME payments for significant rural residency training.

b. Inclusion of Rural Track FTE Residents in the Rolling Average Calculation. Section 1886(h)(4)(G) of the Act, as added by section 4623 of Public Law 105-33, provides that, for a hospital's first cost reporting period beginning on or after October 1, 1997, the hospital's FTE resident count for direct GME payment purposes equals the average of the actual FTE resident count for that cost reporting period and the preceding cost reporting period. Section 1886(h)(4)(G) of the Act requires that, for cost reporting periods beginning on or after October 1, 1998, a hospital's FTE resident count for direct GME payment purposes equals the average of the actual FTE resident count for the cost reporting period and the preceding two cost reporting periods (that is, a 3-year rolling average). This provision phases in over a 3-year period any reduction in direct GME payments to hospitals that results from a reduction in the number of FTE residents below the number allowed by the FTE cap. We first implemented this provision in the August 29, 1997 final rule with comment period (62 FR 46004) and revised § 413.86(g)(5) accordingly. Because hospitals may have two PRAs, one for residents in primary care and obstetrics and gynecology (the “primary care PRA”), and a lower PRA for nonprimary care residents, we revised our policy for computing the rolling average for direct GME payment purposes (not for IME) in the August 1, 2001 final rule (66 FR 39893) to create two separate rolling averages, one for primary care and obstetrics and gynecology residents (the “primary care rolling average”), and one for nonprimary care residents. Effective for cost reporting periods beginning on or after October 1, 2001, direct GME payments are calculated based on the sum of: (1) The product of the primary care PRA and the primary care rolling average; and (2) the product of the nonprimary care PRA and the nonprimary care FTE rolling average. (This sum is then multiplied by the Medicare patient load to determine Medicare direct GME payments).

Section 407(c) of Public Law 106-113, which amended sections 1886(d)(5)(B) and 1886(h)(4)(H) of the Act to create the rural track provision, provided that, in the case of an urban hospital that establishes a separately accredited rural track, “* * * the Secretary shall adjust the limitation under subparagraph (F) in an appropriate manner insofar as it applies to such programs in such rural areas in order to encourage the training of physicians in rural areas” (emphasis added). Subparagraph (F) of the Act is the provision that establishes a cap on the number of allopathic and osteopathic FTE residents that may be counted at each hospital for Medicare direct GME payment purposes. Thus, the provision authorizes the Secretary to allow for an increase to an urban hospital's FTE cap on allopathic and osteopathic residents in certain instances when an urban hospital establishes a rural track program. Although the rural track provision effectively allows an increase to the urban hospital's FTE cap by adjusting the FTE limitation under subparagraph (F), the statute makes no reference to subparagraph (G), the provision concerning the rolling average count of residents. That is, the statute does not provide for an exclusion from the rolling average for the urban hospital for those FTE residents training in a rural track.

Since we implemented this rural track provision in the August 1, 2000 interim final rule with comment period (65 FR 47033), we have interpreted this provision to mean that, except for new rural track programs begun by urban teaching hospitals that are establishing an FTE cap for the first time under § 413.86(g)(6)(i), when an urban hospital establishes a new rural track program or expands an existing rural track program, FTE residents in the rural track that are counted by the urban hospital are included in the hospital's rolling average calculation immediately. Although we have not specified in the regulations that rural track FTE residents counted by an urban hospital are included in the hospital's rolling average FTE resident count, this has been our policy. The Medicare cost report, Form CMS-2552-96 (line 3.05 on Worksheet E, Part A, for IME payments, and on line 3.02 on Worksheet E-3, Part IV, for direct GME payments), reflects this policy. Accordingly, FTE residents in a rural track program are to be included in the urban hospital's rolling average count for IME and direct GME for cost reporting periods beginning on or after April 1, 2000.

We are proposing to revise the regulations at § 413.86(g)(5) to add a new paragraph (vii) to clarify that, subject to regulations at § 413.86(g)(12), except for new rural track programs begun by urban hospitals that are first establishing an FTE cap under § 413.86(g)(6)(i), when an urban hospital with an existing FTE cap establishes a new program with a rural track (or an integrated rural track), or expands an existing rural track (or an integrated rural track) program, the FTE residents in that program that are counted by the urban hospital are included in the urban hospital's rolling average FTE resident count immediately. We also are proposing to revise §§ 413.86(g)(12)(i)(A), (g)(12)(ii)(B), and (g)(12)(iv)(A) to indicate that for the first 3 years of the rural track's existence, the rural track FTE limitation for each urban hospital will be the actual number of FTE residents, subject to the rolling average, training in the rural track at the urban hospital.

4. Technical Change Relating to Affiliated Groups and Affiliation Agreements

Section 1886(h)(4)(H)(ii) of the Act permits, but does not require, the Secretary to prescribe rules that allow institutions that are members of the same affiliated group (as defined by the Secretary) to elect to apply the FTE resident limit on an aggregate basis. This provision allows the Secretary to give hospitals flexibility in structuring rotations within a combined cap when they share a resident's time. Consistent with the broad authority conferred by the statute, we established criteria for defining an “affiliated group” and an “affiliation agreement” in both the August 29, 1997 final rule (62 FR 45965) and the May 12, 1998 final rule (63 FR 26317). We further clarified our policy concerning affiliation agreements in the August 1, 2002 final rule (67 FR 50069).

We are aware that there has been some confusion at times among members of the provider community when using the term “affiliation agreement,” since the term is used in contexts other than for Medicare GME payment purposes. For example, an “affiliation agreement” is a term historically used in the academic community that generally relates to agreements made between hospitals and medical schools or among sponsors of medical residency education programs. To help prevent further confusion, we are proposing to change the term in the regulations to “Medicare GME affiliation agreement.” We believe this will help to distinguish these agreements used for purposes of GME payments from agreements used for other purposes in the provider community. We are proposing to revise the regulations at § 413.86(b) to state “Medicare GME affiliated group,” and “Medicare GME affiliation agreement,” and we are making similar revisions to § 413.86(g)(4)(iv), (g)(7)(i) through (v), and § 412.105(f)(1)(vi) for IME payment purposes.

G. Notification of Updates to the Reasonable Compensation Equivalent (RCE) Limits (§ 415.70)

1. Background

Under the Medicare program, payment for services furnished by a physician is made under either the Hospital Insurance Program (Part A) or the Supplementary Medical Insurance Program (Part B), depending on the type of services furnished. In accordance with section 1848 of the Act, physicians' charges for medical or surgical services to individual Medicare patients generally are covered under Part B on a fee-for-service basis under the Medicare physician fee schedule. The compensation that physicians receive from or through a provider for services that benefit patients generally (for example, administrative services, committee work, teaching, and supervision) can be covered under Part A or Part B, depending on the provider's setting.

As required by section 1887(a)(2)(B) of the Act, allowable compensation for services furnished by physicians to providers that are paid by Medicare on a reasonable cost basis is subject to reasonable compensation equivalent (RCE) limits. Under these limits, payment is determined based on the lower of the actual cost of the services to the provider (that is, any form of compensation to the physician) or a reasonable compensation equivalent. For purposes of applying the RCE limits, physician compensation costs means monetary payments, fringe benefits, deferred compensation and any other items of value (excluding office space or billing and collection services) that a provider or other organization furnishes a physician in return for the physician's services.

The RCE limits do not apply to the costs of physician compensation that are attributable to furnishing inpatient hospital services paid for under the IPPS or GME costs. In addition, RCE limits do not apply to the costs CAHs incur in compensating physicians for services. Furthermore, compensation that a physician receives for activities that may not be paid for under either Part A or Part B are not considered in applying the RCE limits.

The limits apply equally to all physician services to providers that are payable on a reasonable cost basis under Medicare. If a physician receives any compensation from a provider for his or her physician services to the provider (that is, those services that benefit patients generally), payment to those affected providers for the costs of such compensation is subject to the RCE limits. The RCE limits are not applied to payment for services that are identifiable medical or surgical services to individual patients and paid for under the physician fee schedule, even if the physician agrees to accept compensation (for example, from a hospital) for those services. (However, payments to teaching hospitals that have elected to be paid for these services on a reasonable cost basis in accordance with section 1861(b)(7) of the Act are subject to the limits.)

Section 415.70(b) of the regulations specifies the methodology for determining annual RCE limits, considering average physician incomes by specialty and type of location, to the extent possible using the best available data. On October 31, 1997, the revised RCE limits update methodology was published in the Federal Register (62 FR 59075). For cost reporting periods beginning on or after January 1, 1998, updates to the RCE limits are calculated using the Medicare Economic Index (MEI). The inflation factor used to develop the initial RCE limits and, subsequently, to update those limits to reflect increases in net physician compensation was the Consumer Price Index for All Urban Consumers (CPI-U). In 1998, we revised the RCE limits update methodology by replacing the CPI-U with the physician fee schedule's inflation factor (the MEI), to achieve a measure of consistency in the methodologies employed to determine reasonable payments to physicians for direct medical and surgical services furnished to individual patients and reasonable compensation levels for physicians' services that benefit provider patients generally.

2. Publication of the Updated RCE Limits

We intend to publish updated payment limits on the amount of allowable compensation for services furnished by physicians to providers in the FY 2004 IPPS final rule. These revised limits will be mere updates that will be calculated by applying the most recent economic index data. We are not proposing any change in the methodology. Therefore, in accordance with § 415.70(f), we are allowed to publish the revised RCE limits in a final rule without prior publication of a proposed rule for public comment. Furthermore, we believe that publication of the revised RCE limits in a proposed rule with opportunity for public comment is unnecessary, and we find good cause to waive the procedure.

V. PPS for Capital-Related Costs

In this proposed rule, we are not proposing any changes in the policies governing the determination of the payment rates for capital-related costs for short-term acute care hospitals under the IPPS. However, for the readers' benefit, in this section of this proposed rule, we are providing a summary of the statutory basis for the PPS for hospital capital-related costs, the methodology used to determine capital-related payments to hospitals, and a brief description of the payment policies under the PPS for capital-related costs for new hospitals, extraordinary circumstances, and exception (regular and special) payments. (Refer to the August 1, 2001 IPPS final rule (66 FR 39910) for a more detailed discussion of the statutory basis for the system, the development and evolution of the system, the methodology used to determine capital-related payments to hospitals both during and after the transition period, and the policy for providing regular and special exceptions payments.)

Section 1886(g) of the Act requires the Secretary to pay for the capital-related costs of inpatient hospital services “in accordance with a PPS established by the Secretary.” Under the statute, the Secretary has broad authority in establishing and implementing the PPS for capital related costs. We initially implemented the capital PPS in the August 30, 1991 IPPS final rule (56 FR 43358), in which we established a 10-year transition period to change the payment methodology for Medicare hospital inpatient capital-related costs from a reasonable cost-based methodology to a prospective methodology (based fully on the Federal rate).

Federal fiscal year (FY) 2001 was the last year of the 10-year transition period established to phase in the PPS for hospital inpatient capital-related costs. Beginning in FY 2002, capital PPS payments are based solely on the Federal rate for the vast majority of hospitals. The basic methodology for determining capital prospective payments based on the Federal rate is set forth in § 412.312. For the purpose of calculating payments for each discharge, the standard Federal rate is adjusted as follows:

(Standard Federal Rate) × (DRG Weight) × (Geographic Adjustment Factor (GAF)) × (Large Urban Add-on, if applicable) × (COLA Adjustment for hospitals located in Alaska and Hawaii) × (1 + DSH Adjustment Factor + IME Adjustment Factor, if applicable)

Hospitals also may receive outlier payments for those cases that qualify under the thresholds established for each fiscal year that are specified in § 412.312(c) of existing regulations.

During the 10-year transition period, a new hospital (as defined at 412.300(b)) was exempt from the capital PPS for its first 2 years of operation and was paid 85 percent of its reasonable costs during that period. Originally, this provision was effective only through the transition period and, therefore, ended with cost reporting periods beginning in FY 2002. As we discussed in the August 1, 2002 final rule (67 FR 50101), this payment provision was implemented to provide special protection to new hospitals during the transition period in response to concerns that prospective payments under a DRG system may not be adequate initially to cover the capital costs of newly built hospitals. Therefore, we believe that the rationale for this policy applies to new hospitals after the transition period as well, and in that same final rule, we established regulations under § 412.304(c)(2) that provide the same special payment to new hospitals for cost reporting periods beginning on or after October 1, 2002. Therefore, a new hospital, defined under § 412.300(b), is paid 85 percent of its allowable Medicare inpatient hospital capital-related costs through its first 2 years of operation unless the new hospital elects to receive fully prospective payment based on 100 percent of the Federal rate. (For more detailed information regarding this policy, see the August 1, 2002 IPPS final rule (67 FR 50101).)

Regulations at § 412.348(f) provide that a hospital may request an additional payment if the hospital incurs unanticipated capital expenditures in excess of $5 million due to extraordinary circumstances beyond the hospital's control. This policy was established for hospitals during the 10-year transition period, but we established regulations at § 412.312(e) to specify that payment for extraordinary circumstances is also made for cost reporting periods after the transition period (that is, cost reporting periods beginning on or after October 1, 2001). (For more detailed information regarding this policy, refer to the August 1, 2002 Federal Register (67 FR 50102).)

During the transition period, under §§ 412.348(b) through (e), eligible hospitals could receive regular exception payments. These exception payments guaranteed a hospital a minimum payment of a percentage of its Medicare allowable capital-related costs depending on the class of hospital (§ 412.348(c)). However, after the end of the transition period, eligible hospitals can receive additional payments under the special exceptions provisions at § 412.348(g), which guarantees an eligible hospital a minimum payment of 70 percent of its Medicare allowable capital-related costs. Special exceptions payments may be made only for the 10 years after the cost reporting year in which the hospital completes its qualifying project, which can be no later than the hospital's cost reporting period beginning before October 1, 2001. Thus, an eligible hospital may receive special exceptions payments for up to 10 years beyond the end of the capital PPS transition period. Hospitals eligible for special exceptions payments were required to submit documentation to the intermediary indicating the completion date of their project. (For more detailed information regarding the special exceptions policy under § 412.348(g), refer to the August 1, 2001 IPPS final rule (66 FR 39911 through 39914) and the August 1, 2002 IPPS final rule (67 FR 50102).)

VI. Proposed Changes for Hospitals and Hospital Units Excluded from the IPPS

A. Payments to Excluded Hospitals and Hospital Units (§§ 413.40(c), (d), and (f))

1. Payments to Existing Excluded Hospitals and Hospital Units

Section 1886(b)(3)(H) of the Act (as amended by section 4414 of Pub. L. 105-33) established caps on the target amounts for certain existing hospitals and hospital units excluded from the IPPS for cost reporting periods beginning on or after October 1, 1997 through September 30, 2002. For this period, the caps on the target amounts apply to the following three classes of excluded hospitals or units: psychiatric hospitals and units, rehabilitation hospitals and units, and LTCHs.

In accordance with section 1886(b)(3)(H)(i) of the Act and effective for cost reporting periods beginning on or after October 1, 2002, payments to these classes of existing excluded hospitals or hospital units are no longer subject to caps on the target amounts. In accordance with existing §§ 413.40(c)(4)(ii) and (d)(1)(i) and (ii), where applicable, these excluded hospitals and hospital units continue to be paid on a reasonable cost basis, and payments are based on their Medicare inpatient operating costs, not to exceed the ceiling. The ceiling would be computed using the hospital's or unit's target amount from the previous cost reporting period updated by the rate-of-increase specified in § 413.40(c)(3)(viii) of the regulations and then multiplying this figure by the number of Medicare discharges. Effective for cost reporting periods beginning on or after October 1, 2002, rehabilitation hospitals and units are paid 100 percent of the Federal rate. Effective for cost reporting periods beginning on or after October 1, 2002, LTCHs also are no longer paid on a reasonable cost basis but are paid under a DRG-based PPS. As part of this process for LTCHs, we established a 5-year transition period from reasonable cost-based reimbursement to a fully Federal PPS. However, a LTCH, subject to the blend methodology, may elect to be paid based on a 100 percent of the Federal prospective rate. (Sections VII.A.3. and 4. of this preamble contain for a more detailed discussion of the IRF PPS and the LTCH PPS.)

2. Updated Caps for New Excluded Hospitals and Units

Section 1886(b)(7) of the Act establishes a payment limitation for new psychiatric hospitals and units, new rehabilitation hospitals and units, and new LTCHs. A discussion of how the payment limitation was calculated can be found in the August 29, 1997 final rule with comment period (62 FR 46019); the May 12, 1998 final rule (63 FR 26344); the July 31, 1998 final rule (63 FR 41000); and the July 30, 1999 final rule (64 FR 41529). Under the statute, a “new” hospital or unit is a hospital or unit that falls within one of the three classes of hospitals or units (psychiatric, rehabilitation or long-term care) that first receives payment as a hospital or unit excluded from the IPPS on or after October 1, 1997.

The amount of payment for a “new” psychiatric hospital or unit would be determined as follows:

• Under existing § 413.40(f)(2)(ii), for the first two 12-month cost reporting periods, the amount of payment is the lesser of: (1) The operating costs per case; or (2) 110 percent of the national median (as estimated by the Secretary) of the target amounts for the same class of hospital or unit for cost reporting periods ending during FY 1996, updated by the hospital market basket increase percentage to the fiscal year in which the hospital or unit first receives payments under section 1886 of the Act, as adjusted for differences in area wage levels.

• Under existing § 413.40(c)(4)(v), for cost reporting periods following the hospital's or unit's first two 12-month cost reporting periods, the target amount is equal to the amount determined under section 1886(b)(7)(A)(i) of the Act for the third period, updated by the applicable hospital market basket increase percentage.

The proposed amounts included in the following table reflect the updated 110 percent of the national median target amounts of new excluded psychiatric hospitals and units for cost reporting periods beginning during FY 2004. These figures are updated with the most recent data available to reflect the projected market basket increase percentage of 3.5 percent. This projected percentage change in the market basket reflects the average change in the price of goods and services purchased by hospitals to furnish inpatient hospital services (as projected by the Office of the Actuary of CMS based on its historical experience with the IPPS). For a new provider, the labor-related share of the target amount is multiplied by the appropriate geographic area wage index, without regard to IPPS reclassifications, and added to the nonlabor-related share in order to determine the per case limit on payment under the statutory payment methodology for new providers.

Class of excluded hospital or unit | FY 2004 proposed labor-related share | FY 2004 proposed nonlabor-related share
Psychiatric | $7,301 | $2,902

Effective for cost reporting periods beginning on or after October 1, 2002, this payment limitation is no longer applicable to new LTCHs because they are paid 100 percent of the Federal rate. Under the LTCH PPS, a new LTCH is defined as a provider of inpatient hospital services that meets the qualifying criteria for LTCHs specified under § 412.23(e)(1) and (e)(2) and whose first cost reporting period as a LTCH begins on or after October 1, 2002 (§ 412.23(e)(4)). (We note that this definition of new LTCHs should not be confused with those LTCHs first paid under the TEFRA payment system for discharges occurring on or after October 1, 1997, and before October 1, 2002.) New LTCHs are paid based on 100 percent of the fully Federal prospective rate (they may not participate in the 5-year transition from cost-based reimbursement to prospective payment). In contrast, those “new” LTCHs that meet the definition of “new” under § 413.40(f)(2)(ii) and that have their first cost reporting periods beginning on or after October 1, 1997, and before October 1, 2002, may be paid under the LTCH PPS transition methodology. Since those hospitals by definition would have been considered new before October 1, 2002, they would have been subject to the updated payment limitation on new hospitals that was published in the FY 2003 IPPS final rule (67 FR 50103). Under existing regulations at § 413.40(f)(2)(ii), the “new” hospital would be subject to the same cap in its second cost reporting period; this cap would not be updated for the new hospital's second cost reporting year. Thus, because the same cap is to be used for the new LTCH's first two cost reporting periods, it is no longer necessary to publish an updated cap for new LTCHs.

Effective for cost reporting periods beginning on or after October 1, 2002, this payment limitation is no longer applicable to new rehabilitation hospitals and units because they are paid 100 percent of the Federal prospective rate under the IRF PPS. Therefore, it is also no longer necessary to update the payment limitation for new rehabilitation hospitals or units.

3. Implementation of a PPS for IRFs

Section 1886(j) of the Act, as added by section 4421(a) of Public Law 105-33, provided the phase-in of a case-mix adjusted PPS for inpatient hospital services furnished by a rehabilitation hospital or a rehabilitation hospital unit (referred to in the statute as rehabilitation facilities) for cost reporting periods beginning on or after October 1, 2000 and before October 1, 2002, with a fully implemented PPS for cost reporting periods beginning on or after October 1, 2002. Section 1886(j) of the Act was amended by section 125 of Public Law 106-113 to require the Secretary to use a discharge as the payment unit under the PPS for inpatient hospital services furnished by rehabilitation facilities and to establish classes of patient discharges by functional-related groups. Section 305 of Public Law 106-554 further amended section 1886(j) of the Act to allow rehabilitation facilities, subject to the blend methodology, to elect to be paid the full Federal prospective payment rather than the transitional period payments specified in the Act.

On August 7, 2001, we issued a final rule in the Federal Register (66 FR 41316) establishing the PPS for inpatient rehabilitation facilities, effective for cost reporting periods beginning on or after January 1, 2002. Under the IRF PPS, for cost reporting periods beginning on or after January 1, 2002, and before October 1, 2002, payment consisted of 33⅓ percent of the facility-specific payment amount (based on the reasonable cost-based reimbursement methodology) and 66⅔ percent of the adjusted Federal prospective payment. For cost reporting periods beginning on or after October 1, 2002, payments are based entirely on the Federal prospective payment rate determined under the IRF PPS.

4. Implementation of a PPS for LTCHs

In accordance with the requirements of section 123 of Public Law 106-113, as modified by section 307(b) of Public Law 106-554, we established a per discharge, DRG-based PPS for LTCHs as described in section 1886(d)(1)(B)(iv) of the Act for cost reporting periods beginning on or after October 1, 2002, in a final rule issued on August 30, 2002 (67 FR 55954). The LTCH PPS uses information from LTCH hospital patient records to classify patients into distinct LTC-DRGs based on clinical characteristics and expected resource needs. Separate payments are calculated for each LTC-DRG with additional adjustments applied.

As part of the implementation of the system, we established a 5-year transition period from reasonable cost-based reimbursement to the fully Federal prospective rate. A blend of the reasonable cost-based reimbursement percentage and the prospective payment Federal rate percentage would be used to determine a LTCH's total payment under the LTCH PPS during the transition period. Certain LTCHs may elect to be paid based on 100 percent of the Federal prospective rate. All LTCHs will be paid under the fully Federal prospective rate for cost reporting periods beginning on or after October 1, 2006.

B. Payment for Services Furnished at Hospitals-Within-Hospitals and Satellite Facilities

Existing regulations at § 412.22(e) define a hospital-within-a-hospital as a hospital that occupies space in the same building as another hospital, or in one or more entire buildings located on the same campus as buildings used by another hospital. Moreover, existing § 412.22(f) provides for the grandfathering of hospitals-within-hospitals that were in existence on or before September 30, 1995.

Sections 412.22(h) and 412.25(e), relating to satellites of hospitals and hospital units, respectively, excluded from the IPPS, define a satellite facility as a part of a hospital or unit that provides inpatient services in a building also used by another hospital, or in one or more entire buildings located on the same campus as buildings used by another hospital. Sections 412.22(h)(3) and 412.25(e)(3) provide for the grandfathering of excluded hospitals and units that were structured as satellite facilities on September 30, 1999, to the extent they operate under the same terms and conditions in effect on that date.

In providing for the grandfathering of satellite facilities of hospitals and hospital units, we believed it was appropriate to require that the satellite facilities operate under the same terms and conditions that were in effect on September 30, 1999. There are similarities between the definition of the two types of satellite facilities and the definition of hospitals-within-hospitals (that is, hospitals-within-hospitals and satellite facilities are both physically located in acute care hospitals that are paid for their inpatient services on a prospective payment basis). Also, satellite facilities of both excluded hospitals and hospital units and hospitals-within-hospitals provide inpatient hospital services that are paid at a higher rate than would apply if the facilities were treated by Medicare as part of an acute care hospital.

We are proposing to revise § 412.22(f) to specify that, effective with cost reporting periods beginning on or after October 1, 2003, a hospital operating as a hospital-within-a-hospital on or before September 30, 1995, is exempt from the criteria in § 412.22(e)(1) through (e)(5) only if the hospital-within-a-hospital continues to operate under the same terms and conditions in effect as of September 30, 1995. The intent of the “grandfathering” provision was to ensure that hospitals that had been in existence prior to the effective date of our hospital-within-hospital requirements should not be adversely affected by those requirements. To the extent hospitals were already operating as hospitals-within-hospitals without meeting those requirements, we believe it is appropriate to limit the “grandfathering” provision to those hospitals that continue to operate in the same manner as they had operated prior to the effective date of those rules. However, if a hospital changes the way it operates (for example, adds more beds) subsequent to the effective date of the new rules, it should no longer receive the benefit of the “grandfathering” provision.

Under § 412.22(e), we specify the criteria that a hospital-within-a-hospital is required to meet in order to be excluded from the IPPS. One of these criteria, under § 412.22(e)(5)(i), requires that a hospital-within-a-hospital is able to perform basic hospital functions (for example, medical record services and nursing services) that are presently included in the Medicare hospital conditions of participation under Part 482 of the Medicare regulations. These requirements were first included in Part 412 in response to hospitals organizing themselves as what is referred to as the hospital-within-a-hospital model. Thus, to avoid recognizing nominal hospitals, while allowing hospitals adequate flexibility and opportunity for legitimate networking and sharing of services, we included, by reference, certain hospital conditions of participation as additional criteria in part 412 for hospitals-within-hospitals that request exclusion from the IPPS. (Further discussion can be found in a final rule published in the Federal Register on September 1, 1994 (59 FR 45389).) Modifications to the conditions of participation have been made since the publication of that September 1, 1994 final rule. Thus, we need to update the references to the conditions of participation in § 412.22(e)(5)(i) to make them consistent with existing provisions under the basic hospital conditions of participation. Therefore, we are proposing to amend § 412.22(e)(5)(i) to add references to § 482.43 (discharge planning) and § 482.45 (organ, tissue, and eye procurement) as basic hospital functions that a hospital-within-a-hospital would also be required to meet.

C. Clarification of Classification Requirements for LTCHs

Under § 412.23(e)(2), to qualify to be excluded from the IPPS as a LTCH and to be paid under the LTCH PPS, a hospital must have an average Medicare length of stay of greater than 25 days (which includes all covered and noncovered days of stay for Medicare patients) as calculated under the criteria of § 412.23(e)(3). In calculating this average Medicare inpatient length of stay, data from the hospital's most recently filed cost report are used to make this determination. However, if the hospital has not yet filed a cost report or if there is an indication that the most recently filed cost report does not accurately reflect the hospital's current Medicare average length of stay, data from the most recent 6-month period are used.

Our interpretation of § 412.23(e)(3)(ii) and (e)(3)(iii) was to allow hospitals that submit data for purposes of exclusion from the IPPS to use a period of at least 5 months of the most recent data from the preceding 6-month period. This longstanding policy interpretation was necessary in order to comply with the time requirement in § 412.22(d) that specifies that, for purposes of the IPPS, status is determined at the beginning of each cost reporting period and is effective for the entire cost reporting period. Therefore, we are proposing to revise §§ 412.23(e)(3)(ii) and (iii) to reflect our longstanding interpretation of the regulations.

D. Criteria for Payment on a Reasonable Cost Basis for Clinical Diagnostic Laboratory Services Performed by CAHs

Section 1820 of the Act provides for the establishment of Medicare Rural Hospital Flexibility Programs, under which individual States may designate certain facilities as critical access hospitals (CAHs). Facilities that are so designated and meet the CAH conditions of participation in 42 CFR part 485, subpart F, will be certified as CAHs by CMS. Section 1834(g) of the Act states that the amount of payment for outpatient services furnished by a CAH will be the reasonable costs of the CAH in providing these services.

Regulations implementing section 1834(g) of the Act are set forth at § 413.70. These regulations state, in paragraph (b)(2)(iii), that payment to a CAH for outpatient clinical diagnostic laboratory tests will be made on a reasonable cost basis only if the individuals for whom the tests are performed are outpatients of the CAH, as defined in 42 CFR 410.2, at the time the specimens are collected. The regulations also state that clinical diagnostic laboratory tests for persons who are not patients of the CAH at the time the specimens are collected will be paid for in accordance with the provisions of sections 1833(a)(1)(D) and 1833(a)(2)(D) of the Act. These provisions, which also are the basis for payment for clinical diagnostic laboratory tests performed by independent laboratories and by hospitals on specimens drawn at other locations, set payment at the least of: (1) Charges determined under the fee schedule as set forth in section 1833(h)(1) or section 1834(d)(1) of the Act; (2) the limitation amount for that test determined under section 1833(h)(4)(B) of the Act; or (3) a negotiated rate established under section 1833(h)(6) of the Act. Payments determined under this methodology are typically referred to as “fee schedule payments,” and are so described here both for ease of reference and to differentiate them from payments determined on a reasonable cost basis.

The definition of an “outpatient” in 42 CFR 410.2 states that an outpatient means a person who has not been admitted as an inpatient but who is registered on hospital or CAH records as an outpatient and receives services (rather than supplies alone) directly from the hospital or CAH.

Recently, we have received numerous questions about how Medicare pays for laboratory services that a CAH may furnish to Medicare beneficiaries in various settings other than the CAH. Specifically, the questioners have asked whether a CAH may obtain reasonable cost payment for such services to individuals in other locations by sending a CAH employee into the setting and registering the individual as a CAH patient while the blood is drawn or other specimen collection is accomplished. The settings that have been referred to most frequently are: (1) A rural health clinic (RHC), especially one that is provider-based with respect to the CAH; (2) the individual's home; and (3) a SNF.

We have considered these suggestions and understand the position taken by those who believe that nominal compliance with the requirements for outpatient status should be enough to warrant reasonable cost payment for clinical diagnostic laboratory tests for individuals at locations outside the CAH. However, we do not agree that providing reasonable cost payment under these circumstances would be appropriate. On the contrary, we believe that extending reasonable cost payment for services furnished to individuals who are not at the CAH when the specimen is drawn would duplicate existing coverage, create confusion for beneficiaries and others by blurring the distinction between CAHs and other providers, such as SNFs and HHAs, and increase the costs of care to Medicare patients without enhancing either the quality or the availability of that care.

To clarify our policies in this area and avoid possible misunderstandings about the scope of the CAH benefit, we are proposing to revise § 413.70(b)(2)(iii) to state that payment to a CAH for outpatient clinical diagnostic laboratory tests will be made on a reasonable cost basis only if the individuals for whom the tests are performed are outpatients of the CAH, as defined in 42 CFR 410.2, “and are physically present in the CAH” at the time the specimens are collected. (We note that, in some cases, the CAH outpatients from whom specimens are collected at the CAH may include individuals referred to the CAH from RHCs or other facilities to receive the tests.) We are proposing to further revise this paragraph to state that clinical diagnostic laboratory tests for individuals who do not meet these criteria but meet other applicable requirements will be paid for only in accordance with the provisions of sections 1833(a)(1)(D) and 1833(a)(2)(D) of the Act, that is, payment will be made only on a fee schedule basis. By making the second proposed change, we wish to emphasize that this proposal does not mean that no payment would be made for clinical diagnostic laboratory tests performed by CAHs that do not meet the revised criteria. On the contrary, such tests would be paid, but on a fee schedule basis. We believe these clarifications are appropriate, as the CAH is not providing CAH services but is acting as an independent laboratory in providing these clinical diagnostic laboratory tests.

E. Technical Change

On July 30, 1999, we published in the Federal Register a final rule (64 FR 41532) that set forth criteria for a satellite facility of a hospital or hospital unit to be excluded from the IPPS under § 412.25. Section 412.25(e)(3) of the regulations specifies that any unit structured as a satellite facility on September 30, 1999, and excluded from the IPPS on that date, is grandfathered as an excluded hospital to the extent that the unit continues operating under the same terms and conditions, including the number of beds and square footage considered to be part of the unit, in effect on September 30, 1999, except as we specified in § 412.25(e)(4). When we specified the exception for the number of beds and square footage requirement under § 412.25(e)(4), we inadvertently referred to paragraph (e)(4) as being an exception to paragraph (h)(3). We should have specified that it was an exception to paragraph (e)(3). We are proposing to correct this reference.

VII. MedPAC Recommendations

We are required by section 1886(e)(4)(B) of the Act to respond to MedPAC's IPPS recommendations in our annual proposed rule. We have reviewed MedPAC's March 1, 2003 “Report to the Congress: Medicare Payment Policy” and have given it careful consideration in conjunction with the proposals set forth in this document. For further information relating specifically to the MedPAC report or to obtain a copy of the report, contact MedPAC at (202) 653-7220, or visit MedPAC's Web site at: http://www.medpac.gov.

MedPAC's Recommendation 2A-6 concerning the update factor for inpatient hospital operating costs and for hospitals and distinct-part hospital units excluded from the IPPS is discussed in Appendix C to this proposed rule. MedPAC's other recommendations relating to payments for Medicare inpatient hospital services focused mainly on the expansion of DRGs subject to the postacute care transfer policy, a reevaluation of the labor-related share of the market basket used in determining the hospital wage index, an increase in the DSH adjustment, and payments to rural hospitals. These recommendations and our responses are set forth below:

Recommendation 2A-1: The Secretary should add 13 DRGs to the postacute transfer policy in FY 2004 and then evaluate the effects on hospitals and beneficiaries before proposing further expansions.

Response: We are proposing to expand the postacute care transfer policy to 19 additional DRGs for FY 2004. A thorough discussion of this proposal, including a summary of MedPAC's analysis, can be found at section IV.A.3. of this preamble.

Recommendation 2A-2: The Congress should enact a low-volume adjustment to the rates used in the inpatient PPS. This adjustment should apply only to hospitals that are more than 15 miles from another facility offering acute inpatient care.

Response: MedPAC's analysis “revealed that hospitals with a small volume of total discharges have higher costs per discharge than larger facilities, after controlling for the other cost-related factors recognized in the payment system.” Although there are special payment protections for some rural hospitals such as CAHs, SCHs, and MDHs, MedPAC believes these provisions do not sufficiently target hospitals with low discharge volume.

This recommendation, which MedPAC estimates would increase Medicare payments to hospitals by less than $50 million in FY 2004, and others requiring Congressional action, should be considered in the context of larger discussions within Congress and between Congress and the Administration regarding Medicare reform and payment refinements. Therefore, we are not responding specifically to MedPAC's recommendation regarding a low-volume adjustment to the IPPS payments at this time.

Recommendation 2A-3: The Secretary should reevaluate the labor share used in the wage index system that geographically adjusts rates in the inpatient PPS, with any resulting change phased in over 2 years.

Response: CMS defines the labor-related share to include costs that are likely related to, influenced by, or vary with local labor markets, even if they could be purchased in a national market. Since the implementation of the IPPS, the labor-related share has been determined by adding together the cost weights from categories in the hospital market basket that are influenced by local labor markets. When the hospital market basket weights are updated or rebased, the labor-related share is updated. The estimate of the labor-related share using the most recently revised and rebased hospital market basket (1997-based) is 72.495 percent. This was the labor-related share proposed in the FY 2003 proposed rule.

In the August 1, 2002 IPPS final rule, we elected to continue to use 71.066 percent as the labor-related share applicable to the standardized amounts (67 FR 50041). At that time, we indicated that we would conduct further analysis to determine the most appropriate methodology for the labor-related share.

We are not proposing to use the updated labor-related share at this time because we have not yet completed our research into the appropriateness of this measure. Specifically, we are currently reviewing the labor-related share in two ways. First, we are updating the regression analysis that was done when the IPPS was originally developed, with the expectation that it would help give an alternative indication of the labor-related share. Second, we are reevaluating the methodology we currently use for determining the labor-related share using the hospital market basket.

Our regression analysis attempts to explain the variation in operating cost per case for a given year using many different explanatory variables, such as case-mix, DSH status, and ownership type. We described this methodology and some of our initial results in the May 9, 2002 Federal Register (67 FR 31447-31479). When included in the regression, the area wage index produces a coefficient that can be interpreted as the proportion of operating costs that vary with the geographic location of the hospital. The latest results on 1997 data produced a coefficient for the area wage index of 0.621, which can be interpreted as a labor share of 62.1 percent and is very close to the results reached by other groups. However, using the same specification produced coefficients of 76.7 percent for rural hospitals and 47.6 percent for urban hospitals, a disparity that cannot be supported either by theory or existing cost data. For example, the proportion of costs accounted for by wages, benefits, and contract labor is 60.8 percent for urban hospitals and 62.3 percent for rural hospitals, a spread much smaller than the regressions indicate. In addition, when the regressions were run separately by case-mix quartile and with hospital-specific wage variation (as opposed to using the area wage index), the findings were both difficult to explain and inconsistent with the underlying cost data. Thus, we believe at this point that the regression results are not robust enough to support changing the current labor-related share measurement.

A second approach was to reevaluate our methodology for determining the labor-related share using the hospital market basket. We have researched various alternative data sources for further breaking down the cost categories in the market basket and have begun to evaluate alternative methodologies. While each of these alternatives has strengths and weaknesses, it is not clear at this point that any one alternative is superior to the current methodology. We want to continue researching these alternatives, in part, because changing from the current methodology would impact the labor-related shares for SNFs, HHAs, and all of the excluded hospital payment systems, since they use a similar methodology. Our research plan includes consulting with experts on these issues, including MedPAC, to evaluate the various alternative approaches to determining the labor-related share. We plan to invite public comments on any proposed change to the labor-related share.

In conclusion, we are proposing to continue using the 71.066 percent labor-related share that was calculated from the 1992-based market basket until we have completed our research.

Recommendation 2A-4: The Congress should raise the inpatient base rate for hospitals in rural and other urban areas to the level of the rate for those in large urban areas, phased in over 2 years.

Response: This recommendation, which MedPAC estimates would increase Medicare payments to hospitals by between $200 and $600 million in FY 2004, and others requiring Congressional action, should be considered in the context of larger discussions within Congress and between Congress and the Administration regarding Medicare reform and payment refinements. Therefore, we are not responding specifically to MedPAC's recommendation regarding raising the base rate for hospitals in rural and other urban areas at this time.

Recommendation 2A-5: The Congress should raise the cap on the disproportionate share add-on a hospital can receive in the inpatient PPS from 5.25 percent to 10 percent, phased in over 2 years.

Response: This recommendation, which MedPAC estimates would increase Medicare payments to hospitals by between $50 and $200 million in FY 2004, and others requiring Congressional action, should be considered in the context of larger discussions within Congress and between Congress and the Administration regarding Medicare reform and payment refinements. Therefore, we are not responding specifically to MedPAC's recommendation regarding raising the maximum DSH adjustments at this time.

VIII. Other Required Information

A. Requests for Data From the Public

In order to respond promptly to public requests for data related to the prospective payment system, we have established a process under which commenters can gain access to raw data on an expedited basis. Generally, the data are available in computer tape or cartridge format; however, some files are available on diskette as well as on the Internet at http://www.hcfa.gov/stats/pufiles.htm. Data files and the cost for each file, if applicable, are listed below. Anyone wishing to purchase data tapes, cartridges, or diskettes should submit a written request along with a company check or money order (payable to CMS-PUF) to cover the cost to the following address: Centers for Medicare & Medicaid Services, Public Use Files, Accounting Division, PO Box 7520, Baltimore, MD 21207-0520, (410) 786-3691. Files on the Internet may be downloaded without charge.

1. CMS Wage Data

This file contains the hospital hours and salaries for FY 2000 used to create the proposed FY 2004 prospective payment system wage index. The file will be available by the beginning of February for the NPRM and the beginning of May for the final rule.

Processing year | Wage data year | PPS fiscal year
2003 | 2000 | 2004
2002 | 1999 | 2003
2001 | 1998 | 2002
2000 | 1997 | 2001
1999 | 1996 | 2000
1998 | 1995 | 1999
1997 | 1994 | 1998
1996 | 1993 | 1997
1995 | 1992 | 1996
1994 | 1991 | 1995
1993 | 1990 | 1994
1992 | 1989 | 1993
1991 | 1988 | 1992

These files support the following:

• NPRM published in the Federal Register.

• Final Rule published in the Federal Register.

Media: Diskette/most recent year on the Internet.

File Cost: $165.00 per year.

Periods Available: FY 2004 PPS Update.

2. CMS Hospital Wages Indices (Formerly: Urban and Rural Wage Index Values Only)

This file contains a history of all wage indices since October 1, 1983.

Media: Diskette/most recent year on the Internet.

File Cost: $165.00 per year.

Periods Available: FY 2004 PPS Update.

3. PPS SSA/FIPS MSA State and County Crosswalk

This file contains a crosswalk of State and county codes used by the Social Security Administration (SSA) and the Federal Information Processing Standards (FIPS), county name, and a historical list of Metropolitan Statistical Area (MSA).

Media: Diskette/Internet.

File Cost: $165.00 per year.

Periods Available: FY 2004 PPS Update.

4. Reclassified Hospitals New Wage Index (Formerly: Reclassified Hospitals by Provider Only)

This file contains a list of hospitals that were reclassified for the purpose of assigning a new wage index. Two versions of these files are created each year. They support the following:

• NPRM published in the Federal Register.

• Final Rule published in the Federal Register.

Media: Diskette/Internet.

File Cost: $165.00 per year.

Periods Available: FY 2004 PPS Update.

5. PPS-IV to PPS-XII Minimum Data Set

The Minimum Data Set contains cost, statistical, financial, and other information from Medicare hospital cost reports. The data set includes only the most current cost report (as submitted, final settled, or reopened) submitted for a Medicare participating hospital by the Medicare fiscal intermediary to CMS. This data set is updated at the end of each calendar quarter and is available on the last day of the following month.

Media: Tape/Cartridge.

File Cost: $770.00 per year.

| Periods beginning on or after | and before
PPS-IV | 10/01/86 | 10/01/87
PPS-V | 1010/01/87 | 10/01/88
PPS-VI | 1010/01/88 | 10/01/89
PPS-VII | 1010/01/89 | 10/01/90
PPS-VIII | 1010/01/90 | 10/01/91
PPS-IX | 1010/01/91 | 10/01/92
PPS-X | 1010/01/92 | 10/01/93
PPS-XI | 1010/01/93 | 10/01/94
PPS-XII | 1010/01/94 | 10/01/95

(Note: The PPS-XIII, PPS-XIV, PPS-XV, PPS-XVI, PPS-XVII, and PPS-XVIII Minimum Data Sets are part of the PPS-XIII, PPS-XIV, PPS-XV, PPS-XVI, PPS-XVII, and PPS-XVIII Hospital Data Set Files (refer to item 9 below).)

6. PPS-IX to PPS-XII Capital Data Set

The Capital Data Set contains selected data for capital-related costs, interest expense and related information and complete balance sheet data from the Medicare hospital cost report. The data set includes only the most current cost report (as submitted, final settled or reopened) submitted for a Medicare certified hospital by the Medicare fiscal intermediary to CMS. This data set is updated at the end of each calendar quarter and is available on the last day of the following month.

Media: Tape/Cartridge.

File Cost: $770.00 per year.

| Periods beginning on or after | and before
PPS-IX | 10/01/91 | 10/01/92
PPS-X | 10/01/92 | 10/01/93
PPS-XI | 10/01/93 | 10/01/94
PPS-XII | 10/01/94 | 10/01/95

(Note: The PPS-XIII, PPS-XIV, PPS-XV, PPS-XVI, PPS-XVII, and PPS-XVIII Capital Data Sets are part of the PPS-XIII, PPS-XIV, PPS-XV, PPS-XVI, PPS-XVII, and PPS-XVIII Hospital Data Set Files (refer to item 9 below).)

7. PPS-XIII to PPS-XVIII Hospital Data Set

The file contains cost, statistical, financial, and other data from the Medicare Hospital Cost Report. The data set includes only the most current cost report (as submitted, final settled, or reopened) submitted for a Medicare-certified hospital by the Medicare fiscal intermediary to CMS. The data set is updated at the end of each calendar quarter and is available on the last day of the following month.

Media: Diskette/Internet.

File Cost: $2,500.00.

| Periods beginning on or after | and before
PPS-XIII | 10/01/95 | 10/01/96
PPS-XIV | 10/01/96 | 10/01/97
PPS-XV | 10/01/97 | 10/01/98
PPS-XVI | 10/01/98 | 10/01/99
PPS-XVII | 10/01/99 | 10/01/00
PPS-XVIII | 10/01/00 | 10/01/01

8. Provider-Specific File

This file is a component of the PRICER program used in the fiscal intermediary's system to compute DRG payments for individual bills. The file contains records for all prospective payment system eligible hospitals, including hospitals in waiver States, and data elements used in the prospective payment system recalibration processes and related activities. Beginning with December 1988, the individual records were enlarged to include pass-through per diems and other elements.

Media: Diskette/Internet.

File Cost: $265.00.

Periods Available: FY 2004 PPS Update.

9. CMS Medicare Case-Mix Index File

This file contains the Medicare case-mix index by provider number as published in each year's update of the Medicare hospital inpatient prospective payment system. The case-mix index is a measure of the costliness of cases treated by a hospital relative to the cost of the national average of all Medicare hospital cases, using DRG weights as a measure of relative costliness of cases. Two versions of this file are created each year. They support the following:

• NPRM published in the Federal Register.

• Final rule published in the Federal Register.

Media: Diskette/most recent year on Internet.

Price: $165.00 per year/per file.

Periods Available: FY 1985 through FY 2004.

10. DRG Relative Weights (Formerly Table 5 DRG)

This file contains a listing of DRGs, DRG narrative description, relative weights, and geometric and arithmetic mean lengths of stay as published in the Federal Register. The hard copy image has been copied to diskette. There are two versions of this file as published in the Federal Register:

• NPRM.

• Final rule.

Media: Diskette/Internet.

File Cost: $165.00.

Periods Available: FY 2004 PPS Update.

11. PPS Payment Impact File

This file contains data used to estimate payments under Medicare's hospital inpatient prospective payment systems for operating and capital-related costs. The data are taken from various sources, including the Provider-Specific File, Minimum Data Sets, and prior impact files. The data set is abstracted from an internal file used for the impact analysis of the changes to the prospective payment systems published in the Federal Register. This file is available for release 1 month after the proposed and final rules are published in the Federal Register.

Media: Diskette/Internet.

File Cost: $165.00.

Periods Available: FY 2004 PPS Update.

12. AOR/BOR Tables

This file contains data used to develop the DRG relative weights. It contains mean, maximum, minimum, standard deviation, and coefficient of variation statistics by DRG for length of stay and standardized charges. The BOR tables are “Before Outliers Removed” and the AOR is “After Outliers Removed.” (Outliers refers to statistical outliers, not payment outliers.)

Two versions of this file are created each year. They support the following:

• NPRM published in the Federal Register.

• Final rule published in the Federal Register.

Media: Diskette/Internet.

File Cost: $165.00.

Periods Available: FY 2004 PPS Update.

13. Prospective Payment System (PPS) Standardizing File

This file contains information that standardizes the charges used to calculate relative weights to determine payments under the prospective payment system. Variables include wage index, cost-of-living adjustment (COLA), case-mix index, disproportionate share, and the Metropolitan Statistical Area (MSA). The file supports the following:

• NPRM published in the Federal Register.

• Final rule published in the Federal Register.

Media: Internet.

File Cost: No charge.

Periods Available: FY 2004 PPS Update.

For further information concerning these data tapes, contact the CMS Public Use Files Hotline at (410) 786-3691.

Commenters interested in obtaining or discussing any other data used in constructing this rule should contact Stephen Phillips at (410) 786-4548.

B. Collection of Information Requirements

This document does not impose information collection and recordkeeping requirements. Consequently, it need not be reviewed by the Office of Management and Budget under the authority of the Paperwork Reduction Act of 1995.

List of Subjects

42 CFR Part 412

Administrative practice and procedure, Health facilities, Medicare, Puerto Rico, Reporting and recordkeeping requirements.

42 CFR Part 413

Health facilities, Kidney diseases, Medicare, Puerto Rico, Reporting and recordkeeping requirements.

For the reasons stated in the preamble of this proposed rule, the Centers for Medicare & Medicaid Services proposes to amend 42 CFR chapter IV as follows:

PART 412—PROSPECTIVE PAYMENT SYSTEMS FOR INPATIENT HOSPITAL SERVICES

1. The authority citation for part 412 continues to read as follows:

Authority: Secs. 1102 and 1871 of the Social Security Act (42 U.S.C. 1302 and 1395hh).

2. Section 412.4 is amended by—

A. Revising paragraphs (b), (c), and (d).

B. In paragraph (f)(1), revising the reference “paragraph (b)(1) or (c)” to read “paragraph (b) or (c)”.

The revisions read as follows:

§ 412.4 Discharges and transfers.

* * * * *

(b) Acute care transfers. A discharge of a hospital inpatient is considered to be a transfer for purposes of payment under this part if the patient is readmitted the same day (unless the readmission is unrelated to the initial discharge) to another hospital that is—

(1) Paid under the prospective payment system described in subparts A through M of this part; or

(2) Excluded from being paid under the prospective payment system described in subparts A through M of this part because of participation in an approved statewide cost control program as described in subpart C of part 403 of this chapter.

(c) Postacute care transfers. A discharge of a hospital inpatient is considered to be a transfer for purposes of this part when the patient's discharge is assigned, as described in § 412.60(c), to one of the qualifying diagnosis-related groups (DRGs) listed in paragraph (d) of this section and the discharge is made under any of the following circumstances:

(1) To a hospital or distinct part hospital unit excluded from the prospective payment system described in subparts A through M of this part under subpart B of this part.

(2) To a skilled nursing facility.

(3) To home under a written plan of care for the provision of home health services from a home health agency and those services begin within 3 days after the date of discharge.

(d) Qualifying DRGs. For purposes of paragraph (c) of this section, the qualifying DRGs are:

(1) For discharges occurring on or after October 1, 1998, DRGs 14, 113, 209, 210, 211, 236, 263, 264, 429, and 483.

(2) For discharges occurring on or after October 1, 2003, the DRGs listed in paragraph (d)(1) of this section and DRGs 12, 24, 25, 89, 90, 121, 122, 130, 131, 239, 243, 277, 278, 296, 297, 320, 321, 462, and 468.

* * * * *

3. Section 412.22 is amended by:

A. Republishing the introductory text of paragraph (e)(5) and revising the first sentence of paragraph (e)(5)(i).

B. Revising paragraph (f).

The revisions read as follows:

§ 412.22 Excluded hospitals and hospital units: General rules.

* * * * *

(e) * * *

(5) Performance of basic hospital functions. The hospital meets one of the following criteria:

(i) The hospital performs the basic functions specified in §§ 482.21 through 482.27, 482.30, 482.42, 482.43, and 482.45 of this chapter through the use of employees or under contracts or other agreements with entities other than the hospital occupying space in the same building or on the same campus, or a third entity that controls both hospitals. * * *

(f) Application for certain hospitals. If a hospital was excluded from the prospective payment systems under the provisions of this section on or before September 30, 1995, and at that time occupied space in a building also used by another hospital, or in one or more buildings located on the same campus as buildings used by another hospital, the criteria in paragraph (e) of this section do not apply to the hospital. However, effective for cost reporting periods beginning on or after October 1, 2003, those hospitals-within-hospitals must continue to operate under the same terms and conditions, including the number of beds and square footage considered, for purposes of Medicare participation and payment, in effect on September 30, 1995.

* * * * *

4. Section 412.23 is amended by revising paragraphs (e)(3)(ii) and (e)(3)(iii) to read as follows:

§ 412.23 Excluded hospitals: Classifications.

* * * * *

(e) Long-term care hospitals. * * *

(3) Calculation of average length of stay. * * *

(ii) If a change in the hospital's Medicare average length of stay is indicated, the calculation is made by the same method for the period of at least 5 months of the immediately preceding 6-month period.

(iii) If a hospital has undergone a change of ownership (as described in § 489.18 of this chapter) at the start of a cost reporting period or at any time within the period of at least 5 months of the preceding 6-month period, the hospital may be excluded from the prospective payment system as a long-term care hospital for a cost reporting period if, for the period of at least 5 months of the 6 months immediately preceding the start of the period (including time before the change of ownership), the hospital has the required Medicare average length of stay, continuously operated as a hospital, and continuously participated as a hospital in Medicare.

* * * * *

§ 412.25 [Amended]

5. In § 412.25(e)(4), introductory text, the reference “paragraph (h)(3) of this section” is revised to read “paragraph (e)(3) of this section”.

6. Section 412.87 is amended by revising paragraph (b)(3) to read as follows:

§ 412.87 Additional payment for new medical services and technologies: General provisions.

* * * * *

(b) Eligibility criteria. * * *

(3) The DRG prospective payment rate otherwise applicable to discharges involving the medical service or technology is determined to be inadequate, based on application of a threshold amount to estimated charges incurred with respect to such discharges. To determine whether the payment would be adequate, CMS will determine whether the charges of the cases involving a new medical service or technology will exceed a threshold amount set at 75 percent of one standard deviation beyond the geometric mean standardized charge for all cases in the DRG to which the new medical service or technology is assigned (or the case-weighted average of all relevant DRGs if the new medical service or technology occurs in many different DRGs). Standardized charges reflect the actual charges of a case adjusted by the prospective payment system payment factors applicable to an individual hospital, such as the wage index, the indirect medical education adjustment factor, and the disproportionate share adjustment factor.

7. Section 412.105 is amended by—

A. In paragraph (a)(1), introductory text, revising the phrase “paragraph (f) of this section” to read “paragraphs (f) and (h) of this section”.

B. In paragraph (a)(1)(i), revising the phrase “affiliated groups” to read “Medicare GME affiliated groups”.

C. Revising paragraph (b).

D. Adding a sentence at the end of paragraph (f)(1)(v).

E. In paragraph (f)(1)(vi), revising the phrase “affiliated group” to read “Medicare GME affiliated group”.

F. Revising paragraph (f)(1)(x).

The revisions and additions read as follows:

§ 412.105 Special treatment: Hospitals that incur indirect costs for graduate medical education programs.

* * * * *

(b) Determination of number of beds. For purposes of this section, the number of beds in a hospital is determined by counting the number of available bed days during the cost reporting period and dividing that number by the number of days in the cost reporting period. This count excludes bed days associated with—

(1) Beds in any other units or wards where the level of care provided would not be payable under the acute care hospital inpatient prospective payment system;

(2) Beds in units unoccupied for the previous 3 months;

(3) Beds that could not be made available for inpatient occupancy within 24 hours.

(4) Beds in excluded distinct part hospital units;

(5) Beds otherwise countable under this section used for outpatient observation services (unless the patient is subsequently admitted for acute inpatient care), skilled nursing swing-bed services, or ancillary labor/delivery services;

(6) Beds or bassinets in the healthy newborn nursery; and

(7) Custodial care beds;

* * * * *

(f) Determining the total number of full-time equivalent residents for cost reporting periods beginning on or after July 1, 1991. (1) * * *

(v) * * * Subject to the provisions of paragraph (f)(1)(x) of this section, effective for cost reporting periods beginning on or after April 1, 2000, FTE residents in a rural track program are included in the urban hospital's rolling average calculation described in this paragraph (f)(1)(v).

* * * * *

(x) An urban hospital that establishes a new residency program (as defined in § 413.86(g)(13) of this subchapter), or has an existing residency program, with a rural track (or an integrated rural track) may include in its FTE count residents in those rural tracks in accordance with the applicable provisions of § 413.86(g)(12) of this subchapter effective for discharges occurring on or after April 1, 2002 and before October 1, 2003, and the applicable provisions of § 413.86(g)(12) of this subchapter effective for discharges occurring on or after October 1, 2003.

* * * * *

7. Section 412.106 is amended by revising paragraphs (a)(1)(ii) and (b)(4)(i) to read as follows:

§ 412.106 Special treatment: Hospitals that serve a disproportionate share of low-income patients.

(a) General considerations. (1) * * *

(ii) For purposes of this section, the number of patient days in a hospital includes only those days attributable to units or wards of the hospital providing acute care services generally payable under the prospective payment system and excludes patient days associated with—

(A) Beds in excluded distinct part hospital units;

(B) Beds otherwise countable under this section used for outpatient observation services (unless the patient is subsequently admitted for acute inpatient care), skilled nursing swing-bed services, or ancillary labor/delivery services; and

(C) Beds in any other units or wards where the level of care provided would not be payable under the acute care hospital inpatient prospective payment system.

* * * * *

(b) Determination of a hospital's disproportionate payment percentage. * * *

(4) Second computation. * * *

(i) For purposes of this computation, a patient is deemed eligible for Medicaid on a given day only if the patient is eligible for inpatient hospital services under an approved State Medicaid plan or under a waiver authorized under section 1115(a)(2) of the Act on that day, regardless of whether particular items or services were covered or paid under the State plan or the authorized waiver.

* * * * *

8. In § 412.112, the introductory text is republished and a new paragraph (d) is added to read as follows:

§ 412.112 Payments determined on a per case basis.

A hospital is paid the following amounts on a per case basis.

* * * * *

(d) Additional payments for new medical services and technologies determined under subpart F of this part.

9. Section 412.116 is amended by revising paragraph (e) to read as follows:

§ 412.116 Method of payment.

* * * * *

(e) Outlier payment and additional payments for new medical services and technologies. Payments for outlier cases and additional payments for new medical services and technologies (described in subpart F of this part) are not made on an interim basis. These payments are made based on submitted bills and represent final payment.

* * * * *

PART 413—PRINCIPLES OF REASONABLE COST REIMBURSEMENT; PAYMENT FOR END-STAGE RENAL DISEASE SERVICES; OPTIONAL PROSPECTIVELY DETERMINED PAYMENT RATES FOR SKILLED NURSING FACILITIES

1. The authority citation for part 413 is revised to read as follows:

Authority: Secs. 1102, 1812(d), 1814(b), 1815, 1833(a), (i), and (n), 1871, 1881, 1883, and 1886 of the Social Security Act (42 U.S.C. 1302, 1395d(d), 1395f(b), 1395g, 1395l(a), (i), and (n), 1395hh, 1395rr, 1395tt, and 1395ww).

2. Section 413.70 is amended by revising paragraph (b)(2)(iii), introductory text, to read as follows:

§ 413.70 Payment for services of a CAH.

* * * * *

(b) Payment for outpatient services furnished by CAH. * * *

(2) Reasonable costs for facility services. * * *

(iii) Payment for outpatient clinical diagnostic laboratory tests is not subject to the Medicare Part B deductible and coinsurance amounts. Payment to a CAH for clinical diagnostic laboratory tests will be made on a reasonable cost basis under this section only if the individuals are outpatients of the CAH, as defined in § 410.2 of this chapter, and are physically present in the CAH, at the time the specimens are collected. Clinical diagnostic laboratory tests performed for persons who are not physically present in the CAH when the specimens are collected will be made in accordance with the provisions of sections 1833(a)(1)(D) and 1833(a)(2)(D) of the Social Security Act.

* * * * *

3. Section 413.85 is amended by—

A. Adding under paragraph (c) a definition of “Certification” in alphabetical order.

B. Republishing the introductory text of paragraph (d)(1) and adding a new paragraph (d)(1)(iii).

C. Adding a new paragraph (g)(3).

D. Republishing the introductory text of paragraph (h) and revising paragraph (h)(3).

The addition and revision read as follows.

§ 413.85 Cost of approved nursing and allied health education activities.

* * * * *

(c) Definitions. * * *

Certification means the ability to practice or begin employment in a specialty as a whole.

* * * * *

(d) General payment rules. (1) Payment for a provider's net cost of nursing and allied health education activities is determined on a reasonable cost basis, subject to the following conditions and limitations:

* * * * *

(iii) The costs of certain nonprovider-operated programs at wholly owned subsidiary educational institutions are reimbursable on a reasonable cost basis if the provisions of paragraph (g)(3) of this section are met.

* * * * *

(g) Payments for certain nonprovider-operated programs. * * *

(3) Special rule: Payment for certain nonprovider-operated programs at wholly owned subsidiary educational institutions.

(i) Effective for portions of cost reporting periods occurring on or after October 1, 2003, a provider that incurs costs for a nursing or allied health education program(s) where those program(s) had originally been provider-operated according to the criteria at paragraph (f) of this section, and then operation of the program(s) was transferred to a wholly owned subsidiary educational institution in order to meet accreditation standards prior to October 1, 2003, and where the provider has continuously incurred the costs of both the classroom and clinical training portions of the program(s) at the educational institution, may receive reasonable cost payment for such a program(s) according to the specifications under paragraphs (g)(3)(ii) and (g)(3)(iii) of this section.

(ii) Payment for the incurred costs of educational activities identified in paragraph (g)(3)(i) of this section will be made on a reasonable cost basis if a provider, as described in paragraph (g)(3)(i) of this section, received Medicare reasonable cost payment for those nursing and allied health education program(s) both prior and subsequent to the date the provider transferred operation of the program(s) to its wholly owned subsidiary educational institution (and ceased to be a provider-operated program(s) according to the criteria under paragraph (f) of this section).

(iii) The provider that meets the requirements in paragraphs (g)(3)(i) and (g)(3)(ii) of this section will be eligible to receive payment under this paragraph for: (A) the clinical training costs incurred for the program(s) as described in paragraph (g)(3)(i) of this section; and (B) classroom costs, but only those costs incurred by the provider for the courses that were included in the programs described in paragraph (g)(3)(i) of this section.

(h) Activities treated as normal operating costs. The costs of the following educational activities incurred by a provider but not operated by that provider are recognized only as normal operating costs and paid in accordance with the reimbursement principles specified in part 412 of this subchapter. They include:

* * * * *

(3) Educational seminars, workshops, and continuing education programs in which the employees participate that enhance the quality of medical care or operating efficiency of the provider and, effective October 1, 2003, do not lead to certification required to practice or begin employment in a nursing or allied health specialty.

* * * * *

4. Section 413.86 is amended by—

A. Under paragraph (b)—

(1) Removing the definitions of “Affiliated group” and “Affiliation agreement”.

(2) Adding definitions of “Community support”, “Medicare GME affiliated agreement”, “Medicare GME affiliated group”, and “Redistribution of costs” in alphabetical order.

(3) Under the definition of “Rural track FTE limitation”, revising the phrase “paragraph (g)(11)” to read “paragraph (g)(12)”.

B. Revising the introductory text of paragraph (f).

C. Adding a new paragraph (f)(4)(iv).

D. In paragraph (g)(1)(i), revising the reference “paragraphs (g)(1)(ii) and (g)(1)(iii)” to read “paragraphs (g)(1)(ii) through (g)(1)(iv)”.

E. Revising the introductory text of paragraph (g)(4).

F. Revising paragraph (g)(4)(iv).

G. Revising the introductory text of paragraph (g)(5).

H. Adding a new paragraph (g)(5)(vii).

I. Revising paragraphs (g)(6)(i)(D) and (g)(6)(i)(E).

J. Revising paragraph (g)(7).

K. Revising the introductory text of paragraph(g)(12).

L. Revising paragraph (g)(12)(i).

M. Revising paragraph (g)(12)(ii), introductory text.

N. Revising paragraph (g)(12)(ii)(A).

O. Revising paragraph (g)(12)(ii)(B)(1)(i).

P. Revising paragraph (g)(12)(iii).

Q. Revising paragraph (g)(12)(iv), introductory text.

R. Revising paragraph (g)(12)(iv)(A).

S. Revising paragraph (g)(12)(iv)(B)(1).

T. Redesignating paragraphs (i) and (j) as paragraphs (j) and (k), respectively, and adding a new paragraph (i).

The additions and revisions read as follows:

§ 413.86 Direct graduate medical education payments.

* * * * *

(b) Definitions. * * *

Community support means funding that is provided by the community and generally includes all non-Medicare sources of funding (other than payments made for furnishing services to individual patients), including State and local government appropriations. Community support does not include grants, gifts, and endowments of the kind that are not to be offset in accordance with section 1134 of the Act.

* * * * *

Medicare GME affiliated group means—

(1) Two or more hospitals that are located in the same urban or rural area (as those terms are defined in § 412.62(f) of this subchapter) or in a contiguous area and meet the rotation requirements in paragraph (g)(7)(ii) of this section.

(2) Two or more hospitals that are not located in the same or in a contiguous urban or rural area, but meet the rotation requirement in paragraph (g)(7)(ii) of this section, and are jointly listed—

(i) As the sponsor, primary clinical site or major participating institution for one or more programs as these terms are used in the most current publication of the Graduate Medical Education Directory; or

(ii) As the sponsor or is listed under “affiliations and outside rotations” for one or more programs in operation in Opportunities, Directory of Osteopathic Postdoctoral Education Programs.

(3) Two or more hospitals that are under common ownership and, effective for all Medicare GME affiliation agreements beginning July 1, 2003, meet the rotation requirement in paragraph (g)(7)(ii) of this section.

Medicare GME affiliation agreement means a written, signed, and dated agreement by responsible representatives of each respective hospital in a Medicare GME affiliated group, as defined in this section, that specifies—

(1) The term of the Medicare GME affiliation agreement (which, at a minimum is one year), beginning on July 1 of a year;

(2) Each participating hospital's direct and indirect GME FTE caps in effect prior to the Medicare GME affiliation;

(3) The total adjustment to each hospital's FTE caps in each year that the Medicare GME affiliation agreement is in effect, for both direct GME and IME, that reflects a positive adjustment to one hospital's direct and indirect FTE caps that is offset by a negative adjustment to the other hospital's (or hospitals') direct and indirect FTE caps of at least the same amount;

(4) The adjustment to each participating hospital's FTE counts resulting from the FTE resident's (or residents') participation in a shared rotational arrangement at each hospital participating in the Medicare GME affiliated group for each year the Medicare GME affiliation agreement is in effect. This adjustment to each participating hospital's FTE count is also reflected in the total adjustment to each hospital's FTE caps (in accordance with paragraph (3) of this definition); and

(5) The names of the participating hospitals and their Medicare provider members.

* * * * *

Redistribution of costs means an attempt by a hospital to increase the amount it is allowed to receive from Medicare under this section by counting FTE residents that were in medical residency programs where the costs of the programs had previously been incurred by the educational institution.

* * * * *

(f) Determining the total number of FTE residents. Subject to the weighting factors in paragraphs (g) and (h) of this section, and subject to the provisions of paragraph (i) of this section, the count of FTE residents is determined as follows:

* * * * *

(4) * * *

(iv) The hospital is subject to the principles of community support and redistribution of costs as specified in the provisions of paragraph (i) of this section.

(g) Determining the weighted number of FTE residents.

* * * * *

(4) Subject to the provisions of paragraph (i) of this section, for purposes of determining direct graduate medical education payment—

* * * * *

(iv) Hospitals that are part of the same Medicare GME affiliated group (as described under paragraph (b) of this section) may elect to apply the limit on an aggregate basis as described under paragraph (g)(7) of this section.

* * * * *

(5) Subject to the provisions of paragraph (i) of this section, for purposes of determining direct graduate medical education payment—

* * * * *

(vii) Subject to the provisions under paragraph (g)(12) of this section, effective for cost reporting periods beginning on or after April 1, 2000, FTE residents in a rural track program at an urban hospital are included in the urban hospital's rolling average calculation described in paragraph (g)(5) of this section.

* * * * *

(6) * * *

(i) * * *

(D) An urban hospital that qualifies for an adjustment to its FTE cap under paragraph (g)(6)(i) of this section is not permitted to be part of a Medicare GME affiliated group for purposes of establishing an aggregate FTE cap.

(E) A rural hospital that qualifies for an adjustment to its FTE cap under paragraph (g)(6)(i) of this section is permitted to be part of a Medicare GME affiliated group for purposes of establishing an aggregate FTE cap.

* * * * *

(7) A hospital may receive a temporary adjustment to its FTE cap, which is subject to the averaging rules under paragraph (g)(5)(iii) of this section, to reflect residents added or subtracted because the hospital is participating in a Medicare GME affiliated group (as defined under paragraph (b) of this section). Under this provision—

(i) Each hospital in the Medicare GME affiliated group must submit the Medicare GME affiliation agreement, as defined under paragraph (b) of this section, to the CMS fiscal intermediary servicing the hospital and send a copy to CMS's Central Office no later than July 1 of the residency program year during which the Medicare GME affiliation agreement will be in effect.

(ii) Each hospital in the Medicare GME affiliated group must have a shared rotational arrangement, as defined in paragraph (b) of this section, with at least one other hospital within the Medicare GME affiliated group, and all of the hospitals within the Medicare GME affiliated group must be connected by a series of such shared rotational arrangements.

(iii) During the shared rotational arrangements under an Medicare GME affiliation agreement, as defined in paragraph (b) of this section, more than one of the hospitals in the Medicare GME affiliated group must count the proportionate amount of the time spent by the resident(s) in its FTE resident counts. No resident may be counted in the aggregate as more than one FTE.

(iv) The net effect of the adjustments (positive or negative) on the Medicare GME affiliated hospitals' aggregate FTE cap for each Medicare GME affiliation agreement must not exceed zero.

(v) If the Medicare GME affiliation agreement terminates for any reason, the FTE cap of each hospital in the Medicare GME affiliated group will revert to the individual hospital's pre-affiliation FTE cap that is determined under the provisions of paragraph (g)(4) of this section.

* * * * *

(12) Subject to the provisions of (i) of this section, an urban hospital that establishes a new residency program, or has an existing residency program, with a rural track (or an integrated rural track) may include in its FTE count residents in those rural tracks, in addition to the residents subject to its FTE cap specified under paragraph (g)(4) of this section. An urban hospital with a rural track residency program may count residents in those rural tracks up to a rural track FTE limitation if the hospital complies with the conditions specified in paragraphs (g)(12)(i) through (g)(12)(vi) of this section.

(i) If an urban hospital rotates residents to a separately accredited rural track program at a rural hospital(s) for two-thirds of the duration of the program for cost reporting periods beginning on or after April 1, 2000 and before October 1, 2003, or for more than one-half of the duration of the program for cost reporting periods beginning on or after October 1, 2003, the urban hospital may include those residents in its FTE count for the time the rural track residents spend at the urban hospital. The urban hospital may include in its FTE count those residents in the rural track training at the urban hospital, not to exceed its rural track FTE limitation, determined as follows:

(A) For the first 3 years of the rural track's existence, the rural track FTE limitation for each urban hospital will be the actual number of FTE residents, subject to the rolling average at paragraph (g)(5)(vii) of this section, training in the rural track at the urban hospital.

(B) Beginning with the fourth year of the rural track's existence, the rural track FTE limitation is equal to the product of the highest number of residents, in any program year, who during the third year of the rural track's existence are training in the rural track at the urban hospital or the rural hospital(s) and are designated at the beginning of their training to be rotated to the rural hospital(s) for at least two-thirds of the duration of the program for cost reporting periods beginning on or after April l, 2000 and before October 1, 2002, or for more than one-half of the duration of the program effective for cost reporting periods beginning on or after October 1, 2003, and the number of years those residents are training at the urban hospital.

(ii) If an urban hospital rotates residents to a separately accredited rural track program at a rural nonhospital site(s) for two-thirds of the duration of the program for cost reporting periods beginning on or after April 1, 2000 and before October 1, 2003, or for more than one-half of the duration of the program for cost reporting periods beginning on or after October 1, 2003, the urban hospital may include those residents in its FTE count, subject to the requirements under paragraph (f)(4) of this section. The urban hospital may include in its FTE count those residents in the rural track, not to exceed its rural track FTE limitation, determined as follows:

(A) For the first 3 years of the rural track's existence, the rural track FTE limitation for each urban hospital will be the actual number of FTE residents, subject to the rolling average specified in paragraph (g)(5)(vii) of this section, training in the rural track at the urban hospital and the rural nonhospital site(s).

(B) * * *

(1) * * *

(i) The urban hospital and are designated at the beginning of their training to be rotated to a rural nonhospital site(s) for at least two-thirds of the duration of the program for cost reporting periods beginning on or after April 1, 2000 and before October 1, 2003, or for more than one-half of the duration of the program for cost reporting periods beginning on or after October 1, 2003; and

* * * * *

(iii) If an urban hospital rotates residents in the rural track program to a rural hospital(s) for less than two-thirds of the duration of the program for cost reporting periods beginning on or after April 1, 2000 and before October 1, 2003, or for one-half or less than one-half of the duration of the program for cost reporting periods beginning on or after October 1, 2003, the rural hospital may not include those residents in its FTE count (if the rural track is not a new program under paragraph (g)(6)(iii) of this section, or if the rural hospital's FTE count exceeds that hospital's FTE cap), nor may the urban hospital include those residents when calculating its rural track FTE limitation.

(iv) If an urban hospital rotates residents in the rural track program to a rural nonhospital site(s) for period of time is less than two-thirds of the duration of the program for cost reporting periods beginning on or after April 1, 2000 and before October 1, 2003, or for one-half or less than one-half of the duration of the program for cost reporting periods beginning on or after October 1, 2003, the urban hospital may include those residents in its FTE count, subject to the requirements under paragraph (f)(4) of this section. The urban hospital may include in its FTE count those residents in the rural track, not to exceed its rural track limitation, determined as follows:

(A) For the first 3 years of the rural track's existence, the rural track FTE limitation for the urban hospital will be the actual number of FTE residents, subject to the rolling average specified in paragraph (g)(5)(vii) of this section, training in the rural track at the rural nonhospital site(s).

(B) * * *

(1) The highest number of residents in any program year who, during the third year of the rural track's existence, are training in the rural track at the rural nonhospital site(s) or are designated at the beginning of their training to be rotated to the rural nonhospital site(s) for a period that is less than two-thirds of the duration of the program for cost reporting periods beginning on or after April 1, 2002, and before October 1, 2003, or for one-half or less than one-half of the duration of the program for cost reporting periods beginning on or after October 1, 2003; and

* * * * *

(i) Application of community support and redistribution of costs in determining FTE resident counts.

(1) For purposes of determining direct graduate medical education payments, the following principles apply:

(i) Community support. If the community has undertaken to bear the costs of medical education through community support, the costs are not considered graduate medical education costs to the hospital for purposes of Medicare payment.

(ii) Redistribution of costs. The costs of training residents that constitute a redistribution of costs from an educational institution to the hospital are not considered graduate medical education costs to the hospital for purposes of Medicare payment.

(2) Application. A hospital must continuously incur the costs of direct graduate medical education of residents training in a particular program at a training site since the date the residents first began training in that program in order for the hospital to count the FTE residents in accordance with the provisions of paragraphs (f) and (g)(4) through (g)(6) and (g)(12) of this section.

* * * * *

(Catalog of Federal Domestic Assistance Program No. 93.773, Medicare—Hospital Insurance)
Dated: April 22, 2003.
Thomas A. Scully,
Administrator, Centers for Medicare & Medicaid Services
Dated: May 8, 2003.
Tommy G. Thompson,
Secretary.

[Editorial Note: The following Addendum and appendixes will not appear in the Code of Federal Regulations.]

Addendum—Proposed Schedule of Standardized Amounts Effective with Discharges Occurring On or After October 1, 2003 and Update Factors and Rate-of-Increase Percentages Effective With Cost Reporting Periods Beginning On or After October 1, 2003

I. Summary and Background

In this Addendum, we are setting forth the proposed amounts and factors for determining prospective payment rates for Medicare hospital inpatient operating costs and Medicare hospital inpatient capital-related costs. We are also setting forth proposed rate-of-increase percentages for updating the target amounts for hospitals and hospital units excluded from the IPPS.

For discharges occurring on or after October 1, 2003, except for SCHs, MDHs, and hospitals located in Puerto Rico, each hospital's payment per discharge under the IPPS will be based on 100 percent of the Federal national rate, which will be based on the national adjusted standardized amount. This amount reflects the national average hospital costs per case from a base year, updated for inflation.

SCHs are paid based on whichever of the following rates yields the greatest aggregate payment: The Federal national rate; the updated hospital-specific rate based on FY 1982 costs per discharge; the updated hospital-specific rate based on FY 1987 costs per discharge; or the updated hospital-specific rate based on FY 1996 costs per discharge.

Under section 1886(d)(5)(G) of the Act, MDHs are paid based on the Federal national rate or, if higher, the Federal national rate plus 50 percent of the difference between the Federal national rate and the updated hospital-specific rate based on FY 1982 or FY 1987 costs per discharge, whichever is higher. MDHs do not have the option to use their FY 1996 hospital-specific rate.

For hospitals in Puerto Rico, the payment per discharge is based on the sum of 50 percent of a Puerto Rico rate reflecting base year average costs per case of Puerto Rico hospitals and 50 percent of a blended Federal national rate (a discharge-weighted average of the national large urban and other areas standardized amounts). (See section II.D.3. of this Addendum for a complete description.)

As discussed below in section II. of this Addendum, we are proposing to make changes in the determination of the prospective payment rates for Medicare inpatient operating costs for FY 2004. The changes, to be applied prospectively effective with discharges occurring on or after October 1, 2003, affect the calculation of the Federal rates. In section III. of this Addendum, we discuss our proposed changes for determining the prospective payment rates for Medicare inpatient capital-related costs for FY 2004. Section IV. of this Addendum sets forth our proposed changes for determining the rate-of-increase limits for hospitals excluded from the IPPS for FY 2004. Section V. of this Addendum sets forth policies on payment for blood clotting factor administered to hemophilia patients. The tables to which we refer in the preamble to this proposed rule are presented in section VI. of this Addendum.

II. Proposed Changes to Prospective Payment Rates for Hospital Inpatient Operating Costs for FY 2004

The basic methodology for determining prospective payment rates for hospital inpatient operating costs is set forth at § 412.63. The basic methodology for determining the prospective payment rates for hospital inpatient operating costs for hospitals located in Puerto Rico is set forth at §§ 412.210 and 412.212. Below, we discuss the factors used for determining the prospective payment rates.

In summary, the proposed standardized amounts set forth in Tables 1A and 1C of section VI. of this Addendum reflect—

• Updates of 3.5 percent for all areas (that is, the full market basket percentage increase of 3.5 percent);

• An adjustment to ensure the proposed DRG recalibration and wage index update and changes, as well as the add-on payments for new technology, are budget neutral, as provided for under sections 1886(d)(4)(C)(iii) and (d)(3)(E) of the Act, by applying new budget neutrality adjustment factors to the large urban and other standardized amounts;

• An adjustment to ensure the effects of geographic reclassification are budget neutral, as provided for in section 1886(d)(8)(D) of the Act, by removing the FY 2003 budget neutrality factor and applying a revised factor;

• An adjustment to apply the new outlier offset by removing the FY 2003 outlier offsets and applying a new offset.

A. Calculation of Adjusted Standardized Amounts

1. Standardization of Base-Year Costs or Target Amounts

The national standardized amounts are based on per discharge averages of adjusted hospital costs from a base period (section 1886(d)(2)(A) of the Act) or, for Puerto Rico, adjusted target amounts from a base period (section 1886(d)(9)(B)(i) of the Act), updated and otherwise adjusted in accordance with the provisions of section 1886(d) of the Act. The preamble to the September 1, 1983 interim final rule (48 FR 39763) contained a detailed explanation of how base-year cost data (from cost reporting periods ending during FY 1981) were established in the initial development of standardized amounts for the IPPS. The September 1, 1987 final rule (52 FR 33043, 33066) contains a detailed explanation of how the target amounts were determined and how they are used in computing the Puerto Rico rates.

Sections 1886(d)(2)(B) and (d)(2)(C) of the Act require us to update base-year per discharge costs for FY 1984 and then standardize the cost data in order to remove the effects of certain sources of cost variations among hospitals. These effects include case-mix, differences in area wage levels, cost-of-living adjustments for Alaska and Hawaii, indirect medical education costs, and costs to hospitals serving a disproportionate share of low-income patients.

Under sections 1886(d)(2)(H) and (d)(3)(E) of the Act, in making payments under the IPPS, the Secretary estimates from time to time the proportion of costs that are wages and wage-related costs. Based on the estimated labor-related share, the standardized amounts are divided into labor-related and nonlabor-related amounts. As discussed in section IV. of the preamble to the August 1, 2002 IPPS final rule, when we revised the market basket in FY 2003, we did not revise the labor share of the standardized amount (the proportion adjusted by the wage index). We consider 71.1 percent of costs to be labor-related for purposes of the IPPS. The average labor share in Puerto Rico is 71.3 percent.

2. Computing Large Urban and Other Area Average Standardized Amounts

Sections 1886(d)(2)(D) and (d)(3) of the Act require the Secretary to compute two average standardized amounts for discharges occurring in a fiscal year: one for hospitals located in large urban areas and one for hospitals located in other areas. In addition, under sections 1886(d)(9)(B)(iii) and (d)(9)(C)(i) of the Act, the average standardized amount per discharge must be determined for hospitals located in large urban and other areas in Puerto Rico. In accordance with section 1886(b)(3)(B)(i) of the Act, the large urban average standardized amount is 1.6 percent higher than the other area average standardized amount.

Section 402(b) of Pub. L. 108-7 required that, effective for discharges occurring on or after April 1, 2003, and before October 1, 2003, the Federal rate for all IPPS hospitals would be based on the large urban standardized amount. However, for discharges occurring on or after October 1, 2003, the Federal rate will again be calculated based on separate average standardized amounts for hospitals in large urban areas and for hospitals in other areas.

Section 1886(d)(2)(D) of the Act defines “urban area” as those areas within a Metropolitan Statistical Area (MSA). A “large urban area” is defined as an urban area with a population of more than 1 million. In addition, section 4009(i) of Pub. L. 100-203 provides that a New England County Metropolitan Area (NECMA) with a population of more than 970,000 is classified as a large urban area. As required by section 1886(d)(2)(D) of the Act, population size is determined by the Secretary based on the latest population data published by the Bureau of the Census. Urban areas that do not meet the definition of a “large urban area” are referred to as “other urban areas.” Areas that are not included in MSAs are considered “rural areas” under section 1886(d)(2)(D) of the Act. Payment for discharges from hospitals located in large urban areas will be based on the large urban standardized amount. Payment for discharges from hospitals located in other urban and rural areas will be based on the other standardized amount.

Based on the latest available population estimates published by the Bureau of the Census, 63 areas meet the criteria to be defined as large urban areas for FY 2004. These areas are identified in Table 4A of section VI. of this Addendum.

3. Updating the Average Standardized Amounts

In accordance with section 1886(d)(3)(A)(iv) of the Act, we are proposing to update the large urban areas' and the other areas' average standardized amounts for FY 2004 by the full estimated market basket percentage increase for hospitals in all areas, as specified in section 1886(b)(3)(B)(i)(XIX) of the Act. The percentage change in the market basket reflects the average change in the price of goods and services purchased by hospitals to furnish inpatient care. The most recent forecast of the hospital market basket increase for FY 2004 is 3.5 percent. Thus, for FY 2004, the update to the average standardized amounts equals 3.5 percent for hospitals in all areas.

Although the update factors for FY 2004 are set by law, we are required by section 1886(e)(3) of the Act to report to the Congress our initial recommendation of update factors for FY 2004 for both IPPS hospitals and hospitals excluded from the IPPS. Our proposed recommendation on the update factors (which is required by sections 1886(e)(4)(A) and (e)(5)(A) of the Act) is set forth as Appendix B of this proposed rule.

4. Other Adjustments to the Average Standardized Amounts

As in the past, we are proposing to adjust the FY 2004 standardized amounts to remove the effects of the FY 2003 geographic reclassifications and outlier payments before applying the FY 2004 updates. We then apply the new offsets to the standardized amounts for outliers and geographic reclassifications for FY 2004.

We do not remove the prior years' budget neutrality adjustment because, in accordance with section 1886(d)(4)(C)(iii) of the Act, estimated aggregate payments after the changes in the DRG relative weights and wage index should equal estimated aggregate payments prior to the changes. If we removed the prior year adjustment, we would not satisfy this condition.

Budget neutrality is determined by comparing aggregate IPPS payments before and after making the changes that are required to be budget neutral (for example, reclassifying and recalibrating the DRGs, updating the wage data, and geographic reclassifications). We include outlier payments in the payment simulations because outliers may be affected by changes in these payment parameters. Because the proposed changes to the postacute care transfer policy discussed in section IV.A. of this preamble are not budget neutral, we included the effects of expanding this policy to additional DRGs prior to estimating the payment effects of the DRG and wage data changes.

a. Recalibration of DRG Weights and Updated Wage Index—Budget Neutrality Adjustment. Section 1886(d)(4)(C)(iii) of the Act specifies that, beginning in FY 1991, the annual DRG reclassification and recalibration of the relative weights must be made in a manner that ensures that aggregate payments to hospitals are not affected. As discussed in section II. of the preamble, we normalized the recalibrated DRG weights by an adjustment factor, so that the average case weight after recalibration is equal to the average case weight prior to recalibration. However, equating the average case weight after recalibration to the average case weight before recalibration does not necessarily achieve budget neutrality with respect to aggregate payments to hospitals because payments to hospitals are affected by factors other than average case weight. Therefore, as we have done in past years, we are proposing to make a budget neutrality adjustment to ensure that the requirement of section 1886(d)(4)(C)(iii) of the Act is met.

Section 1886(d)(3)(E) of the Act requires us to update the hospital wage index on an annual basis beginning October 1, 1993. This provision also requires us to make any updates or adjustments to the wage index in a manner that ensures that aggregate payments to hospitals are not affected by the change in the wage index.

Section 4410 of Pub. L. 105-33 provides that, for discharges on or after October 1, 1997, the area wage index applicable to any hospital that is not located in a rural area may not be less than the area wage index applicable to hospitals located in rural areas in that State. This provision is required by section 4410(b) of Pub. L. 105-33 to be budget neutral. Therefore, we include the effects of this provision in our calculation of the wage update budget neutrality factor.

In addition, we are required to ensure that any add-on payments for new technology under section 1886(d)(5)(K) of the Act are budget neutral. As discussed in section II.E. of this proposed rule, we are proposing to approve one new technology for add-on payments in FY 2004. We estimate that the proposed total add-on payments for this new technology would be $50 million for FY 2004.

To comply with the requirement that DRG reclassification and recalibration of the relative weights be budget neutral, and the requirement that the updated wage index be budget neutral, we used FY 2002 discharge data to simulate payments and compared aggregate payments using the FY 2003 relative weights, wage index, and new technology add-on payments to aggregate payments using the proposed FY 2004 relative weights and wage index, plus the proposed additional add-on payments for new technology. The same methodology was used for the FY 2003 budget neutrality adjustment.

Based on this comparison, we computed a proposed budget neutrality adjustment factor equal to 1.003133. We also adjust the Puerto Rico-specific standardized amounts for the effect of DRG reclassification and recalibration. We computed a proposed budget neutrality adjustment factor for Puerto Rico-specific standardized amounts equal to 1.000627. These budget neutrality adjustment factors are applied to the standardized amounts without removing the effects of the FY 2003 budget neutrality adjustments.

In addition, we are proposing to apply these same adjustment factors to the hospital-specific rates that are effective for cost reporting periods beginning on or after October 1, 2003. (See the discussion in the September 4, 1990 final rule (55 FR 36073).)

b. Reclassified Hospitals—Budget Neutrality Adjustment. Section 1886(d)(8)(B) of the Act provides that, effective with discharges occurring on or after October 1, 1988, certain rural hospitals are deemed urban. In addition, section 1886(d)(10) of the Act provides for the reclassification of hospitals based on determinations by the MGCRB. Under section 1886(d)(10) of the Act, a hospital may be reclassified for purposes of the standardized amount or the wage index, or both.

Under section 1886(d)(8)(D) of the Act, the Secretary is required to adjust the standardized amounts so as to ensure that aggregate payments under the IPPS after implementation of the provisions of sections 1886(d)(8)(B) and (C) and 1886(d)(10) of the Act are equal to the aggregate prospective payments that would have been made absent these provisions. To calculate this budget neutrality factor, we used FY 2002 discharge data to simulate payments, and compared total IPPS payments prior to any reclassifications to total IPPS payments after reclassifications. Based on these simulations, we are proposing to apply an adjustment factor of 0.991848 to ensure that the effects of reclassification are budget neutral.

The proposed adjustment factor is applied to the standardized amounts after removing the effects of the FY 2003 budget neutrality adjustment factor. We note that the proposed FY 2004 adjustment reflects proposed FY 2004 wage index and standardized amount reclassifications approved by the MGCRB or the Administrator as of February 28, 2003, and the effects of section 1886(d)(10)(D)(v) of the Act to extend wage index reclassifications for 3 years. The effects of any additional reclassification changes that occur as a result of appeals and reviews of the MGCRB decisions for FY 2004 or from a hospital's request for the withdrawal of a reclassification for FY 2004 will be reflected in the final budget neutrality adjustment required under section 1886(d)(8)(D) of the Act and published in the IPPS final rule for FY 2004.

c. Outliers. Section 1886(d)(5)(A) of the Act provides for payments in addition to the basic prospective payments, for “outlier” cases, that is, cases involving extraordinarily high costs. To qualify for outlier payments, a case must have costs above a fixed-loss cost threshold amount (a dollar amount by which the costs of a case must exceed payments in order to qualify for outlier payment). To determine whether the costs of a case exceed the fixed-loss threshold, a hospital's cost-to-charge ratio is applied to the total covered charges for the case to convert the charges to costs. Payments for eligible cases are then made based on a marginal cost factor, which is a percentage of the costs above the threshold.

Under section 1886(d)(5)(A)(iv) of the Act, outlier payments for any year must be projected to be not less than 5 percent nor more than 6 percent of total operating DRG payments plus outlier payments. Section 1886(d)(3)(B) of the Act requires the Secretary to reduce the average standardized amounts by a factor to account for the estimated proportion of total DRG payments made to outlier cases. Similarly, section 1886(d)(9)(B)(iv) of the Act requires the Secretary to reduce the average standardized amounts applicable to hospitals in Puerto Rico to account for the estimated proportion of total DRG payments made to outlier cases.

i. FY 2004 outlier fixed-loss cost threshold. In the August 1, 2002 IPPS final rule (67 FR 50124), we established a threshold for FY 2003 that was equal to the prospective payment rate for the DRG, plus any IME and DSH payments and any additional payments for new technology, plus $33,560. The marginal cost factor (the percent of costs paid after costs for the case exceed the threshold) was 80 percent.

In the March 5, 2003 Federal Register (67 FR 10420), we published proposed changes to our outlier policy. We noted recent analyses indicate that some hospitals have taken advantage of our existing outlier payment methodology to maximize their outlier payments. Therefore, we proposed three central changes to our outlier policy in the March 5, 2003 proposed rule.

The first of the proposed changes was that fiscal intermediaries would use more up-to-date data when determining the cost-to-charge ratio for each hospital. Currently, fiscal intermediaries use the hospital's most recent settled cost report. We proposed to revise our regulations to specify that fiscal intermediaries would use either the most recent settled or the most recent tentative settled cost report, whichever is from the latest reporting period.

The second proposed change was to remove the current requirement in our regulations specifying that a fiscal intermediary will assign a hospital the statewide average cost-to-charge ratio when the hospital has a cost-to-charge ratio that falls below established thresholds (3 standard deviations below the national geometric mean cost-to-charge ratio). We proposed that hospitals would receive their actual cost-to-charge ratios no matter how low their ratios actually fall.

The third proposal was to add a provision to our regulations to provide that the outlier payments for some hospitals may become subject to reconciliation when the hospitals' cost reports are settled. In addition, outlier payments would be subject to an adjustment to account for the time value of any outlier overpayments or underpayments that are ultimately reconciled.

However, as of the time this FY 2004 proposed rule was prepared, these proposed changes to the outlier policy had not been finalized. Therefore, the proposed changes have not been factored into the calculation of the proposed FY 2004 fixed-loss threshold. If these changes are made final prior to (or as part of) the publication of the final FY 2004 fixed-loss threshold, they will be reflected in the analysis used to establish the final FY 2004 threshold.

To calculate the proposed FY 2004 outlier thresholds, we simulated payments by applying proposed FY 2004 rates and policies using cases from the FY 2002 MedPAR file. Therefore, in order to determine the appropriate proposed FY 2003 threshold, it was necessary to inflate the charges on the MedPAR claims by 2 years, from FY 2002 to FY 2004.

As discussed in the August 1, 2002 IPPS final rule (67 FR 50124), rather than use the rate-of-cost increase from hospitals' FY 1998 and FY 1999 cost reports to project the rate of increase from FY 2001 to FY 2003, as had been done in prior years, we used a 2-year average annual rate of change in charges per case to calculate the FY 2003 outlier threshold.

We are proposing to continue to use a 2-year average annual rate of change in charges per case to establish the proposed FY 2004 threshold. The 2-year average annual rate of change in charges per case from FY 2000 to FY 2001, and from FY 2001 to FY 2002, was 12.8083 percent annually, or 27.3 percent over 2 years.

Using the methodology above for setting the charge inflation factors for FY 2004, we are proposing to establish a fixed-loss cost outlier threshold equal to the prospective payment rate for the DRG, plus any IME and DSH payments, and any add-on payments for new technology, plus $50,645.

This single threshold would be applicable to qualify for both operating and capital outlier payments. We also are proposing to maintain the marginal cost factor for cost outliers at 80 percent.

Again, any final rule subsequent to the March 5, 2003 proposed rule that implements changes to the outlier payment methodology is likely to affect how we will calculate the final FY 2004 outlier threshold. Therefore, the final FY 2004 threshold is likely to be different from this proposed threshold, as a result of any changes subsequent to the March 5, 2003 proposed rule. For example, if we were to implement the proposal to no longer apply the statewide average cost-to-charge ratio when hospitals' actual ratios fall below the established threshold (see below), this change would impact our calculation of the threshold.

ii. Other changes concerning outliers. As stated in the September 1, 1993 final rule (58 FR 46348), we establish outlier thresholds that are applicable to both hospital inpatient operating costs and hospital inpatient capital-related costs. When we modeled the combined operating and capital outlier payments, we found that using a common set of thresholds resulted in a higher percentage of outlier payments for capital-related costs than for operating costs. We project that the proposed thresholds for FY 2004 would result in outlier payments equal to 5.1 percent of operating DRG payments and 5.5 percent of capital payments based on the Federal rate.

In accordance with section 1886(d)(3)(B), we reduced the proposed FY 2004 standardized amounts by the same percentage to account for the projected proportion of payments paid to outliers. The proposed outlier adjustment factors to be applied to the standardized amounts for FY 2004 are as follows:

| Operating standardized amounts | Capital federal rate
National | 0.948981 | 0.945484
Puerto Rico | 0.981549 | 0.984490

We apply the outlier adjustment factors after removing the effects of the FY 2003 outlier adjustment factors on the standardized amounts.

To determine whether a case qualifies for outlier payments, we apply hospital-specific cost-to-charge ratios to the total covered charges for the case. Operating and capital costs for the case are calculated separately by applying separate operating and capital cost-to-charge ratios. These costs are then combined and compared with the fixed-loss outlier threshold.

Once again, although a final rule subsequent to the March 5, 2003 proposed rule on outliers may be published before (or as part of) the FY 2004 IPPS final rule, we are proposing changes for FY 2004 without taking the proposals contained in the March 5, 2003 proposed rule into account at this time.

For those hospitals for which the fiscal intermediary computes operating cost-to-charge ratios lower than 0.194 or greater than 1.223, or capital cost-to-charge ratios lower than 0.012 or greater than 0.163, we are proposing statewide average ratios would be used to calculate costs to determine whether a hospital qualifies for outlier payments.⁷ Table 8A in section VI. of this Addendum contains the proposed statewide average operating cost-to-charge ratios for urban hospitals and for rural hospitals for which the fiscal intermediary is unable to compute a hospital-specific cost-to-charge ratio within the above range. These proposed statewide average ratios would replace the ratios published in the August 1, 2002 IPPS final rule (67 FR 50263). Table 8B in section VI. of this Addendum contains the proposed comparable statewide average capital cost-to-charge ratios. Again, the cost-to-charge ratios in Tables 8A and 8B would be used during FY 2004 when hospital-specific cost-to-charge ratios based on the latest settled cost report are either not available or are outside the range noted above.

⁷ This range represents 3.0 standard deviations (plus or minus) from the mean of the log distribution of cost-to-charge ratios for all hospitals.

iii. FY 2002 and FY 2003 outlier payments. In the August 1, 2002 IPPS final rule (67 FR 50125), we stated that, based on available data, we estimated that actual FY 2002 outlier payments would be approximately 6.9 percent of actual total DRG payments. This estimate was computed based on simulations using the FY 2001 MedPAR file (discharge data for FY 2001 bills). That is, the estimate of actual outlier payments did not reflect actual FY 2002 bills but instead reflected the application of FY 2002 rates and policies to available FY 2001 bills.

Our current estimate, using available FY 2002 bills, is that actual outlier payments for FY 2002 were approximately 7.9 percent of actual total DRG payments. Thus, the data indicate that, for FY 2002, the percentage of actual outlier payments relative to actual total payments is higher than we projected before FY 2002 (and thus exceeds the percentage by which we reduced the standardized amounts for FY 2002). Nevertheless, consistent with the policy and statutory interpretation we have maintained since the inception of the IPPS, we do not plan to make retroactive adjustments to outlier payments to ensure that total outlier payments for FY 2002 are equal to 5.1 percent of total DRG payments.

We currently estimate that actual outlier payments for FY 2003 will be approximately 5.5 percent of actual total DRG payments, 0.4 percentage points higher than the 5.1 percent we projected in setting outlier policies for FY 2003. This estimate is based on simulations using the FY 2002 MedPAR file (discharge data for FY 2002 bills). We used these data to calculate an estimate of the actual outlier percentage for FY 2003 by applying FY 2003 rates and policies including an outlier threshold of $33,560 to available FY 2002 bills. If changes to the outlier payment methodology are made effective during FY 2003, these may affect the actual percentage of FY 2003 outlier payments.

5. FY 2004 Standardized Amounts

The adjusted standardized amounts are divided into labor and nonlabor portions. Table 1A in section VI. of this Addendum contains the two national standardized amounts that we are proposing will be applicable to all hospitals, except hospitals in Puerto Rico. As described in section II.A.1. of this Addendum, we are not proposing to revise the labor share of the national standardized amount from 71.1 percent.

The following table illustrates the proposed changes from the FY 2003 national average standardized amounts. The first row in the table shows the updated (through FY 2003) average standardized amounts after restoring the FY 2003 offsets for outlier payments and geographic reclassification budget neutrality. The DRG reclassification and recalibration and wage index budget neutrality factor is cumulative. Therefore, the FY 2003 factor is not removed from the amounts in the table.

| Large urban | Other Areas
FY 2003 Base Rate (after removing reclassification budget neutrality and outlier offset) | Labor $3,212.32 Nonlabor 1,276.01 | Labor $3,161.41) Nonlabor 1,285.01
Proposed FY 2004 Update Factor | 1.035 | 1.035
Proposed FY 2004 DRG Recalibrations and Wage Index Budget Neutrality Factor | 1.003133 | 1.003133
Proposed FY 2004 Reclassification Budget Neutrality Factor | 0.991848 | 0.991848
Proposed FY 2004 Outlier Factor | 0.948997 | 0.948997
Proposed Rate for FY 2004 (after multiplying FY 2003 base rate by above factors) | Labor $3,139.26 Nonlabor 1,276.01 | Labor $3,089.56 Nonlabor 1,255.81

Under section 1886(d)(9)(A)(ii) of the Act, the Federal portion of the Puerto Rico payment rate is based on the discharge-weighted average of the national large urban standardized amount and the national other standardized amount (as set forth in Table 1A). The labor and nonlabor portions of the national average standardized amounts for Puerto Rico hospitals are set forth in Table 1C of section VI. of this Addendum. This table also includes the Puerto Rico standardized amounts. The labor share applied to the Puerto Rico standardized amount is 71.3 percent.

B. Adjustments for Area Wage Levels and Cost-of-Living

Tables 1A and 1C, as set forth in section VI. of this Addendum, contain the labor-related and nonlabor-related shares that we are proposing to use to calculate the prospective payment rates for hospitals located in the 50 States, the District of Columbia, and Puerto Rico. This section addresses two types of adjustments to the standardized amounts that are made in determining the proposed prospective payment rates as described in this Addendum.

1. Adjustment for Area Wage Levels

Sections 1886(d)(3)(E) and 1886(d)(9)(C)(iv) of the Act require that we make an adjustment to the labor-related portion of the national and Puerto Rico prospective payment rates, respectively, to account for area differences in hospital wage levels. This adjustment is made by multiplying the labor-related portion of the adjusted standardized amounts by the appropriate wage index for the area in which the hospital is located. In section III. of this preamble, we discuss the data and methodology for the proposed FY 2004 wage index. The proposed FY 2004 wage index is set forth in Tables 4A, 4B, 4C, and 4F of section VI. of this Addendum.

2. Adjustment for Cost-of-Living in Alaska and Hawaii

Section 1886(d)(5)(H) of the Act authorizes an adjustment to take into account the unique circumstances of hospitals in Alaska and Hawaii. Higher labor-related costs for these two States are taken into account in the adjustment for area wages described above. For FY 2004, we are proposing to adjust the payments for hospitals in Alaska and Hawaii by multiplying the nonlabor portion of the standardized amounts by the appropriate adjustment factor contained in the table below. If the Office of Personnel Management releases revised cost-of-living adjustment factors before July 1, 2003, we will publish them in the final rule and use them in determining FY 2004 payments.

Table of Cost-of-Living Adjustment Factors, Alaska and Hawaii Hospitals
¢ |
Alaska—All areas | 1.25
Hawaii:
County of Honolulu | 1.25
County of Hawaii | 1.165
County of Kauai | 1.2325
County of Maui | 1.2375
County of Kalawao | 1.2375

(The above factors are based on data obtained from the U.S. Office of Personnel Management.)

C. DRG Relative Weights

As discussed in section II. of the preamble, we have developed a classification system for all hospital discharges, assigning them into DRGs, and have developed relative weights for each DRG that reflect the resource utilization of cases in each DRG relative to Medicare cases in other DRGs. Table 5 of section VI. of this Addendum contains the relative weights that we are proposing to use for discharges occurring in FY 2004. These factors have been recalibrated as explained in section II. of the preamble.

D. Calculation of Proposed Prospective Payment Rates for FY 2004

General Formula for Calculation of Proposed Prospective Payment Rates for FY 2004

The proposed operating prospective payment rate for all hospitals paid under the IPPS located outside of Puerto Rico, except SCHs and MDHs, equals the Federal rate based on the proposed amounts in Table 1A in section VI. of this Addendum.

The proposed prospective payment rate for SCHs equals the higher of the proposed applicable Federal rate from Table 1A or the hospital-specific rate as described below. The proposed prospective payment rate for MDHs equals the higher of the Federal rate, or the Federal rate plus 50 percent of the difference between the Federal rate and the hospital-specific rate as described below. The proposed prospective payment rate for Puerto Rico equals 50 percent of the Puerto Rico rate plus 50 percent of the proposed national rate from Table 1C in section VI. of this Addendum.

1. Federal Rate

For discharges occurring on or after October 1, 2003 and before October 1, 2004, except for SCHs, MDHs, and hospitals in Puerto Rico, payment under the IPPS is based exclusively on the Federal rate.

The Federal rate is determined as follows:

Step 1—Select the appropriate average standardized amount considering the location of the hospital (large urban or other) (see Table 1A in section VI. of this Addendum).

Step 2—Multiply the labor-related portion of the standardized amount by the applicable wage index for the geographic area in which the hospital is located or the area to which the hospital is reclassified (see Tables 4A, 4B, and 4C of section VI. of this Addendum).

Step 3—For hospitals in Alaska and Hawaii, multiply the nonlabor-related portion of the standardized amount by the appropriate cost-of-living adjustment factor.

Step 4—Add the amount from Step 2 and the nonlabor-related portion of the standardized amount (adjusted, if appropriate, under Step 3).

Step 5—Multiply the final amount from Step 4 by the relative weight corresponding to the appropriate DRG (see Table 5 of section VI. of this Addendum).

The Federal rate as determined in Step 5 may then be further adjusted if the hospital qualifies for either the IME or DSH adjustment.

2. Hospital-Specific Rate (Applicable Only to SCHs and MDHs)

a. Calculation of Hospital-Specific Rate. Section 1886(b)(3)(C) of the Act provides that SCHs are paid based on whichever of the following rates yields the greatest aggregate payment: the Federal rate; the updated hospital-specific rate based on FY 1982 costs per discharge; the updated hospital-specific rate based on FY 1987 costs per discharge; or the updated hospital-specific rate based on FY 1996 costs per discharge.

Section 1886(d)(5)(G) of the Act provides that MDHs are paid based on whichever of the following rates yields the greatest aggregate payment: the Federal rate or the Federal rate plus 50 percent of the difference between the Federal rate and the greater of the updated hospital-specific rates based on either FY 1982 or FY 1987 costs per discharge. MDHs do not have the option to use their FY 1996 hospital-specific rate.

Hospital-specific rates have been determined for each of these hospitals based on either the FY 1982 costs per discharge, the FY 1987 costs per discharge or, for SCHs, the FY 1996 costs per discharge. For a more detailed discussion of the calculation of the hospital-specific rates, we refer the reader to the September 1, 1983 interim final rule (48 FR 39772); the April 20, 1990 final rule with comment (55 FR 15150); the September 4, 1990 final rule (55 FR 35994); and the August 1, 2000 final rule (65 FR 47082). In addition, for both SCHs and MDHs, the hospital-specific rate is adjusted by the proposed budget neutrality adjustment factor (that is, by 1.003133) as discussed in section II.A.4.a. of this Addendum. The resulting rate would be used in determining the payment rate an SCH or MDH would receive for its discharges beginning on or after October 1, 2003.

b. Updating the FY 1982, FY 1987, and FY 1996 Hospital-Specific Rates for FY 2004. We are proposing to increase the hospital-specific rates by 3.5 percent (the hospital market basket percentage) for SCHs and MDHs for FY 2004. Section 1886(b)(3)(C)(iv) of the Act provides that the update factor applicable to the hospital-specific rates for SCHs is equal to the update factor provided under section 1886(b)(3)(B)(iv) of the Act, which, for SCHs in FY 2004, is the market basket rate of increase. Section 1886(b)(3)(D) of the Act provides that the update factor applicable to the hospital-specific rates for MDHs also equals the update factor provided under section 1886(b)(3)(B)(iv) of the Act, which, for FY 2004, is the market basket rate.

3. General Formula for Calculation of Prospective Payment Rates for Hospitals Located in Puerto Rico Beginning On or After October 1, 2003 and Before October 1, 2004

a. Puerto Rico Rate. The Puerto Rico prospective payment rate is determined as follows:

Step 1—Select the appropriate adjusted average standardized amount considering the large urban or other designation of the hospital (see Table 1C of section VI. of the Addendum).

Step 2—Multiply the labor-related portion of the standardized amount by the appropriate Puerto Rico-specific wage index (see Table 4F of section VI. of the Addendum).

Step 3—Add the amount from Step 2 and the nonlabor-related portion of the standardized amount.

Step 4—Multiply the result in Step 3 by 50 percent.

Step 5—Multiply the amount from Step 4 by the appropriate DRG relative weight (see Table 5 of section VI. of the Addendum).

b. National Rate. The national prospective payment rate is determined as follows:

Step 1—Multiply the labor-related portion of the national average standardized amount (see Table 1C of section VI. of the Addendum) by the appropriate national wage index (see Tables 4A and 4B of section VI. of the Addendum).

Step 2—Add the amount from Step 1 and the nonlabor-related portion of the national average standardized amount.

Step 3—Multiply the result in Step 2 by 50 percent.

Step 4—Multiply the amount from Step 3 by the appropriate DRG relative weight (see Table 5 of section VI. of the Addendum).

The sum of the Puerto Rico rate and the national rate computed above equals the prospective payment for a given discharge for a hospital located in Puerto Rico. This rate may then be further adjusted if the hospital qualifies for either the IME or DSH adjustment.

III. Proposed Changes to Payment Rates for Acute Care Hospital Inpatient Capital-Related Costs for FY 2004

The PPS for acute care hospital inpatient capital-related costs was implemented for cost reporting periods beginning on or after October 1, 1991. Effective with that cost reporting period and during a 10-year transition period extending through FY 2001, acute care hospital inpatient capital-related costs were paid on the basis of an increasing proportion of the capital PPS Federal rate and a decreasing proportion of a hospital's historical costs for capital.

The basic methodology for determining Federal capital prospective rates is set forth in regulations at §§ 412.308 through 412.352. Below we discuss the factors that we are proposing to use to determine the capital Federal rate for FY 2004, which would be effective for discharges occurring on or after October 1, 2003. The 10-year transition period ended with hospital cost reporting periods beginning on or after October 1, 2001 (FY 2002). Therefore, for cost reporting periods beginning in FY 2002, all hospitals (except “new” hospitals under §§ 412.304(c)(2) and 412.324(b)) are paid based on 100 percent of the capital Federal rate.

For FY 1992, we computed the standard Federal payment rate for capital-related costs under the IPPS by updating the FY 1989 Medicare inpatient capital cost per case by an actuarial estimate of the increase in Medicare inpatient capital costs per case. Each year after FY 1992, we update the standard Federal rate, as provided in § 412.308(c)(1), to account for capital input price increases and other factors. Section 412.308(c)(2) provides that the Federal rate is adjusted annually by a factor equal to the estimated proportion of outlier payments under the Federal rate to total capital payments under the Federal rate. In addition, § 412.308(c)(3) requires that the Federal rate be reduced by an adjustment factor equal to the estimated proportion of payments for (regular and special) exception under § 412.348. Section 412.308(c)(4)(ii) requires that the standard Federal rate be adjusted so that the annual DRG reclassification and the recalibration of DRG weights and changes in the geographic adjustment factor are budget neutral.

For FYs 1992 through 1995, § 412.352 required that the Federal rate also be adjusted by a budget neutrality factor so that aggregate payments for inpatient hospital capital costs were projected to equal 90 percent of the payments that would have been made for capital-related costs on a reasonable cost basis during the fiscal year. That provision expired in FY 1996. Section 412.308(b)(2) describes the 7.4 percent reduction to the rate that was made in FY 1994, and § 412.308(b)(3) describes the 0.28 percent reduction to the rate made in FY 1996 as a result of the revised policy of paying for transfers. In FY 1998, we implemented section 4402 of Public Law 105-33, which requires that, for discharges occurring on or after October 1, 1997, and before October 1, 2002, the unadjusted standard Federal rate is reduced by 17.78 percent. As we discussed in the August 1, 2002 IPPS final rule (67 FR 50102) and implemented in § 412.308(b)(6)), a small part of that reduction was restored effective October 1, 2002.

To determine the appropriate budget neutrality adjustment factor and the regular exceptions payment adjustment during the 10-year transition period, we developed a dynamic model of Medicare inpatient capital-related costs, that is, a model that projected changes in Medicare inpatient capital-related costs over time. With the expiration of the budget neutrality provision, the capital cost model was only used to estimate the regular exceptions payment adjustment and other factors during the transition period. As we explained in the August 1, 2001 IPPS final rule (66 FR 39911), beginning in FY 2003, an adjustment for regular exception payments is no longer necessary because regular exception payments were only made for cost reporting periods beginning on or after October 1, 1991, and before October 1, 2001 (see § 412.348(b)). Since payments are no longer being made under the regular exception policy in FY 2003 and after, we no longer use the capital cost model. The capital cost model and its application during the transition period are described in Appendix B of the August 1, 2001 IPPS final rule (66 FR 40099).

In accordance with section 1886(d)(9)(A) of the Act, under the IPPS for acute care hospital operating costs, hospitals located in Puerto Rico are paid for operating costs under a special payment formula. Prior to FY 1998, hospitals in Puerto Rico were paid a blended rate that consisted of 75 percent of the applicable standardized amount specific to Puerto Rico hospitals and 25 percent of the applicable national average standardized amount. However, effective October 1, 1997, as a result of section 4406 of Public Law 105-33, operating payments to hospitals in Puerto Rico are based on a blend of 50 percent of the applicable standardized amount specific to Puerto Rico hospitals and 50 percent of the applicable national average standardized amount. In conjunction with this change to the operating blend percentage, effective with discharges on or after October 1, 1997, we compute capital payments to hospitals in Puerto Rico based on a blend of 50 percent of the Puerto Rico rate and 50 percent of the Federal rate.

Section 412.374 provides for the use of this blended payment system for payments to Puerto Rico hospitals under the PPS for acute care hospital inpatient capital-related costs. Accordingly, for capital-related costs, we compute a separate payment rate specific to Puerto Rico hospitals using the same methodology used to compute the national Federal rate for capital.

A. Determination of Proposed Federal Hospital Inpatient Capital-Related Prospective Payment Rate Update

In the final IPPS rule published in the Federal Register on August 1, 2002 (67 FR 50127), we established a Federal rate of $407.01 for FY 2003. Section 402(b) of Public Law 108-7 requires that, effective for discharges occurring on or after April 1, 2003, and before October 1, 2003, the Federal rate for operating costs for all IPPS hospitals would be based on the large urban standardized amount. However, for discharges occurring on or after October 1, 2003, the Federal rate will again be calculated based on separate average standardized amounts for hospitals in large urban areas and for hospitals in other areas. In addition, a correction notice to the FY 2003 final IPPS rule issued in the Federal Register on April 25, 2003 (68 FR 22272) contains corrections and revisions to the wage index and geographic adjustment factor (GAF). In conjunction with the change to the operating PPS standardized amounts made by Public Law 108-7 and the wage index and GAF corrections, we have established a capital PPS standard Federal rate of $406.93 effective for discharges occurring on or after April 1, 2003 through September 30, 2003. The rates effective for discharges occurring on or after April 1, 2003 through September 30, 2003, were used in determining the proposed FY 2004 rates. As a result of the changes that we are proposing to the factors used to establish the Federal rate that are explained in this Addendum, the proposed FY 2004 capital standard Federal rate is $411.72.

In the discussion that follows, we explain the factors that were used to determine the proposed FY 2004 capital Federal rate. In particular, we explain why the proposed FY 2004 Federal rate has increased 1.18 percent compared to the FY 2003 Federal rate (effective for discharges occurring on or after April 1, 2003 through September 30, 2003). We also estimate aggregate capital payments will increase by 2.5 percent during this same period. This increase is primarily due to the increase in the number of hospital admissions and the increase in case-mix. This increase in capital payments is slightly less than last year (5.81 percent), mostly due to the restoration of the 2.1 percent reduction to the capital Federal rate in FY 2003 (§ 412.308(b)(6)).

Total payments to hospitals under the IPPS are relatively unaffected by changes in the capital prospective payments. Since capital payments constitute about 10 percent of hospital payments, a 1-percent change in the capital Federal rate yields only about 0.1 percent change in actual payments to hospitals. Aggregate payments under the capital PPS are estimated to increase in FY 2004 compared to FY 2003.

1. Proposed Standard Federal Rate Update

a. Description of the Update Framework. Under § 412.308(c)(1), the standard Federal rate is updated on the basis of an analytical framework that takes into account changes in a capital input price index (CIPI) and several other policy adjustment factors. Specifically, we have adjusted the projected CIPI rate of increase as appropriate each year for case-mix index-related changes, for intensity, and for errors in previous CIPI forecasts. The proposed update factor for FY 2004 under that framework is 0.7 percent, based on data available at this time. This proposed update factor is based on a projected 0.7 percent increase in the CIPI, a 0.0 percent adjustment for intensity, a 0.0 percent adjustment for case-mix, a 0.0 percent adjustment for the FY 2002 DRG reclassification and recalibration, and a forecast error correction of 0.0 percent. We explain the basis for the FY 2004 CIPI projection in section III.C. of this Addendum. Below we describe the policy adjustments that have been applied.

The case-mix index is the measure of the average DRG weight for cases paid under the IPPS. Because the DRG weight determines the prospective payment for each case, any percentage increase in the case-mix index corresponds to an equal percentage increase in hospital payments.

The case-mix index can change for any of several reasons:

• The average resource use of Medicare patients changes (“real” case-mix change);

• Changes in hospital coding of patient records result in higher weight DRG assignments ( coding effects ); and

• The annual DRG reclassification and recalibration changes may not be budget neutral (“reclassification effect”).

We define real case-mix change as actual changes in the mix (and resource requirements) of Medicare patients as opposed to changes in coding behavior that result in assignment of cases to higher weighted DRGs but do not reflect higher resource requirements. In the update framework for the PPS for operating costs, we adjust the update upwards to allow for real case-mix change, but remove the effects of coding changes on the case-mix index. We also remove the effect on total payments of prior year changes to the DRG classifications and relative weights, in order to retain budget neutrality for all case-mix index-related changes other than patient severity. (For example, we adjusted for the effects of the FY 2002 DRG reclassification and recalibration as part of our update for FY 2004.) We have adopted this case-mix index adjustment in the capital update framework as well.

For FY 2004, we are projecting a 1.0 percent total increase in the case-mix index. We estimate that real case-mix increase will equal 1.0 percent in FY 2004. Therefore, the net adjustment for case-mix change in FY 2004 is 0.0 percentage points.

We estimate that FY 2002 DRG reclassification and recalibration will result in a 0.0 percent change in the case-mix when compared with the case-mix index that would have resulted if we had not made the reclassification and recalibration changes to the DRGs. Therefore, we are making a 0.0 percent adjustment for DRG reclassification and recalibration in the update for FY 2004 to maintain budget neutrality.

The capital update framework contains an adjustment for forecast error. The input price index forecast is based on historical trends and relationships ascertainable at the time the update factor is established for the upcoming year. In any given year, there may be unanticipated price fluctuations that may result in differences between the actual increase in prices and the forecast used in calculating the update factors. In setting a prospective payment rate under the framework, we make an adjustment for forecast error only if our estimate of the change in the capital input price index for any year is off by 0.25 percentage points or more. There is a 2-year lag between the forecast and the measurement of the forecast error. A forecast error of 0.2 percentage points was calculated for the FY 2002 update. That is, current historical data indicate that the forecasted FY 2002 CIPI used in calculating the FY 2002 update factor (0.7 percent) overstated the actual realized price increases (0.5 percent) by 0.2 percentage points. This slight overprediction was mostly due to an underestimation of the interest rate cuts by the Federal Reserve Board in 2002, which impacted the interest component of the CIPI. However, since this estimation of the change in the CIPI is less than 0.25 percentage points, it is not reflected in the update recommended under this framework. Therefore, we are making a 0.0 percent adjustment for forecast error in the update for FY 2004.

Under the capital PPS system framework, we also make an adjustment for changes in intensity. We calculate this adjustment using the same methodology and data that are used in the framework for the operating PPS. The intensity factor for the operating update framework reflects how hospital services are utilized to produce the final product, that is, the discharge. This component accounts for changes in the use of quality-enhancing services, for changes in within-DRG severity, and for expected modification of practice patterns to remove noncost-effective services.

We calculate case-mix constant intensity as the change in total charges per admission, adjusted for price level changes (the CPI for hospital and related services) and changes in real case-mix. The use of total charges in the calculation of the intensity factor makes it a total intensity factor, that is, charges for capital services are already built into the calculation of the factor. Therefore, we have incorporated the intensity adjustment from the operating update framework into the capital update framework. Without reliable estimates of the proportions of the overall annual intensity increases that are due, respectively, to ineffective practice patterns and to the combination of quality-enhancing new technologies and within-DRG complexity, we assume, as in the operating update framework, that one-half of the annual increase is due to each of these factors. The capital update framework thus provides an add-on to the input price index rate of increase of one-half of the estimated annual increase in intensity, to allow for within-DRG severity increases and the adoption of quality-enhancing technology.

As we discussed in the May 9, 2002 proposed rule (67 FR 51514), we have developed a Medicare-specific intensity measure based on a 5-year average. Past studies of case-mix change by the RAND Corporation (“Has DRG Creep Crept Up? Decomposing the Case Mix Index Change Between 1987 and 1988” by G. M. Carter, J. P. Newhouse, and D. A. Relles, R-4098-HCFA/ProPAC (1991)) suggest that real case-mix change was not dependent on total change, but was usually a fairly steady 1.0 to 1.4 percent per year. We use 1.4 percent as the upper bound because the RAND study did not take into account that hospitals may have induced doctors to document medical records more completely in order to improve payment.

We calculate case-mix constant intensity as the change in total charges per admission, adjusted for price level changes (the CPI for hospital and related services), and changes in real case-mix. As we noted above, in accordance with § 412.308(c)(1)(ii), we began updating the standard Federal capital rate in FY 1996 using an update framework that takes into account, among other things, allowable changes in the intensity of hospital services. For FYs 1996 through 2001, we found that case-mix constant intensity was declining and we established a 0.0 percent adjustment for intensity in each of those years. For FYs 2001 and 2002, we found that case-mix constant intensity was increasing and we established a 0.3 percent adjustment and 1.0 percent adjustment for intensity, respectively.

Using the methodology described above, for FY 2004 we examined the change in total charges per admission, adjusted for price level changes (the CPI for hospital and related services), and changes in real case-mix for FYs 1998 though 2002. We found that, over this period and in particular the last 3 years of this period (FYs 2000 through 2002), the charge data appear to be skewed. More specifically, we found a dramatic increase in hospital charges for FYs 2000 through 2002 without a corresponding increase in hospital case-mix index. If hospitals were treating new or different types of cases, which would result in an appropriate increase in charges per discharge, then we would expect hospitals' case-mix to increase proportionally.

The timing of this increase in charge growth is consistent with the dramatic increase in charges that we discussed in the March 5, 2003 high-cost outlier proposed rule (68 FR 10420 through 14029). As we discussed in that proposed rule, because hospitals have the ability to increase their outlier payments through dramatic charge increases, we proposed several changes in our high-cost outlier policy at §§ 412.84(i) and (m) in order to prevent hospitals from taking advantage of our current outlier policy.

As discussed above, because our intensity calculation relies heavily upon charge data and we believe that this charge data may be inappropriately skewed, we are proposing a 0.0 percent adjustment for intensity in FY 2004. In past FYs (1996 through 2000) when we found intensity to be declining, we believed a zero (rather then negative) intensity adjustment was appropriate. Similarly, we believe that it is appropriate to propose a zero intensity adjustment for FY 2004 until we believe that any increase in charges can be tied to intensity rather then to attempts to maximize outlier payments.

Above we described the basis of the components used to develop the proposed 0.7 percent capital update factor for FY 2004 as shown in the table below.

CMS's Proposed FY 2004 Update Factor to the Capital Federal Rate
Capital Input Price Index | 0.7
Intensity | 0.0
Case-Mix Adjustment Factors:
Projected Case-Mix Change | −1.0
Real Across DRG Change | 1.0
Subtotal | 0.0
Effect of FY 2002 Reclassification and Recalibration | 0.0
Forecast Error Correction | 0.0
Total Proposed Update | 0.7

b. Comparison of CMS and MedPAC Update Recommendation. In the past, MedPAC has included update recommendations for capital PPS in a Report to Congress. In its March 2003 Report to Congress, MedPAC did not make an update recommendation for capital PPS payments. However, in that same report, MedPAC made an update recommendation for hospital inpatient and outpatient services (page 4). MedPAC stated that hospital inpatient and outpatient services should be considered together because they are so closely interrelated. Their recommendation is based on an assessment of whether payments are adequate to cover the costs of efficient providers, an estimate of input price inflation (measured by the market basket index), and an adjustment for technological charges, which is offset by reasonable expectations in productivity gains.

2. Outlier Payment Adjustment Factor

Section 412.312(c) establishes a unified outlier methodology for inpatient operating and inpatient capital-related costs. A single set of thresholds is used to identify outlier cases for both inpatient operating and inpatient capital-related payments. Section 412.308(c)(2) provides that the standard Federal rate for inpatient capital-related costs be reduced by an adjustment factor equal to the estimated proportion of capital-related outlier payments to total inpatient capital-related PPS payments. The outlier thresholds are set so that operating outlier payments are projected to be 5.1 percent of total operating DRG payments.

In the August 1, 2002 IPPS final rule (67 FR 50129), we estimated that outlier payments for capital in FY 2003 would equal 5.31 percent of inpatient capital-related payments based on the FY 2003 Federal rate. Accordingly, we applied an outlier adjustment factor of 0.9469 to the FY 2003 Federal rate. Based on the thresholds as set forth in section II.A.4.c. of this Addendum, we estimate that outlier payments for capital would equal 5.45 percent of inpatient capital-related payments based on the Federal rate in FY 2004. Therefore, we are proposing an outlier adjustment factor of 0.9455 to the Federal rate. Thus, the projected percentage of capital outlier payments to total capital standard payments for FY 2004 is higher than the percentage for FY 2003.

The outlier reduction factors are not built permanently into the rates; that is, they are not applied cumulatively in determining the Federal rate. Therefore, the net proposed change in the outlier adjustment to the Federal rate for FY 2004 is 0.9985 (0.9455/0.9469). The outlier adjustment decreases the proposed FY 2004 Federal rate by 0.15 percent compared with the FY 2003 outlier adjustment.

3. Budget Neutrality Adjustment Factor for Changes in DRG Classifications and Weights and the Geographic Adjustment Factor

Section 412.308(c)(4)(ii) requires that the Federal rate be adjusted so that aggregate payments for the fiscal year based on the Federal rate after any changes resulting from the annual DRG reclassification and recalibration and changes in the geographic adjustment factor (GAF) are projected to equal aggregate payments that would have been made on the basis of the Federal rate without such changes.

Since we implemented a separate geographic adjustment factor for Puerto Rico, we apply separate budget neutrality adjustments for the national geographic adjustment factor and the Puerto Rico geographic adjustment factor. We apply the same budget neutrality factor for DRG reclassifications and recalibration nationally and for Puerto Rico. Separate adjustments were unnecessary for FY 1998 and earlier since the geographic adjustment factor for Puerto Rico was implemented in FY 1998.

In the past, we used the actuarial capital cost model (described in Appendix B of the August 1, 2001 IPPS final rule (66 FR 40099)) to estimate the aggregate payments that would have been made on the basis of the Federal rate with and without changes in the DRG classifications and weights and in the GAF to compute the adjustment required to maintain budget neutrality for changes in DRG weights and in the GAF. During the transition period, the capital cost model was also used to estimate the regular exception payment adjustment factor. As we explain in section III.A.4. of this Addendum, beginning in FY 2003 an adjustment for regular exception payments is no longer necessary. Therefore, we are no longer using the capital cost model. Instead, we are using historical data based on hospitals' actual cost experiences to determine the exceptions payment adjustment factor for special exceptions payments.

To determine the proposed factors for FY 2004, we compared (separately for the national rate and the Puerto Rico rate) estimated aggregate Federal rate payments based on the FY 2003 DRG relative weights and the FY 2003 GAF to estimated aggregate Federal rate payments based on the proposed FY 2004 relative weights and the proposed FY 2004 GAF. In the August 1, 2002 IPPS final rule (67 FR 50129) for FY 2003, the budget neutrality adjustment factors were 0.9885 for the national rate and 0.9963 for the Puerto Rico rate. As a result of the revisions to the GAF effective for discharges occurring on or after April 1, 2003 through September 30, 2003, the budget neutrality adjustment factor is 0.9983 for the national rate for discharges occurring on or before April 1, 2003 through September 30, 2003. The budget neutrality adjustment factor for the Puerto Rico rate remained unchanged (0.9963). As we noted above, the rates effective for discharges occurring on or after April 1, 2003 through September 30, 2003 were used in determining the proposed FY 2004 rates. In making the comparison, we set the regular and special exceptions reduction factors to 1.00.

To achieve budget neutrality for the changes in the national GAF, based on calculations using updated data, we are proposing to apply an incremental budget neutrality adjustment of 1.0034 for FY 2004 to the previous cumulative FY 2003 adjustment (0.9883), yielding a proposed cumulative adjustment of 0.9929 through FY 2004. For the Puerto Rico GAF, we are proposing to apply an incremental budget neutrality adjustment of 1.0002 for FY 2004 to the previous cumulative FY 2003 adjustment (0.9963), yielding a proposed cumulative adjustment of 0.9964 through FY 2004. (This is the rounded result of a calculation performed on unrounded numbers.)

We then compared estimated aggregate Federal rate payments based on the FY 2003 DRG relative weights and the FY 2003 GAF to estimated aggregate Federal rate payments based on the proposed FY 2004 DRG relative weights and the proposed FY 2004 GAF. The proposed incremental adjustment for DRG classifications and changes in relative weights is 1.0004 both nationally and for Puerto Rico. The proposed cumulative adjustments for DRG classifications and changes in relative weights and for changes in the GAF through FY 2004 are 0.9920 nationally and 0.9968 for Puerto Rico (this is the rounded result of a calculation performed with unrounded numbers). The following table summarizes the adjustment factors for each fiscal year:

Budget Neutrality Adjustment for DRG Reclassifications and Recalibration and the Geographic Adjustment Factors
Fiscal year | National: Incremental adjustment: Geographic adjustment factor | National: Incremental adjustment: DRG reclassifications and recalibration | National: Incremental adjustment: Combined | National: Cumulative | Puerto Rico: Incremental adjustment: Geographic adjustment factor | Puerto Rico: Incremental adjustment: DRG reclassifications and recalibration | Puerto Rico: Incremental adjustment: Combined | Puerto Rico: Cumulative
1992 |  |  |  | 1.00000 |  |  |  |
1993 |  |  | 0.99800 | 0.99800 |  |  |  |
1994 |  |  | 1.00531 | 1.00330 |  |  |  |
1995 |  |  | 0.99980 | 1.00310 |  |  |  |
1996 |  |  | 0.99940 | 1.00250 |  |  |  |
1997 |  |  | 0.99873 | 1.00123 |  |  |  |
1998 |  |  | 0.99892 | 1.00015 |  |  |  | 1.00000
1999 | 0.99944 | 1.00335 | 1.00279 | 1.00294 | 0.99898 | 1.00335 | 1.00233 | 1.00233
2000 | 0.99857 | 0.99991 | 0.99848 | 1.00142 | 0.99910 | 0.99991 | 0.99901 | 1.00134
2001 ¹ | 0.99782 | 1.00009 | 0.99791 | 0.99933 | 1.00365 | 1.00009 | 1.00374 | 1.00508
2001 ² | ³ 0.99771 | ³ 1.00009 | ³ 0.99780 | 0.99922 | ³ 1.00365 | ³ 1.00009 | ³ 1.00374 | 1.00508
2002 | ⁴ 0.99666 | ⁴ 0.99668 | ⁴ 0.99335 | 0.99268 | ⁴ 0.98991 | ⁴ 0.99668 | ⁴ 0.99662 | 0.99164
2003 ⁵ | 0.99915 | 0.99662 | 0.99577 | 0.98848 | 1.00809 | 0.99662 | 1.00468 | 0.99628
2003 ⁶ | ⁷ 0.99896 | ⁷ 0.99662 | ⁷ 0.99558 | 0.98830 | ⁷ 1.00809 | ⁷ 0.99662 | ⁷ 1.00468 | 0.99628
2004 | ⁸ 1.00341 | ⁸ 1.00036 | ⁸ 1.00376 | 0.99202 | ⁸ 1.00015 | ⁸ 1.00036 | ⁸ 1.00051 | 0.99679
¹ Factors effective for the first half of FY 2001 (October 2000 through March 2001).
² Factors effective for the second half of FY 2001 (April 2001 through September 2001).
³ Incremental factors are applied to FY 2000 cumulative factors.
⁴ Incremental factors are applied to the cumulative factors for the first half of FY 2001.
⁵ Factors effective for the first half of FY 2003 (October 2002 through March 2003).
⁶ Factors effective for the second half of FY 2003 (April 2003 through September 2003).
⁷ Incremental factors are applied to FY 2002 cumulative factors.
⁸ Incremental factors are applied to the cumulative factors for the second half of FY 2003.

The methodology used to determine the proposed recalibration and geographic (DRG/GAF) budget neutrality adjustment factor for FY 2004 is similar to that used in establishing budget neutrality adjustments under the PPS for operating costs. One difference is that, under the operating PPS, the budget neutrality adjustments for the effect of geographic reclassifications are determined separately from the effects of other changes in the hospital wage index and the DRG relative weights. Under the capital PPS, there is a single DRG/GAF budget neutrality adjustment factor (the national rate and the Puerto Rico rate are determined separately) for changes in the GAF (including geographic reclassification) and the DRG relative weights. In addition, there is no adjustment for the effects that geographic reclassification has on the other payment parameters, such as the payments for serving low-income patients, indirect medical education payments, or the large urban add-on payments.

In the August 1, 2002 IPPS final rule (67 FR 50129), we calculated a GAF/DRG budget neutrality factor of 0.9957 for FY 2003. As we noted above, as a result of the revisions to the GAF effective for discharges occurring on or after April 1, 2003 through September 30, 2003, we calculated a GAF/DRG budget neutrality factor of 0.9956 for discharges occurring on or after April 1, 2003 through September 30, 2003. Furthermore, the rates effective for discharges occurring on or after April 1, 2003 through September 30, 2003 were used in determining the proposed FY 2004 rates. For FY 2004, we are proposing a GAF/DRG budget neutrality factor of 1.00038. The GAF/DRG budget neutrality factors are built permanently into the rates; that is, they are applied cumulatively in determining the Federal rate. This follows from the requirement that estimated aggregate payments each year be no more or less than they would have been in the absence of the annual DRG reclassification and recalibration and changes in the GAF. The proposed incremental change in the adjustment from FY 2003 to FY 2004 is 1.00038. The proposed cumulative change in the rate due to this adjustment is 0.9920 (the product of the incremental factors for FY 1993, FY 1994, FY 1995, FY 1996, FY 1997, FY 1998, FY 1999, FY 2000, FY 2001, FY 2002, FY 2003, and the proposed incremental factor for FY 2004: 0.9980 × 1.0053 0.9998 × 0.9994 × 0.9987 × 0.9989 × 1.0028 × 0.9985 × 0.9979 × 0.9934 × 0.9956 × 1.00038 = 0.9920).

This proposed factor accounts for DRG reclassifications and recalibration and for changes in the GAF. It also incorporates the effects on the GAF of FY 2004 geographic reclassification decisions made by the MGCRB compared to FY 2003 decisions. However, it does not account for changes in payments due to changes in the DSH and IME adjustment factors or in the large urban add-on.

4. Exceptions Payment Adjustment Factor

Section 412.308(c)(3) requires that the standard capital Federal rate be reduced by an adjustment factor equal to the estimated proportion of additional payments for both regular exceptions and special exceptions under § 412.348 relative to total capital PPS payments. In estimating the proportion of regular exception payments to total capital PPS payments during the transition period, we used the actuarial capital cost model originally developed for determining budget neutrality (described in Appendix B of the August 1, 2001 IPPS final rule (66 FR 40099)) to determine the exceptions payment adjustment factor, which was applied to both the Federal and hospital-specific rates.

An adjustment for regular exception payments is no longer necessary in determining the FY 2004 capital Federal rate because, in accordance with § 412.348(b), regular exception payments were only made for cost reporting periods beginning on or after October 1, 1991 and before October 1, 2001. Accordingly, as we explained in the August 1, 2001 IPPS final rule (66 FR 39949), in FY 2003 and subsequent fiscal years, no payments will be made under the regular exceptions provision. However, in accordance with § 412.308(c), we still need to compute a budget neutrality adjustment for special exception payments under § 412.348(g). We describe our methodology for determining the special exceptions adjustment used in calculating the proposed FY 2004 capital Federal rate below.

Under the special exceptions provision specified at § 412.348(g)(1), eligible hospitals include SCHs, urban hospitals with at least 100 beds that have a disproportionate share percentage of at least 20.2 percent or qualify for DSH payments under § 412.106(c)(2), and hospitals with a combined Medicare and Medicaid inpatient utilization of at least 70 percent. An eligible hospital may receive special exceptions payments if it meets (1) a project need requirement as described at § 412.348(g)(2), which, in the case of certain urban hospitals, includes an excess capacity test as described at § 412.348(g)(4); (2) an age of assets test as described at § 412.348(g)(3); and (3) a project size requirement as described at § 412.348(g)(5).

As we explained in the August 1, 2001 IPPS final rule (66 FR 39912 through 39914), in order to determine the estimated proportion of special exceptions payments to total capital payments, we attempted to identify the universe of eligible hospitals that may potentially qualify for special exceptions payments. First, we identified hospitals that met the eligibility requirements at § 412.348(g)(1). Then we determined each hospital's average fixed asset age in the earliest available cost report starting in FY 1992 and subsequent fiscal years. For each of those hospitals, we calculated the average fixed asset age by dividing the accumulated depreciation by the current year's depreciation. In accordance with § 412.348(g)(3), a hospital must have an average age of buildings and fixed assets above the 75th percentile of all hospitals in the first year of the capital PPS. In the September 1, 1994 final rule (59 FR 45385), we stated that, based on the June 1994 update of the cost report files in HCRIS, the 75th percentile for buildings and fixed assets for FY 1992 was 16.4 years. However, we noted that we would make a final determination of that value on the basis of more complete cost report information at a later date. In the August 29, 1997 final rule (62 FR 46012), based on the December 1996 update of HCRIS and the removal of outliers, we finalized the 75th percentile for buildings and fixed assets for FY 1992 as 15.4 years. Thus, we eliminated any hospitals from the potential universe of hospitals that may qualify for special exception payments if its average age of fixed assets did not exceed 15.4 years.

For the hospitals remaining in the potential universe, we estimated project-size by using the fixed capital acquisitions shown on Worksheet A7 from the following HCRIS cost reports updated through December 2002.

PPS year | Cost reporting periods beginning in . . .
IX | FY 1992.
X | FY 1993.
XI | FY 1994.
XII | FY 1995.
XIII | FY 1996.
XIV | FY 1997.
XV | FY 1998.
XVI | FY 1999.
XVII | FY 2000.
XVIII | FY 2001.

Because the project phase-in may overlap 2 cost reporting years, we added together the fixed acquisitions from sequential pairs of cost reports to determine project size. Under § 412.348(g)(5), the hospital's project cost must be at least $200 million or 100 percent of its operating cost during the first 12-month cost reporting period beginning on or after October 1, 1991. We calculated the operating costs from the earliest available cost report starting in FY 1992 and later by subtracting inpatient capital costs from inpatient costs (for all payers). We did not subtract the direct medical education costs as those costs are not available on every update of the HCRIS minimum data set. If the hospital met the project size requirement, we assumed that it also met the project need requirements at § 412.348(g)(2) and the excess capacity test for urban hospitals at § 412.348(g)(4).

Because we estimate that so few hospitals will qualify for special exceptions, projecting costs, payments, and margins would result in high statistical variance. Consequently, we decided to model the effects of special exceptions using historical data based on hospitals' actual cost experiences. If we determined that a hospital may qualify for special exceptions, we modeled special exceptions payments from the project start date through the last available cost report (FY 2000). (Although some FY 2001 cost reports are available in HCRIS, only a few hospitals have submitted FY 2001 costs. Consequently, too few cost reports are available to reliably model FY 2001 special exceptions payments.) For purposes of modeling, we used the cost and payment data on the cost reports from HCRIS assuming that special exceptions would begin at the start of the qualifying project. In other words, when modeling costs and payment data, we ignored any regular exception payments that these hospitals may otherwise have received as if there had not been regular exception provision during the transition period. In projecting an eligible hospital's special exception payment, we applied the 70-percent minimum payment level, the cumulative comparison of current year capital PPS payments and costs, and the cumulative operating margin offset (excluding 75 percent of operating DSH payments).

Our modeling of special exception payments for FY 2004 produced the following results:

Cost report | Number of hospitals eligible for special exceptions | Special exceptions as a fraction of capital payments to all hospitals
PPS IX |  |
PPS X |  |
PPS XI | 1 |
PPS XII | 4 |
PPS XIII | 5 |
PPS XIV | 11 |
PPS XV | 15 |
PPS XVI | 24 | 0.0002
PPS XVII | 27 | 0.0005
PPS XVIII | N/A | N/A

We note that hospitals still have one more cost reporting period (PPS XVIII) to complete their projects in order to be eligible for special exceptions payments, and, therefore, we estimate that about 30 hospitals could qualify for special exceptions payments. Thus, we project that special exception payments as a fraction of capital payments to all hospitals to be approximately 0.0005.

Because special exceptions are budget neutral, we are proposing to offset the Federal capital rate by 0.05 percent for special exceptions payments for FY 2004. Therefore, the proposed exceptions adjustment factor would equal 0.9995 (1 − 0.0005) to account for special exceptions payments in FY 2004. Furthermore, we are proposing to estimate the exceptions payment adjustment factor for special exceptions payments in FY 2004 in the final rule based on updated data.

In the August 1, 2002 IPPS final rule (67 FR 50131) for FY 2003, we estimated that total (special) exceptions payments would equal 0.30 percent of aggregate payments based on the Federal rate. Therefore, we applied an exceptions reduction factor of 0.9970 (1 − 0.0030) in determining the FY 2003 Federal rate. As we stated, we estimate that exceptions payments in FY 2004 would equal 0.05 percent of aggregate payments based on the proposed FY 2004 Federal rate. Therefore, we are proposing to apply an exceptions payment adjustment factor of 0.9995 (1 − 0.0005) to the proposed Federal rate for FY 2004. The proposed exceptions adjustment factor for FY 2004 is 0.25 percent higher than the factor for FY 2003 published in the August 1, 2002 IPPS final rule (67 FR 50131). This increase is primarily due to a refined analysis of more recent data.

The exceptions reduction factors are not built permanently into the rates; that is, the factors are not applied cumulatively in determining the Federal rate. Therefore, the proposed net change in the exceptions adjustment factor used in determining the proposed FY 2004 Federal rate is 0.9995/0.9970, or 1.0025.

5. Proposed Standard Capital Federal Rate for FY 2004

In the August 1, 2002 IPPS final rule (67 FR 50131) we established a capital Federal rate of $407.01 for FY 2003. As we noted above, as a result of the revisions to the GAF effective for discharges occurring on or after April 1, 2003 through September 30, 2003, we have established a capital Federal rate of $406.93 for discharges occurring on or after April 1, 2003 through September 30, 2003. The rates effective for discharges occurring on or after April 1, 2003 through September 30, 2003, were used in determining the proposed FY 2004 rates. In this proposed rule, we are proposing a capital Federal rate of $411.72 for FY 2004. The proposed Federal rate for FY 2004 was calculated as follows:

• The proposed FY 2004 update factor is 1.0070; that is, the update is 0.70 percent.

• The proposed FY 2004 budget neutrality adjustment factor that is applied to the standard Federal payment rate for changes in the DRG relative weights and in the GAF is 1.0038.

• The proposed FY 2004 outlier adjustment factor is 0.9455.

• The proposed FY 2004 (special) exceptions payment adjustment factor is 0.9995.

Since the proposed Federal rate has already been adjusted for differences in case-mix, wages, cost-of-living, indirect medical education costs, and payments to hospitals serving a disproportionate share of low-income patients, we are proposing to make no additional adjustments in the standard Federal rate for these factors, other than the budget neutrality factor for changes in the DRG relative weights and the GAF.

We are providing a chart that shows how each of the proposed factors and adjustments for FY 2004 affected the computation of the proposed FY 2004 Federal rate in comparison to the FY 2003 Federal rate. The proposed FY 2004 update factor has the effect of increasing the Federal rate by 0.70 percent compared to the FY 2003 Federal rate, while the proposed GAF/DRG budget neutrality factor has the effect of increasing the Federal rate by 0.38 percent. The proposed FY 2004 outlier adjustment factor has the effect of decreasing the Federal rate by 0.15 percent compared to the FY 2003 Federal rate. The proposed FY 2004 exceptions payment adjustment factor has the effect of increasing the Federal rate by 0.25 percent compared to the exceptions payment adjustment factor for FY 2003. The combined effect of all the proposed changes is to increase the Federal rate by 1.18 percent compared to the FY 2003 Federal rate.

Comparison of Factors and Adjustments: FY 2003 Federal Rate and Proposed FY 2004 Federal Rate
| FY 2003 | Proposed FY 2004 | Change | Percent change
Update factor ¹ | 1.0110 | 1.0070 | 1.0070 | 0.70
GAF/DRG Adjustment Factor ¹ | 0.9957 | 1.0038 | 1.0038 | 0.38
Outlier Adjustment Factor ² | 0.9469 | 0.9455 | 0.9985 | −0.15
Exceptions Adjustment Factor ² | 0.9970 | 0.9995 | 1.0025 | 0.25
Federal Rate | $406.93 | $411.72 | 1.0118 | 1.18
¹ The update factor and the GAF/DRG budget neutrality factors are built permanently into the rates. Thus, for example, the incremental change from FY 2003 to FY 2004 resulting from the application of the proposed 1.0038 GAF/DRG budget neutrality factor for FY 2004 is 1.0038.
² The outlier reduction factor and the exceptions adjustment factor are not built permanently into the rates; that is, these factors are not applied cumulatively in determining the rates. Thus, for example, the net change resulting from the application of the proposed FY 2004 outlier adjustment factor is 0.9455/0.9469, or 0.9985.

6. Special Rate for Puerto Rico Hospitals

As explained at the beginning of section II.D. of this Addendum, hospitals in Puerto Rico are paid based on 50 percent of the Puerto Rico rate and 50 percent of the Federal rate. The Puerto Rico rate is derived from the costs of Puerto Rico hospitals only, while the Federal rate is derived from the costs of all acute care hospitals participating in the PPS (including Puerto Rico). To adjust hospitals' capital payments for geographic variations in capital costs, we apply a GAF to both portions of the blended rate. The GAF is calculated using the operating PPS wage index and varies, depending on the MSA or rural area in which the hospital is located. We use the Puerto Rico wage index to determine the GAF for the Puerto Rico part of the capital-blended rate and the national wage index to determine the GAF for the national part of the blended rate.

Because we implemented a separate GAF for Puerto Rico in FY 1998, we also apply separate budget neutrality adjustments for the national GAF and for the Puerto Rico GAF. However, we apply the same budget neutrality factor for DRG reclassifications and recalibration nationally and for Puerto Rico. As we stated in section III.A.4. of this Addendum, for Puerto Rico the proposed GAF budget neutrality factor is 1.0002, while the proposed DRG adjustment is 1.0004, for a proposed combined cumulative adjustment of 0.9968.

In computing the payment for a particular Puerto Rico hospital, the Puerto Rico portion of the rate (50 percent) is multiplied by the Puerto Rico-specific GAF for the MSA in which the hospital is located, and the national portion of the rate (50 percent) is multiplied by the national GAF for the MSA in which the hospital is located (which is computed from national data for all hospitals in the United States and Puerto Rico). In FY 1998, we implemented a 17.78 percent reduction to the Puerto Rico rate as a result of Public Law 105-33. In FY 2003, a small part of that reduction was restored.

For FY 2003, before application of the GAF, the special rate for Puerto Rico hospitals was $198.29. With the changes we are proposing to the factors used to determine the rate, the proposed FY 2004 special rate for Puerto Rico is $201.26.

B. Calculation of Inpatient Capital-Related Prospective Payments for FY 2004

With the end of the capital PPS transition period in FY 2001, all hospitals (except “new” hospitals under § 412.324(b) and under § 412.304(c)(2)) are paid based on 100 percent of the Federal rate in FY 2004. The applicable Federal rate was determined by making adjustments as follows:

• For outliers, by dividing the standard Federal rate by the outlier reduction factor for that fiscal year; and

• For the payment adjustments applicable to the hospital, by multiplying the hospital's GAF, disproportionate share adjustment factor, and IME adjustment factor, when appropriate.

For purposes of calculating payments for each discharge during FY 2004, the standard Federal rate is adjusted as follows: (Standard Federal Rate) × (DRG weight) × (GAF) × (Large Urban Add-on, if applicable) × (COLA adjustment for hospitals located in Alaska and Hawaii) × (1 + Disproportionate Share Adjustment Factor + IME Adjustment Factor, if applicable). The result is the adjusted Federal rate.

Hospitals also may receive outlier payments for those cases that qualify under the thresholds established for each fiscal year. Section 412.312(c) provides for a single set of thresholds to identify outlier cases for both inpatient operating and inpatient capital-related payments. The proposed outlier thresholds for FY 2004 are in section II.A.4.c. of this Addendum. For FY 2004, a case qualifies as a cost outlier if the cost for the case plus the IME and DSH payments is greater than the prospective payment rate for the DRG plus $50,645.

An eligible hospital may also qualify for a special exceptions payment under § 412.348(g) for up through the 10th year beyond the end of the capital transition period if it meets: (1) A project need requirement described at § 412.348(g)(2), which in the case of certain urban hospitals includes an excess capacity test as described at § 412.348(g)(4); and (2) a project size requirement as described at § 412.348(g)(5). Eligible hospitals include sole community hospitals, urban hospitals with at least 100 beds that have a DSH patient percentage of at least 20.2 percent or qualify for DSH payments under § 412.106(c)(2), and hospitals that have a combined Medicare and Medicaid inpatient utilization of at least 70 percent. Under § 412.348(g)(8), the amount of a special exceptions payment is determined by comparing the cumulative payments made to the hospital under the capital PPS to the cumulative minimum payment level. This amount is offset by: (1) Any amount by which a hospital's cumulative capital payments exceed its cumulative minimum payment levels applicable under the regular exceptions process for cost reporting periods beginning during which the hospital has been subject to the capital PPS; and (2) any amount by which a hospital's current year operating and capital payments (excluding 75 percent of operating DSH payments) exceed its operating and capital costs. Under § 412.348(g)(6), the minimum payment level is 70 percent for all eligible hospitals.

During the transition period, new hospitals (as defined under § 412.300) were exempt from the capital PPS for their first 2 years of operation and are paid 85 percent of their reasonable costs during that period. Effective with the third year of operation through the remainder of the transition period, under § 412.324(b) we paid the hospital under the appropriate transition methodology. If the hold-harmless methodology was applicable, the hold-harmless payment for assets in use during the base period would extend for 8 years, even if the hold-harmless payments extend beyond the normal transition period. As discussed in section VI.B. of the preamble of this proposed rule, under § 412.304(c)(2), for cost reporting periods beginning on or after October 1, 2002, we pay a new hospital 85 percent of their reasonable costs during the first 2 years of operation unless it elects to receive payment based on 100 percent of the Federal rate. Effective with the third year of operation, we pay the hospital based on 100 percent of the capital Federal rate (that is, the same methodology used to pay all other hospitals subject to the capital PPS).

C. Capital Input Price Index

1. Background

Like the operating input price index, the capital input price index (CIPI) is a fixed-weight price index that measures the price changes associated with costs during a given year. The CIPI differs from the operating input price index in one important aspect—the CIPI reflects the vintage nature of capital, which is the acquisition and use of capital over time. Capital expenses in any given year are determined by the stock of capital in that year (that is, capital that remains on hand from all current and prior capital acquisitions). An index measuring capital price changes needs to reflect this vintage nature of capital. Therefore, the CIPI was developed to capture the vintage nature of capital by using a weighted-average of past capital purchase prices up to and including the current year.

We periodically update the base year for the operating and capital input prices to reflect the changing composition of inputs for operating and capital expenses. The CIPI was last rebased to FY 1997 in the August 1, 2002 final rule (67 FR 50044).

2. Forecast of the CIPI for Federal Fiscal Year 2004

We are forecasting the proposed CIPI to increase 0.7 percent for FY 2004. This reflects a projected 1.2 percent increase in vintage-weighted depreciation prices (building and fixed equipment, and movable equipment) and a 3.4 percent increase in other capital expense prices in FY 2004, partially offset by a 2.0 percent decline in vintage-weighted interest rates in FY 2004. The weighted average of these three factors produces the 0.7 percent increase for the CIPI as a whole.

IV. Proposed Changes to Payment Rates for Excluded Hospitals and Hospital Units: Rate-of-Increase Percentages

As discussed in section VI. of the preamble of this proposed rule, in accordance with section 1886(b)(3)(H)(i) of the Act and effective for cost reporting periods beginning on or after October 1, 2002, payments to existing psychiatric hospitals and units, rehabilitation hospitals and units, and long-term care hospitals excluded from the IPPS are no longer subject to limits on a hospital-specific target amount (expressed in terms of the inpatient operating cost per discharge) that are set for each hospital, based on the hospital's own historical cost experience trended forward by the applicable rate-of-increase percentages (update factors).

Effective for cost reporting periods beginning on or after October 1, 2002, rehabilitation hospitals and units are no longer paid on a reasonable cost basis but are paid under the IRF PPS. Effective for cost reporting periods beginning on or after October 1, 2002, LTCHs also are no longer paid on a reasonable cost basis but are paid under a DRG-based PPS. As part of the payment process for LTCHs, we established a 5-year transition period from reasonable cost-based reimbursement to a fully Federal PPS. However, a LTCH, subject to the blend methodology, may elect to be paid based on a 100 percent of the Federal prospective rate.

In accordance with existing § 413.40(c)(4)(ii) and (d)(1)(i) and (ii), where applicable, excluded hospitals and units that continue to be paid on a reasonable cost basis will have payments based on their Medicare inpatient operating costs, not to exceed the ceiling (as defined in § 413.40(a)(3)).

Section 1886(b)(7) of the Act had established a payment limitation for new hospitals and units excluded from the IPPS. While both rehabilitation hospitals and units and LTCHs are now paid under a PPS, psychiatric hospitals and units continue to be subject to the payment limitation. A discussion of how the payment limitation was calculated can be found in the August 29, 1997 final rule with comment period (62 FR 46019); the May 12, 1998 final rule (63 FR 26344); the July 31, 1998 final rule (63 FR 41000); and the July 30, 1999 final rule (64 FR 41529).

The amount of payment for a “new” psychiatric hospital or unit would be determined as follows:

• Under existing § 413.40(f)(2)(ii), for cost reporting periods beginning on or after October 1, 1997, the amount of payment for a new hospital or unit that was not paid as an excluded hospital or unit before October 1, 1997, is the lower of: (1) The hospital's net inpatient operating costs per case; or (2) 110 percent of the national median of the target amounts for the same class of excluded hospitals and units, adjusted for differences in wage levels and updated to the first cost reporting period in which the hospital receives payment. The second cost reporting period is subject to the same target amount applied to the first cost reporting period.

• In the case of a hospital that received payments under § 413.40(f)(2)(ii) as a newly created hospital or unit, to determine the hospital's or unit's target amount for the hospital's or unit's third 12-month cost reporting period, the payment amount determined under § 413.40(f)(2)(ii)(A) for the preceding cost reporting period is updated to the third cost reporting period.

The proposed amounts included in the following table reflect the updated 110 percent of the national median target amounts of new excluded psychiatric hospitals and units for cost reporting periods beginning during FY 2004. These figures are updated with the most recent data available to reflect the projected market basket increase percentage of 3.5 percent. This projected percentage change in the market basket reflects the average change in the price of goods and services purchased by hospitals to furnish inpatient hospital services (as projected by CMS's Office of the Actuary based on its historical experience with the IPPS). For a new provider, the labor-related share of the target amount is multiplied by the appropriate geographic area wage index, without regard to IPPS reclassifications, and added to the nonlabor-related share in order to determine the per case limit on payment under the statutory payment methodology for new providers.

Class of excluded hospital or unit | FY 2004 proposed labor-related share | FY 2004 proposed nonlabor-related share
Psychiatric | $7,301 | $2,902

Effective for cost reporting periods beginning on or after October 1, 2002, this payment limitation is no longer applicable to new LTCHs since they will be paid 100 percent of the Federal rate. A new LTCH is a provider of inpatient hospital services that meets the qualifying criteria for LTCHs specified under § 412.23(e)(1) and (e)(2) and whose first cost reporting period as a LTCH begins on or after October 1, 2002 (§ 412.23(e)(4)). Under the LTCH PPS, new LTCHs are paid based on 100 percent of the fully Federal prospective rate (they may not participate in the 5-year transition from cost-based reimbursement to prospective payment). In contrast, those “new” LTCHs that meet the definition of “new” under § 413.40(f)(2)(ii) and that have their first cost reporting periods beginning on or after October 1, 1997, and before October 1, 2002, may be paid under the LTCH PPS transition methodology. Since those hospitals by definition would have been considered new before October 1, 2002, they would have been subject to the updated payment limitation on new hospitals that was published in the FY 2003 IPPS final rule (67 FR 50103). Under existing regulations at § 413.40(f)(2)(ii), the “new” hospital would be subject to the same cap in its second cost reporting period; this cap would not be updated for the new hospital's second cost reporting year. Thus, since the same cap is to be used for the “new” LTCH's first two cost reporting periods, it is no longer necessary to publish an updated cap.

V. Payment for Blood Clotting Factor Administered to Hemophilia Inpatients

In December 2002, the Department implemented a policy that established the Single Drug Pricer (SDP) to correct identified discrepancies, further the legislative goal of establishing a uniform payment allowance as a reflection of the average wholesale price (AWP), and otherwise apply the existing stature and regulation more accurately and efficiently (CMS Program Memorandum AB-02-174, December 3, 2002, which can be accessed at: http:/www.cms.hhs.gov/manuals). Under the SDP, CMS will establish prices centrally, thereby resulting in greater consistency in drug pricing nationally. The SDP instruction applies to blood clotting factors furnished to hospital inpatients. The payment allowance for the single national drug price for each Medicare covered drug is based on 95 percent of the AWP, except for drugs billed to durable medical equipment regional carriers (DMERCs) and hospital outpatient drugs billed to fiscal intermediaries. We are publishing this notice here because we previously have addressed the add-on payment for the costs of administering blood clotting factor in the IPPS annual rule (see the August 1, 2000 IPPS final rule (65 FR 47116).

On a quarterly basis, CMS will furnish three SDP files to all fiscal intermediaries. Each fiscal intermediary must accept the SDP files and process claims for any drug identified on the files on the basis of the price shown on the applicable file. Previously, the fiscal intermediary performed annual update calculations based on the most recent AWP data available to the carrier. The fiscal intermediary should use the SDP to price the blood clotting factors.

VI. Tables

This section contains the tables referred to throughout the preamble to this proposed rule and in this Addendum. For purposes of this proposed rule, and to avoid confusion, we have retained the designations of Tables 1 through 5 that were first used in the September 1, 1983 initial prospective payment final rule (48 FR 39844). Tables 1A, 1C, 1D, 2, 3A, 3B, 4A, 4B, 4C, 4F, 4G, 4H, 5, 6A, 6B, 6C, 6D, 6E, 6F, 6G, 6H, 7A, 7B, 8A, 8B, 9, 10, and 11 are presented below. The tables presented below are as follows:

Table 1A—National Adjusted Operating Standardized

Amounts, Labor/Nonlabor

Table 1C—Adjusted Operating Standardized Amounts for Puerto Rico, Labor/Nonlabor

Table 1D—Capital Standard Federal Payment Rate

Table 2—Hospital Average Hourly Wage for Federal Fiscal Years 2002 (1998 Wage Data), 2003 (1999 Wage Data), and 2004 (2000 Wage Data) Wage Indexes and 3-Year Average of Hospital Average Hourly Wages

Table 3A—3-Year Average Hourly Wage for Urban Areas

Table 3B—3-Year Average Hourly Wage for Rural Areas

Table 4A—Wage Index and Capital Geographic Adjustment Factor (GAF) for Urban Areas

Table 4B—Wage Index and Capital Geographic Adjustment Factor (GAF) for Rural Areas

Table 4C—Wage Index and Capital Geographic Adjustment Factor (GAF) for Hospitals That Are Reclassified

Table 4F—Puerto Rico Wage Index and Capital Geographic Adjustment Factor (GAF)

Table 4G—Pre-Reclassified Wage Index for Urban Areas

Table 4H—Pre-Reclassified Wage Index for Rural Areas

Table 5—List of Diagnosis Related Groups (DRGs), Relative Weighting Factors, Geometric and Arithmetic Mean Length of Stay

Table 6A—New Diagnosis Codes

Table 6B—New Procedure Codes

Table 6C—Invalid Diagnosis Codes

Table 6D—Invalid Procedure Codes

Table 6E—Revised Diagnosis Code Titles

Table 6F—Revised Procedure Code Titles

Table 6G—Additions to the CC Exclusions List

Table 6H—Deletions from the CC Exclusions List

Table 7A—Medicare Prospective Payment System Selected Percentile Lengths of Stay FY 2002 MedPAR Update December 2002 GROUPER V20.0

Table 7B—Medicare Prospective Payment System Selected Percentile Lengths of Stay FY 2002 MedPAR Update December 2002 GROUPER V21.0

Table 8A—Statewide Average Operating Cost-to-Charge Ratios for Urban and Rural Hospitals (Case Weighted) March 2003

Table 8B—Statewide Average Capital Cost-to-Charge Ratios (Case Weighted) March 2003

Table 9—Hospital Reclassifications and Redesignations by Individual Hospital—FY 2004

Table 10—Mean and Standard Deviations by Diagnosis-Related Groups (DRGs)—FY 2004

Table 11—Proposed LTC-DRGs Relative Weights and Geometric and Five-Sixths of the Average Length of Stay-FY 2004

Table 1A.—National Adjusted Operating Standardized Amounts, Labor/nonlabor
Large urban areas: Labor-related | Large urban areas: Nonlabor-related | Other areas: Labor-related | Other areas: Nonlabor-related
$3,139.26 | $1,276.01 | $3,089.56 | $1,255.81

Table 1C.—Adjusted Operating Standardized Amounts for Puerto Rico, Labor/nonlabor
| Large urban areas: Labor | Large urban areas: Nonlabor | Other areas: Labor | Other areas: Nonlabor
National | $3,112.84 | $1,265.27 | $3,112.84 | $1,267.03
Puerto Rico | 1,516.86 | 610.57 | 1,492.84 | 600.90

Table 1D.—Capital Standard Federal Payment Rate
| Rate
National | $411.72
Puerto Rico | $201.26

* Denotes wage data not available for the provider for that year.

** Based on the sum of the salaries and hours computed for Federal FYs 2002, 2003, and 2004.

Table 2.—Hospital Average Hourly Wage for Federal Fiscal Years 2002 (1998 Wage Data), 2003 (Wage Data), and 2004 (2000 Wage Data) Wage Indexes and 3-Year Average of Hospital Average Hourly Wages
Provider No. | Average hourly wage FY 2002 | Average hourly wage FY 2003 | Average hourly wage FY 2004 | Average hourly** wage (3 yrs)
010001 | 17.4467 | 17.9841 | 19.3989 | 18.2929
010004 | 19.0010 | 20.1613 | 19.9457 | 19.7003
010005 | 18.6554 | 19.9733 | 18.3970 | 19.0198
010006 | 17.6115 | 18.3931 | 19.0976 | 18.4162
010007 | 15.6788 | 16.0781 | 17.5462 | 16.4299
010008 | 17.4728 | 19.0182 | 19.6573 | 18.7416
010009 | 18.4979 | 19.7272 | 20.3130 | 19.5087
010010 | 16.4664 | 17.7348 | 18.5730 | 17.5867
010011 | 22.4292 | 24.8922 | 25.6737 | 24.2683
010012 | 15.8686 | 20.3376 | 20.0896 | 18.5710
010015 | 19.1178 | 19.8205 | 18.8890 | 19.2826
010016 | 20.2198 | 20.3175 | 21.7918 | 20.8284
010018 | 18.9388 | 19.5519 | 19.2071 | 19.2353
010019 | 17.0856 | 17.6414 | 18.6539 | 17.7694
010021 | 15.1241 | 25.3335 | 17.7595 | 18.4456
010022 | 17.6435 | 22.1250 | 22.2266 | 20.3667
010023 | 16.3209 | 18.4567 | 20.0397 | 18.1965
010024 | 15.9034 | 17.3746 | 18.5108 | 17.2202
010025 | 15.1548 | 17.4702 | 18.9839 | 17.1956
010027 | 16.8595 | 16.5157 | 14.0974 | 15.7259
010029 | 18.3605 | 19.3393 | 20.9608 | 19.6182
010031 | 18.6402 | 19.2612 | 21.0176 | 19.6504
010032 | 15.3590 | 16.3967 | 16.4712 | 16.0937
010033 | 21.2986 | 21.9828 | 24.5088 | 22.5487
010034 | 15.3639 | 14.9379 | 14.5106 | 14.9494
010035 | 15.9439 | 20.7808 | 21.6182 | 19.2869
010036 | 17.7166 | 18.7158 | 17.7766 | 18.0775
010038 | 19.6098 | 19.6887 | 18.5873 | 19.2586
010039 | 20.3406 | 21.3550 | 22.9241 | 21.5758
010040 | 20.0983 | 20.4486 | 20.7536 | 20.4392
010043 | 18.6640 | 17.3567 | 19.9012 | 18.6528
010044 | 24.0265 | 23.4575 | 25.8561 | 24.4502
010045 | 17.0417 | 18.7569 | 21.1167 | 18.8731
010046 | 18.9737 | 18.8741 | 19.7870 | 19.2388
010047 | 15.4190 | 13.4130 | 16.1695 | 14.9341
010049 | 15.5246 | 16.3349 | 16.2841 | 16.0555
010050 | 17.9830 | 20.3028 | 20.7398 | 19.6262
010051 | 11.8108 | 12.3280 | 14.2767 | 12.7951
010052 | 18.0653 | 19.8289 | 11.9019 | 15.6329
010053 | 15.5649 | 15.4156 | 17.3238 | 16.1023
010054 | 19.4955 | 20.9656 | 20.6203 | 20.3735
010055 | 18.8590 | 19.5667 | 19.8170 | 19.4298
010056 | 19.6577 | 20.5645 | 21.1104 | 20.4208
010058 | 16.9715 | 16.1265 | 17.7800 | 16.9302
010059 | 18.8020 | 19.1270 | 20.5534 | 19.4928
010061 | 14.5003 | 18.5320 | 16.9028 | 16.6415
010062 | 12.3259 | 16.9721 | 17.1786 | 15.3820
010064 | 19.5256 | 20.5650 | 21.7162 | 20.5136
010065 | 16.8752 | 17.0557 | 17.2698 | 17.0733
010066 | 13.1559 | 14.8904 | 14.8696 | 14.3351
010068 | 18.6925 | 23.4322 | 18.2092 | 20.2305
010069 | 14.7211 | 15.4497 | 16.9839 | 15.7052
010072 | 16.2339 | 16.5652 | 18.8807 | 17.1920
010073 | 14.1273 | 13.5594 | 14.9826 | 14.2068
010078 | 18.1363 | 18.5127 | 20.1447 | 18.9315
010079 | 17.0648 | 17.1612 | 20.7401 | 18.2252
010081 | 17.2996 | * | * | 17.2996
010083 | 18.0312 | 18.4282 | 19.8525 | 18.7454
010084 | 18.7769 | 19.8773 | 21.6522 | 20.1274
010085 | 19.9023 | 21.5860 | 22.5282 | 21.3942
010086 | 16.5711 | 16.8886 | 18.0122 | 17.1417
010087 | 18.0567 | 18.7915 | 18.7253 | 18.4944
010089 | 17.7800 | 19.5241 | 19.5783 | 18.9652
010090 | 18.9445 | 19.5635 | 20.0287 | 19.5086
010091 | 17.0799 | 17.1775 | 17.4672 | 17.2432
010092 | 17.8144 | 18.5478 | 19.9289 | 18.7707
010095 | 12.2597 | 12.3064 | 12.5243 | 12.3676
010097 | 12.7286 | 14.2675 | 15.1593 | 14.0568
010098 | 14.0300 | 15.5763 | 15.1629 | 14.9158
010099 | 15.5619 | 15.9232 | 16.3307 | 15.9423
010100 | 17.9430 | 18.3755 | 19.8146 | 18.7658
010101 | 14.4625 | 18.9525 | 19.0718 | 17.2612
010102 | 13.8136 | 15.7777 | 16.4636 | 15.3148
010103 | 17.7242 | 22.0802 | 22.5709 | 20.6405
010104 | 16.8457 | 21.9457 | 20.9391 | 19.7211
010108 | 19.4617 | 19.1596 | 20.6337 | 19.7473
010109 | 14.6752 | 15.9627 | 18.2235 | 16.2157
010110 | 15.8283 | 15.5817 | 16.0015 | 15.8256
010112 | 16.8271 | 15.6041 | 17.9243 | 16.7545
010113 | 16.8936 | 18.2774 | 19.1978 | 18.1229
010114 | 17.0760 | 19.3772 | 20.1763 | 18.8237
010115 | 14.2261 | 15.3510 | 15.7873 | 15.0923
010118 | 17.0834 | 17.4620 | 19.4280 | 17.9013
010119 | 19.3942 | 19.5163 | 20.1990 | 19.7084
010120 | 18.2567 | 18.9975 | 19.4369 | 18.8719
010121 | 14.5262 | 15.2345 | 17.1640 | 15.7079
010123 | 19.2140 | * | * | 19.2141
010124 | 16.7465 | * | * | 16.7465
010125 | 16.0136 | 16.5117 | 16.8622 | 16.4618
010126 | 19.1065 | 19.5933 | 19.9845 | 19.5804
010127 | 18.2786 | * | * | 18.2786
010128 | 14.4322 | 16.6899 | 14.7646 | 15.2637
010129 | 16.1733 | 16.7609 | 16.4904 | 16.4644
010130 | 19.5573 | 17.4614 | 18.7190 | 18.5367
010131 | 20.1883 | 19.0492 | 22.3132 | 20.5855
010134 | 19.9856 | 18.5179 | 16.8181 | 18.4871
010137 | 20.5828 | 21.3573 | 28.7410 | 23.1563
010138 | 14.5254 | 14.1369 | 14.2024 | 14.2898
010139 | 20.4331 | 20.5708 | 22.8390 | 21.2553
010143 | 17.6212 | 18.9084 | 20.6578 | 19.0594
010144 | 18.2040 | 18.8272 | 19.1497 | 18.7345
010145 | 20.5895 | 20.8157 | 21.7700 | 21.0799
010146 | 19.1415 | 18.3666 | 21.3384 | 19.6056
010148 | 15.8349 | 18.4591 | 17.6830 | 17.3825
010149 | 18.0156 | 19.0199 | 20.8645 | 19.3169
010150 | 18.9359 | 19.4819 | 21.1878 | 19.8964
010152 | 18.7677 | 19.8990 | 21.1438 | 19.9058
010155 | 15.0689 | 13.6136 | * | 14.4394
010157 | * | 17.7372 | 19.6977 | 18.7304
010158 | 18.3957 | 18.6052 | 18.5464 | 18.5206
010159 | * | 19.3950 | * | 19.3950
020001 | 28.0394 | 28.6530 | 30.1452 | 28.9867
020002 | 25.1987 | 28.2759 | 30.4165 | 27.8092
020004 | 25.4679 | 29.2351 | 27.3516 | 27.2833
020005 | 29.2378 | 35.0860 | 32.7936 | 32.3866
020006 | 28.1417 | 33.0843 | 31.2673 | 30.7745
020007 | 32.3852 | 27.7269 | 27.5708 | 28.8969
020008 | 30.8691 | 31.8878 | 33.4543 | 32.1364
020009 | 18.4660 | 18.5594 | 24.9415 | 20.3403
020010 | 22.7559 | 23.7275 | 20.7928 | 22.3051
020011 | 28.0658 | 27.5062 | 29.6249 | 28.3773
020012 | 25.5320 | 26.7586 | 27.9955 | 26.7886
020013 | 28.1557 | 29.5646 | 30.6424 | 29.4993
020014 | 24.5875 | 27.7870 | 29.6806 | 27.4656
020017 | 28.0572 | 28.8752 | 30.3017 | 29.1234
020024 | 25.3205 | 25.5933 | 28.0930 | 26.3977
020025 | 20.2583 | 29.4375 | 32.8655 | 26.7102
030001 | 21.7869 | 22.8996 | 25.7513 | 23.3305
030002 | 21.8375 | 23.1450 | 25.6038 | 23.5516
030003 | 22.6804 | 23.9849 | 22.1436 | 22.9249
030004 | 15.5478 | 13.8452 | 15.7742 | 15.0275
030006 | 20.0273 | 20.5019 | 23.0216 | 21.0706
030007 | 21.5169 | 22.2473 | 26.1551 | 23.4298
030008 | 22.2190 | * | * | 22.2190
030009 | 18.7557 | 19.1258 | 19.9131 | 19.2261
030010 | 19.5123 | 19.8496 | 20.7204 | 20.0003
030011 | 19.4310 | 19.8141 | 21.0028 | 20.0690
030012 | 20.6585 | 21.1099 | 24.2366 | 22.1509
030013 | 20.0535 | 19.9517 | 21.9766 | 20.7166
030014 | 19.7966 | 20.3017 | 21.5382 | 20.5679
030016 | 19.4785 | 22.2526 | 24.3380 | 22.1886
030017 | 21.7938 | 23.1702 | 21.8792 | 22.2509
030018 | 20.8980 | 21.8067 | 24.9216 | 22.5811
030019 | 21.2540 | 22.0341 | 23.2973 | 22.2278
030022 | 19.5794 | 22.3351 | 24.9941 | 22.3479
030023 | 24.1678 | 25.4626 | 28.6628 | 26.2700
030024 | 23.6009 | 23.7663 | 26.7641 | 24.7020
030025 | 11.9894 | 20.2690 | 18.7967 | 16.8149
030027 | 17.6555 | 18.5500 | 19.4583 | 18.5927
030030 | 21.6932 | 23.1280 | 25.2425 | 23.1970
030033 | 20.2820 | 20.3034 | 26.4812 | 22.3008
030034 | 20.8689 | 19.5578 | 17.7772 | 19.3850
030035 | 20.0226 | 20.5339 | * | 20.2741
030036 | 21.6371 | 22.2690 | 24.9432 | 23.0233
030037 | 23.7615 | 23.7325 | 23.0542 | 23.5162
030038 | 22.9822 | 23.4477 | 25.2632 | 23.9087
030040 | 19.7636 | 19.3706 | 21.2717 | 20.1331
030041 | 18.8717 | 18.4750 | 18.6985 | 18.6886
030043 | 20.5598 | 20.5653 | 20.8619 | 20.6748
030044 | 17.6575 | 18.6781 | 21.9503 | 19.2464
030047 | 21.4412 | 22.7385 | 23.8939 | 22.7605
030049 | 19.3580 | 19.7315 | * | 19.5288
030054 | 15.0657 | 15.7973 | 16.8863 | 15.9671
030055 | 20.2991 | 20.8373 | 22.8612 | 21.3919
030059 | 22.6279 | 27.3929 | * | 24.8227
030060 | 18.6313 | 19.5021 | 21.7685 | 19.9508
030061 | 19.9047 | 21.1013 | 22.9706 | 21.3676
030062 | 18.7172 | 19.2670 | 21.1639 | 19.7478
030064 | 20.3837 | 21.6435 | 22.8009 | 21.6120
030065 | 20.7838 | 22.2846 | 24.6064 | 22.6068
030067 | 17.2778 | 17.6414 | 18.4004 | 17.7581
030068 | 17.7208 | 18.9718 | 19.7097 | 18.8803
030069 | 21.0936 | 23.4902 | 24.5432 | 23.0752
030080 | 20.6581 | 21.2299 | 22.7867 | 21.6244
030083 | 23.5229 | 23.5049 | 24.3273 | 23.8162
030085 | 20.8690 | 21.6542 | 21.8196 | 21.4875
030087 | 21.9465 | 23.1339 | 25.6344 | 23.5331
030088 | 20.5340 | 21.4491 | 23.5761 | 21.9185
030089 | 20.9516 | 22.0850 | 24.5055 | 22.5911
030092 | 21.8308 | 19.6625 | 20.6577 | 20.5622
030093 | 20.4314 | 21.7195 | 23.2485 | 21.9062
030094 | 22.8123 | 21.8049 | 24.5992 | 23.0301
030095 | 13.7664 | 20.5222 | * | 16.1313
030099 | 18.2263 | 19.8092 | 20.3310 | 19.5882
030100 | 23.7609 | 23.5868 | * | 23.6643
030101 | 19.2547 | 21.1029 | 23.8414 | 21.3423
030102 | 18.2413 | 21.5405 | * | 19.8425
030103 | * | 28.9308 | 40.8755 | 33.8153
030104 | * | 32.8668 | 34.6026 | 33.8315
040001 | 16.9178 | 16.3882 | 16.2652 | 16.4883
040002 | 15.1107 | 16.1353 | 18.0776 | 16.4361
040003 | 15.5740 | 15.5186 | 16.3918 | 15.8349
040004 | 17.9034 | 19.0105 | 19.8567 | 18.9476
040005 | 11.1318 | 16.5465 | * | 13.6054
040007 | 18.6998 | 22.5319 | 23.3992 | 21.2518
040008 | 14.7985 | 20.2121 | * | 17.4031
040010 | 19.4913 | 19.8251 | 20.4612 | 19.9398
040011 | 16.0995 | 17.1337 | 18.8346 | 17.5256
040014 | 18.1434 | 19.3996 | 22.4970 | 19.9652
040015 | 15.5207 | 17.9602 | 18.8513 | 17.4824
040016 | 20.2321 | 19.8087 | 21.2198 | 20.4114
040017 | 15.4736 | 16.5648 | 17.7545 | 16.6023
040018 | 18.7463 | 18.8203 | 22.2459 | 19.8242
040019 | 23.4163 | 21.0465 | 21.1711 | 21.7572
040020 | 18.9844 | 17.6056 | 18.0130 | 18.1484
040021 | 19.6835 | 21.3321 | 23.3840 | 21.5035
040022 | 20.8281 | 19.2393 | 20.5951 | 20.1448
040024 | 17.6607 | 17.1507 | 17.5750 | 17.4623
040025 | 13.4705 | 14.8071 | 17.6791 | 15.1660
040026 | 19.7924 | 21.0143 | 22.6617 | 21.1612
040027 | 17.4431 | 17.7161 | 19.3388 | 18.1973
040028 | 13.9946 | 15.2850 | 13.9975 | 14.4367
040029 | 21.1370 | 22.5094 | 22.1882 | 21.9489
040030 | 11.2402 | 16.5488 | * | 13.2353
040032 | 13.2872 | 13.8013 | 16.2781 | 14.3506
040035 | 10.9569 | 11.0611 | 11.8237 | 11.2698
040036 | 20.2012 | 21.1066 | 21.6742 | 21.0202
040037 | 14.0941 | 15.4984 | * | 14.7246
040039 | 14.7177 | 15.2811 | 15.9673 | 15.3471
040040 | 19.1984 | 19.6704 | * | 19.4380
040041 | 16.4624 | 17.7783 | 20.4646 | 18.2091
040042 | 15.2057 | 16.6875 | 16.2285 | 16.0552
040044 | 13.3501 | 17.1869 | 18.4270 | 16.2509
040045 | 16.2469 | 16.6648 | 19.5573 | 17.3603
040047 | 17.5336 | 18.6295 | 20.4173 | 18.8431
040050 | 14.0036 | 14.2087 | 15.1428 | 14.4627
040051 | 16.6039 | 18.2152 | 17.6964 | 17.5006
040053 | 15.0219 | 14.1508 | 19.2586 | 15.8377
040054 | 14.2577 | 16.5217 | 16.5573 | 15.7676
040055 | 18.0414 | 17.4236 | 17.1669 | 17.5528
040058 | 16.4278 | 19.3124 | * | 17.6419
040060 | 17.9805 | 15.4220 | 19.0007 | 17.4501
040062 | 17.8902 | 19.4255 | 20.6917 | 19.3314
040064 | 11.5029 | 13.3479 | 18.6107 | 14.1151
040066 | 19.7144 | 19.5619 | 21.7766 | 20.3116
040067 | 14.4741 | 15.0081 | 16.0516 | 15.1736
040069 | 17.0026 | 18.9754 | 20.5968 | 18.8667
040070 | 16.9700 | 18.6066 | 20.5214 | 18.8036
040071 | 17.6144 | 18.4956 | 18.7641 | 18.2815
040072 | 17.4960 | 21.3320 | 18.4032 | 18.9950
040074 | 18.7542 | 20.8465 | 22.0800 | 20.5126
040075 | 14.0975 | 14.6681 | 15.7875 | 14.8313
040076 | 20.5840 | 21.8010 | 23.5948 | 21.9901
040077 | 13.9114 | 14.7230 | 16.7832 | 15.1038
040078 | 18.5821 | 19.6363 | 21.4854 | 19.9519
040080 | 19.3707 | 22.8153 | 18.3431 | 19.9751
040081 | 11.1332 | 12.4796 | 13.2797 | 12.2892
040082 | 15.1331 | 16.4840 | 18.1636 | 16.5196
040084 | 17.7295 | 18.3410 | 20.1163 | 18.7753
040085 | 16.5216 | 14.1782 | 15.5811 | 15.3778
040088 | 17.1624 | 18.3159 | 19.8286 | 18.3979
040090 | 19.0824 | 16.6619 | * | 17.8591
040091 | 20.1378 | 20.2904 | 20.6688 | 20.3813
040093 | 13.9741 | 14.7132 | * | 14.3380
040100 | 15.6833 | 17.0271 | 17.8889 | 16.9700
040105 | 14.3896 | 14.8936 | 15.4697 | 14.9508
040106 | 18.1341 | 19.0936 | 19.1726 | 18.8593
040107 | 17.8628 | 20.6852 | 17.6695 | 18.7676
040109 | 16.6278 | 16.2496 | 17.1706 | 16.6926
040114 | 21.1231 | 21.3826 | 21.3532 | 21.2885
040118 | 18.2123 | 19.6248 | 21.8065 | 19.9138
040119 | 16.9407 | 18.6028 | 19.9013 | 18.5380
040124 | 19.2889 | * | * | 19.2889
040126 | 11.6517 | 16.3391 | 13.3832 | 13.6732
040132 | 10.3875 | 24.6941 | 29.2337 | 17.5163
040134 | 19.0185 | 22.1291 | * | 20.6229
040135 | 23.0084 | * | * | 23.0082
040136 | * | 21.4139 | * | 21.4138
040137 | * | * | 24.7813 | 24.7813
040138 | * | * | 21.0859 | 21.0859
050002 | 36.9630 | 30.2629 | 30.9729 | 32.2632
050006 | 18.2061 | 22.4890 | 25.4618 | 22.0352
050007 | 30.8676 | 31.6270 | 34.1406 | 32.1656
050008 | 26.3682 | 28.2021 | 32.4067 | 28.7024
050009 | 28.4734 | 28.3021 | 30.2740 | 29.0378
050013 | 28.0569 | 27.2552 | 30.1682 | 28.4525
050014 | 23.6745 | 25.1664 | 27.7646 | 25.5586
050015 | 27.7731 | 28.2204 | 27.5652 | 27.8552
050016 | 21.2045 | 22.7014 | 25.1232 | 23.0550
050017 | 25.6178 | 25.7403 | 28.4165 | 26.5820
050018 | 15.2903 | 16.5909 | 17.9621 | 16.7254
050022 | 24.5254 | 26.2574 | 28.1312 | 26.3930
050024 | 22.4274 | 21.5230 | 25.1016 | 22.9531
050025 | 24.8245 | 26.0161 | 29.8262 | 26.8932
050026 | 23.1904 | 23.4651 | 23.8785 | 23.5278
050028 | 17.6138 | 17.9421 | 18.7866 | 18.1131
050029 | 24.6839 | 26.6783 | 30.2538 | 27.1782
050030 | 21.5621 | 21.8639 | 21.9251 | 21.7896
050032 | 24.3598 | 24.4176 | 24.6284 | 24.4685
050033 | 32.0179 | 31.1768 | * | 31.6954
050036 | 21.8239 | 24.8017 | 25.3885 | 24.0459
050038 | 29.9698 | 32.1757 | 36.1619 | 32.5954
050039 | 22.8288 | 23.8478 | 26.8993 | 24.5711
050040 | 30.2607 | 30.1153 | 30.7426 | 30.3810
050042 | 24.5260 | 25.4903 | 27.6765 | 25.9508
050043 | 33.8255 | 38.8988 | 37.3217 | 36.6008
050045 | 21.1474 | 21.0356 | 22.1691 | 21.4359
050046 | 25.2005 | 25.3067 | 25.5490 | 25.3505
050047 | 29.9580 | 31.6959 | 34.4427 | 32.0849
050051 | 18.7809 | 17.9266 | * | 18.3161
050054 | 22.0982 | 19.2395 | 21.3495 | 20.8463
050055 | 29.2730 | 32.0923 | 36.1182 | 32.3322
050056 | 23.8396 | 24.7994 | 27.1458 | 25.3250
050057 | 20.7420 | 22.2584 | 24.2758 | 22.4840
050058 | 23.3009 | 24.8366 | 23.2205 | 23.7636
050060 | 20.5450 | 21.9971 | 22.9491 | 22.0213
050061 | 24.5488 | 23.9906 | 25.3042 | 24.6040
050063 | 25.7593 | 25.5798 | 28.6093 | 26.6450
050065 | 24.6290 | 27.6677 | 28.8369 | 27.0472
050066 | 16.1649 | 26.3920 | * | 19.8363
050067 | 25.8857 | 22.1250 | 27.8867 | 24.8006
050068 | 19.3615 | 19.2325 | 21.9031 | 19.5920
050069 | 24.6153 | 25.8560 | 27.2744 | 25.8994
050070 | 34.0721 | 36.4136 | 39.5178 | 36.7625
050071 | 34.4367 | 36.4834 | 40.1344 | 37.0182
050072 | 39.7321 | 36.1146 | 39.2188 | 38.3181
050073 | 32.8555 | 36.1054 | 38.6763 | 35.9238
050075 | 33.7160 | 37.8104 | 40.2265 | 37.4233
050076 | 33.9752 | 37.0415 | 40.8075 | 37.1398
050077 | 24.1404 | 25.3481 | 27.1234 | 25.5664
050078 | 24.3150 | 23.0613 | 23.2913 | 23.5117
050079 | 30.0167 | 36.5455 | 39.6651 | 35.3854
050082 | 23.7617 | 23.7718 | 23.9154 | 23.8161
050084 | 25.4517 | 25.1155 | 25.9728 | 25.5331
050088 | 24.9641 | 25.2282 | 27.1103 | 25.7384
050089 | 22.8450 | 23.4120 | 24.7857 | 23.6599
050090 | 24.6070 | 25.4545 | 27.4193 | 25.8348
050091 | 23.7713 | 26.6463 | 29.2522 | 26.4442
050092 | 17.1211 | 17.1883 | 18.1132 | 17.4867
050093 | 25.6647 | 27.2048 | 29.2642 | 27.4393
050095 | 30.4847 | 29.2226 | * | 29.7245
050096 | 22.7394 | 22.5034 | 23.0526 | 22.7555
050097 | 22.5991 | 24.2548 | 24.4129 | 23.7724
050099 | 25.3722 | 26.2363 | 27.1308 | 26.2772
050100 | 25.2031 | 23.9877 | 25.3258 | 24.8411
050101 | 31.8957 | 33.1232 | 32.3802 | 32.4675
050102 | 24.0014 | 22.6741 | 25.5763 | 24.0204
050103 | 25.4133 | 23.5946 | 25.0854 | 24.6669
050104 | 26.9726 | 27.3260 | 26.1592 | 26.8000
050107 | 22.2019 | 22.2746 | 22.6900 | 22.4227
050108 | 25.1758 | 25.6983 | 28.5244 | 26.4357
050110 | 19.9589 | 21.3399 | 21.9296 | 21.1132
050111 | 20.7897 | 21.0813 | 23.7715 | 21.9292
050112 | 26.8182 | 29.1268 | 31.9797 | 29.3043
050113 | 28.5224 | 32.4493 | 32.6932 | 31.3678
050114 | 26.6757 | 27.6486 | 28.1909 | 27.5327
050115 | 23.0182 | 24.3748 | 24.1481 | 23.8529
050116 | 24.9196 | 27.0331 | 28.2924 | 26.6320
050117 | 22.2123 | 23.0697 | 24.7555 | 23.3917
050118 | 23.7129 | 24.9094 | 28.9358 | 25.8815
050121 | 18.7272 | 18.8430 | 24.6584 | 20.3903
050122 | 26.9546 | 26.9048 | 29.1534 | 27.6723
050124 | 24.5069 | 23.9379 | 23.0843 | 23.8087
050125 | 32.0230 | 33.3290 | 35.6572 | 33.6339
050126 | 24.6752 | 26.9718 | 27.7126 | 26.4996
050127 | 20.9027 | 20.5928 | 21.8559 | 21.1158
050128 | 26.6132 | 26.2519 | 28.7668 | 27.1805
050129 | 24.0108 | 23.7432 | 25.2780 | 24.3452
050131 | 32.5462 | 33.0980 | 37.7844 | 34.4656
050132 | 24.0173 | 24.1583 | 28.0265 | 25.4346
050133 | 23.2093 | 23.9479 | 25.1948 | 24.1576
050135 | 24.7157 | 23.2750 | 12.5413 | 18.0625
050136 | 24.7280 | 28.0754 | 31.1484 | 27.7833
050137 | 32.9192 | 33.7489 | 35.0503 | 33.8818
050138 | 38.1584 | 40.8912 | 43.0858 | 40.6538
050139 | 31.4984 | 35.1492 | 33.8749 | 33.3407
050140 | 32.7609 | 36.7096 | 36.1708 | 35.1295
050144 | 27.4069 | 29.8983 | 30.3678 | 29.2851
050145 | 34.5185 | 37.5003 | 37.5722 | 36.5610
050148 | 20.0971 | 21.1622 | 17.3908 | 19.5271
050149 | 26.8674 | 25.8880 | 28.0501 | 26.8823
050150 | 24.6596 | 25.9494 | 26.7728 | 25.8255
050152 | 33.3305 | 34.5096 | 34.5694 | 34.1486
050153 | 32.3389 | 33.3333 | 34.5870 | 33.4428
050155 | 25.3354 | 23.2118 | 21.2069 | 23.1002
050158 | 28.6071 | 28.9764 | 30.6598 | 29.4328
050159 | 22.5313 | 26.6139 | 21.3422 | 23.0637
050167 | 21.8796 | 21.9596 | 23.1879 | 22.3467
050168 | 25.1937 | 27.1971 | 26.4047 | 26.2183
050169 | 24.8407 | 24.7737 | 25.6896 | 25.1108
050170 | 24.3654 | 27.7693 | 29.4075 | 26.9505
050172 | 19.6120 | 22.0400 | 24.5849 | 22.0737
050173 | 24.8694 | * | 27.7070 | 26.3141
050174 | 30.2775 | 31.6888 | 33.5204 | 31.9008
050175 | 24.7548 | 26.0146 | 26.9627 | 25.9076
050177 | 21.1396 | 22.5039 | 23.1575 | 22.2317
050179 | 23.8868 | 22.8941 | 23.0583 | 23.2574
050180 | 33.3257 | 34.0900 | 36.9905 | 34.8613
050186 | 23.6288 | 25.0791 | 27.6638 | 25.5202
050188 | 28.2364 | 30.6007 | 34.1503 | 31.0517
050189 | 27.4071 | 28.3295 | 32.3514 | 29.2097
050191 | 25.3516 | 29.4162 | 28.1689 | 27.6587
050192 | 14.1996 | 19.0400 | 19.5157 | 17.3616
050193 | 24.9444 | 25.5294 | 24.6307 | 25.0325
050194 | 29.5678 | 28.5389 | 28.0291 | 28.6722
050195 | 36.9068 | 39.1617 | 42.1735 | 39.4471
050196 | 18.2411 | 19.4304 | 19.8203 | 19.1752
050197 | 32.4030 | 34.6878 | 25.9224 | 30.7008
050204 | 22.7099 | 23.0192 | 24.9458 | 23.5600
050205 | 24.1691 | 24.1275 | 25.2841 | 24.5169
050207 | 22.9941 | 23.7774 | 25.1863 | 23.9991
050211 | 31.7280 | 33.2481 | 34.3396 | 33.0898
050213 | 21.4951 | * | * | 21.4951
050214 | 24.0276 | 21.1480 | 22.2431 | 22.4178
050215 | 35.0459 | 31.6895 | 34.4745 | 33.7035
050217 | 20.2042 | 21.3026 | 22.2055 | 21.2565
050219 | 21.2458 | 21.7637 | 21.8649 | 21.6598
050222 | 23.3563 | 23.0670 | 24.6959 | 23.7403
050224 | 23.5101 | 24.8431 | 25.1943 | 24.5595
050225 | 21.6820 | 22.0981 | 24.5601 | 22.7516
050226 | 24.4443 | 26.1959 | 26.0826 | 25.7144
050228 | 34.2596 | 36.0632 | 38.6751 | 36.2629
050230 | 26.6291 | 26.7963 | 30.0380 | 27.8217
050231 | 26.7321 | 27.4697 | 27.0320 | 27.0798
050232 | 24.5245 | 25.8640 | 25.3439 | 25.2423
050234 | 24.6126 | 25.0104 | 23.2830 | 24.1727
050235 | 27.0922 | 26.0323 | 27.2838 | 26.7962
050236 | 25.9458 | 27.7406 | 26.9290 | 26.8640
050238 | 24.5823 | 25.1796 | 26.0312 | 25.2541
050239 | 23.2711 | 24.9469 | 27.0911 | 25.1055
050240 | 26.7620 | 28.8910 | 32.8542 | 29.7204
050241 | 29.8345 | * | * | 29.8345
050242 | 32.0829 | 33.5646 | 34.4412 | 33.3749
050243 | 26.4627 | 26.0256 | 28.5626 | 27.0708
050245 | 23.2716 | 24.6092 | 25.7585 | 24.5579
050248 | 27.6457 | 28.4413 | 29.1192 | 28.4523
050251 | 23.6360 | 27.9531 | 24.4552 | 25.2214
050253 | 16.7540 | 21.0399 | 23.9247 | 20.2377
050254 | 20.1176 | 22.3414 | 23.3358 | 21.9420
050256 | 23.4835 | 25.1104 | 26.8618 | 25.3035
050257 | 17.2596 | 15.6379 | 17.4909 | 16.8191
050260 | 27.4234 | 30.1623 | 24.9073 | 27.2549
050261 | 20.1040 | 19.4649 | 21.4693 | 20.3613
050262 | 29.5550 | 30.8866 | 33.0425 | 31.0973
050264 | 36.0331 | 33.2270 | 37.5425 | 35.5478
050267 | 26.0401 | 27.8393 | 26.6558 | 26.7955
050270 | 25.3757 | 26.4092 | 27.9871 | 26.6878
050272 | 23.0587 | 23.3443 | 24.0921 | 23.5076
050276 | 33.3302 | 34.0633 | 34.4832 | 33.9454
050277 | 26.0822 | 23.6065 | 35.6323 | 28.8604
050278 | 23.9289 | 24.9699 | 26.0331 | 24.9976
050279 | 21.8949 | 22.2776 | 23.5145 | 22.5756
050280 | 25.6651 | 26.3392 | 28.4969 | 26.8343
050281 | 24.2251 | 25.2699 | 25.7832 | 25.1246
050282 | 25.4428 | 26.4698 | * | 25.9126
050283 | 31.7669 | 32.3270 | 35.1831 | 33.1816
050286 | 19.4241 | 20.6191 | 19.7351 | 19.9268
050289 | 30.4750 | 32.2125 | 34.9651 | 32.5458
050290 | 29.6796 | 31.5000 | 31.9510 | 31.0288
050291 | 29.4029 | 30.9334 | 28.3451 | 29.5051
050292 | 20.8410 | 21.4357 | 27.6114 | 23.1188
050293 | 24.1875 | 17.1935 | * | 20.0134
050295 | 21.7883 | 25.4405 | 25.4332 | 24.2106
050296 | 28.3906 | 30.0984 | 33.5948 | 30.6658
050298 | 23.2006 | 22.4000 | 26.1833 | 23.8635
050299 | 25.5035 | 24.6751 | 26.9870 | 25.7710
050300 | 25.9228 | 26.0298 | 26.6700 | 26.2233
050301 | 21.1403 | 24.7987 | 22.7711 | 22.8646
050305 | 36.7908 | 36.6981 | 38.7597 | 37.4248
050308 | 28.9284 | 30.3887 | 31.6790 | 30.3648
050309 | 25.3515 | 25.5221 | 25.5367 | 25.4704
050312 | 26.0015 | 26.0172 | 28.2557 | 26.8194
050313 | 25.6827 | 28.9126 | 25.0948 | 26.4529
050315 | 22.7359 | 22.5906 | 23.6638 | 23.0139
050320 | 32.4809 | 31.6571 | 31.9686 | 32.0209
050324 | 25.3694 | 26.8313 | 28.4931 | 27.0063
050325 | 23.6327 | 22.6353 | 26.6326 | 24.1679
050327 | 25.6450 | 31.1527 | 33.0549 | 29.6283
050329 | 21.6984 | 24.2134 | 26.6341 | 24.1720
050331 | 25.0230 | 25.2110 | 21.5193 | 23.7909
050333 | 19.1449 | 14.1808 | 15.6929 | 16.0637
050334 | 34.2557 | 34.3956 | 37.2336 | 35.3386
050335 | 22.9926 | 22.9335 | 23.9713 | 23.3018
050336 | 21.3402 | 22.0203 | * | 21.6868
050342 | 20.8255 | 22.4510 | 23.0282 | 22.0864
050348 | 25.1085 | 29.3364 | 28.9864 | 27.7954
050349 | 15.0667 | 15.4536 | 15.6042 | 15.3828
050350 | 26.4161 | 27.2368 | 27.2573 | 26.9829
050351 | 24.8121 | 25.2436 | 27.4042 | 25.8956
050352 | 26.4262 | 27.7489 | 32.6772 | 28.8662
050353 | 23.2699 | 24.1009 | 24.8223 | 24.0722
050355 | 21.0969 | 41.4710 | * | 27.5904
050357 | 24.5345 | 24.3540 | 25.2126 | 24.7119
050359 | 21.7548 | 19.7653 | 22.9175 | 21.4664
050360 | 31.7583 | 33.3592 | 35.9032 | 33.7039
050366 | 19.6823 | 22.0442 | 23.4696 | 21.8093
050367 | 30.7328 | 31.7487 | 32.6760 | 31.7233
050369 | 26.2234 | 26.6627 | 28.0909 | 27.0127
050373 | 27.8275 | 29.9749 | 30.4697 | 29.3692
050376 | 28.0990 | 28.4026 | 30.3530 | 28.9347
050377 | 17.0012 | 11.6463 | 14.3889 | 14.7469
050378 | 26.9101 | 27.8389 | 30.4937 | 28.3969
050379 | 18.4278 | 24.2408 | 27.5150 | 22.7721
050380 | 31.9578 | 31.5962 | 35.1536 | 32.9076
050382 | 25.9244 | 26.3968 | 26.8949 | 26.4027
050385 | * | 27.1692 | * | 27.1692
050388 | 22.0122 | 17.6762 | 15.6834 | 18.4348
050390 | 24.2700 | 25.8556 | 25.7881 | 25.2656
050391 | 20.0615 | 19.0832 | 20.2887 | 19.7798
050392 | 22.9430 | 24.9003 | 21.8139 | 23.1475
050393 | 24.1981 | 25.4028 | 26.4918 | 25.4171
050394 | 23.1526 | 23.1641 | 25.1869 | 23.8865
050396 | 25.3729 | 25.7580 | 28.4161 | 26.5200
050397 | 20.6397 | 23.3212 | 24.7280 | 22.8187
050401 | 18.4593 | * | * | 18.4593
050404 | 15.9839 | 16.4845 | 20.0233 | 17.3758
050406 | 17.8596 | 21.5282 | 23.0438 | 20.5476
050407 | 30.8346 | 32.0753 | 33.2894 | 32.0587
050410 | 19.8508 | 17.1718 | 19.8436 | 18.9151
050411 | 33.1943 | 33.1718 | * | 33.1828
050414 | 25.9723 | 24.5471 | 26.8815 | 25.7060
050417 | 23.3005 | 23.3862 | 24.4608 | 23.7300
050419 | 23.4936 | 25.1449 | 26.4357 | 25.0021
050420 | 23.5438 | 26.4201 | 26.7537 | 25.5652
050423 | 21.3552 | 24.8113 | 26.5188 | 24.3189
050424 | 24.0727 | 25.9378 | 27.5273 | 25.9000
050425 | 35.3712 | 33.7276 | 37.7347 | 35.6925
050426 | 29.0120 | 26.7941 | 30.9610 | 28.8680
050427 | 16.4330 | 31.4154 | 25.8360 | 23.8810
050430 | 21.2275 | 25.2322 | 31.5171 | 24.6961
050432 | 24.5630 | 26.0686 | 28.2074 | 26.3472
050433 | 18.9021 | 17.7980 | 14.3846 | 17.2267
050434 | * | 24.0017 | * | 24.0017
050435 | 23.3426 | 22.5428 | 22.6561 | 22.8168
050438 | 23.2583 | 25.3763 | 26.5535 | 25.0490
050440 | 22.5400 | 25.4767 | 28.2209 | 25.3120
050441 | 31.8774 | 33.4696 | 36.6680 | 33.8900
050443 | 17.2875 | 16.8897 | 18.0063 | 17.3814
050444 | 22.4530 | 22.6469 | 23.5299 | 22.8500
050446 | 22.3422 | 20.3611 | 20.0104 | 20.8646
050447 | 18.9851 | 24.4339 | 25.7274 | 23.3050
050448 | 21.7718 | 22.6612 | 26.6967 | 23.5469
050449 | 23.4614 | * | * | 23.4614
050454 | 30.0792 | 30.3063 | 34.4813 | 31.6390
050455 | 19.8577 | 20.5575 | 23.8527 | 21.3319
050456 | 18.1585 | 17.5846 | 23.7594 | 19.3948
050457 | 32.1910 | 34.2116 | 37.4570 | 34.4455
050464 | 25.7710 | 25.8092 | 31.4768 | 27.7900
050468 | 22.2926 | 22.9771 | 17.8128 | 20.5312
050469 | 24.5205 | * | 25.7995 | 25.2381
050470 | 16.0805 | 15.7765 | 21.2996 | 17.4624
050471 | 27.1597 | 29.4705 | 32.3570 | 29.6121
050476 | 24.0253 | 25.9458 | 25.9711 | 25.3460
050477 | 27.5819 | 30.8781 | 32.1676 | 30.2255
050478 | 26.3306 | 28.1829 | 28.3893 | 27.6685
050481 | 27.7973 | 28.5320 | 29.4912 | 28.6205
050482 | 16.0114 | 21.6091 | 23.0016 | 19.2164
050485 | 24.6906 | 25.2723 | 23.8237 | 24.5767
050488 | 31.7481 | 33.8291 | 37.2438 | 34.4285
050491 | 27.4600 | 27.7412 | 29.2987 | 28.1988
050492 | 20.5030 | 23.4977 | 23.7383 | 22.6518
050494 | 29.1296 | 30.2875 | 30.7725 | 30.1010
050496 | 34.9704 | 32.7474 | 35.7115 | 34.4409
050497 | 15.4115 | * | 14.4481 | 14.9306
050498 | 26.1716 | 27.6099 | 28.2196 | 27.3481
050502 | 25.3701 | 27.2724 | 27.9506 | 26.8641
050503 | 23.3745 | 25.7668 | 26.7924 | 25.3905
050506 | 25.0333 | 27.1555 | 30.4731 | 27.5747
050510 | 33.7481 | 36.2548 | 39.6005 | 36.5514
050512 | 34.4368 | 36.0785 | 39.0767 | 36.6044
050515 | 33.7321 | 37.3440 | 36.3131 | 35.7452
050516 | 26.1969 | 25.3450 | 30.0359 | 27.0104
050517 | 22.0985 | 23.6067 | 23.4131 | 22.9981
050522 | 36.2127 | 37.0295 | 38.9158 | 36.9675
050523 | 31.2522 | 32.1272 | 33.8053 | 32.4311
050526 | 26.4014 | 26.8814 | 29.0004 | 27.4593
050528 | 18.9155 | 21.1741 | 23.9177 | 21.3604
050531 | 21.3948 | * | 22.7311 | 22.0660
050534 | 24.0001 | 24.4038 | 26.7941 | 25.0949
050535 | 26.8511 | 27.7626 | 29.7904 | 28.1965
050537 | 24.0354 | 26.2342 | 25.1292 | 25.1574
050539 | 23.3846 | 23.7778 | 24.1196 | 23.7754
050541 | 36.6149 | 37.0551 | 41.1980 | 38.3379
050542 | 17.7737 | 21.8129 | 21.2846 | 19.9901
050543 | 21.6795 | 22.4134 | 24.0333 | 22.7542
050545 | 31.7280 | 33.6302 | 33.4322 | 32.9305
050546 | 38.8087 | 39.4266 | 42.8053 | 40.3552
050547 | 37.7681 | 37.7633 | 40.6483 | 38.6518
050548 | 29.8516 | 30.3336 | 32.3944 | 30.8485
050549 | 28.9615 | 30.0948 | 31.6709 | 30.2918
050550 | 25.6588 | 26.5515 | 29.0938 | 27.1362
050551 | 24.8084 | 26.1042 | 28.6834 | 26.5676
050552 | 20.3239 | 20.6068 | 24.9755 | 21.7907
050557 | 22.2562 | 23.8340 | 25.8401 | 24.0476
050559 | 24.7866 | 26.3799 | 25.3299 | 25.4887
050561 | 33.4423 | 34.2065 | * | 33.8236
050564 | 24.2091 | * | * | 24.2090
050565 | 20.8349 | * | * | 20.8349
050566 | 22.3448 | 21.7712 | 24.0648 | 22.6946
050567 | 25.0787 | 26.2588 | 27.8475 | 26.4308
050568 | 20.5376 | 21.9313 | 20.8324 | 21.0880
050569 | 27.3429 | 27.3294 | 27.7955 | 27.4880
050570 | 25.8619 | 26.8965 | 29.9470 | 27.6972
050571 | 24.0154 | 26.2226 | 29.1716 | 26.5115
050573 | 25.6589 | 25.9380 | 27.2328 | 26.2959
050575 | 20.7090 | 27.8579 | 23.1358 | 23.6994
050577 | 23.5487 | 25.2861 | 26.4806 | 25.0050
050578 | 28.9009 | 32.0554 | 31.1695 | 30.6550
050579 | 29.9348 | 32.0245 | 34.9794 | 32.4397
050580 | 24.6962 | 22.7522 | 27.2431 | 24.7685
050581 | 24.9807 | 26.0580 | 28.9696 | 26.6705
050583 | 25.8800 | 26.2664 | 30.0427 | 27.5806
050584 | 19.5805 | 24.5294 | 24.5544 | 22.7601
050585 | 24.2824 | 26.4446 | 26.0595 | 25.5822
050586 | 23.1850 | * | * | 23.1850
050588 | 24.5472 | 27.0506 | 30.5453 | 27.6351
050589 | 23.8880 | 23.7918 | 27.9845 | 25.1893
050590 | 24.4797 | 25.1100 | 27.0535 | 25.5262
050591 | 25.0209 | 26.7662 | 28.6151 | 26.8393
050592 | 22.1174 | 23.8267 | 25.9545 | 23.8223
050594 | 27.7002 | 28.7415 | 30.8029 | 29.1185
050597 | 23.3280 | 23.1209 | 24.5542 | 23.6763
050598 | 23.9202 | 25.1622 | 31.1703 | 26.7495
050599 | 26.0892 | 26.3782 | 27.7684 | 26.7559
050601 | 29.7417 | 29.7734 | 32.3033 | 30.6813
050603 | 21.7031 | 24.9032 | 25.0996 | 23.8892
050604 | 35.4034 | 36.4669 | 42.0018 | 37.9795
050608 | 18.1664 | 20.9171 | 20.7954 | 19.9529
050609 | 33.5028 | 34.8949 | * | 34.1686
050613 | 30.2413 | 34.9768 | * | 32.5464
050615 | 27.5682 | 25.8698 | 29.4322 | 27.6985
050616 | 24.9843 | 25.0016 | * | 24.9928
050618 | 21.4895 | 22.3548 | * | 21.9734
050623 | 27.5832 | 28.6475 | 29.9553 | 28.6716
050624 | 26.4659 | 22.4030 | 23.4665 | 23.9161
050625 | 27.5816 | 29.3665 | 29.6612 | 28.9346
050630 | 24.2120 | 25.2915 | 27.7052 | 25.7731
050633 | 25.4283 | 27.8165 | 30.2883 | 27.9289
050636 | 23.5257 | 25.0214 | 23.2573 | 23.9123
050638 | 18.2159 | 15.6375 | 21.0088 | 18.1465
050641 | 17.1258 | 17.9379 | 21.5030 | 19.2373
050644 | 22.1489 | * | 28.4054 | 25.2877
050662 | 35.0989 | 38.9592 | 40.9243 | 38.2885
050663 | 24.9110 | 22.7770 | 22.9161 | 23.2174
050667 | 27.5045 | 26.9236 | 31.4906 | 28.5908
050668 | 61.7751 | 57.8627 | * | 59.6272
050670 | 24.6101 | 24.1626 | * | 24.3757
050674 | 32.4807 | 33.7845 | 36.8871 | 34.4747
050676 | 20.2087 | 16.3948 | 24.3105 | 19.1193
050677 | 33.6070 | 34.0936 | * | 33.8463
050678 | 22.7756 | 25.2143 | 27.1337 | 25.0885
050680 | 31.4839 | 31.9166 | 32.2371 | 31.8875
050682 | 17.3566 | 19.8107 | 23.0983 | 19.8665
050684 | 23.3697 | 24.2792 | 23.7443 | 23.7986
050685 | 35.1307 | 30.4194 | * | 32.6498
050686 | 33.4420 | 34.8278 | * | 34.1349
050688 | 31.0648 | 34.9936 | 36.5555 | 34.8315
050689 | 30.9399 | 34.0571 | 37.5449 | 34.4378
050690 | 34.8112 | 36.7516 | 41.1385 | 37.6299
050693 | 25.5662 | 29.1213 | 32.6638 | 29.3244
050694 | 23.5572 | 25.1964 | 25.8299 | 24.8850
050695 | 24.4301 | 26.2838 | 27.8742 | 26.2576
050696 | 28.3291 | 29.6685 | 29.9410 | 29.3284
050697 | 18.2338 | 24.1116 | 18.5357 | 19.9903
050698 | * | 24.9559 | * | 24.9559
050699 | 17.5296 | 23.4611 | 26.3932 | 21.9529
050701 | 24.3055 | 26.4901 | 28.4650 | 26.3518
050704 | 22.7618 | 25.6565 | 24.6072 | 24.3668
050707 | 27.8958 | 28.2637 | 27.7366 | 27.9699
050708 | 24.8647 | 24.5606 | 22.1605 | 23.8703
050709 | 19.4977 | 21.8770 | 22.7897 | 21.4220
050710 | 27.5828 | 30.5918 | 33.7204 | 30.7878
050713 | 16.8538 | 18.2822 | 19.0071 | 18.0075
050714 | 30.1925 | 30.3290 | 30.3262 | 30.2901
050717 | 28.7973 | 31.5021 | 33.0719 | 31.0905
050718 | 18.0940 | 22.5989 | 21.7835 | 21.3483
050719 | 23.0833 | * | 22.0997 | 22.4754
050720 | 25.8677 | * | 26.1941 | 26.0295
050723 | * | 32.0291 | 33.0797 | 32.5951
050725 | * | * | 20.6592 | 20.6592
050726 | * | * | 25.8742 | 25.8742
060001 | 21.1819 | 21.4562 | 23.1548 | 21.9595
060003 | 20.4682 | 21.9043 | 23.0807 | 21.8505
060004 | 21.4496 | 22.9265 | 25.0037 | 23.2681
060006 | 20.0213 | 21.0003 | 21.8609 | 21.0085
060007 | 18.2977 | 19.3071 | 22.2747 | 19.9022
060008 | 18.4590 | 18.7097 | 19.8803 | 19.0217
060009 | 22.7164 | 23.9272 | 24.1285 | 23.6009
060010 | 23.6827 | 24.2735 | 25.9341 | 24.6424
060011 | 22.3458 | 22.2058 | 25.4458 | 23.3434
060012 | 19.4932 | 21.2980 | 22.6374 | 21.1159
060013 | 19.1256 | 23.5248 | 23.3954 | 21.9829
060014 | 24.3210 | 25.7701 | 25.9159 | 25.3595
060015 | 23.2469 | 23.6015 | 27.6338 | 24.8106
060016 | 20.2408 | 20.2361 | 22.9300 | 21.1421
060018 | 21.5083 | 21.8478 | 21.0581 | 21.4599
060020 | 18.8985 | 19.7348 | 20.9025 | 19.8893
060022 | 21.0830 | 22.8059 | 19.8819 | 21.2558
060023 | 21.5475 | 22.4731 | 24.3749 | 22.8346
060024 | 22.9185 | 24.3658 | 25.2409 | 24.2358
060027 | 22.0713 | 22.1717 | 25.1480 | 23.2185
060028 | 23.1792 | 24.2985 | 27.3340 | 24.9108
060029 | 18.2938 | 19.8498 | * | 19.0675
060030 | 20.3452 | 21.2612 | 22.8309 | 21.5553
060031 | 22.5067 | 23.3995 | 23.8781 | 23.2637
060032 | 22.8123 | 24.7678 | 25.5628 | 24.4445
060033 | 16.0760 | 17.8514 | 16.7266 | 16.8791
060034 | 23.2816 | 24.3652 | 26.2141 | 24.6650
060036 | 18.5988 | 18.6521 | 18.1954 | 18.4720
060037 | 15.4513 | 15.7495 | 17.1258 | 16.1605
060038 | 14.3249 | 16.6525 | 15.3718 | 15.5616
060041 | 19.1263 | 19.5872 | 20.8745 | 19.8909
060042 | 20.8597 | 19.3967 | 22.5613 | 20.7473
060043 | 13.4443 | 15.4073 | 19.1085 | 15.9780
060044 | 20.8673 | 21.3102 | 25.6112 | 22.7216
060046 | 22.2699 | 22.6819 | 24.0645 | 23.0457
060047 | 17.1534 | 17.9173 | 18.1662 | 17.7570
060049 | 23.0613 | 25.9592 | 25.3425 | 24.9252
060050 | 19.0832 | * | 20.4386 | 19.8467
060052 | 14.8729 | 16.0543 | 18.2354 | 16.3844
060053 | 18.0232 | 19.4746 | 22.2894 | 19.8382
060054 | 20.4160 | 19.7753 | 20.9346 | 20.3624
060056 | 18.1263 | 21.9586 | 21.9389 | 20.8180
060057 | 25.4185 | 24.6599 | 24.4012 | 24.8132
060058 | 13.8539 | 16.4504 | 20.3154 | 16.7670
060060 | 15.6018 | 19.4418 | 21.0586 | 18.5977
060062 | 16.8640 | 17.1032 | 19.0995 | 17.6743
060064 | 22.7797 | 28.8746 | 29.1806 | 26.8320
060065 | 24.5572 | 24.4554 | 29.2179 | 26.0872
060066 | 17.2537 | 17.5556 | 14.6820 | 16.5806
060070 | 18.8960 | 19.2220 | 22.6894 | 20.3042
060071 | 17.4068 | 17.6452 | 20.1385 | 18.3916
060073 | 17.0846 | 18.4971 | 16.5027 | 17.3443
060075 | 23.8724 | 25.0552 | 27.2654 | 25.3696
060076 | 20.3265 | 22.9426 | 23.6266 | 22.3373
060085 | 14.3409 | 10.9724 | 15.6918 | 13.4494
060088 | 13.7174 | 20.7211 | 22.9170 | 18.6644
060090 | 16.3760 | 16.5321 | * | 16.4540
060096 | 20.8937 | 21.9951 | 20.0869 | 21.0065
060100 | 23.9305 | 24.8116 | 27.4972 | 25.4548
060103 | 23.5083 | 24.4962 | 26.7150 | 24.9461
060104 | 21.1820 | 24.4248 | 26.8237 | 23.9979
060107 | 21.9221 | * | * | 21.9222
060108 | * | 19.1327 | 19.0011 | 19.0448
060109 | * | 27.3180 | * | 27.3180
060110 | * | * | 31.3494 | 31.3494
070001 | 26.3596 | 27.7441 | 29.9592 | 27.9941
070002 | 26.1768 | 26.6881 | 28.1101 | 26.9593
070003 | 27.5200 | 28.1721 | 29.7864 | 28.5044
070004 | 24.2567 | 25.4310 | 25.7207 | 25.1218
070005 | 26.9151 | 27.6733 | 29.8173 | 28.0976
070006 | 28.6413 | 33.6291 | 32.6824 | 31.8244
070007 | 26.3313 | 28.0875 | 29.0734 | 27.8655
070008 | 24.2971 | 25.1362 | 24.3907 | 24.6106
070009 | 24.1871 | 24.9408 | 25.4576 | 24.8664
070010 | 29.2194 | 28.3168 | 30.4192 | 29.3329
070011 | 23.0883 | 24.8206 | 24.9457 | 24.2870
070012 | 28.8067 | 37.5917 | 34.9099 | 33.4527
070015 | 28.1204 | 29.2693 | 30.0614 | 29.1548
070016 | 24.4633 | 28.4833 | 31.2173 | 27.8518
070017 | 26.0424 | 27.5515 | 29.2978 | 27.4590
070018 | 30.6864 | 32.6301 | 33.8654 | 32.4296
070019 | 24.9249 | 26.2348 | 27.9838 | 26.4038
070020 | 25.9964 | 26.6203 | 28.4084 | 27.0418
070021 | 26.3043 | 29.4596 | 30.0915 | 28.7001
070022 | 26.9111 | 27.2423 | 29.2864 | 27.8032
070024 | 24.8948 | 26.3544 | 28.3460 | 26.5801
070025 | 25.4345 | 27.3592 | 28.3017 | 27.0096
070027 | 26.8450 | 25.9279 | 26.8236 | 26.5341
070028 | 25.7492 | 26.7286 | 28.2078 | 26.9036
070029 | 23.9682 | 23.8427 | 25.8107 | 24.5347
070030 | 22.1578 | * | * | 22.1578
070031 | 24.1198 | 25.6347 | 25.5880 | 25.0884
070033 | 31.4736 | 34.1591 | 35.8504 | 33.8348
070034 | 29.4916 | 30.0744 | 32.4220 | 30.6177
070035 | 24.1423 | 24.5996 | 25.9776 | 24.8552
070036 | 29.9470 | 31.2961 | 32.4920 | 31.2720
070038 | * | 26.3126 | * | 26.3126
070039 | 22.3356 | * | 32.6059 | 29.3416
080001 | 24.8833 | 26.8887 | 28.0859 | 26.6310
080002 | 20.1965 | 20.9385 | 23.7309 | 21.6786
080003 | 23.1275 | 24.8200 | 24.8199 | 24.2173
080004 | 22.9706 | 21.7344 | 24.2251 | 22.9785
080006 | 22.6671 | 20.9399 | 20.9757 | 21.4333
080007 | 21.3746 | 21.5415 | 23.4933 | 22.1686
090001 | 21.5751 | 23.0365 | 7.5651 | 17.9081
090002 | 21.5726 | 20.6550 | 23.5159 | 21.8418
090003 | 23.1268 | 27.1087 | 22.7014 | 24.0752
090004 | 25.5054 | 25.9717 | 28.7417 | 26.8011
090005 | 26.3074 | 26.8690 | 28.6142 | 27.2997
090006 | 22.0957 | 22.9658 | 23.7111 | 22.9438
090007 | 29.2840 | 24.6668 | 25.8430 | 26.6042
090008 | 25.2708 | * | 19.3212 | 22.1162
090010 | 23.6616 | 25.9373 | * | 24.7397
090011 | 26.6349 | 27.6038 | 31.7710 | 28.7553
100001 | 20.2157 | 22.0101 | 21.7561 | 21.3158
100002 | 21.0222 | 21.5772 | 21.6362 | 21.4258
100004 | 15.4149 | 16.1638 | 15.6306 | 15.7493
100006 | 21.2293 | 21.6922 | 23.3307 | 22.1620
100007 | 22.1590 | 22.5317 | 23.9004 | 22.9055
100008 | 20.8381 | 21.6416 | 22.7706 | 21.7804
100009 | 22.1741 | 22.6370 | 23.7460 | 22.8738
100010 | 23.0637 | 23.9582 | 25.5614 | 24.1330
100012 | 20.4659 | 22.0244 | 24.2602 | 22.3053
100014 | 19.5770 | 21.9875 | 21.7566 | 21.0988
100015 | 18.0654 | 18.9383 | 22.1272 | 19.7135
100017 | 19.8655 | 20.1417 | 21.1905 | 20.4341
100018 | 21.6388 | 22.6587 | 24.2154 | 22.8672
100019 | 23.5462 | 25.8297 | 24.2201 | 24.5270
100020 | 20.7816 | 21.7421 | 23.1885 | 21.9438
100022 | 26.5695 | 27.4235 | 27.9072 | 27.2953
100023 | 19.1787 | 20.2034 | 21.8111 | 20.3897
100024 | 22.1332 | 22.9872 | 24.4070 | 23.2018
100025 | 19.4529 | 20.1360 | 21.2568 | 20.2991
100026 | 20.9461 | 21.3742 | 21.7970 | 21.3789
100027 | 14.7916 | 20.5889 | 21.9900 | 18.2354
100028 | 19.3371 | 20.3751 | 21.5305 | 20.4329
100029 | 20.8950 | 22.2553 | 24.6814 | 22.4835
100030 | 20.5952 | 19.5604 | 21.5303 | 20.5938
100032 | 19.7451 | 20.6543 | 21.6415 | 20.6364
100034 | 19.5282 | 20.0099 | 22.2146 | 20.5533
100035 | 23.8117 | 21.3519 | 22.6349 | 22.5792
100038 | 24.5864 | 24.9548 | 25.6018 | 25.0869
100039 | 21.7861 | 23.3111 | 23.8060 | 22.9806
100040 | 18.6321 | 19.5154 | 21.3865 | 19.8692
100043 | 18.8206 | 20.7688 | 21.7738 | 20.4584
100044 | 22.7236 | 22.9474 | 23.9952 | 23.2248
100045 | 21.0228 | 22.8096 | 30.3359 | 24.4856
100046 | 21.3028 | 23.2027 | 24.2746 | 22.8753
100047 | 20.6068 | 21.4971 | 24.3522 | 22.2329
100048 | 15.7790 | 17.3663 | 17.5533 | 16.9309
100049 | 19.1025 | 20.9490 | 21.8676 | 20.6412
100050 | 17.9039 | 17.8960 | 20.0405 | 18.6106
100051 | 17.9453 | 19.3258 | 19.9713 | 19.1475
100052 | 18.1780 | 19.6620 | 18.6363 | 18.8133
100053 | 19.6800 | 21.6634 | 23.7837 | 21.6611
100054 | 21.1518 | 20.9612 | 21.8613 | 21.3455
100055 | 18.8760 | 19.1324 | 19.6350 | 19.2002
100056 | 21.8506 | 23.1737 | 25.9245 | 23.6383
100057 | 19.5319 | 22.3406 | 24.4271 | 21.9677
100060 | 23.5997 | * | * | 23.5997
100061 | 22.9176 | 24.5277 | 25.7559 | 24.3953
100062 | 21.4424 | 21.9054 | 24.9807 | 22.7317
100063 | 18.4642 | 19.2510 | 21.5620 | 19.9030
100067 | 18.4851 | 19.2168 | 23.6270 | 20.3382
100068 | 19.8308 | 19.9648 | 23.7197 | 21.3073
100069 | 17.3666 | 18.5789 | 19.6037 | 18.6041
100070 | 20.0381 | 20.9592 | 20.4770 | 20.4616
100071 | 17.7234 | 20.7461 | 21.7675 | 20.3419
100072 | 20.5968 | 22.0317 | 21.9184 | 21.5398
100073 | 22.2812 | 22.2425 | 23.5843 | 22.7262
100075 | 19.4480 | 20.4604 | 21.8589 | 20.5692
100076 | 17.8612 | 18.4815 | 19.6444 | 18.6617
100077 | 19.0640 | 20.9482 | 22.2470 | 20.8144
100078 | 19.2891 | 16.6003 | 17.4683 | 17.7417
100080 | 22.7153 | 22.9720 | 22.7056 | 22.7946
100081 | 15.4253 | 16.5149 | 16.4804 | 16.1357
100084 | 22.7009 | 24.5682 | 23.5435 | 23.6450
100086 | 23.3718 | 24.3067 | 25.2375 | 24.3294
100087 | 23.6562 | 22.1764 | 26.2514 | 24.0027
100088 | 20.5566 | 20.6667 | 23.6270 | 21.6062
100090 | 19.7695 | 21.0431 | 22.5894 | 21.1520
100092 | 20.1760 | 21.4601 | 25.4630 | 22.1148
100093 | 16.8422 | 18.7153 | 20.2949 | 18.6499
100098 | 20.8315 | 21.1723 | 20.0639 | 20.7185
100099 | 15.7591 | 16.5271 | 16.1165 | 16.1278
100102 | 19.7673 | 19.0193 | 21.6772 | 20.1082
100103 | 18.7844 | 19.1222 | 20.3633 | 19.4145
100105 | 21.8268 | 22.7793 | 24.5464 | 23.0784
100106 | 17.4958 | 21.4342 | 18.5389 | 19.1251
100107 | 20.0719 | 21.7553 | 23.3789 | 21.7356
100108 | 20.1125 | 18.4127 | 15.1791 | 17.6124
100109 | 20.8370 | 20.6007 | 22.3671 | 21.2613
100110 | 20.1853 | 22.8127 | 24.2271 | 22.5089
100112 | 15.2128 | 16.2109 | 16.9325 | 16.1723
100113 | 21.3489 | 23.3380 | 20.6110 | 21.7279
100114 | 22.8178 | 22.5326 | 25.3699 | 23.4863
100117 | 20.6962 | 21.3085 | 23.2994 | 21.7923
100118 | 20.7323 | 21.7067 | 24.1105 | 22.1068
100121 | 18.5842 | 19.9033 | 23.1100 | 20.5301
100122 | 19.2643 | 24.9765 | 23.6638 | 22.5106
100124 | 20.4022 | 20.0867 | 14.8231 | 17.8809
100125 | 19.6097 | 20.3232 | 22.4185 | 20.8356
100126 | 19.3103 | 21.4349 | 21.7977 | 20.8062
100127 | 19.2122 | 20.5153 | 21.0153 | 20.2670
100128 | 22.8826 | 23.5835 | 24.4104 | 23.6230
100130 | 20.0947 | 21.0023 | 20.2478 | 20.4482
100131 | 23.1622 | 24.6184 | 25.4186 | 24.4498
100132 | 18.7863 | 19.5259 | 21.1446 | 19.8043
100134 | 15.9733 | 16.9302 | 18.3392 | 17.1001
100135 | 19.1865 | 19.7675 | 20.3831 | 19.7887
100137 | 19.5562 | 20.9015 | * | 20.2591
100138 | 14.9539 | 14.9760 | 16.4384 | 15.4793
100139 | 15.2532 | 15.7378 | 18.2187 | 16.3579
100140 | 19.0584 | 20.2288 | 22.6326 | 20.6848
100142 | 18.4113 | 17.7250 | 20.0689 | 18.7079
100146 | 21.3359 | 20.8381 | * | 21.0641
100147 | 15.2348 | 17.1566 | 17.2835 | 16.5550
100150 | 21.5057 | 25.4269 | 22.9193 | 23.1341
100151 | 23.8489 | 26.6143 | 26.8564 | 25.9003
100154 | 20.4068 | 21.6715 | 23.0820 | 21.7335
100156 | 18.4779 | 20.0348 | 20.7649 | 19.8064
100157 | 22.6195 | 24.2188 | 23.1045 | 23.3126
100159 | 10.7818 | 15.0633 | 19.3145 | 15.1520
100160 | 23.3121 | 22.6942 | 23.4877 | 23.1680
100161 | 22.3053 | 23.3612 | 24.4326 | 23.3822
100162 | 20.3110 | 24.2950 | 23.8001 | 22.8069
100165 | 22.6622 | * | * | 22.6623
100166 | 21.2309 | 22.2419 | 23.7327 | 22.3765
100167 | 23.2969 | 25.7676 | 26.8139 | 25.3034
100168 | 20.3167 | 23.0121 | 24.6276 | 22.6616
100169 | 20.3017 | 21.6397 | 22.5755 | 21.5513
100170 | 19.3005 | 21.2469 | * | 20.1922
100172 | 14.8826 | 15.7827 | 17.6051 | 16.0261
100173 | 17.1337 | 18.3828 | 19.7190 | 18.4365
100174 | 21.9807 | * | * | 21.9807
100175 | 20.5442 | 21.2532 | 21.0474 | 20.9357
100176 | 24.3089 | 24.6595 | 26.8740 | 25.2920
100177 | 24.4284 | 25.1037 | 24.4295 | 24.6550
100179 | 23.0849 | 23.9633 | 22.8536 | 23.2786
100180 | 21.5388 | 22.7781 | 24.7990 | 23.1132
100181 | 18.9510 | 17.9048 | 18.1320 | 18.3165
100183 | 23.0654 | 22.2063 | 24.4575 | 23.2115
100187 | 20.8535 | 21.4988 | 23.4760 | 21.9203
100189 | 26.5962 | 27.1295 | 26.6653 | 26.7935
100191 | 21.0647 | 22.0526 | 24.2299 | 22.5063
100200 | 23.8729 | 24.8878 | 24.8120 | 24.5400
100204 | 20.2193 | 21.1922 | 22.2613 | 21.2482
100206 | 20.1171 | 20.3436 | * | 20.2327
100208 | 20.7029 | 20.4678 | 24.1482 | 21.8277
100209 | 23.3903 | 22.8236 | 23.5479 | 23.2587
100210 | 21.8545 | 23.0431 | 26.0933 | 23.6634
100211 | 20.7516 | 21.6367 | * | 21.1977
100212 | 21.1263 | 21.7239 | 22.6259 | 21.8401
100213 | 21.1818 | 22.0176 | 24.4995 | 22.6205
100217 | 22.7335 | 22.7116 | 24.0291 | 23.1695
100220 | 21.8246 | 24.6233 | 24.9733 | 23.7248
100221 | 21.2321 | 23.2263 | * | 22.1854
100223 | 20.2233 | 21.8962 | 21.1051 | 21.1071
100224 | 21.8628 | 22.3567 | 22.7403 | 22.3391
100225 | 21.5059 | 22.4619 | 23.9971 | 22.6579
100226 | 21.8808 | 22.7301 | 23.8070 | 22.8491
100228 | 20.8810 | 24.9691 | * | 22.9269
100229 | 18.2350 | 19.7259 | 21.0039 | 19.5689
100230 | 22.5650 | 23.4169 | 25.0408 | 23.8884
100231 | 18.7526 | 21.5712 | 22.8325 | 20.8200
100232 | 19.8002 | 20.1459 | 21.8906 | 20.6484
100234 | 21.6360 | 24.3355 | 24.0421 | 23.3485
100236 | 20.6942 | 21.7886 | 23.7286 | 22.0173
100237 | 23.2408 | 23.2712 | 26.7664 | 24.3476
100238 | 20.8252 | 23.3747 | 24.6513 | 22.9237
100239 | 19.4481 | 23.2242 | 24.9409 | 22.4134
100240 | 21.0606 | 21.3495 | 23.0650 | 21.8213
100241 | 17.1063 | 14.1059 | 14.6992 | 15.3546
100242 | 18.6938 | 19.1097 | 20.4142 | 19.4632
100243 | 20.8041 | 22.4495 | 23.2812 | 22.2413
100244 | 20.5352 | 21.4386 | 23.4876 | 21.8968
100246 | 21.9247 | 23.5614 | 26.6552 | 23.9760
100248 | 21.2988 | 22.1553 | 23.7614 | 22.4427
100249 | 18.1397 | 18.4932 | 21.3942 | 19.2694
100252 | 19.8079 | 22.0976 | 22.6481 | 21.5857
100253 | 22.4778 | 22.6517 | 23.4448 | 22.8823
100254 | 19.5523 | 20.4410 | 23.2068 | 21.2034
100255 | 21.0284 | 20.7228 | 22.9793 | 21.5458
100256 | 21.2786 | 22.4844 | 23.7315 | 22.4906
100258 | 20.0300 | 22.0790 | 24.5699 | 22.2126
100259 | 21.1160 | 21.4991 | 24.0960 | 22.2834
100260 | 24.9183 | 21.2413 | 23.4255 | 23.0969
100262 | 21.0927 | 22.7137 | 23.8006 | 22.3809
100264 | 19.9491 | 21.7410 | 22.4616 | 21.4161
100265 | 18.2291 | 20.2664 | 21.0688 | 19.9095
100266 | 19.3623 | 20.2821 | 21.5258 | 20.4415
100267 | 21.7430 | 22.8054 | 23.3558 | 22.6691
100268 | 24.0538 | 23.5414 | 26.0297 | 24.5763
100269 | 22.5114 | 26.0271 | 25.0014 | 24.5239
100270 | 16.7148 | 20.8217 | 16.8468 | 18.0052
100271 | 20.8695 | 21.9823 | * | 21.4488
100275 | 21.4904 | 23.2920 | 23.1316 | 22.6853
100276 | 24.1022 | 24.8251 | 25.4557 | 24.8136
100277 | 19.7241 | 14.9157 | 25.2985 | 18.4223
100279 | 22.5879 | 23.1776 | 24.6625 | 23.4267
100280 | 18.1972 | 19.0157 | * | 18.6075
100281 | 23.0142 | 23.4729 | 25.3382 | 24.0569
100282 | 18.4884 | 20.9256 | 21.8279 | 20.4704
100284 | 18.9448 | 18.5716 | 22.3046 | 19.9187
110001 | 20.1150 | 22.4535 | 24.0561 | 22.2069
110002 | 19.5158 | 20.2149 | 20.0125 | 19.9219
110003 | 17.1450 | 18.2792 | 19.7061 | 18.4215
110004 | 19.7733 | 20.6096 | 21.8791 | 20.7777
110005 | 22.4568 | 21.8105 | 23.6147 | 22.7129
110006 | 21.0601 | 22.0325 | 23.8762 | 22.3201
110007 | 25.2523 | 25.9135 | 27.8969 | 26.3641
110008 | 18.5265 | 20.4972 | 22.6308 | 20.7088
110009 | 17.4306 | 16.6452 | 16.2944 | 16.8215
110010 | 23.9104 | 25.1930 | 26.6265 | 25.2350
110011 | 18.9823 | 20.4028 | 23.2149 | 20.8820
110013 | 18.9160 | 16.7833 | 19.7781 | 18.4998
110014 | 18.1787 | 18.4463 | 18.7642 | 18.4629
110015 | 20.9926 | 21.2600 | 23.2279 | 21.9187
110016 | 14.2398 | 14.7571 | 18.8371 | 15.7745
110017 | 22.2537 | 21.2970 | 21.8808 | 21.8184
110018 | 22.1480 | 23.0577 | 24.7007 | 23.3525
110020 | 19.4617 | 20.9687 | 22.5988 | 20.9702
110023 | 22.0546 | 21.6512 | 23.6182 | 22.4827
110024 | 20.7345 | 21.3945 | 22.1471 | 21.4330
110025 | 20.4232 | 20.2493 | 29.0965 | 22.6398
110026 | 16.2484 | 16.9161 | 19.3200 | 17.4907
110027 | 14.7081 | 19.8976 | 19.8351 | 18.0251
110028 | 29.1670 | 28.1695 | 25.9474 | 27.6479
110029 | 21.2150 | 21.3694 | 23.0779 | 21.9337
110030 | 19.6412 | 20.4656 | 21.6618 | 20.6037
110031 | 20.0553 | 20.9219 | 22.8695 | 21.3219
110032 | 18.2014 | 19.2685 | 18.0744 | 18.4929
110033 | 25.6335 | 23.1939 | 24.1447 | 24.2752
110034 | 19.5554 | 23.0724 | 22.8541 | 21.6751
110035 | 22.7950 | 21.8646 | 23.4610 | 22.7096
110036 | 24.9234 | 22.5481 | 24.5675 | 23.9890
110038 | 17.7396 | 18.4508 | 20.1710 | 18.7818
110039 | 20.4998 | 18.9817 | 17.0608 | 18.7776
110040 | 16.8083 | 17.7798 | 17.3095 | 17.2984
110041 | 20.2755 | 20.1398 | 20.8080 | 20.4113
110042 | 25.2331 | 25.0535 | 25.5588 | 25.2869
110043 | 20.6150 | 21.2714 | 22.7589 | 21.5611
110044 | 17.2087 | 17.5905 | 19.2562 | 17.9982
110045 | 21.3049 | 22.2424 | 19.7747 | 21.0415
110046 | 21.4905 | 22.8820 | 21.6201 | 22.0167
110048 | 15.6113 | 18.8751 | 21.9621 | 18.7056
110049 | 16.8639 | 17.1396 | 18.9096 | 17.6498
110050 | 19.2291 | 18.9048 | 22.1089 | 20.1584
110051 | 17.2292 | 17.2050 | 17.6816 | 17.3795
110054 | 20.0549 | 20.7825 | 20.5387 | 20.4734
110056 | 17.7959 | 17.9037 | 21.7607 | 19.3353
110059 | 16.7990 | 17.8076 | 19.9802 | 18.2059
110061 | 16.3557 | 17.4601 | 18.6696 | 17.5523
110062 | 17.0053 | 17.9421 | 18.2038 | 17.7308
110063 | 18.5071 | 18.0256 | 19.4401 | 18.6913
110064 | 19.1203 | 18.8742 | 21.7636 | 19.8777
110065 | 16.3546 | 16.9829 | 19.9032 | 17.6656
110066 | 22.4189 | 23.4554 | * | 22.9140
110069 | 20.9575 | 21.1513 | 21.0518 | 21.0559
110070 | 17.3438 | 19.6361 | 20.8793 | 19.1178
110071 | 18.8321 | 21.5042 | 15.2336 | 18.3234
110072 | 12.7625 | 13.6626 | * | 13.1941
110073 | 16.4658 | 17.9372 | 15.2711 | 16.4347
110074 | 22.3769 | 24.4924 | 23.6564 | 23.5407
110075 | 20.1757 | 20.1604 | 19.6937 | 20.0081
110076 | 21.9798 | 23.6127 | 24.9264 | 23.5306
110078 | 24.0893 | 25.7416 | 27.7261 | 25.8462
110079 | 22.1070 | 22.3641 | 22.2908 | 22.2542
110080 | 19.1839 | 19.4635 | * | 19.3217
110082 | 24.3140 | 22.7015 | 24.0664 | 23.6678
110083 | 23.1463 | 22.2609 | 24.5253 | 23.3268
110086 | 16.6374 | 19.0164 | 18.8751 | 18.1588
110087 | 22.7069 | 24.0994 | 25.7908 | 24.2653
110089 | 19.3855 | 19.0453 | 20.6840 | 19.7079
110091 | 21.5328 | 23.7110 | 25.1996 | 23.4730
110092 | 16.9725 | 15.9178 | 16.9116 | 16.5923
110093 | 16.9827 | * | * | 16.9827
110094 | 16.9503 | 16.8890 | * | 16.9211
110095 | 17.1195 | 18.9904 | 20.1024 | 18.8017
110096 | 17.4157 | 18.0418 | 18.5513 | 18.0235
110097 | 17.4558 | 17.8454 | 18.9464 | 18.0488
110098 | 16.0597 | 16.7800 | 17.5567 | 16.8549
110100 | 19.0764 | 18.6822 | 15.1316 | 17.6555
110101 | 18.8491 | 13.8787 | 13.3943 | 14.8763
110103 | 21.1837 | 21.5683 | * | 21.4221
110104 | 15.9431 | 16.6322 | 17.9805 | 16.8523
110105 | 16.7775 | 18.1306 | 19.2156 | 18.0663
110107 | 19.3897 | 21.2267 | 21.9213 | 20.8424
110108 | 25.2161 | 20.1140 | 18.4912 | 20.6647
110109 | 16.4031 | 16.5977 | 18.7397 | 17.2348
110111 | 18.3951 | 18.4274 | 22.5840 | 19.8648
110112 | 19.8986 | 18.9574 | 20.5171 | 19.8164
110113 | 15.9532 | 16.0942 | 18.0770 | 16.7135
110114 | 16.4812 | 16.8297 | 17.7019 | 17.0138
110115 | 22.5049 | 26.5759 | 26.3274 | 24.9969
110118 | 19.7509 | 17.5714 | 17.7344 | 18.2780
110120 | 17.7452 | 18.4738 | 20.3099 | 18.8660
110121 | 19.3643 | 18.8744 | 19.5230 | 19.2555
110122 | 21.1469 | 20.6070 | 21.1510 | 20.9707
110124 | 18.3366 | 19.4093 | 19.7005 | 19.1562
110125 | 18.0090 | 19.5666 | 19.8695 | 19.1558
110127 | 20.3765 | 16.1107 | * | 18.2840
110128 | 18.0835 | 20.3046 | 28.4942 | 21.9309
110129 | 19.0001 | 20.9442 | 21.5571 | 20.5238
110130 | 14.6011 | 16.6915 | 17.5272 | 16.2937
110132 | 16.3943 | 17.1820 | 17.2924 | 16.9658
110134 | 19.8639 | 19.0305 | 19.1891 | 19.3419
110135 | 17.3504 | 15.6668 | 18.5125 | 17.0191
110136 | 16.9629 | 20.7827 | 21.1235 | 19.3927
110140 | 17.7915 | * | * | 17.7915
110141 | 14.4935 | 13.2710 | 14.3027 | 14.0327
110142 | 13.9525 | 14.1203 | 16.3359 | 14.8326
110143 | 22.5926 | 22.4254 | 23.5876 | 22.8713
110144 | 17.5112 | 17.5678 | 18.9425 | 17.9918
110146 | 17.1835 | 17.8499 | 17.2250 | 17.4052
110149 | 32.1975 | 25.2525 | 25.3618 | 27.1829
110150 | 21.2909 | 22.8322 | 22.7366 | 22.3193
110152 | 15.1324 | 16.3837 | 16.3352 | 15.9536
110153 | 20.5068 | 20.6972 | 21.5300 | 20.9068
110154 | 17.3761 | 16.5286 | * | 16.9482
110155 | 16.5146 | 16.4756 | 16.1785 | 16.4073
110156 | 16.3876 | 16.0759 | * | 16.2355
110161 | 22.2861 | 24.5776 | 26.1275 | 24.4282
110163 | 18.6637 | 20.1183 | 21.9411 | 20.2136
110164 | 21.2160 | 22.6605 | 23.7801 | 22.5540
110165 | 20.8030 | 22.5604 | 23.1047 | 22.2007
110166 | 20.5049 | 22.3822 | 23.6665 | 22.0307
110168 | 21.8058 | 22.3181 | 23.3426 | 22.5338
110169 | 22.6648 | 23.3750 | 24.7083 | 23.5314
110171 | 25.5296 | 24.5313 | 32.6386 | 27.7697
110172 | 23.6803 | 24.7005 | 25.2396 | 24.5635
110174 | 14.6199 | * | * | 14.6199
110177 | 21.2796 | 22.7831 | 24.4715 | 22.8933
110179 | 22.0767 | 24.3673 | 26.1423 | 24.1256
110181 | 12.9798 | 13.9591 | 34.9028 | 19.4061
110183 | 22.5148 | 24.2899 | 26.4248 | 24.4133
110184 | 22.1920 | 22.2761 | 24.3379 | 22.9563
110185 | 17.7925 | 17.3330 | 19.1991 | 18.0592
110186 | 18.3178 | 19.7172 | 21.1176 | 19.7561
110187 | 19.8419 | 22.8248 | 23.2571 | 21.8964
110188 | 23.7032 | 22.0258 | * | 22.7714
110189 | 20.8786 | 19.8454 | 21.4255 | 20.7155
110190 | 18.3649 | 20.7292 | 20.5708 | 19.8383
110191 | 21.4033 | 21.3404 | 23.8471 | 22.2253
110192 | 21.0486 | 22.9684 | 24.3823 | 22.8864
110193 | 20.7867 | 22.1477 | 25.1779 | 22.7067
110194 | 14.8115 | 15.8129 | 16.8075 | 15.8165
110195 | 12.7261 | 10.9444 | 13.7718 | 12.4602
110198 | 24.8646 | 24.8275 | 28.0634 | 25.9885
110200 | 17.7744 | 17.9631 | 19.4363 | 18.4074
110201 | 20.9497 | 21.9313 | 23.7261 | 22.1742
110203 | 22.7453 | 24.2062 | 23.3838 | 23.4874
110204 | 30.7342 | 35.3699 | * | 32.7584
110205 | 21.3617 | 20.1405 | 23.1969 | 21.5575
110207 | 14.7154 | 14.6045 | 14.7077 | 14.6752
110208 | 15.6161 | 15.0350 | * | 15.3251
110209 | 18.6404 | 20.0629 | 14.4751 | 17.7558
110211 | 26.9151 | 20.1024 | * | 22.9486
110212 | 14.3790 | 15.8420 | 18.7651 | 16.2466
110215 | 18.1539 | 21.0263 | .5679 | 20.7523
110216 | 27.1878 | * | * | 27.1877
120001 | 29.0427 | 29.4126 | 30.0871 | 29.5170
120002 | 25.2021 | 23.5667 | 24.2715 | 24.3269
120003 | 23.9115 | 24.6238 | 24.4013 | 24.3140
120004 | 24.8632 | 26.1398 | 26.8010 | 25.9297
120005 | 24.1662 | 22.3213 | 23.0113 | 23.1311
120006 | 25.8943 | 26.6302 | 28.1562 | 26.8635
120007 | 22.8772 | 22.7179 | 27.8497 | 24.2388
120009 | 16.4485 | 16.7630 | 13.9812 | 15.7613
120010 | 24.1923 | 24.9089 | 25.4050 | 24.8421
120011 | 37.2759 | 35.2051 | 30.9308 | 34.0921
120012 | 21.8507 | 22.0371 | 21.8997 | 21.9292
120014 | 24.1208 | 25.3557 | 25.3682 | 24.9359
120015 | 42.6465 | * | 24.6284 | 30.4099
120016 | 45.1899 | 43.5083 | 39.1160 | 42.7373
120018 | 31.1879 | * | * | 31.1877
120019 | 25.5659 | 23.8535 | 24.4036 | 24.5914
120021 | 23.1839 | 36.8286 | 23.2759 | 26.4621
120022 | 19.2614 | 22.2781 | 22.4951 | 21.2033
120024 | 32.2514 | 21.9657 | * | 26.7529
120025 | 50.6376 | 40.1332 | 40.2485 | 43.1574
120026 | 25.1314 | 25.7023 | 26.3653 | 25.7684
120027 | 24.4535 | 23.1434 | 24.9464 | 24.1547
120028 | 27.0897 | 27.5365 | 29.5070 | 28.0817
130001 | 17.6306 | 19.6328 | 18.4733 | 18.5954
130002 | 16.9867 | 18.5746 | 20.1143 | 18.6076
130003 | 22.3430 | 23.0994 | 23.9403 | 23.1432
130005 | 21.2386 | 22.6364 | 24.4844 | 22.7104
130006 | 20.4614 | 21.4640 | 22.8567 | 21.6494
130007 | 21.8107 | 22.0894 | 22.8475 | 22.2657
130008 | 13.6018 | 19.3392 | 25.7798 | 18.7207
130009 | 15.9701 | 20.8748 | 18.3511 | 18.2768
130010 | 17.5119 | 17.7826 | * | 17.6552
130011 | 20.1147 | 22.1125 | 23.1120 | 21.7785
130012 | 24.9976 | 24.2451 | 22.5761 | 23.9471
130013 | 15.1129 | 22.6624 | 23.5316 | 20.2820
130014 | 19.2107 | 19.8240 | 21.6770 | 20.2852
130015 | 18.5913 | 16.4136 | * | 17.4135
130016 | 19.0516 | 20.1220 | 20.5728 | 19.9684
130017 | 19.6875 | 19.9511 | 20.3656 | 20.0262
130018 | 19.8425 | 20.0563 | 22.1899 | 20.7223
130019 | 19.1711 | 19.5147 | 20.3983 | 19.7057
130021 | 15.6155 | 14.4430 | 16.8582 | 15.5456
130022 | 18.9127 | 19.7814 | 21.5602 | 20.1253
130024 | 19.0703 | 19.9934 | 22.1611 | 20.4440
130025 | 16.4627 | 17.5989 | 18.7814 | 17.6827
130026 | 21.8106 | 23.2093 | 24.4976 | 23.1615
130027 | 20.5344 | 20.6641 | 22.0107 | 21.0236
130028 | 20.9674 | 21.2217 | 21.1492 | 21.1146
130029 | 18.7694 | 22.9243 | * | 20.4335
130030 | 17.5759 | 18.5827 | * | 18.0583
130031 | 16.7766 | 20.4146 | 23.5135 | 19.8631
130034 | 18.9483 | 20.5802 | 20.2401 | 19.9098
130035 | 20.7770 | 17.2864 | * | 19.1660
130036 | 13.6362 | 15.1590 | 18.5921 | 15.7605
130037 | 18.6856 | 19.2108 | 19.3979 | 19.1230
130043 | 16.7904 | 17.6920 | 18.4636 | 17.6040
130044 | 13.4513 | 18.7067 | 20.5584 | 17.5508
130045 | 19.0208 | 17.5152 | 19.0271 | 18.5109
130048 | 16.7900 | * | * | 16.7900
130049 | 22.4440 | 22.0520 | 23.7212 | 22.7595
130054 | 17.7085 | 16.4675 | 16.8484 | 16.9601
130056 | 20.9476 | 28.8008 | 17.3947 | 21.1836
130060 | 22.7399 | 23.2512 | 24.6773 | 23.5532
130061 | 14.7394 | * | * | 14.7393
130062 | 19.8157 | 19.8264 | 24.0494 | 21.3157
130063 | 18.8024 | 18.4797 | 18.8782 | 18.7287
140001 | 17.7990 | 18.1511 | 20.0247 | 18.6600
140002 | 19.9284 | 20.9959 | 22.5567 | 21.1478
140003 | 17.8595 | 18.0163 | * | 17.9385
140004 | 17.4574 | 18.9713 | 19.3237 | 18.5860
140005 | 12.3002 | 12.4144 | 13.2365 | 12.6493
140007 | 23.8585 | 24.9847 | 25.1836 | 24.6934
140008 | 22.1111 | 24.2634 | 26.3152 | 24.1972
140010 | 28.5635 | 28.0863 | 39.3621 | 32.1479
140011 | 18.6164 | 18.4052 | 19.0903 | 18.7086
140012 | 21.4374 | 22.5885 | 24.4070 | 22.8406
140013 | 19.6722 | 20.3147 | 19.9800 | 19.9935
140014 | 21.4042 | 22.2944 | 25.0616 | 22.9171
140015 | 17.6805 | 20.3540 | 21.4328 | 19.8233
140016 | 14.4938 | 15.4454 | 16.3417 | 15.3940
140018 | 22.4132 | 23.4062 | 24.3285 | 23.3864
140019 | 16.4254 | 16.1180 | 17.4206 | 16.6387
140024 | 15.3782 | 16.1032 | * | 15.7337
140025 | 18.5135 | 21.7775 | 18.0748 | 19.4744
140026 | 18.3220 | 19.7839 | 20.4084 | 19.5156
140027 | 19.2149 | 20.5980 | 20.9855 | 20.2413
140029 | 26.0833 | 28.5670 | 25.5253 | 26.6612
140030 | 23.1760 | 25.3715 | 26.5229 | 25.0851
140031 | 17.6067 | 16.9650 | 17.7449 | 17.4509
140032 | 19.0383 | 19.8033 | 20.6273 | 19.8411
140033 | 25.1639 | 22.8705 | 23.4279 | 23.7474
140034 | 19.8792 | 19.7711 | 20.9635 | 20.1903
140035 | 15.5040 | 17.4514 | 17.9641 | 16.9828
140036 | 19.1076 | 21.2366 | 18.5788 | 19.7025
140037 | 14.1083 | 14.3082 | 15.5578 | 14.6732
140038 | 18.4948 | 19.8197 | * | 19.1560
140040 | 16.7450 | 18.0342 | 19.2160 | 18.0347
140041 | 18.5952 | 18.8042 | 19.2893 | 18.8908
140042 | 15.8892 | 16.1157 | 17.1757 | 16.3886
140043 | 20.1176 | 21.7356 | 23.3751 | 21.8035
140045 | 17.7799 | 17.4261 | 18.9587 | 18.0683
140046 | 18.6371 | 20.0859 | 21.7969 | 20.2134
140047 | 13.3610 | 16.6672 | 17.7090 | 15.6942
140048 | 23.9545 | 23.8652 | 25.9122 | 24.5813
140049 | 26.9483 | 26.7160 | 20.7688 | 24.9027
140051 | 24.0796 | 24.7180 | 24.2472 | 24.3525
140052 | 17.9571 | 21.0450 | 21.6607 | 20.0955
140053 | 19.9620 | 20.9768 | 22.6099 | 21.1760
140054 | 23.1576 | 23.9459 | 35.5659 | 27.3968
140055 | 14.3603 | 15.8756 | 16.4409 | 15.4892
140058 | 18.6861 | 19.1199 | 20.5089 | 19.4559
140059 | * | 18.2593 | 21.9969 | 19.9435
140061 | 18.2039 | 18.4264 | 22.7791 | 19.6252
140062 | 28.5304 | 28.6390 | 30.7005 | 29.3149
140063 | 29.1453 | 29.6998 | 30.5430 | 29.8595
140064 | 18.9379 | 19.6954 | 20.6505 | 19.7669
140065 | 25.3336 | 25.5939 | 25.8676 | 25.6079
140066 | 13.6491 | 15.4818 | 18.0915 | 15.5544
140067 | 19.5292 | 20.7511 | 21.9579 | 20.7435
140068 | 21.6188 | 22.3622 | 24.1316 | 22.6861
140069 | 17.3879 | 17.7785 | 19.0441 | 18.0826
140070 | 22.7153 | 25.2646 | 25.2960 | 24.2944
140074 | 21.6052 | 22.2563 | 22.8249 | 22.2227
140075 | 21.6434 | 21.8472 | 26.5350 | 22.9476
140077 | 17.3647 | 17.3236 | 18.0487 | 17.5877
140079 | 23.6928 | 22.7046 | 25.7058 | 24.0319
140080 | 22.1968 | 22.0682 | 24.4056 | 22.8890
140081 | 16.9808 | 18.1746 | * | 17.5725
140082 | 29.7262 | 26.5960 | 25.0474 | 26.9608
140083 | 21.0330 | 20.7704 | 23.2822 | 21.6156
140084 | 22.3467 | 23.0263 | 25.4818 | 23.6135
140086 | 19.1613 | 19.1815 | * | 19.1714
140087 | 17.1147 | 21.4593 | * | 19.1145
140088 | 25.4176 | 26.5258 | 27.7274 | 26.5193
140089 | 18.3157 | 19.3230 | 20.7632 | 19.4616
140090 | 26.9364 | 28.0530 | 35.0300 | 29.4280
140091 | 21.9322 | 23.5559 | 23.7560 | 23.1453
140093 | 20.1528 | 20.7564 | 21.5376 | 20.7969
140094 | 21.9383 | 22.8892 | 23.7841 | 22.8588
140095 | 24.2859 | 25.5716 | 25.4815 | 25.1248
140097 | 21.1719 | 21.8418 | 23.8291 | 22.4038
140100 | 23.1399 | 23.8226 | 27.1868 | 24.8138
140101 | 21.4211 | 23.1418 | 24.6106 | 23.0966
140102 | 17.5729 | 18.6328 | 19.8678 | 18.6663
140103 | 18.1303 | 19.1834 | 21.3727 | 19.5392
140105 | 22.8944 | 23.8258 | 27.3323 | 24.5505
140107 | 11.8383 | 11.5827 | * | 11.7127
140108 | 26.9971 | 27.9140 | * | 27.4761
140109 | 14.5498 | 15.9178 | 16.4262 | 15.6166
140110 | 19.2888 | 20.9631 | 21.9129 | 20.7530
140112 | 17.6974 | 18.1119 | 19.8563 | 18.5020
140113 | 19.5584 | 26.2393 | 25.2205 | 23.4083
140114 | 21.0976 | 23.0383 | 24.1926 | 22.8235
140115 | 21.0433 | 20.4587 | 25.3410 | 22.2094
140116 | 23.8993 | 25.5980 | 26.8366 | 25.5062
140117 | 21.4876 | 22.0889 | 23.3536 | 22.3483
140118 | 24.3260 | 25.3249 | 26.1627 | 25.2644
140119 | 27.9145 | 30.6468 | 31.3486 | 29.9292
140120 | 17.9716 | 17.7667 | 20.3237 | 18.6579
140121 | 16.6993 | 16.2607 | 17.6019 | 16.8238
140122 | 26.1270 | 26.7882 | 26.7457 | 26.5545
140124 | 27.9813 | 30.6820 | 30.7744 | 29.7761
140125 | 16.9516 | 17.8190 | 19.5359 | 18.0996
140127 | 20.0489 | 20.8397 | 21.3102 | 20.7463
140128 | 23.1327 | 23.5481 | * | 23.3351
140129 | 20.2868 | 21.6252 | 21.6495 | 21.1744
140130 | 23.4298 | 26.0464 | 25.7324 | 25.1138
140132 | 23.3054 | 23.7046 | 23.0595 | 23.3426
140133 | 21.4166 | 20.1740 | 21.0993 | 20.9011
140135 | 17.3985 | 18.2479 | 19.3222 | 18.3661
140137 | 18.6330 | 20.4807 | 21.6017 | 20.2583
140138 | 17.1968 | 14.5771 | 14.2313 | 15.2378
140139 | 11.0397 | * | 20.2063 | 14.6320
140140 | 17.6845 | 18.8185 | 19.1636 | 18.5459
140141 | 19.1097 | 20.2606 | 20.3707 | 19.9234
140143 | 19.0810 | 19.9885 | 22.0009 | 20.2373
140144 | 22.2864 | 24.8854 | 26.9259 | 24.6726
140145 | 18.1788 | 19.4509 | 20.6142 | 19.4469
140146 | 19.9704 | 19.4272 | * | 19.6862
140147 | 18.8049 | 17.1013 | 18.2691 | 18.0420
140148 | 18.7730 | 19.7630 | 21.5777 | 20.0626
140150 | 24.7976 | 28.9853 | 33.5463 | 28.8474
140151 | 20.0310 | 20.8820 | 21.5167 | 20.8051
140152 | 25.6011 | 28.3946 | 28.6284 | 27.5483
140155 | 20.2778 | 24.2907 | 24.4956 | 22.9401
140158 | 22.7988 | 23.7428 | 23.6949 | 23.4182
140160 | 17.7921 | 19.8825 | 20.9016 | 19.5649
140161 | 20.3799 | 21.2045 | 22.2191 | 21.3060
140162 | 20.3452 | 21.6901 | 22.6426 | 21.5722
140164 | 18.6589 | 19.8246 | 19.7774 | 19.4344
140165 | 14.7223 | 16.3700 | 17.0665 | 16.0112
140166 | 18.3833 | 19.3672 | 20.4085 | 19.3581
140167 | 17.6525 | 18.8532 | 19.5959 | 18.7351
140168 | 17.7453 | 18.2896 | 19.6114 | 18.5329
140170 | 16.4107 | 17.6901 | 17.0666 | 17.0536
140171 | 15.0237 | 15.2617 | 17.3214 | 15.8617
140172 | 23.6262 | 24.8587 | 24.2924 | 24.2266
140173 | 16.3924 | 16.0030 | 32.8692 | 19.8554
140174 | 35.9320 | 22.0418 | 21.7356 | 24.5213
140176 | 24.5338 | 26.3468 | 25.6824 | 25.5437
140177 | 15.0827 | 20.3142 | 20.8526 | 18.2773
140179 | 21.9859 | 22.7345 | 23.9872 | 22.8894
140180 | 22.7996 | 22.7508 | 25.4497 | 23.6328
140181 | 21.9864 | 22.6643 | 23.2767 | 22.6706
140182 | 28.9515 | 25.1302 | 32.1969 | 28.8546
140184 | 17.2401 | 17.9169 | 20.6843 | 18.6331
140185 | 18.2867 | 18.8573 | 20.0931 | 19.0822
140186 | 23.5034 | 25.6807 | 29.0998 | 26.0890
140187 | 18.3331 | 19.4049 | 20.7319 | 19.4734
140188 | 16.1907 | * | * | 16.1907
140189 | 20.6627 | 21.1515 | 22.5875 | 21.4411
140190 | 17.5263 | 16.6673 | 17.9194 | 17.3611
140191 | 25.2628 | 27.4166 | 24.5446 | 25.6579
140193 | 17.4057 | 18.5651 | 20.5958 | 18.8417
140197 | 19.3774 | 19.9406 | 19.2979 | 19.5430
140199 | 18.0450 | 18.5409 | 19.7888 | 18.7992
140200 | 21.7680 | 22.4626 | 24.1358 | 22.8115
140202 | 23.7955 | 25.2777 | 26.2460 | 25.1620
140203 | 21.0848 | 24.8870 | 26.6624 | 24.2960
140205 | 20.0784 | * | 25.1010 | 22.9703
140206 | 22.5109 | 22.8223 | 24.8824 | 23.3989
140207 | 22.3905 | 25.4539 | 23.3197 | 23.6919
140208 | 26.2527 | 28.3112 | 27.2009 | 27.2556
140209 | 20.1557 | 20.2433 | 22.0813 | 20.8567
140210 | 14.8248 | 15.5345 | * | 15.2105
140211 | 22.6265 | 22.8852 | 25.8603 | 23.8157
140213 | 24.9892 | 25.6839 | 27.4607 | 26.0827
140215 | 15.2893 | 18.5502 | 18.6962 | 17.4895
140217 | 25.7329 | 25.9030 | 24.7146 | 25.4260
140218 | 14.9851 | 17.4171 | * | 16.1590
140220 | 17.8450 | 19.3915 | 20.2803 | 19.2049
140223 | 24.9017 | 26.2168 | 27.4355 | 26.1911
140224 | 32.8292 | 25.6766 | 31.4716 | 29.8171
140228 | 20.1688 | 21.8627 | 22.9899 | 21.6593
140230 | 18.2983 | 12.3494 | * | 14.8541
140231 | 24.5019 | 26.0208 | 25.5536 | 25.3988
140233 | 21.2333 | 24.4419 | 24.7103 | 23.5150
140234 | * | 19.7266 | 20.8676 | 20.3084
140236 | 12.9253 | * | * | 12.9252
140239 | 20.3745 | 21.6074 | 23.9213 | 21.9721
140240 | 24.6949 | 25.1418 | 25.0325 | 24.9609
140242 | 25.2317 | 26.1850 | 26.7947 | 26.1303
140245 | 14.2481 | 15.1320 | 15.2537 | 14.8687
140246 | 11.6267 | 15.0650 | 16.1305 | 14.1116
140250 | 23.6449 | 25.3410 | 24.7737 | 24.5985
140251 | 21.9435 | 23.5128 | 24.8256 | 23.4339
140252 | 25.0220 | 26.4715 | 27.4640 | 26.3370
140253 | 19.5858 | 18.4567 | * | 19.0172
140258 | 25.3622 | 25.0743 | 27.8202 | 26.1250
140271 | 12.0079 | 16.0350 | 17.5175 | 14.8913
140275 | 23.8171 | 22.9656 | 20.1784 | 22.2596
140276 | 25.3134 | 26.1713 | 25.1140 | 25.5042
140280 | 18.8300 | 20.0763 | 21.7004 | 20.2210
140281 | 25.2719 | 26.5197 | 27.9115 | 26.6261
140285 | 18.5916 | 15.7435 | * | 17.0403
140286 | 26.1290 | 24.0368 | 25.9931 | 25.3447
140288 | 24.4331 | 25.8717 | 26.2186 | 25.5431
140289 | 18.1747 | 17.7886 | 21.3632 | 19.1491
140290 | 22.8590 | 26.5055 | 30.7221 | 26.7335
140291 | 24.9537 | 26.8628 | 26.7900 | 26.2319
140292 | 21.9950 | 26.8610 | 26.0858 | 25.0061
140294 | 17.7301 | 19.4218 | 20.5969 | 19.2265
140300 | 27.8436 | 28.9830 | 30.2598 | 29.0524
150001 | 24.0620 | 22.6875 | 25.4897 | 24.1367
150002 | 20.7651 | 20.7353 | 22.3327 | 21.2734
150003 | 20.8636 | 21.4649 | 21.0944 | 21.1408
150004 | 21.2449 | 22.8060 | 23.5250 | 22.4800
150005 | 21.6806 | 22.8149 | 23.8818 | 22.8498
150006 | 20.6523 | 21.8435 | 23.1779 | 21.9153
150007 | 20.6635 | 21.2811 | 22.1098 | 21.3541
150008 | 21.8457 | 23.0208 | 23.8916 | 22.9022
150009 | 19.0030 | 19.5869 | 19.1857 | 19.2602
150010 | 20.5570 | 21.2466 | 22.5445 | 21.4807
150011 | 18.3275 | 19.9096 | 22.1760 | 20.1162
150012 | 22.1402 | 21.7903 | 23.1644 | 22.3790
150013 | 16.9327 | 17.5531 | 19.8564 | 18.1751
150014 | 21.5168 | 22.8402 | 24.3754 | 22.8817
150015 | 21.9037 | 24.2370 | 21.1839 | 22.3970
150017 | 19.5339 | 20.6758 | 22.7670 | 21.0275
150018 | 21.0496 | 22.8922 | 24.6138 | 22.9251
150019 | 17.8585 | 19.8341 | 17.7411 | 18.4067
150020 | 16.6600 | 15.9405 | 18.4688 | 17.0524
150021 | 21.5944 | 23.3800 | 24.3658 | 23.1607
150022 | 17.9222 | 18.7751 | 22.2973 | 19.8109
150023 | 19.3412 | 20.3015 | 20.7199 | 20.0985
150024 | 19.2295 | 19.8368 | 21.5661 | 20.1308
150025 | 20.2750 | * | * | 20.2750
150026 | 22.4978 | 21.9448 | 23.2169 | 22.5611
150027 | 18.0335 | 19.4238 | 21.5325 | 19.7090
150029 | 23.2454 | 24.8939 | 25.2067 | 24.4325
150030 | 19.2406 | 20.7256 | 22.2537 | 20.7871
150031 | 18.3463 | 21.3494 | 18.3291 | 19.2245
150033 | 22.6741 | 23.0756 | 24.1718 | 23.2965
150034 | 23.1533 | 23.3718 | 22.8812 | 23.1378
150035 | 21.2374 | 22.3779 | 23.5468 | 22.3841
150036 | 21.4567 | 22.1464 | 22.4098 | 21.9941
150037 | 24.4611 | 22.3699 | 26.4359 | 24.3457
150038 | 22.0572 | 20.3454 | 21.6608 | 21.3217
150039 | 19.6215 | 16.0227 | 19.2708 | 18.1689
150042 | 20.2221 | 18.0185 | 23.6783 | 20.4220
150043 | 20.1741 | 20.6301 | 20.8562 | 20.5460
150044 | 19.1309 | 19.8951 | 20.7412 | 19.9259
150045 | 18.1670 | 20.6406 | 22.9339 | 20.5458
150046 | 18.2543 | 19.4146 | 20.3453 | 19.3721
150047 | 22.0145 | 21.9824 | 24.8712 | 22.8866
150048 | 19.1648 | 21.1441 | 22.5181 | 20.9965
150049 | 18.6451 | 21.6309 | 18.4989 | 19.5784
150050 | 17.7354 | 18.0411 | 18.0624 | 17.9423
150051 | 19.7257 | 20.6895 | 22.0106 | 20.8739
150052 | 17.3750 | 18.8345 | 19.1070 | 18.4211
150053 | 18.8632 | 18.3493 | 19.4966 | 18.9082
150054 | 18.3916 | 19.3424 | * | 18.8632
150056 | 21.5774 | 23.0603 | 24.5540 | 23.0525
150057 | 16.9736 | 17.4044 | 28.0884 | 20.1891
150058 | 22.1409 | 23.0273 | 24.9479 | 23.3727
150059 | 22.7360 | 23.1398 | 24.5716 | 23.4998
150060 | 18.6159 | 19.5011 | 19.8990 | 19.3356
150061 | 19.7968 | 19.4014 | 17.5585 | 18.7895
150062 | 20.8274 | 21.2608 | 22.9214 | 21.6432
150063 | 22.6525 | 24.8587 | 28.5326 | 25.3429
150064 | 20.3865 | 20.6232 | 21.2512 | 20.7527
150065 | 21.2153 | 21.4572 | 23.0636 | 21.9337
150066 | 19.5313 | 19.6845 | 20.7240 | 20.0045
150067 | 18.8862 | 20.5000 | 21.4374 | 20.3431
150069 | 23.3969 | 23.5510 | 23.8869 | 23.5811
150070 | 18.0827 | 18.9332 | 20.7413 | 19.2893
150071 | 13.5111 | 16.4179 | 19.4530 | 16.5251
150072 | 15.0765 | 18.5813 | 18.5447 | 17.3134
150073 | * | 19.8034 | 14.8287 | 16.6860
150074 | 20.2305 | 21.3500 | 22.9598 | 21.5274
150075 | 16.7532 | 17.2267 | 20.0897 | 17.8847
150076 | 22.6424 | 23.3724 | 25.4519 | 23.8726
150078 | 19.9668 | 20.2068 | 20.1260 | 20.1068
150079 | 18.2051 | 18.3668 | 19.3860 | 18.6860
150082 | 17.8381 | 19.6881 | 20.7334 | 19.4332
150084 | 24.3107 | 24.9529 | 27.8354 | 25.7663
150086 | 18.3838 | 19.7763 | 21.5815 | 19.9584
150088 | 20.3366 | 22.3055 | 22.2627 | 21.6628
150089 | 22.1725 | 21.5664 | 21.4993 | 21.7481
150090 | 21.0945 | 21.9803 | 24.7940 | 22.5227
150091 | 22.4640 | 26.5235 | 26.4248 | 25.0867
150092 | 16.9179 | 18.2592 | 16.7372 | 17.2915
150094 | 17.5244 | 16.8351 | 19.5004 | 18.0298
150095 | 19.2749 | 22.3214 | 23.5231 | 21.7410
150096 | 20.8204 | * | 19.7975 | 20.2623
150097 | 19.7751 | 21.1462 | 22.3593 | 21.2002
150098 | 15.2829 | 16.4763 | 17.8106 | 16.4972
150100 | 19.8066 | 18.7289 | 21.2980 | 19.8754
150101 | 20.6209 | 21.2025 | 26.1272 | 22.4675
150102 | 23.7180 | 20.8818 | 21.3313 | 21.8627
150103 | 18.7036 | 19.3653 | 17.9684 | 18.6804
150104 | 20.0765 | 21.3141 | 21.0799 | 20.8409
150105 | 22.4412 | 21.6975 | 23.9540 | 22.7002
150106 | 16.8714 | 18.7088 | 19.1976 | 18.3084
150109 | 19.9066 | 21.7870 | 23.4642 | 21.7343
150110 | 21.9336 | * | * | 21.9336
150111 | 19.2355 | 24.1559 | * | 21.5147
150112 | 20.5253 | 22.1939 | 23.5151 | 22.0747
150113 | 19.6603 | 20.5871 | 21.2412 | 20.5276
150114 | 17.9877 | 18.3097 | * | 18.1462
150115 | 18.4844 | 18.1308 | 21.5042 | 19.3163
150122 | 17.7867 | 20.7540 | 22.2752 | 20.2587
150123 | 14.0508 | 16.2898 | 15.5997 | 15.3438
150124 | 15.9487 | 16.2104 | 17.9062 | 16.6729
150125 | 21.3311 | 22.0299 | 23.1015 | 22.1704
150126 | 20.6857 | 24.0000 | 24.1917 | 22.8979
150127 | 17.0052 | 18.0532 | * | 17.5279
150128 | 19.5576 | 20.4742 | 20.9869 | 20.3528
150129 | 28.6211 | 29.9888 | 34.3166 | 30.8814
150130 | 18.4846 | 18.3852 | 18.5578 | 18.4750
150132 | 20.9443 | 21.2747 | 22.2707 | 21.4967
150133 | 18.4250 | 20.0320 | 21.8167 | 20.0930
150134 | 19.3632 | 20.2764 | 20.7680 | 20.1127
150136 | 21.8097 | 22.9091 | 25.8467 | 23.5584
150146 | 19.0204 | * | 25.1827 | 22.2199
150148 | * | * | 26.2190 | 26.2188
160001 | 19.0085 | 20.1699 | 22.8425 | 20.6574
160002 | 16.6003 | 17.6600 | 19.9607 | 18.0502
160003 | 16.2208 | 17.5429 | 17.5050 | 17.1062
160005 | 17.9405 | 19.3348 | 20.3313 | 19.1990
160007 | 15.1738 | 14.9137 | * | 15.0384
160008 | 16.6193 | 16.7863 | 17.9463 | 17.1044
160009 | 17.9886 | 19.0664 | 20.5800 | 19.2128
160012 | 16.7112 | 17.9236 | 17.2718 | 17.2909
160013 | 18.6304 | 20.3023 | 21.0541 | 20.0165
160014 | 16.7146 | 18.7253 | 18.3097 | 17.9036
160016 | 19.9747 | 21.6050 | 21.8400 | 21.1711
160018 | 15.6141 | 16.0793 | 16.8377 | 16.1872
160020 | 15.5384 | 15.7960 | 16.6092 | 15.9961
160021 | 16.7617 | 16.7920 | 17.2152 | 16.9236
160023 | 15.0099 | 15.3854 | 16.9777 | 15.7718
160024 | 19.4764 | 20.5622 | 22.1034 | 20.6927
160026 | 19.5260 | 20.4567 | 22.8967 | 20.9474
160027 | 16.9417 | 18.2081 | 18.9985 | 18.0413
160028 | 21.0000 | 22.9000 | 25.4337 | 23.0923
160029 | 21.3457 | 22.2106 | 23.6148 | 22.4178
160030 | 19.6182 | 21.6899 | 23.3687 | 21.5386
160031 | 16.1267 | 16.8957 | 17.8994 | 16.9687
160032 | 18.3168 | 19.2464 | 20.5024 | 19.3173
160033 | 18.8859 | 20.1916 | 21.8778 | 20.2846
160034 | 16.5957 | 17.3644 | 19.0684 | 17.6441
160035 | 16.3991 | 17.0165 | * | 16.6797
160036 | 17.4558 | 20.2598 | * | 18.9565
160037 | 19.5045 | 19.5067 | 20.6425 | 19.8844
160039 | 17.8647 | 19.1998 | 19.8851 | 19.0101
160040 | 18.0667 | 19.6339 | 20.0567 | 19.2064
160041 | 17.4435 | 18.7943 | * | 18.1971
160043 | 14.8564 | 16.7841 | 15.5765 | 15.7233
160044 | 17.8323 | 19.5552 | 19.0956 | 18.8738
160045 | 20.0611 | 21.4757 | 22.1285 | 21.2575
160046 | 16.2737 | 16.8665 | * | 16.5694
160047 | 19.0787 | 20.4259 | 22.0610 | 20.5906
160048 | 15.6856 | 17.2709 | 17.7273 | 16.8247
160049 | 15.5673 | 15.3233 | 20.5531 | 16.9039
160050 | 17.7878 | 21.1184 | 21.6247 | 20.1164
160051 | 16.4261 | 15.8213 | 14.0556 | 15.4076
160052 | 21.7647 | 22.1933 | 22.2409 | 22.0595
160054 | 16.1981 | 16.5258 | 15.9074 | 16.2107
160055 | 15.1674 | 17.6177 | 14.5971 | 15.6313
160056 | 17.0172 | 17.9534 | 19.6493 | 18.1612
160057 | 19.1378 | 19.6802 | 20.8345 | 19.9113
160058 | 22.1061 | 22.2812 | 23.5663 | 22.6513
160060 | 17.2825 | 17.7489 | 18.1102 | 17.6991
160061 | 17.0938 | 17.2064 | 18.0413 | 17.4625
160062 | 17.4388 | 18.8163 | 22.6687 | 19.5483
160063 | 16.3583 | 17.3771 | 17.9229 | 17.2470
160064 | 22.2131 | 25.2962 | 23.8367 | 23.7172
160065 | 17.1043 | 17.0609 | * | 17.0808
160066 | 17.9971 | 19.3202 | 20.4609 | 19.2300
160067 | 16.7833 | 17.6602 | 19.9422 | 17.9572
160068 | 19.0572 | 20.5995 | 23.4967 | 21.0271
160069 | 19.1640 | 20.5989 | 21.7197 | 20.4818
160070 | 18.4588 | 17.7855 | 20.3683 | 18.7886
160072 | 14.4141 | 15.3384 | 15.6894 | 15.1633
160073 | 11.4997 | 15.5946 | 16.2186 | 14.2046
160074 | 17.9513 | 18.4624 | 22.2989 | 19.4707
160075 | 18.4613 | 20.7842 | 21.9161 | 20.2495
160076 | 17.8824 | 19.1590 | 20.1603 | 19.0456
160077 | 13.6658 | 15.0468 | 16.8030 | 15.1869
160079 | 18.6333 | 20.5010 | 21.6562 | 20.2670
160080 | 19.4925 | 19.6680 | 21.1713 | 20.1081
160081 | 17.4466 | 19.1442 | 20.4415 | 18.9934
160082 | 19.5322 | 20.7306 | 21.3139 | 20.5262
160083 | 19.7542 | 21.3221 | 23.1417 | 21.3360
160085 | 21.2557 | 19.1929 | * | 20.1491
160086 | 17.5308 | 19.0477 | 19.8991 | 18.7925
160088 | 22.3655 | 23.8098 | 25.3429 | 23.8526
160089 | 17.3449 | 18.3526 | 19.9688 | 18.5909
160090 | 17.9614 | 18.4210 | 19.6767 | 18.6779
160091 | 14.2573 | 14.8904 | 16.1660 | 15.1176
160092 | 17.0633 | 17.9251 | 20.4731 | 18.4608
160093 | 18.5675 | 19.5732 | 22.8552 | 20.0542
160094 | 17.6094 | 18.7835 | 20.3433 | 18.9270
160095 | 15.2722 | 16.4927 | * | 15.8700
160097 | 16.6790 | 17.7860 | 17.7992 | 17.4211
160098 | 16.8670 | 16.8997 | 17.9906 | 17.2476
160099 | 15.0880 | 16.0710 | 17.5828 | 16.2056
160101 | 18.9788 | 19.6314 | 22.1741 | 20.2613
160102 | 20.1161 | 14.4837 | * | 17.0012
160103 | 18.2741 | 19.6168 | 22.4647 | 20.1210
160104 | 17.4829 | 21.0060 | 23.2738 | 20.6777
160106 | 17.3474 | 19.4385 | 19.8906 | 18.8668
160107 | 18.0097 | 18.8936 | 19.5110 | 18.7905
160108 | 16.7779 | 17.7577 | 19.6390 | 18.0443
160109 | 17.9873 | 18.2938 | 18.5126 | 18.2742
160110 | 20.6215 | 20.9959 | 21.9299 | 21.2145
160111 | 14.9965 | 15.1104 | 16.7625 | 15.6341
160112 | 17.2450 | 19.6950 | 20.4038 | 19.1223
160113 | 15.4834 | 14.9449 | 16.7574 | 15.7259
160114 | 16.5006 | 18.0532 | 19.1743 | 17.9155
160115 | 16.5654 | 16.9991 | 17.6815 | 17.0701
160116 | 16.6993 | 18.4261 | 19.6923 | 18.2708
160117 | 18.7615 | 20.1682 | 22.3228 | 20.3906
160118 | 19.4472 | 17.1480 | 16.9466 | 17.7185
160120 | 15.6789 | 15.0577 | 15.9432 | 15.5897
160122 | 18.1469 | 18.8469 | 21.2843 | 19.4799
160124 | 19.1600 | 19.9144 | 21.2279 | 20.1448
160126 | 19.4903 | 17.8643 | 20.0149 | 19.0751
160129 | 17.2112 | 18.0113 | 18.1304 | 17.7899
160130 | 15.6666 | 16.2628 | 17.4584 | 16.4856
160131 | 16.0424 | 16.5397 | 18.0499 | 16.8700
160134 | 15.3012 | 14.6396 | 17.0092 | 15.5453
160135 | 18.7711 | 18.3973 | 18.7512 | 18.6539
160138 | 17.1491 | 18.3957 | 17.8475 | 17.7631
160140 | 18.5630 | 19.6155 | 22.1666 | 20.1522
160142 | 18.1467 | 17.2792 | * | 17.6980
160143 | 17.4497 | 18.1287 | 19.0623 | 18.2106
160145 | 16.9092 | 17.8887 | 18.4032 | 17.7185
160146 | 17.7010 | 19.0576 | 20.6638 | 19.0955
160147 | 19.4041 | 21.6062 | 22.7993 | 21.2446
160151 | 17.2177 | 18.3398 | * | 17.7679
160152 | 15.9500 | 17.0750 | 17.9285 | 16.9659
160153 | 21.2085 | 22.7004 | 23.5212 | 22.4610
170001 | 17.9218 | 18.5120 | 19.8150 | 18.7852
170004 | 16.1442 | 17.2262 | 18.6048 | 17.3314
170006 | 17.5982 | 19.1982 | 19.4488 | 18.7531
170008 | 16.8412 | 17.7061 | 18.2351 | 17.6303
170009 | 23.1349 | 25.0508 | 25.8246 | 24.6993
170010 | 19.4584 | 19.5990 | 20.6294 | 19.9051
170012 | 18.4432 | 20.2412 | 21.6824 | 20.1902
170013 | 19.4667 | 20.1852 | 21.4954 | 20.4080
170014 | 18.4931 | 19.6044 | 21.3084 | 19.7344
170015 | 17.1302 | 17.2443 | 18.0485 | 17.4844
170016 | 20.0675 | 22.1023 | 22.5856 | 21.5884
170017 | 19.5994 | 19.7908 | 21.8586 | 20.4248
170018 | 15.3237 | 14.8794 | 16.9170 | 15.7229
170019 | 16.9362 | 17.4699 | 18.7916 | 17.7083
170020 | 18.1325 | 19.1418 | 20.6658 | 19.3514
170022 | 19.1888 | 20.3269 | 21.1947 | 20.2097
170023 | 19.2441 | 19.6533 | 21.6273 | 20.2090
170024 | 14.3604 | 15.0081 | 16.1196 | 15.1666
170025 | 18.7182 | 19.1720 | 19.2124 | 19.0231
170026 | 14.8974 | 16.9094 | 17.0837 | 16.3226
170027 | 17.8690 | 18.4466 | 20.7776 | 19.0432
170030 | 15.9282 | 12.9413 | 14.4544 | 14.3349
170031 | 14.2151 | 16.4660 | 16.5916 | 15.7181
170032 | 16.3449 | 15.2207 | 16.1164 | 15.8915
170033 | 19.1952 | 20.4533 | 20.0065 | 19.9072
170034 | 16.9586 | 17.8239 | 18.1073 | 17.6353
170035 | 17.0945 | 19.8334 | * | 18.4676
170038 | 13.8582 | 15.2505 | 17.0172 | 15.4188
170039 | 17.0774 | 18.5780 | 18.4473 | 18.0348
170040 | 21.0617 | 23.1014 | 24.5234 | 22.7728
170041 | 12.4488 | 9.9263 | 13.9710 | 11.9108
170044 | 17.3254 | * | * | 17.3256
170045 | 25.8331 | 20.5454 | 18.4142 | 21.3297
170049 | 20.7921 | 21.2917 | 22.9404 | 21.7361
170051 | 16.4851 | 16.9003 | 16.8455 | 16.7442
170052 | 15.2283 | 16.0948 | 15.8809 | 15.7508
170053 | 14.6133 | 14.3628 | 14.5886 | 14.5203
170054 | 14.6354 | 15.2814 | 18.5239 | 16.1318
170055 | 18.2607 | 18.1783 | * | 18.2208
170056 | 18.3550 | 19.7369 | 17.1872 | 18.5237
170058 | 19.5415 | 20.1090 | 23.0649 | 20.9522
170060 | 18.9853 | 17.5290 | 17.9830 | 18.1586
170061 | 15.0258 | 15.6412 | 16.6852 | 15.7398
170063 | 14.1185 | 13.7611 | 17.2821 | 14.6657
170066 | 16.2891 | 16.8009 | 18.3113 | 17.1768
170067 | 14.9921 | 20.7945 | * | 17.6559
170068 | 17.0022 | 19.2629 | 20.5512 | 18.8725
170070 | 14.0627 | 14.8348 | 15.0540 | 14.6220
170072 | 12.7709 | * | * | 12.7710
170073 | 17.7056 | 17.7586 | 17.4493 | 17.6284
170074 | 17.3699 | 17.6543 | 18.5169 | 17.8689
170075 | 13.6816 | 14.4939 | 15.6809 | 14.6514
170076 | 14.6109 | 14.9392 | 16.0998 | 15.2083
170077 | 13.9104 | 14.1376 | 14.6378 | 14.2439
170079 | 11.5902 | 16.7227 | * | 13.7740
170080 | 14.8293 | 13.6794 | 15.0079 | 14.4977
170081 | 14.6823 | 15.0840 | 15.7141 | 15.0936
170082 | 13.7462 | 14.8154 | 15.9973 | 14.8264
170084 | 13.0519 | 13.6517 | 14.5770 | 13.7521
170085 | 17.5422 | 21.8907 | 17.2585 | 18.9901
170086 | 19.7182 | 20.7298 | 21.7451 | 20.7316
170088 | 13.4860 | * | * | 13.4860
170089 | 15.4860 | 20.2263 | 16.2599 | 17.5460
170090 | 10.9444 | 23.6837 | 16.3550 | 15.3916
170093 | 14.0276 | 14.7803 | 14.9660 | 14.5908
170094 | 21.2035 | 21.2484 | 20.1253 | 20.9151
170095 | 15.3532 | 16.1078 | 16.8686 | 16.1165
170097 | 17.7540 | 18.6023 | 18.9865 | 18.4524
170098 | 16.6210 | 17.3480 | 18.5181 | 17.4543
170099 | 14.3370 | 16.5247 | 15.8118 | 15.5495
170101 | 18.0143 | 17.3381 | 17.9291 | 17.7556
170102 | 14.2447 | 14.4499 | 14.6874 | 14.4627
170103 | 17.9530 | 18.6172 | 20.1264 | 18.9371
170104 | 21.0049 | 22.0671 | 22.6619 | 21.9115
170105 | 16.7403 | 18.2788 | 18.3824 | 17.8166
170106 | 17.7467 | * | * | 17.7468
170109 | 16.9782 | 18.3483 | 20.4661 | 18.7139
170110 | 18.5731 | 21.0637 | 16.5883 | 18.8196
170112 | 15.4049 | 15.8097 | 17.8740 | 16.3357
170113 | 14.6486 | 16.4938 | 19.9957 | 16.7158
170114 | 16.2645 | 13.9726 | 17.4687 | 15.7793
170115 | 12.9216 | 13.0253 | 13.6173 | 13.1746
170116 | 18.1830 | 19.4278 | 20.8800 | 19.4962
170117 | 16.8237 | 16.8301 | 17.5794 | 17.0795
170119 | 15.2708 | 15.1982 | 13.9828 | 14.8083
170120 | 17.4917 | 18.2832 | 18.7576 | 18.1504
170122 | 21.1769 | 21.4588 | 22.2681 | 21.6171
170123 | 23.6534 | 25.2122 | 25.0073 | 24.6043
170124 | 15.0596 | 16.3925 | 14.2191 | 15.2518
170126 | 13.5736 | 14.5527 | 15.4213 | 14.4901
170128 | 14.1676 | 17.6259 | 13.9704 | 14.9984
170133 | 18.8119 | 19.9778 | 20.0593 | 19.6138
170134 | 14.6799 | 15.1932 | 15.4176 | 15.0931
170137 | 19.3118 | 19.3344 | 21.4394 | 20.0379
170139 | 14.3001 | 14.8157 | 16.9180 | 15.1918
170142 | 17.7134 | 19.0547 | 19.6251 | 18.8022
170143 | 16.0415 | 16.3258 | 18.0308 | 16.8248
170144 | 20.4392 | 20.8488 | 23.9179 | 21.2803
170145 | 19.0142 | 20.1494 | 20.5099 | 19.8990
170146 | 21.7919 | 25.2520 | 27.0312 | 24.7198
170147 | 17.6717 | 18.4634 | 18.2480 | 18.1292
170148 | 19.1942 | 24.4828 | 26.3491 | 22.6386
170150 | 15.9072 | 14.9718 | 16.3723 | 15.7462
170151 | 14.3668 | 14.5002 | 15.7242 | 14.8570
170152 | 15.6423 | 16.0930 | 17.6328 | 16.4532
170160 | 14.4732 | 17.0629 | * | 15.6980
170164 | 17.4072 | 17.0791 | 18.4142 | 17.6451
170166 | 12.7507 | 16.5113 | 17.8131 | 15.5313
170171 | 13.1792 | 14.7051 | 14.7251 | 14.2074
170175 | 20.1907 | 20.8671 | 22.2203 | 21.0292
170176 | 23.5043 | 23.5743 | 25.5404 | 24.2059
170180 | 8.6352 | * | 25.0933 | 14.1579
170182 | 21.3454 | 21.9797 | 23.2115 | 22.1999
170183 | 19.5182 | 16.6577 | 19.6919 | 18.5350
170185 | * | 26.8136 | 26.5542 | 26.6930
170186 | * | 33.2457 | 28.4462 | 30.5174
170187 | * | * | 20.8289 | 20.8289
170188 | * | * | 25.2504 | 25.2504
170189 | * | * | 28.1999 | 28.1996
180001 | 20.4885 | 20.8169 | 22.2674 | 21.1866
180002 | 17.5798 | 19.8195 | 20.0075 | 19.1094
180004 | 17.7149 | 18.0494 | 19.8552 | 18.5287
180005 | 22.4634 | 23.4941 | 22.6704 | 22.8061
180006 | 10.3400 | 11.2872 | 14.4066 | 11.8905
180007 | 17.9491 | 18.6823 | 21.3545 | 19.3281
180009 | 21.0608 | 21.7746 | 22.4450 | 21.7873
180010 | 19.6311 | 19.4210 | 21.8916 | 20.3621
180011 | 19.0526 | 22.6798 | 19.2490 | 20.3535
180012 | 19.0646 | 19.6614 | 19.9227 | 19.5547
180013 | 19.7418 | 20.0950 | 21.0512 | 20.3043
180014 | 21.3361 | 23.0067 | * | 22.1047
180016 | 21.1458 | 19.7242 | 20.5203 | 20.4674
180017 | 15.6583 | 16.7649 | 18.0329 | 16.8060
180018 | 15.4892 | 18.1529 | 17.5670 | 17.0578
180019 | 17.8285 | 19.5953 | 20.8416 | 19.3979
180020 | 18.0111 | 19.4391 | 20.5659 | 19.3119
180021 | 17.0618 | 16.5376 | 17.6330 | 17.0802
180023 | 17.4717 | 19.0574 | 20.8869 | 19.1283
180024 | 16.5040 | 19.6313 | 22.3922 | 19.4653
180025 | 15.4180 | 17.1875 | 18.3306 | 16.9977
180026 | 15.0118 | 13.9959 | 15.5354 | 14.8403
180027 | 17.5286 | 19.6928 | 20.5017 | 19.2757
180028 | 15.7005 | 26.2220 | 19.7853 | 19.6547
180029 | 17.7248 | 20.0841 | 19.9084 | 19.2475
180030 | 17.9543 | 17.5043 | 19.5826 | 18.3704
180031 | 13.1848 | 17.1003 | 11.7847 | 13.7078
180032 | 17.2784 | 17.2362 | 17.6939 | 17.3857
180033 | 15.4131 | 17.0498 | 14.8047 | 15.7339
180034 | 16.3991 | 17.0349 | 16.4944 | 16.6481
180035 | 21.3666 | 22.4651 | 23.3685 | 22.4188
180036 | 20.1860 | 20.6951 | 22.2389 | 21.0630
180037 | 21.2184 | 21.0177 | 22.7893 | 21.7251
180038 | 18.5923 | 19.3837 | 20.6888 | 19.5760
180040 | 21.2229 | 22.2270 | 23.1648 | 22.2239
180041 | 16.3699 | 17.5950 | 19.1325 | 17.6429
180042 | 17.1519 | 15.5660 | 17.5774 | 16.7135
180043 | 14.6526 | 17.2414 | 20.7367 | 17.3094
180044 | 19.4984 | 21.1057 | 21.8163 | 20.8254
180045 | 20.8455 | 20.7498 | 22.1027 | 21.2441
180046 | 21.2080 | 21.6955 | 23.1139 | 22.0204
180047 | 18.6938 | 17.8625 | 17.8574 | 18.1198
180048 | 17.7816 | 18.3151 | 18.8537 | 18.3242
180049 | 16.5459 | 17.8418 | 18.5188 | 17.6210
180050 | 17.1493 | 19.4992 | 18.9891 | 18.5564
180051 | 17.5441 | 18.3028 | 18.6730 | 18.1921
180053 | 15.8994 | 17.3167 | 17.6239 | 16.9255
180054 | 20.0946 | 17.4354 | 19.1340 | 18.8876
180055 | 15.8422 | 16.6072 | 17.8704 | 16.7352
180056 | 17.5881 | 18.7038 | 19.4072 | 18.5962
180058 | 14.5355 | 14.8840 | 17.6126 | 15.5719
180059 | 14.7032 | 17.2542 | 17.7683 | 16.4865
180063 | 12.4448 | 14.7338 | 15.5077 | 14.2770
180064 | 15.5066 | 16.3894 | 21.1067 | 17.5598
180065 | 11.1934 | 11.0966 | 9.9166 | 10.8002
180066 | 19.8956 | 20.7907 | 21.1883 | 20.6121
180067 | 20.1712 | 20.2762 | 21.5671 | 20.6602
180069 | 16.2916 | 19.0836 | 19.5693 | 18.2811
180070 | 15.9362 | 15.4643 | 16.9892 | 16.1274
180072 | 17.2347 | 17.0576 | 17.5411 | 17.2563
180078 | 21.7116 | 23.7765 | 23.4616 | 23.0019
180079 | 15.9048 | 18.1683 | 18.0472 | 17.3416
180080 | 16.6428 | 17.6735 | 18.8793 | 17.7518
180087 | 15.6089 | 16.2378 | 16.4726 | 16.1124
180088 | 22.1774 | 22.8908 | 22.9130 | 22.7063
180092 | 18.3597 | 18.8964 | 19.6790 | 18.9885
180093 | 17.8492 | 17.7592 | 18.8469 | 18.1473
180094 | 13.6233 | 14.3306 | 15.7641 | 14.5357
180095 | 13.9050 | 15.4478 | 15.9881 | 15.0485
180099 | 13.2991 | 14.0464 | 14.0115 | 13.7738
180101 | * | 21.0704 | 21.7454 | 21.4083
180102 | 18.5240 | 18.8169 | 20.1259 | 19.1237
180103 | 20.3490 | 20.9598 | 21.3867 | 20.8948
180104 | 19.3922 | 20.2731 | 21.3866 | 20.3724
180105 | 16.6997 | 18.2976 | 18.3521 | 17.7554
180106 | 15.2895 | 15.5278 | 15.4937 | 15.4371
180108 | 14.4740 | 14.8720 | 16.7327 | 15.3846
180115 | 16.9096 | 18.0951 | 19.2396 | 18.0795
180116 | 18.6077 | 19.2389 | 20.5453 | 19.4231
180117 | 23.0192 | 20.7961 | 17.8273 | 20.4194
180118 | 16.9250 | 17.9017 | 18.3618 | 17.7402
180120 | 15.3115 | 16.4226 | 20.4507 | 17.0636
180121 | 20.0494 | 16.9570 | 16.9881 | 17.9386
180122 | 18.1930 | 18.7549 | 26.1085 | 21.0314
180123 | 21.1067 | 21.5962 | * | 21.3452
180124 | 18.8487 | 19.7138 | 20.5265 | 19.6910
180125 | 14.9314 | 22.6609 | 18.2048 | 17.7710
180126 | 14.3551 | 14.8501 | 14.5644 | 14.5905
180127 | 17.6365 | 18.0498 | 19.9846 | 18.6169
180128 | 18.2817 | 18.7194 | 19.8756 | 18.9809
180129 | 22.3536 | 15.6637 | 14.1861 | 16.9914
180130 | 20.6450 | 21.9413 | 23.4841 | 22.0517
180132 | 19.5884 | 19.8393 | 19.9358 | 19.7903
180133 | 21.7800 | 23.2679 | * | 22.4729
180134 | 14.5387 | 16.5901 | * | 15.5000
180138 | 20.2102 | 19.8524 | 22.8363 | 20.9918
180139 | 20.5350 | 20.3816 | 20.6987 | 20.5422
180140 | 15.2719 | 14.6466 | 16.9631 | 15.5822
180141 | 23.8930 | 20.3404 | 22.5552 | 22.1339
180142 | 20.7510 | * | * | 20.7510
180143 | * | 21.3197 | 19.7662 | 20.5610
190001 | 18.1514 | 18.8583 | 20.4946 | 19.2128
190002 | 19.8834 | 20.6057 | 21.0138 | 20.5155
190003 | 19.9121 | 19.5115 | 20.7504 | 20.0615
190004 | 18.3620 | 19.6755 | 20.5272 | 19.5326
190005 | 17.5161 | 19.0994 | 19.8177 | 18.7716
190006 | 17.5911 | 17.7333 | 18.7928 | 18.0215
190007 | 14.4720 | 16.3633 | 17.9392 | 16.3508
190008 | 19.2456 | 22.4797 | 20.3099 | 20.6400
190009 | 15.9731 | 16.0395 | 17.5144 | 16.4753
190010 | 16.5020 | 17.7616 | 18.1797 | 17.4941
190011 | 15.6351 | 15.7319 | 15.4699 | 15.6120
190013 | 15.5019 | 16.7770 | * | 16.1202
190014 | 17.8015 | 18.6929 | * | 18.2302
190015 | 18.9896 | 19.7673 | 20.5905 | 19.7878
190017 | 17.5381 | 19.8449 | 18.3528 | 18.5693
190018 | 11.1898 | 13.1355 | 18.6199 | 13.8655
190019 | 18.3788 | 18.7344 | 20.8052 | 19.3372
190020 | 17.6840 | 18.7252 | 18.5659 | 18.3279
190025 | 16.8686 | 18.1892 | 19.9177 | 18.2844
190026 | 18.5015 | 19.0130 | 19.9178 | 19.1653
190027 | 17.4761 | 18.4070 | 19.5358 | 18.4507
190029 | 19.1967 | 18.7344 | 18.1118 | 18.6759
190034 | 18.0754 | 19.2007 | * | 18.6247
190036 | 20.0300 | 21.2960 | 23.3903 | 21.5497
190037 | 19.9878 | 14.1323 | 15.6062 | 16.9453
190039 | 19.0376 | 18.7625 | 20.4160 | 19.3991
190040 | 21.7376 | 23.1819 | 22.9262 | 22.6065
190041 | 17.9535 | 19.5511 | 21.9983 | 19.8665
190043 | 15.5618 | 15.5645 | 15.7333 | 15.6215
190044 | 17.4471 | 17.6788 | 17.7460 | 17.6341
190045 | 21.2853 | 22.0065 | 22.8709 | 22.1191
190046 | 20.4458 | 20.2414 | 21.1659 | 20.6024
190048 | 16.8136 | 16.6848 | 18.1698 | 17.2383
190049 | 17.7417 | 18.5902 | 19.3768 | 18.5593
190050 | 16.2854 | 16.9053 | 18.6663 | 17.3158
190053 | 13.0080 | 13.4768 | 13.8037 | 13.4554
190054 | 18.9059 | 17.7269 | 19.9370 | 18.8703
190059 | 15.8373 | 17.8651 | 18.3334 | 17.3742
190060 | 17.8443 | 19.9121 | 20.2207 | 19.3688
190064 | 18.2466 | 19.7215 | 21.0488 | 19.7211
190065 | 18.3091 | 18.3280 | 20.3583 | 19.0184
190071 | 16.4138 | 16.3822 | 17.8444 | 16.8680
190077 | 16.5536 | 16.8829 | 17.0480 | 16.8252
190078 | 16.9383 | 19.5879 | 19.8607 | 18.8295
190079 | 17.9403 | 18.8187 | * | 18.3869
190081 | 14.9707 | 14.7919 | 11.4756 | 13.7796
190083 | 18.4951 | 16.2970 | 18.4954 | 17.7997
190086 | 16.5074 | 17.6237 | 18.2005 | 17.4309
190088 | 19.9362 | 20.4725 | 18.6738 | 19.7186
190089 | 15.0395 | 15.2055 | 15.5151 | 15.2626
190090 | 16.2351 | 19.8201 | 19.0519 | 18.4143
190095 | 17.3258 | 17.3637 | 16.9519 | 17.2138
190098 | 21.0847 | 21.4328 | 20.7537 | 21.0874
190099 | 19.0635 | 19.0545 | 23.1606 | 20.4338
190102 | 20.7870 | 21.1614 | 22.0190 | 21.3440
190103 | 14.4158 | 15.6415 | * | 15.0851
190106 | 18.5908 | 19.9117 | 20.3114 | 19.6058
190109 | 15.8187 | 16.3641 | 16.6515 | 16.2945
190110 | 15.7313 | 15.2652 | 16.5007 | 15.8208
190111 | 20.6508 | 21.3622 | 24.4380 | 22.2154
190112 | 22.0741 | 24.2806 | * | 23.0835
190113 | * | 19.0411 | * | 19.0411
190114 | 13.9209 | 13.5044 | 13.6101 | 13.6758
190115 | 22.7583 | 24.0098 | 25.4983 | 24.0285
190116 | 17.3757 | 18.3223 | * | 17.8596
190118 | 16.3776 | 17.8543 | 17.5060 | 17.2223
190120 | 17.2309 | 17.6708 | 18.5094 | 17.7933
190122 | 15.3742 | 16.7189 | 17.7811 | 16.6133
190124 | 20.1206 | 22.8245 | 21.9308 | 21.6225
190125 | 19.8298 | 20.1401 | 21.5692 | 20.4994
190128 | 20.8770 | 21.5869 | 23.8786 | 22.1716
190130 | 14.0379 | 14.5586 | 15.2678 | 14.6311
190131 | 18.8958 | 19.7483 | 21.3154 | 20.0242
190133 | 15.1393 | 15.7834 | 13.4062 | 14.7514
190134 | 12.4507 | * | * | 12.4507
190135 | 21.3454 | 23.0213 | 24.5472 | 22.9404
190136 | 15.1662 | 15.6286 | 16.7852 | 15.8135
190140 | 14.6829 | 14.8738 | 15.4029 | 14.9883
190142 | 16.2280 | 19.0464 | 22.5765 | 19.3164
190144 | 18.4405 | 18.3513 | 21.3838 | 19.3822
190145 | 16.2505 | 16.4402 | 17.4407 | 16.7345
190146 | 21.9607 | 20.9312 | 22.1502 | 21.6747
190147 | 14.7202 | 15.2732 | 16.3596 | 15.4387
190148 | 15.5338 | 19.4518 | 19.3245 | 17.9652
190149 | 16.4722 | 16.5153 | 18.4197 | 17.1004
190151 | 15.5210 | 16.2783 | 17.3402 | 16.3739
190152 | 22.0319 | 22.7142 | 25.1136 | 23.3179
190156 | 16.0442 | 17.6573 | 18.0528 | 17.2654
190158 | 20.4078 | 21.6307 | 23.2361 | 21.7367
190160 | 18.4662 | 19.3139 | 19.8734 | 19.2722
190161 | 15.9280 | 15.7807 | 27.3615 | 18.5292
190162 | 20.1962 | 20.9645 | 20.7350 | 20.6423
190164 | 18.2379 | 19.0473 | * | 18.6694
190167 | 17.7611 | 15.5795 | * | 16.5290
190170 | 14.5222 | 16.2045 | * | 15.4153
190173 | 23.0934 | * | * | 23.0934
190175 | 20.4580 | 23.0144 | 22.7574 | 22.0818
190176 | 22.2316 | 21.7051 | 24.3432 | 22.8033
190177 | 19.7794 | 20.3679 | 22.3318 | 20.8422
190178 | 12.0372 | * | * | 12.0373
190182 | 20.7102 | 23.1997 | 23.6016 | 22.4491
190183 | 16.0752 | 16.7402 | 17.1805 | 16.6637
190184 | 19.8436 | 18.6583 | 20.6096 | 19.6762
190185 | 20.5852 | 20.7351 | 29.7870 | 23.2575
190186 | 17.4078 | 16.7272 | 18.4556 | 17.5015
190190 | 15.8985 | 13.7951 | 16.2819 | 15.2413
190191 | 19.6911 | 19.7218 | 21.9141 | 20.4097
190196 | 18.6138 | 19.1961 | 20.7601 | 19.5709
190197 | 20.2082 | 20.9871 | 21.6908 | 21.0235
190199 | 15.3522 | 17.8288 | 11.3015 | 14.1164
190200 | 21.6852 | 22.3510 | 24.2525 | 22.7566
190201 | 19.7421 | 21.7185 | 21.1903 | 20.9110
190202 | * | 22.4701 | 22.4062 | 22.4391
190203 | 21.7931 | 23.0636 | 24.9518 | 23.3496
190204 | 20.5784 | 22.9134 | 26.1231 | 23.1780
190205 | 19.3737 | 18.8750 | 20.2374 | 19.4986
190206 | 21.3307 | 21.7867 | 24.2892 | 22.5212
190207 | 19.0216 | 20.7024 | 19.7316 | 19.8068
190208 | 16.9641 | 17.6834 | 23.0838 | 18.5667
190218 | 19.2992 | 20.7290 | 21.6207 | 20.5593
190231 | 17.7247 | * | * | 17.7247
190236 | 21.1982 | 22.5796 | 24.4661 | 22.8193
190238 | 20.6799 | * | * | 20.6799
190239 | 19.7601 | * | * | 19.7601
190240 | 14.3579 | 16.0658 | 15.4026 | 15.3226
190242 | * | * | 12.2209 | 12.2209
200001 | 18.2513 | 19.7903 | 21.3664 | 19.8121
200002 | 22.3035 | 22.3145 | 24.7102 | 23.1322
200003 | 18.4141 | 18.5779 | 20.1431 | 19.0655
200006 | 21.0922 | 18.9818 | * | 20.0361
200007 | 18.1681 | 19.0387 | 21.3451 | 19.4241
200008 | 21.5556 | 23.2883 | 25.6369 | 23.5650
200009 | 21.4763 | 23.3090 | 24.6974 | 23.1816
200012 | 19.1047 | 20.5141 | 21.7931 | 20.4820
200013 | 17.9378 | 20.3793 | 22.9359 | 20.4733
200016 | 17.1187 | 16.2939 | 20.9892 | 18.0074
200018 | 17.8675 | 19.8848 | 21.2548 | 19.6846
200019 | 19.9245 | 21.1893 | 22.7794 | 21.2976
200020 | 22.3355 | 24.7433 | 27.0790 | 24.8621
200021 | 20.7361 | 22.0144 | 24.9384 | 22.6378
200023 | 20.2063 | * | * | 20.2063
200024 | 20.8336 | 21.0633 | 22.7515 | 21.5341
200025 | 20.4165 | 21.4247 | 22.8869 | 21.5952
200026 | 17.9021 | 18.1459 | 19.7172 | 18.5708
200027 | 19.4220 | 20.2100 | 20.8262 | 20.1773
200028 | 18.8763 | 19.8886 | 22.2117 | 20.3329
200031 | 16.1641 | 17.7875 | 18.5637 | 17.4852
200032 | 19.4613 | 20.9148 | 22.1885 | 20.9008
200033 | 22.4685 | 23.6298 | 25.1723 | 23.7287
200034 | 20.4941 | 21.8266 | 23.5414 | 22.0096
200037 | 20.3015 | 19.5004 | 22.5582 | 20.7085
200038 | 21.2632 | 22.9220 | 23.7816 | 22.6253
200039 | 20.1508 | 21.5695 | 22.1873 | 21.3042
200040 | 18.9580 | 20.7744 | 21.8525 | 20.5333
200041 | 18.8131 | 20.2986 | 21.3816 | 20.1961
200043 | 19.4295 | 20.0280 | * | 19.7244
200050 | 20.2014 | 23.0314 | 23.6076 | 22.2752
200051 | 22.0712 | * | * | 22.0712
200052 | 17.6271 | 18.9290 | 19.5066 | 18.7096
200055 | 18.5983 | 19.4998 | 19.8009 | 19.2948
200062 | 18.4279 | 18.0949 | 18.3225 | 18.2799
200063 | 21.2121 | 22.5265 | 26.3887 | 23.2533
200066 | 17.0570 | 18.4281 | 19.4759 | 18.3382
210001 | 18.6617 | 21.5280 | 22.6614 | 20.9120
210002 | 23.5132 | 26.5907 | 25.6975 | 24.9889
210003 | 26.0447 | 22.3090 | 23.0790 | 23.7255
210004 | 24.9760 | 27.2278 | 28.8679 | 27.0643
210005 | 21.3829 | 22.5304 | 24.7185 | 22.9229
210006 | 19.3682 | 20.8607 | 24.1987 | 21.4594
210007 | 23.8840 | 23.4582 | 27.5104 | 24.9372
210008 | 21.2895 | 21.0767 | 24.6569 | 22.4641
210009 | 20.7479 | 20.8476 | 23.4889 | 21.7419
210010 | 19.5908 | 20.4097 | 23.0440 | 21.0277
210011 | 21.4043 | 20.4017 | 22.1443 | 21.2906
210012 | 21.3977 | 24.8430 | 25.2892 | 23.7249
210013 | 19.4505 | 23.1649 | 23.0151 | 21.9197
210015 | 18.7448 | 23.9651 | 23.8419 | 22.0261
210016 | 26.5193 | 24.7441 | 27.2302 | 26.1373
210017 | 18.5079 | 18.2963 | 19.5294 | 18.7753
210018 | 22.8553 | 23.6442 | 25.3112 | 23.9214
210019 | 20.6025 | 21.5429 | 23.5259 | 21.9407
210022 | 24.5744 | 25.6728 | 27.6680 | 25.9838
210023 | 22.9989 | 24.4815 | 26.7837 | 24.7914
210024 | 24.4280 | 24.7858 | 24.8939 | 24.7076
210025 | 21.2769 | 21.4910 | 22.8882 | 21.8653
210026 | 13.8668 | 20.7986 | * | 16.5220
210027 | 17.1060 | 16.2219 | 19.1886 | 17.4744
210028 | 19.4157 | 20.4027 | 22.4054 | 20.7783
210029 | 25.4939 | 24.7605 | 26.2082 | 25.5405
210030 | 20.9574 | 21.9547 | 20.7801 | 21.2193
210032 | 20.1955 | 20.0825 | 20.3407 | 20.2132
210033 | 23.7588 | 22.8303 | 25.0300 | 23.8986
210034 | 19.4144 | 22.6812 | 22.8827 | 21.5075
210035 | 20.8317 | 21.6662 | 21.6973 | 21.4040
210037 | 20.5528 | 21.1659 | 23.5536 | 21.8146
210038 | 24.9762 | 25.9701 | 26.5696 | 25.8902
210039 | 21.3559 | 23.3583 | 23.5618 | 22.7399
210040 | 23.4252 | 23.7067 | 25.4729 | 24.1964
210043 | 22.4000 | 22.9504 | 20.9824 | 22.0358
210044 | 23.0917 | 22.9540 | 23.8101 | 23.2851
210045 | 12.1467 | 13.5654 | 11.8350 | 12.5334
210048 | 24.6921 | 24.9381 | 24.4328 | 24.6715
210049 | 19.3022 | 21.1056 | 23.4786 | 21.4119
210051 | 23.6476 | 24.8949 | 25.7103 | 24.7772
210054 | 23.2730 | 25.1694 | 27.3551 | 25.2404
210055 | 26.5272 | 23.8025 | 27.4218 | 25.8633
210056 | 22.9593 | 22.6958 | 23.5291 | 23.0845
210057 | 26.0076 | 25.6142 | 27.4175 | 26.3518
210058 | 16.3191 | 17.4250 | 22.0351 | 18.6822
210059 | 25.6052 | * | * | 25.6053
210060 | 26.5846 | 26.4566 | 25.8377 | 26.3021
210061 | 16.1931 | 20.8975 | 22.5454 | 20.0819
220001 | 22.9064 | 23.4091 | 25.8030 | 24.0472
220002 | 24.5840 | 25.4158 | 26.3348 | 25.4205
220003 | 17.9319 | 17.6069 | 18.8150 | 18.0852
220006 | 22.6337 | 23.8920 | 25.9967 | 24.1779
220008 | 22.0796 | 24.2393 | 25.6647 | 24.0447
220010 | 22.0067 | 23.4009 | 24.5021 | 23.3133
220011 | 29.5290 | 20.6390 | 29.7597 | 26.1454
220012 | 31.2303 | 31.1041 | 31.8043 | 31.3960
220015 | 23.1893 | 24.1348 | 25.0272 | 24.1474
220016 | 23.0951 | 24.6149 | 25.5598 | 24.3980
220017 | 25.1568 | 25.9000 | 26.0635 | 25.6650
220019 | 19.8551 | 19.9268 | 21.6620 | 20.5000
220020 | 22.4295 | 22.5375 | 23.2840 | 22.7668
220024 | 21.9316 | 23.8620 | 24.1071 | 23.3004
220025 | 22.8593 | 22.0003 | 23.2374 | 22.6994
220028 | 21.0630 | 24.1251 | 31.4858 | 25.0402
220029 | 25.6560 | 25.7660 | 27.4792 | 26.3128
220030 | 18.7429 | 18.9012 | 20.0816 | 19.2486
220031 | 29.3091 | 28.3832 | 30.8324 | 29.5603
220033 | 20.3609 | 21.8156 | 25.2942 | 22.4280
220035 | 23.1892 | 25.7456 | 26.7656 | 25.1903
220036 | 24.4091 | 25.5771 | 26.1128 | 25.3339
220038 | 22.3162 | 22.9821 | 24.2072 | 23.1581
220041 | 27.5034 | 28.6790 | 29.4322 | 28.5477
220042 | 26.0473 | 28.4675 | * | 27.2387
220046 | 23.3149 | 24.1931 | 26.1955 | 24.5514
220049 | 27.2689 | 25.4358 | 26.7406 | 26.4572
220050 | 22.5265 | 23.3330 | 23.8005 | 23.2263
220051 | 21.7357 | 22.4826 | 22.2965 | 22.1608
220052 | 23.5225 | 25.4091 | 26.3043 | 25.1274
220057 | 25.8064 | 26.2945 | * | 26.0375
220058 | 26.8345 | 21.6814 | 22.4816 | 23.6744
220060 | 28.0794 | 28.3950 | 29.6290 | 28.7209
220062 | 20.2254 | 22.5567 | 22.6598 | 21.8448
220063 | 20.8079 | 21.8365 | 23.3704 | 22.0573
220064 | 22.7497 | 24.0982 | * | 23.3816
220065 | 20.1424 | 21.5657 | 22.4143 | 21.3853
220066 | 23.4477 | 24.5463 | 23.4622 | 23.8055
220067 | 27.5405 | 28.2685 | 26.9915 | 27.5793
220070 | 20.9128 | 23.9850 | 26.2697 | 24.8446
220071 | 27.4151 | 27.7679 | 27.7773 | 27.6608
220073 | 26.1328 | 27.4778 | 29.7863 | 27.7808
220074 | 24.3057 | 25.3331 | 26.4210 | 25.3967
220075 | 22.5329 | 24.6982 | 25.7813 | 24.3463
220076 | 23.2795 | 24.1224 | 24.8040 | 24.0785
220077 | 26.1545 | 27.1503 | 26.7165 | 26.6753
220079 | 22.0769 | 25.7305 | * | 23.1834
220080 | 22.1971 | 22.9911 | 24.6008 | 23.2916
220081 | 29.6682 | 31.1326 | 33.3649 | 31.4663
220082 | 22.1453 | 23.2818 | 23.9542 | 23.1292
220083 | 22.5815 | 27.2605 | 28.3533 | 25.8389
220084 | 25.3761 | 26.0395 | 26.8596 | 26.1410
220086 | 26.7778 | 28.7324 | 31.9999 | 29.0552
220088 | 23.4258 | 25.0671 | 25.0645 | 24.5354
220089 | 25.4106 | 25.3521 | 28.9252 | 26.5987
220090 | 23.3049 | 26.0265 | 26.0654 | 25.2015
220092 | 24.7905 | 29.4173 | * | 26.0747
220095 | 21.7851 | 22.6828 | 23.7629 | 22.7845
220098 | 23.1547 | 24.7180 | 26.2287 | 24.7066
220100 | 27.5841 | 26.8001 | 25.8127 | 26.6900
220101 | 27.0711 | 28.0856 | 26.9992 | 27.3742
220104 | 28.7258 | * | * | 28.7258
220105 | 21.9185 | 25.5692 | 24.4095 | 24.0741
220106 | 25.9277 | 27.6812 | * | 26.8476
220108 | 23.4975 | 24.5939 | 26.0166 | 24.7052
220110 | 29.1648 | 30.6173 | 33.9228 | 31.2432
220111 | 24.7510 | 26.7573 | 26.9565 | 26.1374
220116 | 32.0049 | 28.5716 | 30.9871 | 30.4812
220119 | 23.8785 | 24.6344 | 25.5111 | 24.6718
220123 | 32.4678 | 29.6084 | 32.1805 | 31.3951
220126 | 23.6045 | 23.8123 | 36.1591 | 27.2823
220133 | 29.3911 | 29.8366 | 27.4183 | 28.8616
220135 | 28.3648 | 29.6837 | 31.2687 | 29.8642
220154 | 21.1563 | 23.3590 | 25.5654 | 23.5365
220163 | 29.2299 | 29.3552 | 27.8718 | 28.5798
220171 | 24.9261 | 27.3487 | 25.9496 | 26.1526
230001 | 20.0438 | 23.3051 | 22.0875 | 21.7854
230002 | 23.0439 | 24.3115 | 23.7972 | 23.6903
230003 | 21.2215 | 21.6493 | 22.6120 | 21.8276
230004 | 20.5005 | 22.4538 | 22.3271 | 21.7397
230005 | 17.0943 | 20.5596 | 20.2186 | 19.1829
230006 | 20.4978 | 20.6985 | 21.9442 | 21.0676
230013 | 22.2211 | 20.0954 | 20.4633 | 20.9362
230015 | 20.6464 | 21.9499 | 21.6344 | 21.3826
230017 | 22.9755 | 25.7900 | 26.1609 | 24.9780
230019 | 23.6674 | 23.8779 | 24.7356 | 24.1224
230020 | 21.8526 | 28.8869 | 25.8265 | 25.0793
230021 | 19.8256 | 20.9145 | 21.9537 | 20.8777
230022 | 21.9129 | 21.8808 | 22.2179 | 22.0038
230024 | 24.9664 | 26.2155 | 24.1272 | 25.0227
230027 | 19.6393 | 22.5114 | 22.1018 | 21.3775
230029 | 22.1782 | 24.9754 | 24.9385 | 23.9465
230030 | 18.6406 | 19.2441 | 19.2145 | 19.0453
230031 | 19.9465 | 19.4676 | 22.1874 | 20.5558
230032 | 24.8930 | 22.8436 | 23.5011 | 23.7370
230034 | 19.4366 | 17.9276 | 19.0026 | 18.7604
230035 | 17.7490 | 20.5906 | 18.0735 | 18.7098
230036 | 23.8398 | 25.1507 | 25.9801 | 25.0254
230037 | 23.2751 | 22.7382 | 24.7183 | 23.5739
230038 | 21.9692 | 20.9389 | 23.2065 | 22.0318
230040 | 20.7841 | 20.2451 | 21.8062 | 20.9418
230041 | 21.7364 | 23.2870 | 24.2297 | 23.0470
230042 | 21.3870 | 20.7745 | 22.5003 | 21.5609
230046 | 25.3206 | 26.1787 | 27.7076 | 26.3640
230047 | 22.3595 | 23.7178 | 24.3622 | 23.4689
230053 | 26.8917 | 23.5702 | 25.3705 | 25.3321
230054 | 20.8014 | 22.2105 | 18.9493 | 20.6840
230055 | 20.8492 | 20.8930 | 20.9350 | 20.8938
230056 | 17.8091 | 17.3516 | 19.4126 | 18.2031
230058 | 21.0303 | 21.6619 | 22.4579 | 21.7287
230059 | 20.7092 | 20.6540 | 20.6854 | 20.6835
230060 | 19.8987 | 20.5120 | 22.7605 | 21.0950
230062 | 18.8039 | 18.2283 | * | 18.4950
230065 | 22.7416 | 23.3414 | 26.3217 | 24.0577
230066 | 23.0475 | 23.2790 | 23.4679 | 23.2643
230069 | 24.2470 | 25.0212 | 26.4859 | 25.2413
230070 | 21.5666 | 21.2476 | 22.8588 | 21.8801
230071 | 23.1337 | 23.6398 | 23.6674 | 23.4732
230072 | 20.4456 | 22.6533 | 22.8090 | 21.9640
230075 | 22.5866 | 22.3632 | 22.4692 | 22.4739
230076 | 24.7010 | 26.9662 | * | 25.7305
230077 | 20.2823 | 22.6781 | 23.6116 | 22.2277
230078 | 17.9868 | 19.1638 | 20.5427 | 19.2537
230080 | 20.2104 | 19.1810 | 20.4095 | 19.9313
230081 | 19.0199 | 20.0464 | 20.4289 | 19.7958
230082 | 19.0419 | 18.2165 | 21.0552 | 19.3344
230085 | 23.4996 | 24.5765 | 24.2802 | 24.1339
230086 | 20.1730 | 20.1461 | 25.1139 | 21.7587
230087 | 19.9700 | 20.6619 | 22.2688 | 20.9389
230089 | 22.6994 | 23.1023 | 23.3847 | 23.0660
230092 | 20.7738 | 22.3437 | 22.3122 | 21.8236
230093 | 20.6314 | 21.0274 | 25.0356 | 22.3197
230095 | 17.6444 | 18.0582 | 19.1810 | 18.3175
230096 | 22.7785 | 24.3004 | 26.5685 | 24.5818
230097 | 21.1254 | 22.5006 | 22.9902 | 22.2246
230099 | 21.7513 | 22.3422 | 23.5490 | 22.5510
230100 | 17.3842 | 18.2477 | 19.8016 | 18.4668
230101 | 20.5315 | 22.5159 | 22.3310 | 21.7559
230103 | 11.3429 | 18.5254 | 19.4434 | 16.3738
230104 | 24.1238 | 25.5606 | 27.7635 | 25.8605
230105 | 22.6098 | 23.0086 | 23.9851 | 23.2114
230106 | 21.6825 | 22.9909 | 23.1961 | 22.6494
230107 | 17.1386 | 18.9985 | * | 18.1307
230108 | 20.3437 | 21.4592 | 19.9763 | 20.6173
230110 | 19.7262 | 21.0925 | 21.8501 | 20.8760
230115 | 19.6281 | 21.0361 | * | 20.3009
230116 | 14.5692 | 15.6064 | 20.1283 | 16.4365
230117 | 25.6797 | 25.5154 | 28.1220 | 26.4781
230118 | 20.6797 | 20.2770 | 23.2432 | 21.3687
230119 | 22.6555 | 23.9898 | 24.7999 | 23.8287
230120 | 20.3306 | 20.6105 | 22.7243 | 21.0521
230121 | 21.3342 | 21.4615 | 24.6973 | 22.4295
230124 | 18.9981 | 20.9641 | 22.0096 | 20.6756
230128 | 24.0724 | 24.4952 | * | 24.2953
230130 | 22.1775 | 23.5123 | 23.7854 | 23.1764
230132 | 26.1946 | 27.3637 | 29.0292 | 27.5003
230133 | 17.1058 | 19.0770 | 20.2461 | 18.8268
230135 | 20.5637 | 18.4193 | 19.8290 | 19.6840
230141 | 22.4570 | 24.4560 | 23.9885 | 23.6151
230142 | 23.5621 | 25.0282 | 22.9036 | 23.7956
230143 | 16.7948 | 18.2700 | 19.5446 | 18.1583
230144 | 23.4237 | 23.3295 | 23.6959 | 23.4486
230145 | 19.2638 | 17.9811 | 15.8192 | 17.6120
230146 | 21.2260 | 22.3838 | 21.3539 | 21.6475
230147 | 23.2755 | 26.5260 | * | 24.7445
230149 | 18.8005 | 19.9577 | 20.8933 | 19.8319
230151 | 23.3967 | 24.3705 | 25.6421 | 24.4652
230153 | 18.7403 | 20.0098 | 22.8443 | 20.5744
230154 | 15.4362 | 16.7152 | 15.9001 | 16.0188
230155 | 20.5409 | 20.7546 | 18.0743 | 19.8594
230156 | 25.6228 | 27.2254 | 28.0692 | 26.9451
230157 | 17.3571 | * | * | 17.3571
230162 | 21.7148 | 22.7984 | * | 22.2573
230165 | 23.8881 | 24.7959 | 25.9534 | 24.8621
230167 | 22.9745 | 24.1344 | 24.7967 | 23.9623
230169 | 24.3874 | 28.1039 | 24.9264 | 25.7012
230171 | 17.1282 | 16.1129 | 19.9097 | 17.6776
230172 | 21.4675 | 22.1709 | 23.0023 | 22.2346
230174 | 22.7304 | 23.5025 | 24.5090 | 23.5983
230175 | * | 14.4932 | 22.5965 | 17.8784
230176 | 23.8204 | 24.9032 | 24.7466 | 24.4760
230178 | 17.3030 | 17.3428 | 18.1397 | 17.5917
230180 | 18.5744 | 19.6062 | 20.9131 | 19.7352
230184 | 19.7717 | 20.6406 | 21.3426 | 20.5906
230186 | 15.7837 | 19.1289 | 21.2156 | 18.3800
230188 | 16.2975 | 16.8687 | 18.3241 | 17.0936
230189 | 17.9218 | 19.1990 | 22.7783 | 19.9127
230190 | 26.4687 | 24.4643 | 26.8284 | 25.9306
230191 | 18.4861 | 20.6633 | * | 19.5216
230193 | 19.8287 | 21.5358 | 22.8917 | 21.3669
230195 | 22.9228 | 23.4647 | 25.3285 | 23.9218
230197 | 24.0854 | 25.5312 | 26.9776 | 25.4753
230199 | 20.6580 | 22.4592 | 23.5942 | 22.1770
230201 | 18.0787 | 18.2486 | * | 18.1632
230204 | 23.4966 | 24.5127 | 24.4095 | 24.1113
230205 | 15.9314 | 18.1551 | * | 17.0325
230207 | 21.2483 | 20.9059 | 22.2848 | 21.4738
230208 | 16.7454 | 17.8118 | 19.0898 | 17.9011
230211 | 21.8581 | 21.1245 | * | 21.4701
230212 | 24.2611 | 24.6420 | 26.4825 | 25.1164
230213 | 15.5469 | 17.1062 | 18.7123 | 17.1022
230216 | 21.0710 | 22.2137 | 23.4216 | 22.2323
230217 | 22.2698 | 24.1455 | 24.3649 | 23.6068
230219 | 20.0442 | 18.1277 | 20.5935 | 19.6048
230222 | 21.9711 | 23.2545 | 24.2148 | 23.1524
230223 | 22.6887 | 25.2666 | 28.5549 | 25.4631
230227 | 22.3155 | 25.8826 | 27.7510 | 25.3402
230230 | 22.3097 | 22.1703 | 22.0423 | 22.1610
230235 | 17.7197 | 17.5940 | 19.2540 | 18.1724
230236 | 25.9676 | 25.3251 | 25.4791 | 25.5829
230239 | 17.8168 | 18.9790 | 19.8370 | 18.8918
230241 | 20.7297 | 21.8472 | 22.8539 | 21.9059
230244 | 22.2697 | 23.1175 | 23.1234 | 22.8331
230253 | 21.0433 | 22.7706 | 24.9784 | 22.9234
230254 | 22.6335 | 23.3714 | 24.2594 | 23.4070
230257 | 21.3880 | 23.1794 | 24.8070 | 22.9716
230259 | 22.3969 | 23.1768 | 24.5001 | 23.3910
230264 | 17.4864 | 18.6598 | 18.2571 | 18.1056
230269 | 24.0992 | 24.3772 | 24.9596 | 24.4951
230270 | 22.5985 | 25.2665 | 22.9002 | 23.5673
230273 | 22.8715 | 24.1278 | 25.8466 | 24.2438
230275 | 20.8985 | 32.0037 | 29.4179 | 26.3638
230276 | 25.8709 | 22.3313 | 25.4127 | 24.3279
230277 | 23.9771 | 24.3351 | 25.3381 | 24.5552
230279 | 17.8074 | 18.3256 | 21.2467 | 19.1913
230280 | 18.3497 | * | * | 18.3498
230283 | 22.5082 | * | 25.0038 | 23.8515
230286 | * | 47.5925 | * | 47.5929
230287 | * | 22.5420 | * | 22.5420
230288 | * | * | 30.5931 | 30.5929
240001 | 25.6936 | 26.6372 | 28.2239 | 26.9164
240002 | 23.2307 | 24.2214 | 24.3916 | 23.9674
240004 | 24.4030 | 25.6238 | 26.8197 | 25.6037
240005 | 20.3193 | 20.2389 | 22.7873 | 21.0896
240006 | 23.0715 | 25.7288 | 29.5789 | 26.1049
240007 | 19.0850 | 20.7189 | 21.4367 | 20.4240
240008 | 23.3783 | 22.7437 | 26.3213 | 24.1118
240009 | 17.1187 | 17.4518 | * | 17.2880
240010 | 25.4752 | 28.3796 | 29.0956 | 27.7014
240011 | 21.5875 | 22.5188 | 24.0365 | 22.7468
240013 | 21.7544 | 25.1560 | 27.2049 | 24.6443
240014 | 24.2610 | 25.2306 | 26.5144 | 25.3969
240016 | 22.2011 | 23.3772 | 25.2629 | 23.6323
240017 | 18.9272 | 19.3431 | 21.6243 | 19.9559
240018 | 18.4268 | 23.6092 | 27.3634 | 22.7452
240019 | 23.1477 | 24.0613 | 25.1331 | 24.1004
240020 | 20.8849 | 20.6819 | 24.7719 | 22.0019
240021 | 20.1457 | 19.0469 | 23.9570 | 20.9424
240022 | 21.3234 | 23.0394 | 23.4702 | 22.5966
240023 | 22.8224 | 22.3002 | 24.4609 | 23.2632
240025 | 20.0308 | 20.7672 | 21.2597 | 20.6915
240027 | 16.7758 | 18.3837 | 18.3340 | 17.8317
240028 | 25.1934 | * | * | 25.1933
240029 | 20.0164 | 23.0440 | 21.2343 | 21.3892
240030 | 20.1653 | 20.9799 | 22.0200 | 21.0838
240031 | 19.3983 | 21.7620 | 23.4390 | 21.5566
240036 | 22.1721 | 22.5436 | 23.3926 | 22.7261
240037 | 20.1195 | 21.4275 | 21.8392 | 21.1496
240038 | 24.3957 | 26.4513 | 29.0330 | 26.6099
240040 | 23.1352 | 22.8191 | 21.3870 | 22.2562
240041 | 21.8655 | 21.9054 | 22.8511 | 22.2064
240043 | 16.9859 | 18.0186 | 19.5532 | 18.2400
240044 | 20.3339 | 22.5750 | 22.7043 | 21.8646
240045 | 24.1557 | 24.2936 | 25.9223 | 24.7977
240047 | 23.8098 | 25.3233 | 29.6184 | 26.0294
240050 | 21.6499 | 23.1109 | 24.7589 | 23.1788
240051 | 22.5855 | 23.2612 | 25.5603 | 23.8542
240052 | * | 22.3485 | 23.5899 | 22.9828
240053 | 23.8693 | 24.4191 | 26.6015 | 24.9787
240056 | 23.7139 | 24.8549 | 28.5169 | 25.8728
240057 | 24.8686 | 25.3984 | 27.7600 | 26.0180
240058 | 18.4009 | 19.0506 | 19.6784 | 19.0102
240059 | 23.7808 | 25.3847 | 27.0517 | 25.4242
240061 | 25.9951 | 27.9151 | 28.6098 | 27.5450
240063 | 24.4031 | 25.8594 | 26.7645 | 25.6926
240064 | 22.8578 | 24.6785 | 24.9928 | 24.2158
240065 | 14.8734 | 14.4623 | 15.3825 | 14.9036
240066 | 24.1143 | 25.5163 | 27.4066 | 25.7241
240069 | 21.7991 | 23.3373 | 25.7439 | 23.6631
240071 | 21.2463 | 22.6332 | 24.8036 | 22.9056
240072 | 20.9529 | 21.5455 | 22.9244 | 21.8214
240073 | 17.3559 | 17.9013 | 20.1334 | 18.4502
240075 | 21.3357 | 21.9160 | 24.4084 | 22.5903
240076 | 22.3280 | 23.6159 | 26.8682 | 24.3772
240077 | 20.3445 | 22.1509 | 18.9735 | 20.4406
240078 | 25.1082 | 26.2576 | 27.5066 | 26.3275
240079 | 18.8345 | 18.2929 | 20.6644 | 19.2023
240080 | 25.5619 | 26.3071 | 27.8058 | 26.5849
240082 | 18.7995 | 20.2018 | 21.4727 | 20.1735
240083 | 21.0317 | 22.3484 | 24.4855 | 22.6030
240084 | 21.7421 | 23.1951 | 23.9942 | 22.9738
240085 | 20.9778 | 20.7535 | 17.4712 | 19.7663
240086 | 18.1401 | 18.1497 | 17.7594 | 18.0222
240087 | 21.3323 | 21.2116 | 20.1003 | 20.8883
240088 | 23.1056 | 24.6260 | 25.5587 | 24.4549
240089 | 21.1989 | 21.3949 | 23.4029 | 21.9959
240090 | 19.2166 | 21.0856 | 22.6601 | 21.1189
240093 | 20.2400 | 20.7138 | 22.3968 | 21.1802
240094 | 22.0247 | 22.5923 | 24.4166 | 23.1169
240096 | 21.0417 | 20.2992 | 23.8171 | 21.7632
240097 | 27.9496 | 29.7597 | 31.8726 | 29.9039
240098 | 24.2296 | 23.9626 | * | 24.0891
240099 | 15.4964 | 18.8139 | 43.7548 | 21.0887
240100 | 20.8325 | 24.1875 | 24.7500 | 23.2514
240101 | 19.9837 | 22.1329 | 24.3455 | 22.2487
240102 | 16.3659 | 15.5114 | 14.5842 | 15.5365
240103 | 18.7510 | 21.0182 | 20.2325 | 19.9774
240104 | 23.5351 | 25.1139 | 27.5745 | 25.4425
240106 | 23.5005 | 23.9677 | 25.5890 | 24.4099
240107 | 20.9004 | 21.2163 | 24.5581 | 22.1688
240108 | 18.2427 | 17.6500 | 19.2516 | 18.3839
240109 | 16.3216 | 15.1369 | 14.5891 | 15.2649
240110 | 21.0277 | 21.7340 | 22.9718 | 21.9757
240111 | 17.8617 | 19.9712 | 20.0499 | 19.2908
240112 | 16.6244 | 17.2437 | * | 16.9303
240114 | 17.3682 | 18.3415 | 21.7910 | 19.3128
240115 | 23.8675 | 24.6529 | 26.8906 | 25.1535
240116 | 18.3520 | 17.3460 | 19.2400 | 18.3173
240117 | 17.9941 | 18.6677 | 19.7047 | 18.8229
240119 | 21.8289 | 23.0230 | 23.4148 | 22.7820
240121 | 22.2266 | 22.4858 | 24.5455 | 23.1566
240122 | 21.2876 | 20.7795 | 23.5331 | 21.8695
240123 | 18.3941 | 18.9494 | 20.0721 | 19.1239
240124 | 20.4728 | 21.2023 | 23.5138 | 21.7551
240125 | 14.9708 | 17.3846 | * | 16.1716
240127 | 17.9724 | 16.4294 | 19.3859 | 17.7982
240128 | 16.3608 | 17.5611 | 20.1960 | 17.9593
240129 | 16.5209 | 17.7242 | 20.2001 | 18.1562
240130 | 16.4271 | 17.7634 | 17.8752 | 17.3622
240132 | 23.1452 | 24.5633 | 26.7031 | 24.8511
240133 | 19.5293 | 20.8958 | 23.6068 | 21.3584
240135 | 15.7015 | 15.6298 | 17.8575 | 16.3349
240137 | 21.5073 | 21.6644 | 23.1752 | 22.1872
240138 | 16.7332 | 19.1676 | 17.4235 | 17.7313
240139 | 20.5496 | 21.0163 | 22.4472 | 21.2707
240141 | 23.1009 | 23.6498 | 25.1597 | 24.0447
240142 | 29.2238 | 24.0719 | 25.5197 | 26.0657
240143 | 20.4266 | 20.7307 | 18.9442 | 20.0050
240144 | 21.4469 | 23.1661 | 23.3501 | 22.6969
240145 | 19.0689 | 17.6747 | 22.6062 | 19.4589
240146 | 16.5412 | 17.3275 | 18.1744 | 17.4437
240148 | 19.5204 | 19.5372 | * | 19.5281
240150 | 20.8331 | 23.3857 | * | 21.8697
240152 | 22.4744 | 24.1818 | 25.4031 | 24.1733
240153 | 19.3336 | 18.6556 | 20.3880 | 19.4726
240154 | 21.5052 | 21.5859 | 21.3809 | 21.4857
240155 | 20.9385 | 23.6944 | 24.4892 | 23.0432
240157 | 13.7309 | 20.0571 | 16.7563 | 16.8353
240160 | 15.9014 | 16.4990 | 17.3072 | 16.5799
240161 | 16.8809 | 18.0542 | 19.1144 | 18.0796
240162 | 19.1542 | 19.3296 | 20.4807 | 19.6719
240163 | 20.4760 | 22.2009 | 23.0778 | 21.9095
240166 | 19.4131 | 19.4496 | 21.5002 | 20.1541
240169 | 16.3958 | * | * | 16.3959
240170 | 20.3779 | 21.5994 | 22.4313 | 21.4955
240171 | 18.5172 | 19.6732 | 20.5124 | 19.5729
240172 | 20.8606 | 20.3699 | 20.9068 | 20.7077
240173 | 18.5187 | 18.3183 | 20.6286 | 19.1672
240179 | 20.4004 | 17.7557 | 19.8250 | 19.2836
240184 | 16.8917 | 17.6979 | 19.7471 | 18.1054
240187 | 21.2736 | 23.2471 | 24.9027 | 23.1511
240193 | 18.4664 | 26.6381 | 23.6164 | 23.0709
240196 | 25.3479 | 26.2793 | 27.3313 | 26.3610
240200 | 14.9076 | 18.7517 | 18.8396 | 17.3476
240207 | 25.2814 | 26.0927 | 27.4330 | 26.3128
240210 | 24.5664 | 25.6060 | 26.6231 | 25.6397
240211 | 30.6260 | 34.7849 | 32.8805 | 32.7909
240213 | * | * | 27.4812 | 27.4811
250001 | 19.2756 | 20.2019 | 20.9338 | 20.1232
250002 | 18.6938 | 19.6081 | 21.6643 | 20.0536
250003 | 16.7570 | 18.7331 | 19.3864 | 18.3353
250004 | 18.3860 | 19.2913 | 20.9295 | 19.5583
250005 | 12.5834 | 13.7341 | 11.3971 | 12.5195
250006 | 17.5192 | 19.4531 | 20.3061 | 19.0833
250007 | 19.7562 | 20.9757 | 21.2226 | 20.6508
250008 | 15.8506 | 15.8096 | 16.4863 | 16.0657
250009 | 17.7283 | 18.0463 | 19.7610 | 18.4932
250010 | 14.6101 | 16.0233 | 17.6204 | 16.0381
250012 | 16.7579 | 17.4032 | 15.6117 | 16.4987
250015 | 11.7249 | 16.6522 | 19.3794 | 15.3452
250017 | 20.5976 | 18.8850 | 19.0435 | 19.5747
250018 | 13.1687 | 14.7291 | 16.8783 | 14.8458
250019 | 18.0956 | 19.9070 | 22.9085 | 20.3396
250020 | 16.2698 | 19.6575 | 19.1877 | 18.3910
250021 | 10.5844 | 12.7242 | 15.8485 | 12.9174
250023 | 12.3434 | 13.8210 | 14.7354 | 13.5480
250024 | 12.9899 | 14.8394 | 12.1862 | 13.2855
250025 | 20.3625 | 21.9075 | 21.2651 | 21.1983
250027 | 14.5445 | 15.1790 | 17.5936 | 15.6987
250029 | 16.0682 | 14.8216 | 14.8043 | 15.2287
250030 | 26.6173 | 25.5089 | 27.2140 | 26.4270
250031 | 18.3825 | 19.8779 | 21.7605 | 20.4551
250032 | 17.5957 | * | * | 17.5957
250033 | 15.0941 | 16.9132 | * | 15.9970
250034 | 17.0399 | 18.8231 | 20.3681 | 18.7749
250035 | 16.8349 | 18.3861 | 17.1071 | 17.4370
250036 | 16.1913 | 17.6247 | 17.0469 | 16.9644
250037 | 12.7156 | 14.3994 | 16.6348 | 14.4707
250038 | 17.7019 | 18.8434 | 16.8610 | 17.7868
250039 | 15.1409 | 16.4502 | 16.8729 | 16.1389
250040 | 18.3364 | 19.6513 | 20.8178 | 19.5733
250042 | 17.6531 | 18.3858 | 19.4367 | 18.4780
250043 | 16.6500 | 18.4025 | 17.7554 | 17.5544
250044 | 16.7321 | 19.0321 | 20.3711 | 18.6909
250045 | 21.8988 | 22.7225 | 25.3236 | 23.3569
250047 | 14.7461 | 16.0109 | * | 15.2694
250048 | 17.6649 | 19.4976 | 19.3636 | 18.8723
250049 | 12.1635 | 12.8275 | 13.4396 | 12.7838
250050 | 15.1159 | 16.0234 | 16.6723 | 15.9407
250051 | 10.4900 | 10.1212 | 10.5027 | 10.3736
250057 | 16.1838 | 16.6316 | 19.0571 | 17.2494
250058 | 15.7197 | 16.2623 | 16.3813 | 16.1275
250059 | 16.6494 | 17.9507 | 19.0813 | 17.8285
250060 | 16.1804 | 12.6893 | 14.0155 | 14.2269
250061 | 11.5108 | 12.0186 | 11.4573 | 11.6591
250063 | 13.3092 | 15.0894 | 15.9383 | 14.6934
250065 | 13.6904 | 15.0507 | 16.2010 | 14.9097
250066 | 16.1742 | 17.2711 | 16.1044 | 16.5014
250067 | 16.8522 | 18.3773 | 20.0430 | 18.4322
250068 | 13.4127 | 13.2644 | 16.3759 | 14.2410
250069 | 16.8980 | 18.5782 | 21.2111 | 18.7309
250071 | 12.3488 | 13.1934 | 13.7055 | 13.0670
250072 | 18.9487 | 21.0602 | 20.7704 | 20.1290
250077 | 13.7404 | 13.9479 | 14.0318 | 13.8984
250078 | 15.9739 | 17.4118 | 17.4212 | 16.9775
250079 | 16.5835 | 16.1483 | 21.3505 | 18.0112
250081 | 19.0358 | 18.1848 | 20.1214 | 19.0803
250082 | 17.1427 | 17.3096 | 19.5962 | 18.0482
250083 | 16.6065 | 16.3054 | 19.5217 | 17.6288
250084 | 20.6429 | 21.0870 | 22.4632 | 21.3407
250085 | 15.4477 | 16.7377 | 18.0100 | 16.7072
250088 | 18.2736 | 19.3976 | 20.3019 | 19.3083
250089 | 14.3027 | 15.0238 | 16.0202 | 15.0666
250093 | 16.1506 | 16.8647 | 17.6906 | 16.8800
250094 | 18.5063 | 18.9681 | 19.9288 | 19.0932
250095 | 17.4217 | 18.4944 | 18.6616 | 18.1868
250096 | 19.0584 | 19.3630 | 20.5923 | 19.6554
250097 | 15.5741 | 16.3328 | 18.8398 | 16.9174
250098 | 18.3874 | 18.8163 | 17.9562 | 18.4324
250099 | 15.1265 | 15.9867 | 18.2504 | 16.5120
250100 | 17.8688 | 19.7559 | 18.8877 | 18.8640
250101 | 17.7194 | 17.6704 | 41.5335 | 17.7745
250102 | 18.9348 | 19.8487 | 21.3213 | 20.0396
250104 | 18.7651 | 19.0165 | 20.5035 | 19.4465
250105 | 15.5133 | 16.1480 | 17.0135 | 16.2367
250107 | 15.0737 | 16.5635 | 16.7104 | 16.0939
250109 | 21.3867 | 24.5760 | 16.4965 | 20.5154
250112 | 16.3640 | 16.6447 | 16.8696 | 16.6208
250117 | 16.9787 | 15.9335 | 18.8863 | 17.1858
250119 | 16.1218 | 16.5700 | 17.1373 | 16.5802
250120 | 16.7182 | 18.1428 | 22.3897 | 18.8266
250122 | 19.2990 | 19.8033 | 19.7966 | 19.6361
250123 | 18.7863 | 22.1376 | 22.2184 | 21.1030
250124 | 13.2490 | 14.4008 | 15.3772 | 14.3481
250125 | 21.2660 | 21.9366 | 25.3415 | 22.8644
250126 | 21.9101 | 19.0168 | 20.1117 | 20.3133
250128 | 16.1418 | 15.9958 | 15.8352 | 15.9898
250131 | 12.4557 | 11.2470 | 11.5396 | 11.7049
250134 | 18.5142 | 21.4489 | 22.0310 | 20.5243
250136 | 21.3497 | 20.0333 | 21.9977 | 21.1329
250138 | 20.4550 | 19.3446 | 21.2489 | 20.3584
250141 | 19.6692 | 21.6835 | 19.8982 | 20.4335
250145 | 11.2120 | 11.2021 | * | 11.2080
250146 | 14.7781 | 15.4061 | 16.9341 | 15.6577
250148 | 19.4233 | 23.1459 | * | 21.1903
250149 | 15.2318 | 15.7537 | 16.4228 | 15.8106
250150 | 21.8599 | * | * | 21.8600
250151 | * | * | 20.4581 | 20.4581
260001 | 20.1560 | 20.9620 | 22.6646 | 21.2406
260002 | 21.6597 | 23.4259 | 24.6812 | 23.4142
260003 | 15.4482 | 16.2023 | 16.5931 | 16.0798
260004 | 13.7035 | 15.2735 | 16.4424 | 15.0947
260005 | 23.9681 | 22.5860 | 24.3624 | 23.6476
260006 | 20.0994 | 22.1692 | 24.1078 | 22.0536
260008 | 16.8893 | 18.2114 | 15.9656 | 17.1196
260009 | 18.2863 | 19.0654 | 20.1679 | 19.1754
260011 | 19.5059 | 20.3279 | 21.1624 | 20.3470
260012 | 17.1662 | 17.3810 | 17.7853 | 17.4521
260013 | 16.1825 | 17.3772 | 18.4857 | 17.3402
260015 | 17.8817 | 18.3849 | 21.7581 | 19.2237
260017 | 16.9914 | 17.9796 | 20.8258 | 18.6436
260018 | 12.5301 | 13.6120 | 14.3278 | 13.5417
260019 | * | 18.3629 | * | 18.3629
260020 | 20.2241 | 21.0314 | 22.4643 | 21.2460
260021 | 21.6237 | 23.3527 | 27.2478 | 23.9117
260022 | 17.7772 | 18.7707 | 20.5417 | 18.9739
260023 | 17.8649 | 18.5665 | 19.2256 | 18.5565
260024 | 15.7815 | 15.6095 | 16.9515 | 16.1624
260025 | 17.0965 | 18.2804 | 19.3535 | 18.2493
260027 | 22.0362 | 23.1505 | 22.9973 | 22.7247
260029 | 21.1858 | 20.1832 | 22.0390 | 21.1257
260030 | 11.9215 | 12.8349 | 12.7803 | 12.5162
260031 | 19.7249 | 22.5379 | 24.3626 | 22.0014
260032 | 19.6728 | 20.3847 | * | 20.0208
260034 | 20.4902 | 20.5439 | 21.6108 | 20.9281
260035 | 13.0071 | 15.1611 | 15.0710 | 14.4258
260036 | 18.8104 | 20.1242 | 19.4559 | 19.4803
260039 | 14.6644 | 15.9689 | 13.9705 | 14.9145
260040 | 18.0140 | 18.5132 | 19.7196 | 18.7876
260042 | 18.7514 | 20.8821 | * | 19.9434
260044 | 15.9206 | 16.7879 | 18.2413 | 17.0028
260047 | 19.2247 | 20.2724 | 22.4013 | 20.5664
260048 | 21.0602 | 22.4800 | 20.1127 | 21.0958
260050 | 16.8520 | 17.8142 | 20.8510 | 18.4171
260052 | 18.0914 | 19.1044 | 21.1297 | 19.4548
260053 | 16.5166 | 17.4110 | 18.9606 | 17.6806
260054 | 20.6242 | 23.0188 | * | 21.7799
260055 | 15.4214 | 17.9547 | 18.8793 | 17.4012
260057 | 19.7144 | 16.5704 | 15.8404 | 17.4526
260059 | 17.0546 | 16.2074 | 17.2807 | 16.8654
260061 | 15.7112 | 17.1343 | 18.7280 | 17.2320
260062 | 21.3138 | 22.0091 | 25.1582 | 22.8328
260063 | 18.8973 | 19.7231 | 21.1284 | 19.8962
260064 | 17.8033 | 18.3749 | 17.5188 | 17.8922
260065 | 20.0975 | 20.6671 | 22.0073 | 20.9514
260066 | 15.3460 | 15.3139 | * | 15.3302
260067 | 15.1837 | 14.5499 | 15.0354 | 14.9154
260068 | 19.4240 | 20.7947 | 22.0951 | 20.7923
260070 | 13.9510 | 18.7384 | 11.2251 | 14.4396
260073 | 15.9182 | 16.9496 | 17.9000 | 16.9733
260074 | 19.8915 | 20.4033 | 18.7639 | 19.6422
260077 | 19.4482 | 20.5830 | 21.6257 | 20.5610
260078 | 14.9463 | 16.0586 | 16.9217 | 15.9818
260079 | 16.1453 | 16.4816 | 17.3871 | 16.6399
260080 | 14.6832 | 13.1617 | 13.6815 | 13.7659
260081 | 20.3053 | 20.2471 | 22.4329 | 21.0085
260082 | 15.9858 | 18.2853 | 18.7527 | 17.6725
260085 | 20.7051 | 21.5137 | 22.7394 | 21.6591
260086 | 15.2927 | 16.7579 | 17.2049 | 16.4038
260091 | 21.5464 | 22.0772 | 23.8702 | 22.5033
260094 | 18.5395 | 19.7308 | 20.0014 | 19.4593
260095 | 20.7292 | 21.6999 | 22.8156 | 21.7294
260096 | 22.5972 | 22.8259 | 23.5009 | 22.9961
260097 | 19.0632 | 18.6965 | 19.6203 | 19.1454
260100 | 16.6523 | 16.5439 | 16.6168 | 16.6045
260102 | 20.6361 | 21.2133 | 24.1041 | 22.0613
260103 | 19.7146 | 19.9144 | * | 19.8156
260104 | 20.3176 | 21.6624 | 22.1805 | 21.4297
260105 | 24.8181 | 22.8005 | 24.6572 | 24.0540
260107 | 20.4269 | 22.5214 | 23.1564 | 21.9109
260108 | 20.0034 | 20.9029 | 22.4665 | 21.1879
260109 | 14.8181 | 15.9724 | 16.7734 | 15.8460
260110 | 18.3227 | 19.5633 | * | 18.9410
260113 | 16.2223 | 16.1346 | 16.3440 | 16.2356
260115 | 17.4698 | 19.3873 | 20.1706 | 18.9712
260116 | 14.9812 | 16.0187 | 16.9807 | 15.9921
260119 | 17.2942 | 18.0725 | 18.7958 | 18.0259
260120 | 16.4904 | 17.6811 | 18.7651 | 17.6553
260122 | 16.0931 | 16.3700 | 16.1637 | 16.2077
260123 | 14.6822 | 15.2926 | 17.7996 | 15.9122
260127 | 18.4026 | 18.1342 | 19.7946 | 18.7879
260128 | 12.6414 | 13.2942 | * | 12.9660
260131 | 18.4154 | 18.0395 | * | 18.2242
260134 | 17.5127 | 17.1341 | 18.4511 | 17.6303
260137 | 19.4697 | 19.5976 | 20.7638 | 19.9765
260138 | 23.2364 | 23.6502 | 25.4515 | 24.0813
260141 | 19.1893 | 19.0444 | 21.1469 | 19.7400
260142 | 17.3084 | 18.2023 | 18.6412 | 18.0732
260143 | 13.9040 | 15.4688 | 16.0479 | 15.1578
260147 | 14.7769 | 15.8522 | 16.1172 | 15.5706
260148 | 11.3524 | 12.6651 | 15.1916 | 13.0421
260158 | 12.7699 | 13.9790 | 15.0140 | 13.9277
260159 | 19.7951 | 20.9636 | 22.5169 | 20.9886
260160 | 16.5792 | 18.4007 | 18.8723 | 17.9546
260162 | 21.4099 | 20.7331 | 22.3038 | 21.5147
260163 | 15.8593 | 16.8300 | 18.1311 | 16.9540
260164 | 15.1211 | 16.3874 | 16.9403 | 16.1072
260166 | 21.1224 | 22.4071 | 22.8409 | 22.1650
260172 | 16.0772 | 16.4854 | 17.1504 | 16.5822
260173 | 14.2090 | 15.5733 | 17.0117 | 15.5933
260175 | 17.5625 | 18.3632 | 19.7939 | 18.5994
260176 | 21.6044 | 23.2414 | 25.7802 | 23.6435
260177 | 21.9014 | 22.9112 | 24.0679 | 23.0194
260178 | 20.2796 | 20.8189 | 21.2846 | 20.7937
260179 | 22.7185 | 21.4470 | 23.1610 | 22.4301
260180 | 18.9881 | 19.5983 | 21.4226 | 19.9994
260183 | 21.3175 | 23.7057 | 24.2330 | 23.0675
260186 | 19.6026 | 21.0675 | 21.6620 | 20.8448
260188 | 22.5060 | 23.7475 | * | 23.0915
260189 | 16.4233 | * | * | 16.4232
260190 | 19.3419 | 21.6994 | 24.5014 | 21.8167
260191 | 18.1604 | 19.6784 | 20.8030 | 19.6078
260193 | 20.2577 | 22.2030 | 22.9556 | 21.8741
260195 | 19.7068 | * | 20.0889 | 19.9145
260197 | 20.5453 | * | * | 20.5453
260198 | 19.7552 | 21.7926 | 25.3390 | 22.1557
260200 | 20.6888 | 21.7031 | 21.9868 | 21.5369
260207 | * | * | 18.5247 | 18.5247
260208 | * | * | 30.6259 | 30.6261
270002 | 19.2387 | 19.0221 | 19.7588 | 19.3381
270003 | 22.5019 | 20.7277 | 23.0396 | 22.0300
270004 | 19.4834 | 20.1821 | 21.0202 | 20.3215
270006 | 17.0715 | 15.1006 | 18.2057 | 16.6954
270007 | 13.8824 | 15.5780 | 12.8055 | 13.9488
270009 | 20.8238 | 20.7031 | 21.5655 | 21.0425
270011 | 21.1653 | 21.8086 | 21.4031 | 21.4583
270012 | 19.7878 | 20.7913 | 21.7634 | 20.7748
270014 | 19.9859 | 20.4321 | 20.3456 | 20.2664
270016 | 18.6149 | 17.9984 | 21.0198 | 19.0996
270017 | 20.0152 | 22.1046 | 23.2320 | 21.7798
270019 | 15.4128 | 18.5111 | 19.6625 | 17.8208
270021 | 16.9457 | 18.0515 | 21.1624 | 18.5631
270023 | 22.7181 | 22.7162 | 23.7486 | 23.1141
270026 | 18.0568 | 20.1673 | 19.9669 | 19.4168
270027 | 17.2091 | 17.2005 | 17.4500 | 17.3066
270028 | 19.1177 | 19.6212 | 20.4877 | 19.7233
270029 | 17.3710 | 18.2097 | 17.9731 | 17.8617
270032 | 18.7811 | 19.3937 | 20.1801 | 19.4478
270033 | 18.4876 | 20.7060 | 25.0179 | 21.1320
270035 | 16.4302 | 17.9822 | 19.1036 | 17.8465
270036 | 16.8552 | 16.1031 | 18.8787 | 17.3089
270039 | 19.6796 | 20.3800 | 19.6505 | 19.8960
270040 | 20.1242 | 20.1887 | 20.7239 | 20.3415
270041 | 25.8153 | * | * | 25.8151
270044 | 17.5137 | 19.2939 | 18.6533 | 18.4293
270048 | 18.0666 | 17.4506 | 18.1269 | 17.8742
270049 | 22.2540 | 22.0263 | 22.9524 | 22.4171
270050 | 19.9356 | 19.6317 | 21.0901 | 20.2259
270051 | 20.1950 | 20.0386 | 22.2580 | 20.8285
270052 | 14.7009 | 17.1932 | 13.3673 | 15.1086
270057 | 20.6714 | 20.1507 | 21.9997 | 20.9799
270058 | 16.1412 | 18.4780 | 17.7905 | 17.3778
270059 | 19.1808 | 16.9303 | 17.4365 | 17.7389
270060 | 20.4148 | 21.3776 | 18.3386 | 20.1127
270063 | 15.1049 | 16.4553 | 19.7307 | 16.9992
270073 | 16.1937 | 16.6083 | 15.6319 | 16.1437
270079 | 16.7048 | 19.5493 | * | 18.0578
270080 | 15.0705 | 16.6010 | 20.6145 | 17.2851
270081 | 16.7389 | 18.0543 | 15.6834 | 16.8629
270082 | 23.1245 | 23.3209 | 21.0150 | 22.5579
270083 | 17.8554 | 16.8420 | 19.1381 | 17.8988
270084 | 16.2958 | 15.7062 | 19.6105 | 17.1115
280001 | 18.1831 | 18.7137 | 18.9480 | 18.6168
280003 | 23.0213 | 23.6058 | 26.0937 | 24.2580
280005 | 23.6949 | 22.8981 | 23.9753 | 23.5311
280009 | 20.9643 | 23.2300 | 23.8046 | 22.6996
280010 | 20.0462 | 22.0137 | 23.8324 | 22.0012
280011 | 15.9614 | 16.2281 | * | 16.0965
280013 | 22.5163 | 24.0852 | 23.4920 | 23.3630
280014 | 16.8368 | 16.7109 | * | 16.7707
280015 | 16.6939 | 18.0207 | 19.1420 | 17.9018
280017 | 13.9939 | 16.9884 | 15.8099 | 15.6454
280018 | 15.4496 | 16.6439 | 17.0625 | 16.3884
280020 | 21.2467 | 21.9587 | 23.4658 | 22.2728
280021 | 17.6345 | 19.1263 | 21.5215 | 19.4605
280022 | 16.8184 | 15.3785 | * | 16.0620
280023 | 22.3433 | 21.5761 | 19.6265 | 21.1633
280024 | 15.0380 | 15.8747 | 18.1544 | 16.1976
280025 | 21.4764 | 22.2214 | * | 21.8488
280026 | 16.5851 | 18.7258 | * | 17.6496
280028 | 18.0793 | 19.1080 | * | 18.5723
280029 | 24.4359 | 17.1351 | * | 20.5379
280030 | 24.7723 | 26.3542 | 26.2806 | 25.7410
280031 | 9.6321 | 9.6951 | 14.3030 | 11.3451
280032 | 19.1191 | 20.5246 | 21.5150 | 20.4101
280033 | 17.4745 | 17.9841 | * | 17.7291
280035 | 16.6872 | 18.6089 | * | 17.5717
280037 | 17.1064 | 14.8049 | * | 15.9325
280038 | 18.2503 | 18.9305 | * | 18.5950
280039 | 16.1587 | 17.0153 | 18.3375 | 17.1382
280040 | 20.9896 | 21.5426 | 23.7407 | 22.1421
280041 | 16.5503 | 16.6889 | 14.4252 | 15.9446
280042 | 16.6239 | 16.4684 | * | 16.5457
280043 | 17.5937 | 16.8186 | * | 17.2004
280045 | 15.7630 | 17.7408 | 15.2407 | 16.1990
280046 | 17.3214 | 17.9752 | 17.5600 | 17.6110
280047 | 17.4735 | 21.3143 | 19.5815 | 19.4044
280048 | 15.8100 | 17.9319 | 18.6882 | 17.5211
280049 | 18.4365 | 19.4589 | 20.1665 | 19.3973
280050 | 20.0379 | * | * | 20.0378
280051 | 17.1942 | 19.6206 | * | 18.3037
280052 | 14.1201 | 14.9903 | 15.4041 | 14.8495
280054 | 18.7575 | 19.4049 | 23.1191 | 20.4732
280055 | 13.8129 | 14.2046 | 15.2426 | 14.4185
280056 | 15.6135 | 15.6442 | * | 15.6285
280057 | 20.0686 | 21.4754 | 22.5480 | 21.4261
280058 | 21.4868 | 22.8105 | 17.7506 | 20.7067
280060 | 20.7022 | 22.4677 | 22.7755 | 21.9926
280061 | 18.6370 | 20.2066 | 21.2901 | 20.0793
280062 | 15.6018 | 16.1708 | 17.2218 | 16.3363
280064 | 16.8330 | 18.2196 | * | 17.5260
280065 | 20.7370 | 21.6999 | 23.8128 | 22.1199
280066 | 11.7207 | 12.2225 | 10.6969 | 11.4854
280068 | 10.5987 | 10.5103 | 11.6283 | 10.9064
280070 | 22.6201 | 18.7211 | * | 20.3601
280073 | 17.7698 | 18.3496 | * | 18.0596
280074 | 17.3143 | 13.6025 | 18.6064 | 16.1704
280075 | 13.2230 | 13.3154 | 18.0464 | 14.6143
280076 | 16.7488 | 16.1939 | 18.2504 | 17.1042
280077 | 20.0148 | 21.1883 | 22.7244 | 21.3192
280079 | 16.6117 | 17.1519 | 17.7968 | 17.1767
280080 | 16.9487 | 16.1902 | * | 16.5447
280081 | 20.9606 | 23.3805 | 25.2237 | 23.2090
280082 | 14.6173 | 15.4420 | 15.2322 | 15.0937
280083 | 21.5336 | 20.8995 | * | 21.2308
280084 | 13.6536 | 13.2158 | 14.3005 | 13.7432
280085 | 20.4825 | 20.8532 | * | 20.6808
280089 | 18.9567 | 19.9003 | 20.7438 | 19.8619
280090 | 15.1274 | * | * | 15.1274
280091 | 16.1866 | 16.3456 | * | 16.2669
280092 | 14.7912 | 13.3032 | 16.5893 | 14.8029
280094 | 16.3474 | 16.9180 | 18.5068 | 17.3100
280097 | 13.8223 | 14.1870 | * | 14.0071
280098 | 12.5875 | 12.4995 | * | 12.5457
280101 | 16.9973 | 10.5153 | * | 12.9714
280104 | 16.2167 | 15.5949 | 14.8257 | 15.4728
280105 | 21.0735 | 23.7103 | 26.1112 | 23.6557
280106 | 16.0679 | 16.3564 | * | 16.2080
280107 | 14.4679 | * | * | 14.4678
280108 | 17.1961 | 18.5134 | 20.9016 | 18.8959
280109 | 12.4408 | * | * | 12.4408
280110 | 14.2136 | 13.0278 | * | 13.5867
280111 | 19.6283 | 19.7688 | 20.7398 | 20.0680
280114 | 17.3076 | 17.1154 | * | 17.2096
280115 | 18.1480 | 18.3464 | 19.7797 | 18.7967
280117 | 18.8279 | 20.3819 | 20.5464 | 19.9214
280118 | 18.6524 | 17.8891 | 19.3465 | 18.6584
280123 | 11.8582 | 23.6682 | 24.3539 | 18.1396
280125 | 16.3944 | 17.2718 | 19.7871 | 17.7870
280126 | * | * | 35.5895 | 35.5900
290001 | 22.7450 | 24.3681 | 25.9590 | 24.4242
290002 | 16.5419 | 16.7948 | 16.8363 | 16.7281
290003 | 24.2175 | 25.4303 | 27.2718 | 25.6701
290005 | 21.9814 | 22.7804 | 24.6877 | 23.2224
290006 | 22.4063 | 22.4832 | 24.2211 | 23.1190
290007 | 30.9075 | 34.9911 | 33.7208 | 33.2446
290008 | 24.1255 | 26.9216 | 27.0115 | 25.8955
290009 | 23.9373 | 24.8816 | 26.9020 | 25.2711
290010 | 16.4476 | 20.8387 | 25.4598 | 20.8166
290011 | 21.1234 | 19.7410 | 21.7835 | 20.8924
290012 | 25.0430 | 25.5647 | 25.4791 | 25.3714
290013 | 15.7932 | 20.2914 | 21.1487 | 18.7341
290014 | 18.7829 | 20.2762 | 25.6155 | 21.5373
290015 | 19.4504 | 20.2336 | 22.3653 | 20.5695
290016 | 23.8656 | 21.8030 | 17.9615 | 20.7686
290019 | 22.2045 | 22.5584 | 25.1684 | 23.3359
290020 | 21.2380 | 19.5039 | 24.2374 | 21.4763
290021 | 22.9488 | 24.1397 | 26.0430 | 24.3771
290022 | 25.5011 | 25.3914 | 27.5364 | 26.1224
290027 | 13.3769 | 13.1463 | * | 13.2560
290032 | 23.9504 | 26.9846 | 27.1791 | 26.2060
290036 | 12.9074 | * | * | 12.9073
290038 | 27.7030 | 26.0836 | 30.0397 | 27.9572
290039 | 25.5024 | 26.6283 | 28.5925 | 26.9886
290041 | 25.9905 | 27.7740 | 28.6294 | 27.7224
290042 | 18.7527 | 18.7669 | * | 18.7611
290043 | 27.9053 | * | * | 27.9053
290045 | * | * | 26.4843 | 26.4843
300001 | 23.8567 | 25.7142 | 26.8650 | 25.5285
300003 | 24.1297 | 25.3252 | 26.7859 | 25.4284
300005 | 22.2858 | 22.3258 | 22.8163 | 22.4895
300006 | 18.9745 | 22.2642 | 22.0188 | 21.0625
300007 | 20.6325 | 21.3633 | 23.6919 | 21.9920
300008 | 19.6149 | 20.9207 | 23.1085 | 21.2699
300009 | 20.0938 | 20.1486 | 22.7539 | 20.9686
300010 | 20.2130 | 21.0316 | 24.6296 | 21.8421
300011 | 23.0279 | 23.8390 | 25.0979 | 24.0124
300012 | 24.5619 | 25.8581 | 26.1792 | 25.6027
300013 | 20.1669 | 20.0269 | 21.3396 | 20.4889
300014 | 20.1774 | 21.6705 | 23.7144 | 21.9343
300015 | 19.6627 | 22.8966 | 24.4870 | 22.4848
300016 | 17.8148 | 15.1311 | 19.6529 | 17.5958
300017 | 22.7191 | 23.9651 | 26.0604 | 24.3780
300018 | 21.6385 | 22.8379 | 25.7851 | 23.5726
300019 | 19.6728 | 20.5801 | 23.8076 | 21.3279
300020 | 22.6627 | 23.0806 | 24.8189 | 23.5472
300021 | 19.3101 | 20.2585 | 19.0918 | 19.5659
300022 | 19.1875 | 20.1209 | 22.3918 | 20.6206
300023 | 22.7649 | 22.1896 | 24.9992 | 23.3536
300024 | 21.5842 | 22.2235 | 22.4882 | 22.1265
300028 | 20.0778 | 21.4207 | 21.7975 | 21.0588
300029 | 22.6013 | 23.8415 | 24.5772 | 23.7645
300033 | 17.1632 | 17.4836 | 20.4502 | 18.3308
300034 | 24.4975 | 25.2355 | 26.9093 | 25.5558
310001 | 27.4730 | 31.1568 | 29.6344 | 29.4408
310002 | 27.9728 | 28.7786 | 33.9058 | 30.2896
310003 | 27.5624 | 29.3522 | 31.1739 | 29.3684
310005 | 22.9712 | 23.9477 | 25.6120 | 24.1650
310006 | 22.0894 | 24.1538 | 25.9000 | 24.0238
310008 | 24.7618 | 26.4989 | 28.0970 | 26.4414
310009 | 21.7094 | 23.2420 | 24.6353 | 23.1866
310010 | 23.1060 | 24.5471 | 26.5921 | 24.8321
310011 | 24.2885 | 25.4900 | 26.1586 | 25.3131
310012 | 26.6772 | 28.1367 | 31.1705 | 28.7006
310013 | 22.5603 | 23.2424 | 25.0951 | 23.6575
310014 | 23.1956 | 31.0834 | 29.1931 | 27.3029
310015 | 27.9684 | 29.1340 | 29.3681 | 28.8346
310016 | 24.5206 | 26.0738 | 25.7368 | 25.3848
310017 | 24.5976 | 25.1634 | 25.2577 | 25.0191
310018 | 22.4779 | 24.1428 | 25.9108 | 24.1664
310019 | 24.9914 | 28.5952 | 26.4492 | 26.6564
310020 | 24.4152 | 25.0803 | 25.0147 | 24.8332
310021 | 25.4393 | 27.8958 | 29.2267 | 27.4313
310022 | 20.8258 | 23.3412 | 26.7487 | 23.5627
310024 | 24.9521 | 27.0459 | 26.9499 | 26.3252
310025 | 24.1812 | 25.5227 | 26.8719 | 25.4915
310026 | 22.1997 | 23.2895 | 24.6697 | 23.2693
310027 | 22.5696 | 24.4437 | 22.1935 | 23.0737
310028 | 23.9428 | 26.1931 | 25.7246 | 25.2908
310029 | 23.6610 | 24.4290 | 25.9606 | 24.6455
310031 | 26.6831 | 26.7174 | 29.5581 | 27.5915
310032 | 24.7404 | 24.9133 | 25.7088 | 25.2148
310034 | 24.1150 | 24.8567 | 26.4468 | 25.1211
310036 | 21.7187 | 23.0320 | * | 22.3716
310037 | 28.1289 | 28.7738 | 29.9732 | 28.9646
310038 | 28.4893 | 28.1756 | 32.3865 | 29.6794
310039 | 22.7317 | 23.6605 | 24.6045 | 23.6772
310040 | 26.3573 | 26.5769 | 27.2418 | 26.7140
310041 | 23.5559 | 23.8857 | 26.8145 | 24.8018
310042 | 24.7678 | 24.9702 | 26.9695 | 25.5501
310043 | 21.6128 | 24.0238 | * | 22.6515
310044 | 23.1549 | 23.1489 | 25.1618 | 23.8298
310045 | 28.9274 | 29.4877 | 31.7376 | 30.0182
310047 | 26.1921 | 25.9777 | 26.0860 | 26.0841
310048 | 25.2870 | 23.4189 | 28.4136 | 25.6301
310049 | 27.0842 | 25.6732 | 26.3666 | 26.3559
310050 | 24.7988 | 23.7735 | 25.3772 | 24.6345
310051 | 27.5378 | 28.6248 | 28.3783 | 28.1725
310052 | 23.3973 | 24.9773 | 26.8158 | 24.9554
310054 | 27.7376 | 27.6290 | 27.2303 | 27.5237
310057 | 22.2572 | 22.2630 | 26.3903 | 23.6641
310058 | 26.3765 | 25.3983 | 25.6526 | 25.8266
310060 | 20.0997 | 21.4455 | 22.1914 | 21.1757
310061 | 33.9582 | 23.4283 | 24.9678 | 26.7631
310063 | 22.1080 | 21.2619 | 22.9871 | 22.1071
310064 | 25.4822 | 25.9350 | 27.8388 | 26.4138
310067 | 23.9278 | 24.1943 | 26.3624 | 24.7328
310069 | 24.2329 | 25.3464 | 25.7690 | 25.1083
310070 | 28.2220 | 29.5101 | 30.1917 | 29.3042
310072 | 22.5611 | 24.4480 | 25.3145 | 24.0886
310073 | 26.2937 | 26.7954 | 28.7528 | 27.2829
310074 | 22.3588 | 24.2009 | 27.6789 | 24.7835
310075 | 24.4788 | 23.9771 | 24.9752 | 24.4724
310076 | 27.9918 | 29.6667 | 32.5424 | 30.0825
310077 | 26.1251 | 26.7092 | 28.7352 | 27.1831
310078 | 24.0587 | 24.5862 | 24.7606 | 24.4553
310081 | 22.4086 | 23.3310 | 24.6557 | 23.4816
310083 | 24.8204 | 25.0191 | 25.2465 | 25.0205
310084 | 24.6049 | 25.4946 | 27.3680 | 25.8446
310086 | 23.1719 | 23.4966 | 25.2725 | 23.9596
310087 | 21.1215 | 20.6847 | * | 20.9048
310088 | 23.1722 | 23.0610 | 23.7846 | 23.3408
310090 | 24.8986 | 23.6661 | 25.3640 | 24.6461
310091 | 23.2969 | 24.5357 | 25.6405 | 24.4610
310092 | 21.6964 | 22.9721 | 23.2226 | 22.6239
310093 | 23.7251 | 23.9404 | 24.6942 | 24.1032
310096 | 24.5759 | 26.6588 | 28.4705 | 26.4515
310105 | 26.2537 | 28.1317 | 28.7333 | 27.6263
310108 | 23.8308 | 25.1368 | 24.4096 | 24.4558
310110 | 23.2146 | 23.3461 | 26.4175 | 24.4668
310111 | 22.1151 | 23.3646 | 26.2496 | 23.9377
310112 | 24.7914 | 24.2999 | 27.8796 | 25.6804
310113 | 23.1961 | 24.2708 | 25.9143 | 24.5219
310115 | 21.1645 | 23.5148 | 24.5413 | 23.0976
310116 | 23.6366 | 24.2696 | 25.1189 | 24.3065
310118 | 26.1315 | 26.8760 | 28.0517 | 26.9540
310119 | 32.7858 | 29.1045 | 33.2731 | 31.6276
310120 | 23.3200 | 22.6526 | 24.7079 | 23.4981
320001 | 20.6225 | 21.5564 | 23.0290 | 21.8122
320002 | 23.0983 | 25.5144 | 26.4847 | 25.1115
320003 | 16.4642 | 16.4961 | 20.7939 | 17.8265
320004 | 19.6642 | 21.3681 | 19.4799 | 20.2196
320005 | 21.0411 | 22.4178 | 22.1677 | 21.9174
320006 | 20.3863 | 19.8672 | 21.1222 | 20.4529
320009 | 19.3500 | 20.3783 | 21.5870 | 20.3252
320011 | 18.5222 | 19.1476 | 20.7713 | 19.4939
320012 | 17.1764 | 17.1317 | * | 17.1558
320013 | 24.5543 | 25.5403 | 19.4487 | 22.2842
320014 | 16.8412 | 22.9026 | 19.5032 | 19.7029
320016 | 18.8519 | 18.8763 | 19.9200 | 19.2582
320017 | 19.4498 | 20.4390 | 22.5460 | 20.8081
320018 | 19.2336 | 20.3141 | 20.9400 | 20.1778
320019 | 26.9637 | 25.1210 | 26.6900 | 26.3394
320021 | 19.1265 | 20.0089 | 21.0913 | 20.0920
320022 | 18.0606 | 20.9797 | 20.7919 | 20.0415
320023 | 17.8419 | * | * | 17.8418
320030 | 18.6859 | 18.1556 | 16.8696 | 17.8853
320031 | 25.1715 | 18.2244 | 19.0519 | 20.5648
320032 | 20.6871 | 21.4815 | 21.2528 | 21.1396
320033 | 21.0621 | 21.9804 | 24.2703 | 22.4984
320035 | 15.0612 | 17.8058 | * | 16.5303
320037 | 17.8280 | 17.6724 | 19.6466 | 18.4044
320038 | 22.2664 | 23.1987 | 19.2962 | 21.6253
320046 | 18.9607 | 19.4732 | 21.5914 | 20.0169
320048 | 16.8769 | * | 31.6800 | 24.0471
320063 | 17.9089 | 18.5600 | 20.4936 | 18.8302
320065 | 18.6525 | 22.5428 | 19.9012 | 20.1608
320067 | 15.3228 | 16.8015 | 17.7799 | 16.4113
320068 | 18.5103 | 15.6864 | 15.7757 | 16.5793
320069 | 14.4212 | 15.7350 | 18.5375 | 16.2248
320074 | 20.2290 | 22.3403 | 28.3085 | 22.7142
320079 | 19.8555 | 20.2473 | 21.9090 | 20.6661
320083 | * | * | 25.7539 | 25.7539
330001 | 27.3996 | 28.6214 | 30.7042 | 28.9537
330002 | 26.9341 | 27.1811 | 28.2184 | 27.4257
330003 | 18.9211 | 19.3972 | 20.6509 | 20.4183
330004 | 20.9501 | 22.5082 | 24.3703 | 22.6203
330005 | 22.1957 | 22.6137 | 24.3474 | 23.0406
330006 | 25.8006 | 26.2970 | 28.3904 | 26.7950
330008 | 19.2341 | 19.6770 | 20.6816 | 19.8702
330009 | 31.3435 | 30.9087 | 33.3605 | 31.8514
330010 | 16.6508 | 17.8935 | 19.8211 | 18.0647
330011 | 18.6748 | 18.7995 | 19.8035 | 19.0860
330013 | 19.6269 | 19.0995 | 20.9282 | 19.8689
330014 | 36.8669 | 32.4496 | 31.9524 | 33.5779
330016 | 16.8016 | 18.7194 | 18.1603 | 17.8636
330019 | 33.5369 | 31.5927 | 31.9042 | 32.2626
330020 | 1142 | 16.6952 | 16.8234 | 16.1733
330023 | 25.6512 | 26.6997 | 29.4353 | 27.3255
330024 | 37.3316 | 35.7485 | 35.3598 | 36.0893
330025 | 16.8687 | 17.6169 | 18.7663 | 17.7638
330027 | 35.5255 | 35.1046 | 34.1273 | 34.9301
330028 | 29.5294 | 31.7699 | 31.2424 | 30.9471
330029 | 17.0016 | 19.4377 | 18.4354 | 18.2976
330030 | 19.1085 | 18.0866 | 28.7083 | 22.0491
330033 | 17.4444 | 19.5836 | 18.4160 | 18.4656
330034 | 27.7738 | 38.2451 | * | 31.2246
330036 | 25.2820 | 25.5888 | 27.0970 | 25.9905
330037 | 16.4866 | 18.3260 | 18.3557 | 17.7256
330038 | 17.3429 | 16.2997 | * | 16.8497
330041 | 31.4871 | 29.5305 | 34.5461 | 31.7315
330043 | 27.4661 | 28.9622 | 31.7873 | 29.4079
330044 | 19.5219 | 19.9808 | 22.0465 | 20.8006
330045 | 27.9919 | 28.5267 | 30.9046 | 29.1458
330046 | 35.2703 | 38.1184 | 41.6759 | 38.2919
330047 | 18.5536 | 19.5561 | 20.1646 | 19.4202
330048 | 19.1093 | 19.6129 | * | 19.3678
330049 | 20.5731 | 22.1523 | 24.0154 | 22.2469
330053 | 17.8082 | 17.9161 | 18.1728 | 17.9636
330055 | 32.8910 | 34.2159 | 34.9709 | 34.0397
330056 | 30.0945 | 29.8377 | 32.0982 | 30.6226
330057 | 19.3643 | 20.0995 | 20.5575 | 20.0172
330058 | 17.7672 | 18.1007 | 19.1379 | 18.3260
330059 | 34.2426 | 35.0121 | 36.4176 | 35.2563
330061 | 25.4082 | 26.8580 | 28.6136 | 26.9092
330062 | 18.1318 | 18.4662 | 20.0222 | 18.7978
330064 | 33.6447 | 35.1422 | 36.0976 | 34.9476
330065 | 19.9305 | 20.1615 | 20.5958 | 20.2322
330066 | 18.8707 | 19.3644 | 20.9990 | 19.7359
330067 | 22.1065 | 23.6836 | 24.8927 | 23.5465
330072 | 30.4171 | 30.3737 | 32.9665 | 31.2232
330073 | 16.4518 | 16.5166 | 18.4162 | 17.3766
330074 | 17.7308 | 18.9326 | 21.5724 | 19.3819
330075 | 17.6385 | 19.2938 | 19.9781 | 18.9556
330078 | 18.7884 | 18.0362 | 20.7304 | 19.1607
330079 | 18.7622 | 18.9398 | 21.1153 | 19.6188
330080 | 31.4424 | 34.6880 | 29.5529 | 31.9593
330084 | 19.3216 | 19.0261 | 19.2135 | 19.1805
330085 | 20.6203 | 20.9332 | 21.8271 | 21.1349
330086 | 23.6496 | 26.2979 | 27.1585 | 25.5888
330088 | 25.7940 | 26.7583 | 29.5181 | 27.3384
330090 | 19.2112 | 20.1344 | 20.9327 | 20.1124
330091 | 19.7776 | 21.6004 | 22.9396 | 21.4093
330092 | 13.3723 | 17.2083 | 17.7246 | 16.0609
330094 | 18.1582 | 18.8941 | 20.7039 | 19.2157
330095 | 21.1096 | 21.1809 | 28.8428 | 22.1947
330096 | 18.5149 | 20.0370 | 21.1648 | 19.9256
330097 | 16.4433 | 16.1945 | 18.5608 | 17.0345
330100 | 29.0916 | 28.9956 | 31.5775 | 29.8728
330101 | 31.5914 | 35.3618 | 37.9069 | 34.7542
330102 | 19.0058 | 21.0057 | 23.5253 | 21.0029
330103 | 16.8110 | 17.3511 | 17.9017 | 17.3639
330104 | 31.2074 | 31.9746 | * | 31.5864
330106 | 35.3775 | 36.2526 | 38.4384 | 36.6836
330107 | 27.7797 | 28.9225 | 29.7378 | 29.5391
330108 | 18.0786 | 18.5849 | 20.2536 | 18.9350
330111 | 15.9321 | 13.3352 | 17.7020 | 15.4904
330114 | 17.0581 | 19.1162 | 19.2566 | 18.4674
330115 | 17.4684 | 18.5911 | 18.5544 | 18.2257
330116 | 14.9610 | 16.8567 | 17.0561 | 16.2974
330119 | 33.1179 | 33.5653 | 34.6591 | 33.7652
330121 | 16.3385 | 17.1869 | 17.9757 | 17.1336
330122 | 20.2417 | 23.0384 | 25.6500 | 22.9753
330125 | 19.7638 | 20.5922 | 21.5769 | 20.6209
330126 | 23.8957 | 25.1175 | 27.5394 | 25.5273
330127 | 30.7356 | 40.0112 | 30.6030 | 33.9644
330128 | 30.8242 | 34.3468 | 33.5504 | 32.9063
330132 | 14.3673 | 14.8704 | 16.0311 | 15.1074
330133 | 35.3576 | 37.5192 | 35.9692 | 35.9945
330135 | 22.2670 | 23.5662 | 25.1802 | 23.5883
330136 | 20.1043 | 20.4124 | 21.2943 | 20.6129
330140 | 19.3615 | 21.1841 | 21.1787 | 20.5922
330141 | 26.7096 | 27.5960 | 29.3037 | 27.9129
330144 | 16.2517 | 17.1513 | 17.3920 | 16.9610
330148 | 16.2782 | 16.7251 | 17.6560 | 16.8727
330151 | 15.7594 | 15.2233 | 16.1354 | 15.7000
330152 | 30.8314 | 33.5587 | 32.9336 | 32.8160
330153 | 18.1776 | 19.4417 | 22.0179 | 21.5648
330157 | 22.3804 | 23.1743 | 23.5522 | 23.0369
330158 | 27.1228 | 29.3163 | 32.3534 | 29.4900
330159 | 19.4998 | 20.2753 | 22.7512 | 20.8227
330160 | 29.5885 | 30.7893 | 32.1266 | 30.7976
330162 | 27.6010 | 27.9705 | 29.4475 | 28.3208
330163 | 20.7456 | 21.4143 | 21.1517 | 21.0818
330164 | 20.9003 | 22.0699 | 23.9635 | 23.6195
330166 | 15.4420 | 17.0637 | 18.4262 | 17.0093
330167 | 30.2346 | 32.0541 | 30.7301 | 30.9496
330169 | 35.4794 | 36.3690 | 36.2725 | 36.0426
330171 | 24.8035 | 25.1567 | 25.9946 | 25.3030
330175 | 18.3116 | 18.8701 | 20.4056 | 19.1653
330177 | 16.3704 | 16.6059 | 19.0005 | 17.2818
330179 | 13.8953 | 16.0113 | 15.0665 | 14.9370
330180 | 17.9877 | 19.2670 | 19.8951 | 19.0453
330181 | 33.0908 | 34.6065 | 36.8062 | 34.8035
330182 | 33.6531 | 33.3363 | 35.0496 | 34.0319
330183 | 20.6164 | 20.3520 | * | 20.4865
330184 | 31.3706 | 28.4726 | 31.1286 | 30.9549
330185 | 26.8612 | 27.8894 | 28.8893 | 27.8982
330188 | 18.8000 | 20.2849 | 21.0098 | 20.0662
330189 | 18.4498 | 23.5589 | 19.0726 | 20.2279
330191 | 19.0348 | 19.5623 | 20.8876 | 19.8341
330193 | 30.2260 | 32.5496 | 36.2427 | 32.8255
330194 | 35.2036 | 35.6486 | 38.3174 | 36.4467
330195 | 34.8966 | 34.4689 | 36.4249 | 35.2744
330196 | 30.5799 | 28.9488 | 28.1590 | 29.2904
330197 | 18.3527 | 19.2237 | 20.8386 | 19.4333
330198 | 24.8590 | 25.6669 | 25.3622 | 25.3000
330199 | 30.5409 | 28.0374 | 30.2655 | 29.6011
330201 | 28.7861 | 30.0524 | 29.3745 | 29.3679
330202 | 31.2575 | 35.4943 | 41.7560 | 36.1208
330203 | 25.0345 | 25.9211 | 24.7422 | 25.2170
330204 | 32.2005 | 31.1366 | 32.4850 | 31.9448
330205 | 22.3490 | 24.9040 | 28.7587 | 25.2768
330208 | 26.6682 | 27.3170 | 30.6158 | 28.1551
330209 | 25.1281 | 27.0257 | 27.7071 | 26.6630
330211 | 19.5405 | 20.0006 | 20.8224 | 20.1312
330212 | 24.7681 | 24.8554 | 24.9434 | 24.8488
330213 | 19.6796 | 20.1166 | 20.7889 | 20.1990
330214 | 32.4292 | 32.3130 | 31.1205 | 31.9124
330215 | 17.9863 | 19.0726 | 19.9226 | 18.9889
330218 | 21.1890 | 21.4747 | 20.6012 | 21.0785
330219 | 23.4310 | 25.1792 | 28.6712 | 25.6596
330221 | 33.3796 | 32.5044 | 34.9345 | 33.6092
330222 | 18.5571 | 19.3148 | 23.5491 | 20.4196
330223 | 17.8306 | 19.1604 | 18.8253 | 18.6087
330224 | 20.4309 | 20.5881 | 22.5695 | 21.2048
330225 | 27.0379 | 28.0523 | 29.1744 | 28.0410
330226 | 23.1859 | 21.6368 | 20.6413 | 21.6149
330229 | 17.5326 | 18.2554 | 18.5590 | 18.1157
330230 | 29.6283 | 30.6937 | 32.5997 | 30.9389
330231 | 32.7200 | 32.4163 | 31.0944 | 32.0731
330232 | 19.1787 | 20.0924 | 21.1277 | 20.1536
330233 | 44.1265 | 43.1186 | 39.5133 | 42.2764
330234 | 35.0720 | 35.8327 | 37.7135 | 36.1847
330235 | 19.5880 | 20.1255 | 21.4643 | 20.3704
330236 | 31.3463 | 32.1246 | 31.8491 | 31.7633
330238 | 17.3976 | 17.8867 | 18.3846 | 17.8977
330239 | 18.5079 | 18.9953 | 19.7561 | 19.0658
330240 | 30.7321 | 35.6576 | 35.8530 | 33.9196
330241 | 23.8638 | 24.7545 | 26.7598 | 25.1593
330242 | 27.6384 | 28.3561 | 30.5172 | 28.8163
330245 | 18.5161 | 20.7605 | 20.3764 | 19.9316
330246 | 28.1205 | 29.8777 | 31.4120 | 29.6840
330247 | 27.3937 | 32.5858 | 25.6063 | 28.6111
330249 | 17.1320 | 17.6846 | 19.1469 | 18.0226
330250 | 19.9619 | 20.8742 | 22.5523 | 21.1636
330254 | 15.9123 | 15.7864 | * | 15.8547
330258 | 31.8910 | 32.6745 | * | 32.2903
330259 | 25.9994 | 26.3620 | 27.1632 | 26.5007
330261 | 27.9766 | 30.0489 | 30.2305 | 29.4148
330263 | 18.7378 | 19.5057 | 20.0831 | 19.4473
330264 | 22.8099 | 24.9714 | 22.9348 | 23.5396
330265 | 17.6301 | 21.1215 | 18.2547 | 19.0141
330267 | 24.5939 | 27.8255 | 28.9459 | 27.1596
330268 | 15.9060 | 16.8358 | 18.7991 | 17.2148
330270 | 36.0824 | 33.0375 | 35.7375 | 34.9492
330273 | 26.0565 | 27.0454 | 28.8548 | 27.3093
330275 | 18.7268 | * | * | 18.7268
330276 | 19.0228 | 19.6572 | 20.7973 | 19.8310
330277 | 19.1761 | 20.7851 | 21.8865 | 20.6281
330279 | 20.7107 | 21.7827 | 22.2342 | 21.5603
330285 | 24.0491 | 24.5388 | 26.1367 | 24.9296
330286 | 27.7762 | 28.0994 | 31.1802 | 29.0328
330290 | 30.4706 | 34.3439 | 35.5617 | 33.3907
330293 | 16.9238 | 17.3180 | 17.6507 | 17.2993
330304 | 27.3562 | 29.2207 | 30.7428 | 29.1068
330306 | 29.5937 | 29.6641 | 30.4426 | 29.9146
330307 | 21.7257 | 23.2838 | 23.8583 | 22.9902
330314 | 25.9937 | 25.5405 | 26.2954 | 25.9412
330316 | 27.9543 | 27.9277 | 33.7857 | 29.8270
330327 | 20.3874 | 20.1705 | 19.3465 | 20.0015
330331 | 33.1276 | 32.3249 | 34.3554 | 33.2559
330332 | 25.3689 | 27.6955 | 30.5104 | 28.0245
330333 | * | 28.8819 | 29.7725 | 29.3003
330336 | 29.8294 | 27.9163 | 32.9548 | 30.2195
330338 | 21.2670 | 23.6142 | 25.4319 | 23.4256
330339 | 20.1028 | 20.2382 | 20.8423 | 20.3907
330340 | 28.4129 | 28.2732 | 27.6209 | 28.0963
330350 | 30.9763 | 33.5493 | 35.5656 | 33.4000
330353 | 34.2431 | 34.2260 | 35.6821 | 34.7146
330357 | 34.1846 | 36.8598 | 36.5461 | 35.8671
330372 | 33.3771 | 23.5381 | 28.2490 | 27.9598
330381 | 31.8602 | * | * | 31.8602
330385 | 33.2246 | 37.5523 | 29.0854 | 33.5264
330386 | 20.4231 | 21.4363 | 25.2063 | 22.3343
330389 | 37.3749 | 33.1192 | 32.2112 | 34.0979
330390 | 30.8744 | 31.7344 | 32.5948 | 31.7185
330393 | 27.8352 | 31.9272 | 32.9411 | 30.8719
330394 | 18.9343 | 19.6892 | 21.1737 | 19.9249
330395 | 32.7494 | 33.2318 | 32.1089 | 32.8033
330396 | 30.7961 | 32.8517 | 30.2150 | 31.2942
330397 | 32.6068 | 34.6435 | 40.0884 | 35.3787
330398 | 29.2872 | * | * | 29.2871
330399 | 33.3012 | 32.7149 | 32.1248 | 32.6847
330400 | 16.2707 | 16.8168 | 16.7483 | 16.6259
330401 | * | * | 33.9685 | 33.9685
340001 | 19.7093 | 22.0257 | 21.4870 | 21.0947
340002 | 20.5253 | 22.9425 | 23.8010 | 22.5969
340003 | 19.5145 | 19.6545 | 20.4109 | 19.8596
340004 | 20.9863 | 23.0890 | 23.1514 | 22.4225
340005 | 16.7176 | 16.6909 | 19.9094 | 17.7865
340006 | 16.5709 | 16.1379 | 18.3980 | 17.0420
340007 | 18.3399 | 18.3760 | 19.5204 | 18.7397
340008 | 20.4157 | 22.6570 | 23.7394 | 22.3196
340009 | 20.9178 | 20.6155 | * | 20.8194
340010 | 19.4302 | 20.6547 | 21.3024 | 20.4707
340011 | 14.4798 | 17.4534 | 18.1926 | 16.7010
340012 | 17.5112 | 19.3651 | 19.6350 | 18.7911
340013 | 19.4613 | 21.5130 | 21.0066 | 20.6934
340014 | 27.7888 | 21.9804 | 14.6001 | 20.4859
340015 | 19.4676 | 20.3493 | 24.3410 | 21.2831
340016 | 18.8958 | 19.4160 | 20.2859 | 19.5502
340017 | 20.2775 | 20.6263 | 21.5523 | 20.8419
340018 | 18.1751 | 16.4611 | 17.3480 | 17.2851
340019 | 15.2887 | 15.9037 | 16.7102 | 15.9597
340020 | 18.0897 | 19.2392 | 21.3385 | 19.6156
340021 | 20.5813 | 22.0220 | 22.9499 | 21.8152
340022 | 18.7714 | 20.6484 | 19.9078 | 19.7763
340023 | 19.3146 | 19.9023 | * | 19.6217
340024 | 17.9130 | 19.1430 | 20.4906 | 19.1924
340025 | 18.4628 | 19.1770 | 20.2864 | 19.3249
340027 | 19.4548 | 19.4907 | 20.8946 | 19.9262
340028 | 19.9403 | 20.6496 | 21.9837 | 20.9344
340030 | 22.4709 | 23.9505 | 27.9759 | 24.5972
340031 | 14.6370 | 15.4935 | * | 15.0325
340032 | 20.7444 | 22.0245 | 22.7382 | 21.8244
340035 | 18.9930 | 18.5883 | 16.4821 | 17.7616
340036 | 17.7619 | 18.4203 | 20.8313 | 18.9871
340037 | 17.5829 | 18.3655 | 17.1949 | 17.6512
340038 | 18.1493 | 20.3091 | 13.9936 | 16.9604
340039 | 21.3711 | 22.4020 | 24.8246 | 22.8823
340040 | 20.7237 | 21.1397 | 23.6131 | 21.8157
340041 | 15.5873 | 16.3200 | 15.2995 | 15.7337
340042 | 17.0034 | 19.1386 | 21.0806 | 19.0573
340044 | 18.0863 | 18.9562 | 18.2154 | 18.4256
340045 | 13.6182 | 20.2641 | 17.4067 | 16.7851
340047 | 20.0744 | 21.5178 | 23.3831 | 21.6665
340049 | 19.5127 | 17.2986 | 21.2734 | 19.3901
340050 | 19.6726 | 20.6831 | 20.3262 | 20.2425
340051 | 19.3627 | 19.0282 | 20.3057 | 19.5812
340052 | 23.2134 | 26.2243 | 31.1678 | 25.9648
340053 | 19.9915 | 23.2410 | 25.2543 | 22.6238
340054 | 15.5090 | 16.6208 | * | 15.9979
340055 | 19.4035 | 20.8253 | 23.1390 | 21.1444
340060 | 19.3410 | 20.8570 | 19.4707 | 19.8979
340061 | 22.1175 | 23.7173 | 25.1081 | 23.6221
340063 | 16.7377 | 26.4132 | * | 21.1044
340064 | 18.5069 | 17.6106 | 19.4523 | 18.4891
340065 | 17.3530 | 23.2606 | 20.2174 | 19.9588
340067 | 19.7187 | 22.4054 | 22.2565 | 21.2710
340068 | 17.8065 | 18.8758 | 18.9555 | 18.5436
340069 | 21.6728 | 22.5995 | 24.4650 | 22.9542
340070 | 20.6829 | 21.3511 | 22.4458 | 21.5104
340071 | 18.0767 | 19.3679 | 19.8571 | 19.1466
340072 | 17.7129 | 18.7920 | 19.2773 | 18.5813
340073 | 23.5832 | 24.0794 | 26.6829 | 24.9327
340075 | 20.0081 | 19.7450 | 22.9365 | 20.9263
340080 | 18.2061 | * | * | 18.2061
340084 | 19.0103 | 19.6087 | 20.8175 | 19.7922
340085 | 18.3179 | 20.3684 | 21.7019 | 20.1735
340087 | 18.2255 | 20.2445 | 19.7815 | 19.4322
340088 | 22.2322 | 22.6462 | 22.9486 | 22.6109
340089 | 15.4760 | 16.1321 | 16.5968 | 16.0500
340090 | 18.5287 | 18.7701 | 20.3261 | 19.2336
340091 | 20.3861 | 21.2665 | 22.4370 | 21.4299
340093 | 16.8903 | 16.5452 | 17.2910 | 16.9100
340094 | * | 21.0091 | * | 21.0091
340096 | 19.4696 | 20.9686 | 22.1174 | 20.8605
340097 | 18.2399 | 20.0302 | 20.9190 | 19.7534
340098 | 21.9578 | 23.4949 | 24.1099 | 23.2572
340099 | 15.3752 | 16.9979 | 17.3123 | 16.5041
340101 | 15.6509 | 20.7841 | * | 17.9177
340104 | 11.5169 | 12.1845 | 12.9949 | 12.2095
340106 | 18.1211 | 19.1147 | 20.1076 | 19.1527
340107 | 19.3197 | 20.7601 | 21.0070 | 20.3722
340109 | 19.0532 | 19.3357 | 19.0067 | 19.1328
340111 | 16.5976 | 17.2127 | 19.4520 | 17.8152
340112 | 15.5142 | 16.9592 | 17.0230 | 16.4908
340113 | 21.9883 | 24.4222 | 24.9180 | 23.7927
340114 | 20.7261 | 21.7750 | 19.5543 | 20.5793
340115 | 21.7586 | 24.7924 | 21.2336 | 22.4360
340116 | 20.6800 | 21.6744 | 23.9643 | 22.1286
340119 | 19.5827 | 20.5394 | 21.2239 | 20.4881
340120 | 15.8240 | 16.9847 | 19.3990 | 17.3770
340121 | 17.8771 | 19.0420 | 19.9862 | 18.9987
340123 | 18.9078 | 21.5041 | 22.2199 | 20.9298
340124 | 17.4185 | 17.5411 | 17.5691 | 17.5084
340125 | 20.2748 | * | * | 20.2748
340126 | 19.3734 | 21.2045 | 21.3106 | 20.5788
340127 | 19.3842 | 21.4797 | 22.0597 | 21.0110
340129 | 20.6521 | 21.0773 | 22.3260 | 21.4712
340130 | 19.8707 | 20.5851 | 22.7449 | 21.1193
340131 | 21.3849 | 23.2478 | 24.1370 | 22.9644
340132 | 17.5711 | 17.7110 | 17.8771 | 17.7237
340133 | 17.2138 | 17.5170 | 22.9471 | 18.7909
340137 | 31.7702 | 39.9826 | 33.5581 | 34.6438
340138 | * | * | 27.2610 | 27.2610
340141 | 21.4986 | 23.2961 | 24.1329 | 23.0207
340142 | 18.0766 | 18.1824 | 20.2062 | 18.8388
340143 | 24.4098 | 21.9304 | 22.5250 | 22.9058
340144 | 22.9183 | 22.8634 | 25.4597 | 23.8048
340145 | 19.9233 | 21.5958 | 21.8120 | 21.1598
340146 | 17.3051 | 19.1306 | 20.7252 | 19.1365
340147 | 20.5520 | 21.5912 | 22.3744 | 21.5004
340148 | 18.9912 | 20.6790 | 20.8025 | 20.1744
340151 | 18.4733 | 19.0779 | 19.6254 | 19.0740
340153 | 20.7533 | 21.7375 | 23.7537 | 22.0653
340155 | 23.1021 | 25.0965 | 25.7472 | 24.6273
340158 | 19.0843 | 20.0921 | 21.7830 | 20.4524
340159 | 19.0338 | 19.4992 | 21.2983 | 19.9832
340160 | 16.7170 | 17.1963 | 18.7802 | 17.6409
340164 | 21.5769 | * | * | 21.5769
340166 | 20.8270 | 22.0519 | 22.7235 | 21.9492
340168 | 15.6071 | 15.4250 | 16.8277 | 15.9431
340171 | 22.4779 | 22.7304 | 25.9865 | 23.8198
340173 | 21.0898 | 23.3690 | 23.7037 | 22.7805
340176 | * | * | 26.5277 | 26.5277
350001 | 16.6551 | 15.6193 | * | 16.1279
350002 | 18.3459 | 19.1931 | 20.4398 | 19.3340
350003 | 19.2840 | 20.0663 | 21.0585 | 20.1107
350004 | 23.7016 | 25.1976 | 28.3773 | 25.5370
350005 | 19.9156 | 20.7467 | 22.5590 | 21.0499
350006 | 19.0343 | 19.1257 | 19.7577 | 19.2916
350007 | 13.8824 | 13.9966 | 13.0050 | 13.5839
350008 | 22.3783 | 23.4052 | 20.7952 | 22.2417
350009 | 18.3688 | 19.3668 | 20.2558 | 19.3312
350010 | 16.6272 | 16.7774 | 17.2489 | 16.8799
350011 | 19.1944 | 20.6809 | 21.1006 | 20.1738
350012 | 18.2524 | 16.0990 | 17.2775 | 17.4137
350013 | 17.2596 | 17.8145 | 19.3705 | 18.1038
350014 | 18.0999 | 18.6786 | 16.1719 | 17.7037
350015 | 17.1071 | 17.5658 | 18.5437 | 17.7151
350017 | 17.5124 | 18.0840 | 19.1952 | 18.2584
350018 | 16.4939 | 16.3210 | 17.1545 | 16.6530
350019 | 20.1608 | 20.6743 | 21.3589 | 20.7389
350021 | 17.7123 | 16.3394 | 17.6652 | 17.2178
350023 | 17.4983 | 18.3253 | 16.7124 | 17.5523
350024 | 15.4788 | 15.7510 | 17.0685 | 16.1028
350025 | 15.0469 | 14.6099 | * | 14.8289
350027 | 15.5178 | 17.5882 | 17.6730 | 16.8430
350029 | 14.6173 | * | * | 14.6173
350030 | 18.1131 | 18.7993 | 18.8822 | 18.5954
350033 | 16.0870 | 16.0903 | 16.4715 | 16.2067
350034 | 19.6445 | * | * | 19.6446
350035 | 11.7675 | 12.6496 | * | 12.2147
350038 | 19.6854 | 19.5497 | 18.4963 | 19.2761
350039 | 16.6278 | 14.8599 | 13.8504 | 15.1678
350041 | 19.1341 | 23.1150 | 19.7477 | 20.6986
350042 | 19.3309 | 19.3370 | 20.6599 | 19.7491
350043 | 16.7433 | 17.6722 | 18.8378 | 17.7606
350044 | 11.0601 | 10.9690 | 13.3406 | 11.6826
350047 | 18.0094 | 19.9749 | 14.4742 | 17.4738
350049 | 18.1993 | 16.8322 | 15.3488 | 16.7860
350050 | 12.2183 | 25.2747 | * | 15.7885
350051 | 17.0653 | 16.9201 | 13.8030 | 16.0076
350053 | 15.9160 | 16.7456 | * | 16.3628
350055 | 15.7916 | 16.1691 | 19.2523 | 16.9922
350056 | 15.0995 | 15.7752 | 16.2553 | 15.6926
350058 | 16.7034 | 16.1013 | 15.0197 | 15.9830
350060 | 10.3076 | 10.5325 | 10.5055 | 10.4468
350061 | 18.8790 | 19.6460 | 18.8494 | 19.1278
360001 | 19.6655 | 20.3515 | 22.2387 | 20.7565
360002 | 18.2613 | 19.6145 | 20.7436 | 19.4695
360003 | 22.7521 | 23.2905 | 24.4144 | 23.4719
360006 | 22.4436 | 22.6333 | 23.8087 | 22.9695
360007 | 14.8213 | 15.3656 | 19.1316 | 16.2099
360008 | 18.7961 | 19.8034 | 21.3795 | 20.0267
360009 | 18.9935 | 19.6277 | 21.6966 | 20.1251
360010 | 19.1852 | 20.5934 | 20.6291 | 20.1715
360011 | 21.3659 | 19.5383 | 21.4293 | 20.6951
360012 | 20.0525 | 23.0125 | 24.3521 | 22.5181
360013 | 21.3690 | 22.3407 | 24.4232 | 22.7482
360014 | 20.7419 | 22.9930 | 22.9372 | 22.2320
360016 | 21.2505 | 21.3967 | 22.8430 | 21.8319
360017 | 22.2740 | 22.7446 | 23.4603 | 22.8364
360018 | 24.6686 | 24.6694 | 29.9085 | 26.0220
360019 | 20.6480 | 21.4708 | 24.1469 | 22.0806
360020 | 22.1751 | 21.6607 | 21.5085 | 21.7901
360024 | 20.1352 | 20.9408 | 22.5356 | 21.2300
360025 | 20.2531 | 20.9266 | 21.6676 | 20.9599
360026 | 17.9523 | 18.6739 | 20.6765 | 19.1093
360027 | 21.7650 | 22.8098 | 22.6956 | 22.4249
360028 | 18.7174 | * | * | 18.7174
360029 | 19.2928 | 19.7466 | 20.5687 | 19.8808
360030 | 17.6058 | 19.0551 | 20.1051 | 18.9454
360031 | 21.0687 | 21.0481 | 24.3482 | 22.0734
360032 | 19.8020 | 19.8367 | 20.6535 | 20.1098
360034 | 17.9594 | 19.4982 | 21.5621 | 19.7369
360035 | 21.0674 | 22.6982 | 24.0810 | 22.6341
360036 | 20.9916 | 21.4486 | 22.3567 | 21.6200
360037 | 23.1674 | 23.7504 | 32.6245 | 25.9190
360038 | 19.9415 | 21.4804 | 23.4855 | 21.6060
360039 | 19.0013 | 19.3703 | 23.3439 | 20.4210
360040 | 18.7425 | 19.9750 | 21.3307 | 20.0479
360041 | 19.7968 | 21.9093 | 22.1352 | 21.3781
360042 | 17.1952 | 19.3774 | 19.5402 | 18.6350
360044 | 17.6882 | 17.8417 | 19.7212 | 18.4151
360045 | 22.4018 | 22.8112 | * | 22.5916
360046 | 20.4607 | 21.4292 | 22.8425 | 21.5814
360047 | 15.2922 | 15.8279 | 17.5885 | 16.2546
360048 | 22.4890 | 25.6259 | 24.5867 | 24.1178
360049 | 20.8393 | * | 22.4938 | 21.5834
360050 | 15.0568 | 15.6847 | 16.6112 | 15.6772
360051 | 20.8757 | 21.2225 | 22.7466 | 21.6280
360052 | 18.7931 | 19.8037 | 22.2916 | 20.3236
360054 | 17.4911 | 17.5714 | 19.2884 | 18.1334
360055 | 21.4112 | 22.8755 | 23.5586 | 22.6117
360056 | 20.6968 | 23.4405 | 22.1723 | 22.1096
360057 | 15.8569 | 16.0395 | 16.2876 | 16.0788
360058 | 19.3306 | 19.0440 | 21.0717 | 19.7901
360059 | 19.9304 | 23.2129 | 23.0476 | 22.0393
360062 | 21.9195 | 24.4898 | 24.5746 | 23.8212
360063 | 17.5108 | 20.2671 | 23.7440 | 20.3480
360064 | 20.0615 | 20.7659 | 21.3424 | 20.7273
360065 | 19.6199 | 22.3443 | 22.9727 | 21.6463
360066 | 22.8175 | 24.1295 | 24.6806 | 23.9204
360067 | 14.2745 | 17.3734 | 17.0751 | 16.1999
360068 | 22.6227 | 22.6027 | 23.2680 | 22.8322
360069 | 14.6597 | 18.5382 | 19.3142 | 17.4363
360070 | 18.8406 | 19.4700 | 21.8228 | 20.0184
360071 | 19.0302 | 19.6873 | 21.4478 | 20.0864
360072 | 19.0166 | 20.8819 | 21.3735 | 20.4642
360074 | 18.5889 | 19.9947 | 22.9962 | 20.5125
360075 | 26.0663 | 27.6992 | 23.8492 | 26.5296
360076 | 20.3317 | 21.0402 | 22.5863 | 21.3489
360077 | 21.5517 | 22.2964 | 23.3686 | 22.4049
360078 | 22.6490 | 22.7743 | 22.9324 | 22.7880
360079 | 21.6644 | 23.9491 | 25.3134 | 23.6069
360080 | 17.6369 | 18.0392 | 18.7213 | 18.1448
360081 | 20.4614 | 20.7477 | 22.0134 | 21.0714
360082 | 20.7610 | 22.9390 | 25.2254 | 23.0000
360084 | 22.0492 | 22.1699 | 23.3257 | 22.5390
360085 | 21.5151 | 24.8010 | 24.6618 | 23.5397
360086 | 19.3701 | 20.5858 | 21.6902 | 20.5374
360087 | 20.7969 | 21.1621 | 23.9638 | 22.0097
360088 | 24.0822 | 20.5703 | 21.4608 | 21.9345
360089 | 18.1941 | 19.5260 | 21.0229 | 19.5818
360090 | 20.8971 | 21.2072 | 22.6236 | 21.6097
360091 | 21.8447 | 22.6510 | 23.5759 | 22.6962
360092 | 21.5073 | 20.9588 | 21.9732 | 21.4976
360093 | 19.0261 | 21.0134 | 21.4911 | 20.5156
360094 | 20.1227 | 21.1952 | 22.7772 | 21.2684
360095 | 19.8521 | 21.3505 | 22.6758 | 21.2848
360096 | 19.6726 | 20.9838 | 22.0673 | 20.9264
360098 | 19.8178 | 20.8049 | 22.2481 | 20.9247
360099 | 19.6241 | 20.8801 | 20.8524 | 20.4553
360100 | 18.0442 | 19.9768 | 21.5911 | 19.8051
360101 | 20.2635 | 24.1551 | 26.2875 | 23.5545
360102 | 18.5367 | * | * | 18.5367
360106 | 19.1778 | 18.9779 | 19.8658 | 19.3346
360107 | 22.1359 | 21.9939 | 23.6880 | 22.6413
360108 | 20.0681 | 19.0649 | 18.1522 | 19.0815
360109 | 19.9237 | 17.3564 | 22.4427 | 19.7960
360112 | 24.6335 | 25.7920 | 25.6581 | 25.3316
360113 | 20.8154 | 22.8088 | 22.3348 | 21.9843
360114 | 18.7509 | 19.4212 | 20.8341 | 19.6739
360115 | 20.7652 | 21.0104 | 22.0789 | 21.2875
360116 | 18.8319 | 20.1408 | 21.3809 | 20.0857
360118 | 19.9141 | 21.0235 | 22.7268 | 21.2720
360121 | 22.2175 | 21.9111 | 22.1403 | 22.0892
360123 | 20.9792 | 21.9985 | 23.1310 | 22.1195
360125 | 20.5508 | 21.6675 | 21.1408 | 21.0968
360126 | 24.5387 | * | 22.2409 | 23.5396
360127 | 16.5559 | 18.2150 | 18.7369 | 17.8642
360128 | 17.0515 | 17.5557 | 18.0355 | 17.5624
360129 | 16.6114 | 17.2309 | 17.9151 | 17.2650
360130 | 18.4539 | 19.8906 | 20.1257 | 19.4067
360131 | 18.4688 | 20.4123 | 21.7838 | 20.2068
360132 | 21.3493 | 21.0162 | 23.4179 | 21.9298
360133 | 20.2857 | 22.1957 | 22.0416 | 21.4704
360134 | 20.9564 | 21.6081 | 24.3117 | 22.2074
360136 | 18.2194 | 18.5687 | 19.6063 | 18.7820
360137 | 22.3648 | 23.1867 | 23.7795 | 23.0881
360140 | 21.2881 | 18.3463 | 21.0006 | 20.1760
360141 | 23.5343 | 23.5980 | 25.1442 | 24.0943
360142 | 18.3188 | 19.6189 | 21.2072 | 19.7570
360143 | 21.0336 | 20.9158 | 22.2275 | 21.3979
360144 | 20.9033 | 20.9386 | 24.7973 | 22.2165
360145 | 20.0513 | 21.2931 | 22.4813 | 21.2645
360147 | 17.6779 | 18.7258 | 20.0409 | 18.8813
360148 | 19.1393 | 20.3120 | 21.3211 | 20.2546
360150 | 22.3620 | 23.1858 | 24.8485 | 23.4439
360151 | 19.2788 | 20.5594 | 21.6234 | 20.4589
360152 | 21.6005 | 20.9704 | 22.4839 | 21.6726
360153 | 16.7399 | 16.1021 | 16.5065 | 16.4436
360154 | 14.3593 | 14.9606 | 16.1719 | 15.1150
360155 | 22.2112 | 22.3347 | 23.0020 | 22.5355
360156 | 18.9095 | 19.9382 | 21.2853 | 20.0637
360159 | 21.5695 | 22.7992 | 23.3359 | 22.5729
360161 | 20.6160 | 19.6266 | 21.5045 | 20.5807
360163 | 21.2689 | 22.1012 | 23.1500 | 22.1757
360165 | 18.2417 | 19.6205 | 21.7785 | 19.8643
360170 | 20.4407 | 19.7980 | 21.5572 | 20.5841
360172 | 19.8909 | 22.3294 | 22.6475 | 21.5601
360174 | 20.5399 | 20.5874 | 20.7719 | 20.6325
360175 | 21.5450 | 22.0274 | 22.7887 | 22.1417
360176 | 16.6228 | 17.6743 | 18.3421 | 17.5257
360177 | 18.9576 | 19.6992 | 20.8194 | 19.8306
360178 | 16.7962 | 18.0773 | 18.2393 | 17.6939
360179 | 20.7069 | 21.3520 | 23.2092 | 21.6660
360180 | 21.0146 | 22.9260 | 25.1489 | 22.9738
360185 | 19.4858 | 20.0848 | 21.0618 | 20.2316
360186 | 20.7572 | 18.1254 | 22.4647 | 20.3502
360187 | 19.6535 | 20.8423 | 21.5915 | 20.6778
360188 | 18.3057 | 16.4329 | 20.9591 | 18.4288
360189 | 18.5940 | 19.0481 | 20.0275 | 19.2171
360192 | 22.7846 | 23.9969 | 24.9995 | 23.9111
360194 | 17.6140 | 19.3901 | 20.3677 | 19.1372
360195 | 20.5828 | 21.2801 | 23.1897 | 21.7230
360197 | 20.5062 | 21.6110 | 23.1378 | 21.7597
360200 | 17.9623 | 19.5866 | 27.5373 | 19.3013
360203 | 15.9609 | 17.9698 | 19.3642 | 17.7421
360210 | 21.8629 | 21.5961 | 25.0811 | 22.8213
360211 | 20.6081 | 22.0011 | 22.4529 | 21.6965
360212 | 20.6987 | 21.0632 | 22.8041 | 21.5064
360213 | 19.0584 | 20.5448 | 20.9996 | 20.1721
360218 | 18.8204 | 20.7709 | 22.8059 | 20.8145
360230 | 20.8042 | 21.2417 | 24.7681 | 22.2381
360231 | 14.4168 | 12.7388 | 13.5004 | 13.4939
360234 | 20.6131 | 21.0473 | 22.1787 | 21.3387
360236 | 21.4628 | 20.5683 | 21.9560 | 21.3210
360239 | 19.2375 | 20.9440 | 21.9631 | 20.7405
360241 | 25.3741 | 23.7679 | 23.4061 | 24.1565
360245 | 15.9782 | 16.7956 | 18.1015 | 16.9965
360247 | 17.0776 | * | * | 17.0775
360249 | 25.4331 | * | * | 25.4330
360250 | * | 50.5106 | * | 50.5105
360253 | * | * | 26.8610 | 26.8610
360254 | * | * | 30.0791 | 30.0792
360255 | * | * | 15.0964 | 15.0963
370001 | 24.1929 | 22.0586 | 25.3182 | 23.8002
370002 | 15.4333 | 16.1853 | 18.9544 | 16.8753
370004 | 18.5233 | 22.5027 | 21.5041 | 20.8266
370005 | 15.3881 | * | * | 15.3881
370006 | 16.4995 | 15.7367 | 15.6334 | 15.9348
370007 | 15.8312 | 14.4961 | 16.7597 | 15.6795
370008 | 17.5553 | 18.5253 | 21.4862 | 19.1897
370011 | 15.6178 | 16.1757 | 17.1458 | 16.3495
370012 | 12.4942 | 13.3824 | * | 12.9251
370013 | 18.9584 | 19.3237 | 21.1513 | 19.8462
370014 | 20.2858 | 22.7976 | 21.8473 | 21.6639
370015 | 20.8765 | 18.9169 | 20.3965 | 20.0611
370016 | 19.1613 | 20.0888 | 20.4407 | 19.8819
370017 | 13.6531 | * | * | 13.6531
370018 | 17.7054 | 18.7928 | 20.8357 | 19.1122
370019 | 14.6216 | 16.1367 | 18.1260 | 16.2132
370020 | 15.1035 | 15.6057 | 16.8214 | 15.8194
370021 | 12.9030 | * | * | 12.9030
370022 | 17.3724 | 18.2109 | 20.2432 | 18.6171
370023 | 17.5148 | 18.1255 | 19.3386 | 18.3281
370025 | 18.4815 | 19.1013 | 20.2845 | 19.2928
370026 | 18.0412 | 18.6982 | 21.9141 | 19.5712
370028 | 21.1292 | 22.1765 | 24.3775 | 22.5815
370029 | 18.2580 | 19.3285 | 19.6977 | 19.1304
370030 | 16.5803 | 18.4568 | 18.6541 | 17.9169
370032 | 18.1538 | 18.9050 | 20.0827 | 19.0803
370033 | 11.3210 | 15.3857 | 15.7468 | 13.9159
370034 | 15.6288 | 16.2204 | 16.1541 | 15.9959
370036 | 12.4070 | 11.7667 | 16.5843 | 13.2363
370037 | 18.9556 | 20.6493 | 20.9598 | 20.1863
370038 | 13.0210 | 15.4551 | 16.7597 | 14.9832
370039 | 19.4498 | 22.7015 | 20.3137 | 20.7707
370040 | 15.5109 | 16.8127 | 18.9981 | 17.0372
370041 | 16.2316 | 14.7346 | 19.0064 | 16.6382
370042 | 15.2764 | 15.9005 | 14.0899 | 15.1360
370043 | 17.0892 | 20.0991 | 20.2929 | 18.9889
370045 | 11.3560 | 11.6163 | 12.6613 | 11.8767
370047 | 17.8769 | 18.4743 | 19.4856 | 18.6175
370048 | 15.6803 | 17.0785 | 15.4768 | 16.0450
370049 | 19.4868 | 20.3405 | 20.4826 | 20.0887
370051 | 12.5171 | 11.4943 | 12.0397 | 11.9839
370054 | 18.0787 | 19.2294 | 20.3788 | 19.2048
370056 | 18.1432 | 19.2867 | 20.4872 | 19.2536
370057 | 15.1228 | 16.0301 | 17.3020 | 16.1401
370059 | 18.3314 | 21.3103 | 20.7160 | 20.0337
370060 | 19.3051 | 17.9469 | 23.1897 | 20.1750
370063 | 16.7342 | * | 12.7634 | 16.0398
370064 | 11.9954 | 11.6347 | 11.9044 | 11.8446
370065 | 18.1349 | 18.2406 | 18.3966 | 18.2581
370071 | 16.4567 | * | * | 16.4568
370072 | 13.6519 | 12.5765 | 12.5766 | 12.8934
370076 | 14.3555 | 15.4067 | 19.0231 | 16.2477
370078 | 19.2412 | 15.2513 | 22.0344 | 18.4513
370079 | 16.9201 | 17.5915 | 17.9942 | 17.4569
370080 | 14.7323 | 14.3546 | 16.1445 | 15.0543
370082 | 15.0669 | 16.9715 | 12.6060 | 14.8254
370083 | 13.1810 | 15.6824 | 18.5669 | 15.6441
370084 | 13.1197 | 15.6184 | 16.1277 | 15.0212
370085 | 48.1271 | 13.7216 | 15.8930 | 17.6461
370086 | 11.1900 | * | * | 11.1900
370089 | 17.2638 | 17.9243 | 18.0505 | 17.7472
370091 | 20.1822 | 20.8536 | 23.8502 | 21.5141
370092 | 15.7678 | 16.8432 | * | 16.3152
370093 | 19.7008 | 22.1966 | 23.5685 | 21.8046
370094 | 19.5462 | 19.5565 | 20.7290 | 19.9736
370095 | 13.4202 | 14.5909 | 14.3563 | 14.1246
370097 | 23.2056 | 19.3793 | 20.3218 | 20.7266
370099 | 19.4646 | 18.1467 | 20.2001 | 19.2453
370100 | 18.8274 | 12.9784 | 13.0682 | 14.6358
370103 | 18.2685 | 23.1347 | 15.6109 | 19.0349
370105 | 20.7890 | 25.1252 | 22.4493 | 22.5846
370106 | 20.3651 | 21.8937 | 24.0117 | 22.1004
370108 | 12.7470 | 14.0190 | 13.8170 | 13.5126
370112 | 15.3039 | 14.3384 | 16.5964 | 15.3556
370113 | 17.6107 | 20.3439 | 21.4267 | 19.8197
370114 | 17.8941 | 17.9757 | 19.3383 | 18.4232
370121 | 21.3099 | 20.5488 | 20.1393 | 20.6498
370122 | 15.4375 | * | * | 15.4374
370123 | 19.0313 | 19.7958 | 20.5180 | 19.7729
370125 | 13.9436 | 14.4664 | 17.9240 | 15.3291
370126 | 15.8020 | * | * | 15.8021
370131 | 15.7261 | * | * | 15.7262
370133 | 12.9545 | 16.1855 | 17.4258 | 15.5834
370138 | 17.5551 | 17.4574 | 19.0403 | 18.0470
370139 | 14.9964 | 16.0898 | 16.3223 | 15.8016
370140 | 17.1393 | 17.4950 | 20.2255 | 18.2466
370141 | 20.7798 | 19.8606 | 24.0523 | 21.4638
370146 | 13.0399 | 13.9900 | * | 13.5128
370148 | 20.6612 | 22.6237 | 22.8526 | 22.0700
370149 | 17.0929 | 18.0699 | 18.2260 | 17.8047
370153 | 16.4669 | 16.5267 | 17.9692 | 16.9732
370154 | 15.6093 | 16.6687 | 17.4760 | 16.6039
370156 | 14.5696 | 15.4303 | 15.9647 | 15.3521
370158 | 15.6994 | 16.3637 | 17.3412 | 16.4535
370159 | 21.1267 | 25.5592 | * | 22.6485
370163 | 20.4217 | * | * | 20.4216
370165 | 13.0375 | 12.9569 | 16.1893 | 13.8212
370166 | 21.0797 | 19.4219 | 21.3003 | 20.6013
370169 | 12.7138 | 14.8384 | 16.5607 | 14.5408
370176 | 18.9951 | 19.6537 | 21.7871 | 20.1373
370177 | 14.6481 | 14.1304 | 14.0279 | 14.2494
370178 | 11.6200 | 9.8655 | 12.9636 | 11.3085
370179 | 21.3002 | 23.8404 | 21.9673 | 22.2749
370183 | 16.9318 | 16.6061 | * | 16.7678
370186 | 15.4533 | 16.3671 | 16.3879 | 16.0737
370190 | 19.3570 | 20.6398 | 22.3326 | 20.7903
370192 | 19.6967 | 21.8343 | 24.3832 | 21.9053
370200 | 22.5299 | 18.3941 | 16.7164 | 18.9908
370201 | * | 18.2548 | 18.9906 | 18.6571
370202 | * | 16.5384 | 24.0239 | 20.2030
370203 | * | 23.5454 | 19.8772 | 21.4569
370204 | * | * | 17.5518 | 17.5517
370205 | * | * | 20.7828 | 20.7830
370206 | * | * | 22.3471 | 22.3471
370207 | * | * | 26.3745 | 26.3746
380001 | 26.4822 | 25.1542 | 20.9585 | 23.8121
380002 | 21.9185 | 23.2479 | 25.2629 | 23.4657
380003 | 20.9007 | 23.8074 | 24.6377 | 23.1951
380004 | 23.3609 | 24.5418 | 26.7995 | 24.9862
380005 | 25.0750 | 24.7476 | 26.3472 | 25.4394
380006 | 21.3520 | 20.5914 | 24.7492 | 22.3626
380007 | 32.2678 | 25.9239 | 30.0497 | 29.1804
380008 | 22.3004 | 21.6133 | 24.6149 | 22.8464
380009 | 24.3851 | 25.1040 | 25.9993 | 25.1907
380010 | 22.7276 | 24.1931 | * | 23.4887
380011 | 20.3357 | 20.6759 | 21.9382 | 20.9633
380013 | 19.8180 | 19.9606 | 24.1491 | 21.3157
380014 | 25.9828 | 26.6038 | 28.4536 | 27.0598
380017 | 25.3954 | 21.9236 | 29.2543 | 25.5247
380018 | 22.9822 | 24.8661 | 27.5171 | 25.1199
380019 | 20.8176 | 21.1743 | 23.9736 | 22.0144
380020 | 22.9568 | 23.9978 | 23.7066 | 23.5720
380021 | 23.8499 | 24.4365 | 28.0334 | 25.5509
380022 | 24.5974 | 25.6255 | 26.4793 | 25.6210
380023 | 21.3831 | 23.4328 | 23.0079 | 22.7334
380025 | 26.9346 | 26.9398 | 28.8525 | 27.6239
380026 | 20.6972 | 22.7561 | 23.8666 | 22.4738
380027 | 21.5490 | 22.2573 | 21.5822 | 21.7906
380029 | 20.1471 | 22.0371 | 24.2939 | 22.3500
380031 | 20.3396 | 23.7634 | 25.2963 | 23.2221
380033 | 27.1343 | 26.6899 | 30.4783 | 28.1499
380035 | 23.9719 | 25.6016 | 26.2434 | 25.3543
380036 | 27.2157 | * | * | 27.2157
380037 | 22.1774 | 23.4798 | 25.0199 | 23.6781
380038 | 26.7759 | 28.1436 | 29.1804 | 28.0609
380039 | 22.8048 | 25.7614 | 26.3917 | 24.8782
380040 | 22.5477 | 22.6412 | 21.5958 | 22.2243
380042 | 24.4172 | 21.6793 | 15.2050 | 19.3932
380047 | 24.2524 | 25.2591 | 26.5017 | 25.3895
380048 | 18.3005 | 18.2773 | 22.0609 | 19.6514
380050 | 20.3205 | 22.1089 | 23.1332 | 21.8624
380051 | 22.3207 | 24.4081 | 26.2384 | 24.3019
380052 | 18.6299 | 20.7431 | 21.2567 | 20.2520
380056 | 18.4961 | 20.7895 | 22.3571 | 20.6518
380060 | 24.2059 | 23.0106 | 27.5270 | 24.9545
380061 | 22.8781 | 24.1121 | 26.4940 | 24.6176
380062 | 18.2148 | 26.1370 | 22.8599 | 22.5474
380064 | 22.9160 | 27.0627 | * | 25.0195
380065 | 22.9608 | 23.3146 | 24.8933 | 23.7620
380066 | 23.2794 | 23.1175 | 23.3581 | 23.2487
380069 | 20.4882 | 21.2057 | 21.8362 | 21.1860
380070 | 27.7790 | 29.9706 | 34.1038 | 30.4794
380071 | 25.1808 | 25.9113 | 27.9055 | 26.3468
380072 | 19.4346 | 20.6568 | 21.9516 | 20.7086
380075 | 22.4139 | 23.1910 | 25.1930 | 23.7443
380078 | 21.0903 | 22.6996 | 25.0805 | 22.9534
380081 | 20.4082 | 22.9805 | 22.1822 | 21.8754
380082 | 22.9606 | 23.7927 | 28.0668 | 25.0482
380083 | 21.7431 | 22.4058 | 26.4379 | 23.4740
380084 | 27.1689 | 31.0111 | 27.9068 | 28.5032
380087 | 17.0380 | 21.3119 | 21.1488 | 19.9159
380088 | 19.5346 | 24.8158 | 21.6317 | 21.8938
380089 | 25.2908 | 26.1967 | 29.6989 | 27.0928
380090 | 24.9351 | 30.4223 | 31.8702 | 28.9771
380091 | 25.3062 | 28.7846 | 31.2807 | 28.6166
380099 | * | * | 16.7656 | 16.7656
390001 | 19.6732 | 20.3350 | 21.5154 | 20.5284
390002 | 19.7833 | 20.8831 | 21.8704 | 20.8537
390003 | 18.1025 | 18.0436 | 19.1857 | 18.4384
390004 | 20.3204 | 20.0557 | 21.3475 | 20.5889
390005 | 16.9472 | 19.0218 | 19.0727 | 18.2821
390006 | 21.1786 | 21.7867 | 22.9809 | 21.9897
390007 | 21.3839 | * | * | 21.3839
390008 | 18.2743 | 19.5439 | 19.9417 | 19.2572
390009 | 20.6241 | 22.5580 | 21.8195 | 21.6732
390010 | 17.3335 | 18.1275 | 19.4377 | 18.3086
390011 | 18.3257 | 18.2751 | 18.6548 | 18.4184
390012 | 21.0610 | 22.2060 | 28.5114 | 23.7778
390013 | 19.6562 | 20.2186 | 22.1679 | 20.7339
390015 | 13.7352 | 14.3138 | 15.2697 | 14.4324
390016 | 17.1133 | 17.4931 | 18.1536 | 17.5840
390017 | 18.6113 | 18.5869 | 19.1962 | 18.7750
390018 | 19.0279 | 20.0672 | 19.9117 | 19.6570
390019 | 17.7258 | 18.7609 | 21.2807 | 19.2350
390022 | 24.8468 | 25.2980 | 27.5365 | 25.9219
390023 | 22.1044 | 23.9246 | 25.6750 | 23.9254
390024 | 25.4606 | 27.7643 | 25.9806 | 26.4580
390025 | 15.5523 | 14.0077 | 14.8690 | 14.8024
390026 | 22.9718 | 23.6317 | 23.9225 | 23.5085
390027 | 29.5940 | 29.4334 | 33.2139 | 30.7948
390028 | 23.6571 | 22.7820 | 22.9071 | 23.1380
390029 | 21.2661 | 24.4753 | * | 22.6697
390030 | 18.6887 | 18.9121 | 20.0598 | 19.2297
390031 | 18.8162 | 19.2040 | 20.6513 | 19.5475
390032 | 21.5105 | 18.5545 | 20.7764 | 20.3109
390035 | 22.3591 | 21.9325 | 23.2173 | 22.4923
390036 | 19.7671 | 20.2103 | 20.5751 | 20.1842
390037 | 20.4263 | 19.9175 | 20.1665 | 20.1659
390039 | 17.5300 | 17.6181 | 18.4580 | 17.8792
390040 | 16.6876 | 17.4451 | 20.5371 | 18.2001
390041 | 20.4397 | 19.6159 | 21.0074 | 20.3638
390042 | 22.5775 | 22.0668 | 21.8863 | 22.1699
390043 | 17.4764 | 17.6739 | 19.8094 | 18.3425
390044 | 20.9831 | 21.3382 | 22.0362 | 21.4586
390045 | 19.4677 | 20.2107 | 19.8137 | 19.8315
390046 | 21.7445 | 21.3960 | 23.0279 | 22.0786
390047 | 26.9709 | * | * | 26.9709
390048 | 19.7992 | 18.9776 | 20.3523 | 19.7014
390049 | 22.1586 | 22.8196 | 23.9058 | 22.9608
390050 | 22.2639 | 24.9156 | 22.5851 | 23.1577
390051 | 28.1385 | * | * | 28.1385
390052 | 20.1195 | 21.2729 | 22.1380 | 21.1379
390054 | 18.4975 | 19.4686 | 19.8602 | 19.2479
390055 | 23.4017 | 25.7327 | 22.2112 | 23.7101
390056 | 19.3901 | 21.4121 | 21.4239 | 20.7360
390057 | 20.2395 | 21.6693 | 24.5245 | 22.1897
390058 | 20.3520 | 20.7930 | 22.0113 | 21.0507
390061 | 23.8722 | 22.8728 | 24.3816 | 23.6939
390062 | 17.3750 | 17.4710 | 17.6303 | 17.4968
390063 | 19.4965 | 20.1696 | 21.7120 | 20.4817
390065 | 20.0473 | 20.2930 | 23.1698 | 21.2264
390066 | 18.9296 | 19.0132 | 21.7717 | 19.8676
390067 | 20.8162 | 21.9885 | 23.2161 | 21.9824
390068 | 19.1109 | 21.6408 | 21.8596 | 20.7014
390070 | 21.8549 | 22.7909 | 24.4403 | 23.0308
390071 | 16.0100 | 18.9416 | 17.8117 | 17.5040
390072 | 16.9232 | 16.9445 | 20.6881 | 18.0993
390073 | 21.2623 | 22.2703 | 22.7073 | 22.0769
390074 | 18.3093 | 19.7446 | 21.8456 | 19.9484
390075 | 18.7695 | 19.5840 | 19.8576 | 19.3638
390076 | 21.3290 | 19.7719 | * | 20.5305
390078 | 19.0156 | 20.6483 | 21.1894 | 20.2451
390079 | 18.9269 | 19.5982 | 20.0240 | 19.5384
390080 | 21.4707 | 22.2449 | 23.0615 | 22.2544
390081 | 24.7461 | 25.6575 | 27.3952 | 25.9933
390083 | * | 26.1660 | * | 26.1660
390084 | 20.2529 | 17.0197 | 18.3551 | 18.4310
390086 | 18.3563 | 19.7645 | 19.5253 | 19.2361
390088 | 23.9506 | * | * | 23.9506
390090 | 21.3759 | 20.5433 | 21.8543 | 21.2676
390091 | 18.3770 | 19.0355 | 19.7361 | 19.0422
390093 | 18.4442 | 20.0135 | 19.9209 | 19.4590
390095 | 16.6930 | 17.9697 | 18.3939 | 17.6811
390096 | 22.4382 | 22.2974 | 22.6176 | 22.4533
390097 | 25.2845 | 24.7853 | 24.6090 | 24.8791
390100 | 20.9263 | 21.1186 | 22.9484 | 21.6940
390101 | 18.5039 | 19.0180 | 19.7332 | 19.0899
390102 | 21.5496 | 19.3111 | 19.9809 | 20.2918
390103 | 18.8667 | 20.4422 | 26.5769 | 21.5409
390104 | 16.3255 | 16.2440 | 16.5081 | 16.3661
390106 | 16.8439 | 17.4747 | 18.2013 | 17.4917
390107 | 20.9841 | 20.6024 | 21.1104 | 20.9018
390108 | 21.3142 | 22.0444 | 23.6644 | 22.2895
390109 | 16.5299 | 17.4540 | 17.2667 | 17.0836
390110 | 21.6464 | 21.6005 | 23.2166 | 22.1164
390111 | 33.3971 | 27.1429 | 30.5237 | 30.4448
390112 | 15.0065 | 14.8634 | 15.6710 | 15.1640
390113 | 19.3634 | 19.9496 | 20.1160 | 19.8009
390114 | 20.9533 | 19.8004 | 23.0501 | 21.2575
390115 | 21.4287 | 22.3545 | 24.1951 | 22.7320
390116 | 21.3671 | 22.6783 | 24.0492 | 22.6706
390117 | 18.0769 | 18.9764 | 18.3341 | 18.4618
390118 | 18.9507 | 17.2668 | 17.8460 | 18.0300
390119 | 18.8815 | 19.3946 | 20.3034 | 19.5629
390121 | 19.1315 | 20.6253 | 20.8017 | 20.2031
390122 | 17.7734 | 15.5438 | 18.5130 | 17.2135
390123 | 21.3974 | 21.8897 | 23.2750 | 22.1809
390125 | 17.5446 | 17.0975 | 18.2411 | 17.6363
390127 | 22.4555 | 22.8787 | 25.0836 | 23.5152
390128 | 19.3165 | 19.9764 | 21.3668 | 20.1918
390130 | 18.3695 | 18.5519 | 19.4835 | 18.7830
390131 | 19.2096 | 19.1931 | 19.2964 | 19.2343
390132 | 22.8414 | 24.1878 | 24.6889 | 23.9106
390133 | 24.7561 | 24.1590 | 25.1423 | 24.6873
390135 | 22.1905 | 22.2501 | 24.0445 | 22.8305
390136 | 20.6286 | 16.8505 | * | 18.7490
390137 | 18.5397 | 19.4769 | 18.4551 | 18.8068
390138 | 20.6936 | 20.7726 | 21.4705 | 20.9891
390139 | 23.9757 | 24.8347 | 26.3622 | 25.0742
390142 | 28.8877 | 28.4680 | 29.9432 | 29.1087
390145 | 20.4228 | 20.4964 | 20.6603 | 20.5268
390146 | 18.6505 | 20.1788 | 21.3295 | 20.0284
390147 | 21.2492 | 21.7600 | 22.3135 | 21.7727
390150 | 20.3155 | 20.8970 | 20.0261 | 20.3992
390151 | 22.5206 | 23.6072 | 24.8175 | 23.6886
390152 | 19.4017 | 20.2581 | 21.5474 | 20.4133
390153 | 22.9707 | 23.9039 | 25.3415 | 24.1064
390154 | 16.7052 | 17.8774 | 19.1300 | 17.9859
390156 | 22.6398 | 24.0034 | 25.0732 | 23.9019
390157 | 19.1783 | 20.2647 | 20.6933 | 20.0398
390160 | 19.4463 | 19.4793 | 19.3598 | 19.4262
390162 | 21.9188 | 21.3379 | 21.3398 | 21.5478
390163 | 17.7564 | 18.1831 | 18.8585 | 18.2862
390164 | 24.9750 | 26.1698 | 23.0298 | 24.6107
390166 | 19.7978 | 19.8899 | 19.8531 | 19.8460
390168 | 18.8863 | 19.6875 | 20.6777 | 19.7568
390169 | 22.0547 | 22.7920 | 22.7695 | 22.5431
390170 | 24.7973 | * | * | 24.7973
390173 | 18.6613 | 18.8265 | 20.6958 | 19.3949
390174 | 25.3307 | 26.3891 | 28.2662 | 26.6572
390176 | 20.8368 | 21.7650 | 18.0752 | 20.3817
390178 | 17.0534 | 17.1142 | 17.2384 | 17.1362
390179 | 21.8593 | 21.5792 | 24.0501 | 22.5243
390180 | 26.5541 | 26.7743 | 28.3812 | 27.2876
390181 | 19.3832 | 18.8681 | 24.1288 | 20.6497
390183 | 17.9848 | 17.4535 | 21.7091 | 18.9719
390184 | 20.9349 | 21.1941 | 21.1962 | 21.1056
390185 | 20.3877 | 20.3301 | 20.4476 | 20.3876
390189 | 20.3338 | 19.6186 | 20.0387 | 19.9844
390191 | 17.2270 | 17.1919 | 18.5972 | 17.6639
390192 | 17.6597 | 16.6469 | 19.1883 | 17.8533
390193 | 18.1209 | 17.3804 | 18.9764 | 18.1140
390194 | 21.2689 | 21.0549 | 21.5850 | 21.3104
390195 | 24.1793 | 24.2891 | 26.2024 | 24.9040
390197 | 20.7998 | 22.1974 | 22.3472 | 21.7925
390198 | 15.8833 | 16.6803 | 17.3937 | 16.6375
390199 | 17.3865 | 17.7782 | 18.9787 | 18.0590
390200 | 15.4012 | 18.2456 | 19.1728 | 17.6332
390201 | 20.3533 | 21.3291 | 22.6548 | 21.4708
390203 | 21.4989 | 22.4685 | 26.9436 | 23.7942
390204 | 22.9616 | 22.7282 | 23.9673 | 23.2268
390209 | 18.7059 | 16.8200 | 18.4248 | 17.9405
390211 | 18.4213 | 19.4552 | 21.0450 | 19.6873
390213 | 19.1553 | 20.1152 | 19.9614 | 19.7218
390215 | 21.2032 | 23.5953 | 25.2617 | 23.2887
390217 | 19.9837 | 19.7578 | 21.4058 | 20.3609
390219 | 19.6226 | 20.1311 | 20.0594 | 19.9347
390220 | 17.7916 | 22.7617 | 23.3890 | 21.1672
390222 | 22.1548 | 22.7491 | 24.9365 | 23.2941
390223 | 22.1775 | 18.9493 | 20.4623 | 20.4831
390224 | 13.7518 | 17.2173 | 15.4657 | 15.2280
390225 | 18.7290 | 19.0364 | 22.5083 | 20.0077
390226 | 21.8481 | 22.8588 | 26.4195 | 23.5449
390228 | 19.8180 | 19.6212 | 20.1219 | 19.8582
390231 | 19.4798 | 21.0757 | 24.6868 | 21.6606
390233 | 20.2309 | 20.5800 | 21.6259 | 20.8313
390235 | 21.4200 | 19.9925 | 23.7068 | 21.4467
390236 | 17.8735 | 19.1427 | 19.8687 | 18.9492
390237 | 22.3011 | 21.7847 | 23.2054 | 22.4279
390238 | 17.1055 | 18.1956 | 19.2170 | 18.1264
390244 | 15.6402 | 14.2136 | * | 14.8974
390245 | 24.5076 | * | * | 24.5076
390246 | 25.0556 | 22.3892 | 22.0687 | 23.0374
390247 | 21.2151 | * | * | 21.2151
390249 | 13.1657 | 14.1062 | 14.7215 | 14.0139
390256 | 22.2773 | 22.3540 | 22.5794 | 22.4081
390258 | 22.6852 | 23.8318 | 25.0634 | 23.8724
390260 | 21.5982 | * | * | 21.5982
390262 | * | 18.8942 | 21.3264 | 20.1664
390263 | 20.3796 | 20.6348 | 21.9811 | 21.0229
390265 | 20.4950 | 20.4760 | 20.5948 | 20.5230
390266 | 17.1966 | 17.6223 | 18.2424 | 17.6964
390267 | 19.2665 | 20.2424 | 21.4980 | 20.3945
390268 | 22.0909 | 22.2046 | 23.1124 | 22.4784
390270 | 19.2074 | 20.7957 | 22.3861 | 20.7770
390278 | 17.7176 | 18.5776 | 21.1387 | 19.0743
390279 | 14.8655 | 15.8080 | 16.0509 | 15.5561
390283 | 22.5490 | * | * | 22.5489
390284 | 34.3904 | * | * | 34.3902
390285 | * | 29.1270 | 30.6458 | 29.8575
390286 | * | 22.9746 | 25.4619 | 24.2087
390287 | * | 30.3252 | 32.9709 | 31.6159
390288 | * | 26.9662 | 28.0958 | 27.3905
390289 | * | 22.8963 | 25.1658 | 23.9733
390290 | * | 30.5037 | 31.0967 | 30.8194
390291 | * | 20.0272 | 21.0057 | 20.4818
390293 | * | 23.5285 | * | 23.5284
390294 | * | * | 33.3535 | 33.3537
390295 | * | * | 26.8863 | 26.8862
390296 | * | * | 25.6979 | 25.6981
390297 | * | * | 27.2166 | 27.2167
400001 | 10.5757 | 10.7531 | 11.7572 | 11.0430
400002 | 13.0494 | 13.3684 | 11.6804 | 12.6379
400003 | 12.4078 | 11.2726 | 10.5963 | 11.4141
400004 | 8.5648 | 9.0781 | 11.4479 | 9.6254
400005 | 7.7432 | 9.7802 | 10.5356 | 9.1053
400006 | 10.1048 | 10.4988 | 9.2852 | 9.9205
400007 | 8.0174 | 8.1974 | 8.6022 | 8.2631
400009 | 8.8650 | 8.7341 | 9.4413 | 9.0139
400010 | 10.8011 | 9.1359 | 8.9964 | 9.6421
400011 | 8.5426 | 8.6252 | 8.9111 | 8.6956
400012 | 8.4728 | 8.6538 | 9.0740 | 8.7216
400013 | 9.2624 | 9.8197 | 9.9905 | 9.7250
400014 | 9.4798 | 10.2712 | 11.4580 | 10.3309
400015 | 14.4076 | 15.5827 | * | 14.8835
400016 | 13.3922 | 13.7001 | 14.5398 | 13.8932
400017 | 9.2577 | 9.9167 | 10.3892 | 9.8593
400018 | 10.6208 | 10.5583 | 10.8254 | 10.6669
400019 | 10.8940 | 12.1251 | 13.2143 | 12.0755
400021 | 12.1434 | 12.7462 | 13.2358 | 12.7262
400022 | 12.2199 | 13.0915 | 15.2904 | 13.4548
400024 | 9.2409 | 9.0826 | 9.8650 | 9.4011
400026 | 5.8335 | 7.4280 | 5.9207 | 6.3366
400028 | 9.1794 | 8.9567 | 9.5266 | 9.2275
400032 | 10.0448 | 10.1898 | 10.7100 | 10.3326
400044 | 11.9486 | 12.8671 | 9.0275 | 11.6261
400048 | 15.1405 | 11.5104 | 10.8618 | 12.2444
400061 | 13.0988 | 10.3664 | 17.0566 | 13.1015
400079 | 9.7203 | 8.7218 | 8.7218 | 8.9772
400087 | 9.8534 | 8.6480 | 10.5762 | 9.7829
400094 | 7.9187 | 9.4600 | 9.1442 | 8.8371
400098 | 9.7791 | 10.4312 | 13.5901 | 11.0612
400102 | 9.9903 | 8.5290 | 10.9973 | 9.8471
400103 | 11.5359 | 11.8454 | 11.5797 | 11.6448
400104 | 10.7292 | 7.9552 | 7.1781 | 8.8476
400105 | 9.0556 | 10.6028 | 11.5608 | 10.1248
400106 | 9.2187 | 9.8694 | 10.1240 | 9.7589
400109 | 11.8760 | 12.2080 | 12.8750 | 12.3225
400110 | 10.5277 | 10.7228 | 12.0159 | 11.1009
400111 | 10.9665 | 12.3311 | 12.7701 | 12.0404
400112 | 10.8694 | 11.0634 | 11.8808 | 11.2717
400113 | 8.3168 | 9.3000 | 10.1440 | 9.3104
400114 | 7.0510 | 9.9477 | 9.7444 | 8.8440
400115 | 8.5487 | 7.2203 | 7.0336 | 7.5134
400117 | 10.8756 | 11.3351 | 9.6471 | 10.6080
400118 | 11.4051 | 11.4317 | 12.0855 | 11.6542
400120 | 10.6584 | 10.9315 | 11.8837 | 11.1482
400121 | 9.8322 | 8.7584 | 8.3575 | 8.9176
400122 | 7.6413 | 9.1638 | 9.6644 | 8.8133
400123 | 10.2367 | 10.9047 | 10.4081 | 10.5188
400124 | 12.2452 | 12.7323 | 14.1198 | 13.0556
400125 | 10.2056 | 10.5997 | 10.0698 | 10.2676
410001 | 23.1738 | 22.4972 | 24.0033 | 23.2235
410004 | 21.0638 | 23.5408 | 24.7607 | 23.1523
410005 | 22.7170 | 24.0086 | 24.6202 | 23.7588
410006 | 23.8700 | 22.8959 | 26.1234 | 24.3211
410007 | 23.1325 | 24.9846 | 27.7171 | 25.1159
410008 | 24.9726 | 24.4792 | 25.4183 | 24.9582
410009 | 24.3895 | 24.3760 | 26.1891 | 24.9832
410010 | 28.4589 | 29.7315 | 30.4061 | 29.5287
410011 | 26.1183 | 27.4880 | 29.2039 | 27.5568
410012 | 24.1695 | 26.4570 | 28.1791 | 26.2184
410013 | 24.8800 | 25.3688 | 28.4954 | 26.2187
420002 | 20.7804 | 22.6182 | 25.1067 | 22.8141
420004 | 20.9588 | 22.4680 | 23.4275 | 22.2200
420005 | 17.9694 | 17.8202 | 19.5521 | 18.4820
420006 | 19.1760 | 18.7153 | 22.7896 | 19.8079
420007 | 18.6456 | 19.0199 | 22.0134 | 19.8792
420009 | 19.9586 | 21.2566 | 18.6866 | 19.8536
420010 | 18.0252 | 19.3267 | 19.1545 | 18.8686
420011 | 18.0970 | 16.7523 | 17.3200 | 17.3563
420014 | 18.0519 | 19.0455 | 20.4975 | 19.1969
420015 | 20.1164 | 20.8736 | 22.7776 | 21.3355
420016 | 15.5485 | 16.6448 | 17.0051 | 16.4309
420018 | 21.8775 | 20.7779 | 20.4649 | 20.9903
420019 | 17.1726 | 19.0199 | 19.7118 | 18.6106
420020 | 20.3193 | 20.5801 | 22.1616 | 21.0728
420023 | 20.4053 | 20.8600 | 22.9004 | 21.4470
420026 | 21.8749 | 23.3072 | 23.6914 | 22.9839
420027 | 19.2594 | 19.7322 | 20.7327 | 19.9443
420030 | 20.6448 | 22.5159 | 22.5925 | 21.9394
420031 | 8.2516 | 15.3605 | 16.8518 | 12.3011
420033 | 23.1303 | 23.7974 | 26.0792 | 24.3733
420036 | 21.3222 | 19.8285 | 20.6780 | 20.5493
420037 | 22.7099 | 23.5244 | 25.3863 | 23.9574
420038 | 18.6568 | 19.9829 | 21.6132 | 20.0798
420039 | 18.3017 | 18.0055 | 21.1830 | 18.9968
420043 | 19.7570 | 19.6834 | 21.8816 | 20.4303
420048 | 18.8070 | 20.5531 | 21.9517 | 20.4950
420049 | 19.4049 | 20.1765 | 20.2320 | 19.9533
420051 | 19.1555 | 19.8549 | 20.6629 | 19.9007
420053 | 18.1657 | 19.0780 | 19.9013 | 19.0557
420054 | 20.2574 | 20.2275 | 20.7802 | 20.4197
420055 | 16.8717 | 18.6782 | 19.3056 | 18.2587
420056 | 15.1835 | 16.5491 | 19.8467 | 17.1664
420057 | 20.5266 | 22.1312 | 17.6727 | 20.1808
420059 | 17.1483 | 18.2093 | 20.2630 | 18.4420
420061 | 17.3543 | 17.7047 | 19.9789 | 18.3969
420062 | 21.7469 | 20.9032 | 17.4888 | 19.8336
420064 | 16.0794 | 19.7067 | 20.9057 | 19.0582
420065 | 19.9435 | 19.2150 | 21.9297 | 20.4427
420066 | 18.0042 | 19.5366 | 20.7713 | 19.3973
420067 | 19.7824 | 20.8524 | 22.8104 | 21.1856
420068 | 18.5481 | 20.2580 | 21.7257 | 20.1957
420069 | 18.1298 | 18.9017 | 17.6788 | 18.2297
420070 | 17.3876 | 19.2186 | 20.1378 | 18.9286
420071 | 20.3902 | 20.1897 | 21.2610 | 20.6237
420072 | 15.0158 | 18.2531 | 16.2578 | 16.5142
420073 | 19.9986 | 20.2697 | 21.4718 | 20.6373
420074 | 18.0967 | 18.1839 | 18.7011 | 18.3051
420075 | 12.8158 | 15.0132 | 15.9890 | 14.6306
420078 | 21.9082 | 22.7156 | 23.9730 | 22.8546
420079 | 21.0874 | 21.3177 | 23.0729 | 21.8705
420080 | 21.9968 | 23.2871 | 26.7489 | 24.1988
420082 | 21.7210 | 22.8516 | 28.0149 | 24.1640
420083 | 22.6376 | 24.4499 | 24.8294 | 24.0095
420085 | 21.6791 | 22.0071 | 23.8540 | 22.5902
420086 | 20.2878 | 23.5303 | 24.5760 | 22.8222
420087 | 19.8388 | 20.8217 | 21.9354 | 20.8793
420088 | 19.9919 | 21.8979 | 23.5174 | 21.7712
420089 | 20.5360 | 21.3954 | 23.3240 | 21.8074
420091 | 20.3092 | 21.8367 | 23.7544 | 21.8937
420093 | 18.3902 | 19.1299 | 21.4678 | 19.5913
420095 | * | 33.4632 | * | 33.4634
420096 | * | 26.4863 | * | 26.4864
430004 | 19.6344 | 19.2737 | 22.2198 | 20.3430
430005 | 16.4560 | 17.3400 | 18.2647 | 17.3726
430007 | 14.6331 | 15.1494 | 17.8017 | 15.8287
430008 | 18.1323 | 18.5234 | 20.0124 | 18.8898
430010 | 19.8191 | 16.5750 | 21.3978 | 18.9840
430011 | 17.4750 | 18.3648 | 19.9835 | 18.5721
430012 | 17.6997 | 19.2921 | 21.2588 | 19.3790
430013 | 18.4817 | 18.8978 | 21.3388 | 19.5495
430014 | 20.2387 | 20.9118 | 22.0285 | 21.0694
430015 | 18.2875 | 18.8998 | 20.5848 | 19.2456
430016 | 20.8850 | 22.7585 | 24.2450 | 22.6451
430018 | 16.2244 | 15.9424 | 17.9850 | 16.6387
430022 | 14.5118 | 14.0661 | * | 14.2905
430023 | 16.2164 | 16.7850 | 18.8816 | 17.1465
430024 | 16.1801 | 17.4816 | 18.8359 | 17.4068
430027 | 20.2591 | 20.8666 | 22.1807 | 21.1128
430028 | 17.1577 | 18.2829 | 30.0094 | 20.4957
430029 | 17.6986 | 17.4932 | 18.9463 | 18.0331
430031 | 12.4660 | 13.2105 | 15.2322 | 13.5804
430033 | 17.3652 | 18.3978 | 21.6255 | 19.2950
430034 | 14.2491 | 13.8535 | 13.6064 | 13.9089
430036 | 15.6258 | 16.7827 | 16.5848 | 16.2916
430037 | 18.1293 | 18.7009 | 19.3794 | 18.7558
430038 | 18.4078 | * | * | 18.4078
430040 | 14.4509 | 14.7860 | 15.3612 | 14.8505
430041 | 14.8816 | * | * | 14.8815
430043 | 14.9949 | 17.0193 | 17.9673 | 16.5225
430044 | 21.0823 | * | * | 21.0824
430047 | 17.9823 | 17.5377 | 18.2773 | 17.9221
430048 | 18.7602 | 19.0261 | 20.0608 | 19.3158
430049 | 15.2237 | 14.9025 | 17.0885 | 15.6759
430051 | 18.8070 | 18.8697 | 21.2838 | 19.6636
430054 | 14.8003 | 15.0101 | 17.8870 | 15.8667
430056 | 10.3697 | 14.1914 | 15.9149 | 13.1642
430057 | 17.2805 | 18.8777 | 18.2939 | 18.1566
430060 | 10.0176 | 9.7678 | 10.6493 | 10.1353
430064 | 14.2184 | 13.8666 | 14.3407 | 14.1427
430066 | 15.6660 | 14.5957 | 18.0501 | 16.1260
430073 | 15.3776 | 16.5112 | 16.4387 | 16.0995
430076 | 13.9883 | 15.2453 | 12.6996 | 13.8839
430077 | 19.8558 | 20.4361 | 21.6786 | 20.6834
430079 | 14.1815 | 14.4154 | 15.4268 | 14.6345
430089 | 17.9790 | 17.5100 | 19.8572 | 18.4672
430090 | 21.5974 | 23.5180 | 25.6873 | 23.7486
430091 | 18.1567 | 21.6239 | 22.2824 | 21.1724
430092 | 21.3807 | 19.7644 | 19.7354 | 20.2342
430093 | 19.5013 | 23.3009 | 23.8820 | 22.1340
430094 | * | * | 20.8742 | 20.8743
440001 | 15.5897 | 17.2282 | 18.9833 | 17.1918
440002 | 20.3740 | 21.4299 | 20.7715 | 20.8573
440003 | 19.3042 | 20.3756 | 21.6336 | 20.4509
440006 | 21.4055 | 23.1483 | 24.3132 | 22.9905
440007 | 14.8959 | 14.0612 | 14.1008 | 14.3331
440008 | 18.8994 | 20.3303 | 20.9238 | 20.0515
440009 | 17.4831 | 18.4068 | 19.6564 | 18.5235
440010 | 16.3283 | 13.3692 | 16.7270 | 15.2992
440011 | 18.3375 | 19.3165 | 20.5036 | 19.4558
440012 | 19.5739 | 19.8949 | 21.3573 | 20.2411
440014 | 16.1143 | 15.0656 | * | 15.5948
440015 | 22.0659 | 21.6106 | 23.3677 | 22.3025
440016 | 16.2964 | 14.6142 | 20.1504 | 16.8295
440017 | 20.4563 | 20.4705 | 22.3573 | 21.0640
440018 | 17.4995 | 18.1620 | 21.2242 | 19.0126
440019 | 21.5402 | 22.8463 | 24.0149 | 22.8001
440020 | 17.8879 | 20.2189 | 21.1075 | 19.7440
440023 | 16.7837 | 15.6603 | 15.5410 | 15.9556
440024 | 18.4046 | 18.4276 | 19.9751 | 18.8456
440025 | 16.3140 | 17.0997 | 18.9008 | 17.4832
440026 | 23.2566 | 25.6490 | 25.1655 | 24.7161
440029 | 20.7050 | 22.2889 | 24.1379 | 22.4401
440030 | 16.9925 | 17.6297 | 19.9056 | 18.2332
440031 | 17.0211 | 17.2555 | 17.0289 | 17.1002
440032 | 13.8140 | 13.9784 | 14.7683 | 14.1838
440033 | 13.7328 | 16.4679 | 17.2637 | 15.8189
440034 | 20.0309 | 21.1672 | 22.2382 | 21.1482
440035 | 19.3034 | 20.4168 | 21.6338 | 20.4652
440039 | 21.6536 | 22.4158 | 24.8698 | 22.9682
440040 | 16.9275 | 17.6781 | 16.9886 | 17.1928
440041 | 14.9545 | 14.6684 | 15.5784 | 15.0621
440046 | 19.3229 | 20.5562 | 22.1743 | 20.5985
440047 | 17.8092 | 18.7469 | 18.7262 | 18.4184
440048 | 21.4993 | 21.6132 | 22.5431 | 21.9061
440049 | 18.7967 | 19.6920 | 22.1252 | 20.0483
440050 | 18.2511 | 19.7915 | 21.3428 | 19.8422
440051 | 16.0421 | 17.7067 | 19.0165 | 17.5455
440052 | 19.8075 | 18.6589 | 18.1897 | 18.8402
440053 | 19.6494 | 21.5253 | 22.0063 | 21.0648
440054 | 13.3967 | 15.2154 | 15.4208 | 14.7050
440056 | 16.2742 | 20.4903 | 19.1329 | 18.5350
440057 | 13.7257 | 14.4363 | 14.1477 | 14.1083
440058 | 19.1878 | 20.7722 | 21.7512 | 20.5453
440059 | 19.6018 | 20.8882 | 22.4248 | 21.0016
440060 | 19.7916 | 20.7628 | 20.0972 | 20.2143
440061 | 22.5525 | 16.9234 | 19.5458 | 19.4254
440063 | 19.8371 | 18.8072 | 19.7468 | 19.4529
440064 | 18.9809 | 18.2678 | 19.4020 | 18.8736
440065 | 18.8296 | 19.2282 | 19.9099 | 19.3487
440067 | 17.2397 | 18.2973 | 19.6120 | 18.4263
440068 | 19.3668 | 19.5428 | 20.9188 | 19.9728
440070 | 14.0437 | 18.0064 | 18.3717 | 16.8031
440071 | 19.7836 | * | * | 19.7836
440072 | 19.1522 | 20.0691 | 20.9286 | 20.0759
440073 | 19.5554 | 19.6290 | 20.7181 | 19.9917
440078 | 16.0188 | 17.1645 | 20.0509 | 17.7858
440081 | 19.3454 | 17.2905 | 18.2664 | 18.2167
440082 | 22.6855 | 22.5590 | 26.0944 | 23.6946
440083 | 13.7423 | 13.7630 | 15.7015 | 14.3937
440084 | 13.7731 | 13.8085 | 15.0510 | 14.2295
440091 | 20.1065 | 20.1359 | 22.2894 | 20.8482
440100 | 14.7113 | 15.9969 | 20.1545 | 16.9936
440102 | 14.5500 | 16.0783 | 16.6548 | 15.7421
440103 | 18.6990 | * | * | 18.6990
440104 | 22.6754 | 21.7135 | 21.5501 | 21.9246
440105 | 17.1172 | 18.1375 | 19.2902 | 18.1888
440109 | 17.7443 | 17.6399 | 16.5366 | 17.2746
440110 | 17.4816 | 18.4998 | 19.9718 | 18.7249
440111 | 23.2254 | 23.2111 | 24.9666 | 23.7976
440114 | 15.0036 | 18.5327 | 20.1152 | 17.9248
440115 | 18.5457 | 18.7054 | 18.4721 | 18.5719
440120 | 16.3115 | 19.8997 | 22.4031 | 19.5197
440125 | 19.4115 | 20.0599 | 21.2173 | 20.2484
440130 | 17.4857 | 19.0905 | 20.6364 | 19.0816
440131 | 16.1214 | 19.9883 | 21.0641 | 18.9957
440132 | 16.8871 | 17.9186 | 18.9580 | 17.9377
440133 | 23.0891 | 22.2257 | 22.4872 | 22.5969
440135 | 22.2005 | 22.5452 | 23.8313 | 22.9298
440137 | 15.0070 | 15.3530 | 16.5529 | 15.6758
440141 | 15.9429 | 17.6819 | 19.2607 | 17.4468
440142 | 16.8855 | 17.1483 | 17.7587 | 17.2159
440143 | 18.2061 | 18.6844 | 19.2978 | 18.7274
440144 | 18.3859 | 18.8127 | 19.7938 | 19.0189
440145 | 18.3948 | 18.3850 | 18.1226 | 18.2932
440147 | 26.1464 | 25.3766 | 25.0779 | 25.5115
440148 | 19.4598 | 19.3769 | 20.7693 | 19.8862
440149 | 18.4281 | 19.8304 | 18.1316 | 18.8060
440150 | 20.3006 | 21.2942 | 22.8656 | 21.5228
440151 | 18.3928 | 19.8977 | 20.7681 | 19.6191
440152 | 22.7664 | 21.7382 | 27.2915 | 23.9903
440153 | 16.5716 | 18.1781 | 19.9486 | 18.2431
440156 | 21.7577 | 21.9374 | 23.7799 | 22.5299
440157 | 18.4249 | 15.5316 | 17.6241 | 17.2522
440159 | 20.9371 | 21.4914 | 20.5719 | 20.9737
440161 | 22.8816 | 23.6805 | 26.1354 | 24.2908
440162 | 15.5534 | 19.8075 | 20.3909 | 18.5104
440166 | 19.2159 | 19.6632 | 23.1692 | 20.6397
440168 | 19.1509 | 21.1947 | 21.2114 | 20.4537
440173 | 19.1812 | 21.0284 | 20.8442 | 20.3754
440174 | 18.0865 | 19.3966 | 19.2201 | 18.8962
440175 | 18.5186 | 19.9022 | 22.3331 | 20.2599
440176 | 19.2208 | 19.8448 | 20.4861 | 19.8829
440180 | 20.2184 | 20.2057 | 21.1947 | 20.5447
440181 | 17.7709 | 19.0915 | 19.5055 | 18.7704
440182 | 19.7094 | 18.1953 | 19.3928 | 19.0713
440183 | 21.3465 | 22.2401 | 24.9282 | 22.9040
440184 | 16.8880 | 18.6890 | 21.4484 | 18.5678
440185 | 21.2188 | 21.1226 | 22.2855 | 21.5992
440186 | 19.7983 | 20.8600 | 23.0193 | 21.1673
440187 | 17.5872 | 18.3729 | 19.9478 | 18.6211
440189 | 18.5252 | 22.2555 | 23.2866 | 21.3831
440192 | 19.1705 | 19.1976 | 21.3228 | 19.9395
440193 | 18.6999 | 19.9078 | 22.0345 | 20.2055
440194 | 22.4562 | 21.9609 | 24.4629 | 23.0062
440197 | 21.8503 | 22.5282 | 24.2661 | 22.9060
440200 | 19.8078 | 18.7302 | 16.7752 | 18.4446
440203 | 16.2861 | 16.9819 | 21.3888 | 18.3754
440210 | 11.9815 | 12.7622 | * | 12.3704
440214 | 28.0285 | * | * | 28.0287
440215 | 22.2928 | * | * | 22.2928
440217 | * | 19.2834 | 23.3544 | 21.1703
440218 | * | * | 20.1377 | 20.1377
440219 | * | * | 18.2762 | 18.2762
440220 | * | * | 22.1222 | 22.1221
450002 | 21.4836 | 21.5141 | 24.0413 | 22.4014
450004 | 16.7850 | 15.9452 | * | 16.4042
450005 | 16.6396 | 16.6354 | 21.7110 | 18.0529
450007 | 19.1910 | 18.0269 | 18.3073 | 18.4788
450008 | 17.6582 | 19.3745 | 20.1817 | 19.0466
450010 | 17.6677 | 19.8998 | 20.2928 | 19.2457
450011 | 20.8102 | 20.2963 | 21.6599 | 20.9101
450014 | 17.5815 | 19.8846 | 19.4805 | 18.9747
450015 | 21.6773 | 22.9820 | 23.9140 | 22.8577
450016 | 18.3456 | 19.1522 | 19.9783 | 19.1667
450018 | 23.2293 | 21.9921 | 22.9508 | 22.6215
450020 | 19.1153 | 18.4642 | 18.8688 | 18.8186
450021 | 23.3630 | 23.7663 | 24.3718 | 23.8437
450023 | 17.6360 | 19.2808 | 19.1645 | 18.7230
450024 | 18.5985 | 19.5584 | 20.8938 | 19.7493
450028 | 19.1658 | 19.5905 | 22.7775 | 20.4223
450029 | 17.7425 | 19.9505 | 19.9198 | 19.2371
450031 | 29.6945 | 29.6772 | 21.2734 | 25.9517
450032 | 14.6530 | 20.8525 | 20.6076 | 18.3640
450033 | 21.0222 | 21.3766 | 26.0361 | 22.7005
450034 | 18.8823 | 19.5233 | 21.6149 | 19.9977
450035 | 20.3599 | 20.3146 | 24.1791 | 21.4800
450037 | 19.9140 | 19.6532 | 22.9781 | 20.8451
450039 | 19.7176 | 20.4660 | 21.8243 | 20.6801
450040 | 19.6370 | 24.8621 | 21.3097 | 22.1542
450042 | 18.8357 | 20.6041 | 21.8886 | 20.4547
450044 | 21.0909 | 23.4476 | 23.2984 | 22.5215
450046 | 17.3631 | 20.2917 | 20.9220 | 20.0845
450047 | 16.9028 | 15.9525 | 21.8840 | 18.0090
450050 | 17.7209 | 19.1390 | 19.5171 | 18.7476
450051 | 21.1008 | 23.0010 | 23.1281 | 22.3573
450052 | 15.5890 | 20.3702 | 15.9400 | 17.2648
450053 | 17.2781 | 19.3347 | 15.0735 | 17.2659
450054 | 19.2431 | 25.3285 | 23.2915 | 22.8358
450055 | 15.8526 | 16.4789 | 18.2235 | 16.8274
450056 | 21.8605 | 22.5341 | 24.4197 | 22.9813
450058 | 18.6172 | 20.0424 | 21.9588 | 20.1476
450059 | 19.8240 | 21.4873 | 22.8792 | 21.4779
450063 | 12.7211 | 15.1779 | * | 13.6764
450064 | 19.7682 | 21.3929 | 18.6112 | 19.8410
450065 | 23.3797 | 23.8471 | 25.0043 | 24.0958
450068 | 23.3495 | 22.5626 | 23.4435 | 23.1149
450072 | 18.0307 | 20.0134 | 20.3683 | 19.5324
450073 | 16.5942 | 23.7700 | 19.2398 | 20.0099
450078 | 13.2820 | 13.9324 | 15.0471 | 14.0206
450079 | 20.6483 | 22.0609 | 23.9209 | 22.1935
450080 | 18.6212 | 19.8414 | 21.0442 | 19.7978
450081 | 17.5737 | 19.0276 | 19.0461 | 18.5365
450082 | 16.8677 | 18.0688 | 16.6397 | 17.1813
450083 | 23.3754 | 20.7446 | 22.4764 | 22.1790
450085 | 20.0085 | 17.5001 | 18.0245 | 18.4510
450087 | 21.9320 | 23.4141 | 24.6661 | 23.4257
450090 | 15.5796 | 15.6090 | 15.5556 | 15.5807
450092 | 17.9520 | 17.2058 | 16.0808 | 17.0569
450094 | 23.2863 | 25.2158 | 31.6176 | 26.5357
450096 | 18.6802 | 19.4430 | 20.1138 | 19.4265
450097 | 19.7187 | 20.7653 | 22.2467 | 21.0001
450098 | 19.0454 | 19.8469 | 20.1606 | 19.7427
450099 | 20.4181 | 19.3493 | 21.4482 | 20.3831
450101 | 17.7928 | 17.6368 | 20.1473 | 18.5186
450102 | 19.8793 | 21.4361 | 18.0166 | 19.5784
450104 | 17.0821 | 17.8219 | 19.7126 | 18.2038
450107 | 24.1094 | 24.5034 | 23.1605 | 23.8913
450108 | 15.2797 | 17.9596 | 18.4801 | 17.3161
450109 | 10.5973 | 18.1085 | 16.0510 | 14.2577
450111 | 21.4908 | * | * | 21.4908
450112 | 18.1026 | 17.9624 | 19.7041 | 18.5605
450113 | 20.8306 | 20.7782 | 37.8953 | 21.1550
450119 | 20.2030 | 20.1436 | 20.8840 | 20.4169
450121 | 21.9198 | 22.0485 | 24.6090 | 22.7993
450123 | 14.1755 | 17.5051 | 17.8629 | 16.2415
450124 | 22.5208 | 22.9853 | 24.0333 | 23.2184
450126 | 21.4789 | 22.9423 | 23.9298 | 22.7661
450128 | 18.1446 | 18.7067 | 28.0211 | 21.3216
450130 | 18.9211 | 20.2613 | 19.0153 | 19.4183
450131 | 17.4168 | 18.1401 | 19.7316 | 18.4406
450132 | 21.8089 | 20.8908 | 22.4680 | 21.7157
450133 | 26.0763 | 24.5319 | 25.3928 | 25.3029
450135 | 20.4068 | 21.7038 | 22.3664 | 21.5213
450137 | 23.4346 | 22.8653 | 21.9645 | 22.7576
450140 | 17.3370 | 19.6205 | 18.4142 | 18.4792
450143 | 15.0871 | 17.8206 | 18.4456 | 17.0500
450144 | 17.4309 | 21.9135 | 20.8064 | 20.0145
450145 | 16.1895 | 18.0437 | 16.5468 | 16.9581
450146 | 15.5030 | 17.4391 | 16.6809 | 16.5128
450147 | 19.0477 | 20.3019 | 21.4266 | 20.2587
450148 | 20.4923 | 21.4982 | 19.4973 | 20.4877
450149 | 21.7219 | 22.6138 | * | 22.1667
450150 | 17.8612 | 17.8804 | * | 17.8714
450151 | 16.4209 | 16.3279 | 18.6100 | 17.0520
450152 | 17.7265 | 19.6105 | 20.0480 | 19.2518
450153 | 18.6514 | 20.9651 | * | 19.6822
450154 | 13.9119 | 16.8748 | 16.3479 | 15.7387
450155 | 13.3456 | 20.2582 | 18.4020 | 17.1145
450157 | 15.3083 | 16.8569 | 17.8764 | 16.7446
450160 | 10.6852 | 18.7780 | 20.7517 | 15.2676
450162 | 21.9218 | 20.5032 | 26.0570 | 22.6007
450163 | 17.8028 | 19.7675 | 19.8290 | 19.0858
450164 | 17.7180 | 18.7103 | 22.6906 | 19.5847
450165 | 17.3283 | 16.1010 | 16.4098 | 16.5904
450166 | 11.0541 | 12.6627 | 13.5795 | 12.4215
450170 | 14.3234 | 15.8525 | 13.1142 | 14.3736
450176 | 17.2576 | 19.2397 | 19.1706 | 18.5577
450177 | 15.2419 | 16.4503 | 17.2347 | 16.3235
450178 | 16.0280 | 15.8597 | 19.1186 | 16.9564
450181 | 18.6936 | 18.3600 | 17.8882 | 18.3181
450184 | 20.0821 | 22.7744 | 24.3452 | 22.4382
450185 | 11.5228 | 13.2015 | 14.2950 | 12.8871
450187 | 18.5053 | 20.8105 | 22.3174 | 20.4825
450188 | 15.1954 | 16.9800 | 17.5351 | 16.6019
450191 | 20.9512 | 20.5883 | 23.2261 | 21.6512
450192 | 21.2497 | 20.8315 | 20.1718 | 20.7147
450193 | 23.1639 | 25.1215 | 25.6437 | 24.6806
450194 | 20.7745 | 20.7152 | 22.1151 | 21.2200
450196 | 17.8993 | 21.1226 | 20.3102 | 19.7302
450200 | 19.2228 | 19.6496 | 20.4656 | 19.7649
450201 | 17.1463 | 18.0646 | 19.2517 | 18.1592
450203 | 19.3978 | 19.7978 | 23.1036 | 20.7628
450209 | 20.0140 | 21.3218 | 23.3963 | 21.5758
450210 | 16.3470 | 16.8532 | 16.7851 | 16.6843
450211 | 18.8114 | 18.7305 | 20.0677 | 19.2205
450213 | 19.0651 | 19.3440 | 21.1280 | 19.7979
450214 | 20.5070 | 21.3448 | 22.4544 | 21.4482
450217 | 12.7647 | 13.1840 | 11.3313 | 12.4053
450219 | 17.6884 | 18.5534 | 21.3693 | 18.8542
450221 | 15.2120 | 16.2308 | 19.6778 | 16.9127
450222 | 19.8967 | 23.2779 | 23.4805 | 22.2795
450224 | 20.1579 | 20.1723 | 19.7665 | 20.0338
450229 | 16.7853 | 17.0346 | 17.9811 | 17.2535
450231 | 19.1746 | 20.7709 | 21.0986 | 20.3555
450234 | 16.3003 | 17.9478 | 21.8295 | 18.7188
450235 | 16.3115 | 17.0143 | 18.4234 | 17.2758
450236 | 16.4957 | 18.4551 | 17.1250 | 17.3256
450237 | 19.0325 | 21.6497 | 21.6752 | 20.8141
450239 | 17.8401 | 18.8416 | 19.3655 | 18.6917
450241 | 16.4240 | 16.6046 | 17.4151 | 16.8266
450243 | 13.6416 | 11.2035 | 17.7821 | 13.8172
450246 | 16.7959 | 22.7940 | 20.7893 | 19.8488
450249 | 11.7658 | 10.6467 | 13.1223 | 11.8062
450250 | 13.6787 | 18.3361 | 12.8229 | 14.7303
450253 | 13.2177 | 14.5492 | 16.6365 | 14.6878
450258 | 16.7337 | 17.0724 | 18.3136 | 17.3431
450264 | 14.5956 | 17.2825 | 13.5346 | 14.9127
450269 | 12.7717 | 12.2970 | 13.4838 | 12.8458
450270 | 14.4792 | 13.8881 | 12.3962 | 13.5856
450271 | 16.7831 | 17.9570 | 18.3659 | 17.7341
450272 | 18.4344 | 20.5888 | 21.3492 | 20.1697
450276 | 14.0745 | 14.0779 | 12.8895 | 13.6150
450278 | 15.2950 | 14.3931 | 15.2944 | 14.9802
450280 | 22.2936 | 22.2648 | 22.3781 | 22.3117
450283 | 15.1950 | 15.8224 | 16.9843 | 16.1315
450288 | 18.8935 | 17.4817 | 17.4214 | 17.9418
450289 | 20.3460 | 22.4656 | 19.9906 | 20.9466
450292 | 20.5335 | 21.1511 | 22.8905 | 21.4277
450293 | 16.2721 | 16.4077 | 17.7673 | 16.8504
450296 | 22.3430 | 21.5998 | 20.4483 | 21.4253
450299 | * | 21.2754 | 22.9849 | 22.1397
450303 | 12.8996 | 14.3353 | 16.1330 | 14.3646
450306 | 14.2047 | 13.6333 | 15.5980 | 14.3658
450307 | 17.0691 | 17.6757 | 19.6952 | 18.1345
450309 | 13.3771 | 16.0363 | 16.5770 | 15.2473
450315 | 21.4684 | 23.8151 | 26.4677 | 23.7712
450320 | 20.6596 | 24.8602 | 24.7457 | 23.2764
450321 | 14.7344 | 17.2289 | 17.4628 | 16.2569
450322 | 29.1884 | 28.9834 | 17.9071 | 25.3849
450324 | 19.1692 | 20.9081 | 24.0112 | 21.3590
450327 | 13.3639 | 11.0983 | 14.3848 | 12.7752
450330 | 19.8066 | 21.0921 | 22.9948 | 21.3142
450334 | 13.8392 | 13.9812 | 14.2209 | 14.0138
450337 | 25.5708 | * | * | 25.5709
450340 | * | 19.2611 | 18.7179 | 18.9746
450341 | * | 20.8814 | * | 20.8814
450346 | 18.9475 | 19.2769 | 20.1921 | 19.5923
450347 | 19.3475 | 20.1899 | 21.7603 | 20.4764
450348 | 13.3585 | 15.0069 | 15.3299 | 14.5667
450351 | 19.3159 | 21.2842 | 21.6640 | 20.7344
450352 | 20.1871 | 21.2035 | 21.8138 | 21.1211
450353 | 16.0003 | 17.3274 | 19.5263 | 17.5681
450355 | 11.8933 | 12.8876 | 13.9234 | 12.8974
450358 | 23.0206 | 25.5767 | 25.9233 | 24.7613
450362 | 18.1983 | 18.7687 | 20.6340 | 19.2155
450369 | 15.3122 | 16.0667 | 16.5636 | 15.9500
450370 | 16.1369 | 18.7539 | 17.0463 | 17.3593
450371 | 16.0236 | 17.7591 | 17.3415 | 16.8971
450372 | 22.0746 | 21.4050 | 23.1343 | 22.1317
450373 | 17.9554 | 18.5716 | 17.7025 | 18.0874
450374 | 15.1750 | 15.0146 | 15.2532 | 15.1489
450378 | 23.4599 | 24.4143 | 25.8048 | 24.6304
450379 | 22.8756 | 25.1931 | 29.0865 | 25.7747
450381 | 16.7112 | 16.7237 | 18.7899 | 17.5371
450388 | 19.7408 | 20.7989 | 22.4439 | 21.1046
450389 | 18.8448 | 19.3156 | 20.7206 | 19.6586
450393 | 22.4992 | 21.4405 | 23.5336 | 22.4798
450395 | 18.0024 | 17.5236 | 18.6664 | 18.0895
450399 | 15.3491 | 16.3333 | 19.1571 | 16.9654
450400 | 18.6668 | 19.1345 | 20.1376 | 19.3717
450403 | 22.8430 | 24.7657 | 24.6273 | 24.1287
450411 | 15.1121 | 15.9165 | 16.9559 | 15.9781
450417 | 15.3591 | 15.2713 | 16.1956 | 15.6177
450418 | 21.9690 | 22.2511 | 25.1306 | 23.1136
450419 | 23.2551 | 22.9522 | 26.4121 | 24.0600
450422 | 28.0257 | 28.0395 | 28.5834 | 28.2238
450424 | 18.7895 | 20.7634 | 22.0682 | 20.6438
450431 | 22.0361 | 22.6766 | 22.7459 | 22.4890
450438 | 15.4553 | 21.0474 | 18.4891 | 18.0730
450446 | 20.7592 | 13.8011 | 14.1684 | 15.5340
450447 | 18.0377 | 19.7532 | 21.0247 | 19.5725
450451 | 18.2988 | 18.9519 | 20.1738 | 19.1894
450457 | 19.6569 | * | * | 19.6569
450460 | 14.6523 | 15.9446 | 17.9487 | 16.1581
450462 | 22.1144 | 22.5413 | 20.6169 | 21.6907
450464 | 15.5908 | 15.8121 | 16.1987 | 15.8774
450465 | 15.4731 | 19.3928 | 19.6579 | 17.7347
450467 | 17.0004 | 18.9388 | 18.0994 | 17.9285
450469 | 22.1930 | 22.0389 | 22.7741 | 22.3634
450473 | 19.7148 | 18.3813 | 18.6003 | 18.8420
450475 | 16.9269 | 19.0010 | 19.7305 | 18.5518
450484 | 18.9825 | 19.5505 | 23.2881 | 20.6738
450488 | 19.2173 | 22.0927 | 22.5650 | 21.2542
450489 | 16.3584 | 17.8779 | 18.5941 | 17.5105
450497 | 16.2997 | 15.9654 | 17.1327 | 16.4523
450498 | 14.4713 | 15.9479 | 19.2985 | 16.4927
450508 | 19.0991 | 19.3274 | 20.8183 | 19.8005
450514 | 20.0144 | 20.7064 | 21.0116 | 20.6064
450517 | 14.3191 | 17.6011 | 14.4247 | 15.4999
450518 | 21.4873 | 20.7355 | 21.1015 | 21.1171
450523 | 21.0393 | 23.8270 | * | 22.4523
450530 | 21.1634 | 21.8988 | 23.3005 | 22.1616
450534 | 20.1520 | 19.7410 | 22.7437 | 20.8137
450535 | 21.0513 | 21.5449 | 24.0628 | 22.1998
450537 | 20.1161 | 20.8849 | 22.5972 | 21.2300
450539 | 18.7559 | 19.3681 | 18.9497 | 19.0285
450544 | 23.6652 | 22.7282 | 11.0917 | 17.7372
450545 | 20.2823 | 21.0792 | 23.9646 | 21.6831
450547 | 18.1524 | 20.5049 | 23.1348 | 20.3331
450551 | 16.6237 | 16.1437 | 17.7082 | 16.8161
450558 | 20.7404 | 21.3116 | 21.4201 | 21.1518
450563 | 22.0708 | 21.9935 | 27.5446 | 23.9001
450565 | 17.3803 | 17.8058 | 17.5372 | 17.5748
450570 | 19.0336 | * | * | 19.0336
450571 | 18.2784 | 19.5325 | 21.1391 | 19.6109
450573 | 17.3518 | 17.6157 | 18.6233 | 17.8792
450574 | 14.6128 | 14.8549 | 16.4851 | 15.3348
450575 | 22.5621 | 24.0386 | 23.4900 | 23.3951
450578 | 18.0925 | 17.2863 | 17.3010 | 17.5480
450580 | 16.7374 | 17.8224 | 18.5657 | 17.7062
450583 | 14.4411 | 15.9430 | 16.2818 | 15.5666
450584 | 14.6735 | 14.9237 | 16.9020 | 15.4896
450586 | 13.8248 | 14.7433 | 14.0478 | 14.1931
450587 | 18.0219 | 18.0014 | 17.6532 | 17.8908
450591 | 17.7795 | 18.6714 | 19.6229 | 18.7114
450596 | 21.6729 | 21.9445 | 24.3714 | 22.6695
450597 | 17.6179 | 19.0641 | 19.5574 | 18.7397
450603 | 23.5572 | 23.4924 | 20.6138 | 22.5917
450604 | 17.6582 | 18.7465 | 19.6304 | 18.7047
450605 | 19.4580 | 19.7400 | 22.0210 | 20.3694
450609 | 17.0986 | 14.1776 | 16.6870 | 15.9595
450610 | 21.5191 | 23.5626 | 24.0548 | 23.1995
450614 | 16.5754 | * | 18.5895 | 17.6527
450615 | 15.2956 | 15.0621 | 17.3288 | 15.9012
450617 | 20.8919 | 21.5004 | 22.7025 | 21.7511
450620 | 16.0987 | 16.4330 | 17.1624 | 16.5652
450623 | 23.1270 | 25.1122 | 25.4030 | 24.5910
450626 | 18.4349 | 20.5225 | 17.7454 | 18.8435
450628 | 18.6093 | 20.0411 | 17.8201 | 18.7790
450630 | 20.9605 | 23.1840 | 24.7324 | 23.0079
450631 | 21.6736 | 21.8940 | 22.6786 | 22.1007
450632 | 13.9147 | 15.1416 | 14.8913 | 14.6301
450633 | 19.4949 | * | * | 19.4949
450634 | 22.9877 | 23.0470 | 24.8258 | 23.7101
450638 | 22.1704 | 23.8335 | 26.3653 | 24.1319
450639 | 21.6421 | 23.0496 | 23.3156 | 22.6779
450641 | 15.7578 | 15.3652 | 16.5960 | 15.8967
450643 | 16.8152 | 18.9088 | 20.2000 | 18.7134
450644 | 22.7721 | 24.5834 | 25.8182 | 24.5287
450646 | 19.1433 | 23.1240 | 21.8489 | 21.2674
450647 | 24.2763 | 25.0549 | 26.7193 | 25.3639
450648 | 15.0305 | 14.4884 | 16.9698 | 15.5262
450649 | 16.6577 | 16.8505 | 17.5760 | 17.0475
450651 | 22.7112 | 25.4679 | 26.9228 | 25.1265
450652 | 17.2445 | * | * | 17.2446
450653 | 19.2349 | 20.2436 | 22.7236 | 20.7352
450654 | 14.5423 | 15.5858 | 16.3616 | 15.4967
450656 | 18.2606 | 18.5874 | 20.7824 | 19.2080
450658 | 17.2630 | 19.4139 | 19.2521 | 18.6539
450659 | 23.0108 | 22.9344 | 26.0224 | 24.0406
450661 | 18.9071 | 19.5504 | 20.0716 | 19.5103
450662 | 19.3152 | 20.7973 | 26.1213 | 22.0200
450665 | 16.1319 | 14.5158 | 15.8149 | 15.5054
450666 | 20.2549 | * | * | 20.2549
450668 | 21.0972 | 21.2002 | 24.0081 | 22.0964
450669 | 21.6746 | 22.5150 | 25.0200 | 23.1112
450670 | 20.2632 | 19.7696 | 19.7416 | 19.8975
450672 | 21.4927 | 23.2623 | 25.3111 | 23.3562
450673 | 13.7005 | 14.9115 | 16.8250 | 15.1732
450674 | 22.2426 | 21.9624 | 24.7431 | 23.0384
450675 | 21.4479 | 23.3954 | 24.8661 | 23.3355
450677 | 20.6556 | 21.7366 | 23.2841 | 21.9181
450678 | 24.1301 | 25.1841 | 28.1917 | 25.8918
450683 | 22.8699 | 22.1965 | 24.3566 | 23.1268
450684 | 21.9962 | 22.2380 | 23.8945 | 22.7570
450686 | 16.4632 | 17.4746 | 17.9181 | 17.2988
450688 | 20.1831 | 21.7691 | 21.7922 | 21.3124
450690 | 22.4707 | 27.2399 | 33.1576 | 27.0095
450694 | 18.1872 | 18.5520 | 21.4785 | 19.2847
450697 | 19.4949 | 19.4424 | 20.8952 | 19.9640
450698 | 15.4750 | 16.5111 | 18.1764 | 16.7102
450700 | 15.9050 | 14.2055 | 17.3457 | 15.8451
450702 | 21.3739 | 19.8094 | 22.2953 | 21.1028
450704 | 20.7987 | 18.1835 | * | 19.2723
450705 | 22.1809 | 18.7138 | 19.4435 | 19.9245
450706 | 22.0884 | 22.4329 | * | 22.2641
450709 | 22.1490 | 22.0123 | 23.4246 | 22.5690
450711 | 19.8581 | 20.8047 | 23.6594 | 21.4663
450712 | 15.9298 | 11.1086 | 18.4546 | 14.6487
450713 | 22.6986 | 23.6189 | 24.4002 | 23.6310
450715 | 22.5988 | 24.8068 | 14.9630 | 19.6234
450716 | 20.9074 | 20.8913 | 24.8614 | 22.2839
450717 | 20.6551 | 22.0243 | * | 21.3435
450718 | 22.1765 | 23.0051 | 23.6180 | 22.9900
450723 | 20.8213 | 22.0633 | 22.8048 | 21.9009
450724 | 20.3706 | 23.3799 | 19.6335 | 21.4203
450727 | 17.9172 | 24.6125 | 16.0843 | 19.3135
450728 | 19.8879 | 14.9265 | 10.3991 | 14.3301
450730 | 23.0054 | 24.5952 | 27.8476 | 25.3002
450733 | 20.2199 | 21.9921 | 23.8143 | 22.0738
450742 | 21.8392 | 22.8135 | 25.1295 | 23.3180
450743 | 19.6015 | 20.5017 | 23.6131 | 21.3065
450746 | 30.2657 | 14.6683 | 11.1672 | 15.8134
450747 | 20.3914 | 20.3870 | 21.5883 | 20.8604
450749 | 19.1678 | 18.7138 | 17.6324 | 18.4286
450750 | 13.8098 | * | * | 13.8098
450751 | 19.9995 | 19.8170 | 25.5869 | 21.1754
450754 | 16.7145 | 17.8497 | 17.9189 | 17.5560
450755 | 19.8743 | 20.0667 | 18.6084 | 19.5138
450757 | 14.9434 | 15.6425 | 17.2683 | 15.9355
450758 | 19.0221 | 22.6196 | 22.8713 | 21.5676
450760 | 19.2225 | 20.4209 | 23.2959 | 20.7991
450761 | 15.7681 | 14.6511 | 15.3222 | 15.2265
450763 | 18.6092 | 18.9713 | 19.8939 | 19.1937
450766 | 23.3879 | 25.4057 | 27.1863 | 25.3095
450769 | 18.4163 | 17.9879 | 18.3030 | 18.2402
450770 | 19.0183 | 20.0632 | 18.7369 | 19.2440
450771 | 21.8268 | 21.6946 | 22.9736 | 22.1610
450774 | 16.2948 | * | 21.7906 | 18.6936
450775 | 21.3504 | 22.6526 | 23.5785 | 22.5291
450776 | 14.1720 | 13.4263 | 14.6695 | 14.0866
450777 | 19.0380 | 18.3119 | 21.4240 | 19.6554
450779 | 21.6642 | 22.6216 | 27.8925 | 23.9052
450780 | 19.0914 | 20.0824 | 21.6549 | 20.3201
450788 | 19.6469 | 19.9817 | 21.4368 | 20.3148
450795 | 22.5753 | 27.0250 | 19.1371 | 22.4874
450796 | 19.2059 | 26.8539 | 19.9522 | 22.5780
450797 | 16.4923 | 20.2356 | 18.6839 | 18.3681
450801 | 17.9548 | 18.0598 | 19.7124 | 18.5711
450802 | 17.1435 | 18.2460 | * | 17.6977
450803 | 21.6653 | 37.0925 | 23.8343 | 26.2012
450804 | 19.0893 | 20.5225 | 22.7169 | 20.8248
450806 | * | 20.7906 | * | 20.7906
450807 | 13.4306 | 18.4410 | 16.8928 | 15.8881
450808 | 17.4917 | 18.1728 | 18.6555 | 18.1215
450809 | 19.7899 | 21.9845 | 23.1978 | 21.6113
450811 | 19.9168 | 21.6115 | 22.7583 | 21.5237
450813 | 14.5392 | 15.3780 | 21.7208 | 16.6296
450815 | 21.2741 | * | * | 21.2742
450819 | 16.5521 | * | * | 16.5521
450820 | 26.8348 | 24.6542 | 26.9120 | 26.1797
450822 | 22.8556 | 24.8702 | 26.7821 | 24.9818
450823 | * | 17.9756 | 13.0130 | 14.5379
450824 | * | 25.7488 | * | 25.7488
450825 | * | 16.0793 | 18.2159 | 17.2695
450827 | * | 20.1310 | 29.5838 | 24.8201
450828 | * | 19.2902 | 20.8735 | 20.1257
450829 | * | 14.7121 | 14.4463 | 14.5541
450830 | * | * | 23.0204 | 23.0205
450832 | * | * | 24.8572 | 24.8572
450833 | * | * | 18.3195 | 18.3196
450834 | * | * | 21.7217 | 21.7217
450835 | * | * | 24.2285 | 24.2285
450837 | * | * | 31.8430 | 31.8432
460001 | 22.2735 | 23.5485 | 24.8844 | 23.5856
460003 | 22.6289 | 22.9549 | 26.5141 | 23.9755
460004 | 21.7234 | 23.1289 | 24.3409 | 23.0686
460005 | 22.5252 | 23.0189 | 25.0063 | 23.5075
460006 | 21.0700 | 22.1648 | 23.4200 | 22.2290
460007 | 21.1922 | 22.0409 | 23.3603 | 22.2561
460008 | 19.1153 | 22.6808 | 24.8233 | 22.3133
460009 | 22.5295 | 23.1933 | 24.5865 | 23.4290
460010 | 22.4948 | 24.0907 | 25.1240 | 23.9360
460011 | 19.7674 | 25.3818 | 21.2634 | 21.8917
460013 | 20.1936 | 21.2360 | 23.1467 | 21.5125
460014 | 18.5370 | * | 22.5784 | 20.9623
460015 | 21.0470 | 22.4872 | 23.1068 | 22.2481
460016 | 21.9105 | 19.0910 | 18.7453 | 19.8107
460017 | 18.9929 | 19.0724 | 20.7789 | 19.6010
460018 | 17.0063 | 17.0385 | 16.7143 | 16.9128
460019 | 17.8690 | 19.3442 | 18.1995 | 18.4514
460020 | 17.2663 | 18.1542 | 15.2162 | 16.7463
460021 | 21.5174 | 23.1368 | 23.8565 | 22.9024
460022 | 21.3614 | 20.7539 | 21.8443 | 21.3226
460023 | 22.9265 | 24.1825 | 25.0874 | 24.0957
460025 | 17.3494 | 17.4070 | 22.3100 | 18.8099
460026 | 20.2576 | 21.1759 | 21.9316 | 21.1444
460027 | 22.2955 | 21.4833 | 22.7488 | 22.1620
460029 | 20.8366 | 23.7148 | 24.4379 | 23.0146
460030 | 17.1383 | 18.7655 | 21.2546 | 18.9564
460032 | 21.4832 | 21.0286 | 21.2715 | 21.2538
460033 | 19.2664 | 20.2389 | 21.7215 | 20.4433
460035 | 16.1685 | 15.6979 | 16.9657 | 16.2272
460036 | 23.4573 | 24.2651 | 23.9909 | 23.9286
460037 | 17.7399 | 19.0115 | 20.0323 | 18.9515
460039 | 24.4808 | 24.5134 | 26.3795 | 25.1512
460041 | 20.2035 | 21.6676 | 23.5132 | 21.8727
460042 | 19.5662 | 19.7531 | 22.0844 | 20.5371
460043 | 23.2819 | 25.1366 | 26.0277 | 24.8166
460044 | 21.8485 | 23.6604 | 24.7139 | 23.4328
460047 | 22.7524 | 23.5447 | 22.8135 | 23.0271
460049 | 20.8283 | 21.5241 | 21.9358 | 21.5104
460051 | 22.1758 | 21.8950 | 22.7540 | 22.2835
460052 | 19.8961 | 20.1989 | 23.1718 | 21.0691
460053 | * | * | 23.2273 | 23.2274
470001 | 21.3817 | 21.7774 | 23.5882 | 22.3065
470003 | 22.0563 | 23.3612 | 24.1739 | 23.1995
470004 | 18.1879 | 17.3576 | 18.4943 | 18.0068
470005 | 23.1808 | 22.6589 | 24.9625 | 23.6347
470006 | 20.2829 | 21.0835 | 21.6036 | 21.0098
470008 | 20.1969 | 20.3833 | 20.7659 | 20.4458
470010 | 21.0616 | 22.3913 | 23.2072 | 22.2567
470011 | 22.2415 | 24.1306 | 24.6034 | 23.6561
470012 | 18.9444 | 19.8831 | 20.5072 | 19.7941
470015 | 20.2125 | 21.8204 | 25.6286 | 22.6045
470018 | 21.2406 | 24.8493 | 21.2904 | 22.3634
470020 | 21.5688 | 21.9911 | 22.0333 | 21.8520
470023 | 21.7139 | 22.5334 | 24.1395 | 22.7760
470024 | 21.9807 | 23.2738 | 22.4659 | 22.5822
490001 | 20.0570 | 21.4952 | 22.1209 | 21.2627
490002 | 15.7365 | 16.5198 | 17.5098 | 16.5736
490003 | 20.3237 | 20.7688 | 20.9782 | 20.6753
490004 | 19.7074 | 20.7616 | 22.7571 | 21.0703
490005 | 21.3318 | 23.1708 | 25.2213 | 23.2687
490006 | 12.3253 | 19.8977 | 13.4277 | 15.2731
490007 | 19.8938 | 20.7896 | 22.2638 | 20.9786
490009 | 23.7659 | 24.7602 | 25.2181 | 24.6030
490011 | 19.8042 | 19.8179 | 19.9733 | 19.8664
490012 | 15.2965 | 16.0994 | 15.8346 | 15.7118
490013 | 18.2396 | 18.3901 | 19.5094 | 18.7096
490014 | 23.5266 | 27.8907 | * | 25.5759
490015 | 20.0667 | 21.4500 | 21.2557 | 20.9648
490017 | 19.3854 | 19.6594 | 20.7691 | 19.9104
490018 | 18.5508 | 19.8955 | 22.0810 | 20.2089
490019 | 21.0124 | 21.6790 | 23.3077 | 22.0282
490020 | 19.3424 | 20.9212 | 21.2094 | 20.4866
490021 | 20.0496 | 21.2263 | 22.2537 | 21.2008
490022 | 22.3380 | 24.3008 | 24.5122 | 23.7681
490023 | 21.5683 | 22.8400 | 24.9733 | 23.1948
490024 | 18.4314 | 19.7491 | 21.2619 | 19.8335
490027 | 16.7556 | 17.5178 | 20.3644 | 18.2452
490030 | 8.6446 | * | * | 8.6446
490031 | 16.0003 | 17.4262 | 18.4826 | 17.3314
490032 | 21.4037 | 22.2041 | 23.5691 | 22.3503
490033 | 19.2908 | 23.2088 | 24.4370 | 22.3633
490037 | 17.0113 | 17.2117 | 17.5103 | 17.2485
490038 | 17.6324 | 18.6012 | 18.1405 | 18.1142
490040 | 24.1266 | 25.5461 | 27.0513 | 25.6394
490041 | 18.7987 | 17.9942 | 19.9314 | 18.8986
490042 | 17.0972 | 18.1864 | 19.5127 | 18.3230
490043 | 22.1068 | 23.5367 | 25.4354 | 23.6479
490044 | 19.7842 | 18.4845 | 20.8739 | 19.7388
490045 | 20.5558 | 22.5238 | 24.7131 | 22.7244
490046 | 19.9102 | 19.8518 | 21.9164 | 20.5668
490047 | 18.7614 | 20.1660 | 19.8220 | 19.5730
490048 | 19.5417 | 20.9110 | 22.3255 | 20.9493
490050 | 23.3668 | 23.8519 | 26.1521 | 24.5290
490052 | 16.4787 | 18.5693 | 19.2480 | 18.1097
490053 | 16.8410 | 17.7363 | 18.6541 | 17.7531
490054 | 19.5780 | 22.5136 | 18.7738 | 20.4647
490057 | 20.3160 | 21.1871 | 22.1945 | 21.2773
490059 | 21.4801 | 24.1516 | 23.3895 | 22.9645
490060 | 18.5917 | 19.3525 | 20.6028 | 19.5408
490063 | 26.1930 | 28.0906 | 30.4267 | 28.2207
490066 | 19.8352 | 21.5920 | 22.1034 | 21.2122
490067 | 17.8487 | 18.6469 | 20.4058 | 18.9938
490069 | 20.7582 | 18.8335 | 20.6957 | 20.1008
490071 | 23.3511 | 24.1882 | 25.4677 | 24.4329
490073 | 26.0957 | * | 27.6711 | 26.9865
490075 | 19.2156 | 20.5801 | 22.3229 | 20.7337
490077 | 22.6504 | 21.9175 | 22.2643 | 22.2859
490079 | 17.7016 | 17.5839 | 19.2196 | 18.1709
490084 | 18.0555 | 18.9679 | 19.8598 | 18.9692
490085 | 17.6158 | 19.4261 | 20.6383 | 19.2465
490088 | 17.9141 | 19.1924 | 19.7646 | 18.9625
490089 | 18.2290 | 19.7936 | 21.1522 | 19.7626
490090 | 17.5799 | 19.2094 | 20.3015 | 19.0319
490091 | 25.0272 | 23.7493 | * | 24.4545
490092 | 16.4360 | 27.1805 | 23.8364 | 21.5391
490093 | 17.8275 | 19.1131 | 20.7412 | 19.2089
490094 | 22.3033 | 20.2020 | 21.9886 | 21.4787
490097 | 16.9518 | 16.6563 | 17.9929 | 17.2212
490098 | 16.0488 | 18.5133 | 19.7116 | 18.0649
490099 | 18.3985 | 19.2604 | 20.7724 | 19.4805
490101 | 23.5553 | 25.7804 | 28.5200 | 26.0299
490104 | 40.2529 | 17.1683 | 28.0286 | 24.6486
490105 | 21.4428 | 28.7831 | 40.6822 | 26.6520
490106 | 26.3821 | 31.8566 | 31.6541 | 29.5471
490107 | 22.9283 | 23.9962 | 26.5312 | 24.6073
490108 | 24.1232 | 24.8596 | 28.7277 | 25.7440
490109 | 25.9475 | 23.0609 | 28.0978 | 25.5419
490110 | 18.1561 | 18.8042 | 23.6080 | 20.0833
490111 | 17.8510 | 19.9552 | 19.4041 | 19.0697
490112 | 22.1162 | 23.2843 | 23.6028 | 23.0255
490113 | 23.9043 | 26.1840 | 28.0893 | 26.0992
490114 | 18.0359 | 18.8920 | 19.9725 | 18.9850
490115 | 16.8537 | 18.4499 | 19.9150 | 18.4166
490116 | 17.2040 | 18.2935 | 19.7007 | 18.4196
490117 | 14.7944 | 17.1723 | 15.6078 | 15.8681
490118 | 23.2022 | 24.2668 | 25.2230 | 24.2345
490119 | 18.6046 | 18.9535 | 20.0944 | 19.1567
490120 | 20.5777 | 20.6828 | 22.2389 | 21.1886
490122 | 23.8198 | 26.6681 | 27.3509 | 25.9831
490123 | 19.3056 | 20.0920 | 20.9506 | 20.1282
490124 | 21.3818 | 23.6526 | 21.3713 | 22.1870
490126 | 20.4294 | 19.0782 | 20.3266 | 19.9000
490127 | 16.5993 | 17.6437 | 17.8070 | 17.3281
490129 | 28.6868 | * | * | 28.6863
490130 | 17.6943 | 18.6406 | 18.6038 | 18.3141
490132 | 18.4671 | 19.1742 | 19.5850 | 19.0428
500001 | 24.4829 | 25.3478 | 25.8406 | 25.2431
500002 | 19.8476 | 22.9942 | * | 21.4076
500003 | 24.4333 | 25.1200 | 27.6238 | 25.7781
500005 | 24.3870 | 26.2066 | 29.9352 | 26.8369
500007 | 21.9911 | 24.7889 | * | 23.2199
500008 | 26.1737 | 27.2852 | 28.9380 | 27.5261
500011 | 24.6554 | 25.7263 | 27.6762 | 26.0196
500012 | 24.2799 | 24.5450 | 25.4367 | 24.7615
500014 | 24.0990 | 25.0490 | 27.4189 | 25.5343
500015 | 24.9923 | 25.9465 | 27.4387 | 26.1498
500016 | 24.9439 | 25.1227 | 27.7863 | 25.9574
500019 | 23.2054 | 23.5730 | 25.7691 | 24.2429
500021 | 27.6490 | 25.9403 | 26.4648 | 26.6119
500023 | 27.1025 | 32.3079 | 23.9513 | 27.3082
500024 | 26.6452 | 26.2113 | 27.2884 | 26.7211
500025 | 24.4825 | 27.3697 | 27.6755 | 26.4578
500026 | 26.9884 | 26.6108 | 28.7532 | 27.4597
500027 | 25.1125 | 27.7429 | 28.7063 | 27.2499
500028 | 18.9556 | 19.0261 | 19.9288 | 19.3024
500029 | 18.5042 | 19.3130 | 19.7750 | 19.2311
500030 | 26.3828 | 28.5297 | 29.0458 | 28.0229
500031 | 23.6099 | 25.8542 | 26.0740 | 25.1801
500033 | 22.5462 | 23.8994 | 25.4345 | 23.9873
500036 | 23.6333 | 25.1255 | 25.4753 | 24.7809
500037 | 21.4059 | 22.1774 | 23.3808 | 22.3148
500039 | 24.0007 | 25.4225 | 26.0196 | 25.1368
500041 | 25.4376 | 24.7070 | 24.9005 | 25.0014
500043 | 22.0466 | 24.1745 | 26.6451 | 24.4187
500044 | 24.2212 | 24.7816 | 27.0880 | 25.3901
500045 | 24.0526 | 24.6265 | 8.0818 | 14.8642
500048 | 20.3207 | 20.6333 | 22.9938 | 21.3649
500049 | 24.5997 | 26.5857 | 25.9142 | 25.6732
500050 | 22.6563 | 23.0804 | 25.0907 | 23.6590
500051 | 25.9447 | 26.7628 | 26.9538 | 26.5713
500053 | 22.8399 | 24.2492 | 25.7217 | 24.2895
500054 | 23.8089 | 25.7815 | 27.1634 | 25.6068
500055 | 23.8622 | 23.7988 | 25.3095 | 24.3502
500057 | 19.0479 | 20.5812 | 21.0357 | 20.2825
500058 | 24.1106 | 26.5679 | 27.2582 | 26.0406
500059 | 26.6270 | 25.3528 | 26.1943 | 26.0221
500060 | 28.3655 | 29.6030 | 32.2049 | 30.0629
500061 | 20.8624 | 24.5908 | 27.5845 | 24.2316
500062 | 19.0557 | 19.1685 | 20.9284 | 19.6775
500064 | 26.7000 | 27.5791 | 29.5696 | 27.9754
500065 | 23.5671 | 24.0966 | 26.5881 | 24.7506
500068 | 19.2638 | 20.9278 | 20.2336 | 20.1549
500069 | 21.4542 | 22.4158 | 24.2983 | 22.7883
500071 | 19.1428 | 22.3253 | 23.2071 | 21.4408
500072 | 25.2001 | 25.7734 | 27.5706 | 26.2080
500073 | 21.7698 | 22.5222 | 21.0414 | 21.7592
500074 | 19.5981 | 20.6120 | 21.9018 | 20.7646
500077 | 23.9410 | 24.5695 | 26.6614 | 25.0769
500079 | 23.1041 | 24.7946 | 27.1775 | 25.0691
500080 | 18.3883 | 18.8188 | 21.1121 | 19.4633
500084 | 24.4044 | 25.0556 | 26.3627 | 25.3208
500085 | 20.4517 | 20.7422 | 21.0707 | 20.7661
500086 | 22.8829 | 24.2556 | 25.9705 | 24.3779
500088 | 25.2478 | 26.4212 | 30.1689 | 27.0767
500089 | 19.7166 | 20.3478 | 21.0601 | 20.3618
500090 | 20.4429 | 21.7716 | * | 21.0547
500092 | 19.2028 | 20.3058 | 20.8601 | 20.1437
500094 | 15.7866 | 17.6625 | * | 16.7064
500096 | 23.3564 | 25.1135 | 25.9490 | 24.7500
500097 | 20.8774 | 21.4423 | 21.8841 | 21.3903
500098 | 15.2040 | 17.8453 | 17.1392 | 16.7726
500101 | 15.8000 | 19.8614 | * | 17.6277
500102 | 21.8963 | 23.1307 | * | 22.5307
500104 | 24.9389 | 24.7875 | 26.8007 | 25.5111
500106 | 19.1465 | 17.1066 | 21.5532 | 19.1127
500107 | 17.9489 | 17.4641 | 20.4959 | 18.5615
500108 | 28.6229 | 26.1609 | 27.6367 | 27.4719
500110 | 22.9775 | 23.5941 | 24.8448 | 23.8174
500118 | 24.8034 | 24.7875 | 26.1971 | 25.2739
500119 | 22.1192 | 23.9939 | 25.1576 | 23.7715
500122 | 23.5264 | 24.4462 | 22.2238 | 23.3778
500123 | 19.6646 | 21.7133 | 24.4350 | 21.6023
500124 | 23.7742 | 24.6591 | 26.2994 | 25.0718
500125 | 14.7910 | 15.6304 | 18.4512 | 16.1340
500129 | 25.4685 | 25.2082 | 27.1253 | 25.9641
500132 | 23.1822 | 21.9915 | 22.5293 | 22.5899
500134 | 17.2430 | 15.9791 | 25.9538 | 18.4162
500139 | 22.3053 | 23.7993 | 27.7067 | 24.5705
500141 | 29.9695 | 28.1014 | 28.1441 | 28.6426
500143 | 18.2570 | 18.7523 | 19.0982 | 18.7216
510001 | 20.0429 | 20.2514 | 21.4247 | 20.5803
510002 | 17.6392 | 19.1517 | 21.0299 | 19.3055
510005 | 13.8621 | 13.8641 | 14.7332 | 14.1611
510006 | 19.9609 | 19.9760 | 21.0214 | 20.3316
510007 | 21.6761 | 22.9326 | 23.1306 | 22.5933
510008 | 19.0513 | 19.9176 | 22.7595 | 20.6320
510012 | 15.6089 | 15.8596 | 16.7710 | 16.1127
510013 | 19.5798 | 18.3486 | 19.7937 | 19.2416
510015 | 16.7311 | 17.1595 | 17.9040 | 17.2636
510018 | 18.5358 | 18.3023 | 19.9490 | 18.9487
510020 | 14.1211 | 15.7512 | * | 14.9242
510022 | 21.5770 | 21.4336 | 22.0584 | 21.7005
510023 | 16.7777 | 17.6516 | 17.9267 | 17.4783
510024 | 18.7461 | 19.6521 | 20.7521 | 19.7179
510026 | 13.7952 | 14.8785 | 16.5389 | 14.9496
510027 | 18.5945 | 20.5222 | 19.8205 | 19.6589
510028 | 19.9208 | 22.4826 | 24.6543 | 22.2359
510029 | 18.4668 | 18.9000 | 19.8048 | 19.0629
510030 | 17.7603 | 19.2558 | 19.8220 | 18.9626
510031 | 18.6341 | 19.3049 | 20.5742 | 19.5716
510033 | 18.4718 | 19.6900 | 19.6921 | 19.3132
510035 | 18.3164 | 21.8290 | * | 20.0924
510036 | 13.8786 | 15.0266 | 14.0926 | 14.3186
510038 | 15.5576 | 15.9821 | 16.1016 | 15.8882
510039 | 17.1461 | 17.4002 | 17.6190 | 17.3855
510043 | 13.1308 | 14.4202 | 15.5857 | 14.3831
510046 | 18.5896 | 18.7424 | 19.2806 | 18.8709
510047 | 20.8101 | 21.2885 | 22.1953 | 21.4251
510048 | 17.1647 | 15.2886 | 16.3761 | 16.2789
510050 | 18.4036 | 18.3964 | 18.9990 | 18.5986
510053 | 17.5798 | 18.1046 | 18.1054 | 17.9357
510055 | 24.2133 | 25.6333 | 27.7422 | 25.8187
510058 | 18.4501 | 18.6025 | 20.1104 | 19.0814
510059 | 16.1044 | 17.3844 | 18.1544 | 17.1696
510061 | 14.1968 | 14.6774 | 14.8848 | 14.5883
510062 | 18.1588 | 19.7202 | 21.0482 | 19.6174
510067 | 17.3067 | 17.8816 | 18.0113 | 17.7501
510068 | 23.0452 | 19.4299 | 19.9056 | 20.6790
510070 | 18.7091 | 18.6226 | 20.0974 | 19.1353
510071 | 18.0278 | 18.8766 | 19.4029 | 18.7564
510072 | 15.9257 | 16.5279 | 18.4566 | 16.9820
510077 | 18.2947 | 20.4521 | 20.9153 | 19.8338
510080 | 16.3453 | 19.7131 | 21.5661 | 18.8545
510081 | 11.9701 | 10.4972 | * | 11.2092
510082 | 13.5946 | 16.0014 | 17.2891 | 15.5840
510084 | 13.5339 | 14.9683 | 16.1904 | 14.8887
510085 | 18.6227 | 19.0175 | 20.6364 | 19.4471
510086 | 14.2241 | 16.3413 | 16.3051 | 15.6167
510088 | 14.8854 | 16.2850 | 16.4373 | 15.8902
520002 | 19.6755 | 20.2691 | 21.9073 | 20.6570
520003 | 18.7956 | 18.7507 | 20.4234 | 19.3853
520004 | 20.4591 | 21.1549 | 22.6309 | 21.4055
520006 | 21.4884 | 22.4099 | 22.0238 | 21.9690
520007 | 18.4629 | 18.3959 | 19.4507 | 18.7649
520008 | 24.9395 | 24.4927 | 26.0931 | 25.2072
520009 | 21.4638 | 19.8142 | 20.5615 | 20.5741
520010 | 22.3311 | 25.5623 | 26.4047 | 24.7952
520011 | 21.5223 | 21.6945 | 22.7880 | 22.0154
520013 | 20.5944 | 22.1009 | 23.1173 | 21.9777
520014 | 18.0841 | 19.2760 | 20.4282 | 19.2712
520015 | 19.7672 | 21.0428 | 22.8094 | 21.2438
520016 | 18.4320 | 19.5656 | * | 18.9788
520017 | 19.4780 | 21.1409 | 21.7542 | 20.8166
520018 | 21.5279 | 22.1929 | 22.3315 | 22.0344
520019 | 20.9164 | 21.8870 | 22.6895 | 21.8682
520021 | 21.9531 | 22.8484 | 24.1284 | 23.0293
520024 | 14.4750 | 16.4879 | 17.5368 | 16.1948
520025 | 20.3838 | 21.9529 | 23.3835 | 21.9488
520026 | 20.8546 | 22.4779 | 25.0504 | 22.8714
520027 | 21.5868 | 22.1450 | 23.6595 | 22.5109
520028 | 22.5941 | 22.0333 | 24.3592 | 23.0143
520029 | 21.4197 | 21.5561 | 22.8724 | 21.9345
520030 | 21.6311 | 22.7239 | 23.9474 | 22.8336
520031 | 20.9875 | 21.2809 | 22.9721 | 21.7580
520032 | 21.1069 | 24.1092 | 22.7220 | 22.6429
520033 | 20.2520 | 21.0088 | 22.2650 | 21.1839
520034 | 20.4307 | 21.5275 | 18.8561 | 20.0847
520035 | 18.7135 | 19.8917 | 20.8563 | 19.8607
520037 | 21.6017 | 23.0801 | 25.0587 | 23.2977
520038 | 20.6130 | 21.4208 | 23.1036 | 21.7099
520039 | 23.3687 | 21.1719 | 22.9348 | 22.4321
520040 | 21.2023 | 23.0710 | 21.5671 | 21.9307
520041 | 18.4117 | 18.2997 | 22.6216 | 19.7373
520042 | 19.5466 | 20.6354 | 21.9935 | 20.7535
520044 | 19.1877 | 21.4913 | 22.7626 | 21.1506
520045 | 21.2427 | 21.9812 | 24.1624 | 22.4304
520047 | 20.3487 | 21.0370 | 22.5686 | 21.3314
520048 | 19.8926 | 20.3488 | 19.3461 | 19.8547
520049 | 20.1667 | 21.8271 | 22.7424 | 21.6003
520051 | 24.0460 | 23.4366 | 25.0827 | 24.1747
520053 | 18.0851 | 18.9512 | 20.8040 | 19.2839
520054 | 16.8363 | 16.6278 | 18.1045 | 17.2001
520057 | 19.8492 | 20.6959 | 20.4601 | 20.3548
520058 | 21.2500 | 23.6794 | 23.2907 | 22.7126
520059 | 21.5796 | 22.1618 | 24.1863 | 22.6609
520060 | 18.8232 | 20.3357 | 21.1271 | 20.1183
520062 | 19.7038 | 21.2865 | 23.7166 | 21.6639
520063 | 20.5262 | 21.2774 | 23.3037 | 21.7486
520064 | 22.0917 | 23.8181 | 21.6302 | 22.5247
520066 | 24.0087 | 25.4528 | 23.9212 | 24.4126
520068 | 19.6855 | 20.6112 | 21.4413 | 20.5790
520069 | 20.1770 | 21.7233 | 32.6484 | 21.3815
520070 | 19.4261 | 20.0096 | 22.0590 | 20.5199
520071 | 19.9866 | 22.0066 | 23.4832 | 21.8338
520074 | 20.9007 | 21.6636 | 21.9124 | 21.4827
520075 | 20.7301 | 22.1894 | 23.7322 | 22.2613
520076 | 19.5878 | 20.6155 | 22.2993 | 20.8518
520077 | 18.7119 | 18.1077 | * | 18.3984
520078 | 21.7545 | 21.7414 | 23.0727 | 22.1680
520083 | 23.5787 | 24.2401 | 25.3591 | 24.3864
520084 | 23.5446 | 21.8102 | 24.7909 | 23.3951
520087 | 20.7821 | 22.2579 | 22.8173 | 21.9819
520088 | 21.8931 | 22.3921 | 23.8938 | 22.6992
520089 | 22.1055 | 23.2335 | 24.4411 | 23.2699
520090 | 20.3645 | 20.9069 | 21.9482 | 21.0730
520091 | 20.9440 | 22.2218 | 19.2575 | 20.7952
520092 | 18.6248 | 19.7181 | 21.8662 | 20.1341
520094 | 20.6179 | 21.3082 | 22.3925 | 21.4517
520095 | 18.6425 | 21.9177 | 25.1402 | 21.7601
520096 | 20.6668 | 21.6803 | 21.2295 | 21.2059
520097 | 20.8016 | 22.2375 | 23.6512 | 22.2609
520098 | 23.4707 | 25.0055 | 25.5111 | 24.6770
520100 | 19.4788 | 20.5366 | 21.7072 | 20.6024
520101 | 19.9875 | 20.0164 | 19.5272 | 19.8623
520102 | 21.0138 | 22.3640 | 23.7739 | 22.4092
520103 | 20.1092 | 22.2765 | 23.5984 | 22.0082
520107 | 21.7907 | 23.8421 | 25.0837 | 23.5365
520109 | 19.7609 | 20.3208 | 20.0009 | 20.0293
520110 | 21.0055 | 22.3923 | 23.4435 | 22.3140
520111 | 17.7673 | 18.2744 | 26.9667 | 20.3598
520112 | 18.9577 | 17.6226 | 17.8738 | 18.0211
520113 | 21.8852 | 23.1852 | 24.2508 | 23.1332
520114 | 17.8476 | 18.5767 | 21.9848 | 19.3865
520115 | 19.2248 | 21.4279 | 23.4674 | 21.4477
520116 | 20.6922 | 22.2741 | 23.9066 | 22.2707
520117 | 18.3963 | 19.3653 | 21.9443 | 19.9279
520118 | 14.8626 | 13.9920 | * | 14.4086
520121 | 20.8492 | 20.9422 | 23.1869 | 21.6934
520122 | 16.9335 | 16.9905 | 18.8016 | 17.5509
520123 | 17.7986 | 19.8134 | 21.0426 | 19.6355
520124 | 17.9205 | 19.2621 | 21.1327 | 19.4570
520130 | 16.6873 | 18.8845 | 20.0277 | 18.5254
520131 | 20.2591 | 21.0400 | 22.4994 | 21.3057
520132 | 18.1630 | 18.2634 | 19.5140 | 18.6382
520134 | 18.8150 | 19.6881 | 20.8502 | 19.7907
520135 | 17.3476 | 18.1026 | 18.8254 | 18.0936
520136 | 20.9050 | 21.3966 | 22.9085 | 21.7252
520138 | 22.5599 | 23.1498 | 25.1434 | 23.6620
520139 | 21.4042 | 22.8070 | 23.7727 | 22.6778
520140 | 22.3671 | 22.5459 | 23.5622 | 22.8201
520142 | 21.9432 | 21.4120 | 24.1969 | 22.4917
520144 | 19.9120 | 20.5864 | 22.3985 | 20.9729
520145 | 18.7958 | 20.3461 | 25.0771 | 20.8014
520146 | 18.2370 | 18.6337 | 19.4025 | 18.7800
520148 | 19.1502 | 20.5075 | 22.4299 | 20.7682
520149 | 12.8928 | 13.8614 | * | 13.3481
520151 | 18.7070 | 19.3362 | 20.1995 | 19.4436
520152 | 22.5980 | 26.2402 | 21.1817 | 22.9787
520153 | 17.0863 | 18.5986 | 18.7375 | 18.1335
520154 | 19.5994 | 21.0486 | 23.2635 | 21.3043
520156 | 20.9638 | 20.7808 | 23.7157 | 21.8343
520157 | 19.6008 | 21.6821 | 23.1495 | 21.4552
520159 | 17.7649 | 21.8783 | * | 19.8043
520160 | 20.5154 | 21.5871 | 22.9475 | 21.7239
520161 | 20.1102 | 21.4038 | 22.1857 | 21.2456
520170 | 21.9857 | 23.0867 | 25.0744 | 23.3943
520171 | 18.0785 | 18.1844 | 11.2340 | 15.1101
520173 | 20.9209 | 23.2955 | 24.4722 | 22.8643
520177 | 24.0139 | 25.0908 | 27.5560 | 25.5340
520178 | 20.9010 | 23.1509 | 22.3193 | 22.0890
520189 | * | 22.0889 | 23.1658 | 22.6212
530002 | 21.0560 | 23.0582 | 23.8852 | 22.6216
530003 | 15.9523 | 17.1646 | * | 16.5866
530004 | 13.3788 | 17.4672 | * | 15.3173
530005 | 15.3255 | 18.4391 | 19.2049 | 17.7470
530006 | 19.1305 | 20.7661 | 21.3429 | 20.4783
530007 | 17.7897 | 18.5286 | 22.3309 | 19.6133
530008 | 19.0113 | 19.5386 | 21.8714 | 20.1106
530009 | 21.7795 | 23.5839 | 22.0451 | 22.4288
530010 | 13.9536 | 17.8687 | 21.7124 | 17.2974
530011 | 19.4606 | 19.9212 | 22.5720 | 20.6678
530012 | 21.1854 | 22.5084 | 22.4716 | 22.0976
530014 | 18.4900 | 20.0422 | 21.7314 | 20.1695
530015 | 23.4040 | 24.6527 | 25.3915 | 24.5334
530016 | 19.3205 | 20.3647 | 21.0666 | 20.2058
530017 | 17.7736 | 20.9408 | 19.5631 | 19.3707
530018 | 19.5986 | 20.1226 | * | 19.8663
530019 | 20.1097 | 18.1492 | * | 19.0248
530022 | 19.6136 | 19.7902 | 21.0631 | 20.1718
530023 | 20.0677 | 21.6352 | * | 20.8681
530025 | 22.0300 | 22.4816 | 25.4693 | 23.3672
530026 | 19.8969 | 20.9919 | 21.0733 | 20.6804
530027 | 25.5067 | * | * | 25.5069
530029 | 19.3361 | 20.3046 | 19.9692 | 19.8988
530031 | 20.1734 | 23.2766 | 16.8825 | 20.2555
530032 | 20.0132 | 20.9856 | 19.4450 | 20.0811
*Denotes wage data not available for the provider for that year.
**Based on the sum of the salaries and hours computed for Federal FYs 2002, 2003, and 2004.

Table 3A.—FY 2004 and 3-Year* Average Hourly Wage for Urban Areas
[*Based on the sum of the Salaries and Hours Computed for Federal Fiscal Years 2002, 2003, and 2004]
Urban area | FY 2004 average hourly wage | 3-Year average hourly wage
Abilene, TX | 18.8450 | 18.2266
Aguadilla, PR | 10.6399 | 10.5889
Akron, OH | 22.5797 | 22.3022
Albany, GA | 26.6004 | 24.9847
Albany-Schenectady-Troy, NY | 21.3352 | 20.4496
Albuquerque, NM | 23.1465 | 22.1931
Alexandria, LA | 19.8057 | 18.6706
Allentown-Bethlehem-Easton, PA | 23.5026 | 22.8687
Altoona, PA | 21.7576 | 21.1859
Amarillo, TX | 22.0107 | 20.8001
Anchorage, AK | 30.1827 | 29.0196
Ann Arbor, MI | 27.1674 | 25.8704
Anniston, AL | 19.9785 | 19.0507
Appleton-Oshkosh-Neenah, WI | 21.7216 | 21.0819
Arecibo, PR | 10.1377 | 10.1850
Asheville, NC | 23.8010 | 22.5969
Athens, GA | 23.7190 | 23.1681
Atlanta, GA | 24.6106 | 23.4279
Atlantic-Cape May, NJ | 26.6595 | 25.8131
Auburn-Opelika, AL | 20.9608 | 19.6182
Augusta-Aiken, GA-SC | 23.8679 | 23.3090
Austin-San Marcos, TX | 23.4418 | 22.4440
Bakersfield, CA | 24.2171 | 22.8241
Baltimore, MD | 24.4226 | 23.1526
Bangor, ME | 24.4261 | 22.6849
Barnstable-Yarmouth, MA | 31.6457 | 30.9398
Baton Rouge, LA | 20.3139 | 19.2932
Beaumont-Port Arthur, TX | 20.8687 | 19.6759
Bellingham, WA | 29.0458 | 28.0229
Benton Harbor, MI | 21.8083 | 20.8961
Bergen-Passaic, NJ | 28.6051 | 27.6355
Billings, MT | 21.8179 | 21.2445
Biloxi-Gulfport-Pascagoula, MS | 22.3087 | 20.4967
Binghamton, NY | 20.6972 | 19.6313
Birmingham, AL | 22.7049 | 21.2110
Bismarck, ND | 19.6799 | 18.6613
Bloomington,IN | 22.0106 | 20.8739
Bloomington-Normal, IL | 21.8206 | 21.0629
Boise City, ID | 22.7551 | 21.5706
Boston-Worcester-Lawrence-Lowell-Brockton, MA-NH | 27.6581 | 26.3949
Boulder-Longmont, CO | 24.8370 | 23.1361
Brazoria, TX | 20.1054 | 19.4362
Bremerton, WA | 26.0196 | 25.1368
Brownsville-Harlingen-San Benito, TX | 25.1120 | 21.8429
Bryan-College Station, TX | 22.1966 | 21.2204
Buffalo-Niagara Falls, NY | 23.5611 | 22.1052
Burlington, VT | 23.9756 | 23.1273
Caguas, PR | 10.2735 | 10.3098
Canton-Massillon, OH | 22.4034 | 21.0476
Casper, WY | 22.4716 | 22.0976
Cedar Rapids, IA | 21.9242 | 20.8155
Champaign-Urbana, IL | 24.3163 | 23.2596
Charleston-North Charleston, SC | 22.8428 | 21.6027
Charleston, WV | 21.4843 | 20.9535
Charlotte-Gastonia-Rock Hill, NC-SC | 23.9685 | 22.5648
Charlottesville, VA | 24.7694 | 24.2141
Chattanooga, TN-GA | 22.0529 | 21.2905
Cheyenne, WY | 21.7314 | 20.1695
Chicago, IL | 27.0271 | 25.7822
Chico-Paradise, CA | 25.1160 | 23.2448
Cincinnati, OH-KY-IN | 23.1946 | 22.0301
Clarksville-Hopkinsville, TN-KY | 20.4075 | 19.5286
Cleveland-Lorain-Elyria, OH | 23.8495 | 22.4215
Colorado Springs, CO | 21.6129 | 22.1293
Columbia, MO | 21.4630 | 20.1694
Columbia, SC | 21.9871 | 21.6143
Columbus, GA-AL | 21.3541 | 19.8797
Columbus, OH | 23.6823 | 22.5560
Corpus Christi, TX | 21.0218 | 19.9937
Corvallis, OR | 28.4536 | 27.0598
Cumberland, MD-WV | 20.1850 | 18.9617
Dallas, TX | 23.8893 | 23.1075
Danville, VA | 22.3229 | 20.7337
Davenport-Moline-Rock Island, IA-IL | 21.4787 | 20.4142
Dayton-Springfield, OH | 23.1119 | 21.7481
Daytona Beach, FL | 22.5989 | 21.2728
Decatur, AL | 21.8004 | 20.7771
Decatur, IL | 19.7294 | 18.7678
Denver, CO | 26.4474 | 24.7190
Des Moines, IA | 22.2079 | 20.6796
Detroit, MI | 24.7828 | 24.1254
Dothan, AL | 19.4261 | 18.7019
Dover, DE | 24.2251 | 22.9785
Dubuque, IA | 21.9559 | 20.4460
Duluth-Superior, MN-WI | 24.9669 | 24.0017
Dutchess County, NY | 26.9158 | 25.0907
Eau Claire, WI | 22.3936 | 21.0371
El Paso, TX | 22.7448 | 21.6387
Elkhart-Goshen, IN | 24.1721 | 22.8091
Elmira, NY | 20.6973 | 19.6769
Enid, OK | 21.1469 | 19.7375
Erie, PA | 21.1970 | 20.4552
Eugene-Springfield, OR | 28.3045 | 26.4658
Evansville, Henderson, IN-KY | 20.7198 | 19.5383
Fargo-Moorhead, ND-MN | 23.6839 | 22.0993
Fayetteville, NC | 21.9837 | 20.9595
Fayetteville-Springdale-Rogers, AR | 19.7281 | 19.1438
Flagstaff, AZ-UT | 28.0003 | 25.5509
Flint, MI | 26.8246 | 25.6472
Florence, AL | 19.0755 | 18.2277
Florence, SC | 21.5072 | 20.4490
Fort Collins-Loveland, CO | 25.0356 | 23.6228
Fort Lauderdale, FL | 25.0241 | 23.9929
Fort Myers-Cape Coral, FL | 24.2424 | 22.5718
Fort Pierce-Port St. Lucie, FL | 24.6789 | 23.4336
Fort Smith, AR-OK | 18.9977 | 18.4272
Fort Walton Beach, FL | 21.9145 | 21.5304
Fort Wayne, IN | 23.7450 | 22.1024
Fort Worth-Arlington, TX | 22.7469 | 21.8925
Fresno, CA | 24.9304 | 23.6658
Gadsden, AL | 20.3125 | 19.9081
Gainesville, FL | 20.9218 | 21.6396
Galveston-Texas City, TX | 22.9723 | 22.5896
Gary, IN | 23.2237 | 22.2411
Glens Falls, NY | 20.8876 | 19.5296
Goldsboro, NC | 21.3024 | 20.4707
Grand Forks, ND-MN | 21.3373 | 20.7295
Grand Junction, CO | 23.7749 | 22.3911
Grand Rapids-Muskegon-Holland, MI | 23.0656 | 22.5364
Great Falls, MT | 21.7634 | 20.7748
Greeley, CO | 23.1548 | 21.9595
Green Bay, WI | 23.3746 | 22.0316
Greensboro-Winston-Salem-High Point, NC | 20.9324 | 21.2497
Greenville, NC | 23.6131 | 21.8157
Greenville-Spartanburg-Anderson, SC | 22.7994 | 21.5334
Hagerstown, MD | 22.6614 | 20.9120
Hamilton-Middletown, OH | 22.6679 | 21.7796
Harrisburg-Lebanon-Carlisle, PA | 22.5260 | 21.6636
Hartford, CT | 27.9285 | 26.8084
Hattiesburg, MS | 17.9684 | 17.4987
Hickory-Morganton-Lenoir, NC | 22.3095 | 21.3983
Honolulu, HI | 27.4202 | 26.5871
Houma, LA | 19.0543 | 18.7854
Houston, TX | 23.5421 | 22.6783
Huntington-Ashland, WV-KY-OH | 23.6117 | 22.4903
Huntsville, AL | 22.6733 | 21.0476
Indianapolis, IN | 24.4154 | 22.8765
Iowa City, IA | 23.5738 | 22.6166
Jackson, MI | 22.1953 | 21.6761
Jackson, MS | 20.6436 | 19.8499
Jackson, TN | 21.1120 | 20.9308
Jacksonville, FL | 22.9896 | 21.8027
Jacksonville, NC | 21.0806 | 19.0573
Jamestown, NY | 19.1768 | 18.5426
Janesville-Beloit, WI | 22.9321 | 22.5285
Jersey City, NJ | 27.4955 | 26.1092
Johnson City-Kingsport-Bristol, TN-VA | 20.5450 | 19.6615
Johnstown, PA | 20.5535 | 19.7661
Jonesboro, AR | 18.8016 | 18.5268
Joplin, MO | 21.4481 | 20.3222
Kalamazoo-Battlecreek, MI | 25.9045 | 24.7622
Kankakee, IL | 27.1800 | 24.7161
Kansas City, KS-MO | 23.4414 | 22.4424
Kenosha, WI | 24.1159 | 22.6827
Killeen-Temple, TX | 22.6330 | 22.0648
Knoxville, TN | 22.0574 | 20.9173
Kokomo, IN | 22.3466 | 21.1444
La Crosse, WI-MN | 22.7241 | 21.7520
Lafayette, LA | 20.3031 | 19.7004
Lafayette, IN | 22.2163 | 21.3798
Lake Charles, LA | 20.8032 | 18.7394
Lakeland-Winter Haven, FL | 20.8790 | 20.9460
Lancaster, PA | 22.8876 | 21.5784
Lansing-East Lansing, MI | 22.7517 | 22.3069
Laredo, TX | 19.9917 | 19.1033
Las Cruces, NM | 20.9400 | 20.1778
Las Vegas, NV-AZ | 28.1201 | 26.6705
¹Lawrence, KS |  |
Lawton, OK | 20.4263 | 19.7110
Lewiston-Auburn, ME | 23.0437 | 21.7003
Lexington, KY | 21.1620 | 20.2378
Lima, OH | 23.2114 | 22.1607
Lincoln, NE | 24.7917 | 23.5197
Little Rock-North Little Rock, AR | 21.8575 | 20.9688
Longview-Marshall, TX | 22.4348 | 20.5074
Los Angeles-Long Beach, CA | 28.5648 | 27.6989
Louisville, KY-IN | 22.5165 | 21.7940
Lubbock, TX | 20.4449 | 20.4788
Lynchburg, VA | 22.5852 | 21.4509
Macon, GA | 22.1616 | 21.1692
Madison, WI | 25.1207 | 24.1736
Mansfield, OH | 22.2335 | 20.8233
Mayaguez, PR | 11.7315 | 11.3138
McAllen-Edinburg-Mission, TX | 22.2965 | 20.2067
Medford-Ashland, OR | 26.6156 | 24.7374
Melbourne-Titusville-Palm Bay, FL | 24.0574 | 23.3611
Memphis, TN-AR-MS | 22.8875 | 21.1855
Merced, CA | 23.9422 | 23.0370
Miami, FL | 24.2692 | 23.0684
Middlesex-Somerset-Hunterdon, NJ | 28.0716 | 26.5525
Milwaukee-Waukesha, WI | 24.2703 | 23.1731
Minneapolis-St. Paul, MN-WI | 27.1544 | 25.6571
Missoula, MT | 21.5392 | 21.2648
Mobile, AL | 19.5085 | 18.7864
Modesto, CA | 27.8424 | 25.5333
Monmouth-Ocean, NJ | 26.9085 | 25.3164
Monroe, LA | 19.5806 | 18.9433
Montgomery, AL | 19.2813 | 17.8049
Muncie, IN | 21.4993 | 21.7481
Myrtle Beach, SC | 21.9670 | 20.8646
Naples, FL | 24.2154 | 22.8672
Nashville, TN | 24.1409 | 22.7215
Nassau-Suffolk, NY | 31.9339 | 31.1765
New Haven-Bridgeport-Stamford-Waterbury-Danbury, CT | 30.6450 | 28.9030
New London-Norwich, CT | 28.7588 | 27.3098
New Orleans, LA | 22.5126 | 21.2103
New York, NY | 34.0359 | 33.2980
Newark, NJ | 28.0215 | 26.7812
Newburgh, NY-PA | 27.7682 | 26.3667
Norfolk-Virginia Beach-Newport News, VA-NC | 21.2530 | 20.1058
Oakland, CA | 36.9259 | 35.4131
Ocala, FL | 24.0225 | 22.3877
Odessa-Midland, TX | 23.1872 | 22.5143
Oklahoma City, OK | 22.1744 | 20.7685
Olympia, WA | 27.0728 | 25.9774
Omaha, NE-IA | 23.9161 | 22.9252
Orange County, CA | 27.5748 | 26.3219
Orlando, FL | 23.5921 | 22.5423
Owensboro, KY | 20.6888 | 19.5760
Panama City, FL | 21.2992 | 20.7203
Parkersburg-Marietta, WV-OH | 19.8623 | 19.0009
Pensacola, FL | 20.6255 | 19.7879
Peoria-Pekin, IL | 21.5796 | 20.4881
Philadelphia, PA-NJ | 26.8676 | 25.3554
Phoenix-Mesa, AZ | 25.0656 | 23.1490
Pine Bluff, AR | 18.7641 | 18.2815
Pittsburgh, PA | 21.5682 | 21.5505
Pittsfield, MA | 25.2831 | 23.9826
Pocatello, ID | 22.3412 | 21.7279
Ponce, PR | 11.6867 | 11.7774
Portland, ME | 24.5068 | 22.7835
Portland-Vancouver, OR-WA | 27.4708 | 25.7362
Providence-Warwick, RI | 27.0592 | 25.4242
Provo-Orem, UT | 24.6487 | 23.2777
Pueblo, CO | 21.6891 | 20.4756
Punta Gorda, FL | 23.3618 | 21.6509
Racine, WI | 21.8176 | 21.4880
Raleigh-Durham-Chapel Hill, NC | 24.7888 | 23.2945
Rapid City, SD | 21.7579 | 20.7364
Reading, PA | 22.1933 | 21.7267
Redding, CA | 28.0292 | 26.2652
Reno, NV | 26.3682 | 24.8415
Richland-Kennewick-Pasco, WA | 26.0849 | 25.7185
Richmond-Petersburg, VA | 23.0767 | 22.2287
Riverside-San Bernardino, CA | 27.7914 | 26.2909
Roanoke, VA | 21.4970 | 20.0809
Rochester, MN | 28.9664 | 27.6257
Rochester, NY | 23.4531 | 22.1985
Rockford, IL | 23.8815 | 22.2381
Rocky Mount, NC | 22.2321 | 21.3362
Sacramento, CA | 29.2332 | 27.4459
Saginaw-Bay City-Midland, MI | 23.6103 | 22.4738
St. Cloud, MN | 23.3992 | 22.6517
¹ St. Joseph, MO | 24.1078 | 24.1078
St. Louis, MO-IL | 22.2105 | 20.8148
Salem, OR | 25.8986 | 24.0695
Salinas, CA | 35.4282 | 34.0968
Salt Lake City-Ogden, UT | 24.2956 | 23.1582
San Angelo, TX | 20.3421 | 19.4654
San Antonio, TX | 21.7859 | 20.4173
San Diego, CA | 27.5034 | 26.1832
San Francisco, CA | 35.2175 | 33.1623
San Jose, CA | 35.9382 | 33.4495
San Juan-Bayamon, PR | 12.0353 | 11.2034
San Luis Obispo-Atascadero-Paso Robles, CA | 28.1871 | 26.3232
Santa Barbara-Santa Maria-Lompoc, CA | 25.7977 | 24.7645
Santa Cruz-Watsonville, CA | 31.9363 | 31.6115
Santa Fe, NM | 26.1125 | 24.6586
Santa Rosa, CA | 31.5034 | 30.3104
Sarasota-Bradenton, FL | 24.1015 | 22.8397
Savannah, GA | 23.4542 | 22.5461
Scranton-Wilkes Barre-Hazleton, PA | 20.5178 | 19.9473
Seattle-Bellevue-Everett, WA | 28.3651 | 26.8159
Sharon, PA | 19.1498 | 18.3866
Sheboygan, WI | 21.3074 | 20.1274
Sherman-Denison, TX | 23.3354 | 21.9733
Shreveport-Bossier City, LA | 22.4424 | 21.1518
Sioux City, IA-NE | 22.2184 | 20.9019
Sioux Falls, SD | 22.9990 | 21.6460
South Bend, IN | 24.2656 | 23.1221
Spokane, WA | 26.9242 | 25.3258
Springfield, IL | 22.0988 | 20.5053
Springfield, MO | 20.7882 | 19.8503
Springfield, MA | 25.1820 | 24.9487
State College, PA | 21.5944 | 20.9171
Steubenville-Weirton, OH-WV | 20.7491 | 20.1726
Stockton-Lodi, CA | 25.9615 | 24.8099
Sumter, SC | 20.1378 | 18.9286
Syracuse, NY | 23.2731 | 22.4502
Tacoma, WA | 25.0655 | 25.4358
Tallahassee, FL | 20.9393 | 19.9194
Tampa-St. Petersburg-Clearwater, FL | 22.3623 | 21.0795
Terre Haute, IN | 20.5894 | 19.8434
Texarkana, AR-Texarkana, TX | 20.1201 | 19.1440
Toledo, OH | 23.4422 | 22.6911
Topeka, KS | 22.1410 | 21.1325
Trenton, NJ | 25.9088 | 24.4803
Tucson, AZ | 21.9871 | 20.8658
Tulsa, OK | 22.4262 | 20.4923
Tuscaloosa, AL | 20.2222 | 19.1231
Tyler, TX | 21.5724 | 21.7219
Utica-Rome, NY | 20.8155 | 19.7105
Vallejo-Fairfield-Napa, CA | 33.0023 | 31.4386
Ventura, CA | 25.7022 | 25.3153
Victoria, TX | 19.8941 | 19.6059
Vineland-Millville-Bridgeton, NJ | 25.7088 | 24.0750
Visalia-Tulare-Porterville, CA | 24.2540 | 22.5528
Waco, TX | 20.7383 | 19.2135
Washington, DC-MD-VA-WV | 26.2793 | 25.3284
Waterloo-Cedar Falls, IA | 20.6706 | 19.0431
Wausau, WI | 23.9474 | 22.8336
West Palm Beach-Boca Raton, FL | 24.0146 | 22.9860
Wheeling, OH-WV | 18.4694 | 18.0317
Wichita, KS | 22.8265 | 22.1175
Wichita Falls, TX | 20.6347 | 19.2942
Williamsport, PA | 19.8237 | 19.6398
Wilmington-Newark, DE-MD | 26.8874 | 25.7166
Wilmington, NC | 23.5730 | 22.3755
Yakima, WA | 25.3298 | 24.5057
Yolo, CA | 22.7290 | 22.1106
York, PA | 22.3891 | 21.4937
Youngstown-Warren, OH | 22.7587 | 21.9477
Yuba City, CA | 25.1911 | 24.0864
Yuma, AZ | 21.9766 | 20.7166
¹ The MSA is empty for FY 2004. The hospital(s) in the MSA received rural status under section 401 of the Balanced Budget Refinement Act of 1999 (Pub. L. 106-113). The MSA is assigned the statewide rural wage index (see Table 4B).

Table 3B.—FY 2004 and 3-Year* Average Hourly Wage for Rural Areas
[*Based on the sum of the Salaries and Hours Computed for Federal Fiscal Years 2002, 2003, and 2004]
Nonurban area | FY 2004 average hourly wage | 3-Year average hourly wage
Alabama | 18.3348 | 17.4929
Alaska | 29.3667 | 28.1193
Arizona | 22.1917 | 20.4444
Arkansas | 19.0502 | 17.8283
California | 24.5014 | 22.9050
Colorado | 22.3036 | 20.8977
Connecticut | 29.9411 | 28.5998
Delaware | 22.7759 | 21.8259
Florida | 21.7703 | 20.5939
Georgia | 20.6405 | 19.3893
Hawaii | 24.6034 | 24.3938
Idaho | 22.1883 | 20.5704
Illinois | 20.4777 | 19.1094
Indiana | 21.6124 | 20.4406
Iowa | 20.7491 | 19.3057
Kansas | 19.7860 | 18.4560
Kentucky | 19.5747 | 18.6825
Louisiana | 18.3330 | 17.5766
Maine | 22.1139 | 20.6732
Maryland | 22.5202 | 21.0708
Massachusetts | 26.6580 | 26.1016
Michigan | 21.6556 | 20.8571
Minnesota | 22.9622 | 21.3937
Mississippi | 19.2263 | 17.9212
Missouri | 19.2927 | 18.4558
Montana | 21.6718 | 20.0795
Nebraska | 21.7533 | 19.3579
Nevada | 24.0509 | 22.6017
New Hampshire | 24.8141 | 23.0661
¹ New Jersey |  |
New Mexico | 20.3060 | 20.0956
New York | 21.0328 | 19.9757
North Carolina | 20.5716 | 19.9126
North Dakota | 19.2168 | 18.1538
Ohio | 21.6481 | 20.3023
Oklahoma | 18.6273 | 17.6874
Oregon | 24.6521 | 23.6537
Pennsylvania | 20.7089 | 19.8599
Puerto Rico | 10.2273 | 9.9080
¹ Rhode Island |  |
South Carolina | 20.8645 | 19.9708
South Dakota | 20.2488 | 18.5076
Tennessee | 19.5008 | 18.5022
Texas | 18.9842 | 18.1045
Utah | 22.1698 | 21.3594
Vermont | 22.9948 | 21.9226
Virginia | 20.9873 | 19.7038
Washington | 25.9055 | 23.9310
West Virginia | 19.7553 | 18.7353
Wisconsin | 22.6498 | 21.3482
Wyoming | 22.6090 | 20.9331
¹ All counties within the State are classified as urban.

Table 4A.—Wage Index and Capital Geographic Adjustment Factor (GAF) for Urban Areas
Urban area (Constituent counties) | Wage index | GAF
0040 1Abilene, TX | 0.7678 | 0.8345
Taylor, TX
0060 Aguadilla, PR | 0.4335 | 0.5642
Aguada, PR
Aguadilla, PR
Moca, PR
0080 Akron, OH | 0.9445 | 0.9617
Portage, OH
Summit, OH
0120 Albany, GA | 1.0838 | 1.0567
Dougherty, GA
Lee, GA
0160 Albany-Schenectady-Troy, NY | 0.8693 | 0.9085
Albany, NY
Montgomery, NY
Rensselaer, NY
Saratoga, NY
Schenectady, NY
Schoharie, NY
0200 Albuquerque, NM | 0.9431 | 0.9607
Bernalillo, NM
Sandoval, NM
Valencia, NM
0220 Alexandria, LA | 0.8087 | 0.8647
Rapides, LA
0240 Allentown-Bethlehem-Easton, PA | 0.9576 | 0.9708
Carbon, PA
Lehigh, PA
Northampton, PA
0280 Altoona, PA | 0.8886 | 0.9223
Blair, PA
0320 Amarillo, TX | 0.8968 | 0.9281
Potter, TX
Randall, TX
0380 Anchorage, AK | 1.2433 | 1.1608
Anchorage, AK
0440 Ann Arbor, MI | 1.1069 | 1.0720
Lenawee, MI
Livingston, MI
Washtenaw, MI
0450 Anniston, AL | 0.8140 | 0.8686
Calhoun, AL
0460 ² Appleton-Oshkosh-Neenah, WI | 0.9130 | 0.9396
Calumet, WI
Outagamie, WI
Winnebago, WI
0470 Arecibo, PR | 0.4130 | 0.5458
Arecibo, PR
Camuy, PR
Hatillo, PR
0480 Asheville, NC | 0.9697 | 0.9792
Buncombe, NC
Madison, NC
0500 Athens, GA | 0.9664 | 0.9769
Clarke, GA
Madison, GA
Oconee, GA
0520 ¹ Atlanta, GA | 1.0027 | 1.0018
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.0862 | 1.0583
Atlantic, NJ
Cape May, NJ
0580 Auburn-Opelika, AL | 0.8540 | 0.8976
Lee, AL
0600 Augusta-Aiken, GA-SC | 0.9725 | 0.9811
Columbia, GA
McDuffie, GA
Richmond, GA
Aiken, SC
Edgefield, SC
0640 ¹ Austin-San Marcos, TX | 0.9551 | 0.9690
Bastrop, TX
Caldwell, TX
Hays, TX
Travis, TX
Williamson, TX
0680 ² Bakersfield, CA | 0.9907 | 0.9936
Kern, CA
0720 ¹ Baltimore, MD | 0.9951 | 0.9966
Anne Arundel, MD
Baltimore, MD
Baltimore City, MD
Carroll, MD
Harford, MD
Howard, MD
Queen Anne's, MD
0733 Bangor, ME | 0.9750 | 0.9828
Penobscot, ME
0743 Barnstable-Yarmouth, MA | 1.2893 | 1.1901
Barnstable, MA
0760 Baton Rouge, LA | 0.8271 | 0.8781
Ascension, LA
East Baton Rouge, LA
Livingston, LA
West Baton Rouge, LA
0840 Beaumont-Port Arthur, TX | 0.8503 | 0.8949
Hardin, TX
Jefferson, TX
Orange, TX
0860 Bellingham, WA | 1.1834 | 1.1222
Whatcom, WA
0870 Benton Harbor, MI | 0.8949 | 0.9268
Berrien, MI
0875 ¹ Bergen-Passaic, NJ | 1.1655 | 1.1106
Bergen, NJ
Passaic, NJ
0880 Billings, MT | 0.8889 | 0.9225
Yellowstone, MT
0920 Biloxi-Gulfport-Pascagoula, MS | 0.9089 | 0.9367
Hancock, MS
Harrison, MS
Jackson, MS
0960 ² Binghamton, NY | 0.8530 | 0.8968
Broome, NY
Tioga, NY
1000 Birmingham, AL | 0.9251 | 0.9481
Blount, AL
Jefferson, AL
St. Clair, AL
Shelby, AL
1010 Bismarck, ND | 0.8101 | 0.8657
Burleigh, ND
Morton, ND
1020 Bloomington, IN | 0.8968 | 0.9281
Monroe, IN
1040 Bloomington-Normal, IL | 0.8954 | 0.9271
McLean, IL
1080 Boise City, ID | 0.9295 | 0.9512
Ada, ID
Canyon, ID
1123 ¹ Boston-Worcester-Lawrence-Lowell-Brockton, MA-NH | 1.1269 | 1.0853
Bristol, MA
Essex, MA
Middlesex, MA
Norfolk, MA
Plymouth, MA
Suffolk, MA
Worcester, MA
Hillsborough, NH
Merrimack, NH
Rockingham, NH
Strafford, NH
1125 Boulder-Longmont, CO | 1.0119 | 1.0081
Boulder, CO
1145 Brazoria, TX | 0.8324 | 0.8819
Brazoria, TX
1150 Bremerton, WA | 1.0601 | 1.0408
Kitsap, WA
1240 Brownsville-Harlingen-San Benito, TX | 1.0231 | 1.0158
Cameron, TX
1260 Bryan-College Station, TX | 0.9044 | 0.9335
Brazos, TX
1280 ¹ Buffalo-Niagara Falls, NY | 0.9600 | 0.9724
Erie, NY
Niagara, NY
1303 Burlington, VT | 0.9768 | 0.9841
Chittenden, VT
Franklin, VT
Grand Isle, VT
1310 Caguas, PR | 0.4229 | 0.5547
Caguas, PR
Cayey, PR
Cidra, PR
Gurabo, PR
San Lorenzo, PR
1320 Canton-Massillon, OH | 0.9128 | 0.9394
Carroll, OH
Stark, OH
1350 Casper, WY | 0.9239 | 0.9472
Natrona, WY
1360 Cedar Rapids, IA | 0.8933 | 0.9256
Linn, IA
1400 Champaign-Urbana, IL | 0.9907 | 0.9936
Champaign, IL
1440 Charleston-North Charleston, SC | 0.9307 | 0.9520
Berkeley, SC
Charleston, SC
Dorchester, SC
1480 Charleston, WV | 0.8753 | 0.9128
Kanawha, WV
Putnam, WV
1520 ¹ Charlotte-Gastonia-Rock Hill, NC-SC | 0.9766 | 0.9839
Cabarrus, NC
Gaston, NC
Lincoln, NC
Mecklenburg, NC
Rowan, NC
Stanly, NC
Union, NC
York, SC
1540 Charlottesville, VA | 1.0092 | 1.0063
Albemarle, VA
Charlottesville City, VA
Fluvanna, VA
Greene, VA
1560 Chattanooga, TN-GA | 0.8985 | 0.9293
Catoosa, GA
Dade, GA
Walker, GA
Hamilton, TN
Marion, TN
1580 ² Cheyenne, WY | 0.9137 | 0.9401
Laramie, WY
1600 ¹ Chicago, IL | 1.1012 | 1.0682
Cook, IL
DeKalb, IL
DuPage, IL
Grundy, IL
Kane, IL
Kendall, IL
Lake, IL
McHenry, IL
Will, IL
1620 Chico-Paradise, CA | 1.0147 | 1.0100
Butte, CA
1640 ¹ Cincinnati, OH-KY-IN | 0.9452 | 0.9621
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8410 | 0.8882
Christian, KY
Montgomery, TN
1680¹ Cleveland-Lorain-Elyria, OH | 0.9686 | 0.9784
Ashtabula, OH
Cuyahoga, OH
Geauga, OH
Lake, OH
Lorain, OH
Medina, OH
1720 ² Colorado Springs, CO | 0.8897 | 0.9231
El Paso, CO
1740 Columbia, MO | 0.8745 | 0.9123
Boone, MO
1760 Columbia, SC | 0.8958 | 0.9274
Lexington, SC
Richland, SC
1800 Columbus, GA-AL | 0.8700 | 0.9090
Russell, AL
Chattahoochee, GA
Harris, GA
Muscogee, GA
1840 ¹ Columbus, OH | 0.9649 | 0.9758
Delaware, OH
Fairfield, OH
Franklin, OH
Licking, OH
Madison, OH
Pickaway, OH
1880 Corpus Christi, TX | 0.8565 | 0.8994
Nueces, TX
San Patricio, TX
1890 Corvallis, OR | 1.1593 | 1.1065
Benton, OR
1900 ² Cumberland, MD-WV (MD Hospitals) | 0.9175 | 0.9427
Allegany, MD
Mineral, WV
1900 Cumberland, MD-WV (WV Hospitals) | 0.8224 | 0.8747
Allegany, MD
Mineral, WV
1920 ¹ Dallas, TX | 0.9733 | 0.9816
Collin, TX
Dallas, TX
Denton, TX
Ellis, TX
Henderson, TX
Hunt, TX
Kaufman, TX
Rockwall, TX
1950 Danville, VA | 0.9095 | 0.9371
Danville City, VA
Pittsylvania, VA
1960 Davenport-Moline-Rock Island, IA-IL | 0.8727 | 0.9110
Scott, IA
Henry, IL
Rock Island, IL
2000 Dayton-Springfield, OH | 0.9432 | 0.9607
Clark, OH
Greene, OH
Miami, OH
Montgomery, OH
2020 Daytona Beach, FL | 0.9208 | 0.9451
Flagler, FL
Volusia, FL
2030 Decatur, AL | 0.8882 | 0.9220
Lawrence, AL
Morgan, AL
2040 ² Decatur, IL | 0.8282 | 0.8789
Macon, IL
2080 ¹ Denver, CO | 1.0776 | 1.0525
Adams, CO
Arapahoe, CO
Broomfield, CO
Denver, CO
Douglas, CO
Jefferson, CO
2120 Des Moines, IA | 0.9053 | 0.9341
Dallas, IA
Polk, IA
Warren, IA
2160 ¹ Detroit, MI | 1.0097 | 1.0066
Lapeer, MI
Macomb, MI
Monroe, MI
Oakland, MI
St. Clair, MI
Wayne, MI
2180 Dothan, AL | 0.7931 | 0.8532
Dale, AL
Houston, AL
2190 Dover, DE | 0.9870 | 0.9911
Kent, DE
2200 Dubuque, IA | 0.8946 | 0.9266
Dubuque, IA
2240 Duluth-Superior, MN-WI | 1.0133 | 1.0091
St. Louis, MN
Douglas, WI
2281 Dutchess County, NY | 1.0966 | 1.0652
Dutchess, NY
2290 Eau Claire, WI | 0.9141 | 0.9403
Chippewa, WI
Eau Claire, WI
2320 El Paso, TX | 0.9267 | 0.9492
El Paso, TX
2330 Elkhart-Goshen, IN | 0.9848 | 0.9896
Elkhart, IN
2335 ² Elmira, NY | 0.8530 | 0.8968
Chemung, NY
2340 Enid, OK | 0.8616 | 0.9030
Garfield, OK
2360 Erie, PA | 0.8636 | 0.9045
Erie, PA
2400 Eugene-Springfield, OR | 1.1212 | 1.0815
Lane, OR
2440 ² Evansville-Henderson, IN-KY (IN Hospitals) | 0.8770 | 0.9140
Posey, IN
Vanderburgh, IN
Warrick, IN
Henderson, KY
2440 Evansville-Henderson, IN-KY (KY Hospitals) | 0.8442 | 0.8905
Posey, IN
Vanderburgh, IN
Warrick, IN
Henderson, KY
2520 Fargo-Moorhead, ND-MN | 0.9650 | 0.9759
Clay, MN
Cass, ND
2560 Fayetteville, NC | 0.8957 | 0.9273
Cumberland, NC
2580 Fayetteville-Springdale-Rogers, AR | 0.8038 | 0.8611
Benton, AR
Washington, AR
2620 Flagstaff, AZ-UT | 1.1283 | 1.0862
Coconino, AZ
Kane, UT
2640 Flint, MI | 1.0929 | 1.0627
Genesee, MI
2650 Florence, AL | 0.7824 | 0.8453
Colbert, AL
Lauderdale, AL
2655 Florence, SC | 0.8763 | 0.9135
Florence, SC
2670 Fort Collins-Loveland, CO | 1.0201 | 1.0137
Larimer, CO
2680 ¹ Ft. Lauderdale, FL | 1.0534 | 1.0363
Broward, FL
2700 Fort Myers-Cape Coral, FL | 0.9877 | 0.9916
Lee, FL
2710 Fort Pierce-Port St. Lucie, FL | 1.0227 | 1.0155
Martin, FL
St. Lucie, FL
2720 ² Fort Smith, AR-OK (AR Hospitals) | 0.7746 | 0.8395
Crawford, AR
Sebastian, AR
Sequoyah, OK
2720 Fort Smith, AR-OK (OK Hospitals) | 0.7740 | 0.8391
Crawford, AR
Sebastian, AR
Sequoyah, OK
2750 Fort Walton Beach, FL | 0.8929 | 0.9254
Okaloosa, FL
2760 Fort Wayne, IN | 0.9674 | 0.9776
Adams, IN
Allen, IN
De Kalb, IN
Huntington, IN
Wells, IN
Whitley, IN
2800 ¹ Forth Worth-Arlington, TX | 0.9268 | 0.9493
Hood, TX
Johnson, TX
Parker, TX
Tarrant, TX
2840 Fresno, CA | 1.0157 | 1.0107
Fresno, CA
Madera, CA
2880 Gadsden, AL | 0.8295 | 0.8798
Etowah, AL
2900 ² Gainesville, FL | 0.8782 | 0.9149
Alachua, FL
2920 Galveston-Texas City, TX | 0.9360 | 0.9557
Galveston, TX
2960 Gary, IN | 0.9462 | 0.9628
Lake, IN
Porter, IN
2975 ² Glens Falls, NY | 0.8530 | 0.8968
Warren, NY
Washington, NY
2980 Goldsboro, NC | 0.8679 | 0.9075
Wayne, NC
2985 Grand Forks, ND-MN (ND Hospitals) | 0.9031 | 0.9326
Polk, MN
Grand Forks, ND
2985 ² Grand Forks, ND-MN (MN Hospitals) | 0.9243 | 0.9475
Polk, MN
Grand Forks, ND
2995 Grand Junction, CO | 0.9940 | 0.9959
Mesa, CO
3000 ¹ Grand Rapids-Muskegon-Holland, MI | 0.9406 | 0.9589
Allegan, MI
Kent, MI
Muskegon, MI
Ottawa, MI
3040 Great Falls, MT | 0.8977 | 0.9288
Cascade, MT
3060 Greeley, CO | 0.9516 | 0.9666
Weld, CO
3080 Green Bay, WI | 0.9524 | 0.9672
Brown, WI
3120 ¹ Greensboro-Winston-Salem-High Point, NC | 0.8533 | 0.8971
Alamance, NC
Davidson, NC
Davie, NC
Forsyth, NC
Guilford, NC
Randolph, NC
Stokes, NC
Yadkin, NC
3150 Greenville, NC | 0.9621 | 0.9739
Pitt, NC
3160 Greenville-Spartanburg-Anderson, SC | 0.9289 | 0.9507
Anderson, SC
Cherokee, SC
Greenville, SC
Pickens, SC
Spartanburg, SC
3180 Hagerstown, MD | 0.9233 | 0.9468
Washington, MD
3200 Hamilton-Middletown, OH | 0.9236 | 0.9470
Butler, OH
3240 Harrisburg-Lebanon-Carlisle, PA | 0.9178 | 0.9430
Cumberland, PA
Dauphin, PA
Lebanon, PA
Perry, PA
3283 \1,2\ Hartford, CT | 1.2199 | 1.1458
Hartford, CT
Litchfield, CT
Middlesex, CT
Tolland, CT
3285 ² Hattiesburg, MS | 0.7810 | 0.8443
Forrest, MS
Lamar, MS
3290 Hickory-Morganton-Lenoir, NC | 0.9090 | 0.9368
Alexander, NC
Burke, NC
Caldwell, NC
Catawba, NC
3320 Honolulu, HI | 1.1176 | 1.0791
Honolulu, HI
3350 Houma, LA | 0.7763 | 0.8408
Lafourche, LA
Terrebonne, LA
3360 ¹ Houston, TX | 0.9591 | 0.9718
Chambers, TX
Fort Bend, TX
Harris, TX
Liberty, TX
Montgomery, TX
Waller, TX
3400 Huntington-Ashland, WV-KY-OH | 0.9620 | 0.9738
Boyd, KY
Carter, KY
Greenup, KY
Lawrence, OH
Cabell, WV
Wayne, WV
3440 Huntsville, AL | 0.9238 | 0.9472
Limestone, AL
Madison, AL
3480 ¹ Indianapolis, IN | 0.9934 | 0.9955
Boone, IN
Hamilton, IN
Hancock, IN
Hendricks, IN
Johnson, IN
Madison, IN
Marion, IN
Morgan, IN
Shelby, IN
3500 Iowa City, IA | 0.9605 | 0.9728
Johnson, IA
3520 Jackson, MI | 0.9043 | 0.9334
Jackson, MI
3560 Jackson, MS | 0.8459 | 0.8917
Hinds, MS
Madison, MS
Rankin, MS
3580 Jackson, TN | 0.8602 | 0.9020
Madison, TN
Chester, TN
3600 ¹ Jacksonville, FL | 0.9426 | 0.9603
Clay, FL
Duval, FL
Nassau, FL
St. Johns, FL
3605 Jacksonville, NC | 0.8589 | 0.9011
Onslow, NC
3610 ² Jamestown, NY | 0.8530 | 0.8968
Chautauqua, NY
3620 Janesville-Beloit, WI | 0.9344 | 0.9546
Rock, WI
3640 Jersey City, NJ | 1.1203 | 1.0809
Hudson, NJ
3660 Johnson City-Kingsport-Bristol, TN-VA (TN Hospitals) | 0.8371 | 0.8854
Carter, TN
Hawkins, TN
Sullivan, TN
Unicoi, TN
Washington, TN
Bristol City, VA
Scott, VA
Washington, VA
3660 ² Johnson City-Kingsport-Bristol, TN-VA (VA Hospitals) | 0.8542 | 0.8977
Carter, TN
Hawkins, TN
Sullivan, TN
Unicoi, TN
Washington, TN
Bristol City, VA
Scott, VA
Washington, VA
3680 ² Johnstown, PA | 0.8429 | 0.8896
Cambria, PA
Somerset, PA
3700 ² Jonesboro, AR | 0.7755 | 0.8402
Craighead, AR
3710 Joplin, MO | 0.8739 | 0.9118
Jasper, MO
Newton, MO
3720 Kalamazoo-Battlecreek, MI | 1.0554 | 1.0376
Calhoun, MI
Kalamazoo, MI
Van Buren, MI
3740 Kankakee, IL | 1.1074 | 1.0724
Kankakee, IL
3760 ¹ Kansas City, KS-MO | 0.9551 | 0.9690
Johnson, KS
Leavenworth, KS
Miami, KS
Wyandotte, KS
Cass, MO
Clay, MO
Clinton, MO
Jackson, MO
Lafayette, MO
Platte, MO
Ray, MO
3800 Kenosha, WI | 0.9826 | 0.9881
Kenosha, WI
3810 Killeen-Temple, TX | 0.9221 | 0.9460
Bell, TX
Coryell, TX
3840 Knoxville, TN | 0.8987 | 0.9295
Anderson, TN
Blount, TN
Knox, TN
Loudon, TN
Sevier, TN
Union, TN
3850 Kokomo, IN | 0.8963 | 0.9278
Howard, IN
Tipton, IN
3870 La Crosse, WI-MN | 0.9259 | 0.9486
Houston, MN
La Crosse, WI
3880 Lafayette, LA | 0.8271 | 0.8781
Acadia, LA
Lafayette, LA
St. Landry, LA
St. Martin, LA
3920 Lafayette, IN | 0.9052 | 0.9341
Clinton, IN
Tippecanoe, IN
3960 Lake Charles, LA | 0.8460 | 0.8918
Calcasieu, LA
3980 ² Lakeland-Winter Haven, FL | 0.8782 | 0.9149
Polk, FL
4000 Lancaster, PA | 0.9325 | 0.9533
Lancaster, PA
4040 Lansing-East Lansing, MI | 0.9270 | 0.9494
Clinton, MI
Eaton, MI
Ingham, MI
4080 Laredo, TX | 0.8145 | 0.8689
Webb, TX
4100 Las Cruces, NM | 0.8532 | 0.8970
Dona Ana, NM
4120 ¹ Las Vegas, NV-AZ | 1.1457 | 1.0976
Mohave, AZ
Clark, NV
Nye, NV
4150
2Lawrence, KS | 0.7860 | 0.8480
Douglas, KS
4200 Lawton, OK | 0.8322 | 0.8818
Comanche, OK
4243 Lewiston-Auburn, ME | 0.9389 | 0.9577
Androscoggin, ME
4280 Lexington, KY | 0.8622 | 0.9035
Bourbon, KY
Clark, KY
Fayette, KY
Jessamine, KY
Madison, KY
Scott, KY
Woodford, KY
4320 Lima, OH | 0.9457 | 0.9625
Allen, OH
Auglaize, OH
4360 Lincoln, NE | 1.0101 | 1.0069
Lancaster, NE
4400 Little Rock-North Little Rock, AR | 0.8905 | 0.9237
Faulkner, AR
Lonoke, AR
Pulaski, AR
Saline, AR
4420 Longview-Marshall, TX | 0.9141 | 0.9403
Gregg, TX
Harrison, TX
Upshur, TX
4480 ¹ Los Angeles-Long Beach, CA | 1.1656 | 1.1106
Los Angeles, CA
4520 ¹ Louisville, KY-IN | 0.9174 | 0.9427
Clark, IN
Floyd, IN
Harrison, IN
Scott, IN
Bullitt, KY
Jefferson, KY
Oldham, KY
4600 Lubbock, TX | 0.8330 | 0.8824
Lubbock, TX
4640 Lynchburg, VA | 0.9202 | 0.9446
Amherst, VA
Bedford, VA
Bedford City, VA
Campbell, VA
Lynchburg City, VA
4680 Macon, GA | 0.9011 | 0.9312
Bibb, GA
Houston, GA
Jones, GA
Peach, GA
Twiggs, GA
4720 Madison, WI | 1.0235 | 1.0160
Dane, WI
4800 Mansfield, OH | 0.9059 | 0.9346
Crawford, OH
Richland, OH
4840 Mayaguez, PR | 0.4780 | 0.6032
Anasco, PR
Cabo Rojo, PR
Hormigueros, PR
Mayaguez, PR
Sabana Grande, PR
San German, PR
4880 McAllen-Edinburg-Mission, TX | 0.9084 | 0.9363
Hidalgo, TX
4890 Medford-Ashland, OR | 1.0844 | 1.0571
Jackson, OR
4900 Melbourne-Titusville-Palm Bay, FL | 0.9837 | 0.9888
Brevard, Fl
4920 ¹ Memphis, TN-AR-MS | 0.9325 | 0.9533
Crittenden, AR
DeSoto, MS
Fayette, TN
Shelby, TN
Tipton, TN
4940 ² Merced, CA | 0.9907 | 0.9936
Merced, CA
5000 ¹ Miami, FL | 0.9888 | 0.9923
Dade, FL
5015 ¹ Middlesex-Somerset-Hunterdon, NJ | 1.1437 | 1.0963
Hunterdon, NJ
Middlesex, NJ
Somerset, NJ
5080 ¹ Milwaukee-Waukesha, WI | 0.9888 | 0.9923
Milwaukee, WI
Ozaukee, WI
Washington, WI
Waukesha, WI
5120 ¹ Minneapolis-St. Paul, MN-WI | 1.1064 | 1.0717
Anoka, MN
Carver, MN
Chisago, MN
Dakota, MN
Hennepin, MN
Isanti, MN
Ramsey, MN
Scott, MN
Sherburne, MN
Washington, MN
Wright, MN
Pierce, WI
St. Croix, WI
5140 Missoula, MT | 0.8943 | 0.9264
Missoula, MT
5160 Mobile, AL | 0.7948 | 0.8545
Baldwin, AL
Mobile, AL
5170 Modesto, CA | 1.1344 | 1.0902
Stanislaus, CA
5190 ¹ Monmouth-Ocean, NJ | 1.1094 | 1.0737
Monmouth, NJ
Ocean, NJ
5200 Monroe, LA | 0.7978 | 0.8567
Ouachita, LA
5240 Montgomery, AL | 0.7856 | 0.8477
Autauga, AL
Elmore, AL
Montgomery, AL
5280 ² Muncie, IN | 0.8770 | 0.9140
Delaware, IN
5330 Myrtle Beach, SC | 0.8950 | 0.9268
Horry, SC
5345 Naples, FL | 0.9866 | 0.9908
Collier, FL
5360 ¹ Nashville, TN | 0.9836 | 0.9887
Cheatham, TN
Davidson, TN
Dickson, TN
Robertson, TN
Rutherford TN
Sumner, TN
Williamson, TN
Wilson, TN
5380 ¹ Nassau-Suffolk, NY | 1.3011 | 1.1975
Nassau, NY
Suffolk, NY
5483 ¹ New Haven-Bridgeport-Stamford-Waterbury- | 1.2525 | 1.1667
Danbury, CT
Fairfield, CT
New Haven, CT
5523 ² New London-Norwich, CT | 1.2199 | 1.1458
New London, CT
5560 ¹ New Orleans, LA | 0.9167 | 0.9422
Jefferson, LA
Orleans, LA
Plaquemines, LA
St. Bernard, LA
St. Charles, LA
St. James, LA
St. John The Baptist, LA
St. Tammany, LA
5600 ¹ New York, NY | 1.3867 | 1.2509
Bronx, NY
Kings, NY
New York, NY
Putnam, NY
Queens, NY
Richmond, NY
Rockland, NY
Westchester, NY
5640 ¹ Newark, NJ | 1.1417 | 1.0950
Essex, NJ
Morris, NJ
Sussex, NJ
Union, NJ
Warren, NJ
5660 Newburgh, NY-PA | 1.1377 | 1.0924
Orange, NY
Pike, PA
5720 ¹ Norfolk-Virginia Beach-Newport News, VA-NC | 0.8659 | 0.9061
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 ¹ Oakland, CA | 1.5204 | 1.3323
Alameda, CA
Contra Costa, CA
5790 Ocala, FL | 0.9788 | 0.9854
Marion, FL
5800 Odessa-Midland, TX | 0.9447 | 0.9618
Ector, TX
Midland, TX
5880 ¹ Oklahoma City, OK | 0.9027 | 0.9323
Canadian, OK
Cleveland, OK
Logan, OK
McClain, OK
Oklahoma, OK
Pottawatomie, OK
5910 Olympia, WA | 1.1030 | 1.0694
Thurston, WA
5920 Omaha, NE-IA | 0.9744 | 0.9824
Pottawattamie, IA
Cass, NE
Douglas, NE
Sarpy, NE
Washington, NE
5945 ¹ Orange County, CA | 1.1235 | 1.0830
Orange, CA
5960 ¹ Orlando, FL | 0.9612 | 0.9733
Lake, FL
Orange, FL
Osceola, FL
Seminole, FL
5990 Owensboro, KY | 0.8429 | 0.8896
Daviess, KY
6015 ² Panama City, FL | 0.8782 | 0.9149
Bay, FL
6020 Parkersburg-Marietta, WV-OH (WV Hospitals) | 0.8093 | 0.8651
Washington, OH
Wood, WV
6020 ² Parkersburg-Marietta, WV-OH (OH Hospitals) | 0.8756 | 0.9130
Washington, OH
Wood, WV
6080 ² Pensacola, FL | 0.8782 | 0.9149
Escambia, FL
Santa Rosa, FL
6120 Peoria-Pekin, IL | 0.8811 | 0.9170
Peoria, IL
Tazewell, IL
Woodford, IL
6160 ¹ Philadelphia, PA-NJ | 1.0947 | 1.0639
Burlington, NJ
Camden, NJ
Gloucester, NJ
Salem, NJ
Bucks, PA
Chester, PA
Delaware, PA
Montgomery, PA
Philadelphia, PA
6200 ¹ Phoenix-Mesa, AZ | 1.0213 | 1.0145
Maricopa, AZ
Pinal, AZ
6240 Pine Bluff, AR | 0.7753 | 0.8401
Jefferson, AR
6280 ¹ Pittsburgh, PA | 0.8788 | 0.9153
Allegheny, PA
Beaver, PA
Butler, PA
Fayette, PA
Washington, PA
Westmoreland, PA
6323 ² Pittsfield, MA | 1.1234 | 1.0829
Berkshire, MA
6340 Pocatello, ID | 0.9103 | 0.9377
Bannock, ID
6360 Ponce, PR | 0.4762 | 0.6017
Guayanilla, PR
Juana Diaz, PR
Penuelas, PR
Ponce, PR
Villalba, PR
Yauco, PR
6403 Portland, ME | 0.9985 | 0.9990
Cumberland, ME
Sagadahoc, ME
York, ME
6440 ¹ Portland-Vancouver, OR-WA | 1.1193 | 1.0802
Clackamas, OR
Columbia, OR
Multnomah, OR
Washington, OR
Yamhill, OR
Clark, WA
6483 ¹ Providence-Warwick-Pawtucket, RI | 1.1025 | 1.0691
Bristol, RI
Kent, RI
Newport, RI
Providence, RI
Washington, RI
6520 Provo-Orem, UT | 1.0043 | 1.0029
Utah, UT
6560 ² Pueblo, CO | 0.8897 | 0.9231
Pueblo, CO
6580 Punta Gorda, FL | 0.9518 | 0.9667
Charlotte, FL
6600 ² Racine, WI | 0.9130 | 0.9396
Racine, WI
6640 ¹ Raleigh-Durham-Chapel Hill, NC | 1.0084 | 1.0057
Chatham, NC
Durham, NC
Franklin, NC
Johnston, NC
Orange, NC
Wake, NC
6660 Rapid City, SD | 0.8865 | 0.9208
Pennington, SD
6680 Reading, PA | 0.9042 | 0.9334
Berks, PA
6690 Redding, CA | 1.1357 | 1.0910
Shasta, CA
6720 Reno, NV | 1.0758 | 1.0513
Washoe, NV
6740 Richland-Kennewick-Pasco, WA | 1.0639 | 1.0433
Benton, WA
Franklin, WA
6760 Richmond-Petersburg, VA | 0.9402 | 0.9587
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 ¹Riverside-San Bernardino, CA | 1.1318 | 1.0885
Riverside, CA
San Bernardino, CA
6800 Roanoke, VA | 0.8759 | 0.9133
Botetourt, VA
Roanoke, VA
Roanoke City, VA
Salem City, VA
6820 Rochester, MN | 1.1802 | 1.1201
Olmsted, MN
6840 ¹Rochester, NY | 0.9556 | 0.9694
Genesee, NY
Livingston, NY
Monroe, NY
Ontario, NY
Orleans, NY
Wayne, NY
6880 Rockford, IL | 0.9730 | 0.9814
Boone, IL
Ogle, IL
Winnebago, IL
6895 Rocky Mount, NC | 0.9058 | 0.9345
Edgecombe, NC
Nash, NC
6920 ¹Sacramento, CA | 1.1911 | 1.1272
El Dorado, CA
Placer, CA
Sacramento, CA
6960 Saginaw-Bay City-Midland, MI | 0.9620 | 0.9738
Bay, MI
Midland, MI
Saginaw, MI
6980 St. Cloud, MN | 0.9723 | 0.9809
Benton, MN
Stearns, MN
7000 ²St. Joseph, MO | 0.7793 | 0.8430
Andrew, MO
Buchanan, MO
7040 ¹St. Louis, MO-IL | 0.9049 | 0.9339
Clinton, IL
Jersey, IL
Madison, IL
Monroe, IL
St. Clair, IL
Franklin, MO
Jefferson, MO
Lincoln, MO
St. Charles, MO
St. Louis, MO
St. Louis City, MO
Warren, MO
7080 Salem, OR | 1.0594 | 1.0403
Marion, OR
Polk, OR
7120 Salinas, CA | 1.4435 | 1.2858
Monterey, CA
7160 ¹Salt Lake City-Ogden, UT | 0.9899 | 0.9931
Davis, UT
Salt Lake, UT
Weber, UT
7200 San Angelo, TX | 0.8288 | 0.8793
Tom Green, TX
7240 ¹San Antonio, TX | 0.8876 | 0.9216
Bexar, TX
Comal, TX
Guadalupe, TX
Wilson, TX
7320 ¹San Diego, CA | 1.1206 | 1.0811
San Diego, CA
7360 ¹San Francisco, CA | 1.4349 | 1.2805
Marin, CA
San Francisco, CA
San Mateo, CA
7400 ¹San Jose, CA | 1.4642 | 1.2984
Santa Clara, CA
7440 ¹San Juan-Bayamon, PR | 0.4904 | 0.6139
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1484 | 1.0994
San Luis Obispo, CA
7480 Santa Barbara-Santa Maria-Lompoc, CA | 1.0511 | 1.0347
Santa Barbara, CA
7485 Santa Cruz-Watsonville, CA | 1.3012 | 1.1976
Santa Cruz, CA
7490 Santa Fe, NM | 1.0639 | 1.0433
Los Alamos, NM
Santa Fe, NM
7500 Santa Rosa, CA | 1.2836 | 1.1865
Sonoma, CA
7510 Sarasota-Bradenton, FL | 0.9834 | 0.9886
Manatee, FL
Sarasota, FL
7520 Savannah, GA | 0.9556 | 0.9694
Bryan, GA
Chatham, GA
Effingham, GA
7560 ²Scranton--Wilkes-Barre--Hazleton, PA | 0.8429 | 0.8896
Columbia, PA
Lackawanna, PA
Luzerne, PA
Wyoming, PA
7600 ¹Seattle-Bellevue-Everett, WA | 1.1557 | 1.1042
Island, WA
King, WA
Snohomish, WA
7610 ²Sharon, PA | 0.8429 | 0.8896
Mercer, PA
7620 ²Sheboygan, WI | 0.9130 | 0.9396
Sheboygan, WI
7640 Sherman-Denison, TX | 0.9508 | 0.9660
Grayson, TX
7680 Shreveport-Bossier City, LA | 0.9127 | 0.9394
Bossier, LA
Caddo, LA
Webster, LA
7720 Sioux City, IA-NE | 0.9052 | 0.9341
Woodbury, IA
Dakota, NE
7760 Sioux Falls, SD | 0.9371 | 0.9565
Lincoln, SD
Minnehaha, SD
7800 South Bend, IN | 0.9887 | 0.9922
St. Joseph, IN
7840 Spokane, WA | 1.0954 | 1.0644
Spokane, WA
7880 Springfield, IL | 0.9004 | 0.9307
Menard, IL
Sangamon, IL
7920 Springfield, MO | 0.8470 | 0.8925
Christian, MO
Greene, MO
Webster, MO
8003 ²Springfield, MA | 1.1234 | 1.0829
Hampden, MA
Hampshire, MA
8050 State College, PA | 0.8798 | 0.9160
Centre, PA
8080 Steubenville-Weirton, OH-WV | 0.8454 | 0.8914
Jefferson, OH
Brooke, WV
Hancock, WV
8120 Stockton-Lodi, CA | 1.1168 | 1.0786
San Joaquin, CA
8140 ²Sumter, SC | 0.8489 | 0.8939
Sumter, SC
8160 Syracuse, NY | 0.9482 | 0.9642
Cayuga, NY
Madison, NY
Onondaga, NY
Oswego, NY
8200 ²Tacoma, WA | 1.0242 | 1.0165
Pierce, WA
8240 ²Tallahassee, FL | 0.8782 | 0.9149
Gadsden, FL
Leon, FL
8280 ¹Tampa-St. Petersburg-Clearwater, FL | 0.9111 | 0.9382
Hernando, FL
Hillsborough, FL
Pasco, FL
Pinellas, FL
8320 ²Terre Haute, IN | 0.8770 | 0.9140
Clay, IN
Vermillion, IN
Vigo, IN
8360 Texarkana,AR-Texarkana, TX | 0.8198 | 0.8728
Miller, AR
Bowie, TX
8400 Toledo, OH | 0.9551 | 0.9690
Fulton, OH
Lucas, OH
Wood, OH
8440 Topeka, KS | 0.9021 | 0.9319
Shawnee, KS
8480 Trenton, NJ | 1.0556 | 1.0377
Mercer, NJ
8520 Tucson, AZ | 0.8958 | 0.9274
Pima, AZ
8560 Tulsa, OK | 0.9093 | 0.9370
Creek, OK
Osage, OK
Rogers, OK
Tulsa, OK
Wagoner, OK
8600 Tuscaloosa, AL | 0.8239 | 0.8758
Tuscaloosa, AL
8640 Tyler, TX | 0.8789 | 0.9154
Smith, TX
8680 ²Utica-Rome, NY | 0.8530 | 0.8968
Herkimer, NY
Oneida, NY
8720 Vallejo-Fairfield-Napa, CA | 1.3500 | 1.2282
Napa, CA
Solano, CA
8735 Ventura, CA | 1.0472 | 1.0321
Ventura, CA
8750 Victoria, TX | 0.8105 | 0.8660
Victoria, TX
8760 Vineland-Millville-Bridgeton, NJ | 1.0475 | 1.0323
Cumberland, NJ
8780 ²Visalia-Tulare-Porterville, CA | 0.9907 | 0.9936
Tulare, CA
8800 Waco, TX | 0.8449 | 0.8910
McLennan, TX
8840 ¹Washington, DC-MD-VA-WV | 1.0707 | 1.0479
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8422 | 0.8890
Black Hawk, IA
8940 Wausau, WI | 0.9806 | 0.9867
Marathon, WI
8960 ¹West Palm Beach-Boca Raton, FL | 0.9784 | 0.9852
Palm Beach, FL
9000 ²Wheeling, WV-OH (WV Hospitals) | 0.8008 | 0.8589
Belmont, OH
Marshall, WV
Ohio, WV
9000 ²Wheeling, WV-OH (OH Hospitals) | 0.8756 | 0.9130
Belmont, OH
Marshall, WV
Ohio, WV
9040 Wichita, KS | 0.9300 | 0.9515
Butler, KS
Harvey, KS
Sedgwick, KS
9080 Wichita Falls, TX | 0.8407 | 0.8880
Archer, TX
Wichita, TX
9140 ²Williamsport, PA | 0.8429 | 0.8896
Lycoming, PA
9160 Wilmington-Newark, DE-MD | 1.0955 | 1.0645
New Castle, DE
Cecil, MD
9200 Wilmington, NC | 0.9604 | 0.9727
New Hanover, NC
Brunswick, NC
9260 Yakima, WA | 1.0320 | 1.0218
Yakima, WA
9270 ²Yolo, CA | 0.9907 | 0.9936
Yolo, CA
9280 York, PA | 0.9154 | 0.9413
York, PA
9320 Youngstown-Warren, OH | 0.9273 | 0.9496
Columbiana, OH
Mahoning, OH
Trumbull, OH
9340 Yuba City, CA | 1.0264 | 1.0180
Sutter, CA
Yuba, CA
9360 Yuma, AZ | 0.8954 | 0.9271
Yuma, AZ
¹ Large urban area.
² Hospitals geographically located in the area are assigned the statewide rural wage index for FY 2004.

Table 4B.—Wage Index and Capital Geographic Adjustment Factor (GAF) for Rural Areas
Nonurban area | Wage index | GAF
Alabama | 0.7517 | 0.8225
Alaska | 1.1958 | 1.1303
Arizona | 0.8906 | 0.9237
Arkansas | 0.7746 | 0.8395
California | 0.9907 | 0.9936
Colorado | 0.8897 | 0.9231
Connecticut | 1.2199 | 1.1458
Delaware | 0.9669 | 0.9772
Florida | 0.8782 | 0.9149
Georgia | 0.8365 | 0.8849
Hawaii | 0.9896 | 0.9929
Idaho | 0.8907 | 0.9238
Illinois | 0.8282 | 0.8789
Indiana | 0.8770 | 0.9140
Iowa | 0.8278 | 0.8786
Kansas | 0.7860 | 0.8480
Kentucky | 0.7924 | 0.8527
Louisiana | 0.7565 | 0.8261
Maine | 0.8995 | 0.9300
Maryland | 0.9175 | 0.9427
Massachusetts | 1.1234 | 1.0829
Michigan | 0.8807 | 0.9167
Minnesota | 0.9243 | 0.9475
Mississippi | 0.7810 | 0.8443
Missouri | 0.7793 | 0.8430
Montana | 0.8530 | 0.8968
Nebraska | 0.8326 | 0.8821
Nevada | 0.9758 | 0.9834
New Hampshire | 0.9944 | 0.9962
¹ New Jersey |  |
New Mexico | 0.8314 | 0.8812
New York | 0.8530 | 0.8968
North Carolina | 0.8355 | 0.8842
North Dakota | 0.7536 | 0.8239
Ohio | 0.8756 | 0.9130
Oklahoma | 0.7577 | 0.8270
Oregon | 0.9939 | 0.9958
Pennsylvania | 0.8429 | 0.8896
Puerto Rico | 0.4037 | 0.5373
¹ Rhode Island |  |
South Carolina | 0.8489 | 0.8939
South Dakota | 0.8093 | 0.8651
Tennessee | 0.7945 | 0.8542
Texas | 0.7673 | 0.8341
Utah | 0.9034 | 0.9328
Vermont | 0.9401 | 0.9586
Virginia | 0.8542 | 0.8977
Washington | 1.0242 | 1.0165
West Virginia | 0.8008 | 0.8589
Wisconsin | 0.9130 | 0.9396
Wyoming | 0.9137 | 0.9401
¹ All counties within the State are classified as urban.

Table 4C.—Wage Index and Capital Geographic Adjustment Factor (GAF) For Hospitals That Are Reclassified
Area | Wage index | GAF
Akron, OH | 0.9445 | 0.9617
Albany, GA | 1.0643 | 1.0436
Albuquerque, NM | 0.9431 | 0.9607
Alexandria, LA | 0.8087 | 0.8647
Altoona, PA | 0.8886 | 0.9223
Amarillo, TX | 0.8814 | 0.9172
Anchorage, AK | 1.2433 | 1.1608
Ann Arbor, MI | 1.0859 | 1.0581
Anniston, AL | 0.8025 | 0.8601
Asheville, NC | 0.9503 | 0.9657
Athens, GA | 0.9437 | 0.9611
Atlanta, GA | 0.9912 | 0.9940
Atlantic-Cape May, NJ | 1.0597 | 1.0405
Augusta-Aiken, GA-SC | 0.9491 | 0.9649
Austin-San Marcos, TX | 0.9551 | 0.9690
Bangor, ME | 0.9750 | 0.9828
Barnstable-Yarmouth, MA | 1.2703 | 1.1780
Baton Rouge, LA | 0.8271 | 0.8781
Bellingham, WA | 1.1834 | 1.1222
Benton Harbor, MI | 0.8949 | 0.9268
Bergen-Passaic, NJ | 1.1655 | 1.1106
Billings, MT | 0.8889 | 0.9225
Biloxi-Gulfport-Pascagoula, MS | 0.8449 | 0.8910
Binghamton, NY | 0.8433 | 0.8898
Birmingham, AL | 0.9251 | 0.9481
Bismarck, ND | 0.8101 | 0.8657
Bloomington-Normal, IL | 0.8954 | 0.9271
Boise City, ID | 0.9295 | 0.9512
Boston-Worcester-Lawrence-Lowell-Brockton, MA-NH | 1.1269 | 1.0853
Burlington, VT | 0.9442 | 0.9614
Caguas, PR | 0.4229 | 0.5547
Casper, WY | 0.9239 | 0.9472
Champaign-Urbana, IL | 0.9385 | 0.9575
Charleston-North Charleston, SC | 0.9307 | 0.9520
Charleston, WV (WV Hospitals) | 0.8510 | 0.8954
Charleston, WV (OH Hospitals) | 0.8756 | 0.9130
Charlotte-Gastonia-Rock Hill, NC-SC | 0.9636 | 0.9749
Charlottesville, VA | 0.9946 | 0.9963
Chattanooga, TN-GA | 0.8985 | 0.9293
Chicago, IL | 1.0863 | 1.0583
Cincinnati, OH-KY-IN | 0.9452 | 0.9621
Clarksville-Hopkinsville, TN-KY | 0.8410 | 0.8882
Cleveland-Lorain-Elyria, OH | 0.9686 | 0.9784
Columbia, MO | 0.8607 | 0.9024
Columbia, SC | 0.8958 | 0.9274
Columbus, GA-AL | 0.8505 | 0.8950
Columbus, OH | 0.9649 | 0.9758
Corpus Christi, TX | 0.8565 | 0.8994
Corvallis, OR | 1.1316 | 1.0884
Dallas, TX | 0.9733 | 0.9816
Davenport-Moline-Rock Island, IA-IL | 0.8727 | 0.9110
Dayton-Springfield, OH | 0.9432 | 0.9607
Decatur, AL | 0.8633 | 0.9042
Denver, CO | 1.0581 | 1.0394
Des Moines, IA | 0.9053 | 0.9341
Detroit, MI | 1.0097 | 1.0066
Dothan, AL | 0.7931 | 0.8532
Dover, DE | 0.9669 | 0.9772
Duluth-Superior, MN-WI | 1.0133 | 1.0091
Dutchess County, NY | 1.0769 | 1.0520
Eau Claire, WI | 0.9141 | 0.9403
Elkhart-Goshen, IN | 0.9613 | 0.9733
Erie, PA | 0.8530 | 0.8968
Eugene-Springfield, OR | 1.0889 | 1.0601
Fargo-Moorhead, ND-MN | 0.9444 | 0.9616
Fayetteville, NC | 0.8957 | 0.9273
Flagstaff, AZ-UT | 1.1086 | 1.0732
Flint, MI | 1.0929 | 1.0627
Florence, AL | 0.7824 | 0.8453
Florence, SC | 0.8763 | 0.9135
Fort Collins-Loveland, CO | 1.0201 | 1.0137
Ft. Lauderdale, FL | 1.0534 | 1.0363
Fort Pierce-Port St. Lucie, FL | 1.0227 | 1.0155
Fort Smith, AR-OK | 0.7577 | 0.8270
Fort Walton Beach, FL | 0.8700 | 0.9090
Forth Worth-Arlington, TX | 0.9268 | 0.9493
Gadsden, AL | 0.8295 | 0.8798
Grand Forks, ND-MN (ND Hospitals) | 0.9031 | 0.9326
Grand Forks, ND-MN (MN Hospitals) | 0.9243 | 0.9475
Grand Junction, CO | 0.9940 | 0.9959
Grand Rapids-Muskegon-Holland, MI | 0.9406 | 0.9589
Great Falls, MT | 0.8977 | 0.9288
Greeley, CO | 0.9516 | 0.9666
Green Bay, WI | 0.9201 | 0.9446
Greensboro-Winston-Salem-High Point, NC (NC Hospitals) | 0.8533 | 0.8971
Greensboro-Winston-Salem-High Point, NC (VA Hospitals) | 0.8542 | 0.8977
Greenville, NC | 0.9621 | 0.9739
Hamilton-Middletown, OH | 0.9236 | 0.9470
Harrisburg-Lebanon-Carlisle, PA | 0.9178 | 0.9430
Hartford, CT (MA Hospitals) | 1.1234 | 1.0829
Hartford, CT (NY Hospitals) | 1.1211 | 1.0814
Hattiesburg, MS | 0.7810 | 0.8443
Hickory-Morganton-Lenoir, NC | 0.8987 | 0.9295
Honolulu, HI | 1.1176 | 1.0791
Houston, TX | 0.9591 | 0.9718
Huntington-Ashland, WV-KY-OH | 0.9080 | 0.9360
Huntsville, AL | 0.8954 | 0.9271
Indianapolis, IN | 0.9934 | 0.9955
Iowa City, IA | 0.9460 | 0.9627
Jackson, MS | 0.8459 | 0.8917
Jackson, TN | 0.8602 | 0.9020
Jacksonville, FL | 0.9426 | 0.9603
Johnson City-Kingsport-Bristol, TN-VA (VA Hospitals) | 0.8542 | 0.8977
Johnson City-Kingsport-Bristol, TN-VA (KY Hospitals) | 0.8371 | 0.8854
Jonesboro, AR (AR Hospitals) | 0.7755 | 0.8402
Jonesboro, AR (MO Hospitals) | 0.7793 | 0.8430
Joplin, MO | 0.8621 | 0.9034
Kalamazoo-Battlecreek, MI | 1.0554 | 1.0376
Kansas City, KS-MO | 0.9551 | 0.9690
Knoxville, TN | 0.8987 | 0.9295
Kokomo, IN | 0.8963 | 0.9278
Lafayette, LA | 0.8271 | 0.8781
Lakeland-Winter Haven, FL | 0.8782 | 0.9149
Las Vegas, NV-AZ | 1.1341 | 1.0900
Lawton, OK | 0.8194 | 0.8725
Lexington, KY | 0.8424 | 0.8892
Lima, OH | 0.9457 | 0.9625
Lincoln, NE | 0.9613 | 0.9733
Little Rock-North Little Rock, AR | 0.8905 | 0.9237
Longview-Marshall, TX | 0.8969 | 0.9282
Los Angeles-Long Beach, CA | 1.1656 | 1.1106
Louisville, KY-IN | 0.9056 | 0.9344
Lubbock, TX | 0.8330 | 0.8824
Lynchburg, VA | 0.9004 | 0.9307
Macon, GA | 0.9011 | 0.9312
Madison, WI | 1.0108 | 1.0074
Medford-Ashland, OR | 1.0494 | 1.0336
Melbourne-Titusville-Palm Bay, FL | 0.9837 | 0.9888
Memphis, TN-AR-MS | 0.9010 | 0.9311
Miami, FL | 0.9888 | 0.9923
Milwaukee-Waukesha, WI | 0.9760 | 0.9835
Minneapolis-St. Paul, MN-WI | 1.1064 | 1.0717
Missoula, MT | 0.8943 | 0.9264
Mobile, AL | 0.7948 | 0.8545
Modesto, CA | 1.1183 | 1.0796
Monmouth-Ocean, NJ | 1.1094 | 1.0737
Monroe, LA | 0.7978 | 0.8567
Montgomery, AL | 0.7856 | 0.8477
Nashville, TN | 0.9582 | 0.9712
New Haven-Bridgeport-Stamford-Waterbury-
Danbury, CT | 1.2525 | 1.1667
New Orleans, LA | 0.9167 | 0.9422
New York, NY | 1.3867 | 1.2509
Newark, NJ | 1.1417 | 1.0950
Newburgh, NY-PA | 1.1377 | 1.0924
Norfolk-Virginia Beach-Newport News, VA-NC | 0.8659 | 0.9061
Oakland, CA | 1.5204 | 1.3323
Ocala, FL | 0.9646 | 0.9756
Odessa-Midland, TX | 0.9156 | 0.9414
Oklahoma City, OK | 0.9027 | 0.9323
Olympia, WA | 1.1030 | 1.0694
Omaha, NE-IA | 0.9744 | 0.9824
Orange County, CA | 1.1235 | 1.0830
Orlando, FL | 0.9612 | 0.9733
Peoria-Pekin, IL | 0.8811 | 0.9170
Philadelphia, PA-NJ | 1.0947 | 1.0639
Phoenix-Mesa, AZ | 1.0213 | 1.0145
Pine Bluff, AR | 0.7810 | 0.8443
Pittsburgh, PA | 0.8788 | 0.9153
Pittsfield, MA | 0.9861 | 0.9905
Pocatello, ID (ID Hospitals) | 0.9103 | 0.9377
Pocatello, ID (WY Hospitals) | 0.9137 | 0.9401
Portland, ME | 0.9784 | 0.9852
Portland-Vancouver, OR-WA | 1.1193 | 1.0802
Provo-Orem, UT | 0.9912 | 0.9940
Raleigh-Durham-Chapel Hill, NC | 0.9756 | 0.9832
Rapid City, SD | 0.8865 | 0.9208
Reading, PA | 0.8910 | 0.9240
Redding, CA | 1.1357 | 1.0910
Reno, NV | 1.0758 | 1.0513
Richland-Kennewick-Pasco, WA | 1.0639 | 1.0433
Richmond-Petersburg, VA | 0.9402 | 0.9587
Roanoke, VA | 0.8759 | 0.9133
Rochester, MN | 1.1802 | 1.1201
Rockford, IL | 0.9500 | 0.9655
Sacramento, CA | 1.1911 | 1.1272
Saginaw-Bay City-Midland, MI | 0.9470 | 0.9634
St. Cloud, MN | 0.9723 | 0.9809
St. Joseph, MO | 0.9694 | 0.9789
St. Louis, MO-IL | 0.9049 | 0.9339
Salinas, CA | 1.4435 | 1.2858
Salt Lake City-Ogden, UT | 0.9899 | 0.9931
San Antonio, TX | 0.8876 | 0.9216
Santa Fe, NM | 0.9543 | 0.9685
Santa Rosa, CA | 1.2836 | 1.1865
Sarasota-Bradenton, FL | 0.9834 | 0.9886
Savannah, GA | 0.9556 | 0.9694
Seattle-Bellevue-Everett, WA | 1.1557 | 1.1042
Sherman-Denison, TX | 0.9084 | 0.9363
Shreveport-Bossier City, LA | 0.9127 | 0.9394
Sioux City, IA-NE | 0.8806 | 0.9166
Sioux Falls, SD | 0.9246 | 0.9477
South Bend, IN | 0.9780 | 0.9849
Spokane, WA | 1.0770 | 1.0521
Springfield, IL | 0.9004 | 0.9307
Springfield, MO | 0.8269 | 0.8780
Stockton-Lodi, CA | 1.1168 | 1.0786
Syracuse, NY | 0.9381 | 0.9572
Tampa-St. Petersburg-Clearwater, FL | 0.9111 | 0.9382
Texarkana,AR-Texarkana, TX | 0.8018 | 0.8596
Toledo, OH | 0.9551 | 0.9690
Topeka, KS | 0.8791 | 0.9155
Tucson, AZ | 0.8958 | 0.9274
Tulsa, OK | 0.8876 | 0.9216
Tuscaloosa, AL | 0.8134 | 0.8681
Tyler, TX | 0.8789 | 0.9154
Vallejo-Fairfield-Napa, CA | 1.3500 | 1.2282
Victoria, TX | 0.8105 | 0.8660
Waco, TX | 0.8449 | 0.8910
Washington, DC-MD-VA-WV | 1.0707 | 1.0479
Waterloo-Cedar Falls, IA | 0.8422 | 0.8890
Wausau, WI | 0.9806 | 0.9867
West Palm Beach-Boca Raton, FL | 0.9784 | 0.9852
Wichita, KS | 0.9053 | 0.9341
Wichita Falls, TX | 0.8407 | 0.8880
Wilmington-Newark, DE-MD | 1.0782 | 1.0529
Wilmington, NC | 0.9402 | 0.9587
York, PA | 0.9154 | 0.9413
Youngstown-Warren, OH | 0.9273 | 0.9496
Rural Alabama | 0.7517 | 0.8225
Rural Florida | 0.8782 | 0.9149
Rural Illinois | 0.8282 | 0.8789
Rural Kentucky | 0.7924 | 0.8527
Rural Louisiana | 0.7565 | 0.8261
Rural Michigan | 0.8807 | 0.9167
Rural Minnesota | 0.9243 | 0.9475
Rural Mississippi | 0.7810 | 0.8443
Rural Missouri | 0.7793 | 0.8430
Rural Nebraska | 0.8326 | 0.8821
Rural New Hampshire | 0.9944 | 0.9962
Rural Texas | 0.7673 | 0.8341
Rural Washington | 1.0242 | 1.0165
Rural Wyoming | 0.9020 | 0.9318

Table 4F.—Puerto rico Wage Index and Capital Geographic Adjustment Factor (GAF)
Area | Wage index | GAF | Wage index— reclassified hospitals | GAF— reclassified hospitals
Aguadilla, PR | 0.9218 | 0.9458 |  |
Arecibo, PR | 0.8782 | 0.9149 |  |
Caguas, PR | 0.8992 | 0.9298 | 0.8992 | 0.9298
Mayaguez, PR | 1.0163 | 1.0111 |  |
Ponce, PR | 1.0124 | 1.0085 |  |
San Juan-Bayamon, PR | 1.0426 | 1.0290 |  |
Rural Puerto Rico | 0.8583 | 0.9007 |  |

Table 4G.—Pre-reclassified Wage Index for Urban Areas
Urban area (constituent counties) | Wage index
0040 Abilene, TX | 0.7714
Taylor, TX
0060 Aguadilla, PR | 0.4323
Aguada, PR
Aguadilla, PR
Moca, PR
0080 Akron, OH | 0.9175
Portage, OH
Summit, OH
0120 Albany, GA | 1.0809
Dougherty, GA
Lee, GA
0160 Albany-Schenectady-Troy, NY | 0.8669
Albany, NY
Montgomery, NY
Rensselaer, NY
Saratoga, NY
Schenectady, NY
Schoharie, NY
0200 Albuquerque, NM | 0.9405
Bernalillo, NM
Sandoval, NM
Valencia, NM
0220 Alexandria, LA | 0.8048
Rapides, LA
0240 Allentown-Bethlehem-Easton, PA | 0.9550
Carbon, PA
Lehigh, PA
Northampton, PA
0280 Altoona, PA | 0.8841
Blair, PA
0320 Amarillo, TX | 0.8944
Potter, TX
Randall, TX
0380 Anchorage, AK | 1.2264
Anchorage, AK
0440 Ann Arbor, MI | 1.1039
Lenawee, MI
Livingston, MI
Washtenaw, MI
0450 Anniston, AL | 0.8118
Calhoun, AL
0460 Appleton-Oshkosh-Neenah, WI | 0.9204
Calumet, WI
Outagamie, WI
Winnebago, WI
0470 Arecibo, PR | 0.4119
Arecibo, PR
Camuy, PR
Hatillo, PR
0480 Asheville, NC | 0.9671
Buncombe, NC
Madison, NC
0500 Athens, GA | 0.9638
Clarke, GA
Madison, GA
Oconee, GA
0520 Atlanta, GA | 1.0000
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.0833
Atlantic, NJ
Cape May, NJ
0580 Auburn-Opelika, AL | 0.8517
Lee, AL
0600 Augusta-Aiken, GA-SC | 0.9698
Columbia, GA
McDuffie, GA
Richmond, GA
Aiken, SC
Edgefield, SC
0640 Austin-San Marcos, TX | 0.9525
Bastrop, TX
Caldwell, TX
Hays, TX
Travis, TX
Williamson, TX
0680 Bakersfield, CA | 0.9956
Kern, CA
0720 Baltimore, MD | 0.9924
Anne Arundel, MD
Baltimore, MD
Baltimore City, MD
Carroll, MD
Harford, MD
Howard, MD
Queen Anne's, MD
0733 Bangor, ME
Penobscot, ME | 0.9925
0743 Barnstable-Yarmouth, MA | 1.2859
Barnstable, MA
0760 Baton Rouge, LA | 0.8254
Ascension, LA
East Baton Rouge, LA
Livingston, LA
West Baton Rouge, LA
0840 Beaumont-Port Arthur, TX | 0.8480
Hardin, TX
Jefferson, TX
Orange, TX
0860 Bellingham, WA | 1.1802
Whatcom, WA
0870 Benton Harbor, MI | 0.8862
Berrien, MI
0875 Bergen-Passaic, NJ | 1.1623
Bergen, NJ
Passaic, NJ
0880 Billings, MT | 0.8865
Yellowstone, MT
0920 Biloxi-Gulfport-Pascagoula, MS | 0.9065
Hancock, MS
Harrison, MS
Jackson, MS
0960 Binghamton, NY | 0.8546
Broome, NY
Tioga, NY
1000 Birmingham, AL | 0.9226
Blount, AL
Jefferson, AL
St. Clair, AL
Shelby, AL
1010 Bismarck, ND | 0.7997
Burleigh, ND
Morton, ND
1020 Bloomington, IN | 0.8944
Monroe, IN
1040 Bloomington-Normal, IL | 0.8867
McLean, IL
1080 Boise City, ID | 0.9246
Ada, ID
Canyon, ID
1123 Boston-Worcester-Lawrence-Lowell-Brockton, MA-NH (NH Hospitals) | 1.1239
Bristol, MA
Essex, MA
Middlesex, MA
Norfolk, MA
Plymouth, MA
Suffolk, MA
Worcester, MA
Hillsborough, NH
Merrimack, NH
Rockingham, NH
Strafford, NH
1125 Boulder-Longmont, CO | 1.0092
Boulder, CO
1145 Brazoria, TX | 0.8170
Brazoria, TX
1150 Bremerton, WA | 1.0573
Kitsap, WA
1240 Brownsville-Harlingen-San Benito, TX | 1.0204
Cameron, TX
1260 Bryan-College Station, TX | 0.9008
Brazos, TX
1280 Buffalo-Niagara Falls, NY | 0.9574
Erie, NY
Niagara, NY
1303 Burlington, VT | 0.9742
Chittenden, VT
Franklin, VT
Grand Isle, VT
1310 Caguas, PR | 0.4175
Caguas, PR
Cayey, PR
Cidra, PR
Gurabo, PR
San Lorenzo, PR
1320 Canton-Massillon, OH | 0.9103
Carroll, OH
Stark, OH
1350 Casper, WY | 0.9187
Natrona, WY
1360 Cedar Rapids, IA | 0.8909
Linn, IA
1400 Champaign-Urbana, IL | 0.9881
Champaign, IL
1440 Charleston-North Charleston, SC | 0.9282
Berkeley, SC
Charleston, SC
Dorchester, SC
1480 Charleston, WV | 0.8730
Kanawha, WV
Putnam, WV
1520 Charlotte-Gastonia-Rock Hill, NC-SC | 0.9739
Cabarrus, NC
Gaston, NC
Lincoln, NC
Mecklenburg, NC
Rowan, NC
Stanly, NC
Union, NC
York, SC
1540 Charlottesville, VA | 1.0065
Albemarle, VA
Charlottesville City, VA
Fluvanna, VA
Greene, VA
1560 Chattanooga, TN-GA | 0.8961
Catoosa, GA
Dade, GA
Walker, GA
Hamilton, TN
Marion, TN
1580 Cheyenne, WY | 0.9187
Laramie, WY
1600 Chicago, IL | 1.0982
Cook, IL
DeKalb, IL
DuPage, IL
Grundy, IL
Kane, IL
Kendall, IL
Lake, IL
McHenry, IL
Will, IL
1620 Chico-Paradise, CA | 1.0206
Butte, CA
1640 Cincinnati, OH-KY-IN | 0.9425
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8292
Christian, KY
Montgomery, TN
1680 Cleveland-Lorain-Elyria, OH | 0.9691
Ashtabula, OH
Cuyahoga, OH
Geauga, OH
Lake, OH
Lorain, OH
Medina, OH
1720 Colorado Springs, CO | 0.9063
El Paso, CO
1740 Columbia, MO | 0.8721
Boone, MO
1760 Columbia, SC | 0.8934
Lexington, SC
Richland, SC
1800 Columbus, GA-AL | 0.8677
Russell, AL
Chattahoochee, GA
Harris, GA
Muscogee, GA
1840 Columbus, OH | 0.9623
Delaware, OH
Fairfield, OH
Franklin, OH
Licking, OH
Madison, OH
Pickaway, OH
1880 Corpus Christi, TX | 0.8542
Nueces, TX
San Patricio, TX
1890 Corvallis, OR | 1.1562
Benton, OR
1900 Cumberland, MD-WV (WV Hospital) | 0.8202
Allegany, MD
Mineral, WV
1920 Dallas, TX | 0.9703
Collin, TX
Dallas, TX
Denton, TX
Ellis, TX
Henderson, TX
Hunt, TX
Kaufman, TX
Rockwall, TX
1950 Danville, VA | 0.9071
Danville City, VA
Pittsylvania, VA
1960 Davenport-Moline-Rock Island, IA-IL | 0.8728
Scott, IA
Henry, IL
Rock Island, IL
2000 Dayton-Springfield, OH | 0.9391
Clark, OH
Greene, OH
Miami, OH
Montgomery, OH
2020 Daytona Beach, FL | 0.9183
Flagler, FL
Volusia, FL
2030 Decatur, AL | 0.8858
Lawrence, AL
Morgan, AL
2040 Decatur, IL | 0.8321
Macon, IL
2080 Denver, CO | 1.0747
Adams, CO
Arapahoe, CO
Broomfield, CO
Denver, CO
Douglas, CO
Jefferson, CO
2120 Des Moines, IA | 0.9024
Dallas, IA
Polk, IA
Warren, IA
2160 Detroit, MI | 1.0070
Lapeer, MI
Macomb, MI
Monroe, MI
Oakland, MI
St. Clair, MI
Wayne, MI
2180 Dothan, AL | 0.7894
Dale, AL
Houston, AL
2190 Dover, DE | 0.9844
Kent, DE
2200 Dubuque, IA | 0.8922
Dubuque, IA
2240 Duluth-Superior, MN-WI | 1.0145
St. Louis, MN
Douglas, WI
2281 Dutchess County, NY | 1.0937
Dutchess, NY
2290 Eau Claire, WI | 0.9204
Chippewa, WI
Eau Claire, WI
2320 El Paso, TX | 0.9242
El Paso, TX
2330 Elkhart-Goshen, IN | 0.9822
Elkhart, IN
2335 Elmira, NY | 0.8546
Chemung, NY
2340 Enid, OK | 0.8593
Garfield, OK
2360 Erie, PA | 0.8613
Erie, PA
2400 Eugene-Springfield, OR | 1.1501
Lane, OR
2440 Evansville-Henderson, IN-KY (IN Hospitals) | 0.8782
Posey, IN
Vanderburgh, IN
Warrick, IN
Henderson, KY
2520 Fargo-Moorhead, ND-MN | 0.9624
Clay, MN
Cass, ND
2560 Fayetteville, NC | 0.8933
Cumberland, NC
2580 Fayetteville-Springdale-Rogers, AR | 0.8016
Benton, AR
Washington, AR
2620 Flagstaff, AZ-UT | 1.1378
Coconino, AZ
Kane, UT
2640 Flint, MI | 1.0900
Genesee, MI
2650 Florence, AL | 0.7751
Colbert, AL
Lauderdale, AL
2655 Florence, SC | 0.8739
Florence, SC
2670 Fort Collins-Loveland, CO | 1.0173
Larimer, CO
2680 Ft. Lauderdale, FL | 1.0168
Broward, FL
2700 Fort Myers-Cape Coral, FL | 0.9851
Lee, FL
2710 Fort Pierce-Port St. Lucie, FL | 1.0028
Martin, FL
St. Lucie, FL
2720 Fort Smith, AR-OK | 0.7741
Crawford, AR
Sebastian, AR
Sequoyah, OK
2750 Fort Walton Beach, FL | 0.8905
Okaloosa, FL
2760 Fort Wayne, IN | 0.9649
Adams, IN
Allen, IN
De Kalb, IN
Huntington, IN
Wells, IN
Whitley, IN
2800 Forth Worth-Arlington, TX | 0.9243
Hood, TX
Johnson, TX
Parker, TX
Tarrant, TX
2840 Fresno, CA | 1.0130
Fresno, CA
Madera, CA
2880 Gadsden, AL | 0.8254
Etowah, AL
2900 Gainesville, FL | 0.8846
Alachua, FL
2920 Galveston-Texas City, TX | 0.9335
Galveston, TX
2960 Gary, IN | 0.9437
Lake, IN
Porter, IN
2975 Glens Falls, NY | 0.8546
Warren, NY
Washington, NY
2980 Goldsboro, NC | 0.8656
Wayne, NC
2985 Grand Forks, ND-MN | 0.8670
Polk, MN
Grand Forks, ND
2995 Grand Junction, CO | 0.9661
Mesa, CO
3000 Grand Rapids-Muskegon-Holland, MI | 0.9372
Allegan, MI
Kent, MI
Muskegon, MI
Ottawa, MI
3040 Great Falls, MT | 0.8843
Cascade, MT
3060 Greeley, CO | 0.9409
Weld, CO
3080 Green Bay, WI | 0.9498
Brown, WI
3120 Greensboro-Winston-Salem-High Point, NC | 0.8506
Alamance, NC
Davidson, NC
Davie, NC
Forsyth, NC
Guilford, NC
Randolph, NC
Stokes, NC
Yadkin, NC
3150 Greenville, NC | 0.9595
Pitt, NC
3160 Greenville-Spartanburg-Anderson, SC | 0.9264
Anderson, SC
Cherokee, SC
Greenville, SC
Pickens, SC
Spartanburg, SC
3180 Hagerstown, MD | 0.9208
Washington, MD
3200 Hamilton-Middletown, OH | 0.9211
Butler, OH
3240 Harrisburg-Lebanon-Carlisle, PA | 0.9153
Cumberland, PA
Dauphin, PA
Lebanon, PA
Perry, PA
3283 Hartford, CT | 1.2166
Hartford, CT
Litchfield, CT
Middlesex, CT
Tolland, CT
3285 Hattiesburg, MS | 0.7812
Forrest, MS
Lamar, MS
3290 Hickory-Morganton-Lenoir, NC | 0.9065
Alexander, NC
Burke, NC
Caldwell, NC
Catawba, NC
3320 Honolulu, HI | 1.1142
Honolulu, HI
3350 Houma, LA | 0.7743
Lafourche, LA
Terrebonne, LA
3360 Houston, TX | 0.9572
Chambers, TX
Fort Bend, TX
Harris, TX
Liberty, TX
Montgomery, TX
Waller, TX
3400 Huntington-Ashland, WV-KY-OH | 0.9594
Boyd, KY
Carter, KY
Greenup, KY
Lawrence, OH
Cabell, WV
Wayne, WV
3440 Huntsville, AL | 0.9213
Limestone, AL
Madison, AL
3480 Indianapolis, IN | 0.9921
Boone, IN
Hamilton, IN
Hancock, IN
Hendricks, IN
Johnson, IN
Madison, IN
Marion, IN
Morgan, IN
Shelby, IN
3500 Iowa City, IA | 0.9579
Johnson, IA
3520 Jackson, MI | 0.9019
Jackson, MI
3560 Jackson, MS | 0.8388
Hinds, MS
Madison, MS
Rankin, MS
3580 Jackson, TN | 0.8579
Madison, TN
Chester, TN
3600 Jacksonville, FL | 0.9342
Clay, FL
Duval, FL
Nassau, FL
St. Johns, FL
3605 Jacksonville, NC | 0.8566
Onslow, NC
3610 Jamestown, NY | 0.8546
Chautauqua, NY
3620 Janesville-Beloit, WI | 0.9318
Rock, WI
3640 Jersey City, NJ | 1.1173
Hudson, NJ
3660 Johnson City-Kingsport-Bristol, TN-VA | 0.8348
Carter, TN
Hawkins, TN
Sullivan, TN
Unicoi, TN
Washington, TN
Bristol City, VA
Scott, VA
Washington, VA
3680 Johnstown, PA | 0.8415
Cambria, PA
Somerset, PA
3700 Jonesboro, AR | 0.7741
Craighead, AR
3710 Joplin, MO | 0.8715
Jasper, MO
Newton, MO
3720 Kalamazoo-Battlecreek, MI | 1.0526
Calhoun, MI
Kalamazoo, MI
Van Buren, MI
3740 Kankakee, IL | 1.1044
Kankakee, IL
3760 Kansas City, KS-MO | 0.9525
Johnson, KS
Leavenworth, KS
Miami, KS
Wyandotte, KS
Cass, MO
Clay, MO
Clinton, MO
Jackson, MO
Lafayette, MO
Platte, MO
Ray, MO
3800 Kenosha, WI | 0.9799
Kenosha, WI
3810 Killeen-Temple, TX | 0.9197
Bell, TX
Coryell, TX
3840 Knoxville, TN | 0.8963
Anderson, TN
Blount, TN
Knox, TN
Loudon, TN
Sevier, TN
Union, TN
3850 Kokomo, IN | 0.9080
Howard, IN
Tipton, IN
3870 La Crosse, WI-MN | 0.9234
Houston, MN
La Crosse, WI
3880 Lafayette, LA | 0.8250
Acadia, LA
Lafayette, LA
St. Landry, LA
St. Martin, LA
3920 Lafayette, IN | 0.9027
Clinton, IN
Tippecanoe, IN
3960 Lake Charles, LA | 0.8453
Calcasieu, LA
3980 Lakeland-Winter Haven, FL | 0.8846
Polk, FL
4000 Lancaster, PA | 0.9300
Lancaster, PA
4040 Lansing-East Lansing, MI | 0.9245
Clinton, MI
Eaton, MI
Ingham, MI
4080 Laredo, TX | 0.8123
Webb, TX
4100 Las Cruces, NM | 0.8509
Dona Ana, NM
4120 Las Vegas, NV-AZ | 1.1426
Mohave, AZ
Clark, NV
Nye, NV
4150 Lawrence, KS | 0.8712
Douglas, KS
4200 Lawton, OK | 0.8300
Comanche, OK
4243 Lewiston-Auburn, ME | 0.9364
Androscoggin, ME
4280 Lexington, KY | 0.8599
Bourbon, KY
Clark, KY
Fayette, KY
Jessamine, KY
Madison, KY
Scott, KY
Woodford, KY
4320 Lima, OH | 0.9432
Allen, OH
Auglaize, OH
4360 Lincoln, NE | 1.0074
Lancaster, NE
4400 Little Rock-North Little Rock, AR | 0.8882
Faulkner, AR
Lonoke, AR
Pulaski, AR
Saline, AR
4420 Longview-Marshall, TX | 0.9116
Gregg, TX
Harrison, TX
Upshur, TX
4480 Los Angeles-Long Beach, CA | 1.1607
Los Angeles, CA
4520 Louisville, KY-IN | 0.9149
Clark, IN
Floyd, IN
Harrison, IN
Scott, IN
Bullitt, KY
Jefferson, KY
Oldham, KY
4600 Lubbock, TX | 0.8308
Lubbock, TX
4640 Lynchburg, VA | 0.9177
Amherst, VA
Bedford, VA
Bedford City, VA
Campbell, VA
Lynchburg City, VA
4680 Macon, GA | 0.9005
Bibb, GA
Houston, GA
Jones, GA
Peach, GA
Twiggs, GA
4720 Madison, WI | 1.0208
Dane, WI
4800 Mansfield, OH | 0.9034
Crawford, OH
Richland, OH
4840 Mayaguez, PR | 0.4767
Anasco, PR
Cabo Rojo, PR
Hormigueros, PR
Mayaguez, PR
Sabana Grande, PR
San German, PR
4880 McAllen-Edinburg-Mission, TX | 0.9060
Hidalgo, TX
4890 Medford-Ashland, OR | 1.0815
Jackson, OR
4900 Melbourne-Titusville-Palm Bay, FL | 0.9775
Brevard, Fl
4920 Memphis, TN-AR-MS | 0.9300
Crittenden, AR
DeSoto, MS
Fayette, TN
Shelby, TN
Tipton, TN
4940 Merced, CA | 0.9956
Merced, CA
5000 Miami, FL | 0.9862
Dade, FL
5015 Middlesex-Somerset-Hunterdon, NJ | 1.1407
Hunterdon, NJ
Middlesex, NJ
Somerset, NJ
5080 Milwaukee-Waukesha, WI | 0.9862
Milwaukee, WI
Ozaukee, WI
Washington, WI
Waukesha, WI
5120 Minneapolis-St. Paul, MN-WI | 1.1034
Anoka, MN
Carver, MN
Chisago, MN
Dakota, MN
Hennepin, MN
Isanti, MN
Ramsey, MN
Scott, MN
Sherburne, MN
Washington, MN
Wright, MN
Pierce, WI
St. Croix, WI
5140 Missoula, MT | 0.8806
Missoula, MT
5160 Mobile, AL | 0.7927
Baldwin, AL
Mobile, AL
5170 Modesto, CA | 1.1313
Stanislaus, CA
5190 Monmouth-Ocean, NJ | 1.0934
Monmouth, NJ
Ocean, NJ
5200 Monroe, LA | 0.7956
Ouachita, LA
5240 Montgomery, AL | 0.7835
Autauga, AL
Elmore, AL
Montgomery, AL
5280 Muncie, IN | 0.8782
Delaware, IN
5330 Myrtle Beach, SC | 0.8926
Horry, SC
5345 Naples, FL | 0.9840
Collier, FL
5360 Nashville, TN | 0.9809
Cheatham, TN
Davidson, TN
Dickson, TN
Robertson, TN
Rutherford TN
Sumner, TN
Williamson, TN
Wilson, TN
5380 Nassau-Suffolk, NY | 1.2976
Nassau, NY
Suffolk, NY
5483 New Haven-Bridgeport-Stamford-Waterbury-Danbury, CT | 1.2452
Fairfield, CT
New Haven, CT
5523 New London-Norwich, CT | 1.2166
New London, CT
5560 New Orleans, LA | 0.9148
Jefferson, LA
Orleans, LA
Plaquemines, LA
St. Bernard, LA
St. Charles, LA
St. James, LA
St. John The Baptist, LA
St. Tammany, LA
5600 New York, NY | 1.3830
Bronx, NY
Kings, NY
New York, NY
Putnam, NY
Queens, NY
Richmond, NY
Rockland, NY
Westchester, NY
5640 Newark, NJ | 1.1386
Essex, NJ
Morris, NJ
Sussex, NJ
Union, NJ
Warren, NJ
5660 Newburgh, NY-PA | 1.1283
Orange, NY
Pike, PA
5720 Norfolk-Virginia Beach-Newport News, VA-NC | 0.8636
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 Oakland, CA | 1.5004
Alameda, CA
Contra Costa, CA
5790 Ocala, FL | 0.9761
Marion, FL
5800 Odessa-Midland, TX | 0.9422
Ector, TX
Midland, TX
5880 Oklahoma City, OK | 0.9010
Canadian, OK
Cleveland, OK
Logan, OK
McClain, OK
Oklahoma, OK
Pottawatomie, OK
5910 Olympia, WA | 1.1001
Thurston, WA
5920 Omaha, NE-IA | 0.9718
Pottawattamie, IA
Cass, NE
Douglas, NE
Sarpy, NE
Washington, NE
5945 Orange County, CA | 1.1205
Orange, CA
5960 Orlando, FL | 0.9586
Lake, FL
Orange, FL
Osceola, FL
Seminole, FL
5990 Owensboro, KY | 0.8407
Daviess, KY
6015 Panama City, FL | 0.8846
Bay, FL
6020 Parkersburg-Marietta, WV-OH | 0.8071
Washington, OH
Wood, WV
6080 Pensacola, FL | 0.8846
Escambia, FL
Santa Rosa, FL
6120 Peoria-Pekin, IL | 0.8769
Peoria, IL
Tazewell, IL
Woodford, IL
6160 Philadelphia, PA-NJ | 1.0917
Burlington, NJ
Camden, NJ
Gloucester, NJ
Salem, NJ
Bucks, PA
Chester, PA
Delaware, PA
Montgomery, PA
Philadelphia, PA
6200 Phoenix-Mesa, AZ | 1.0185
Maricopa, AZ
Pinal, AZ
6240 Pine Bluff, AR | 0.7741
Jefferson, AR
6280 Pittsburgh, PA | 0.8764
Allegheny, PA
Beaver, PA
Butler, PA
Fayette, PA
Washington, PA
Westmoreland, PA
6323 Pittsfield, MA | 1.0832
Berkshire, MA
6340 Pocatello, ID | 0.9078
Bannock, ID
6360 Ponce, PR | 0.4749
Guayanilla, PR
Juana Diaz, PR
Penuelas, PR
Ponce, PR
Villalba, PR
Yauco, PR
6403 Portland, ME | 0.9958
Cumberland, ME
Sagadahoc, ME
York, ME
6440 Portland-Vancouver, OR-WA | 1.1162
Clackamas, OR
Columbia, OR
Multnomah, OR
Washington, OR
Yamhill, OR
Clark, WA
6483 Providence-Warwick-Pawtucket, RI | 1.0995
Bristol, RI
Kent, RI
Newport, RI
Providence, RI
Washington, RI
6520 Provo-Orem, UT | 1.0016
Utah, UT
6560 Pueblo, CO | 0.9063
Pueblo, CO
6580 Punta Gorda, FL | 0.9493
Charlotte, FL
6600 Racine, WI | 0.9204
Racine, WI
6640 Raleigh-Durham-Chapel Hill, NC | 1.0073
Chatham, NC
Durham, NC
Franklin, NC
Johnston, NC
Orange, NC
Wake, NC
6660 Rapid City, SD | 0.8841
Pennington, SD
6680 Reading, PA | 0.9018
Berks, PA
6690 Redding, CA | 1.1389
Shasta, CA
6720 Reno, NV | 1.0714
Washoe, NV
6740 Richland-Kennewick-Pasco, WA | 1.0599
Benton, WA
Franklin, WA
6760 Richmond-Petersburg, VA | 0.9377
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 Riverside-San Bernardino, CA | 1.1293
Riverside, CA
San Bernardino, CA
6800 Roanoke, VA | 0.8735
Botetourt, VA
Roanoke, VA
Roanoke City, VA
Salem City, VA
6820 Rochester, MN | 1.1770
Olmsted, MN
6840 Rochester, NY | 0.9530
Genesee, NY
Livingston, NY
Monroe, NY
Ontario, NY
Orleans, NY
Wayne, NY
6880 Rockford, IL | 0.9704
Boone, IL
Ogle, IL
Winnebago, IL
6895 Rocky Mount, NC | 0.9034
Edgecombe, NC
Nash, NC
6920 Sacramento, CA | 1.1879
El Dorado, CA
Placer, CA
Sacramento, CA
6960 Saginaw-Bay City-Midland, MI | 0.9594
Bay, MI
Midland, MI
Saginaw, MI
6980 St. Cloud, MN | 0.9508
Benton, MN
Stearns, MN
7000 St. Joseph, MO | 0.9796
Andrew, MO
Buchanan, MO
7040 St. Louis, MO-IL | 0.9025
Clinton, IL
Jersey, IL
Madison, IL
Monroe, IL
St. Clair, IL
Franklin, MO
Jefferson, MO
Lincoln, MO
St. Charles, MO
St. Louis, MO
St. Louis City, MO
Warren, MO
7080 Salem, OR | 1.0524
Marion, OR
Polk, OR
7120 Salinas, CA | 1.4396
Monterey, CA
7160 Salt Lake City-Ogden, UT | 0.9872
Davis, UT
Salt Lake, UT
Weber, UT
7200 San Angelo, TX | 0.8266
Tom Green, TX
7240 San Antonio, TX | 0.8852
Bexar, TX
Comal, TX
Guadalupe, TX
Wilson, TX
7320 San Diego, CA | 1.1176
San Diego, CA
7360 San Francisco, CA | 1.4310
Marin, CA
San Francisco, CA
San Mateo, CA
7400 San Jose, CA | 1.4603
Santa Clara, CA
7440 San Juan-Bayamon, PR | 0.4890
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.1454
San Luis Obispo, CA
7480 Santa Barbara-Santa Maria-Lompoc, CA | 1.0483
Santa Barbara, CA
7485 Santa Cruz-Watsonville, CA | 1.2977
Santa Cruz, CA
7490 Santa Fe, NM | 1.0611
Los Alamos, NM
Santa Fe, NM
7500 Santa Rosa, CA | 1.2801
Sonoma, CA
7510 Sarasota-Bradenton, FL | 0.9793
Manatee, FL
Sarasota, FL
7520 Savannah, GA | 0.9530
Bryan, GA
Chatham, GA
Effingham, GA
7560 Scranton—Wilkes-Barre—Hazleton, PA | 0.8415
Columbia, PA
Lackawanna, PA
Luzerne, PA
Wyoming, PA
7600 Seattle-Bellevue-Everett, WA | 1.1526
Island, WA
King, WA
Snohomish, WA
7610 Sharon, PA | 0.8415
Mercer, PA
7620 Sheboygan, WI | 0.9204
Sheboygan, WI
7640 Sherman-Denison, TX | 0.9482
Grayson, TX
7680 Shreveport-Bossier City, LA | 0.9119
Bossier, LA
Caddo, LA
Webster, LA
7720 Sioux City, IA-NE | 0.9028
Woodbury, IA
Dakota, NE
7760 Sioux Falls, SD | 0.9345
Lincoln, SD
Minnehaha, SD
7800 South Bend, IN | 0.9860
St. Joseph, IN
7840 Spokane, WA | 1.0940
Spokane, WA
7880 Springfield, IL | 0.8980
Menard, IL
Sangamon, IL
7920 Springfield, MO | 0.8447
Christian, MO
Greene, MO
Webster, MO
8003 Springfield, MA | 1.0832
Hampden, MA
Hampshire, MA
8050 State College, PA | 0.8775
Centre, PA
8080 Steubenville-Weirton, OH-WV (WV Hospitals) | 0.8431
Jefferson, OH
Brooke, WV
Hancock, WV
8120 Stockton-Lodi, CA | 1.0549
San Joaquin, CA
8140 Sumter, SC | 0.8478
Sumter, SC
8160 Syracuse, NY | 0.9457
Cayuga, NY
Madison, NY
Onondaga, NY
Oswego, NY
8200 Tacoma, WA | 1.0526
Pierce, WA
8240 Tallahassee, FL | 0.8846
Gadsden, FL
Leon, FL
8280 Tampa-St. Petersburg-Clearwater, FL | 0.9087
Hernando, FL
Hillsborough, FL
Pasco, FL
Pinellas, FL
8320 Terre Haute, IN | 0.8782
Clay, IN
Vermillion, IN
Vigo, IN
8360 Texarkana,AR-Texarkana, TX | 0.8176
Miller, AR
Bowie, TX
8400 Toledo, OH | 0.9525
Fulton, OH
Lucas, OH
Wood, OH
8440 Topeka, KS | 0.8997
Shawnee, KS
8480 Trenton, NJ | 1.0528
Mercer, NJ
8520 Tucson, AZ | 0.9017
Pima, AZ
8560 Tulsa, OK | 0.9113
Creek, OK
Osage, OK
Rogers, OK
Tulsa, OK
Wagoner, OK
8600 Tuscaloosa, AL | 0.8217
Tuscaloosa, AL
8640 Tyler, TX | 0.8766
Smith, TX
8680 Utica-Rome, NY | 0.8546
Herkimer, NY
Oneida, NY
8720 Vallejo-Fairfield-Napa, CA | 1.3410
Napa, CA
Solano, CA
8735 Ventura, CA | 1.0444
Ventura, CA
8750 Victoria, TX | 0.8084
Victoria, TX
8760 Vineland-Millville-Bridgeton, NJ | 1.0447
Cumberland, NJ
8780 Visalia-Tulare-Porterville, CA | 0.9956
Tulare, CA
8800 Waco, TX | 0.8427
McLennan, TX
8840 Washington, DC-MD-VA-WV | 1.0678
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8431
Black Hawk, IA
8940 Wausau, WI | 0.9731
Marathon, WI
8960 West Palm Beach-Boca Raton, FL | 0.9758
Palm Beach, FL
9000 Wheeling, WV-OH | 0.8027
Belmont, OH
Marshall, WV
Ohio, WV
9040 Wichita, KS | 0.9275
Butler, KS
Harvey, KS
Sedgwick, KS
9080 Wichita Falls, TX | 0.8385
Archer, TX
Wichita, TX
9140 Williamsport, PA | 0.8415
Lycoming, PA
9160 Wilmington-Newark, DE-MD | 1.0925
New Castle, DE
Cecil, MD
9200 Wilmington, NC | 0.9579
New Hanover, NC
Brunswick, NC
9260 Yakima, WA | 1.0526
Yakima, WA
9270 Yolo, CA | 0.9956
Yolo, CA
9280 York, PA | 0.9098
York, PA
9320 Youngstown-Warren, OH | 0.9248
Columbiana, OH
Mahoning, OH
Trumbull, OH
9340 Yuba City, CA | 1.0236
Sutter, CA
Yuba, CA
9360 Yuma, AZ | 0.9017
Yuma, AZ

Table 4H.—Pre-reclassified Wage Index for Rural Areas
Nonurban area | Wage index
Alabama | 0.7470
Alaska | 1.1958
Arizona | 0.8906
Arkansas | 0.7746
California | 0.9907
Colorado | 0.8897
Connecticut | 1.2199
Delaware | 0.9280
Florida | 0.8782
Georgia | 0.8365
Hawaii | 0.9896
Idaho | 0.8907
Illinois | 0.8282
Indiana | 0.8770
Iowa | 0.8278
Kansas | 0.7860
Kentucky | 0.7922
Louisiana | 0.7478
Maine | 0.8995
Maryland | 0.9175
Massachusetts | 1.1234
Michigan | 0.8807
Minnesota | 0.9223
Mississippi | 0.7795
Missouri | 0.7793
Montana | 0.8530
Nebraska | 0.8326
Nevada | 0.9758
New Hampshire | 0.9944
¹ New Jersey |
New Mexico | 0.8314
New York | 0.8530
North Carolina | 0.8355
North Dakota | 0.7536
Ohio | 0.8756
Oklahoma | 0.7577
Oregon | 0.9939
Pennsylvania | 0.8429
Puerto Rico | 0.4037
¹ Rhode Island |
South Carolina | 0.8489
South Dakota | 0.8093
Tennessee | 0.7945
Texas | 0.7673
Utah | 0.9034
Vermont | 0.9278
Virginia | 0.8542
Washington | 1.0242
West Virginia | 0.8008
Wisconsin | 0.9130
Wyoming | 0.9137
¹ All counties within the State are classified as urban.

* Medicare data have been supplemented by data from 19 States for low volume DRGs.

** DRGs 469 and 470 contain cases that could not be assigned to valid DRGs.

Note 1: Geometric mean is used only to determine payment for transfer cases.

Note 2: Arithmetic mean is presented for informational purposes only.

Note 3: Relative weights are based on Medicare patient data and may not be appropriate for other patients.

Table 5.—List of Diagnosis-Related Groups (DRGs), Relative Weighting Factors, and Geographic and Arithmetic Mean Length of Stay (LOS)
DRG | MDC | Type | DRG title | Relative weights | Geometric mean LOS | Arithmetic mean LOS
1 | 1 | SURG | CRANIOTOMY AGE >17 W CC | 3.5287 | 7.9 | 10.6
2 | 1 | SURG | CRANIOTOMY AGE >17 W/O CC | 2.0797 | 4.1 | 5.3
3 | 1 | SURG | *CRANIOTOMY AGE 0-17 | 1.9545 | 12.7 | 12.7
4 | 1 | SURG | *NO LONGER VALID | 0.0000 | 0.0 | 0.0
5 | 1 | SURG | *NO LONGER VALID | 0.0000 | 0.0 | 0.0
6 | 1 | SURG | CARPAL TUNNEL RELEASE | 0.7987 | 2.1 | 3.0
7 | 1 | SURG | PERIPH & CRANIAL NERVE & OTHER NERV SYST PROC W CC | 2.6451 | 6.7 | 9.9
8 | 1 | SURG | PERIPH & CRANIAL NERVE & OTHER NERV SYST PROC W/O CC | 1.5337 | 1.9 | 2.8
9 | 1 | MED | SPINAL DISORDERS & INJURIES | 1.3323 | 4.7 | 6.4
10 | 1 | MED | NERVOUS SYSTEM NEOPLASMS W CC | 1.2348 | 4.8 | 6.5
11 | 1 | MED | NERVOUS SYSTEM NEOPLASMS W/O CC | 0.8498 | 3.0 | 4.1
12 | 1 | MED | DEGENERATIVE NERVOUS SYSTEM DISORDERS | 0.9170 | 4.5 | 5.9
13 | 1 | MED | MULTIPLE SCLEROSIS & CEREBELLAR ATAXIA | 0.8129 | 4.0 | 5.0
14 | 1 | MED | INTRACRANIAL HEMORRHAGE & STROKE W INFARCT | 1.2589 | 4.7 | 6.1
15 | 1 | MED | NONSPECIFIC CVA & PRECEREBRAL OCCLUSION W/O INFARCT | 0.9588 | 3.9 | 4.9
16 | 1 | MED | NONSPECIFIC CEREBROVASCULAR DISORDERS W CC | 1.2518 | 4.8 | 6.4
17 | 1 | MED | NONSPECIFIC CEREBROVASCULAR DISORDERS W/O CC | 0.6939 | 2.5 | 3.2
18 | 1 | MED | CRANIAL & PERIPHERAL NERVE DISORDERS W CC | 0.9970 | 4.2 | 5.5
19 | 1 | MED | CRANIAL & PERIPHERAL NERVE DISORDERS W/O CC | 0.6971 | 2.8 | 3.5
20 | 1 | MED | NERVOUS SYSTEM INFECTION EXCEPT VIRAL MENINGITIS | 2.7213 | 8.0 | 10.5
21 | 1 | MED | VIRAL MENINGITIS | 1.5069 | 5.0 | 6.6
22 | 1 | MED | HYPERTENSIVE ENCEPHALOPATHY | 1.0671 | 3.9 | 5.1
23 | 1 | MED | NONTRAUMATIC STUPOR & COMA | 0.8187 | 3.2 | 4.3
24 | 1 | MED | SEIZURE & HEADACHE AGE >17 W CC | 1.0021 | 3.7 | 5.0
25 | 1 | MED | SEIZURE & HEADACHE AGE >17 W/O CC | 0.6060 | 2.5 | 3.2
26 | 1 | MED | SEIZURE & HEADACHE AGE 0-17 | 1.4637 | 2.3 | 4.3
27 | 1 | MED | TRAUMATIC STUPOR & COMA, COMA >1 HR | 1.3235 | 3.2 | 5.2
28 | 1 | MED | TRAUMATIC STUPOR & COMA, COMA <1 HR AGE >17 W CC | 1.3285 | 4.4 | 6.1
29 | 1 | MED | TRAUMATIC STUPOR & COMA, COMA <1 HR AGE >17 W/O CC | 0.7042 | 2.7 | 3.5
30 | 1 | MED | *TRAUMATIC STUPOR & COMA, COMA <1 HR AGE 0-17 | 0.3306 | 2.0 | 2.0
31 | 1 | MED | *CONCUSSION AGE >17 W CC | 0.8940 | 3.1 | 4.0
32 | 1 | MED | CONCUSSION AGE >17 W/O CC | 0.5571 | 2.0 | 2.5
33 | 1 | MED | CONCUSSION AGE 0-17 | 0.2076 | 1.6 | 1.6
34 | 1 | MED | OTHER DISORDERS OF NERVOUS SYSTEM W CC | 0.9863 | 3.7 | 5.0
35 | 1 | MED | OTHER DISORDERS OF NERVOUS SYSTEM W/O CC | 0.6293 | 2.5 | 3.1
36 | 2 | SURG | RETINAL PROCEDURES | 0.6302 | 1.2 | 1.5
37 | 2 | SURG | ORBITAL PROCEDURES | 1.0539 | 2.5 | 3.8
38 | 2 | SURG | PRIMARY IRIS PROCEDURES | 0.4676 | 1.9 | 2.8
39 | 2 | SURG | LENS PROCEDURES WITH OR WITHOUT VITRECTOMY | 0.6263 | 1.5 | 2.1
40 | 2 | SURG | EXTRAOCULAR PROCEDURES EXCEPT ORBIT AGE >17 | 0.8867 | 2.6 | 3.8
41 | 2 | SURG | *EXTRAOCULAR PROCEDURES EXCEPT ORBIT AGE 0-17 | 0.3365 | 1.6 | 1.6
42 | 2 | SURG | INTRAOCULAR PROCEDURES EXCEPT RETINA, IRIS & LENS | 0.7032 | 1.9 | 2.7
43 | 2 | MED | HYPHEMA | 0.5402 | 2.4 | 3.4
44 | 2 | MED | ACUTE MAJOR EYE INFECTIONS | 0.6631 | 4.0 | 5.1
45 | 2 | MED | NEUROLOGICAL EYE DISORDERS | 0.7191 | 2.5 | 3.1
46 | 2 | MED | OTHER DISORDERS OF THE EYE AGE >17 W CC | 0.7876 | 3.4 | 4.5
47 | 2 | MED | OTHER DISORDERS OF THE EYE AGE >17 W/O CC | 0.5275 | 2.4 | 3.1
48 | 2 | MED | *OTHER DISORDERS OF THE EYE AGE 0-17 | 0.2964 | 2.9 | 2.9
49 | 3 | SURG | MAJOR HEAD & NECK PROCEDURES | 1.7194 | 3.2 | 4.5
50 | 3 | SURG | SIALOADENECTOMY | 0.8279 | 1.5 | 1.9
51 | 3 | SURG | SALIVARY GLAND PROCEDURES EXCEPT SIALOADENECTOMY | 0.8429 | 1.9 | 2.8
52 | 3 | SURG | CLEFT LIP & PALATE REPAIR | 0.7986 | 1.5 | 1.8
53 | 3 | SURG | SINUS & MASTOID PROCEDURES AGE >17 | 1.2474 | 2.2 | 3.6
54 | 3 | SURG | *SINUS & MASTOID PROCEDURES AGE 0-17 | 0.4805 | 3.2 | 3.2
55 | 3 | SURG | MISCELLANEOUS EAR, NOSE, MOUTH & THROAT PROCEDURES | 0.9181 | 2.0 | 2.9
56 | 3 | SURG | RHINOPLASTY | 0.9174 | 1.9 | 2.9
57 | 3 | SURG | T&A PROC, EXCEPT TONSILLECTOMY &/OR ADENOIDECTOMY ONLY, AGE >17 | 1.0980 | 2.4 | 3.7
58 | 3 | SURG | T&A PROC, EXCEPT TONSILLECTOMY &/OR *ADENOIDECTOMY ONLY, AGE 0-17 | 0.2728 | 1.5 | 1.5
59 | 3 | SURG | TONSILLECTOMY &/OR ADENOIDECTOMY ONLY, AGE >17 | 0.9629 | 1.9 | 2.7
60 | 3 | SURG | *TONSILLECTOMY &/OR ADENOIDECTOMY ONLY, AGE 0-17 | 0.2077 | 1.5 | 1.5
61 | 3 | SURG | MYRINGOTOMY W TUBE INSERTION AGE >17 | 1.2166 | 3.0 | 5.1
62 | 3 | SURG | *MYRINGOTOMY W TUBE INSERTION AGE 0-17 | 0.2942 | 1.3 | 1.3
63 | 3 | SURG | OTHER EAR, NOSE, MOUTH & THROAT O.R. PROCEDURES | 1.3651 | 3.0 | 4.4
64 | 3 | MED | EAR, NOSE, MOUTH & THROAT MALIGNANCY | 1.3020 | 4.3 | 6.5
65 | 3 | MED | DYSEQUILIBRIUM | 0.5691 | 2.3 | 2.8
66 | 3 | MED | EPISTAXIS | 0.5755 | 2.4 | 3.1
67 | 3 | MED | EPIGLOTTITIS | 0.7751 | 2.9 | 3.7
68 | 3 | MED | OTITIS MEDIA & URI AGE &gt;17 W CC | 0.6481 | 3.1 | 3.9
69 | 3 | MED | OTITIS MEDIA & URI AGE &gt;17 W/O CC | 0.4951 | 2.5 | 3.0
70 | 3 | MED | OTITIS MEDIA & URI AGE 0-17 | 0.3243 | 1.9 | 2.3
71 | 3 | MED | LARYNGOTRACHEITIS | 0.6908 | 2.4 | 3.4
72 | 3 | MED | NASAL TRAUMA & DEFORMITY | 0.6909 | 2.6 | 3.4
73 | 3 | MED | OTHER EAR, NOSE, MOUTH & THROAT DIAGNOSES AGE >17 | 0.8128 | 3.3 | 4.5
74 | 3 | MED | *OTHER EAR, NOSE, MOUTH & THROAT DIAGNOSES AGE 0-17 | 0.3344 | 2.1 | 2.1
75 | 4 | SURG | MAJOR CHEST PROCEDURES | 3.0248 | 7.7 | 10.0
76 | 4 | SURG | OTHER RESP SYSTEM O.R. PROCEDURES W CC | 2.7935 | 8.4 | 11.1
77 | 4 | SURG | OTHER RESP SYSTEM O.R. PROCEDURES W/O CC | 1.2268 | 3.5 | 4.8
78 | 4 | MED | PULMONARY EMBOLISM | 1.2641 | 5.6 | 6.6
79 | 4 | MED | RESPIRATORY INFECTIONS & INFLAMMATIONS AGE >17 W CC | 1.5867 | 6.7 | 8.5
80 | 4 | MED | RESPIRATORY INFECTIONS & INFLAMMATIONS AGE >17 W/O CC | 0.8340 | 4.3 | 5.4
81 | 4 | MED | *RESPIRATORY INFECTIONS & INFLAMMATIONS AGE 0-17 | 1.5139 | 6.1 | 6.1
82 | 4 | MED | RESPIRATORY NEOPLASMS | 1.3626 | 5.1 | 6.9
83 | 4 | MED | MAJOR CHEST TRAUMA W CC | 0.9511 | 4.3 | 5.4
84 | 4 | MED | MAJOR CHEST TRAUMA W/O CC | 0.5304 | 2.6 | 3.3
85 | 4 | MED | PLEURAL EFFUSION W CC | 1.1847 | 4.8 | 6.3
86 | 4 | MED | PLEURAL EFFUSION W/O CC | 0.6805 | 2.8 | 3.6
87 | 4 | MED | PULMONARY EDEMA & RESPIRATORY FAILURE | 1.3301 | 4.8 | 6.3
88 | 4 | MED | CHRONIC OBSTRUCTIVE PULMONARY DISEASE | 0.8869 | 4.1 | 5.1
89 | 4 | MED | SIMPLE PNEUMONIA & PLEURISY AGE >17 W CC | 1.0374 | 4.9 | 5.9
90 | 4 | MED | SIMPLE PNEUMONIA & PLEURISY AGE >17 W/O CC | 0.6097 | 3.4 | 4.0
91 | 4 | MED | SIMPLE PNEUMONIA & PLEURISY AGE 0-17 | 0.7390 | 3.1 | 5.1
92 | 4 | MED | INTERSTITIAL LUNG DISEASE W CC | 1.1938 | 5.0 | 6.3
93 | 4 | MED | INTERSTITIAL LUNG DISEASE W/O CC | 0.7123 | 3.3 | 4.0
94 | 4 | MED | PNEUMOTHORAX W CC | 1.1256 | 4.7 | 6.3
95 | 4 | MED | PNEUMOTHORAX W/O CC | 0.6112 | 3.0 | 3.8
96 | 4 | MED | BRONCHITIS & ASTHMA AGE >17 W CC | 0.7403 | 3.7 | 4.6
97 | 4 | MED | BRONCHITIS & ASTHMA AGE >17 W/O CC | 0.5464 | 2.9 | 3.5
98 | 4 | MED | *BRONCHITIS & ASTHMA AGE 0-17 | 0.9560 | 3.7 | 3.7
99 | 4 | MED | RESPIRATORY SIGNS & SYMPTOMS W CC | 0.6974 | 2.4 | 3.2
100 | 4 | MED | RESPIRATORY SIGNS & SYMPTOMS W/O CC | 0.5185 | 1.7 | 2.1
101 | 4 | MED | OTHER RESPIRATORY SYSTEM DIAGNOSES W CC | 0.8582 | 3.3 | 4.4
102 | 4 | MED | OTHER RESPIRATORY SYSTEM DIAGNOSES W/O CC | 0.5363 | 2.1 | 2.6
103 | PRE | SURG | HEART TRANSPLANT | 18.5203 | 25.9 | 42.1
104 | 5 | SURG | CARDIAC VALVE & OTH MAJOR CARDIOTHORACIC PROC W CARD CATH | 7.9220 | 12.2 | 14.4
105 | 5 | SURG | CARDIAC VALVE & OTH MAJOR CARDIOTHORACIC PROC W/O CARD CATH | 5.7134 | 8.2 | 9.9
106 | 5 | SURG | CORONARY BYPASS W PTCA | 7.2710 | 9.6 | 11.4
107 | 5 | SURG | CORONARY BYPASS W CARDIAC CATH | 5.3525 | 9.2 | 10.5
108 | 5 | SURG | OTHER CARDIOTHORACIC PROCEDURES | 5.3651 | 7.3 | 9.8
109 | 5 | SURG | CORONARY BYPASS W/O PTCA OR CARDIAC CATH | 3.9294 | 6.7 | 7.7
110 | 5 | SURG | MAJOR CARDIOVASCULAR PROCEDURES W CC | 4.0328 | 6.3 | 8.9
111 | 5 | SURG | MAJOR CARDIOVASCULAR PROCEDURES W/O CC | 2.4669 | 3.2 | 4.1
112 | 5 | SURG | NO LONGER VALID | 0.0000 | 0.0 | 0.0
113 | 5 | SURG | AMPUTATION FOR CIRC SYSTEM DISORDERS EXCEPT UPPER LIMB & TOE | 2.9875 | 10.4 | 13.3
114 | 5 | SURG | UPPER LIMB & TOE AMPUTATION FOR CIRC SYSTEM DISORDERS | 1.6337 | 6.4 | 8.7
115 | 5 | SURG | PRM CARD PACEM IMPL W AMI/HR/SHOCK OR AICD LEAD OR GNRTR | 3.5189 | 5.0 | 7.5
116 | 5 | SURG | OTHER PERMANENT CARDIAC PACEMAKER IMPLANT | 2.3407 | 3.1 | 4.4
117 | 5 | SURG | CARDIAC PACEMAKER REVISION EXCEPT DEVICE REPLACEMENT | 1.3838 | 2.6 | 4.3
118 | 5 | SURG | CARDIAC PACEMAKER DEVICE REPLACEMENT | 1.5967 | 2.0 | 2.9
119 | 5 | SURG | VEIN LIGATION & STRIPPING | 1.3679 | 3.2 | 5.4
120 | 5 | SURG | OTHER CIRCULATORY SYSTEM O.R. PROCEDURES | 2.3033 | 5.6 | 9.0
121 | 5 | MED | CIRCULATORY DISORDERS W AMI & MAJOR COMP, DISCHARGED ALIVE | 1.6033 | 5.3 | 6.6
122 | 5 | MED | CIRCULATORY DISORDERS W AMI W/O MAJOR COMP, DISCHARGED ALIVE | 1.0202 | 2.9 | 3.7
123 | 5 | MED | CIRCULATORY DISORDERS W AMI, EXPIRED | 1.5486 | 2.9 | 4.8
124 | 5 | MED | CIRCULATORY DISORDERS EXCEPT AMI, W CARD CATH & COMPLEX DIAG | 1.4273 | 3.3 | 4.4
125 | 5 | MED | CIRCULATORY DISORDERS EXCEPT AMI, W CARD CATH W/O COMPLEX DIAG | 1.0885 | 2.2 | 2.8
126 | 5 | MED | ACUTE & SUBACUTE ENDOCARDITIS | 2.5295 | 9.3 | 11.8
127 | 5 | MED | HEART FAILURE & SHOCK | 1.0072 | 4.1 | 5.3
128 | 5 | MED | DEEP VEIN THROMBOPHLEBITIS | 0.7226 | 4.6 | 5.5
129 | 5 | MED | CARDIAC ARREST, UNEXPLAINED | 1.0089 | 1.7 | 2.6
130 | 5 | MED | PERIPHERAL VASCULAR DISORDERS W CC | 0.9430 | 4.5 | 5.7
131 | 5 | MED | PERIPHERAL VASCULAR DISORDERS W/O CC | 0.5634 | 3.4 | 4.1
132 | 5 | MED | ATHEROSCLEROSIS W CC | 0.6364 | 2.3 | 2.9
133 | 5 | MED | ATHEROSCLEROSIS W/O CC | 0.5502 | 1.8 | 2.3
134 | 5 | MED | HYPERTENSION | 0.5905 | 2.5 | 3.2
135 | 5 | MED | CARDIAC CONGENITAL & VALVULAR DISORDERS AGE >17 W CC | 0.9196 | 3.4 | 4.5
136 | 5 | MED | CARDIAC CONGENITAL & VALVULAR DISORDERS AGE >17 W/O CC | 0.5698 | 2.2 | 2.7
137 | 5 | MED | *CARDIAC CONGENITAL & VALVULAR DISORDERS AGE 0-17 | 0.8156 | 3.3 | 3.3
138 | 5 | MED | CARDIAC ARRHYTHMIA & CONDUCTION DISORDERS W CC | 0.8289 | 3.1 | 4.0
139 | 5 | MED | CARDIAC ARRHYTHMIA & CONDUCTION DISORDERS W/O CC | 0.5120 | 2.0 | 2.5
140 | 5 | MED | ANGINA PECTORIS | 0.5240 | 2.0 | 2.5
141 | 5 | MED | SYNCOPE & COLLAPSE W CC | 0.7408 | 2.8 | 3.6
142 | 5 | MED | SYNCOPE & COLLAPSE W/O CC | 0.5706 | 2.1 | 2.6
143 | 5 | MED | CHEST PAIN | 0.5435 | 1.7 | 2.1
144 | 5 | MED | OTHER CIRCULATORY SYSTEM DIAGNOSES W CC | 1.2176 | 3.9 | 5.6
145 | 5 | MED | OTHER CIRCULATORY SYSTEM DIAGNOSES W/O CC | 0.5742 | 2.0 | 2.6
146 | 6 | SURG | RECTAL RESECTION W CC | 2.7198 | 8.8 | 10.3
147 | 6 | SURG | RECTAL RESECTION W/O CC | 1.5267 | 5.6 | 6.2
148 | 6 | SURG | MAJOR SMALL & LARGE BOWEL PROCEDURES W CC | 3.3748 | 10.1 | 12.3
149 | 6 | SURG | MAJOR SMALL & LARGE BOWEL PROCEDURES W/O CC | 1.4487 | 5.8 | 6.3
150 | 6 | SURG | PERITONEAL ADHESIOLYSIS W CC | 2.8525 | 9.2 | 11.3
151 | 6 | SURG | PERITONEAL ADHESIOLYSIS W/O CC | 1.2952 | 4.4 | 5.6
152 | 6 | SURG | MINOR SMALL & LARGE BOWEL PROCEDURES W CC | 1.8931 | 6.9 | 8.4
153 | 6 | SURG | MINOR SMALL & LARGE BOWEL PROCEDURES W/O CC | 1.1262 | 4.7 | 5.3
154 | 6 | SURG | STOMACH, ESOPHAGEAL & DUODENAL PROCEDURES AGE >17 W CC | 3.9961 | 9.9 | 13.3
155 | 6 | SURG | STOMACH, ESOPHAGEAL & DUODENAL PROCEDURES AGE >17 W/O CC | 1.2946 | 3.0 | 4.1
156 | 6 | SURG | *STOMACH, ESOPHAGEAL & DUODENAL PROCEDURES AGE 0-17 | 0.8400 | 6.0 | 6.0
157 | 6 | SURG | ANAL & STOMAL PROCEDURES W CC | 1.3070 | 4.0 | 5.8
158 | 6 | SURG | ANAL & STOMAL PROCEDURES W/O CC | 0.6472 | 2.0 | 2.6
159 | 6 | SURG | HERNIA PROCEDURES EXCEPT INGUINAL & FEMORAL AGE >17 W CC | 1.3654 | 3.8 | 5.1
160 | 6 | SURG | HERNIA PROCEDURES EXCEPT INGUINAL & FEMORAL AGE >17 W/O CC | 0.8170 | 2.2 | 2.7
161 | 6 | SURG | INGUINAL & FEMORAL HERNIA PROCEDURES AGE >17 W CC | 1.1598 | 3.0 | 4.3
162 | 6 | SURG | INGUINAL & FEMORAL HERNIA PROCEDURES AGE >17 W/O CC | 0.6396 | 1.6 | 1.9
163 | 6 | SURG | *HERNIA PROCEDURES AGE 0-17 | 0.6892 | 2.1 | 2.1
164 | 6 | SURG | APPENDECTOMY W COMPLICATED PRINCIPAL DIAG W CC | 2.3154 | 7.0 | 8.4
165 | 6 | SURG | APPENDECTOMY W COMPLICATED PRINCIPAL DIAG W/O CC | 1.2218 | 3.8 | 4.5
166 | 6 | SURG | APPENDECTOMY W/O COMPLICATED PRINCIPAL DIAG W CC | 1.4244 | 3.6 | 4.7
167 | 6 | SURG | APPENDECTOMY W/O COMPLICATED PRINCIPAL DIAG W/O CC | 0.8841 | 2.0 | 2.4
168 | 3 | SURG | MOUTH PROCEDURES W CC | 1.3135 | 3.3 | 4.9
169 | 3 | SURG | MOUTH PROCEDURES W/O CC | 0.7487 | 1.8 | 2.4
170 | 6 | SURG | OTHER DIGESTIVE SYSTEM O.R. PROCEDURES W CC | 2.8023 | 7.5 | 10.9
171 | 6 | SURG | OTHER DIGESTIVE SYSTEM O.R. PROCEDURES W/O CC | 1.1816 | 3.3 | 4.3
172 | 6 | MED | DIGESTIVE MALIGNANCY W CC | 1.3576 | 5.2 | 7.0
173 | 6 | MED | DIGESTIVE MALIGNANCY W/O CC | 0.7524 | 2.8 | 3.8
174 | 6 | MED | G.I. HEMORRHAGE W CC | 0.9942 | 3.9 | 4.8
175 | 6 | MED | G.I. HEMORRHAGE W/O CC | 0.5541 | 2.5 | 2.9
176 | 6 | MED | COMPLICATED PEPTIC ULCER | 1.0918 | 4.1 | 5.2
177 | 6 | MED | UNCOMPLICATED PEPTIC ULCER W CC | 0.9182 | 3.7 | 4.6
178 | 6 | MED | UNCOMPLICATED PEPTIC ULCER W/O CC | 0.6879 | 2.6 | 3.1
179 | 6 | MED | INFLAMMATORY BOWEL DISEASE | 1.0800 | 4.6 | 6.0
180 | 6 | MED | G.I. OBSTRUCTION W CC | 0.9562 | 4.2 | 5.5
181 | 6 | MED | G.I. OBSTRUCTION W/O CC | 0.5332 | 2.8 | 3.4
182 | 6 | MED | ESOPHAGITIS, GASTROENT & MISC DIGEST DISORDERS AGE >17 W CC | 0.8153 | 3.4 | 4.4
183 | 6 | MED | ESOPHAGITIS, GASTROENT & MISC DIGEST DISORDERS AGE >17 W/O CC | 0.5710 | 2.3 | 2.9
184 | 6 | MED | ESOPHAGITIS, GASTROENT & MISC DIGEST DISORDERS AGE 0-17 | 0.4874 | 2.3 | 3.2
185 | 3 | MED | DENTAL & ORAL DIS EXCEPT EXTRACTIONS & RESTORATIONS, AGE >17 | 0.8680 | 3.3 | 4.7
186 | 3 | MED | *DENTAL & ORAL DIS EXCEPT EXTRACTIONS & RESTORATIONS, AGE 0-17 | 0.3202 | 2.9 | 2.9
187 | 3 | MED | DENTAL EXTRACTIONS & RESTORATIONS | 0.7731 | 3.0 | 4.0
188 | 6 | MED | OTHER DIGESTIVE SYSTEM DIAGNOSES AGE >17 W CC | 1.1000 | 4.1 | 5.6
189 | 6 | MED | OTHER DIGESTIVE SYSTEM DIAGNOSES AGE >17 W/O CC | 0.5936 | 2.4 | 3.1
190 | 6 | MED | OTHER DIGESTIVE SYSTEM DIAGNOSES AGE 0-17 | 0.8080 | 3.7 | 5.2
191 | 7 | SURG | PANCREAS, LIVER & SHUNT PROCEDURES W CC | 4.2734 | 9.8 | 13.9
192 | 7 | SURG | PANCREAS, LIVER & SHUNT PROCEDURES W/O CC | 1.7906 | 4.7 | 6.2
193 | 7 | SURG | BILIARY TRACT PROC EXCEPT ONLY CHOLECYST W OR W/O C.D.E. W CC | 3.4000 | 10.4 | 12.8
194 | 7 | SURG | BILIARY TRACT PROC EXCEPT ONLY CHOLECYST W OR W/O C.D.E. W/O CC | 1.5934 | 5.7 | 6.8
195 | 7 | SURG | CHOLECYSTECTOMY W C.D.E. W CC | 3.0458 | 8.7 | 10.6
196 | 7 | SURG | CHOLECYSTECTOMY W C.D.E. W/O CC | 1.6025 | 4.8 | 5.6
197 | 7 | SURG | CHOLECYSTECTOMY EXCEPT BY LAPAROSCOPE W/O C.D.E. W CC | 2.5296 | 7.5 | 9.2
198 | 7 | SURG | CHOLECYSTECTOMY EXCEPT BY LAPAROSCOPE W/O C.D.E. W/O CC | 1.1732 | 3.8 | 4.4
199 | 7 | SURG | HEPATOBILIARY DIAGNOSTIC PROCEDURE FOR MALIGNANCY | 2.3704 | 6.9 | 9.8
200 | 7 | SURG | HEPATOBILIARY DIAGNOSTIC PROCEDURE FOR NON-MALIGNANCY | 3.0260 | 6.7 | 10.6
201 | 7 | SURG | OTHER HEPATOBILIARY OR PANCREAS O.R. PROCEDURES | 3.6753 | 10.2 | 14.2
202 | 7 | MED | CIRRHOSIS & ALCOHOLIC HEPATITIS | 1.3013 | 4.8 | 6.4
203 | 7 | MED | MALIGNANCY OF HEPATOBILIARY SYSTEM OR PANCREAS | 1.3407 | 5.0 | 6.7
204 | 7 | MED | DISORDERS OF PANCREAS EXCEPT MALIGNANCY | 1.1582 | 4.4 | 5.8
205 | 7 | MED | DISORDERS OF LIVER EXCEPT MALIG,CIRR,ALC HEPA W CC | 1.1970 | 4.6 | 6.2
206 | 7 | MED | DISORDERS OF LIVER EXCEPT MALIG,CIRR,ALC HEPA W/O CC | 0.7045 | 2.9 | 3.8
207 | 7 | MED | DISORDERS OF THE BILIARY TRACT W CC | 1.1443 | 4.0 | 5.3
208 | 7 | MED | DISORDERS OF THE BILIARY TRACT W/O CC | 0.6540 | 2.3 | 2.9
209 | 8 | SURG | MAJOR JOINT & LIMB REATTACHMENT PROCEDURES OF LOWER EXTREMITY | 2.0199 | 4.4 | 4.9
210 | 8 | SURG | HIP & FEMUR PROCEDURES EXCEPT MAJOR JOINT AGE >17 W CC | 1.8335 | 6.1 | 7.0
211 | 8 | SURG | HIP & FEMUR PROCEDURES EXCEPT MAJOR JOINT AGE >17 W/O CC | 1.2446 | 4.5 | 4.9
212 | 8 | SURG | *HIP & FEMUR PROCEDURES EXCEPT MAJOR JOINT AGE 0-17 | 0.8436 | 11.1 | 11.1
213 | 8 | SURG | AMPUTATION FOR MUSCULOSKELETAL SYSTEM & CONN TISSUE DISORDERS | 1.8736 | 6.7 | 9.2
214 | 8 | SURG | NO LONGER VALID | 0.0000 | 0.0 | 0.0
215 | 8 | SURG | NO LONGER VALID | 0.0000 | 0.0 | 0.0
216 | 8 | SURG | BIOPSIES OF MUSCULOSKELETAL SYSTEM & CONNECTIVE TISSUE | 2.0981 | 5.0 | 8.0
217 | 8 | SURG | WND DEBRID & SKN GRFT EXCEPT HAND,FOR MUSCSKELET & CONN TISS DIS | 2.9860 | 9.1 | 13.5
218 | 8 | SURG | LOWER EXTREM & HUMER PROC EXCEPT HIP,FOOT,FEMUR AGE >17 W CC | 1.5612 | 4.3 | 5.5
219 | 8 | SURG | LOWER EXTREM & HUMER PROC EXCEPT HIP,FOOT,FEMUR AGE >17 W/O CC | 1.0187 | 2.7 | 3.2
220 | 8 | SURG | *LOWER EXTREM & HUMER PROC EXCEPT HIP,FOOT,FEMUR AGE 0-17 | 0.5819 | 5.3 | 5.3
221 | 8 | SURG | NO LONGER VALID | 0.0000 | 0.0 | 0.0
222 | 8 | SURG | NO LONGER VALID | 0.0000 | 0.0 | 0.0
223 | 8 | SURG | MAJOR SHOULDER/ELBOW PROC, OR OTHER UPPER EXTREMITY PROC W CC | 1.0493 | 2.2 | 3.0
224 | 8 | SURG | SHOULDER,ELBOW OR FOREARM PROC,EXC MAJOR JOINT PROC, W/O CC | 0.7841 | 1.6 | 1.9
225 | 8 | SURG | FOOT PROCEDURES | 1.1638 | 3.6 | 5.3
226 | 8 | SURG | SOFT TISSUE PROCEDURES W CC | 1.5413 | 4.5 | 6.5
227 | 8 | SURG | SOFT TISSUE PROCEDURES W/O CC | 0.8139 | 2.1 | 2.6
228 | 8 | SURG | MAJOR THUMB OR JOINT PROC,OR OTH HAND OR WRIST PROC W CC | 1.1547 | 2.7 | 4.2
229 | 8 | SURG | HAND OR WRIST PROC, EXCEPT MAJOR JOINT PROC, W/O CC | 0.6975 | 1.8 | 2.3
230 | 8 | SURG | LOCAL EXCISION & REMOVAL OF INT FIX DEVICES OF HIP & FEMUR | 1.3026 | 3.6 | 5.6
231 | 8 | SURG | *NO LONGER VALID | 0.0000 | 0.0 | 0.0
232 | 8 | SURG | ARTHROSCOPY | 0.9638 | 1.8 | 2.7
233 | 8 | SURG | OTHER MUSCULOSKELET SYS & CONN TISS O.R. PROC W CC | 1.9896 | 5.0 | 7.4
234 | 8 | SURG | OTHER MUSCULOSKELET SYS & CONN TISS O.R. PROC W/O CC | 1.1937 | 2.2 | 3.1
235 | 8 | MED | FRACTURES OF FEMUR | 0.7516 | 3.8 | 5.0
236 | 8 | MED | FRACTURES OF HIP & PELVIS | 0.7299 | 3.9 | 4.8
237 | 8 | MED | SPRAINS, STRAINS, & DISLOCATIONS OF HIP, PELVIS & THIGH | 0.5948 | 2.9 | 3.7
238 | 8 | MED | OSTEOMYELITIS | 1.3446 | 6.5 | 8.7
239 | 8 | MED | PATHOLOGICAL FRACTURES & MUSCULOSKELETAL & CONN TISS MALIGNANCY | 1.0524 | 5.1 | 6.4
240 | 8 | MED | CONNECTIVE TISSUE DISORDERS W CC | 1.3065 | 4.9 | 6.7
241 | 8 | MED | CONNECTIVE TISSUE DISORDERS W/O CC | 0.6297 | 3.0 | 3.8
242 | 8 | MED | SEPTIC ARTHRITIS | 1.1573 | 5.3 | 7.0
243 | 8 | MED | MEDICAL BACK PROBLEMS | 0.7535 | 3.7 | 4.7
244 | 8 | MED | BONE DISEASES & SPECIFIC ARTHROPATHIES W CC | 0.7092 | 3.7 | 4.7
245 | 8 | MED | BONE DISEASES & SPECIFIC ARTHROPATHIES W/O CC | 0.4741 | 2.6 | 3.3
246 | 8 | MED | NON-SPECIFIC ARTHROPATHIES | 0.5937 | 2.9 | 3.7
247 | 8 | MED | SIGNS & SYMPTOMS OF MUSCULOSKELETAL SYSTEM & CONN TISSUE | 0.5672 | 2.6 | 3.3
248 | 8 | MED | TENDONITIS, MYOSITIS & BURSITIS | 0.8503 | 3.8 | 4.9
249 | 8 | MED | AFTERCARE, MUSCULOSKELETAL SYSTEM & CONNECTIVE TISSUE | 0.6710 | 2.5 | 3.6
250 | 8 | MED | FX, SPRN, STRN & DISL OF FOREARM, HAND, FOOT AGE >17 W CC | 0.7034 | 3.2 | 4.1
251 | 8 | MED | FX, SPRN, STRN & DISL OF FOREARM, HAND, FOOT AGE >17 W/O CC | 0.4539 | 2.3 | 2.8
252 | 8 | MED | *FX, SPRN, STRN & DISL OF FOREARM, HAND, FOOT AGE 0-17 | 0.2526 | 1.8 | 1.8
253 | 8 | MED | FX, SPRN, STRN & DISL OF UPARM,LOWLEG EX FOOT AGE >17 W CC | 0.7512 | 3.7 | 4.7
254 | 8 | MED | FX, SPRN, STRN & DISL OF UPARM,LOWLEG EX FOOT AGE >17 W/O CC | 0.4417 | 2.6 | 3.2
255 | 8 | MED | *FX, SPRN, STRN & DISL OF UPARM,LOWLEG EX FOOT AGE 0-17 | 0.2943 | 2.9 | 2.9
256 | 8 | MED | OTHER MUSCULOSKELETAL SYSTEM & CONNECTIVE TISSUE DIAGNOSES | 0.8116 | 3.8 | 5.1
257 | 9 | SURG | TOTAL MASTECTOMY FOR MALIGNANCY W CC | 0.8851 | 2.1 | 2.6
258 | 9 | SURG | TOTAL MASTECTOMY FOR MALIGNANCY W/O CC | 0.6978 | 1.6 | 1.8
259 | 9 | SURG | SUBTOTAL MASTECTOMY FOR MALIGNANCY W CC | 0.9337 | 1.8 | 2.7
260 | 9 | SURG | SUBTOTAL MASTECTOMY FOR MALIGNANCY W/O CC | 0.6794 | 1.2 | 1.4
261 | 9 | SURG | BREAST PROC FOR NON-MALIGNANCY EXCEPT BIOPSY & LOCAL EXCISION | 0.8947 | 1.6 | 2.1
262 | 9 | SURG | BREAST BIOPSY & LOCAL EXCISION FOR NON-MALIGNANCY | 0.9466 | 2.9 | 4.3
263 | 9 | SURG | SKIN GRAFT &/OR DEBRID FOR SKN ULCER OR CELLULITIS W CC | 2.1904 | 9.0 | 12.2
264 | 9 | SURG | SKIN GRAFT &/OR DEBRID FOR SKN ULCER OR CELLULITIS W/O CC | 1.0940 | 5.2 | 6.8
265 | 9 | SURG | SKIN GRAFT &/OR DEBRID EXCEPT FOR SKIN ULCER OR CELLULITIS W CC | 1.5921 | 4.2 | 6.6
266 | 9 | SURG | SKIN GRAFT &/OR DEBRID EXCEPT FOR SKIN ULCER OR CELLULITIS W/O CC | 0.8719 | 2.3 | 3.2
267 | 9 | SURG | PERIANAL & PILONIDAL PROCEDURES | 0.9515 | 2.9 | 4.5
268 | 9 | SURG | SKIN, SUBCUTANEOUS TISSUE & BREAST PLASTIC PROCEDURES | 1.1516 | 2.5 | 3.9
269 | 9 | SURG | OTHER SKIN, SUBCUT TISS & BREAST PROC W CC | 1.7647 | 6.0 | 8.6
270 | 9 | SURG | OTHER SKIN, SUBCUT TISS & BREAST PROC W/O CC | 0.8085 | 2.5 | 3.6
271 | 9 | MED | SKIN ULCERS | 1.0219 | 5.6 | 7.2
272 | 9 | MED | MAJOR SKIN DISORDERS W CC | 1.0084 | 4.6 | 6.0
273 | 9 | MED | MAJOR SKIN DISORDERS W/O CC | 0.6167 | 3.0 | 3.9
274 | 9 | MED | MALIGNANT BREAST DISORDERS W CC | 1.1449 | 4.7 | 6.5
275 | 9 | MED | MALIGNANT BREAST DISORDERS W/O CC | 0.5738 | 2.4 | 3.5
276 | 9 | MED | NON-MALIGANT BREAST DISORDERS | 0.6410 | 3.5 | 4.5
277 | 9 | MED | CELLULITIS AGE >17 W CC | 0.8738 | 4.7 | 5.8
278 | 9 | MED | CELLULITIS AGE >17 W/O CC | 0.5391 | 3.5 | 4.2
279 | 9 | MED | CELLULITIS AGE 0-17 | 0.7687 | 4.0 | 5.3
280 | 9 | MED | TRAUMA TO THE SKIN, SUBCUT TISS & BREAST AGE >17 W CC | 0.7035 | 3.2 | 4.1
281 | 9 | MED | TRAUMA TO THE SKIN, SUBCUT TISS & BREAST AGE >17 W/O CC | 0.4810 | 2.3 | 2.9
282 | 9 | MED | *TRAUMA TO THE SKIN, SUBCUT TISS & BREAST AGE 0-17 | 0.2558 | 2.2 | 2.2
283 | 9 | MED | MINOR SKIN DISORDERS W CC | 0.7271 | 3.5 | 4.7
284 | 9 | MED | MINOR SKIN DISORDERS W/O CC | 0.4172 | 2.3 | 2.9
285 | 10 | SURG | AMPUTAT OF LOWER LIMB FOR ENDOCRINE,NUTRIT,& METABOL DISORDERS | 2.0611 | 7.9 | 10.6
286 | 10 | SURG | ADRENAL & PITUITARY PROCEDURES | 2.0223 | 4.4 | 5.9
287 | 10 | SURG | SKIN GRAFTS & WOUND DEBRID FOR ENDOC, NUTRIT & METAB DISORDERS | 1.8651 | 7.7 | 10.3
288 | 10 | SURG | O.R. PROCEDURES FOR OBESITY | 2.1578 | 3.9 | 5.0
289 | 10 | SURG | PARATHYROID PROCEDURES | 0.9427 | 1.8 | 2.7
290 | 10 | SURG | THYROID PROCEDURES | 0.8874 | 1.7 | 2.2
291 | 10 | SURG | THYROGLOSSAL PROCEDURES | 0.6425 | 1.4 | 1.6
292 | 10 | SURG | OTHER ENDOCRINE, NUTRIT & METAB O.R. PROC W CC | 2.7077 | 7.2 | 10.5
293 | 10 | SURG | OTHER ENDOCRINE, NUTRIT & METAB O.R. PROC W/O CC | 1.3678 | 3.2 | 4.7
294 | 10 | MED | DIABETES AGE >35 | 0.7632 | 3.4 | 4.5
295 | 10 | MED | DIABETES AGE 0-35 | 0.7959 | 3.0 | 4.0
296 | 10 | MED | NUTRITIONAL & MISC METABOLIC DISORDERS AGE >17 W CC | 0.8572 | 4.0 | 5.1
297 | 10 | MED | NUTRITIONAL & MISC METABOLIC DISORDERS AGE >17 W/O CC | 0.5041 | 2.7 | 3.3
298 | 10 | MED | NUTRITIONAL & MISC METABOLIC DISORDERS AGE 0-17 | 0.4610 | 2.4 | 3.2
299 | 10 | MED | INBORN ERRORS OF METABOLISM | 0.9381 | 3.7 | 5.5
300 | 10 | MED | ENDOCRINE DISORDERS W CC | 1.0938 | 4.8 | 6.2
301 | 10 | MED | ENDOCRINE DISORDERS W/O CC | 0.6113 | 2.8 | 3.6
302 | 11 | SURG | KIDNEY TRANSPLANT | 3.2328 | 7.2 | 8.5
303 | 11 | SURG | KIDNEY,URETER & MAJOR BLADDER PROCEDURES FOR NEOPLASM | 2.3540 | 6.4 | 8.1
304 | 11 | SURG | KIDNEY,URETER & MAJOR BLADDER PROC FOR NON-NEOPL W CC | 2.3813 | 6.2 | 8.9
305 | 11 | SURG | KIDNEY,URETER & MAJOR BLADDER PROC FOR NON-NEOPL W/O CC | 1.1767 | 2.8 | 3.6
306 | 11 | SURG | PROSTATECTOMY W CC | 1.2134 | 3.5 | 5.4
307 | 11 | SURG | PROSTATECTOMY W/O CC | 0.6094 | 1.7 | 2.1
308 | 11 | SURG | MINOR BLADDER PROCEDURES W CC | 1.5867 | 4.0 | 6.2
309 | 11 | SURG | MINOR BLADDER PROCEDURES W/O CC | 0.8931 | 1.7 | 2.1
310 | 11 | SURG | TRANSURETHRAL PROCEDURES W CC | 1.1402 | 2.9 | 4.4
311 | 11 | SURG | TRANSURETHRAL PROCEDURES W/O CC | 0.6203 | 1.5 | 1.8
312 | 11 | SURG | URETHRAL PROCEDURES, AGE >17 W CC | 1.0784 | 3.0 | 4.6
313 | 11 | SURG | URETHRAL PROCEDURES, AGE >17 W/O CC | 0.6747 | 1.7 | 2.3
314 | 11 | SURG | *URETHRAL PROCEDURES, AGE 0-17 | 0.4931 | 2.3 | 2.3
315 | 11 | SURG | OTHER KIDNEY & URINARY TRACT O.R. PROCEDURES | 2.0680 | 3.8 | 7.0
316 | 11 | MED | RENAL FAILURE | 1.2907 | 4.9 | 6.6
317 | 11 | MED | ADMIT FOR RENAL DIALYSIS | 0.8488 | 2.4 | 3.6
318 | 11 | MED | KIDNEY & URINARY TRACT NEOPLASMS W CC | 1.1797 | 4.5 | 6.1
319 | 11 | MED | KIDNEY & URINARY TRACT NEOPLASMS W/O CC | 0.6754 | 2.2 | 2.9
320 | 11 | MED | KIDNEY & URINARY TRACT INFECTIONS AGE >17 W CC | 0.8785 | 4.3 | 5.4
321 | 11 | MED | KIDNEY & URINARY TRACT INFECTIONS AGE >17 W/O CC | 0.5640 | 3.1 | 3.7
322 | 11 | MED | KIDNEY & URINARY TRACT INFECTIONS AGE 0-17 | 0.4571 | 2.7 | 3.2
323 | 11 | MED | URINARY STONES W CC, &/OR ESW LITHOTRIPSY | 0.8026 | 2.4 | 3.2
324 | 11 | MED | URINARY STONES W/O CC | 0.4752 | 1.6 | 1.9
325 | 11 | MED | KIDNEY & URINARY TRACT SIGNS & SYMPTOMS AGE >17 W CC | 0.6497 | 2.9 | 3.8
326 | 11 | MED | KIDNEY & URINARY TRACT SIGNS & SYMPTOMS AGE >17 W/O CC | 0.4181 | 2.1 | 2.6
327 | 11 | MED | *KIDNEY & URINARY TRACT SIGNS & SYMPTOMS AGE 0-17 | 0.3688 | 3.1 | 3.1
328 | 11 | MED | URETHRAL STRICTURE AGE >17 W CC | 0.7474 | 2.7 | 3.7
329 | 11 | MED | URETHRAL STRICTURE AGE >17 W/O CC | 0.5254 | 1.7 | 2.1
330 | 11 | MED | *URETHRAL STRICTURE AGE 0-17 | 0.3177 | 1.6 | 1.6
331 | 11 | MED | OTHER KIDNEY & URINARY TRACT DIAGNOSES AGE >17 W CC | 1.0546 | 4.2 | 5.6
332 | 11 | MED | OTHER KIDNEY & URINARY TRACT DIAGNOSES AGE >17 W/O CC | 0.5949 | 2.4 | 3.2
333 | 11 | MED | OTHER KIDNEY & URINARY TRACT DIAGNOSES AGE 0-17 | 0.9552 | 3.7 | 5.8
334 | 12 | SURG | MAJOR MALE PELVIC PROCEDURES W CC | 1.4738 | 3.9 | 4.6
335 | 12 | SURG | MAJOR MALE PELVIC PROCEDURES W/O CC | 1.0778 | 2.8 | 3.0
336 | 12 | SURG | TRANSURETHRAL PROSTATECTOMY W CC | 0.8539 | 2.6 | 3.4
337 | 12 | SURG | TRANSURETHRAL PROSTATECTOMY W/O CC | 0.5832 | 1.8 | 2.0
338 | 12 | SURG | TESTES PROCEDURES, FOR MALIGNANCY | 1.2100 | 3.5 | 5.5
339 | 12 | SURG | TESTES PROCEDURES, NON-MALIGNANCY AGE >17 | 1.1314 | 2.9 | 4.8
340 | 12 | SURG | *TESTES PROCEDURES, NON-MALIGNANCY AGE 0-17 | 0.2823 | 2.4 | 2.4
341 | 12 | SURG | PENIS PROCEDURES | 1.2651 | 2.0 | 3.2
342 | 12 | SURG | CIRCUMCISION AGE >17 | 0.7717 | 2.4 | 3.2
343 | 12 | SURG | *CIRCUMCISION AGE 0-17 | 0.1534 | 1.7 | 1.7
344 | 12 | SURG | OTHER MALE REPRODUCTIVE SYSTEM O.R. PROCEDURES FOR MALIGNANCY | 1.3244 | 1.6 | 2.5
345 | 12 | SURG | OTHER MALE REPRODUCTIVE SYSTEM O.R. PROC EXCEPT FOR MALIGNANCY | 1.1523 | 3.0 | 4.9
346 | 12 | MED | MALIGNANCY, MALE REPRODUCTIVE SYSTEM, W CC | 1.0133 | 4.5 | 5.9
347 | 12 | MED | MALIGNANCY, MALE REPRODUCTIVE SYSTEM, W/O CC | 0.5436 | 2.2 | 3.0
348 | 12 | MED | BENIGN PROSTATIC HYPERTROPHY W CC | 0.7423 | 3.3 | 4.4
349 | 12 | MED | BENIGN PROSTATIC HYPERTROPHY W/O CC | 0.4562 | 2.0 | 2.5
350 | 12 | MED | INFLAMMATION OF THE MALE REPRODUCTIVE SYSTEM | 0.7298 | 3.6 | 4.5
351 | 12 | MED | *STERILIZATION, MALE | 0.2354 | 1.3 | 1.3
352 | 12 | MED | OTHER MALE REPRODUCTIVE SYSTEM DIAGNOSES | 0.7076 | 2.9 | 4.0
353 | 13 | SURG | PELVIC EVISCERATION, RADICAL HYSTERECTOMY & RADICAL VULVECTOMY | 1.8469 | 5.0 | 6.6
354 | 13 | SURG | UTERINE,ADNEXA PROC FOR NON-OVARIAN/ADNEXAL MALIG W CC | 1.4796 | 4.7 | 5.7
355 | 13 | SURG | UTERINE,ADNEXA PROC FOR NON-OVARIAN/ADNEXAL MALIG W/O CC | 0.8855 | 3.0 | 3.2
356 | 13 | SURG | FEMALE REPRODUCTIVE SYSTEM RECONSTRUCTIVE PROCEDURES | 0.7516 | 1.8 | 2.1
357 | 13 | SURG | UTERINE & ADNEXA PROC FOR OVARIAN OR ADNEXAL MALIGNANCY | 2.2673 | 6.7 | 8.4
358 | 13 | SURG | UTERINE & ADNEXA PROC FOR NON-MALIGNANCY W CC | 1.1754 | 3.4 | 4.2
359 | 13 | SURG | UTERINE & ADNEXA PROC FOR NON-MALIGNANCY W/O CC | 0.8055 | 2.3 | 2.6
360 | 13 | SURG | VAGINA, CERVIX & VULVA PROCEDURES | 0.8613 | 2.2 | 2.8
361 | 13 | SURG | LAPAROSCOPY & INCISIONAL TUBAL INTERRUPTION | 1.0865 | 2.2 | 3.2
362 | 13 | SURG | *ENDOSCOPIC TUBAL INTERRUPTION | 0.3009 | 1.4 | 1.4
363 | 13 | SURG | D&C, CONIZATION & RADIO-IMPLANT, FOR MALIGNANCY | 0.9275 | 2.6 | 3.6
364 | 13 | SURG | D&C, CONIZATION EXCEPT FOR MALIGNANCY | 0.8939 | 2.9 | 4.1
365 | 13 | SURG | OTHER FEMALE REPRODUCTIVE SYSTEM O.R. PROCEDURES | 2.1194 | 5.3 | 8.2
366 | 13 | MED | MALIGNANCY, FEMALE REPRODUCTIVE SYSTEM W CC | 1.2567 | 4.8 | 6.7
367 | 13 | MED | MALIGNANCY, FEMALE REPRODUCTIVE SYSTEM W/O CC | 0.5496 | 2.2 | 3.0
368 | 13 | MED | INFECTIONS, FEMALE REPRODUCTIVE SYSTEM | 1.1619 | 5.2 | 6.7
369 | 13 | MED | MENSTRUAL & OTHER FEMALE REPRODUCTIVE SYSTEM DISORDERS | 0.5997 | 2.4 | 3.3
370 | 14 | SURG | CESAREAN SECTION W CC | 0.9992 | 4.2 | 5.7
371 | 14 | SURG | CESAREAN SECTION W/O CC | 0.6267 | 3.2 | 3.5
372 | 14 | MED | VAGINAL DELIVERY W COMPLICATING DIAGNOSES | 0.5457 | 2.7 | 3.5
373 | 14 | MED | VAGINAL DELIVERY W/O COMPLICATING DIAGNOSES | 0.3831 | 2.0 | 2.3
374 | 14 | SURG | VAGINAL DELIVERY W STERILIZATION &/OR D&C | 0.7410 | 2.5 | 3.0
375 | 14 | SURG | *VAGINAL DELIVERY W O.R. PROC EXCEPT STERIL &/OR D&C | 0.5745 | 4.4 | 4.4
376 | 14 | MED | POSTPARTUM & POST ABORTION DIAGNOSES W/O O.R. PROCEDURE | 0.5499 | 2.6 | 3.4
377 | 14 | SURG | POSTPARTUM & POST ABORTION DIAGNOSES W O.R. PROCEDURE | 1.0123 | 3.2 | 4.1
378 | 14 | MED | ECTOPIC PREGNANCY | 0.7893 | 2.0 | 2.6
379 | 14 | MED | THREATENED ABORTION | 0.3647 | 2.0 | 3.0
380 | 14 | MED | ABORTION W/O D&C | 0.4261 | 1.6 | 2.0
381 | 14 | SURG | ABORTION W D&C, ASPIRATION CURETTAGE OR HYSTEROTOMY | 0.5247 | 1.5 | 1.9
382 | 14 | MED | FALSE LABOR | 0.2113 | 1.3 | 1.7
383 | 14 | MED | OTHER ANTEPARTUM DIAGNOSES W MEDICAL COMPLICATIONS | 0.5103 | 2.7 | 3.8
384 | 14 | MED | OTHER ANTEPARTUM DIAGNOSES W/O MEDICAL COMPLICATIONS | 0.3463 | 1.9 | 2.6
385 | 15 | MED | *NEONATES, DIED OR TRANSFERRED TO ANOTHER ACUTE CARE FACILITY | 1.3709 | 1.8 | 1.8
386 | 15 | MED | *EXTREME IMMATURITY OR RESPIRATORY DISTRESS SYNDROME, NEONATE | 4.5207 | 17.9 | 17.9
387 | 15 | MED | *PREMATURITY W MAJOR PROBLEMS | 3.0876 | 13.3 1 | 3.3
388 | 15 | MED | *PREMATURITY W/O MAJOR PROBLEMS | 1.8630 | 8.6 | 8.6
389 | 15 | MED | FULL TERM NEONATE W MAJOR PROBLEMS | 1.2020 | 5.2 | 6.3
390 | 15 | MED | *NEONATE W OTHER SIGNIFICANT PROBLEMS | 1.1225 | 3.4 | 3.4
391 | 15 | MED | *NORMAL NEWBORN | 0.1520 | 3.1 | 3.1
392 | 16 | SURG | SPLENECTOMY AGE >17 | 3.2999 | 7.1 | 9.7
393 | 16 | SURG | *SPLENECTOMY AGE 0-17 | 1.3429 | 9.1 | 9.1
394 | 16 | SURG | OTHER O.R. PROCEDURES OF THE BLOOD AND BLOOD FORMING ORGANS | 1.9216 | 4.7 | 7.6
395 | 16 | MED | RED BLOOD CELL DISORDERS AGE >17 | 0.8159 | 3.2 | 4.3
396 | 16 | MED | RED BLOOD CELL DISORDERS AGE 0-17 | 0.7409 | 3.0 | 4.4
397 | 16 | MED | COAGULATION DISORDERS | 1.2575 | 3.7 | 5.2
398 | 16 | MED | RETICULOENDOTHELIAL & IMMUNITY DISORDERS W CC | 1.2266 | 4.5 | 5.9
399 | 16 | MED | RETICULOENDOTHELIAL & IMMUNITY DISORDERS W/O CC | 0.6630 | 2.8 | 3.5
400 | 17 | SURG | *NO LONGER VALID | 0.0000 | 0.0 | 0.0
401 | 17 | SURG | LYMPHOMA & NON-ACUTE LEUKEMIA W OTHER O.R. PROC W CC | 2.8817 | 8.1 | 11.6
402 | 17 | SURG | LYMPHOMA & NON-ACUTE LEUKEMIA W OTHER O.R. PROC W/O CC | 1.1371 | 2.7 | 4.0
403 | 17 | MED | LYMPHOMA & NON-ACUTE LEUKEMIA W CC | 1.8018 | 5.8 | 8.1
404 | 17 | MED | LYMPHOMA & NON-ACUTE LEUKEMIA W/O CC | 0.8609 | 3.0 | 4.1
405 | 17 | MED | *ACUTE LEUKEMIA W/O MAJOR O.R. PROCEDURE AGE 0-17 | 1.9038 | 4.9 | 4.9
406 | 17 | SURG | MYELOPROLIF DISORD OR POORLY DIFF NEOPL W MAJ O.R.PROC W CC | 2.6845 | 6.9 | 9.7
407 | 17 | SURG | MYELOPROLIF DISORD OR POORLY DIFF NEOPL W MAJ O.R.PROC W/O CC | 1.2347 | 3.2 | 4.1
408 | 17 | SURG | MYELOPROLIF DISORD OR POORLY DIFF NEOPL W OTHER O.R.PROC | 2.1935 | 4.8 | 8.3
409 | 17 | MED | RADIOTHERAPY | 1.2333 | 4.6 | 6.2
410 | 17 | MED | CHEMOTHERAPY W/O ACUTE LEUKEMIA AS SECONDARY DIAGNOSIS | 1.0780 | 3.2 | 4.1
411 | 17 | MED | *HISTORY OF MALIGNANCY W/O ENDOSCOPY | 0.3906 | 4.7 | 4.7
412 | 17 | MED | HISTORY OF MALIGNANCY W ENDOSCOPY | 0.5721 | 2.5 | 3.7
413 | 17 | MED | OTHER MYELOPROLIF DIS OR POORLY DIFF NEOPL DIAG W CC | 1.3143 | 5.3 | 7.1
414 | 17 | MED | OTHER MYELOPROLIF DIS OR POORLY DIFF NEOPL DIAG W/O CC | 0.7332 | 3.2 | 4.2
415 | 18 | SURG | O.R. PROCEDURE FOR INFECTIOUS & PARASITIC DISEASES | 3.5998 | 10.4 | 14.4
416 | 18 | MED | SEPTICEMIA AGE >17 | 1.5763 | 5.6 | 7.5
417 | 18 | MED | SEPTICEMIA AGE 0-17 | 0.9864 | 4.4 | 5.8
418 | 18 | MED | POSTOPERATIVE & POST-TRAUMATIC INFECTIONS | 1.0605 | 4.9 | 6.3
419 | 18 | MED | FEVER OF UNKNOWN ORIGIN AGE >17 W CC | 0.8404 | 3.6 | 4.6
420 | 18 | MED | FEVER OF UNKNOWN ORIGIN AGE >17 W/O CC | 0.6052 | 2.8 | 3.4
421 | 18 | MED | VIRAL ILLNESS AGE >17 | 0.7395 | 3.1 | 4.1
422 | 18 | MED | VIRAL ILLNESS & FEVER OF UNKNOWN ORIGIN AGE 0-17 | 0.7271 | 2.5 | 3.7
423 | 18 | MED | OTHER INFECTIOUS & PARASITIC DISEASES DIAGNOSES | 1.8074 | 5.9 | 8.4
424 | 19 | SURG | O.R. PROCEDURE W PRINCIPAL DIAGNOSES OF MENTAL ILLNESS | 2.3708 | 8.0 | 12.9
425 | 19 | MED | ACUTE ADJUSTMENT REACTION & PSYCHOSOCIAL DYSFUNCTION | 0.6723 | 2.8 | 3.8
426 | 19 | MED | DEPRESSIVE NEUROSES | 0.5051 | 3.2 | 4.5
427 | 19 | MED | NEUROSES EXCEPT DEPRESSIVE | 0.5029 | 3.1 | 4.4
428 | 19 | MED | DISORDERS OF PERSONALITY & IMPULSE CONTROL | 0.7222 | 4.5 | 7.1
429 | 19 | MED | ORGANIC DISTURBANCES & MENTAL RETARDATION | 0.8235 | 4.5 | 6.1
430 | 19 | MED | PSYCHOSES | 0.6750 | 5.6 | 7.9
431 | 19 | MED | CHILDHOOD MENTAL DISORDERS | 0.6551 | 4.4 | 6.9
432 | 19 | MED | OTHER MENTAL DISORDER DIAGNOSES | 0.6453 | 2.8 | 4.0
433 | 20 | MED | ALCOHOL/DRUG ABUSE OR DEPENDENCE, LEFT AMA | 0.2876 | 2.2 | 3.1
434 | 20 | MED | NO LONGER VALID | 0.0000 | 0.0 | 0.0
435 | 20 | MED | NO LONGER VALID | 0.0000 | 0.0 | 0.0
436 | 20 | MED | NO LONGER VALID | 0.0000 | 0.0 | 0.0
437 | 20 | MED | NO LONGER VALID | 0.0000 | 0.0 | 0.0
438 | 20 |  | NO LONGER VALID | 0.0000 | 0.0 | 0.0
439 | 21 | SURG | SKIN GRAFTS FOR INJURIES | 1.7409 | 5.1 | 8.1
440 | 21 | SURG | WOUND DEBRIDEMENTS FOR INJURIES | 1.8767 | 5.8 | 9.1
441 | 21 | SURG | HAND PROCEDURES FOR INJURIES | 0.9595 | 2.1 | 3.1
442 | 21 | SURG | OTHER O.R. PROCEDURES FOR INJURIES W CC | 2.4020 | 5.6 | 8.6
443 | 21 | SURG | OTHER O.R. PROCEDURES FOR INJURIES W/O CC | 0.9737 | 2.5 | 3.4
444 | 21 | MED | TRAUMATIC INJURY AGE >17 W CC | 0.7414 | 3.2 | 4.2
445 | 21 | MED | TRAUMATIC INJURY AGE >17 W/O CC | 0.4945 | 2.3 | 2.9
446 | 21 | MED | *TRAUMATIC INJURY AGE 0-17 | 0.2951 | 2.4 | 2.4
447 | 21 | MED | ALLERGIC REACTIONS AGE >17 | 0.5156 | 1.9 | 2.5
448 | 21 | MED | *ALLERGIC REACTIONS AGE 0-17 | 0.0971 | 2.9 | 2.9
449 | 21 | MED | POISONING & TOXIC EFFECTS OF DRUGS AGE >17 W CC | 0.8275 | 2.6 | 3.7
450 | 21 | MED | POISONING & TOXIC EFFECTS OF DRUGS AGE >17 W/O CC | 0.4224 | 1.6 | 2.0
451 | 21 | MED | *POISONING & TOXIC EFFECTS OF DRUGS AGE 0-17 | 0.2621 | 2.1 | 2.1
452 | 21 | MED | COMPLICATIONS OF TREATMENT W CC | 1.0373 | 3.5 | 4.9
453 | 21 | MED | COMPLICATIONS OF TREATMENT W/O CC | 0.5086 | 2.1 | 2.8
454 | 21 | MED | OTHER INJURY, POISONING & TOXIC EFFECT DIAG W CC | 0.8121 | 3.0 | 4.2
455 | 21 | MED | OTHER INJURY, POISONING & TOXIC EFFECT DIAG W/O CC | 0.4690 | 1.8 | 2.4
456 | 22 |  | NO LONGER VALID | 0.0000 | 0.0 | 0.0
457 | 22 | MED | NO LONGER VALID | 0.0000 | 0.0 | 0.0
458 | 22 | SURG | NO LONGER VALID | 0.0000 | 0.0 | 0.0
459 | 22 | SURG | NO LONGER VALID | 0.0000 | 0.0 | 0.0
460 | 22 | MED | NO LONGER VALID | 0.0000 | 0.0 | 0.0
461 | 23 | SURG | O.R. PROC W DIAGNOSES OF OTHER CONTACT W HEALTH SERVICES | 1.1855 | 2.1 | 3.6
462 | 23 | MED | REHABILITATION | 1.0073 | 9.4 | 11.3
463 | 23 | MED | SIGNS & SYMPTOMS W CC | 0.6795 | 3.1 | 4.1
464 | 23 | MED | SIGNS & SYMPTOMS W/O CC | 0.4940 | 2.4 | 3.0
465 | 23 | MED | AFTERCARE W HISTORY OF MALIGNANCY AS SECONDARY DIAGNOSIS | 0.9078 | 2.0 | 4.0
466 | 23 | MED | AFTERCARE W/O HISTORY OF MALIGNANCY AS SECONDARY DIAGNOSIS | 0.7967 | 2.2 | 3.9
467 | 23 | MED | OTHER FACTORS INFLUENCING HEALTH STATUS | 0.4916 | 1.9 | 3.0
468 |  |  | EXTENSIVE O.R. PROCEDURE UNRELATED TO PRINCIPAL DIAGNOSIS | 3.7934 | 9.4 | 13.1
469 |  |  | PRINCIPAL DIAGNOSIS INVALID AS DISCHARGE **DIAGNOSIS | 0.0000 | 0.0 | 0.0
470 |  |  | **UNGROUPABLE | 0.0000 | 0.0 | 0.0
471 | 8 | SURG | BILATERAL OR MULTIPLE MAJOR JOINT PROCS OF LOWER EXTREMITY | 3.0380 | 4.7 | 5.4
472 | 22 | SURG | NO LONGER VALID | 0.0000 | 0.0 | 0.0
473 | 17 | MED | ACUTE LEUKEMIA W/O MAJOR O.R. PROCEDURE AGE >17 | 3.4644 | 7.4 | 12.7
474 | 4 | SURG | NO LONGER VALID | 0.0000 | 0.0 | 0.0
475 | 4 | MED | RESPIRATORY SYSTEM DIAGNOSIS WITH VENTILATOR SUPPORT | 3.5767 | 8.0 | 11.3
476 |  | SURG | PROSTATIC O.R. PROCEDURE UNRELATED TO PRINCIPAL DIAGNOSIS | 2.2299 | 8.0 | 11.1
477 |  | SURG | NON-EXTENSIVE O.R. PROCEDURE UNRELATED TO PRINCIPAL DIAGNOSIS | 1.8593 | 5.4 | 8.2
478 | 5 | SURG | OTHER VASCULAR PROCEDURES W CC | 2.3639 | 4.9 | 7.4
479 | 5 | SURG | OTHER VASCULAR PROCEDURES W/O CC | 1.4223 | 2.4 | 3.2
480 | PRE | SURG | LIVER TRANSPLANT | 9.6510 | 14.0 | 21.1
481 | PRE | SURG | BONE MARROW TRANSPLANT | 5.9571 | 19.1 | 21.7
482 | PRE | SURG | TRACHEOSTOMY FOR FACE,MOUTH & NECK DIAGNOSES | 3.4598 | 9.6 | 12.5
483 | PRE | SURG | TRAC W MECH VENT 96+HRS OR PDX EXCEPT FACE,MOUTH & NECK DX OSES | 16.5997 | 34.1 | 41.3
484 | 24 | SURG | CRANIOTOMY FOR MULTIPLE SIGNIFICANT TRAUMA | 5.3969 | 9.9 | 14.7
485 | 24 | SURG | LIMB REATTACHMENT, HIP AND FEMUR PROC FOR MULTIPLE SIGNIFICANT TRA | 3.1535 | 7.9 | 9.9
486 | 24 | SURG | OTHER O.R. PROCEDURES FOR MULTIPLE SIGNIFICANT TRAUMA | 4.8552 | 8.8 | 12.9
487 | 24 | MED | OTHER MULTIPLE SIGNIFICANT TRAUMA | 1.9609 | 5.3 | 7.3
488 | 25 | SURG | HIV W EXTENSIVE O.R. PROCEDURE | 4.7597 | 11.7 | 17.0
489 | 25 | MED | HIV W MAJOR RELATED CONDITION | 1.8340 | 6.0 | 8.6
490 | 25 | MED | HIV W OR W/O OTHER RELATED CONDITION | 1.0397 | 3.9 | 5.5
491 | 8 | SURG | MAJOR JOINT & LIMB REATTACHMENT PROCEDURES OF UPPER EXTREMITY | 1.7059 | 2.8 | 3.4
492 | 17 | MED | CHEMOTHERAPY W ACUTE LEUKEMIA OR W USE OF HIGH DOSE CHEMOAGENT | 3.8083 | 9.3 | 14.9
493 | 7 | SURG | LAPAROSCOPIC CHOLECYSTECTOMY W/O C.D.E. W CC | 1.8169 | 4.4 | 6.0
494 | 7 | SURG | LAPAROSCOPIC CHOLECYSTECTOMY W/O C.D.E. W/O CC | 0.9950 | 2.0 | 2.5
495 | PRE | SURG | LUNG TRANSPLANT | 8.3919 | 13.5 | 16.4
496 | 8 | SURG | COMBINED ANTERIOR/POSTERIOR SPINAL FUSION | 5.6730 | 6.8 | 8.9
497 | 8 | SURG | SPINAL FUSION EXCEPT CERVICAL W CC | 3.3896 | 5.2 | 6.3
498 | 8 | SURG | SPINAL FUSION EXCEPT CERVICAL W/O CC | 2.5213 | 3.6 | 4.0
499 | 8 | SURG | BACK & NECK PROCEDURES EXCEPT SPINAL FUSION W CC | 1.4186 | 3.3 | 4.5
500 | 8 | SURG | BACK & NECK PROCEDURES EXCEPT SPINAL FUSION W/O CC | 0.9344 | 2.0 | 2.4
501 | 8 | SURG | KNEE PROCEDURES W PDX OF INFECTION W CC | 2.6174 | 8.3 | 10.7
502 | 8 | SURG | KNEE PROCEDURES W PDX OF INFECTION W/O CC | 1.4062 | 5.2 | 6.2
503 | 8 | SURG | KNEE PROCEDURES W/O PDX OF INFECTION | 1.2152 | 3.0 | 3.9
504 | 22 | SURG | EXTENSIVE 3RD DEGREE BURNS W SKIN GRAFT | 11.8123 | 20.1 | 27.7
505 | 22 | MED | EXTENSIVE 3RD DEGREE BURNS W/O SKIN GRAFT | 2.0106 | 2.3 | 5.7
506 | 22 | SURG | FULL THICKNESS BURN W SKIN GRAFT OR INHAL INJ W CC OR SIG TRAUMA | 4.0998 | 12.1 | 16.9
507 | 22 | SURG | FULL THICKNESS BURN W SKIN GRFT OR INHAL INJ W/O CC OR SIG TRAUMA | 1.8145 | 6.5 | 9.1
508 | 22 | MED | FULL THICKNESS BURN W/O SKIN GRFT OR INHAL INJ W CC OR SIG TRAUMA | 1.3754 | 5.7 | 8.0
509 | 22 | MED | FULL THICKNESS BURN W/O SKIN GRFT OR INH INJ W/O CC OR SIG TRAUMA | 0.6404 | 3.0 | 4.3
510 | 22 | MED | NON-EXTENSIVE BURNS W CC OR SIGNIFICANT TRAUMA | 1.1762 | 4.6 | 6.8
511 | 22 | MED | NON-EXTENSIVE BURNS W/O CC OR SIGNIFICANT TRAUMA | 0.6654 | 3.1 | 4.6
512 | PRE | SURG | SIMULTANEOUS PANCREAS/KIDNEY TRANSPLANT | 5.3384 | 11.1 | 13.1
513 | PRE | SURG | PANCREAS TRANSPLANT | 6.0851 | 8.5 | 9.8
514 | 5 | SURG | NO LONGER VALID | 0.0000 | 0.0 | 0.0
515 | 5 | SURG | CARDIAC DEFIBRILLATOR IMPLANT W/O CARDIAC CATH | 5.3127 | 3.0 | 5.2
516 | 5 | SURG | PERCUTANEOUS CARDIOVASC PROC W AMI | 2.6723 | 3.7 | 4.7
517 | 5 | SURG | PERC CARDIO PROC W NON-DRUG ELUTING STENT W/O AMI | 2.1245 | 1.8 | 2.6
518 | 5 | SURG | PERC CARDIO PROC W/O CORONARY ARTERY STENT OR AMI | 1.8210 | 2.2 | 3.3
519 | 8 | SURG | CERVICAL SPINAL FUSION W CC | 2.4228 | 3.2 | 5.1
520 | 8 | SURG | CERVICAL SPINAL FUSION W/O CC | 1.5749 | 1.7 | 2.1
521 | 20 | MED | ALCOHOL/DRUG ABUSE OR DEPENDENCE W CC | 0.7054 | 4.3 | 5.8
522 | 20 | MED | ALC/DRUG ABUSE OR DEPEND W REHABILITATION THERAPY W/O CC | 0.5151 | 7.7 | 9.6
523 | 20 | MED | ALC/DRUG ABUSE OR DEPEND W/O REHABILITATION THERAPY W/O CC | 0.3929 | 3.3 | 4.1
524 | 1 | MED | TRANSIENT ISCHEMIA | 0.7252 | 2.7 | 3.4
525 | 5 | SURG | HEART ASSIST SYSTEM IMPLANT | 11.4482 | 9.0 | 17.6
526 | 5 | SURG | PERCUTNEOUS CARDIOVASULAR PROC W DRUG ELUTING STENT W AMI | 2.9729 | 3.6 | 4.5
527 | 5 | SURG | PERCUTNEOUS CARDIOVASULAR PROC W DRUG ELUTING STENT W/O AMI | 2.4342 | 1.8 | 2.6
528 | 1 | SURG | INTRACRANIAL VASCULAR PROC W PDX HEMORRHAGE | 7.0434 | 14.1 | 17.2
529 | 1 | SURG | VENTRICULAR SHUNT PROCEDURES W CC | 3.1094 | 6.6 | 10.6
530 | 1 | SURG | VENTRICULAR SHUNT PROCEDURES W/O CC | 1.2664 | 2.9 | 3.9
531 | 1 | SURG | SPINAL PROCEDURES W CC | 3.0474 | 6.8 | 10.0
532 | 1 | SURG | SPINAL PROCEDURES W/O CC | 1.4487 | 2.9 | 4.0
533 | 1 | SURG | EXTRACRANIAL PROCEDURES W CC | 1.6578 | 2.7 | 4.1
534 | 1 | SURG | EXTRACRANIAL PROCEDURES W/O CC | 1.0689 | 1.6 | 2.0
535 | 5 | SURG | CARDIAC DEFIB IMPLANT W CARDIAC CATH W AMI/HF/SHOCK | 8.1344 | 8.1 | 11.0
536 | 5 | SURG | CARDIAC DEFIB IMPLANT W CARDIAC CATH W/O AMI/HF/SHOCK | 6.2536 | 3.9 | 5.8
537 | 8 | SURG | LOCAL EXCIS & REMOV OF INT FIX DEV EXCEPT HIP & FEMUR W CC | 1.8090 | 4.7 | 7.0
538 | 8 | SURG | LOCAL EXCIS & REMOV OF INT FIX DEV EXCEPT HIP & FEMUR W/O CC | 0.9874 | 2.1 | 2.9
539 | 17 | SURG | LYMPHOMA & LEUKEMIA W MAJOR OR PROCEDURE W CC | 3.3744 | 7.5 | 11.2
540 | 17 | SURG | LYMPHOMA & LEUKEMIA W MAJOR OR PROCEDURE W/O CC | 1.2851 | 2.9 | 4.1
*Medicare data have been supplemented by data from 19 States for low volume DRGs.
**DRGs 469 and 470 contain cases that could not be assigned to valid DRGs.

Table 6A.—New Diagnosis Codes
Diagnosis code | Description | CC | MDC | DRG
255.10 | Primary aldosteronism | N | 10 | 300, 301
255.11 | Glucocorticoid-remediable aldosteronism | N | 10 | 300, 301
255.12 | Conn's syndrome | N | 10 | 300, 301
255.13 | Bartter's syndrome | N | 10 | 300, 301
255.14 | Other secondary aldosteronism | N | 10 | 300, 301
277.81 | Primary carnitine deficiency | N | 10 | 299
277.82 | Carnitine deficiency due to inborn errors of metabolism | N | 10 | 299
277.83 | Iatrogenic carnitine deficiency | N | 10 | 299
277.84 | Other secondary carnitine deficiency | N | 10 | 299
277.89 | Other specified disorders of metabolism | N | 10 | 299
282.41 | Sickle-cell thalassemia without crisis | Y | 15 16 | ¹ 387, ¹ 389 395, 396
282.42 | Sickle-cell thalassemia with crisis | Y | 15 16 | ¹ 387, ¹ 389 395, 396
282.49 | Other thalassemia | Y | 15 16 | ¹ 387, ¹ 389 395, 396
282.64 | Sickle-cell/Hb-C disease with crisis | Y | 16 | 395, 396
282.68 | Other sickle-cell disease without crisis | Y | 16 | 395, 396
289.52 | Splenic sequestration | N | 16 | 398, 399
289.81 | Primary hypercoagulable state | Y | 16 | 398, 399
289.82 | Secondary hypercoagulable state | Y | 16 | 398, 399
289.89 | Other specified diseases of blood and blood-forming organs | N | 16 | 398, 399
331.11 | Pick's disease | N | 1 | 12
331.19 | Other frontotemporal dementia | N | 1 | 12
331.82 | Dementia with Lewy bodies | N | 1 | 12
348.30 | Encephalopathy, unspecified | N | 1 25 | 16, 17 ² 489
348.31 | Metabolic encephalopathy | N | 1 25 | 16, 17 ² 489
348.39 | Other encephalopathy | N | 1 25 | 16, 17 ²489
358.00 | Myasthenia gravis without (acute) exacerbation | Y | 1 | 12
358.01 | Myasthenia gravis with (acute) exacerbation | Y | 1 | 12
414.07 | Coronary atherosclerosis, Of bypass graft (artery) (vein) of transplanted heart | N | 5 | 132,133
458.21 | Hypotension of hemodialysis | N | 5 | 141, 142
458.29 | Other iatrogenic hypotension | N | 5 | 141,142
493.81 | Exercise induced bronchospasm | N | 4 | 96, 97, 98
493.82 | Cough variant asthma | N | 4 | 96, 97, 98
517.3 | Acute chest syndrome | N | 4 | 92, 93
530.20 | Ulcer of esophagus without bleeding | N | 6 | 176
530.21 | Ulcer of esophagus with bleeding | Y | 6 | 176
530.85 | Barrett's esophagus | N | 6 | 176
600.00 | Hypertrophy (benign) of prostate without urinary obstruction | N | 12 | 348, 349
600.01 | Hypertrophy (benign) of prostate with urinary obstruction | N | 12 | 348, 349
600.10 | Nodular prostate without urinary obstruction | N | 12 | 348, 349
600.11 | Nodular prostate with urinary obstruction | N | 12 | 348, 349
600.20 | Benign localized hyperplasia of prostate without urinary obstruction | N | 12 | 348, 349
600.21 | Benign localized hyperplasia of prostate with urinary obstruction | N | 12 | 348, 349
600.90 | Hyperplasia of prostate, unspecified, without urinary obstruction | N | 12 | 348, 349
600.91 | Hyperplasia of prostate, unspecified, with urinary obstruction | N | 12 | 348, 349
607.85 | Peyronie's disease | N | 12 | 352
674.50 | Peripartum cardiomyopathy, unspecified as to episode of care or not applicable | Y | 14 | 469
674.51 | Peripartum cardiomyopathy, delivered, with or without mention of antepartum condition | Y | 14 | 370, 371, 372, 374, 375
674.52 | Peripartum cardiomyopathy, delivered, with mention of postpartum condition | Y | 14 | 370, 371, 372, 374, 375
674.53 | Peripartum cardiomyopathy, antepartum condition or complication | Y | 14 | 383, 384
674.54 | Peripartum cardiomyopathy, postpartum condition or complication | Y | 14 | 376, 377
719.7 | Difficulty in walking | N | 8 | 247
728.87 | Muscle weakness | N | 8 | 247
728.88 | Rhabdomyolysis | Y | 8 | 248
752.81 | Scrotal transposition | N | 12 | 352
752.89 | Other specified anomalies of genital organs | N | 12 | 352
766.21 | Post-term infant | N | 15 | 391
766.22 | Prolonged gestation of infant | N | 15 | 391
767.11 | Epicranial subaponeurotic hemorrhage (massive) | Y | 15 | 389
767.19 | Other injuries to scalp | N | 15 | 391
779.83 | Delayed separation of umbilical cord | N | 15 | 391
780.93 | Memory loss | N | 23 | 463, 464
780.94 | Early satiety | N | 23 | 463, 464
781.94 | Facial weakness | N | 1 | 34, 35
785.52 | Septic shock | Y | 18 | 416, 417
788.63 | Urgency of urination | N | 11 | 325, 326, 327
790.21 | Impaired fasting glucose | N | 10 | 296, 297, 298
790.22 | Impaired glucose tolerance test (oral) | N | 10 | 296, 297, 298
790.29 | Other abnormal glucose | N | 10 | 296, 297, 298
799.81 | Decreased libido | N | 23 | 467
799.89 | Other ill-defined conditions | N | 23 | 467
850.11 | Concussion, with loss of consciousness of 30 minutes or less | Y | 1 24 | 31, 32, 33 487
850.12 | Concussion, with loss of consciousness from 31 to 59 minutes | Y | 1 24 | 31, 32, 33 487
959.11 | Other injury of chest wall | N | 21 24 | 444, 445, 446 487
959.12 | Other injury of abdomen | N | 21 24 | 444, 445, 446 487
959.13 | Fracture of corpus cavernosum penis | N | 21 24 | 444, 445, 446 487
959.14 | Other injury of external genitals | N | 21 24 | 444, 445, 446 487
959.19 | Other injury of other sites of trunk | N | 21 24 | 444, 445, 446 487
996.57 | Complication, Due to insulin pump | Y | 21 | 452, 453
V04.81 | Need for prophylactic vaccination and inoculation, Influenza | N | 23 | 467
V04.82 | Need for prophylactic vaccination and inoculation, Respiratory synctial virus (RSV) | N | 23 | 467
V04.89 | Need for prophylactic vaccination and inoculation, Other viral diseases | N | 23 | 467
V15.87 | History of Extracorporeal Membrance Oxygenation (ECMO) | N | 23 | 467
V25.03 | Encounter for emergency contraceptive counseling and prescription | N | 23 | 467
V43.21 | Organ or tissue replaced by other means, Heart assist device | Y | 5 | 144, 145
V43.22 | Organ or tissue replaced by other means, Fully implantable artificial heart | Y | 5 | 144, 145
V45.85 | Insulin pump status | N | 23 | 467
V53.90 | Fitting and adjustment, Unspecified device | N | 23 | 467
V53.91 | Fitting and adjustment of insulin pump | N | 23 | 467
V53.99 | Fitting and adjustment, Other device | N | 23 | 467
V54.01 | Encounter for removal of internal fixation device | N | 8 | 249
V54.02 | Encounter for lengthening/adjustment of growth rod | N | 8 | 249
V54.09 | Other aftercare involving internal fixation device | N | 8 | 249
V58.63 | Long-term (current) use of antiplatelet/antithrombotic | N | 23 | 465, 466
V58.64 | Long-term (current) use of nonsteriodal anti-inflammatories | N | 23 | 465, 466
V58.65 | Long-term (current) use of steroids | N | 23 | 465, 466
V64.41 | Laparoscopic surgical procedure coverted to open procedure | N | 23 | 467
V64.42 | Thoracoscopic surgical procedure converted to open procedure | N | 23 | 467
V64.43 | Arthroscopic surgical procedure converted to open procedure | N | 23 | 467
V65.11 | Pediatric pre-birth visit for expectant mother | N | 23 | 467
V65.19 | Other person consulting on behalf of another person | N | 23 | 467
V65.46 | Encounter for insulin pump training | N | 23 | 467
¹ Classified as a Major Problem.
² Classified as a Major Related Condition.

Table 6B.—New Procedure Codes
Procedure Code | Description | OR | MDC | DRG
00.15 | High-dose infusion interleukin-2 (IL-2) | N* | 17 | 492
37.51 | Heart transplantation | Y | PRE | 103
37.52 | Implantation of total replacement heart system | Y | 5 | 525
37.53 | Replacement or repair of thoracic unit of total replacement heart system | Y | 5 | 525
37.54 | Replacement or repair of other implantable component of total replacement heart system | Y | 5 | 525
68.31 | Laparoscopic supracervical hysterectomy (LSH) | Y | 13 | 354, 355,357, 358, 359
|  |  | 14 | 375
68.39 | Other subtotal abdominal hysterectomy, NOS | Y | 13 | 354, 355, 357, 358, 359
|  |  | 14 | 375
81.62 | Fusion or refusion of 2-3 vertebrae | ¹ N
81.63 | Fusion or refusion of 4-8 vertebrae | ¹ N
81.64 | Fusion or refusion of 9 or more vertebrae | ¹ N
*Nonoperating room procedure, but affects DRG.
¹ Nonoperating room procedure code. The DRG assignment is made based on the specific fusion or refusion (81.00-81.08, 81.30-81.39, 81.61).

Table 6C.—Invalid Diagnosis Codes
Diagnosis code | Description | CC | MDC | DRG
255.1 | Hyperaldosteronism | N | 10 | 300, 301
277.8 | Other specified disorders of metabolism | N | 10 | 299
282.4 | Thalassemias | Y | 15 16 | ¹1381, ¹389 395, 396
289.8 | Other specified diseases of blood and blood-forming organs | N | 16 | 398, 399
331.1 | Pick's disease | N | 1 | 12
348.3 | Encephalopathy, unspecified | N | 1 25 | 16, 17 ²489
358.0 | Myasthenia gravis | Y | 1 | 12
458.2 | Iatrogenic hypotension | N | 5 | 141, 142
530.2 | Ulcer of esophagus | N | 6 | 176
600.0 | Hypertrophy (benign) of prostate | N | 12 | 348, 349
600.1 | Nodular prostate | N | 12 | 348, 349
600.2 | Benign localized hyperplasia of prostate | N | 12 | 348, 349
600.9 | Hyperplasia of prostate, unspecified | N | 12 | 348, 349
719.70 | Difficulty in walking, site unspecified | N | 8 | 247
719.75 | Difficulty in walking, pelvic region and thigh | N | 8 | 247
719.76 | Difficulty in walking, lower leg | N | 8 | 247
719.77 | Difficulty in walking, ankle and foot | N | 8 | 247
719.78 | Difficulty in walking, other specified sites | N | 8 | 247
719.79 | Difficulty in walking, multiple sites | N | 8 | 247
752.8 | Other specified anomalies of genital organs | N | 12 13 | 352 358, 359, 369
766.2 | Post term infant, not “heavy for dates” | N | 15 | 391
767.1 | Injuries to scalp | N | 15 | 391
790.2 | Abnormal glucose tolerance test | N | 10 | 296, 297, 298
799.8 | Other ill-defined conditions | N | 23 | 467
850.1 | Concussion, with brief loss of consciousness | Y | 1 24 | 31, 32, 33 487
959.1 | Injury, trunk | N | 21 24 | 444, 445, 446 487
V04.8 | Need for prophylactic vaccination and inoculation against certain viral disease, Influenza | N | 23 | 467
V43.2 | Organ or tissue replaced by other means, Heart | Y | 5 | 144, 145
V53.9 | Fitting and adjustment of other device, Other and unspecified device | N | 23 | 467
V54.0 | Aftercare involving removal of fracture plate or other internal fixation device | N | 8 | 249
V64.4 | Laparoscopic surgical procedure converted to open procedure | N | 23 | 467
V65.1 | Person consulting on behalf of another person | N | 23 | 467
¹ Classified as a “Major Problem.”
² Classified as a “Major Related Condition.”

TABLE 6D.—Invalid Procedure Codes
Procedure code | Description | OR | MDC | DRG
37.5 | Heart transplantation | Y | PRE | 103
68.3 | Subtotal abdominal hysterectomy | Y | 13 | 354, 355, 357, 358, 359
|  |  | 14 | 375

Table 6E.—Revised Diagnosis Code Titles
Diagnosis code | Description | CC | MDC | DRG
282.60 | Sickle-cell disease, unspecified | Y | 16 | 395, 396
282.61 | Hb-SS disease without crisis | Y | 16 | 395, 396
282.62 | Hb-SS disease with crisis | Y | 16 | 395, 396
282.63 | Sickle-cell/Hb-C disease without crisis | Y | 16 | 395, 396
282.69 | Other sickle-cell disease with crisis | Y | 16 | 395, 396
414.06 | Of native coronary artery of transplanted heart | N | 5 | 132, 133
491.20 | Obstructive chronic bronchitis, without exacerbation | Y | 4 | 88
491.21 | Obstructive chronic bronchitis, with (acute) exacerbation | Y | 4 | 88
493.00 | Extrinsic asthma, unspecified | N | 4 | 96, 97, 98
493.02 | Extrinsic asthma, with (acute) exacerbation | Y | 4 | 96, 97, 98
493.10 | Intrinsic asthma, unspecified | N | 4 | 96, 97, 98
493.12 | Intrinsic asthma, with (acute) exacerbation | Y | 4 | 96, 97, 98
493.20 | Chronic obstructive asthma, unspecified | Y | 4 | 88
493.22 | Chronic obstructive asthma, with (acute) exacerbation | Y | 4 | 88
493.90 | Asthma, unspecified, unspecified | N | 4 | 96, 97, 98
493.92 | Asthma, unspecified, with (acute) exacerbation | Y | 4 | 96, 97, 98
V06.1 | Diphtheria-tetanus-pertussis, combined [DTP] [DtaP] | N | 23 | 467
V06.5 | Tetanus-diphtheria [Td][DT] | N | 23 | 467

Table 6F.—Revised Procedure Code Titles
Procedure code | Description | OR | MDC | DRG
37.33 | Excision or destruction of other lesion or tissue of heart, open approach | Y | 5 | 108
37.34 | Excision or destruction of other lesion or tissue of heart, other approach | Y | 5 | 516, 517, 518
39.79 | Other endovascular repair (of aneurysm) of other vessels | Y | 1 5 11 21 24 | 1, 2, 3 110, 111 315 442, 443 486

Table 6G.—Additions to the CC Exclusions List
[CCs that are added to the list are in Table 6G-Additions to the CC Exclusions List. Each of the principal diagnoses is shown with an asterisk, and the revisions to the CC Exclusions List are provided in an indented column immediately following the affected principal diagnosis.]
*25060 | *2800 | 28242 | 2848 | 28262 | 28249 | 28268 | 2860
35800 | 28241 | 28249 | 2849 | 28263 | 28264 | *28522 | 2861
35801 | 28242 | 28264 | 2850 | 28264 | 28268 | 28241 | 2862
*25061 | 28249 | 28268 | 2851 | 28268 | *28310 | 28242 | 2863
35800 | 28264 | *2821 | *28249 | 28269 | 28241 | 28249 | 2864
35801 | 28268 | 28241 | 2800 | 2830 | 28242 | 28264 | 2865
*25062 | *2801 | 28242 | 2814 | 28310 | 28249 | 28268 | 2866
35800 | 28241 | 28249 | 2818 | 28311 | 28264 | *28529 | 2867
35801 | 28242 | 28264 | 28241 | 28319 | 28268 | 28241 | 2869
*25063 | 28249 | 28268 | 28242 | 2832 | *28311 | 28242 | 2870
35800 | 28264 | *2822 | 28249 | 2839 | 28241 | 28249 | 2871
35801 | 28268 | 28241 | 28260 | 2840 | 28242 | 28264 | 2872
*25080 | *2808 | 28242 | 28261 | 2848 | 28249 | 28268 | 2873
35800 | 28241 | 28249 | 28262 | 2849 | 28264 | *2858 | 2874
35801 | 28242 | 28264 | 28263 | 2850 | 28268 | 28241 | 2875
*25081 | 28249 | 28268 | 28264 | 2851 | *28319 | 28242 | 2878
35800 | 28264 | *2823 | 28268 | *28268 | 28241 | 28249 | 2879
35801 | 28268 | 28241 | 28269 | 2800 | 28242 | 28264 | 2880
*25082 | *2809 | 28242 | 2830 | 2814 | 28249 | 28268 | 2881
35800 | 28241 | 28249 | 28310 | 2818 | 28264 | *2859 | 28981
35801 | 28242 | 28264 | 28311 | 28241 | 28268 | 28241 | 28982
*25083 | 28249 | 28268 | 28319 | 28242 | *2832 | 28242 | *28982
35800 | 28264 | *28241 | 2832 | 28249 | 28241 | 28249 | 2800
35801 | 28268 | 2800 | 2839 | 28260 | 28242 | 28264 | 2814
*25090 | *2810 | 2814 | 2840 | 28261 | 28249 | 28268 | 2818
35800 | 28241 | 2818 | 2848 | 28262 | 28264 | *2880 | 28241
35801 | 28242 | 28241 | 2849 | 28263 | 28268 | 28981 | 28242
*25091 | 28249 | 28242 | 2850 | 28264 | *2839 | 28982 | 28249
35800 | 28264 | 28249 | 2851 | 28268 | 28241 | *2881 | 28260
35801 | 28268 | 28260 | *2825 | 28269 | 28242 | 28981 | 28261
*25092 | *2811 | 28261 | 28241 | 2830 | 28249 | 28982 | 28262
35800 | 28241 | 28262 | 28242 | 28310 | 28264 | *2882 | 28263
35801 | 28242 | 28263 | 28249 | 28311 | 28268 | 28981 | 28264
*25093 | 28249 | 28264 | 28264 | 28319 | *2840 | 28982 | 28268
35800 | 28264 | 28268 | 28268 | 2832 | 28241 | *2883 | 28269
35801 | 28268 | 28269 | *28260 | 2839 | 28242 | 28981 | 2830
*2515 | *2812 | 2830 | 28241 | 2840 | 28249 | 28982 | 28310
53021 | 28241 | 28310 | 28242 | 2848 | 28264 | *2888 | 28311
*25510 | 28242 | 28311 | 28249 | 2849 | 28268 | 28981 | 28319
2550 | 28249 | 28319 | 28264 | 2850 | *2848 | 28982 | 2832
2580 | 28264 | 2832 | 28268 | 2851 | 28241 | *2889 | 2839
2581 | 28268 | 2839 | *28261 | *28269 | 28242 | 28981 | 2840
2588 | *2813 | 2840 | 28241 | 28241 | 28249 | 28982 | 2848
2589 | 28241 | 2848 | 28242 | 28242 | 28264 | *28981 | 2849
*25511 | 28242 | 2849 | 28249 | 28249 | 28268 | 2800 | 2850
2550 | 28249 | 2850 | 28264 | 28264 | *2849 | 2814 | 2851
2580 | 28264 | 2851 | 28268 | 28268 | 28241 | 2818 | 2860
2581 | 28268 | *28242 | *28262 | *2827 | 28242 | 28241 | 2861
2588 | *2814 | 2800 | 28241 | 28241 | 28249 | 28242 | 2862
2589 | 28241 | 2814 | 28242 | 28242 | 28264 | 28249 | 2863
*25512 | 28242 | 2818 | 28249 | 28249 | 28268 | 28260 | 2864
2550 | 28249 | 28241 | 28264 | 28264 | *2850 | 28261 | 2865
2580 | 28264 | 28242 | 28268 | 28268 | 28241 | 28262 | 2866
2581 | 28268 | 28249 | *28263 | *2828 | 28242 | 28263 | 2867
2588 | *2818 | 28260 | 28241 | 28241 | 28249 | 28264 | 2869
2589 | 28241 | 28261 | 28242 | 28242 | 28264 | 28268 | 2870
*25513 | 28242 | 28262 | 28249 | 28249 | 28268 | 28269 | 2871
2550 | 28249 | 28263 | 28264 | 28264 | *2851 | 2830 | 2872
2580 | 28264 | 28264 | 28268 | 28268 | 28241 | 28310 | 2873
2581 | 28268 | 28268 | *28264 | *2829 | 28242 | 28311 | 2874
2588 | *2819 | 28269 | 2800 | 28241 | 28249 | 28319 | 2875
2589 | 28241 | 2830 | 2814 | 28242 | 28264 | 2832 | 2878
*25514 | 28242 | 28310 | 2818 | 28249 | 28268 | 2839 | 2879
2550 | 28249 | 28311 | 28241 | 28264 | *28521 | 2840 | 2880
2580 | 28264 | 28319 | 28242 | 28268 | 28241 | 2848 | 2881
2581 | 28268 | 2832 | 28249 | *2830 | 28242 | 2849 | 28981
2588 | *2820 | 2839 | 28260 | 28241 | 28249 | 2850 | 28982
2589 | 28241 | 2840 | 28261 | 28242 | 28264 | 2851 | *28989
2800 | 35801 | 53201 | 53121 | 5789 | 53531 | 53021 | *53451
2814 | 3581 | 53210 | 53131 | *5307 | 53541 | *53251 | 53021
2818 | *3581 | 53211 | 53140 | 53021 | 53551 | 53021 | *53460
28241 | 35800 | 53220 | 53141 | *53082 | 53561 | *53260 | 53021
28242 | 35801 | 53221 | 53150 | 53021 | 53783 | 53021 | *53461
28249 | *4560 | 53231 | 53151 | *53085 | 53784 | *53261 | 53021
28260 | 53021 | 53240 | 53160 | 4560 | 56202 | 53021 | *53470
28261 | *49381 | 53241 | 53161 | 53021 | 56203 | *53270 | 53021
28262 | 49301 | 53250 | 53171 | 5307 | 56212 | 53021 | *53471
28263 | 49302 | 53251 | 53191 | 53082 | 56213 | *53271 | 53021
28264 | 49311 | 53260 | 53200 | 53100 | 5693 | 53021 | *53490
28268 | 49312 | 53261 | 53201 | 53101 | 56985 | *53290 | 53021
28269 | 49320 | 53271 | 53210 | 53110 | 56986 | 53021 | *53491
2830 | 49321 | 53291 | 53211 | 53111 | 5780 | *53291 | 53021
28310 | 49322 | 53300 | 53220 | 53120 | 5781 | 53021 | *53501
28311 | 49391 | 53301 | 53221 | 53121 | 5789 | *53300 | 53021
28319 | 49392 | 53310 | 53231 | 53131 | *53100 | 53021 | *53511
2832 | *49382 | 53311 | 53240 | 53140 | 53021 | *53301 | 53021
2839 | 49301 | 53320 | 53241 | 53141 | *53101 | 53021 | *53521
2840 | 49302 | 53321 | 53250 | 53150 | 53021 | *53310 | 53021
2848 | 49311 | 53331 | 53251 | 53151 | *53110 | 53021 | *53531
2849 | 49312 | 53340 | 53260 | 53160 | 53021 | *53311 | 53021
2850 | 49320 | 53341 | 53261 | 53161 | *53111 | 53021 | *53541
2851 | 49321 | 53350 | 53271 | 53171 | 53021 | *53320 | 53021
2860 | 49322 | 53351 | 53291 | 53191 | *53120 | 53021 | *53551
2861 | 49391 | 53360 | 53300 | 53200 | 53021 | *53321 | 53021
2862 | 49392 | 53361 | 53301 | 53201 | *53121 | 53021 | *53561
2863 | *5173 | 53371 | 53310 | 53210 | 53021 | *53330 | 53021
2864 | 2800 | 53391 | 53311 | 53211 | *53130 | 53021 | *53783
2865 | 2814 | 53400 | 53320 | 53220 | 53021 | *53331 | 53021
2866 | 2818 | 53401 | 53321 | 53221 | *53131 | 53021 | *53789
2867 | 28241 | 53410 | 53331 | 53231 | 53021 | *53340 | 53021
2869 | 28242 | 53411 | 53340 | 53240 | *53140 | 53021 | *5379
2870 | 28249 | 53420 | 53341 | 53241 | 53021 | *53341 | 53021
2871 | 28260 | 53421 | 53350 | 53250 | *53141 | 53021 | *56202
2872 | 28261 | 53431 | 53351 | 53251 | 53021 | *53350 | 53021
2873 | 28262 | 53440 | 53360 | 53260 | *53150 | 53021 | *56203
2874 | 28263 | 53441 | 53361 | 53261 | 53021 | *53351 | 53021
2875 | 28264 | 53450 | 53371 | 53271 | *53151 | 53021 | *56212
2878 | 28268 | 53451 | 53391 | 53291 | 53021 | *53360 | 53021
2879 | 28269 | 53460 | 53400 | 53300 | *53160 | 53021 | *56213
2880 | 2830 | 53461 | 53401 | 53301 | 53021 | *53361 | 53021
2881 | 28310 | 53471 | 53410 | 53310 | *53161 | 53021 | *5693
28981 | 28311 | 53491 | 53411 | 53311 | 53021 | *53370 | 53021
28982 | 28319 | 53501 | 53420 | 53320 | *53170 | 53021 | *56985
*2899 | 2832 | 53511 | 53421 | 53321 | 53021 | *53371 | 53021
28241 | 2839 | 53521 | 53431 | 53331 | *53171 | 53021 | *5780
28242 | 2840 | 53531 | 53440 | 53340 | 53021 | *53390 | 53021
28249 | 2848 | 53541 | 53441 | 53341 | *53190 | 53021 | *5781
28264 | 2849 | 53551 | 53450 | 53350 | 53021 | *53391 | 53021
28268 | 2850 | 53561 | 53451 | 53351 | *53191 | 53021 | *5789
28981 | 2851 | 53783 | 53460 | 53360 | 53021 | *53400 | 53021
28982 | *53020 | 53784 | 53461 | 53361 | *53200 | 53021 | *60000
*33182 | 4560 | 56202 | 53471 | 53371 | 53021 | *53401 | 5960
3314 | 53021 | 56203 | 53491 | 53391 | *53201 | 53021 | 5996
*34830 | 5307 | 56212 | 53501 | 53400 | 53021 | *53410 | 6010
34982 | 53082 | 56213 | 53511 | 53401 | *53210 | 53021 | 6012
*34831 | 53100 | 5693 | 53521 | 53410 | 53021 | *53411 | 6013
34982 | 53101 | 56985 | 53531 | 53411 | *53211 | 53021 | 6021
*34839 | 53110 | 56986 | 53541 | 53420 | 53021 | *53420 | 78820
34982 | 53111 | 5780 | 53551 | 53421 | *53220 | 53021 | 78829
*34989 | 53120 | 5781 | 53561 | 53431 | 53021 | *53421 | *60001
35800 | 53121 | 5789 | 53783 | 53440 | *53221 | 53021 | 5960
35801 | 53131 | *53021 | 53784 | 53441 | 53021 | *53430 | 5996
*3499 | 53140 | 4560 | 56202 | 53450 | *53230 | 53021 | 6010
35800 | 53141 | 53021 | 56203 | 53451 | 53021 | *53431 | 6012
35801 | 53150 | 5307 | 56212 | 53460 | *53231 | 53021 | 6013
*35800 | 53151 | 53082 | 56213 | 53461 | 53021 | *53440 | 6021
35800 | 53160 | 53100 | 5693 | 53471 | *53240 | 53021 | 78820
35801 | 53161 | 53101 | 56985 | 53491 | 53021 | *53441 | 78829
3581 | 53171 | 53110 | 56986 | 53501 | *53241 | 53021 | *60010
*35801 | 53191 | 53111 | 5780 | 53511 | 53021 | *53450 | 5960
35800 | 53200 | 53120 | 5781 | 53521 | *53250 | 53021 | 5996
6010 | 67450 | 67451 | 67452 | 67400 | 6143 | 7744 | 7994
6012 | 67451 | 67452 | 67453 | 67401 | 6145 | 7745 | *78099
6013 | 67452 | 67453 | 67454 | 67402 | 6150 | 7747 | 78552
6021 | 67453 | 67454 | *66994 | 67403 | 6163 | 7751 | *78550
78820 | 67454 | *66942 | 67450 | 67404 | 6164 | 7752 | 78552
78829 | *64684 | 67450 | 67451 | 67450 | 6207 | 7753 | *78551
*60011 | 67450 | 67451 | 67452 | 67451 | *75289 | 7754 | 78552
5960 | 67451 | 67452 | 67453 | 67452 | 5970 | 7755 | *78552
5996 | 67452 | 67453 | 67454 | 67453 | 5994 | 7756 | 04082
6010 | 67453 | 67454 | *67400 | 67454 | 6140 | 7757 | 78550
6012 | 67454 | *66943 | 67450 | *67454 | 6143 | 7760 | 78551
6013 | *64690 | 67450 | 67451 | 67400 | 6145 | 7761 | 78552
6021 | 67450 | 67451 | 67452 | 67401 | 6150 | 7762 | 78559
78820 | 67451 | 67452 | 67453 | 67402 | 6163 | 7763 | *78559
78829 | 67452 | 67453 | 67454 | 67403 | 6164 | 7771 | 78552
*60020 | 67453 | 67454 | *67401 | 67404 | 6207 | 7772 | *7859
5960 | 67454 | *66944 | 67450 | 67450 | *7670 | 7775 | 78552
5996 | *64691 | 67450 | 67451 | 67451 | 76711 | 7776 | *78863
6010 | 67450 | 67451 | 67452 | 67452 | *76711 | 7780 | 78820
6012 | 67451 | 67452 | 67453 | 67453 | 76711 | 7790 | 78829
6013 | 67452 | 67453 | 67454 | 67454 | *7678 | 7791 | *79981
6021 | 67453 | 67454 | *67402 | *7197 | 76711 | 7797 | 04082
78820 | 67454 | *66980 | 67450 | 6960 | *7679 | *77989 | 44024
78829 | *64693 | 67450 | 67451 | 71100 | 76711 | 76711 | 78001
*60021 | 67450 | 67451 | 67452 | 71101 | *77981 | *78091 | 78003
5960 | 67451 | 67452 | 67453 | 71102 | 76711 | 78552 | 7801
5996 | 67452 | 67453 | 67454 | 71103 | *77982 | *78092 | 78031
6010 | 67453 | 67454 | *67403 | 71104 | 76711 | 78552 | 78039
6012 | 67454 | *66981 | 67450 | 71105 | *77983 | *78093 | 7817
6013 | *64890 | 67450 | 67451 | 71106 | 76501 | 04082 | 7854
6021 | 67450 | 67451 | 67452 | 71107 | 76502 | 44024 | 78550
78820 | 67451 | 67452 | 67453 | 71108 | 76503 | 78001 | 78551
78829 | 67452 | 67453 | 67454 | 71109 | 76504 | 78003 | 78552
*60090 | 67453 | 67454 | *67404 | 71160 | 76505 | 7801 | 78559
5960 | 67454 | *66982 | 67450 | 71161 | 76506 | 78031 | 7863
5996 | *64891 | 67450 | 67451 | 71162 | 76507 | 78039 | 78820
6010 | 67450 | 67451 | 67452 | 71163 | 76508 | 7817 | 78829
6012 | 67451 | 67452 | 67453 | 71164 | 7670 | 7854 | 7895
6013 | 67452 | 67453 | 67454 | 71165 | 76711 | 78550 | 7907
6021 | 67453 | 67454 | *67450 | 71166 | 7685 | 78551 | 7911
78820 | 67454 | *66983 | 67400 | 71167 | 769 | 78552 | 7913
78829 | *64892 | 67450 | 67401 | 71168 | 7700 | 78559 | 7991
*60091 | 67450 | 67451 | 67402 | 71169 | 7701 | 7863 | 7994
5960 | 67451 | 67452 | 67403 | 7141 | 7702 | 78820 | *79989
5996 | 67452 | 67453 | 67404 | 7142 | 7703 | 78829 | 04082
6010 | 67453 | 67454 | 67450 | 71430 | 7704 | 7895 | 44024
6012 | 67454 | *66984 | 67451 | 71431 | 7705 | 7907 | 78001
6013 | *64893 | 67450 | 67452 | 71432 | 7707 | 7911 | 78003
6021 | 67450 | 67451 | 67453 | 71433 | 77084 | 7913 | 7801
78820 | 67451 | 67452 | 67454 | *7280 | 7710 | 7991 | 78031
78829 | 67452 | 67453 | *67451 | 72888 | 7711 | 7994 | 78039
*60785 | 67453 | 67454 | 67400 | *72811 | 7713 | *78094 | 7817
5970 | 67454 | *66990 | 67401 | 72888 | 77181 | 04082 | 7854
5994 | *64894 | 67450 | 67402 | *72812 | 77183 | 44024 | 78550
*64680 | 67450 | 67451 | 67403 | 72888 | 77210 | 78001 | 78551
67450 | 67451 | 67452 | 67404 | *72813 | 77211 | 78003 | 78552
67451 | 67452 | 67453 | 67450 | 72888 | 77212 | 7801 | 78559
67452 | 67453 | 67454 | 67451 | *72819 | 77213 | 78031 | 7863
67453 | 67454 | *66991 | 67452 | 72888 | 77214 | 78039 | 78820
67454 | *650 | 67450 | 67453 | *7282 | 7722 | 7817 | 78829
*64681 | 67450 | 67451 | 67454 | 72888 | 7724 | 7854 | 7895
67450 | 67451 | 67452 | *67452 | *7283 | 7725 | 78550 | 7907
67451 | 67452 | 67453 | 67400 | 72888 | 7730 | 78551 | 7911
67452 | 67453 | 67454 | 67401 | *72881 | 7731 | 78552 | 7913
67453 | 67454 | *66992 | 67402 | 72888 | 7732 | 78559 | 7991
67454 | *66940 | 67450 | 67403 | *72886 | 7733 | 7863 | 7994
*64682 | 67450 | 67451 | 67404 | 72888 | 7734 | 78820 | *80000
67450 | 67451 | 67452 | 67450 | *72888 | 7740 | 78829 | 85011
67451 | 67452 | 67453 | 67451 | 72888 | 7741 | 7895 | 85012
67452 | 67453 | 67454 | 67452 | *75281 | 7742 | 7907 | *80001
67453 | 67454 | *66993 | 67453 | 5970 | 77430 | 7911 | 85011
67454 | *66941 | 67450 | 67454 | 5994 | 77431 | 7913 | 85012
*64683 | 67450 | 67451 | *67453 | 6140 | 77439 | 7991 | *80002
85011 | 85012 | *80063 | 85011 | 85012 | *80154 | 85011 | 85012
85012 | *80033 | 85011 | 85012 | *80124 | 85011 | 85012 | *80315
*80003 | 85011 | 85012 | *80094 | 85011 | 85012 | *80185 | 85011
85011 | 85012 | *80064 | 85011 | 85012 | *80155 | 85011 | 85012
85012 | *80034 | 85011 | 85012 | *80125 | 85011 | 85012 | *80316
*80004 | 85011 | 85012 | *80095 | 85011 | 85012 | *80186 | 85011
85011 | 85012 | *80065 | 85011 | 85012 | *80156 | 85011 | 85012
85012 | *80035 | 85011 | 85012 | *80126 | 85011 | 85012 | *80319
*80005 | 85011 | 85012 | *80096 | 85011 | 85012 | *80189 | 85011
85011 | 85012 | *80066 | 85011 | 85012 | *80159 | 85011 | 85012
85012 | *80036 | 85011 | 85012 | *80129 | 85011 | 85012 | *80320
*80006 | 85011 | 85012 | *80099 | 85011 | 85012 | *80190 | 85011
85011 | 85012 | *80069 | 85011 | 85012 | *80160 | 85011 | 85012
85012 | *80039 | 85011 | 85012 | *80130 | 85011 | 85012 | *80321
*80009 | 85011 | 85012 | *80100 | 85011 | 85012 | *80191 | 85011
85011 | 85012 | *80070 | 85011 | 85012 | *80161 | 85011 | 85012
85012 | *80040 | 85011 | 85012 | *80131 | 85011 | 85012 | *80322
*80010 | 85011 | 85012 | *80101 | 85011 | 85012 | *80192 | 85011
85011 | 85012 | *80071 | 85011 | 85012 | *80162 | 85011 | 85012
85012 | *80041 | 85011 | 85012 | *80132 | 85011 | 85012 | *80323
*80011 | 85011 | 85012 | *80102 | 85011 | 85012 | *80193 | 85011
85011 | 85012 | *80072 | 85011 | 85012 | *80163 | 85011 | 85012
85012 | *80042 | 85011 | 85012 | *80133 | 85011 | 85012 | *80324
*80012 | 85011 | 85012 | *80103 | 85011 | 85012 | *80194 | 85011
85011 | 85012 | *80073 | 85011 | 85012 | *80164 | 85011 | 85012
85012 | *80043 | 85011 | 85012 | *80134 | 85011 | 85012 | *80325
*80013 | 85011 | 85012 | *80104 | 85011 | 85012 | *80195 | 85011
85011 | 85012 | *80074 | 85011 | 85012 | *80165 | 85011 | 85012
85012 | *80044 | 85011 | 85012 | *80135 | 85011 | 85012 | *80326
*80014 | 85011 | 85012 | *80105 | 85011 | 85012 | *80196 | 85011
85011 | 85012 | *80075 | 85011 | 85012 | *80166 | 85011 | 85012
85012 | *80045 | 85011 | 85012 | *80136 | 85011 | 85012 | *80329
*80015 | 85011 | 85012 | *80106 | 85011 | 85012 | *80199 | 85011
85011 | 85012 | *80076 | 85011 | 85012 | *80169 | 85011 | 85012
85012 | *80046 | 85011 | 85012 | *80139 | 85011 | 85012 | *80330
*80016 | 85011 | 85012 | *80109 | 85011 | 85012 | *80300 | 85011
85011 | 85012 | *80079 | 85011 | 85012 | *80170 | 85011 | 85012
85012 | *80049 | 85011 | 85012 | *80140 | 85011 | 85012 | *80331
*80019 | 85011 | 85012 | *80110 | 85011 | 85012 | *80301 | 85011
85011 | 85012 | *80080 | 85011 | 85012 | *80171 | 85011 | 85012
85012 | *80050 | 85011 | 85012 | *80141 | 85011 | 85012 | *80332
*80020 | 85011 | 85012 | *80111 | 85011 | 85012 | *80302 | 85011
85011 | 85012 | *80081 | 85011 | 85012 | *80172 | 85011 | 85012
85012 | *80051 | 85011 | 85012 | *80142 | 85011 | 85012 | *80333
*80021 | 85011 | 85012 | *80112 | 85011 | 85012 | *80303 | 85011
85011 | 85012 | *80082 | 85011 | 85012 | *80173 | 85011 | 85012
85012 | *80052 | 85011 | 85012 | *80143 | 85011 | 85012 | *80334
*80022 | 85011 | 85012 | *80113 | 85011 | 85012 | *80304 | 85011
85011 | 85012 | *80083 | 85011 | 85012 | *80174 | 85011 | 85012
85012 | *80053 | 85011 | 85012 | *80144 | 85011 | 85012 | *80335
*80023 | 85011 | 85012 | *80114 | 85011 | 85012 | *80305 | 85011
85011 | 85012 | *80084 | 85011 | 85012 | *80175 | 85011 | 85012
85012 | *80054 | 85011 | 85012 | *80145 | 85011 | 85012 | *80336
*80024 | 85011 | 85012 | *80115 | 85011 | 85012 | *80306 | 85011
85011 | 85012 | *80085 | 85011 | 85012 | *80176 | 85011 | 85012
85012 | *80055 | 85011 | 85012 | *80146 | 85011 | 85012 | *80339
*80025 | 85011 | 85012 | *80116 | 85011 | 85012 | *80309 | 85011
85011 | 85012 | *80086 | 85011 | 85012 | *80179 | 85011 | 85012
85012 | *80056 | 85011 | 85012 | *80149 | 85011 | 85012 | *80340
*80026 | 85011 | 85012 | *80119 | 85011 | 85012 | *80310 | 85011
85011 | 85012 | *80089 | 85011 | 85012 | *80180 | 85011 | 85012
85012 | *80059 | 85011 | 85012 | *80150 | 85011 | 85012 | *80341
*80029 | 85011 | 85012 | *80120 | 85011 | 85012 | *80311 | 85011
85011 | 85012 | *80090 | 85011 | 85012 | *80181 | 85011 | 85012
85012 | *80060 | 85011 | 85012 | *80151 | 85011 | 85012 | *80342
*80030 | 85011 | 85012 | *80121 | 85011 | 85012 | *80312 | 85011
85011 | 85012 | *80091 | 85011 | 85012 | *80182 | 85011 | 85012
85012 | *80061 | 85011 | 85012 | *80152 | 85011 | 85012 | *80343
*80031 | 85011 | 85012 | *80122 | 85011 | 85012 | *80313 | 85011
85011 | 85012 | *80092 | 85011 | 85012 | *80183 | 85011 | 85012
85012 | *80062 | 85011 | 85012 | *80153 | 85011 | 85012 | *80344
*80032 | 85011 | 85012 | *80123 | 85011 | 85012 | *80314 | 85011
85011 | 85012 | *80093 | 85011 | 85012 | *80184 | 85011 | 85012
*80345 | 85011 | 85012 | *80436 | 85011 | 85012 | 80072 | 80163
85011 | 85012 | *80406 | 85011 | 85012 | *80499 | 80073 | 80164
85012 | *80376 | 85011 | 85012 | *80469 | 85011 | 80074 | 80165
*80346 | 85011 | 85012 | *80439 | 85011 | 85012 | 80075 | 80166
85011 | 85012 | *80409 | 85011 | 85012 | *8500 | 80076 | 80169
85012 | *80379 | 85011 | 85012 | *80470 | 85011 | 80079 | 80170
*80349 | 85011 | 85012 | *80440 | 85011 | 85012 | 80080 | 80171
85011 | 85012 | *80410 | 85011 | 85012 | *85011 | 80081 | 80172
85012 | *80380 | 85011 | 85012 | *80471 | 430 | 80082 | 80173
*80350 | 85011 | 85012 | *80441 | 85011 | 431 | 80083 | 80174
85011 | 85012 | *80411 | 85011 | 85012 | 4320 | 80084 | 80175
85012 | *80381 | 85011 | 85012 | *80472 | 4321 | 80085 | 80176
*80351 | 85011 | 85012 | *80442 | 85011 | 436 | 80086 | 80179
85011 | 85012 | *80412 | 85011 | 85012 | 78001 | 80089 | 80180
85012 | *80382 | 85011 | 85012 | *80473 | 78003 | 80090 | 80181
*80352 | 85011 | 85012 | *80443 | 85011 | 80000 | 80091 | 80182
85011 | 85012 | *80413 | 85011 | 85012 | 80001 | 80092 | 80183
85012 | *80383 | 85011 | 85012 | *80474 | 80002 | 80093 | 80184
*80353 | 85011 | 85012 | *80444 | 85011 | 80003 | 80094 | 80185
85011 | 85012 | *80414 | 85011 | 85012 | 80004 | 80095 | 80186
85012 | *80384 | 85011 | 85012 | *80475 | 80005 | 80096 | 80189
*80354 | 85011 | 85012 | *80445 | 85011 | 80006 | 80099 | 80190
85011 | 85012 | *80415 | 85011 | 85012 | 80009 | 80100 | 80191
85012 | *80385 | 85011 | 85012 | *80476 | 80010 | 80101 | 80192
*80355 | 85011 | 85012 | *80446 | 85011 | 80011 | 80102 | 80193
85011 | 85012 | *80416 | 85011 | 85012 | 80012 | 80103 | 80194
85012 | *80386 | 85011 | 85012 | *80479 | 80013 | 80104 | 80195
*80356 | 85011 | 85012 | *80449 | 85011 | 80014 | 80105 | 80196
85011 | 85012 | *80419 | 85011 | 85012 | 80015 | 80106 | 80199
85012 | *80389 | 85011 | 85012 | *80480 | 80016 | 80109 | 8021
*80359 | 85011 | 85012 | *80450 | 85011 | 80019 | 80110 | 80220
85011 | 85012 | *80420 | 85011 | 85012 | 80020 | 80111 | 80221
85012 | *80390 | 85011 | 85012 | *80481 | 80021 | 80112 | 80222
*80360 | 85011 | 85012 | *80451 | 85011 | 80022 | 80113 | 80223
85011 | 85012 | *80421 | 85011 | 85012 | 80023 | 80114 | 80224
85012 | *80391 | 85011 | 85012 | *80482 | 80024 | 80115 | 80225
*80361 | 85011 | 85012 | *80452 | 85011 | 80025 | 80116 | 80226
85011 | 85012 | *80422 | 85011 | 85012 | 80026 | 80119 | 80227
85012 | *80392 | 85011 | 85012 | *80483 | 80029 | 80120 | 80228
*80362 | 85011 | 85012 | *80453 | 85011 | 80030 | 80121 | 80229
85011 | 85012 | *80423 | 85011 | 85012 | 80031 | 80122 | 80230
85012 | *80393 | 85011 | 85012 | *80484 | 80032 | 80123 | 80231
*80363 | 85011 | 85012 | *80454 | 85011 | 80033 | 80124 | 80232
85011 | 85012 | *80424 | 85011 | 85012 | 80034 | 80125 | 80233
85012 | *80394 | 85011 | 85012 | *80485 | 80035 | 80126 | 80234
*80364 | 85011 | 85012 | *80455 | 85011 | 80036 | 80129 | 80235
85011 | 85012 | *80425 | 85011 | 85012 | 80039 | 80130 | 80236
85012 | *80395 | 85011 | 85012 | *80486 | 80040 | 80131 | 80237
*80365 | 85011 | 85012 | *80456 | 85011 | 80041 | 80132 | 80238
85011 | 85012 | *80426 | 85011 | 85012 | 80042 | 80133 | 80239
85012 | *80396 | 85011 | 85012 | *80489 | 80043 | 80134 | 8024
*80366 | 85011 | 85012 | *80459 | 85011 | 80044 | 80135 | 8025
85011 | 85012 | *80429 | 85011 | 85012 | 80045 | 80136 | 8026
85012 | *80399 | 85011 | 85012 | *80490 | 80046 | 80139 | 8027
*80369 | 85011 | 85012 | *80460 | 85011 | 80049 | 80140 | 8028
85011 | 85012 | *80430 | 85011 | 85012 | 80050 | 80141 | 8029
85012 | *80400 | 85011 | 85012 | *80491 | 80051 | 80142 | 80300
*80370 | 85011 | 85012 | *80461 | 85011 | 80052 | 80143 | 80301
85011 | 85012 | *80431 | 85011 | 85012 | 80053 | 80144 | 80302
85012 | *80401 | 85011 | 85012 | *80492 | 80054 | 80145 | 80303
*80371 | 85011 | 85012 | *80462 | 85011 | 80055 | 80146 | 80304
85011 | 85012 | *80432 | 85011 | 85012 | 80056 | 80149 | 80305
85012 | *80402 | 85011 | 85012 | *80493 | 80059 | 80150 | 80306
*80372 | 85011 | 85012 | *80463 | 85011 | 80060 | 80151 | 80309
85011 | 85012 | *80433 | 85011 | 85012 | 80061 | 80152 | 80310
85012 | *80403 | 85011 | 85012 | *80494 | 80062 | 80153 | 80311
*80373 | 85011 | 85012 | *80464 | 85011 | 80063 | 80154 | 80312
85011 | 85012 | *80434 | 85011 | 85012 | 80064 | 80155 | 80313
85012 | *80404 | 85011 | 85012 | *80495 | 80065 | 80156 | 80314
*80374 | 85011 | 85012 | *80465 | 85011 | 80066 | 80159 | 80315
85011 | 85012 | *80435 | 85011 | 85012 | 80069 | 80160 | 80316
85012 | *80405 | 85011 | 85012 | *80496 | 80070 | 80161 | 80319
*80375 | 85011 | 85012 | *80466 | 85011 | 80071 | 80162 | 80320
80321 | 80412 | 8502 | 85184 | 85315 | 80056 | 80149 | 80305
80322 | 80413 | 8503 | 85185 | 85316 | 80059 | 80150 | 80306
80323 | 80414 | 8504 | 85186 | 85319 | 80060 | 80151 | 80309
80324 | 80415 | 8505 | 85189 | 85400 | 80061 | 80152 | 80310
80325 | 80416 | 8509 | 85190 | 85401 | 80062 | 80153 | 80311
80326 | 80419 | 85100 | 85191 | 85402 | 80063 | 80154 | 80312
80329 | 80420 | 85101 | 85192 | 85403 | 80064 | 80155 | 80313
80330 | 80421 | 85102 | 85193 | 85404 | 80065 | 80156 | 80314
80331 | 80422 | 85103 | 85194 | 85405 | 80066 | 80159 | 80315
80332 | 80423 | 85104 | 85195 | 85406 | 80069 | 80160 | 80316
80333 | 80424 | 85105 | 85196 | 85409 | 80070 | 80161 | 80319
80334 | 80425 | 85106 | 85199 | 85410 | 80071 | 80162 | 80320
80335 | 80426 | 85109 | 85200 | 85411 | 80072 | 80163 | 80321
80336 | 80429 | 85110 | 85201 | 85412 | 80073 | 80164 | 80322
80339 | 80430 | 85111 | 85202 | 85413 | 80074 | 80165 | 80323
80340 | 80431 | 85112 | 85203 | 85414 | 80075 | 80166 | 80324
80341 | 80432 | 85113 | 85204 | 85415 | 80076 | 80169 | 80325
80342 | 80433 | 85114 | 85205 | 85416 | 80079 | 80170 | 80326
80343 | 80434 | 85115 | 85206 | 85419 | 80080 | 80171 | 80329
80344 | 80435 | 85116 | 85209 | *85012 | 80081 | 80172 | 80330
80345 | 80436 | 85119 | 85210 | 430 | 80082 | 80173 | 80331
80346 | 80439 | 85120 | 85211 | 431 | 80083 | 80174 | 80332
80349 | 80440 | 85121 | 85212 | 4320 | 80084 | 80175 | 80333
80350 | 80441 | 85122 | 85213 | 4321 | 80085 | 80176 | 80334
80351 | 80442 | 85123 | 85214 | 436 | 80086 | 80179 | 80335
80352 | 80443 | 85124 | 85215 | 78001 | 80089 | 80180 | 80336
80353 | 80444 | 85125 | 85216 | 78003 | 80090 | 80181 | 80339
80354 | 80445 | 85126 | 85219 | 80000 | 80091 | 80182 | 80340
80355 | 80446 | 85129 | 85220 | 80001 | 80092 | 80183 | 80341
80356 | 80449 | 85130 | 85221 | 80002 | 80093 | 80184 | 80342
80359 | 80450 | 85131 | 85222 | 80003 | 80094 | 80185 | 80343
80360 | 80451 | 85132 | 85223 | 80004 | 80095 | 80186 | 80344
80361 | 80452 | 85133 | 85224 | 80005 | 80096 | 80189 | 80345
80362 | 80453 | 85134 | 85225 | 80006 | 80099 | 80190 | 80346
80363 | 80454 | 85135 | 85226 | 80009 | 80100 | 80191 | 80349
80364 | 80455 | 85136 | 85229 | 80010 | 80101 | 80192 | 80350
80365 | 80456 | 85139 | 85230 | 80011 | 80102 | 80193 | 80351
80366 | 80459 | 85140 | 85231 | 80012 | 80103 | 80194 | 80352
80369 | 80460 | 85141 | 85232 | 80013 | 80104 | 80195 | 80353
80370 | 80461 | 85142 | 85233 | 80014 | 80105 | 80196 | 80354
80371 | 80462 | 85143 | 85234 | 80015 | 80106 | 80199 | 80355
80372 | 80463 | 85144 | 85235 | 80016 | 80109 | 8021 | 80356
80373 | 80464 | 85145 | 85236 | 80019 | 80110 | 80220 | 80359
80374 | 80465 | 85146 | 85239 | 80020 | 80111 | 80221 | 80360
80375 | 80466 | 85149 | 85240 | 80021 | 80112 | 80222 | 80361
80376 | 80469 | 85150 | 85241 | 80022 | 80113 | 80223 | 80362
80379 | 80470 | 85151 | 85242 | 80023 | 80114 | 80224 | 80363
80380 | 80471 | 85152 | 85243 | 80024 | 80115 | 80225 | 80364
80381 | 80472 | 85153 | 85244 | 80025 | 80116 | 80226 | 80365
80382 | 80473 | 85154 | 85245 | 80026 | 80119 | 80227 | 80366
80383 | 80474 | 85155 | 85246 | 80029 | 80120 | 80228 | 80369
80384 | 80475 | 85156 | 85249 | 80030 | 80121 | 80229 | 80370
80385 | 80476 | 85159 | 85250 | 80031 | 80122 | 80230 | 80371
80386 | 80479 | 85160 | 85251 | 80032 | 80123 | 80231 | 80372
80389 | 80480 | 85161 | 85252 | 80033 | 80124 | 80232 | 80373
80390 | 80481 | 85162 | 85253 | 80034 | 80125 | 80233 | 80374
80391 | 80482 | 85163 | 85254 | 80035 | 80126 | 80234 | 80375
80392 | 80483 | 85164 | 85255 | 80036 | 80129 | 80235 | 80376
80393 | 80484 | 85165 | 85256 | 80039 | 80130 | 80236 | 80379
80394 | 80485 | 85166 | 85259 | 80040 | 80131 | 80237 | 80380
80395 | 80486 | 85169 | 85300 | 80041 | 80132 | 80238 | 80381
80396 | 80489 | 85170 | 85301 | 80042 | 80133 | 80239 | 80382
80399 | 80490 | 85171 | 85302 | 80043 | 80134 | 8024 | 80383
80400 | 80491 | 85172 | 85303 | 80044 | 80135 | 8025 | 80384
80401 | 80492 | 85173 | 85304 | 80045 | 80136 | 8026 | 80385
80402 | 80493 | 85174 | 85305 | 80046 | 80139 | 8027 | 80386
80403 | 80494 | 85175 | 85306 | 80049 | 80140 | 8028 | 80389
80404 | 80495 | 85176 | 85309 | 80050 | 80141 | 8029 | 80390
80405 | 80496 | 85179 | 85310 | 80051 | 80142 | 80300 | 80391
80406 | 80499 | 85180 | 85311 | 80052 | 80143 | 80301 | 80392
80409 | 8500 | 85181 | 85312 | 80053 | 80144 | 80302 | 80393
80410 | 85011 | 85182 | 85313 | 80054 | 80145 | 80303 | 80394
80411 | 85012 | 85183 | 85314 | 80055 | 80146 | 80304 | 80395
80396 | 80489 | 85170 | 85301 | *85111 | 85011 | 85012 | *85202
80399 | 80490 | 85171 | 85302 | 85011 | 85012 | *85172 | 85011
80400 | 80491 | 85172 | 85303 | 85012 | *85142 | 85011 | 85012
80401 | 80492 | 85173 | 85304 | *85112 | 85011 | 85012 | *85203
80402 | 80493 | 85174 | 85305 | 85011 | 85012 | *85173 | 85011
80403 | 80494 | 85175 | 85306 | 85012 | *85143 | 85011 | 85012
80404 | 80495 | 85176 | 85309 | *85113 | 85011 | 85012 | *85204
80405 | 80496 | 85179 | 85310 | 85011 | 85012 | *85174 | 85011
80406 | 80499 | 85180 | 85311 | 85012 | *85144 | 85011 | 85012
80409 | 8500 | 85181 | 85312 | *85114 | 85011 | 85012 | *85205
80410 | 85011 | 85182 | 85313 | 85011 | 85012 | *85175 | 85011
80411 | 85012 | 85183 | 85314 | 85012 | *85145 | 85011 | 85012
80412 | 8502 | 85184 | 85315 | *85115 | 85011 | 85012 | *85206
80413 | 8503 | 85185 | 85316 | 85011 | 85012 | *85176 | 85011
80414 | 8504 | 85186 | 85319 | 85012 | *85146 | 85011 | 85012
80415 | 8505 | 85189 | 85400 | *85116 | 85011 | 85012 | *85209
80416 | 8509 | 85190 | 85401 | 85011 | 85012 | *85179 | 85011
80419 | 85100 | 85191 | 85402 | 85012 | *85149 | 85011 | 85012
80420 | 85101 | 85192 | 85403 | *85119 | 85011 | 85012 | *85210
80421 | 85102 | 85193 | 85404 | 85011 | 85012 | *85180 | 85011
80422 | 85103 | 85194 | 85405 | 85012 | *85150 | 85011 | 85012
80423 | 85104 | 85195 | 85406 | *85120 | 85011 | 85012 | *85211
80424 | 85105 | 85196 | 85409 | 85011 | 85012 | *85181 | 85011
80425 | 85106 | 85199 | 85410 | 85012 | *85151 | 85011 | 85012
80426 | 85109 | 85200 | 85411 | *85121 | 85011 | 85012 | *85212
80429 | 85110 | 85201 | 85412 | 85011 | 85012 | *85182 | 85011
80430 | 85111 | 85202 | 85413 | 85012 | *85152 | 85011 | 85012
80431 | 85112 | 85203 | 85414 | *85122 | 85011 | 85012 | *85213
80432 | 85113 | 85204 | 85415 | 85011 | 85012 | *85183 | 85011
80433 | 85114 | 85205 | 85416 | 85012 | *85153 | 85011 | 85012
80434 | 85115 | 85206 | 85419 | *85123 | 85011 | 85012 | *85214
80435 | 85116 | 85209 | *8502 | 85011 | 85012 | *85184 | 85011
80436 | 85119 | 85210 | 85011 | 85012 | *85154 | 85011 | 85012
80439 | 85120 | 85211 | 85012 | *85124 | 85011 | 85012 | *85215
80440 | 85121 | 85212 | *8503 | 85011 | 85012 | *85185 | 85011
80441 | 85122 | 85213 | 85011 | 85012 | *85155 | 85011 | 85012
80442 | 85123 | 85214 | 85012 | *85125 | 85011 | 85012 | *85216
80443 | 85124 | 85215 | *8504 | 85011 | 85012 | *85186 | 85011
80444 | 85125 | 85216 | 85011 | 85012 | *85156 | 85011 | 85012
80445 | 85126 | 85219 | 85012 | *85126 | 85011 | 85012 | *85219
80446 | 85129 | 85220 | *8505 | 85011 | 85012 | *85189 | 85011
80449 | 85130 | 85221 | 85011 | 85012 | *85159 | 85011 | 85012
80450 | 85131 | 85222 | 85012 | *85129 | 85011 | 85012 | *85221
80451 | 85132 | 85223 | *8509 | 85011 | 85012 | *85190 | 85011
80452 | 85133 | 85224 | 85011 | 85012 | *85160 | 85011 | 85012
80453 | 85134 | 85225 | 85012 | *85130 | 85011 | 85012 | *85222
80454 | 85135 | 85226 | *85100 | 85011 | 85012 | *85191 | 85011
80455 | 85136 | 85229 | 85011 | 85012 | *85161 | 85011 | 85012
80456 | 85139 | 85230 | 85012 | *85131 | 85011 | 85012 | *85223
80459 | 85140 | 85231 | *85101 | 85011 | 85012 | *85192 | 85011
80460 | 85141 | 85232 | 85011 | 85012 | *85162 | 85011 | 85012
80461 | 85142 | 85233 | 85012 | *85132 | 85011 | 85012 | *85224
80462 | 85143 | 85234 | *85102 | 85011 | 85012 | *85193 | 85011
80463 | 85144 | 85235 | 85011 | 85012 | *85163 | 85011 | 85012
80464 | 85145 | 85236 | 85012 | *85133 | 85011 | 85012 | *85225
80465 | 85146 | 85239 | *85103 | 85011 | 85012 | *85194 | 85011
80466 | 85149 | 85240 | 85011 | 85012 | *85164 | 85011 | 85012
80469 | 85150 | 85241 | 85012 | *85134 | 85011 | 85012 | *85226
80470 | 85151 | 85242 | *85104 | 85011 | 85012 | *85195 | 85011
80471 | 85152 | 85243 | 85011 | 85012 | *85165 | 85011 | 85012
80472 | 85153 | 85244 | 85012 | *85135 | 85011 | 85012 | *85229
80473 | 85154 | 85245 | *85105 | 85011 | 85012 | *85196 | 85011
80474 | 85155 | 85246 | 85011 | 85012 | *85166 | 85011 | 85012
80475 | 85156 | 85249 | 85012 | *85136 | 85011 | 85012 | *85230
80476 | 85159 | 85250 | *85106 | 85011 | 85012 | *85199 | 85011
80479 | 85160 | 85251 | 85011 | 85012 | *85169 | 85011 | 85012
80480 | 85161 | 85252 | 85012 | *85139 | 85011 | 85012 | *85231
80481 | 85162 | 85253 | *85109 | 85011 | 85012 | *85200 | 85011
80482 | 85163 | 85254 | 85011 | 85012 | *85170 | 85011 | 85012
80483 | 85164 | 85255 | 85012 | *85140 | 85011 | 85012 | *85232
80484 | 85165 | 85256 | *85110 | 85011 | 85012 | *85201 | 85011
80485 | 85166 | 85259 | 85011 | 85012 | *85171 | 85011 | 85012
80486 | 85169 | 85300 | 85012 | *85141 | 85011 | 85012 | *85233
85011 | 85012 | *85414 | 8058 | 95219 | 8064 | 80609 | 80504
85012 | *85304 | 85011 | 8059 | 9522 | 8065 | 80610 | 80505
*85234 | 85011 | 85012 | 80600 | 9523 | 80660 | 80611 | 80506
85011 | 85012 | *85415 | 80601 | 9524 | 80661 | 80612 | 80507
85012 | *85305 | 85011 | 80602 | 9528 | 80662 | 80613 | 80508
*85235 | 85011 | 85012 | 80603 | 9529 | 80669 | 80614 | 80510
85011 | 85012 | *85416 | 80604 | *95912 | 80670 | 80615 | 80511
85012 | *85306 | 85011 | 80605 | 80500 | 80671 | 80616 | 80512
*85236 | 85011 | 85012 | 80606 | 80501 | 80672 | 80617 | 80513
85011 | 85012 | *85419 | 80607 | 80502 | 80679 | 80618 | 80514
85012 | *85309 | 85011 | 80608 | 80503 | 8068 | 80619 | 80515
*85239 | 85011 | 85012 | 80609 | 80504 | 8069 | 80620 | 80516
85011 | 85012 | *8738 | 80610 | 80505 | 95200 | 80621 | 80517
85012 | *85310 | 85011 | 80611 | 80506 | 95201 | 80622 | 80518
*85240 | 85011 | 85012 | 80612 | 80507 | 95202 | 80623 | 8052
85011 | 85012 | *8739 | 80613 | 80508 | 95203 | 80624 | 8053
85012 | *85311 | 85011 | 80614 | 80510 | 95204 | 80625 | 8054
*85241 | 85011 | 85012 | 80615 | 80511 | 95205 | 80626 | 8055
85011 | 85012 | *8798 | 80616 | 80512 | 95206 | 80627 | 8056
85012 | *85312 | 85011 | 80617 | 80513 | 95207 | 80628 | 8057
*85242 | 85011 | 85012 | 80618 | 80514 | 95208 | 80629 | 8058
85011 | 85012 | *8799 | 80619 | 80515 | 95209 | 80630 | 8059
85012 | *85313 | 85011 | 80620 | 80516 | 95210 | 80631 | 80600
*85243 | 85011 | 85012 | 80621 | 80517 | 95211 | 80632 | 80601
85011 | 85012 | *9050 | 80622 | 80518 | 95212 | 80633 | 80602
85012 | *85314 | 85011 | 80623 | 8052 | 95213 | 80634 | 80603
*85244 | 85011 | 85012 | 80624 | 8053 | 95214 | 80635 | 80604
85011 | 85012 | *9251 | 80625 | 8054 | 95215 | 80636 | 80605
85012 | *85315 | 85011 | 80626 | 8055 | 95216 | 80637 | 80606
*85245 | 85011 | 85012 | 80627 | 8056 | 95217 | 80638 | 80607
85011 | 85012 | *9252 | 80628 | 8057 | 95218 | 80639 | 80608
85012 | *85316 | 85011 | 80629 | 8058 | 95219 | 8064 | 80609
*85246 | 85011 | 85012 | 80630 | 8059 | 9522 | 8065 | 80610
85011 | 85012 | *9290 | 80631 | 80600 | 9523 | 80660 | 80611
85012 | *85319 | 85011 | 80632 | 80601 | 9524 | 80661 | 80612
*85249 | 85011 | 85012 | 80633 | 80602 | 9528 | 80662 | 80613
85011 | 85012 | *9299 | 80634 | 80603 | 9529 | 80669 | 80614
85012 | *85400 | 85011 | 80635 | 80604 | *95913 | 80670 | 80615
*85250 | 85011 | 85012 | 80636 | 80605 | 80500 | 80671 | 80616
85011 | 85012 | *9588 | 80637 | 80606 | 80501 | 80672 | 80617
85012 | *85401 | 85011 | 80638 | 80607 | 80502 | 80679 | 80618
*85251 | 85011 | 85012 | 80639 | 80608 | 80503 | 8068 | 80619
85011 | 85012 | *95901 | 8064 | 80609 | 80504 | 8069 | 80620
85012 | *85402 | 85011 | 8065 | 80610 | 80505 | 95200 | 80621
*85252 | 85011 | 85012 | 80660 | 80611 | 80506 | 95201 | 80622
85011 | 85012 | *95909 | 80661 | 80612 | 80507 | 95202 | 80623
85012 | *85403 | 85011 | 80662 | 80613 | 80508 | 95203 | 80624
*85253 | 85011 | 85012 | 80669 | 80614 | 80510 | 95204 | 80625
85011 | 85012 | *95911 | 80670 | 80615 | 80511 | 95205 | 80626
85012 | *85404 | 80500 | 80671 | 80616 | 80512 | 95206 | 80627
*85254 | 85011 | 80501 | 80672 | 80617 | 80513 | 95207 | 80628
85011 | 85012 | 80502 | 80679 | 80618 | 80514 | 95208 | 80629
85012 | *85405 | 80503 | 8068 | 80619 | 80515 | 95209 | 80630
*85255 | 85011 | 80504 | 8069 | 80620 | 80516 | 95210 | 80631
85011 | 85012 | 80505 | 95200 | 80621 | 80517 | 95211 | 80632
85012 | *85406 | 80506 | 95201 | 80622 | 80518 | 95212 | 80633
*85256 | 85011 | 80507 | 95202 | 80623 | 8052 | 95213 | 80634
85011 | 85012 | 80508 | 95203 | 80624 | 8053 | 95214 | 80635
85012 | *85409 | 80510 | 95204 | 80625 | 8054 | 95215 | 80636
*85259 | 85011 | 80511 | 95205 | 80626 | 8055 | 95216 | 80637
85011 | 85012 | 80512 | 95206 | 80627 | 8056 | 95217 | 80638
85012 | *85410 | 80513 | 95207 | 80628 | 8057 | 95218 | 80639
*85300 | 85011 | 80514 | 95208 | 80629 | 8058 | 95219 | 8064
85011 | 85012 | 80515 | 95209 | 80630 | 8059 | 9522 | 8065
85012 | *85411 | 80516 | 95210 | 80631 | 80600 | 9523 | 80660
*85301 | 85011 | 80517 | 95211 | 80632 | 80601 | 9524 | 80661
85011 | 85012 | 80518 | 95212 | 80633 | 80602 | 9528 | 80662
5012 | *85412 | 8052 | 95213 | 80634 | 80603 | 9529 | 80669
*85302 | 85011 | 8053 | 95214 | 80635 | 80604 | *95914 | 80670
85011 | 85012 | 8054 | 95215 | 80636 | 80605 | 80500 | 80671
85012 | *85413 | 8055 | 95216 | 80637 | 80606 | 80501 | 80672
*85303 | 85011 | 8056 | 95217 | 80638 | 80607 | 80502 | 80679
85011 | 85012 | 8057 | 95218 | 80639 | 80608 | 80503 | 8068
8069 | 80620 | *99609 | *99671
95200 | 80621 | 99657 | 99657
95201 | 80622 | *9961 | *99672
95202 | 80623 | 99657 | 99657
95203 | 80624 | *9962 | *99673
95204 | 80625 | 99657 | 99657
95205 | 80626 | *99630 | *99674
95206 | 80627 | 99657 | 99657
95207 | 80628 | *99639 | *99675
95208 | 80629 | 99657 | 99657
95209 | 80630 | *9964 | *99676
95210 | 80631 | 99657 | 99657
95211 | 80632 | *99651 | *99677
95212 | 80633 | 99657 | 99657
95213 | 80634 | *99652 | *99678
95214 | 80635 | 99657 | 99657
95215 | 80636 | *99653 | *99679
95216 | 80637 | 99657 | 99657
95217 | 80638 | *99654 | *99680
95218 | 80639 | 99657 | V4321
95219 | 8064 | *99655 | V4322
9522 | 8065 | 99657 | *99683
9523 | 80660 | *99656 | V4321
9524 | 80661 | 99657 | V4322
9528 | 80662 | *99657 | *99687
9529 | 80669 | 99655 | V4321
*95919 | 80670 | 99656 | V4322
80500 | 80671 | 99657 | *99791
80501 | 80672 | 99659 | 99657
80502 | 80679 | 99660 | *99799
80503 | 8068 | 99661 | 99657
80504 | 8069 | 99662 | *99881
80505 | 95200 | 99663 | 99657
80506 | 95201 | 99664 | *99883
80507 | 95202 | 99665 | 99657
80508 | 95203 | 99666 | *99889
80510 | 95204 | 99667 | 99657
80511 | 95205 | 99668 | *9989
80512 | 95206 | 99669 | 99657
80513 | 95207 | 99670 | *V421
80514 | 95208 | 99671 | V4321
80515 | 95209 | 99672 | V4322
80516 | 95210 | 99673 | *V4321
80517 | 95211 | 99674 | V4321
80518 | 95212 | 99675 | V4322
8052 | 95213 | 99676 | *V4322
8053 | 95214 | 99677 | V4321
8054 | 95215 | 99678 | V4322
8055 | 95216 | 99679
8056 | 95217 | *99659
8057 | 95218 | 99657
8058 | 95219 | *99660
8059 | 9522 | 99657
80600 | 9523 | *99661
80601 | 9524 | 99657
80602 | 9528 | *99662
80603 | 9529 | 99657
80604 | *9598 | *99663
80605 | 85011 | 99657
80606 | 85012 | *99664
80607 | *9599 | 99657
80608 | 85011 | *99665
80609 | 85012 | 99657
80610 | *99600 | *99666
80611 | 99657 | 99657
80612 | *99601 | *99667
80613 | 99657 | 99657
80614 | *99602 | *99668
80615 | 99657 | 99657
80616 | *99603 | *99669
80617 | 99657 | 99657
80618 | *99604 | *99670
80619 | 99657 | 99657

Table 6H.—Deletions From the CC Exclusions List
[CCs that are deleted from the list are in Table 6H-Deletions to the CC Exclusions List. Each of the principal diagnoses is shown with an asterisk, and the revisions to the CC Exclusions List are provided in an indented column immediately following the affected principal diagnosis.]
*25060 | 28263 | 28260 | 53201 | 6013 | 71169 | 6960 | 8501
3580 | 28269 | 28261 | 53210 | 6021 | 7141 | 71100 | *80005
*25061 | 2830 | 28262 | 53211 | 78820 | 7142 | 71101 | 8501
3580 | 28310 | 28263 | 53220 | 78829 | 71430 | 71102 | *80006
*25062 | 28311 | 28269 | 53221 | *6001 | 71431 | 71103 | 8501
3580 | 28319 | 2830 | 53231 | 5960 | 71432 | 71104 | *80009
*25063 | 2832 | 28310 | 53240 | 5996 | 71433 | 71105 | 8501
3580 | 2839 | 28311 | 53241 | 6010 | *71976 | 71106 | *80010
*25080 | 2840 | 28319 | 53250 | 6012 | 6960 | 71107 | 8501
3580 | 2848 | 2832 | 53251 | 6013 | 71100 | 71108 | *80011
*25081 | 2849 | 2839 | 53260 | 6021 | 71106 | 71109 | 8501
3580 | 2850 | 2840 | 53261 | 78820 | 71108 | 71160 | *80012
*25082 | 2851 | 2848 | 53271 | 78829 | 71109 | 71161 | 8501
3580 | *2825 | 2849 | 53291 | *6002 | 71160 | 71162 | *80013
*25083 | 2824 | 2850 | 53300 | 5960 | 71166 | 71163 | 8501
3580 | *28260 | 2851 | 53301 | 5996 | 71168 | 71164 | *80014
*25090 | 2824 | 2860 | 53310 | 6010 | 71169 | 71165 | 8501
3580 | *28261 | 2861 | 53311 | 6012 | 7141 | 71166 | *80015
*25091 | 2824 | 2862 | 53320 | 6013 | 7142 | 71167 | 8501
3580 | *28262 | 2863 | 53321 | 6021 | 71430 | 71168 | *80016
*25092 | 2824 | 2864 | 53331 | 78820 | 71431 | 71169 | 8501
3580 | *28263 | 2865 | 53340 | 78829 | 71432 | 7141 | *80019
*25093 | 2824 | 2866 | 53341 | *6009 | 71433 | 7142 | 8501
3580 | *28269 | 2867 | 53350 | 5960 | *71977 | 71430 | *80020
*2551 | 2824 | 2869 | 53351 | 5996 | 6960 | 71431 | 8501
2550 | *2827 | 2870 | 53360 | 6010 | 71100 | 71432 | *80021
2580 | 2824 | 2871 | 53361 | 6012 | 71107 | 71433 | 8501
2581 | *2828 | 2872 | 53371 | 6013 | 71108 | *7528 | *80022
2588 | 2824 | 2873 | 53391 | 6021 | 71109 | 5970 | 8501
2589 | *2829 | 2874 | 53400 | 78820 | 71160 | 5994 | *80023
*2800 | 2824 | 2875 | 53401 | 78829 | 71167 | 6140 | 8501
2824 | *2830 | 2878 | 53410 | *71970 | 71168 | 6143 | *80024
*2801 | 2824 | 2879 | 53411 | 6960 | 71169 | 6145 | 8501
2824 | *28310 | 2880 | 53420 | 71100 | 7141 | 6150 | *80025
*2808 | 2824 | 2881 | 53421 | 71101 | 7142 | 6163 | 8501
2824 | *28311 | *2899 | 53431 | 71102 | 71430 | 6164 | *80026
*2809 | 2824 | 2824 | 53440 | 71103 | 71431 | 6207 | 8501
2824 | *28319 | *3483 | 53441 | 71104 | 71432 | *7998 | *80029
*2810 | 2824 | 34982 | 53450 | 71105 | 71433 | 04082 | 8501
2824 | *2832 | *34989 | 53451 | 71106 | *71978 | 44024 | *80030
*2811 | 2824 | 3580 | 53460 | 71107 | 6960 | 78001 | 8501
2824 | *2839 | *3499 | 53461 | 71108 | 71100 | 78003 | *80031
*2812 | 2824 | 3580 | 53471 | 71109 | 71101 | 7801 | 8501
2824 | *2840 | *3580 | 53491 | 71160 | 71102 | 78031 | *80032
*2813 | 2824 | 3580 | 53501 | 71161 | 71103 | 78039 | 8501
2824 | *2848 | 3581 | 53511 | 71162 | 71104 | 7817 | *80033
*2814 | 2824 | *3581 | 53521 | 71163 | 71105 | 7854 | 8501
2824 | *2849 | 3580 | 53531 | 71164 | 71106 | 78550 | *80034
*2818 | 2824 | *5302 | 53541 | 71165 | 71107 | 78551 | 8501
2824 | *2850 | 4560 | 53551 | 71166 | 71108 | 78559 | *80035
*2819 | 2824 | 5307 | 53561 | 71167 | 71109 | 7863 | 8501
2824 | *2851 | 53082 | 53783 | 71168 | 71160 | 78820 | *80036
*2820 | 2824 | 53100 | 53784 | 71169 | 71161 | 78829 | 8501
2824 | *28521 | 53101 | 56202 | 7141 | 71162 | 7895 | *80039
*2821 | 2824 | 53110 | 56203 | 7142 | 71163 | 7907 | 8501
2824 | *28522 | 53111 | 56212 | 71430 | 71164 | 7911 | *80040
*2822 | 2824 | 53120 | 56213 | 71431 | 71165 | 7913 | 8501
2824 | *28529 | 53121 | 5693 | 71432 | 71166 | 7991 | *80041
*2823 | 2824 | 53131 | 56985 | 71433 | 71167 | 7994 | 8501
2824 | *2858 | 53140 | 56986 | *71975 | 71168 | *80000 | *80042
*2824 | 2824 | 53141 | 5780 | 6960 | 71169 | 8501 | 8501
2800 | *2859 | 53150 | 5781 | 71100 | 7141 | *80001 | *80043
2814 | 2824 | 53151 | 5789 | 71105 | 7142 | 8501 | 8501
2818 | *2898 | 53160 | *6000 | 71108 | 71430 | *80002 | *80044
2824 | 2800 | 53161 | 5960 | 71109 | 71431 | 8501 | 8501
28260 | 2814 | 53171 | 5996 | 71160 | 71432 | *80003 | *80045
28261 | 2818 | 53191 | 6010 | 71165 | 71433 | 8501 | 8501
28262 | 2824 | 53200 | 6012 | 71168 | *71979 | *80004 | *80046
8501 | *80093 | 8501 | *80184 | 8501 | *80375 | 8501 | *80466
*80049 | 8501 | *80140 | 8501 | *80331 | 8501 | *80422 | 8501
8501 | *80094 | 8501 | *80185 | 8501 | *80376 | 8501 | *80469
*80050 | 8501 | *80141 | 8501 | *80332 | 8501 | *80423 | 8501
8501 | *80095 | 8501 | *80186 | 8501 | *80379 | 8501 | *80470
*80051 | 8501 | *80142 | 8501 | *80333 | 8501 | *80424 | 8501
8501 | *80096 | 8501 | *80189 | 8501 | *80380 | 8501 | *80471
*80052 | 8501 | *80143 | 8501 | *80334 | 8501 | *80425 | 8501
8501 | *80099 | 8501 | *80190 | 8501 | *80381 | 8501 | *80472
*80053 | 8501 | *80144 | 8501 | *80335 | 8501 | *80426 | 8501
8501 | *80100 | 8501 | *80191 | 8501 | *80382 | 8501 | *80473
*80054 | 8501 | *80145 | 8501 | *80336 | 8501 | *80429 | 8501
8501 | *80101 | 8501 | *80192 | 8501 | *80383 | 8501 | *80474
*80055 | 8501 | *80146 | 8501 | *80339 | 8501 | *80430 | 8501
8501 | *80102 | 8501 | *80193 | 8501 | *80384 | 8501 | *80475
*80056 | 8501 | *80149 | 8501 | *80340 | 8501 | *80431 | 8501
8501 | *80103 | 8501 | *80194 | 8501 | *80385 | 8501 | *80476
*80059 | 8501 | *80150 | 8501 | *80341 | 8501 | *80432 | 8501
8501 | *80104 | 8501 | *80195 | 8501 | *80386 | 8501 | *80479
*80060 | 8501 | *80151 | 8501 | *80342 | 8501 | *80433 | 8501
8501 | *80105 | 8501 | *80196 | 8501 | *80389 | 8501 | *80480
*80061 | 8501 | *80152 | 8501 | *80343 | 8501 | *80434 | 8501
8501 | *80106 | 8501 | *80199 | 8501 | *80390 | 8501 | *80481
*80062 | 8501 | *80153 | 8501 | *80344 | 8501 | *80435 | 8501
8501 | *80109 | 8501 | *80300 | 8501 | *80391 | 8501 | *80482
*80063 | 8501 | *80154 | 8501 | *80345 | 8501 | *80436 | 8501
8501 | *80110 | 8501 | *80301 | 8501 | *80392 | 8501 | *80483
*80064 | 8501 | *80155 | 8501 | *80346 | 8501 | *80439 | 8501
8501 | *80111 | 8501 | *80302 | 8501 | *80393 | 8501 | *80484
*80065 | 8501 | *80156 | 8501 | *80349 | 8501 | *80440 | 8501
8501 | *80112 | 8501 | *80303 | 8501 | *80394 | 8501 | *80485
*80066 | 8501 | *80159 | 8501 | *80350 | 8501 | *80441 | 8501
8501 | *80113 | 8501 | *80304 | 8501 | *80395 | 8501 | *80486
*80069 | 8501 | *80160 | 8501 | *80351 | 8501 | *80442 | 8501
8501 | *80114 | 8501 | *80305 | 8501 | *80396 | 8501 | *80489
*80070 | 8501 | *80161 | 8501 | *80352 | 8501 | *80443 | 8501
8501 | *80115 | 8501 | *80306 | 8501 | *80399 | 8501 | *80490
*80071 | 8501 | *80162 | 8501 | *80353 | 8501 | *80444 | 8501
8501 | *80116 | 8501 | *80309 | 8501 | *80400 | 8501 | *80491
*80072 | 8501 | *80163 | 8501 | *80354 | 8501 | *80445 | 8501
8501 | *80119 | 8501 | *80310 | 8501 | *80401 | 8501 | *80492
*80073 | 8501 | *80164 | 8501 | *80355 | 8501 | *80446 | 8501
8501 | *80120 | 8501 | *80311 | 8501 | *80402 | 8501 | *80493
*80074 | 8501 | *80165 | 8501 | *80356 | 8501 | *80449 | 8501
8501 | *80121 | 8501 | *80312 | 8501 | *80403 | 8501 | *80494
*80075 | 8501 | *80166 | 8501 | *80359 | 8501 | *80450 | 8501
8501 | *80122 | 8501 | *80313 | 8501 | *80404 | 8501 | *80495
*80076 | 8501 | *80169 | 8501 | *80360 | 8501 | *80451 | 8501
8501 | *80123 | 8501 | *80314 | 8501 | *80405 | 8501 | *80496
*80079 | 8501 | *80170 | 8501 | *80361 | 8501 | *80452 | 8501
8501 | *80124 | 8501 | *80315 | 8501 | *80406 | 8501 | *80499
*80080 | 8501 | *80171 | 8501 | *80362 | 8501 | *80453 | 8501
8501 | *80125 | 8501 | *80316 | 8501 | *80409 | 8501 | *8500
*80081 | 8501 | *80172 | 8501 | *80363 | 8501 | *80454 | 8501
8501 | *80126 | 8501 | *80319 | 8501 | *80410 | 8501 | *8501
*80082 | 8501 | *80173 | 8501 | *80364 | 8501 | *80455 | 430
8501 | *80129 | 8501 | *80320 | 8501 | *80411 | 8501 | 431
*80083 | 8501 | *80174 | 8501 | *80365 | 8501 | *80456 | 4320
8501 | *80130 | 8501 | *80321 | 8501 | *80412 | 8501 | 4321
*80084 | 8501 | *80175 | 8501 | *80366 | 8501 | *80459 | 436
8501 | *80131 | 8501 | *80322 | 8501 | *80413 | 8501 | 78001
*80085 | 8501 | *80176 | 8501 | *80369 | 8501 | *80460 | 78003
8501 | *80132 | 8501 | *80323 | 8501 | *80414 | 8501 | 80000
*80086 | 8501 | *80179 | 8501 | *80370 | 8501 | *80461 | 80001
8501 | *80133 | 8501 | *80324 | 8501 | *80415 | 8501 | 80002
*80089 | 8501 | *80180 | 8501 | *80371 | 8501 | *80462 | 80003
8501 | *80134 | 8501 | *80325 | 8501 | *80416 | 8501 | 80004
*80090 | 8501 | *80181 | 8501 | *80372 | 8501 | *80463 | 80005
8501 | *80135 | 8501 | *80326 | 8501 | *80419 | 8501 | 80006
*80091 | 8501 | *80182 | 8501 | *80373 | 8501 | *80464 | 80009
8501 | *80136 | 8501 | *80329 | 8501 | *80420 | 8501 | 80010
*80092 | 8501 | *80183 | 8501 | *80374 | 8501 | *80465 | 80011
8501 | *80139 | 8501 | *80330 | 8501 | *80421 | 8501 | 80012
80013 | 80104 | 80195 | 80353 | 80444 | 85126 | 85219 | *8509
80014 | 80105 | 80196 | 80354 | 80445 | 85129 | 85220 | 8501
80015 | 80106 | 80199 | 80355 | 80446 | 85130 | 85221 | *85100
80016 | 80109 | 8021 | 80356 | 80449 | 85131 | 85222 | 8501
80019 | 80110 | 80220 | 80359 | 80450 | 85132 | 85223 | *85101
80020 | 80111 | 80221 | 80360 | 80451 | 85133 | 85224 | 8501
80021 | 80112 | 80222 | 80361 | 80452 | 85134 | 85225 | *85102
80022 | 80113 | 80223 | 80362 | 80453 | 85135 | 85226 | 8501
80023 | 80114 | 80224 | 80363 | 80454 | 85136 | 85229 | *85103
80024 | 80115 | 80225 | 80364 | 80455 | 85139 | 85230 | 8501
80025 | 80116 | 80226 | 80365 | 80456 | 85140 | 85231 | *85104
80026 | 80119 | 80227 | 80366 | 80459 | 85141 | 85232 | 8501
80029 | 80120 | 80228 | 80369 | 80460 | 85142 | 85233 | *85105
80030 | 80121 | 80229 | 80370 | 80461 | 85143 | 85234 | 8501
80031 | 80122 | 80230 | 80371 | 80462 | 85144 | 85235 | *85106
80032 | 80123 | 80231 | 80372 | 80463 | 85145 | 85236 | 8501
80033 | 80124 | 80232 | 80373 | 80464 | 85146 | 85239 | *85109
80034 | 80125 | 80233 | 80374 | 80465 | 85149 | 85240 | 8501
80035 | 80126 | 80234 | 80375 | 80466 | 85150 | 85241 | *85110
80036 | 80129 | 80235 | 80376 | 80469 | 85151 | 85242 | 8501
80039 | 80130 | 80236 | 80379 | 80470 | 85152 | 85243 | *85111
80040 | 80131 | 80237 | 80380 | 80471 | 85153 | 85244 | 8501
80041 | 80132 | 80238 | 80381 | 80472 | 85154 | 85245 | *85112
80042 | 80133 | 80239 | 80382 | 80473 | 85155 | 85246 | 8501
80043 | 80134 | 8024 | 80383 | 80474 | 85156 | 85249 | *85113
80044 | 80135 | 8025 | 80384 | 80475 | 85159 | 85250 | 8501
80045 | 80136 | 8026 | 80385 | 80476 | 85160 | 85251 | *85114
80046 | 80139 | 8027 | 80386 | 80479 | 85161 | 85252 | 8501
80049 | 80140 | 8028 | 80389 | 80480 | 85162 | 85253 | *85115
80050 | 80141 | 8029 | 80390 | 80481 | 85163 | 85254 | 8501
80051 | 80142 | 80300 | 80391 | 80482 | 85164 | 85255 | *85116
80052 | 80143 | 80301 | 80392 | 80483 | 85165 | 85256 | 8501
80053 | 80144 | 80302 | 80393 | 80484 | 85166 | 85259 | *85119
80054 | 80145 | 80303 | 80394 | 80485 | 85169 | 85300 | 8501
80055 | 80146 | 80304 | 80395 | 80486 | 85170 | 85301 | *85120
80056 | 80149 | 80305 | 80396 | 80489 | 85171 | 85302 | 8501
80059 | 80150 | 80306 | 80399 | 80490 | 85172 | 85303 | *85121
80060 | 80151 | 80309 | 80400 | 80491 | 85173 | 85304 | 8501
80061 | 80152 | 80310 | 80401 | 80492 | 85174 | 85305 | *85122
80062 | 80153 | 80311 | 80402 | 80493 | 85175 | 85306 | 8501
80063 | 80154 | 80312 | 80403 | 80494 | 85176 | 85309 | *85123
80064 | 80155 | 80313 | 80404 | 80495 | 85179 | 85310 | 8501
80065 | 80156 | 80314 | 80405 | 80496 | 85180 | 85311 | *85124
80066 | 80159 | 80315 | 80406 | 80499 | 85181 | 85312 | 8501
80069 | 80160 | 80316 | 80409 | 8500 | 85182 | 85313 | *85125
80070 | 80161 | 80319 | 80410 | 8501 | 85183 | 85314 | 8501
80071 | 80162 | 80320 | 80411 | 8502 | 85184 | 85315 | *85126
80072 | 80163 | 80321 | 80412 | 8503 | 85185 | 85316 | 8501
80073 | 80164 | 80322 | 80413 | 8504 | 85186 | 85319 | *85129
80074 | 80165 | 80323 | 80414 | 8505 | 85189 | 85400 | 8501
80075 | 80166 | 80324 | 80415 | 8509 | 85190 | 85401 | *85130
80076 | 80169 | 80325 | 80416 | 85100 | 85191 | 85402 | 8501
80079 | 80170 | 80326 | 80419 | 85101 | 85192 | 85403 | *85131
80080 | 80171 | 80329 | 80420 | 85102 | 85193 | 85404 | 8501
80081 | 80172 | 80330 | 80421 | 85103 | 85194 | 85405 | *85132
80082 | 80173 | 80331 | 80422 | 85104 | 85195 | 85406 | 8501
80083 | 80174 | 80332 | 80423 | 85105 | 85196 | 85409 | *85133
80084 | 80175 | 80333 | 80424 | 85106 | 85199 | 85410 | 8501
80085 | 80176 | 80334 | 80425 | 85109 | 85200 | 85411 | *85134
80086 | 80179 | 80335 | 80426 | 85110 | 85201 | 85412 | 8501
80089 | 80180 | 80336 | 80429 | 85111 | 85202 | 85413 | *85135
80090 | 80181 | 80339 | 80430 | 85112 | 85203 | 85414 | 8501
80091 | 80182 | 80340 | 80431 | 85113 | 85204 | 85415 | *85136
80092 | 80183 | 80341 | 80432 | 85114 | 85205 | 85416 | 8501
80093 | 80184 | 80342 | 80433 | 85115 | 85206 | 85419 | *85139
80094 | 80185 | 80343 | 80434 | 85116 | 85209 | *8502 | 8501
80095 | 80186 | 80344 | 80435 | 85119 | 85210 | 8501 | *85140
80096 | 80189 | 80345 | 80436 | 85120 | 85211 | *8503 | 8501
80099 | 80190 | 80346 | 80439 | 85121 | 85212 | 8501 | *85141
80100 | 80191 | 80349 | 80440 | 85122 | 85213 | *8504 | 8501
80101 | 80192 | 80350 | 80441 | 85123 | 85214 | 8501 | *85142
80102 | 80193 | 80351 | 80442 | 85124 | 85215 | *8505 | 8501
80103 | 80194 | 80352 | 80443 | 85125 | 85216 | 8501 | *85143
8501 | *85190 | 8501 | *85402 | 8054 | 95215
*85144 | 8501 | *85236 | 8501 | 8055 | 95216
8501 | *85191 | 8501 | *85403 | 8056 | 95217
*85145 | 8501 | *85239 | 8501 | 8057 | 95218
8501 | *85192 | 8501 | *85404 | 8058 | 95219
*85146 | 8501 | *85240 | 8501 | 8059 | 9522
8501 | *85193 | 8501 | *85405 | 80600 | 9523
*85149 | 8501 | *85241 | 8501 | 80601 | 9524
8501 | *85194 | 8501 | *85406 | 80602 | 9528
*85150 | 8501 | *85242 | 8501 | 80603 | 9529
8501 | *85195 | 8501 | *85409 | 80604 | *9598
*85151 | 8501 | *85243 | 8501 | 80605 | 8501
8501 | *85196 | 8501 | *85410 | 80606 | *9599
*85152 | 8501 | *85244 | 8501 | 80607 | 8501
8501 | *85199 | 8501 | *85411 | 80608 | *99680
*85153 | 8501 | *85245 | 8501 | 80609 | V432
8501 | *85200 | 8501 | *85412 | 80610 | *99683
*85154 | 8501 | *85246 | 8501 | 80611 | V432
8501 | *85201 | 8501 | *85413 | 80612 | *99687
*85155 | 8501 | *85249 | 8501 | 80613 | V432
8501 | *85202 | 8501 | *85414 | 80614 | *V421
*85156 | 8501 | *85250 | 8501 | 80615 | V432
8501 | *85203 | 8501 | *85415 | 80616 | *V432
*85159 | 8501 | *85251 | 8501 | 80617 | V432
8501 | *85204 | 8501 | *85416 | 80618
*85160 | 8501 | *85252 | 8501 | 80619
8501 | *85205 | 8501 | *85419 | 80620
*85161 | 8501 | *85253 | 8501 | 80621
8501 | *85206 | 8501 | *8738 | 80622
*85162 | 8501 | *85254 | 8501 | 80623
8501 | *85209 | 8501 | *8739 | 80624
*85163 | 8501 | *85255 | 8501 | 80625
8501 | *85210 | 8501 | *8798 | 80626
*85164 | 8501 | *85256 | 8501 | 80627
8501 | *85211 | 8501 | *8799 | 80628
*85165 | 8501 | *85259 | 8501 | 80629
8501 | *85212 | 8501 | *9050 | 80630
*85166 | 8501 | *85300 | 8501 | 80631
8501 | *85213 | 8501 | *9251 | 80632
*85169 | 8501 | *85301 | 8501 | 80633
8501 | *85214 | 8501 | *9252 | 80634
*85170 | 8501 | *85302 | 8501 | 80635
8501 | *85215 | 8501 | *9290 | 80636
*85171 | 8501 | *85303 | 8501 | 80637
8501 | *85216 | 8501 | *9299 | 80638
*85172 | 8501 | *85304 | 8501 | 80639
8501 | *85219 | 8501 | *9588 | 8064
*85173 | 8501 | *85305 | 8501 | 8065
8501 | *85221 | 8501 | *95901 | 80660
*85174 | 8501 | *85306 | 8501 | 80661
8501 | *85222 | 8501 | *95909 | 80662
*85175 | 8501 | *85309 | 8501 | 80669
8501 | *85223 | 8501 | *9591 | 80670
*85176 | 8501 | *85310 | 80500 | 80671
8501 | *85224 | 8501 | 80501 | 80672
*85179 | 8501 | *85311 | 80502 | 80679
8501 | *85225 | 8501 | 80503 | 8068
*85180 | 8501 | *85312 | 80504 | 8069
8501 | *85226 | 8501 | 80505 | 95200
*85181 | 8501 | *85313 | 80506 | 95201
8501 | *85229 | 8501 | 80507 | 95202
*85182 | 8501 | *85314 | 80508 | 95203
8501 | *85230 | 8501 | 80510 | 95204
*85183 | 8501 | *85315 | 80511 | 95205
8501 | *85231 | 8501 | 80512 | 95206
*85184 | 8501 | *85316 | 80513 | 95207
8501 | *85232 | 8501 | 80514 | 95208
*85185 | 8501 | *85319 | 80515 | 95209
8501 | *85233 | 8501 | 80516 | 95210
*85186 | 8501 | *85400 | 80517 | 95211
8501 | *85234 | 8501 | 80518 | 95212
*85189 | 8501 | *85401 | 8052 | 95213
8501 | *85235 | 8501 | 8053 | 95214

Table 7A.—Medicare Prospective Payment System Selected Percentile Lengths of Stay [FY 2002 MEDPAR Update December 2002 Grouper V20.0]
DRG | Number of discharges | Arithmetic mean length of stay | 10th Percentile | 25th Percentile | 50th Percentile | 75th Percentile | 90th Percentile
1 | 29,262 | 10.8505 | 3 | 5 | 8 | 14 | 22
2 | 14,769 | 5.0718 | 1 | 2 | 4 | 7 | 10
3 | 3 | 6.0000 | 1 | 1 | 4 | 13 | 13
4 | 6,712 | 7.3524 | 1 | 2 | 5 | 9 | 16
5 | 95,618 | 2.9596 | 1 | 1 | 2 | 3 | 7
6 | 356 | 3.0197 | 1 | 1 | 2 | 4 | 7
7 | 14,683 | 9.8438 | 2 | 4 | 7 | 12 | 20
8 | 4,106 | 2.8015 | 1 | 1 | 1 | 3 | 7
9 | 1,711 | 6.2402 | 1 | 3 | 5 | 8 | 12
10 | 18,655 | 6.3850 | 2 | 3 | 5 | 8 | 13
11 | 3,291 | 4.0413 | 1 | 2 | 3 | 5 | 8
12 | 52,512 | 5.7513 | 2 | 3 | 4 | 7 | 11
13 | 7,068 | 5.0035 | 2 | 3 | 4 | 6 | 9
14 | 237,027 | 5.9456 | 2 | 3 | 5 | 7 | 11
15 | 94,223 | 4.8529 | 2 | 3 | 4 | 6 | 9
16 | 9,938 | 6.3106 | 2 | 3 | 5 | 8 | 12
17 | 2,744 | 3.2172 | 1 | 2 | 2 | 4 | 6
18 | 29,701 | 5.4868 | 2 | 3 | 4 | 7 | 10
19 | 8,519 | 3.5184 | 1 | 2 | 3 | 5 | 7
20 | 6,207 | 10.1927 | 3 | 5 | 8 | 13 | 20
21 | 1,885 | 6.5963 | 2 | 3 | 5 | 9 | 13
22 | 2,785 | 5.1178 | 2 | 2 | 4 | 6 | 10
23 | 12,583 | 4.1677 | 1 | 2 | 3 | 5 | 8
24 | 59,102 | 4.8803 | 1 | 2 | 4 | 6 | 10
25 | 27,433 | 3.1776 | 1 | 2 | 3 | 4 | 6
26 | 18 | 4.2778 | 1 | 1 | 2 | 3 | 4
27 | 4,398 | 5.1719 | 1 | 1 | 3 | 7 | 11
28 | 13,919 | 6.0265 | 1 | 3 | 5 | 8 | 12
29 | 5,282 | 3.4924 | 1 | 2 | 3 | 5 | 7
30 | 2 | 6.5000 | 2 | 2 | 11 | 11 | 11
31 | 3,897 | 4.0429 | 1 | 2 | 3 | 5 | 8
32 | 1,895 | 2.4776 | 1 | 1 | 2 | 3 | 5
34 | 23,811 | 4.9368 | 1 | 2 | 4 | 6 | 9
35 | 7,451 | 3.1094 | 1 | 1 | 3 | 4 | 6
36 | 2,117 | 1.5328 | 1 | 1 | 1 | 1 | 2
37 | 1,382 | 3.7685 | 1 | 1 | 2 | 5 | 8
38 | ,97 | 2.8041 | 1 | 1 | 1 | 4 | 5
39 | 559 | 2.1163 | 1 | 1 | 1 | 2 | 4
40 | 1,549 | 3.8070 | 1 | 1 | 3 | 5 | 7
42 | 1,581 | 2.7381 | 1 | 1 | 1 | 3 | 6
43 | 94 | 3.3936 | 1 | 1 | 3 | 4 | 6
44 | 1,227 | 4.9935 | 2 | 3 | 4 | 6 | 9
45 | 2,668 | 3.1267 | 1 | 2 | 3 | 4 | 6
46 | 3,482 | 4.4730 | 1 | 2 | 3 | 6 | 8
47 | 1,402 | 3.0927 | 1 | 1 | 2 | 4 | 6
49 | 2,391 | 4.4676 | 1 | 2 | 3 | 6 | 9
50 | 2,429 | 1.8506 | 1 | 1 | 1 | 2 | 3
51 | 243 | 2.8354 | 1 | 1 | 1 | 3 | 8
52 | 223 | 1.8161 | 1 | 1 | 1 | 2 | 3
53 | 2,478 | 3.6186 | 1 | 1 | 2 | 4 | 8
55 | 1,481 | 2.9338 | 1 | 1 | 1 | 3 | 7
56 | 469 | 2.8955 | 1 | 1 | 1 | 3 | 6
57 | 711 | 3.6709 | 1 | 1 | 2 | 4 | 8
58 | 1 | 2.0000 | 2 | 2 | 2 | 2 | 2
59 | 116 | 2.6724 | 1 | 1 | 1 | 3 | 6
60 | 1 | 3.0000 | 3 | 3 | 3 | 3 | 3
61 | 254 | 5.1535 | 1 | 1 | 3 | 7 | 11
62 | 2 | 7.0000 | 1 | 1 | 13 | 13 | 13
63 | 3,000 | 4.3860 | 1 | 2 | 3 | 5 | 9
64 | 3,126 | 6.4997 | 1 | 2 | 4 | 8 | 14
65 | 40,407 | 2.8127 | 1 | 1 | 2 | 4 | 5
66 | 7,841 | 3.0778 | 1 | 1 | 2 | 4 | 6
67 | 385 | 3.6442 | 1 | 2 | 3 | 5 | 7
68 | 11,658 | 3.8813 | 1 | 2 | 3 | 5 | 7
69 | 3,769 | 3.0186 | 1 | 2 | 3 | 4 | 5
70 | 30 | 2.3333 | 1 | 1 | 2 | 3 | 4
71 | 80 | 3.4000 | 1 | 1 | 2 | 4 | 6
72 | 964 | 3.4035 | 1 | 1 | 3 | 4 | 6
73 | 7,697 | 4.4433 | 1 | 2 | 3 | 6 | 9
75 | 43,504 | 9.9907 | 3 | 5 | 7 | 12 | 20
76 | 44,508 | 11.1024 | 3 | 5 | 9 | 14 | 21
77 | 2,458 | 4.8031 | 1 | 2 | 4 | 7 | 10
78 | 39,504 | 6.5709 | 3 | 4 | 6 | 8 | 11
79 | 169,239 | 8.4557 | 3 | 4 | 7 | 11 | 16
80 | 8,077 | 5.3480 | 2 | 3 | 4 | 7 | 10
81 | 5 | 4.4000 | 1 | 1 | 3 | 8 | 8
82 | 64,299 | 6.8753 | 2 | 3 | 5 | 9 | 14
83 | 6,665 | 5.3655 | 2 | 3 | 4 | 7 | 10
84 | 1,575 | 3.2565 | 1 | 2 | 3 | 4 | 6
85 | 22,398 | 6.2473 | 2 | 3 | 5 | 8 | 12
86 | 2,250 | 3.5364 | 1 | 2 | 3 | 4 | 7
87 | 61,129 | 6.3127 | 1 | 3 | 5 | 8 | 12
88 | 404,045 | 5.0463 | 2 | 3 | 4 | 6 | 9
89 | 535,162 | 5.8340 | 2 | 3 | 5 | 7 | 11
90 | 48,843 | 3.9563 | 2 | 2 | 3 | 5 | 7
91 | 45 | 5.0444 | 1 | 2 | 3 | 5 | 13
92 | 15,809 | 6.2907 | 2 | 3 | 5 | 8 | 12
93 | 1,778 | 4.0079 | 1 | 2 | 3 | 5 | 7
94 | 12,813 | 6.2387 | 2 | 3 | 5 | 8 | 12
95 | 1,655 | 3.8127 | 1 | 2 | 3 | 5 | 7
96 | 56,893 | 4.5613 | 2 | 2 | 4 | 6 | 8
97 | 28,776 | 3.5275 | 1 | 2 | 3 | 4 | 6
98 | 9 | 3.6667 | 1 | 1 | 2 | 2 | 5
99 | 21,400 | 3.1554 | 1 | 1 | 2 | 4 | 6
100 | 8,324 | 2.1371 | 1 | 1 | 2 | 3 | 4
101 | 22,329 | 4.3853 | 1 | 2 | 3 | 6 | 9
102 | 5,644 | 2.6487 | 1 | 1 | 2 | 3 | 5
103 | 484 | 42.1240 | 9 | 12 | 23 | 53 | 92
104 | 20,637 | 14.3306 | 6 | 8 | 12 | 17 | 25
105 | 29,223 | 9.8741 | 4 | 6 | 8 | 11 | 18
106 | 3,498 | 11.4019 | 5 | 7 | 10 | 14 | 20
107 | 83,307 | 10.4339 | 5 | 7 | 9 | 12 | 17
108 | 6,508 | 9.7617 | 2 | 5 | 8 | 12 | 18
109 | 57,450 | 7.7160 | 4 | 5 | 6 | 9 | 13
110 | 54,835 | 8.7534 | 2 | 4 | 7 | 11 | 17
111 | 9,568 | 4.0565 | 1 | 2 | 4 | 6 | 7
113 | 39,734 | 12.4805 | 4 | 6 | 9 | 15 | 24
114 | 8,315 | 8.6592 | 2 | 4 | 7 | 11 | 17
115 | 19,805 | 7.4228 | 1 | 3 | 6 | 10 | 15
116 | 116,294 | 4.3974 | 1 | 2 | 3 | 6 | 9
117 | 4,731 | 4.3075 | 1 | 1 | 2 | 5 | 10
118 | 8,299 | 2.8976 | 1 | 1 | 1 | 4 | 7
119 | 1,237 | 5.2967 | 1 | 1 | 3 | 7 | 13
120 | 38,109 | 9.0051 | 1 | 3 | 6 | 12 | 20
121 | 164,425 | 6.2836 | 2 | 3 | 5 | 8 | 12
122 | 77,231 | 3.5159 | 1 | 2 | 3 | 5 | 7
123 | 38,627 | 4.7915 | 1 | 1 | 3 | 6 | 11
124 | 135,291 | 4.3838 | 1 | 2 | 3 | 6 | 9
125 | 91,946 | 2.7616 | 1 | 1 | 2 | 4 | 5
126 | 5,395 | 11.5218 | 3 | 6 | 9 | 15 | 22
127 | 676,101 | 5.2357 | 2 | 3 | 4 | 7 | 10
128 | 7,187 | 5.4446 | 2 | 3 | 5 | 7 | 9
129 | 3,853 | 2.5951 | 1 | 1 | 1 | 3 | 6
130 | 88,911 | 5.5991 | 2 | 3 | 5 | 7 | 10
131 | 27,124 | 4.0330 | 1 | 2 | 4 | 5 | 7
132 | 142,443 | 2.8904 | 1 | 1 | 2 | 4 | 5
133 | 8,694 | 2.2843 | 1 | 1 | 2 | 3 | 4
134 | 41,542 | 3.1609 | 1 | 2 | 2 | 4 | 6
135 | 7,810 | 4.4540 | 1 | 2 | 3 | 5 | 8
136 | 1,185 | 2.6641 | 1 | 1 | 2 | 3 | 5
138 | 208,716 | 3.9930 | 1 | 2 | 3 | 5 | 8
139 | 87,938 | 2.4733 | 1 | 1 | 2 | 3 | 5
140 | 55,735 | 2.5252 | 1 | 1 | 2 | 3 | 5
141 | 108,834 | 3.5704 | 1 | 2 | 3 | 4 | 7
142 | 52,684 | 2.5530 | 1 | 1 | 2 | 3 | 5
143 | 250,177 | 2.0911 | 1 | 1 | 2 | 3 | 4
144 | 94,588 | 5.5436 | 1 | 2 | 4 | 7 | 11
145 | 7,370 | 2.5700 | 1 | 1 | 2 | 3 | 5
146 | 10,785 | 10.2338 | 5 | 6 | 8 | 12 | 17
147 | 2,644 | 6.2266 | 3 | 5 | 6 | 8 | 9
148 | 134,125 | 12.2751 | 5 | 7 | 10 | 15 | 22
149 | 20,205 | 6.3062 | 4 | 5 | 6 | 7 | 9
150 | 21,184 | 11.3235 | 4 | 6 | 9 | 14 | 20
151 | 5,140 | 5.5586 | 2 | 3 | 5 | 7 | 10
152 | 4,578 | 8.3724 | 3 | 5 | 7 | 10 | 15
153 | 2,058 | 5.2546 | 3 | 4 | 5 | 7 | 8
154 | 28,368 | 13.2140 | 3 | 7 | 10 | 17 | 26
155 | 6,618 | 4.0801 | 1 | 2 | 3 | 6 | 8
156 | 4 | 2.5000 | 1 | 1 | 1 | 3 | 5
157 | 8,301 | 5.7459 | 1 | 2 | 4 | 7 | 12
158 | 4,362 | 2.6016 | 1 | 1 | 2 | 3 | 5
159 | 18,136 | 5.1194 | 1 | 2 | 4 | 7 | 10
160 | 12,203 | 2.6826 | 1 | 1 | 2 | 3 | 5
161 | 10,803 | 4.3270 | 1 | 2 | 3 | 6 | 9
162 | 6,421 | 1.9305 | 1 | 1 | 1 | 2 | 4
163 | 8 | 3.2500 | 1 | 1 | 2 | 3 | 6
164 | 5,400 | 8.3580 | 3 | 5 | 7 | 10 | 15
165 | 2,335 | 4.4882 | 2 | 3 | 4 | 6 | 7
166 | 4,206 | 4.7263 | 1 | 2 | 4 | 6 | 9
167 | 4,091 | 2.4133 | 1 | 1 | 2 | 3 | 4
168 | 1,425 | 4.8386 | 1 | 2 | 3 | 6 | 10
169 | 814 | 2.4005 | 1 | 1 | 2 | 3 | 5
170 | 15,682 | 10.8241 | 2 | 4 | 8 | 14 | 22
171 | 1,530 | 4.3333 | 1 | 2 | 4 | 6 | 9
172 | 31,435 | 6.9669 | 2 | 3 | 5 | 9 | 14
173 | 2,482 | 3.7808 | 1 | 2 | 3 | 5 | 8
174 | 252,303 | 4.7834 | 2 | 3 | 4 | 6 | 9
175 | 34,977 | 2.9157 | 1 | 2 | 3 | 4 | 5
176 | 13,498 | 5.2318 | 2 | 3 | 4 | 6 | 10
177 | 9,080 | 4.5719 | 2 | 3 | 4 | 6 | 8
178 | 3,382 | 3.1227 | 1 | 2 | 3 | 4 | 6
179 | 13,193 | 5.9431 | 2 | 3 | 5 | 7 | 11
180 | 90,752 | 5.4251 | 2 | 3 | 4 | 7 | 10
181 | 27,280 | 3.3710 | 1 | 2 | 3 | 4 | 6
182 | 273,118 | 4.4204 | 1 | 2 | 3 | 5 | 8
183 | 91,272 | 2.8962 | 1 | 1 | 2 | 4 | 5
184 | 69 | 3.2319 | 1 | 1 | 2 | 4 | 6
185 | 5,350 | 4.6680 | 1 | 2 | 3 | 6 | 10
186 | 6 | 6.6667 | 2 | 3 | 3 | 10 | 10
187 | 619 | 4.0307 | 1 | 2 | 3 | 6 | 8
188 | 84,099 | 5.5620 | 1 | 2 | 4 | 7 | 11
189 | 13,098 | 3.1005 | 1 | 1 | 2 | 4 | 6
190 | 75 | 5.1733 | 1 | 2 | 4 | 6 | 11
191 | 9,537 | 13.7975 | 3 | 6 | 10 | 17 | 28
192 | 1,322 | 6.2201 | 1 | 3 | 6 | 8 | 11
193 | 4,822 | 12.7242 | 5 | 7 | 10 | 16 | 23
194 | 650 | 6.7323 | 2 | 4 | 6 | 8 | 12
195 | 4,019 | 10.5175 | 4 | 6 | 9 | 13 | 19
196 | 998 | 5.6092 | 2 | 3 | 5 | 7 | 10
197 | 18,313 | 9.1566 | 3 | 5 | 7 | 11 | 17
198 | 5,418 | 4.4118 | 2 | 3 | 4 | 6 | 7
199 | 1,636 | 9.7353 | 2 | 4 | 7 | 13 | 21
200 | 1,076 | 10.4898 | 2 | 3 | 7 | 14 | 23
201 | 2,130 | 14.1469 | 3 | 6 | 11 | 18 | 29
202 | 26,756 | 6.3872 | 2 | 3 | 5 | 8 | 13
203 | 30,055 | 6.6816 | 2 | 3 | 5 | 9 | 13
204 | 65,585 | 5.7470 | 2 | 3 | 4 | 7 | 11
205 | 27,481 | 6.1736 | 2 | 3 | 5 | 8 | 12
206 | 2,057 | 3.7832 | 1 | 2 | 3 | 5 | 8
207 | 32,881 | 5.1924 | 1 | 2 | 4 | 7 | 10
208 | 10,188 | 2.8924 | 1 | 1 | 2 | 4 | 5
209 | 399,893 | 4.8600 | 3 | 3 | 4 | 5 | 7
210 | 122,843 | 6.8859 | 3 | 4 | 6 | 8 | 11
211 | 30,096 | 4.8394 | 3 | 4 | 4 | 6 | 7
212 | 9 | 7.0000 | 1 | 1 | 4 | 5 | 7
213 | 9,950 | 9.2035 | 2 | 4 | 7 | 12 | 18
216 | 8,770 | 7.9789 | 1 | 2 | 6 | 11 | 17
217 | 17,292 | 13.3846 | 3 | 5 | 9 | 16 | 28
218 | 23,796 | 5.5121 | 2 | 3 | 4 | 7 | 10
219 | 19,891 | 3.1961 | 1 | 2 | 3 | 4 | 6
220 | 1 | 1.0000 | 1 | 1 | 1 | 1 | 1
223 | 13,308 | 3.0326 | 1 | 1 | 2 | 4 | 6
224 | 11,738 | 1.9052 | 1 | 1 | 1 | 2 | 3
225 | 6,481 | 5.2626 | 1 | 2 | 4 | 7 | 11
226 | 5,874 | 6.5259 | 1 | 2 | 4 | 8 | 14
227 | 4,854 | 2.6360 | 1 | 1 | 2 | 3 | 5
228 | 2,534 | 4.1492 | 1 | 1 | 3 | 5 | 9
229 | 1,263 | 2.3286 | 1 | 1 | 2 | 3 | 5
230 | 2,456 | 5.5668 | 1 | 2 | 3 | 7 | 12
231 | 13,312 | 5.0159 | 1 | 1 | 3 | 6 | 11
232 | 816 | 2.7132 | 1 | 1 | 1 | 2 | 6
233 | 9,940 | 7.3671 | 1 | 3 | 6 | 10 | 15
234 | 5,364 | 3.0626 | 1 | 1 | 2 | 4 | 7
235 | 5,107 | 4.8659 | 1 | 2 | 4 | 6 | 9
236 | 40,182 | 4.6505 | 1 | 3 | 4 | 6 | 8
237 | 1,782 | 3.6599 | 1 | 2 | 3 | 5 | 7
238 | 8,956 | 8.6382 | 3 | 4 | 7 | 10 | 17
239 | 46,252 | 6.2694 | 2 | 3 | 5 | 8 | 12
240 | 12,062 | 6.6231 | 2 | 3 | 5 | 8 | 13
241 | 3,173 | 3.7690 | 1 | 2 | 3 | 5 | 7
242 | 2,597 | 6.8814 | 2 | 3 | 5 | 9 | 14
243 | 96,552 | 4.6506 | 1 | 2 | 4 | 6 | 9
244 | 14,695 | 4.6521 | 1 | 2 | 4 | 6 | 9
245 | 5,861 | 3.2950 | 1 | 2 | 3 | 4 | 6
246 | 1,498 | 3.7216 | 1 | 2 | 3 | 5 | 7
247 | 20,507 | 3.3340 | 1 | 1 | 3 | 4 | 7
248 | 13,931 | 4.9200 | 1 | 3 | 4 | 6 | 9
249 | 12,932 | 3.6170 | 1 | 1 | 2 | 4 | 7
250 | 3,802 | 4.1302 | 1 | 2 | 3 | 5 | 8
251 | 2,375 | 2.7651 | 1 | 1 | 3 | 3 | 5
253 | 22,095 | 4.6939 | 2 | 3 | 4 | 6 | 8
254 | 10,763 | 3.1601 | 1 | 2 | 3 | 4 | 5
256 | 6,698 | 5.1020 | 1 | 2 | 4 | 6 | 10
257 | 15,758 | 2.6395 | 1 | 1 | 2 | 3 | 5
258 | 15,317 | 1.8212 | 1 | 1 | 2 | 2 | 3
259 | 3,517 | 2.6747 | 1 | 1 | 1 | 3 | 6
260 | 4,236 | 1.3973 | 1 | 1 | 1 | 1 | 2
261 | 1,776 | 2.0884 | 1 | 1 | 1 | 2 | 4
262 | 668 | 4.3204 | 1 | 1 | 3 | 6 | 9
263 | 23,192 | 11.4687 | 3 | 5 | 8 | 14 | 22
264 | 3,869 | 6.5585 | 2 | 3 | 5 | 8 | 13
265 | 4,103 | 6.6074 | 1 | 2 | 4 | 8 | 14
266 | 2,555 | 3.2337 | 1 | 1 | 2 | 4 | 7
267 | 241 | 4.4606 | 1 | 1 | 3 | 6 | 10
268 | 920 | 3.7978 | 1 | 1 | 2 | 4 | 8
269 | 9,852 | 8.5323 | 2 | 3 | 7 | 11 | 17
270 | 2,798 | 3.5615 | 1 | 1 | 2 | 5 | 7
271 | 19,436 | 7.2481 | 2 | 4 | 6 | 9 | 14
272 | 5,752 | 6.0176 | 2 | 3 | 5 | 7 | 12
273 | 1,343 | 3.9598 | 1 | 2 | 3 | 5 | 8
274 | 2,305 | 6.4586 | 1 | 3 | 5 | 8 | 13
275 | 230 | 3.6217 | 1 | 1 | 2 | 4 | 7
276 | 1,327 | 4.4574 | 1 | 2 | 4 | 6 | 8
277 | 100,811 | 5.7271 | 2 | 3 | 5 | 7 | 10
278 | 32,531 | 4.1962 | 2 | 2 | 4 | 5 | 7
279 | 10 | 5.3000 | 2 | 2 | 3 | 7 | 7
280 | 17,882 | 4.1159 | 1 | 2 | 3 | 5 | 8
281 | 7,536 | 2.8879 | 1 | 1 | 2 | 4 | 5
283 | 6,093 | 4.6606 | 1 | 2 | 4 | 6 | 9
284 | 2,029 | 2.9359 | 1 | 1 | 2 | 4 | 6
285 | 6,962 | 10.5315 | 3 | 5 | 8 | 13 | 20
286 | 2,502 | 5.8981 | 2 | 3 | 4 | 7 | 12
287 | 6,287 | 10.2537 | 3 | 5 | 8 | 13 | 20
288 | 5,524 | 4.9716 | 2 | 3 | 4 | 5 | 8
289 | 6,938 | 2.7257 | 1 | 1 | 1 | 2 | 6
290 | 9,964 | 2.1995 | 1 | 1 | 1 | 2 | 4
291 | 58 | 1.6379 | 1 | 1 | 1 | 2 | 3
292 | 6,534 | 10.4645 | 2 | 4 | 8 | 14 | 21
293 | 364 | 4.7033 | 1 | 1 | 3 | 6 | 9
294 | 98,755 | 4.5121 | 1 | 2 | 3 | 6 | 9
295 | 3,550 | 3.9721 | 1 | 2 | 3 | 5 | 7
296 | 280,547 | 5.0716 | 1 | 2 | 4 | 6 | 10
297 | 48,715 | 3.2855 | 1 | 2 | 3 | 4 | 6
298 | 111 | 3.1802 | 1 | 1 | 2 | 4 | 7
299 | 1,276 | 5.4412 | 1 | 2 | 4 | 7 | 11
300 | 18,798 | 6.1364 | 2 | 3 | 5 | 8 | 12
301 | 3,636 | 3.5954 | 1 | 2 | 3 | 4 | 7
302 | 8,722 | 8.5255 | 4 | 5 | 6 | 9 | 15
303 | 21,880 | 8.0372 | 3 | 4 | 6 | 9 | 15
304 | 12,572 | 8.8705 | 2 | 4 | 6 | 11 | 18
305 | 3,047 | 3.5510 | 1 | 2 | 3 | 4 | 7
306 | 7,077 | 5.3740 | 1 | 2 | 3 | 7 | 12
307 | 2,035 | 2.0708 | 1 | 1 | 2 | 2 | 3
308 | 7,299 | 6.2077 | 1 | 2 | 4 | 8 | 14
309 | 4,183 | 2.0995 | 1 | 1 | 1 | 2 | 4
310 | 24,884 | 4.3725 | 1 | 1 | 3 | 6 | 10
311 | 7,495 | 1.8220 | 1 | 1 | 1 | 2 | 3
312 | 1,524 | 4.5623 | 1 | 1 | 3 | 6 | 10
313 | 555 | 2.2559 | 1 | 1 | 1 | 3 | 5
314 | 2 | 40.5000 | 1 | 1 | 80 | 80 | 80
315 | 34,134 | 6.9586 | 1 | 1 | 4 | 9 | 16
316 | 119,645 | 6.5348 | 2 | 3 | 5 | 8 | 13
317 | 2,018 | 3.6051 | 1 | 1 | 2 | 4 | 7
318 | 5,782 | 6.0930 | 1 | 3 | 5 | 8 | 12
319 | 412 | 2.9320 | 1 | 1 | 2 | 4 | 6
320 | 188,165 | 5.2818 | 2 | 3 | 4 | 6 | 10
321 | 31,355 | 3.7221 | 1 | 2 | 3 | 5 | 7
322 | 50 | 3.2200 | 1 | 2 | 3 | 4 | 5
323 | 19,957 | 3.1681 | 1 | 1 | 2 | 4 | 6
324 | 7,040 | 1.9006 | 1 | 1 | 1 | 2 | 4
325 | 9,310 | 3.8056 | 1 | 2 | 3 | 5 | 7
326 | 2,732 | 2.6190 | 1 | 1 | 2 | 3 | 5
327 | 7 | 2.5714 | 1 | 1 | 2 | 3 | 4
328 | 742 | 3.7251 | 1 | 1 | 3 | 5 | 8
329 | 94 | 2.0851 | 1 | 1 | 1 | 3 | 5
331 | 51,439 | 5.5878 | 1 | 3 | 4 | 7 | 11
332 | 5,006 | 3.1596 | 1 | 1 | 2 | 4 | 6
333 | 255 | 5.7843 | 1 | 2 | 3 | 7 | 11
334 | 10,536 | 4.5813 | 2 | 3 | 4 | 5 | 8
335 | 12,727 | 3.0264 | 2 | 2 | 3 | 4 | 5
336 | 35,950 | 3.3945 | 1 | 2 | 2 | 4 | 7
337 | 29,532 | 2.0157 | 1 | 1 | 2 | 2 | 3
338 | 940 | 5.4851 | 1 | 2 | 3 | 7 | 13
339 | 1,481 | 4.7968 | 1 | 1 | 3 | 6 | 11
340 | 1 | 2.0000 | 2 | 2 | 2 | 2 | 2
341 | 3,580 | 3.2031 | 1 | 1 | 2 | 3 | 7
342 | 693 | 3.1977 | 1 | 1 | 2 | 4 | 7
344 | 3,580 | 2.5232 | 1 | 1 | 1 | 2 | 5
345 | 1,370 | 4.9051 | 1 | 1 | 3 | 6 | 11
346 | 4,890 | 5.8937 | 2 | 3 | 5 | 8 | 12
347 | 315 | 3.0762 | 1 | 1 | 2 | 4 | 7
348 | 3,401 | 4.3355 | 1 | 2 | 3 | 5 | 8
349 | 616 | 2.5049 | 1 | 1 | 2 | 3 | 5
350 | 6,748 | 4.4884 | 2 | 2 | 4 | 6 | 8
352 | 960 | 3.9740 | 1 | 2 | 3 | 5 | 7
353 | 2,600 | 6.4942 | 2 | 3 | 5 | 7 | 12
354 | 7,444 | 5.7016 | 3 | 3 | 4 | 6 | 10
355 | 5,590 | 3.1971 | 2 | 2 | 3 | 4 | 5
356 | 25,990 | 2.0785 | 1 | 1 | 2 | 3 | 3
357 | 5,663 | 8.3744 | 3 | 4 | 6 | 10 | 16
358 | 21,660 | 4.1750 | 2 | 2 | 3 | 5 | 7
359 | 32,036 | 2.5609 | 1 | 2 | 2 | 3 | 4
360 | 15,871 | 2.7521 | 1 | 1 | 2 | 3 | 4
361 | 346 | 3.2052 | 1 | 1 | 2 | 3 | 8
362 | 5 | 1.4000 | 1 | 1 | 1 | 2 | 2
363 | 2,527 | 3.6312 | 1 | 2 | 2 | 4 | 8
364 | 1,637 | 4.1307 | 1 | 1 | 3 | 5 | 8
365 | 1,843 | 8.1872 | 1 | 3 | 5 | 10 | 17
366 | 4,581 | 6.6619 | 1 | 3 | 5 | 8 | 14
367 | 487 | 3.0678 | 1 | 1 | 2 | 4 | 7
368 | 3,572 | 6.6551 | 2 | 3 | 5 | 8 | 13
369 | 3,482 | 3.3090 | 1 | 1 | 2 | 4 | 7
370 | 1,350 | 5.7911 | 2 | 3 | 4 | 5 | 9
371 | 1,691 | 3.4826 | 2 | 3 | 3 | 4 | 5
372 | 947 | 3.4805 | 2 | 2 | 2 | 3 | 5
373 | 4,145 | 2.2955 | 1 | 2 | 2 | 3 | 3
374 | 91 | 2.9341 | 1 | 2 | 2 | 3 | 6
376 | 325 | 3.4123 | 1 | 2 | 2 | 4 | 7
377 | 48 | 4.0833 | 1 | 2 | 3 | 5 | 8
378 | 175 | 2.5943 | 1 | 1 | 2 | 3 | 5
379 | 355 | 3.0028 | 1 | 1 | 2 | 3 | 5
380 | 99 | 1.9697 | 1 | 1 | 1 | 2 | 3
381 | 190 | 1.9053 | 1 | 1 | 1 | 2 | 4
382 | 49 | 1.6939 | 1 | 1 | 1 | 2 | 3
383 | 2,003 | 3.7913 | 1 | 1 | 3 | 4 | 7
384 | 129 | 2.6279 | 1 | 1 | 2 | 3 | 5
385 | 3 | 2.0000 | 1 | 1 | 2 | 3 | 3
387 | 1 | 55.0000 | 55 | 55 | 55 | 55 | 55
389 | 12 | 6.2500 | 2 | 3 | 5 | 9 | 10
390 | 20 | 4.3000 | 1 | 2 | 3 | 5 | 7
392 | 2,271 | 9.6874 | 3 | 4 | 7 | 12 | 21
393 | 1 | 4.0000 | 4 | 4 | 4 | 4 | 4
394 | 2,605 | 7.5965 | 1 | 2 | 5 | 9 | 17
395 | 108,024 | 4.3238 | 1 | 2 | 3 | 5 | 9
396 | 17 | 4.4118 | 1 | 1 | 3 | 7 | 9
397 | 19,035 | 5.1743 | 1 | 2 | 4 | 6 | 10
398 | 18,162 | 5.8655 | 2 | 3 | 5 | 7 | 11
399 | 1,693 | 3.4826 | 1 | 2 | 3 | 4 | 6
400 | 6,371 | 9.0333 | 1 | 3 | 6 | 12 | 21
401 | 5,845 | 11.5341 | 2 | 5 | 9 | 15 | 23
402 | 1,478 | 3.9831 | 1 | 1 | 3 | 5 | 9
403 | 31,947 | 8.1013 | 2 | 3 | 6 | 10 | 17
404 | 4,350 | 4.1069 | 1 | 2 | 3 | 5 | 8
405 | 1 | 31.0000 | 31 | 31 | 31 | 31 | 31
406 | 2,444 | 9.6579 | 2 | 4 | 7 | 12 | 20
407 | 643 | 4.0560 | 1 | 2 | 3 | 5 | 7
408 | 2,134 | 8.2291 | 1 | 2 | 5 | 10 | 20
409 | 2,154 | 6.1565 | 2 | 3 | 4 | 6 | 12
410 | 28,484 | 4.0951 | 1 | 2 | 4 | 5 | 6
411 | 7 | 2.2857 | 1 | 1 | 2 | 2 | 4
412 | 16 | 3.8125 | 1 | 1 | 3 | 6 | 7
413 | 5,349 | 7.0501 | 2 | 3 | 5 | 9 | 14
414 | 633 | 4.2354 | 1 | 2 | 3 | 5 | 8
415 | 43,349 | 14.3233 | 4 | 6 | 11 | 18 | 28
416 | 192,908 | 7.4362 | 2 | 4 | 6 | 9 | 14
417 | 38 | 5.8421 | 2 | 3 | 5 | 7 | 12
418 | 25,920 | 6.2986 | 2 | 3 | 5 | 8 | 12
419 | 16,446 | 4.5517 | 1 | 2 | 4 | 6 | 9
420 | 3,220 | 3.4202 | 1 | 2 | 3 | 4 | 6
421 | 10,745 | 4.0624 | 1 | 2 | 3 | 5 | 8
422 | 66 | 3.6970 | 1 | 2 | 2 | 4 | 6
423 | 8,116 | 8.3228 | 2 | 3 | 6 | 10 | 17
424 | 1,236 | 12.7929 | 2 | 4 | 9 | 15 | 26
425 | 16,189 | 3.7961 | 1 | 2 | 3 | 5 | 8
426 | 4,589 | 4.4655 | 1 | 2 | 3 | 6 | 9
427 | 1,596 | 4.3784 | 1 | 2 | 3 | 5 | 9
428 | 796 | 7.1382 | 1 | 2 | 5 | 8 | 14
429 | 25,933 | 6.0111 | 2 | 3 | 4 | 7 | 11
430 | 65,276 | 7.8291 | 2 | 3 | 6 | 10 | 16
431 | 314 | 6.8248 | 1 | 2 | 4 | 7 | 12
432 | 451 | 4.0111 | 1 | 2 | 3 | 4 | 7
433 | 5,554 | 3.1300 | 1 | 1 | 2 | 4 | 6
439 | 1,520 | 8.1855 | 1 | 3 | 5 | 9 | 17
440 | 5,771 | 9.0806 | 2 | 3 | 6 | 11 | 19
441 | 677 | 3.1374 | 1 | 1 | 2 | 4 | 6
442 | 17,571 | 8.5218 | 1 | 3 | 6 | 10 | 18
443 | 3,920 | 3.3663 | 1 | 1 | 3 | 4 | 7
444 | 5,754 | 4.2011 | 1 | 2 | 3 | 5 | 8
445 | 2,546 | 2.8610 | 1 | 1 | 2 | 4 | 5
447 | 6,514 | 2.5091 | 1 | 1 | 2 | 3 | 5
448 | 1 | 1.0000 | 1 | 1 | 1 | 1 | 1
449 | 33,181 | 3.7059 | 1 | 1 | 3 | 4 | 7
450 | 7,441 | 1.9790 | 1 | 1 | 1 | 2 | 4
451 | 1 | 1.0000 | 1 | 1 | 1 | 1 | 1
452 | 25,679 | 4.9178 | 1 | 2 | 3 | 6 | 10
453 | 5,687 | 2.7579 | 1 | 1 | 2 | 3 | 5
454 | 4,792 | 4.2398 | 1 | 2 | 3 | 5 | 8
455 | 1,070 | 2.4140 | 1 | 1 | 2 | 3 | 5
461 | 5,216 | 3.5861 | 1 | 1 | 2 | 4 | 8
462 | 9,650 | 10.8636 | 4 | 6 | 9 | 14 | 20
463 | 27,061 | 4.0439 | 1 | 2 | 3 | 5 | 8
464 | 7,232 | 2.9887 | 1 | 1 | 2 | 4 | 6
465 | 200 | 3.9100 | 1 | 1 | 1 | 3 | 6
466 | 1,737 | 4.0219 | 1 | 1 | 2 | 4 | 7
467 | 1,140 | 3.0035 | 1 | 1 | 2 | 3 | 6
468 | 52,318 | 12.7674 | 3 | 6 | 10 | 16 | 25
471 | 13,363 | 5.3722 | 3 | 3 | 4 | 6 | 8
473 | 8,095 | 12.4119 | 2 | 3 | 7 | 17 | 32
475 | 109,726 | 11.1546 | 2 | 5 | 9 | 15 | 22
476 | 3,657 | 11.0941 | 2 | 5 | 10 | 15 | 21
477 | 25,400 | 8.1660 | 1 | 3 | 6 | 11 | 17
478 | 108,133 | 7.3130 | 1 | 3 | 5 | 9 | 15
479 | 24,052 | 3.1910 | 1 | 1 | 2 | 4 | 7
480 | 611 | 21.0638 | 6 | 8 | 12 | 22 | 47
481 | 865 | 21.7584 | 13 | 17 | 20 | 25 | 33
482 | 5,296 | 12.5015 | 4 | 6 | 9 | 15 | 24
483 | 45,427 | 39.2033 | 15 | 22 | 33 | 48 | 70
484 | 336 | 14.5744 | 2 | 6 | 11 | 21 | 28
485 | 3,220 | 9.8264 | 4 | 5 | 7 | 11 | 19
486 | 2,094 | 12.7612 | 1 | 6 | 10 | 17 | 26
487 | 3,731 | 7.1702 | 1 | 3 | 6 | 9 | 15
488 | 769 | 16.9129 | 4 | 7 | 13 | 22 | 36
489 | 13,373 | 8.5374 | 2 | 3 | 6 | 10 | 17
490 | 5,462 | 5.4888 | 1 | 2 | 4 | 7 | 11
491 | 15,370 | 3.3853 | 1 | 2 | 3 | 4 | 6
492 | 3,140 | 14.9239 | 3 | 5 | 7 | 25 | 33
493 | 59,615 | 5.9843 | 1 | 3 | 5 | 8 | 11
494 | 28,880 | 2.5293 | 1 | 1 | 2 | 3 | 5
495 | 192 | 16.4167 | 7 | 9 | 12 | 19 | 31
496 | 2,479 | 8.8709 | 3 | 4 | 6 | 11 | 18
497 | 22,473 | 6.3553 | 3 | 4 | 5 | 7 | 11
498 | 16,070 | 4.0191 | 2 | 3 | 4 | 5 | 6
499 | 34,688 | 4.5204 | 1 | 2 | 3 | 6 | 9
500 | 49,936 | 2.4069 | 1 | 1 | 2 | 3 | 4
501 | 2,608 | 10.6031 | 4 | 5 | 8 | 13 | 20
502 | 771 | 6.1647 | 3 | 4 | 5 | 7 | 11
503 | 5,970 | 3.9084 | 1 | 2 | 3 | 5 | 7
504 | 125 | 27.6560 | 7 | 13 | 21 | 37 | 55
505 | 134 | 5.6567 | 1 | 1 | 1 | 5 | 11
506 | 919 | 16.8836 | 4 | 7 | 13 | 21 | 35
507 | 341 | 9.0411 | 2 | 4 | 7 | 13 | 19
508 | 631 | 7.8051 | 2 | 3 | 5 | 10 | 17
509 | 160 | 4.2688 | 1 | 2 | 3 | 5 | 9
510 | 1,651 | 6.7274 | 1 | 3 | 5 | 8 | 15
511 | 581 | 4.6076 | 1 | 1 | 3 | 6 | 10
512 | 481 | 13.1185 | 6 | 8 | 10 | 15 | 23
513 | 207 | 9.7585 | 5 | 6 | 8 | 10 | 15
514 | 26,570 | 6.9035 | 1 | 2 | 5 | 9 | 15
515 | 8,131 | 5.1646 | 1 | 1 | 3 | 7 | 12
516 | 84,846 | 4.6338 | 2 | 2 | 4 | 5 | 9
517 | 198,743 | 2.5406 | 1 | 1 | 1 | 3 | 5
518 | 56,613 | 3.2508 | 1 | 1 | 2 | 4 | 7
519 | 8,486 | 4.8547 | 1 | 1 | 3 | 6 | 11
520 | 12,687 | 2.0548 | 1 | 1 | 1 | 2 | 4
521 | 30,898 | 5.7395 | 2 | 3 | 4 | 7 | 11
522 | 6,069 | 9.5670 | 4 | 5 | 8 | 12 | 20
523 | 15,456 | 4.0538 | 1 | 2 | 3 | 5 | 7
524 | 132,651 | 3.3690 | 1 | 2 | 3 | 4 | 6
525 | 571 | 17.2907 | 1 | 4 | 9 | 18 | 37
| 11,713,347

Table 7B.—Medicare Prospective Payment System Selected Percentile Lengths of Stay—FY 2002 MEDPAR Update December 2002 Grouper V21.0
DRG | Number of discharges | Arithmetic mean length of stay | 10th percentile | 25th percentile | 50th percentile | 75th percentile | 90th percentile
1 | 23,433 | 10.5551 | 3 | 5 | 8 | 14 | 21
2 | 11,715 | 5.2534 | 1 | 3 | 4 | 7 | 10
3 | 3 | 6.0000 | 1 | 1 | 4 | 13 | 13
6 | 356 | 3.0197 | 1 | 1 | 2 | 4 | 7
7 | 14,683 | 9.8438 | 2 | 4 | 7 | 12 | 20
8 | 4,106 | 2.8015 | 1 | 1 | 1 | 3 | 7
9 | 1,711 | 6.2402 | 1 | 3 | 5 | 8 | 12
10 | 18,655 | 6.3850 | 2 | 3 | 5 | 8 | 13
11 | 3,291 | 4.0413 | 1 | 2 | 3 | 5 | 8
12 | 52,512 | 5.7513 | 2 | 3 | 4 | 7 | 11
13 | 7,068 | 5.0035 | 2 | 3 | 4 | 6 | 9
14 | 237,027 | 5.9456 | 2 | 3 | 5 | 7 | 11
15 | 94,223 | 4.8529 | 2 | 3 | 4 | 6 | 9
16 | 9,938 | 6.3106 | 2 | 3 | 5 | 8 | 12
17 | 2,744 | 3.2172 | 1 | 2 | 2 | 4 | 6
18 | 29,701 | 5.4868 | 2 | 3 | 4 | 7 | 10
19 | 8,519 | 3.5184 | 1 | 2 | 3 | 5 | 7
20 | 6,207 | 10.1927 | 3 | 5 | 8 | 13 | 20
21 | 1,885 | 6.5963 | 2 | 3 | 5 | 9 | 13
22 | 2,785 | 5.1178 | 2 | 2 | 4 | 6 | 10
23 | 11,270 | 4.2627 | 1 | 2 | 3 | 5 | 8
24 | 59,102 | 4.8803 | 1 | 2 | 4 | 6 | 10
25 | 27,433 | 3.1776 | 1 | 2 | 3 | 4 | 6
26 | 18 | 4.2778 | 1 | 1 | 2 | 3 | 4
27 | 4,398 | 5.1719 | 1 | 1 | 3 | 7 | 11
28 | 13,919 | 6.0265 | 1 | 3 | 5 | 8 | 12
29 | 5,282 | 3.4924 | 1 | 2 | 3 | 5 | 7
30 | 2 | 6.5000 | 2 | 2 | 11 | 11 | 11
31 | 3,897 | 4.0429 | 1 | 2 | 3 | 5 | 8
32 | 1,895 | 2.4776 | 1 | 1 | 2 | 3 | 5
34 | 23,811 | 4.9368 | 1 | 2 | 4 | 6 | 9
35 | 7,451 | 3.1094 | 1 | 1 | 3 | 4 | 6
36 | 2,117 | 1.5328 | 1 | 1 | 1 | 1 | 2
37 | 1,382 | 3.7685 | 1 | 1 | 2 | 5 | 8
38 | 97 | 2.8041 | 1 | 1 | 1 | 4 | 5
39 | 559 | 2.1163 | 1 | 1 | 1 | 2 | 4
40 | 1,549 | 3.8070 | 1 | 1 | 3 | 5 | 7
42 | 1,581 | 2.7381 | 1 | 1 | 1 | 3 | 6
43 | 94 | 3.3936 | 1 | 1 | 3 | 4 | 6
44 | 1,227 | 4.9935 | 2 | 3 | 4 | 6 | 9
45 | 2,668 | 3.1267 | 1 | 2 | 3 | 4 | 6
46 | 3,482 | 4.4730 | 1 | 2 | 3 | 6 | 8
47 | 1,402 | 3.0927 | 1 | 1 | 2 | 4 | 6
49 | 2,391 | 4.4676 | 1 | 2 | 3 | 6 | 9
50 | 2,429 | 1.8506 | 1 | 1 | 1 | 2 | 3
51 | 243 | 2.8354 | 1 | 1 | 1 | 3 | 8
52 | 223 | 1.8161 | 1 | 1 | 1 | 2 | 3
53 | 2,478 | 3.6186 | 1 | 1 | 2 | 4 | 8
55 | 1,481 | 2.9338 | 1 | 1 | 1 | 3 | 7
56 | 469 | 2.8955 | 1 | 1 | 1 | 3 | 6
57 | 711 | 3.6709 | 1 | 1 | 2 | 4 | 8
58 | 1 | 2.0000 | 2 | 2 | 2 | 2 | 2
59 | 116 | 2.6724 | 1 | 1 | 1 | 3 | 6
60 | 1 | 3.0000 | 3 | 3 | 3 | 3 | 3
61 | 254 | 5.1535 | 1 | 1 | 3 | 7 | 11
62 | 2 | 7.0000 | 1 | 1 | 13 | 13 | 13
63 | 3,000 | 4.3860 | 1 | 2 | 3 | 5 | 9
64 | 3,126 | 6.4997 | 1 | 2 | 4 | 8 | 14
65 | 40,407 | 2.8127 | 1 | 1 | 2 | 4 | 5
66 | 7,841 | 3.0778 | 1 | 1 | 2 | 4 | 6
67 | 385 | 3.6442 | 1 | 2 | 3 | 5 | 7
68 | 11,658 | 3.8813 | 1 | 2 | 3 | 5 | 7
69 | 3,769 | 3.0186 | 1 | 2 | 3 | 4 | 5
70 | 30 | 2.3333 | 1 | 1 | 2 | 3 | 4
71 | 80 | 3.4000 | 1 | 1 | 2 | 4 | 6
72 | 964 | 3.4035 | 1 | 1 | 3 | 4 | 6
73 | 7,697 | 4.4433 | 1 | 2 | 3 | 6 | 9
75 | 43,504 | 9.9907 | 3 | 5 | 7 | 12 | 20
76 | 44,508 | 11.1024 | 3 | 5 | 9 | 14 | 21
77 | 2,458 | 4.8031 | 1 | 2 | 4 | 7 | 10
78 | 39,504 | 6.5709 | 3 | 4 | 6 | 8 | 11
79 | 169,239 | 8.4557 | 3 | 4 | 7 | 11 | 16
80 | 8,077 | 5.3480 | 2 | 3 | 4 | 7 | 10
81 | 5 | 4.4000 | 1 | 1 | 3 | 8 | 8
82 | 64,299 | 6.8753 | 2 | 3 | 5 | 9 | 14
83 | 6,665 | 5.3655 | 2 | 3 | 4 | 7 | 10
84 | 1,575 | 3.2565 | 1 | 2 | 3 | 4 | 6
85 | 22,398 | 6.2473 | 2 | 3 | 5 | 8 | 12
86 | 2,250 | 3.5364 | 1 | 2 | 3 | 4 | 7
87 | 61,129 | 6.3127 | 1 | 3 | 5 | 8 | 12
88 | 404,045 | 5.0463 | 2 | 3 | 4 | 6 | 9
89 | 535,162 | 5.8340 | 2 | 3 | 5 | 7 | 11
90 | 48,843 | 3.9563 | 2 | 2 | 3 | 5 | 7
91 | 45 | 5.0444 | 1 | 2 | 3 | 5 | 13
92 | 15,809 | 6.2907 | 2 | 3 | 5 | 8 | 12
93 | 1,778 | 4.0079 | 1 | 2 | 3 | 5 | 7
94 | 12,813 | 6.2387 | 2 | 3 | 5 | 8 | 12
95 | 1,655 | 3.8127 | 1 | 2 | 3 | 5 | 7
96 | 56,893 | 4.5613 | 2 | 2 | 4 | 6 | 8
97 | 28,776 | 3.5275 | 1 | 2 | 3 | 4 | 6
98 | 9 | 3.6667 | 1 | 1 | 2 | 2 | 5
99 | 21,400 | 3.1554 | 1 | 1 | 2 | 4 | 6
100 | 8,324 | 2.1371 | 1 | 1 | 2 | 3 | 4
101 | 22,329 | 4.3853 | 1 | 2 | 3 | 6 | 9
102 | 5,644 | 2.6487 | 1 | 1 | 2 | 3 | 5
103 | 484 | 42.1240 | 9 | 12 | 23 | 53 | 92
104 | 20,637 | 14.3306 | 6 | 8 | 12 | 17 | 25
105 | 29,223 | 9.8741 | 4 | 6 | 8 | 11 | 18
106 | 3,498 | 11.4019 | 5 | 7 | 10 | 14 | 20
107 | 83,307 | 10.4339 | 5 | 7 | 9 | 12 | 17
108 | 6,508 | 9.7617 | 2 | 5 | 8 | 12 | 18
109 | 57,450 | 7.7160 | 4 | 5 | 6 | 9 | 13
110 | 54,856 | 8.7568 | 2 | 4 | 7 | 11 | 17
111 | 9,569 | 4.0574 | 1 | 2 | 4 | 6 | 7
113 | 39,734 | 12.4805 | 4 | 6 | 9 | 15 | 24
114 | 8,315 | 8.6592 | 2 | 4 | 7 | 11 | 17
115 | 19,805 | 7.4228 | 1 | 3 | 6 | 10 | 15
116 | 116,294 | 4.3974 | 1 | 2 | 3 | 6 | 9
117 | 4,731 | 4.3075 | 1 | 1 | 2 | 5 | 10
118 | 8,299 | 2.8976 | 1 | 1 | 1 | 4 | 7
119 | 1,237 | 5.2967 | 1 | 1 | 3 | 7 | 13
120 | 38,109 | 9.0051 | 1 | 3 | 6 | 12 | 20
121 | 164,425 | 6.2836 | 2 | 3 | 5 | 8 | 12
122 | 77,231 | 3.5159 | 1 | 2 | 3 | 5 | 7
123 | 38,627 | 4.7915 | 1 | 1 | 3 | 6 | 11
124 | 135,291 | 4.3838 | 1 | 2 | 3 | 6 | 9
125 | 91,946 | 2.7616 | 1 | 1 | 2 | 4 | 5
126 | 5,395 | 11.5218 | 3 | 6 | 9 | 15 | 22
127 | 676,101 | 5.2357 | 2 | 3 | 4 | 7 | 10
128 | 7,187 | 5.4446 | 2 | 3 | 5 | 7 | 9
129 | 3,853 | 2.5951 | 1 | 1 | 1 | 3 | 6
130 | 88,911 | 5.5991 | 2 | 3 | 5 | 7 | 10
131 | 27,124 | 4.0330 | 1 | 2 | 4 | 5 | 7
132 | 142,443 | 2.8904 | 1 | 1 | 2 | 4 | 5
133 | 8,694 | 2.2843 | 1 | 1 | 2 | 3 | 4
134 | 41,542 | 3.1609 | 1 | 2 | 2 | 4 | 6
135 | 7,810 | 4.4540 | 1 | 2 | 3 | 5 | 8
136 | 1,185 | 2.6641 | 1 | 1 | 2 | 3 | 5
138 | 208,716 | 3.9930 | 1 | 2 | 3 | 5 | 8
139 | 87,938 | 2.4733 | 1 | 1 | 2 | 3 | 5
140 | 55,735 | 2.5252 | 1 | 1 | 2 | 3 | 5
141 | 108,834 | 3.5704 | 1 | 2 | 3 | 4 | 7
142 | 52,684 | 2.5530 | 1 | 1 | 2 | 3 | 5
143 | 250,177 | 2.0911 | 1 | 1 | 2 | 3 | 4
144 | 94,588 | 5.5436 | 1 | 2 | 4 | 7 | 11
145 | 7,370 | 2.5700 | 1 | 1 | 2 | 3 | 5
146 | 10,785 | 10.2338 | 5 | 6 | 8 | 12 | 17
147 | 2,644 | 6.2266 | 3 | 5 | 6 | 8 | 9
148 | 134,125 | 12.2751 | 5 | 7 | 10 | 15 | 22
149 | 20,205 | 6.3062 | 4 | 5 | 6 | 7 | 9
150 | 21,184 | 11.3235 | 4 | 6 | 9 | 14 | 20
151 | 5,140 | 5.5586 | 2 | 3 | 5 | 7 | 10
152 | 4,578 | 8.3724 | 3 | 5 | 7 | 10 | 15
153 | 2,058 | 5.2546 | 3 | 4 | 5 | 7 | 8
154 | 28,368 | 13.2140 | 3 | 7 | 10 | 17 | 26
155 | 6,618 | 4.0801 | 1 | 2 | 3 | 6 | 8
156 | 4 | 2.5000 | 1 | 1 | 1 | 3 | 5
157 | 8,301 | 5.7459 | 1 | 2 | 4 | 7 | 12
158 | 4,362 | 2.6016 | 1 | 1 | 2 | 3 | 5
159 | 18,136 | 5.1194 | 1 | 2 | 4 | 7 | 10
160 | 12,203 | 2.6826 | 1 | 1 | 2 | 3 | 5
161 | 10,803 | 4.3270 | 1 | 2 | 3 | 6 | 9
162 | 6,421 | 1.9305 | 1 | 1 | 1 | 2 | 4
163 | 8 | 3.2500 | 1 | 1 | 2 | 3 | 6
164 | 5,400 | 8.3580 | 3 | 5 | 7 | 10 | 15
165 | 2,335 | 4.4882 | 2 | 3 | 4 | 6 | 7
166 | 4,206 | 4.7263 | 1 | 2 | 4 | 6 | 9
167 | 4,091 | 2.4133 | 1 | 1 | 2 | 3 | 4
168 | 1,425 | 4.8386 | 1 | 2 | 3 | 6 | 10
169 | 814 | 2.4005 | 1 | 1 | 2 | 3 | 5
170 | 15,682 | 10.8241 | 2 | 4 | 8 | 14 | 22
171 | 1,530 | 4.3333 | 1 | 2 | 4 | 6 | 9
172 | 31,435 | 6.9669 | 2 | 3 | 5 | 9 | 14
173 | 2,482 | 3.7808 | 1 | 2 | 3 | 5 | 8
174 | 252,303 | 4.7834 | 2 | 3 | 4 | 6 | 9
175 | 34,977 | 2.9157 | 1 | 2 | 3 | 4 | 5
176 | 13,498 | 5.2318 | 2 | 3 | 4 | 6 | 10
177 | 9,080 | 4.5719 | 2 | 3 | 4 | 6 | 8
178 | 3,382 | 3.1227 | 1 | 2 | 3 | 4 | 6
179 | 13,193 | 5.9431 | 2 | 3 | 5 | 7 | 11
180 | 90,752 | 5.4251 | 2 | 3 | 4 | 7 | 10
181 | 27,280 | 3.3710 | 1 | 2 | 3 | 4 | 6
182 | 273,118 | 4.4204 | 1 | 2 | 3 | 5 | 8
183 | 91,272 | 2.8962 | 1 | 1 | 2 | 4 | 5
184 | 69 | 3.2319 | 1 | 1 | 2 | 4 | 6
185 | 5,350 | 4.6680 | 1 | 2 | 3 | 6 | 10
186 | 6 | 6.6667 | 2 | 3 | 3 | 10 | 10
187 | 619 | 4.0307 | 1 | 2 | 3 | 6 | 8
188 | 84,099 | 5.5620 | 1 | 2 | 4 | 7 | 11
189 | 13,098 | 3.1005 | 1 | 1 | 2 | 4 | 6
190 | 75 | 5.1733 | 1 | 2 | 4 | 6 | 11
191 | 9,537 | 13.7975 | 3 | 6 | 10 | 17 | 28
192 | 1,322 | 6.2201 | 1 | 3 | 6 | 8 | 11
193 | 4,822 | 12.7242 | 5 | 7 | 10 | 16 | 23
194 | 650 | 6.7323 | 2 | 4 | 6 | 8 | 12
195 | 4,019 | 10.5175 | 4 | 6 | 9 | 13 | 19
196 | 998 | 5.6092 | 2 | 3 | 5 | 7 | 10
197 | 18,313 | 9.1566 | 3 | 5 | 7 | 11 | 17
198 | 5,418 | 4.4118 | 2 | 3 | 4 | 6 | 7
199 | 1,636 | 9.7353 | 2 | 4 | 7 | 13 | 21
200 | 1,076 | 10.4898 | 2 | 3 | 7 | 14 | 23
201 | 2,130 | 14.1469 | 3 | 6 | 11 | 18 | 29
202 | 26,756 | 6.3872 | 2 | 3 | 5 | 8 | 13
203 | 30,055 | 6.6816 | 2 | 3 | 5 | 9 | 13
204 | 65,585 | 5.7470 | 2 | 3 | 4 | 7 | 11
205 | 27,481 | 6.1736 | 2 | 3 | 5 | 8 | 12
206 | 2,057 | 3.7832 | 1 | 2 | 3 | 5 | 8
207 | 32,881 | 5.1924 | 1 | 2 | 4 | 7 | 10
208 | 10,188 | 2.8924 | 1 | 1 | 2 | 4 | 5
209 | 399,893 | 4.8600 | 3 | 3 | 4 | 5 | 7
210 | 122,843 | 6.8859 | 3 | 4 | 6 | 8 | 11
211 | 30,096 | 4.8394 | 3 | 4 | 4 | 6 | 7
212 | 9 | 7.0000 | 1 | 1 | 4 | 5 | 7
213 | 9,950 | 9.2035 | 2 | 4 | 7 | 12 | 18
216 | 8,770 | 7.9789 | 1 | 2 | 6 | 11 | 17
217 | 17,292 | 13.3846 | 3 | 5 | 9 | 16 | 28
218 | 23,796 | 5.5121 | 2 | 3 | 4 | 7 | 10
219 | 19,891 | 3.1961 | 1 | 2 | 3 | 4 | 6
220 | 1 | 1.0000 | 1 | 1 | 1 | 1 | 1
223 | 13,308 | 3.0326 | 1 | 1 | 2 | 4 | 6
224 | 11,738 | 1.9052 | 1 | 1 | 1 | 2 | 3
225 | 6,481 | 5.2626 | 1 | 2 | 4 | 7 | 11
226 | 5,874 | 6.5259 | 1 | 2 | 4 | 8 | 14
227 | 4,854 | 2.6360 | 1 | 1 | 2 | 3 | 5
228 | 2,534 | 4.1492 | 1 | 1 | 3 | 5 | 9
229 | 1,263 | 2.3286 | 1 | 1 | 2 | 3 | 5
230 | 2,456 | 5.5668 | 1 | 2 | 3 | 7 | 12
232 | 816 | 2.7132 | 1 | 1 | 1 | 2 | 6
233 | 9,940 | 7.3671 | 1 | 3 | 6 | 10 | 15
234 | 5,364 | 3.0626 | 1 | 1 | 2 | 4 | 7
235 | 5,107 | 4.8659 | 1 | 2 | 4 | 6 | 9
236 | 40,182 | 4.6505 | 1 | 3 | 4 | 6 | 8
237 | 1,782 | 3.6599 | 1 | 2 | 3 | 5 | 7
238 | 8,956 | 8.6382 | 3 | 4 | 7 | 10 | 17
239 | 46,252 | 6.2694 | 2 | 3 | 5 | 8 | 12
240 | 12,062 | 6.6231 | 2 | 3 | 5 | 8 | 13
241 | 3,173 | 3.7690 | 1 | 2 | 3 | 5 | 7
242 | 2,597 | 6.8814 | 2 | 3 | 5 | 9 | 14
243 | 96,552 | 4.6506 | 1 | 2 | 4 | 6 | 9
244 | 14,695 | 4.6521 | 1 | 2 | 4 | 6 | 9
245 | 5,861 | 3.2950 | 1 | 2 | 3 | 4 | 6
246 | 1,498 | 3.7216 | 1 | 2 | 3 | 5 | 7
247 | 20,507 | 3.3340 | 1 | 1 | 3 | 4 | 7
248 | 13,931 | 4.9200 | 1 | 3 | 4 | 6 | 9
249 | 12,932 | 3.6170 | 1 | 1 | 2 | 4 | 7
250 | 3,802 | 4.1302 | 1 | 2 | 3 | 5 | 8
251 | 2,375 | 2.7651 | 1 | 1 | 3 | 3 | 5
253 | 22,095 | 4.6939 | 2 | 3 | 4 | 6 | 8
254 | 10,763 | 3.1601 | 1 | 2 | 3 | 4 | 5
256 | 6,714 | 5.1008 | 1 | 2 | 4 | 6 | 10
257 | 15,758 | 2.6395 | 1 | 1 | 2 | 3 | 5
258 | 15,317 | 1.8212 | 1 | 1 | 2 | 2 | 3
259 | 3,517 | 2.6747 | 1 | 1 | 1 | 3 | 6
260 | 4,236 | 1.3973 | 1 | 1 | 1 | 1 | 2
261 | 1,776 | 2.0884 | 1 | 1 | 1 | 2 | 4
262 | 668 | 4.3204 | 1 | 1 | 3 | 6 | 9
263 | 23,192 | 11.4687 | 3 | 5 | 8 | 14 | 22
264 | 3,869 | 6.5585 | 2 | 3 | 5 | 8 | 13
265 | 4,103 | 6.6074 | 1 | 2 | 4 | 8 | 14
266 | 2,555 | 3.2337 | 1 | 1 | 2 | 4 | 7
267 | 241 | 4.4606 | 1 | 1 | 3 | 6 | 10
268 | 920 | 3.7978 | 1 | 1 | 2 | 4 | 8
269 | 9,852 | 8.5323 | 2 | 3 | 7 | 11 | 17
270 | 2,798 | 3.5615 | 1 | 1 | 2 | 5 | 7
271 | 19,436 | 7.2481 | 2 | 4 | 6 | 9 | 14
272 | 5,752 | 6.0176 | 2 | 3 | 5 | 7 | 12
273 | 1,343 | 3.9598 | 1 | 2 | 3 | 5 | 8
274 | 2,305 | 6.4586 | 1 | 3 | 5 | 8 | 13
275 | 230 | 3.6217 | 1 | 1 | 2 | 4 | 7
276 | 1,327 | 4.4574 | 1 | 2 | 4 | 6 | 8
277 | 100,811 | 5.7271 | 2 | 3 | 5 | 7 | 10
278 | 32,531 | 4.1962 | 2 | 2 | 4 | 5 | 7
279 | 10 | 5.3000 | 2 | 2 | 3 | 7 | 7
280 | 17,882 | 4.1159 | 1 | 2 | 3 | 5 | 8
281 | 7,536 | 2.8879 | 1 | 1 | 2 | 4 | 5
283 | 6,093 | 4.6606 | 1 | 2 | 4 | 6 | 9
284 | 2,029 | 2.9359 | 1 | 1 | 2 | 4 | 6
285 | 6,962 | 10.5315 | 3 | 5 | 8 | 13 | 20
286 | 2,502 | 5.8981 | 2 | 3 | 4 | 7 | 12
287 | 6,287 | 10.2537 | 3 | 5 | 8 | 13 | 20
288 | 5,524 | 4.9716 | 2 | 3 | 4 | 5 | 8
289 | 6,938 | 2.7257 | 1 | 1 | 1 | 2 | 6
290 | 9,964 | 2.1995 | 1 | 1 | 1 | 2 | 4
291 | 58 | 1.6379 | 1 | 1 | 1 | 2 | 3
292 | 6,534 | 10.4645 | 2 | 4 | 8 | 14 | 21
293 | 364 | 4.7033 | 1 | 1 | 3 | 6 | 9
294 | 98,755 | 4.5121 | 1 | 2 | 3 | 6 | 9
295 | 3,550 | 3.9721 | 1 | 2 | 3 | 5 | 7
296 | 280,547 | 5.0716 | 1 | 2 | 4 | 6 | 10
297 | 48,715 | 3.2855 | 1 | 2 | 3 | 4 | 6
298 | 111 | 3.1802 | 1 | 1 | 2 | 4 | 7
299 | 1,276 | 5.4412 | 1 | 2 | 4 | 7 | 11
300 | 18,798 | 6.1364 | 2 | 3 | 5 | 8 | 12
301 | 3,636 | 3.5954 | 1 | 2 | 3 | 4 | 7
302 | 8,722 | 8.5255 | 4 | 5 | 6 | 9 | 15
303 | 21,880 | 8.0372 | 3 | 4 | 6 | 9 | 15
304 | 12,572 | 8.8705 | 2 | 4 | 6 | 11 | 18
305 | 3,047 | 3.5510 | 1 | 2 | 3 | 4 | 7
306 | 7,077 | 5.3740 | 1 | 2 | 3 | 7 | 12
307 | 2,035 | 2.0708 | 1 | 1 | 2 | 2 | 3
308 | 7,299 | 6.2077 | 1 | 2 | 4 | 8 | 14
309 | 4,183 | 2.0995 | 1 | 1 | 1 | 2 | 4
310 | 24,884 | 4.3725 | 1 | 1 | 3 | 6 | 10
311 | 7,495 | 1.8220 | 1 | 1 | 1 | 2 | 3
312 | 1,524 | 4.5623 | 1 | 1 | 3 | 6 | 10
313 | 555 | 2.2559 | 1 | 1 | 1 | 3 | 5
314 | 2 | 40.5000 | 1 | 1 | 80 | 80 | 80
315 | 34,134 | 6.9586 | 1 | 1 | 4 | 9 | 16
316 | 119,645 | 6.5348 | 2 | 3 | 5 | 8 | 13
317 | 2,018 | 3.6051 | 1 | 1 | 2 | 4 | 7
318 | 5,782 | 6.0930 | 1 | 3 | 5 | 8 | 12
319 | 412 | 2.9320 | 1 | 1 | 2 | 4 | 6
320 | 188,165 | 5.2818 | 2 | 3 | 4 | 6 | 10
321 | 31,355 | 3.7221 | 1 | 2 | 3 | 5 | 7
322 | 50 | 3.2200 | 1 | 2 | 3 | 4 | 5
323 | 19,957 | 3.1681 | 1 | 1 | 2 | 4 | 6
324 | 7,040 | 1.9006 | 1 | 1 | 1 | 2 | 4
325 | 9,310 | 3.8056 | 1 | 2 | 3 | 5 | 7
326 | 2,732 | 2.6190 | 1 | 1 | 2 | 3 | 5
327 | 7 | 2.5714 | 1 | 1 | 2 | 3 | 4
328 | 742 | 3.7251 | 1 | 1 | 3 | 5 | 8
329 | 94 | 2.0851 | 1 | 1 | 1 | 3 | 5
331 | 51,439 | 5.5878 | 1 | 3 | 4 | 7 | 11
332 | 5,006 | 3.1596 | 1 | 1 | 2 | 4 | 6
333 | 255 | 5.7843 | 1 | 2 | 3 | 7 | 11
334 | 10,536 | 4.5813 | 2 | 3 | 4 | 5 | 8
335 | 12,727 | 3.0264 | 2 | 2 | 3 | 4 | 5
336 | 35,950 | 3.3945 | 1 | 2 | 2 | 4 | 7
337 | 29,532 | 2.0157 | 1 | 1 | 2 | 2 | 3
338 | 940 | 5.4851 | 1 | 2 | 3 | 7 | 13
339 | 1,481 | 4.7968 | 1 | 1 | 3 | 6 | 11
340 | 1 | 2.0000 | 2 | 2 | 2 | 2 | 2
341 | 3,580 | 3.2031 | 1 | 1 | 2 | 3 | 7
342 | 693 | 3.1977 | 1 | 1 | 2 | 4 | 7
344 | 3,580 | 2.5232 | 1 | 1 | 1 | 2 | 5
345 | 1,370 | 4.9051 | 1 | 1 | 3 | 6 | 11
346 | 4,890 | 5.8937 | 2 | 3 | 5 | 8 | 12
347 | 315 | 3.0762 | 1 | 1 | 2 | 4 | 7
348 | 3,401 | 4.3355 | 1 | 2 | 3 | 5 | 8
349 | 616 | 2.5049 | 1 | 1 | 2 | 3 | 5
350 | 6,748 | 4.4884 | 2 | 2 | 4 | 6 | 8
352 | 960 | 3.9740 | 1 | 2 | 3 | 5 | 7
353 | 2,600 | 6.4942 | 2 | 3 | 5 | 7 | 12
354 | 7,444 | 5.7016 | 3 | 3 | 4 | 6 | 10
355 | 5,590 | 3.1971 | 2 | 2 | 3 | 4 | 5
356 | 25,990 | 2.0785 | 1 | 1 | 2 | 3 | 3
357 | 5,663 | 8.3744 | 3 | 4 | 6 | 10 | 16
358 | 21,660 | 4.1750 | 2 | 2 | 3 | 5 | 7
359 | 32,036 | 2.5609 | 1 | 2 | 2 | 3 | 4
360 | 15,871 | 2.7521 | 1 | 1 | 2 | 3 | 4
361 | 346 | 3.2052 | 1 | 1 | 2 | 3 | 8
362 | 5 | 1.4000 | 1 | 1 | 1 | 2 | 2
363 | 2,527 | 3.6312 | 1 | 2 | 2 | 4 | 8
364 | 1,637 | 4.1307 | 1 | 1 | 3 | 5 | 8
365 | 1,843 | 8.1872 | 1 | 3 | 5 | 10 | 17
366 | 4,581 | 6.6619 | 1 | 3 | 5 | 8 | 14
367 | 487 | 3.0678 | 1 | 1 | 2 | 4 | 7
368 | 3,572 | 6.6551 | 2 | 3 | 5 | 8 | 13
369 | 3,482 | 3.3090 | 1 | 1 | 2 | 4 | 7
370 | 1,350 | 5.7911 | 2 | 3 | 4 | 5 | 9
371 | 1,691 | 3.4826 | 2 | 3 | 3 | 4 | 5
372 | 947 | 3.4805 | 2 | 2 | 2 | 3 | 5
373 | 4,145 | 2.2955 | 1 | 2 | 2 | 3 | 3
374 | 91 | 2.9341 | 1 | 2 | 2 | 3 | 6
376 | 325 | 3.4123 | 1 | 2 | 2 | 4 | 7
377 | 48 | 4.0833 | 1 | 2 | 3 | 5 | 8
378 | 175 | 2.5943 | 1 | 1 | 2 | 3 | 5
379 | 355 | 3.0028 | 1 | 1 | 2 | 3 | 5
380 | 99 | 1.9697 | 1 | 1 | 1 | 2 | 3
381 | 190 | 1.9053 | 1 | 1 | 1 | 2 | 4
382 | 49 | 1.6939 | 1 | 1 | 1 | 2 | 3
383 | 2,003 | 3.7913 | 1 | 1 | 3 | 4 | 7
384 | 129 | 2.6279 | 1 | 1 | 2 | 3 | 5
385 | 3 | 2.0000 | 1 | 1 | 2 | 3 | 3
387 | 1 | 55.0000 | 55 | 55 | 55 | 55 | 55
389 | 12 | 6.2500 | 2 | 3 | 5 | 9 | 10
392 | 2,271 | 9.6874 | 3 | 4 | 7 | 12 | 21
393 | 1 | 4.0000 | 4 | 4 | 4 | 4 | 4
394 | 2,605 | 7.5965 | 1 | 2 | 5 | 9 | 17
395 | 108,024 | 4.3238 | 1 | 2 | 3 | 5 | 9
396 | 17 | 4.4118 | 1 | 1 | 3 | 7 | 9
397 | 19,035 | 5.1743 | 1 | 2 | 4 | 6 | 10
398 | 18,162 | 5.8655 | 2 | 3 | 5 | 7 | 11
399 | 1,693 | 3.4826 | 1 | 2 | 3 | 4 | 6
401 | 5,845 | 11.5341 | 2 | 5 | 9 | 15 | 23
402 | 1,478 | 3.9831 | 1 | 1 | 3 | 5 | 9
403 | 31,947 | 8.1013 | 2 | 3 | 6 | 10 | 17
404 | 4,350 | 4.1069 | 1 | 2 | 3 | 5 | 8
405 | 1 | 31.0000 | 31 | 31 | 31 | 31 | 31
406 | 2,444 | 9.6579 | 2 | 4 | 7 | 12 | 20
407 | 643 | 4.0560 | 1 | 2 | 3 | 5 | 7
408 | 2,134 | 8.2291 | 1 | 2 | 5 | 10 | 20
409 | 2,154 | 6.1565 | 2 | 3 | 4 | 6 | 12
410 | 28,484 | 4.0951 | 1 | 2 | 4 | 5 | 6
411 | 7 | 2.2857 | 1 | 1 | 2 | 2 | 4
412 | 16 | 3.8125 | 1 | 1 | 3 | 6 | 7
413 | 5,349 | 7.0501 | 2 | 3 | 5 | 9 | 14
414 | 633 | 4.2354 | 1 | 2 | 3 | 5 | 8
415 | 43,349 | 14.3233 | 4 | 6 | 11 | 18 | 28
416 | 192,908 | 7.4362 | 2 | 4 | 6 | 9 | 14
417 | 38 | 5.8421 | 2 | 3 | 5 | 7 | 12
418 | 25,920 | 6.2986 | 2 | 3 | 5 | 8 | 12
419 | 16,446 | 4.5517 | 1 | 2 | 4 | 6 | 9
420 | 3,220 | 3.4202 | 1 | 2 | 3 | 4 | 6
421 | 10,745 | 4.0624 | 1 | 2 | 3 | 5 | 8
422 | 66 | 3.6970 | 1 | 2 | 2 | 4 | 6
423 | 8,116 | 8.3228 | 2 | 3 | 6 | 10 | 17
424 | 1,236 | 12.7929 | 2 | 4 | 9 | 15 | 26
425 | 16,189 | 3.7961 | 1 | 2 | 3 | 5 | 8
426 | 4,589 | 4.4655 | 1 | 2 | 3 | 6 | 9
427 | 1,596 | 4.3784 | 1 | 2 | 3 | 5 | 9
428 | 796 | 7.1382 | 1 | 2 | 5 | 8 | 14
429 | 27,249 | 5.8827 | 2 | 3 | 4 | 7 | 11
430 | 65,276 | 7.8291 | 2 | 3 | 6 | 10 | 16
431 | 314 | 6.8248 | 1 | 2 | 4 | 7 | 12
432 | 451 | 4.0111 | 1 | 2 | 3 | 4 | 7
433 | 5,554 | 3.1300 | 1 | 1 | 2 | 4 | 6
439 | 1,520 | 8.1855 | 1 | 3 | 5 | 9 | 17
440 | 5,771 | 9.0806 | 2 | 3 | 6 | 11 | 19
441 | 677 | 3.1374 | 1 | 1 | 2 | 4 | 6
442 | 17,571 | 8.5218 | 1 | 3 | 6 | 10 | 18
443 | 3,920 | 3.3663 | 1 | 1 | 3 | 4 | 7
444 | 5,754 | 4.2011 | 1 | 2 | 3 | 5 | 8
445 | 2,546 | 2.8610 | 1 | 1 | 2 | 4 | 5
447 | 6,514 | 2.5091 | 1 | 1 | 2 | 3 | 5
448 | 1 | 1.0000 | 1 | 1 | 1 | 1 | 1
449 | 33,181 | 3.7059 | 1 | 1 | 3 | 4 | 7
450 | 7,441 | 1.9790 | 1 | 1 | 1 | 2 | 4
451 | 1 | 1.0000 | 1 | 1 | 1 | 1 | 1
452 | 25,679 | 4.9178 | 1 | 2 | 3 | 6 | 10
453 | 5,687 | 2.7579 | 1 | 1 | 2 | 3 | 5
454 | 4,792 | 4.2398 | 1 | 2 | 3 | 5 | 8
455 | 1,070 | 2.4140 | 1 | 1 | 2 | 3 | 5
461 | 5,216 | 3.5861 | 1 | 1 | 2 | 4 | 8
462 | 9,650 | 10.8636 | 4 | 6 | 9 | 14 | 20
463 | 27,061 | 4.0439 | 1 | 2 | 3 | 5 | 8
464 | 7,232 | 2.9887 | 1 | 1 | 2 | 4 | 6
465 | 200 | 3.9100 | 1 | 1 | 1 | 3 | 6
466 | 1,737 | 4.0219 | 1 | 1 | 2 | 4 | 7
467 | 1,141 | 3.0035 | 1 | 1 | 2 | 3 | 6
468 | 52,318 | 12.7674 | 3 | 6 | 10 | 16 | 25
471 | 13,363 | 5.3722 | 3 | 3 | 4 | 6 | 8
473 | 8,095 | 12.4119 | 2 | 3 | 7 | 17 | 32
475 | 109,726 | 11.1546 | 2 | 5 | 9 | 15 | 22
476 | 3,657 | 11.0941 | 2 | 5 | 10 | 15 | 21
477 | 25,400 | 8.1660 | 1 | 3 | 6 | 11 | 17
478 | 108,112 | 7.3110 | 1 | 3 | 5 | 9 | 15
479 | 24,051 | 3.1906 | 1 | 1 | 2 | 4 | 7
480 | 611 | 21.0638 | 6 | 8 | 12 | 22 | 47
481 | 865 | 21.7584 | 13 | 17 | 20 | 25 | 33
482 | 5,296 | 12.5015 | 4 | 6 | 9 | 15 | 24
483 | 45,427 | 39.2033 | 15 | 22 | 33 | 48 | 70
484 | 336 | 14.5744 | 2 | 6 | 11 | 21 | 28
485 | 3,220 | 9.8264 | 4 | 5 | 7 | 11 | 19
486 | 2,094 | 12.7612 | 1 | 6 | 10 | 17 | 26
487 | 3,731 | 7.1702 | 1 | 3 | 6 | 9 | 15
488 | 769 | 16.9129 | 4 | 7 | 13 | 22 | 36
489 | 13,373 | 8.5374 | 2 | 3 | 6 | 10 | 17
490 | 5,462 | 5.4888 | 1 | 2 | 4 | 7 | 11
491 | 15,370 | 3.3853 | 1 | 2 | 3 | 4 | 6
492 | 3,140 | 14.9239 | 3 | 5 | 7 | 25 | 33
493 | 59,615 | 5.9843 | 1 | 3 | 5 | 8 | 11
494 | 28,880 | 2.5293 | 1 | 1 | 2 | 3 | 5
495 | 192 | 16.4167 | 7 | 9 | 12 | 19 | 31
496 | 2,479 | 8.8709 | 3 | 4 | 6 | 11 | 18
497 | 21,955 | 6.2773 | 3 | 4 | 5 | 7 | 11
498 | 15,754 | 4.0072 | 2 | 3 | 4 | 5 | 6
499 | 34,688 | 4.5204 | 1 | 2 | 3 | 6 | 9
500 | 49,936 | 2.4069 | 1 | 1 | 2 | 3 | 4
501 | 2,608 | 10.6031 | 4 | 5 | 8 | 13 | 20
502 | 771 | 6.1647 | 3 | 4 | 5 | 7 | 11
503 | 5,970 | 3.9084 | 1 | 2 | 3 | 5 | 7
504 | 125 | 27.6560 | 7 | 13 | 21 | 37 | 55
505 | 134 | 5.6567 | 1 | 1 | 1 | 5 | 11
506 | 919 | 16.8836 | 4 | 7 | 13 | 21 | 35
507 | 341 | 9.0411 | 2 | 4 | 7 | 13 | 19
508 | 631 | 7.8051 | 2 | 3 | 5 | 10 | 17
509 | 160 | 4.2688 | 1 | 2 | 3 | 5 | 9
510 | 1,651 | 6.7274 | 1 | 3 | 5 | 8 | 15
511 | 581 | 4.6076 | 1 | 1 | 3 | 6 | 10
512 | 481 | 13.1185 | 6 | 8 | 10 | 15 | 23
513 | 207 | 9.7585 | 5 | 6 | 8 | 10 | 15
515 | 8,131 | 5.1646 | 1 | 1 | 3 | 7 | 12
516 | 84,846 | 4.6338 | 2 | 2 | 4 | 5 | 9
517 | 198,743 | 2.5406 | 1 | 1 | 1 | 3 | 5
518 | 56,613 | 3.2508 | 1 | 1 | 2 | 4 | 7
519 | 9,004 | 5.1313 | 1 | 1 | 3 | 6 | 12
520 | 13,003 | 2.1170 | 1 | 1 | 2 | 2 | 4
521 | 30,898 | 5.7395 | 2 | 3 | 4 | 7 | 11
522 | 6,069 | 9.5670 | 4 | 5 | 8 | 12 | 20
523 | 15,456 | 4.0538 | 1 | 2 | 3 | 5 | 7
524 | 132,651 | 3.3690 | 1 | 2 | 3 | 4 | 6
525 | 571 | 17.2907 | 1 | 4 | 9 | 18 | 37
528 | 1,354 | 17.0990 | 6 | 10 | 15 | 22 | 31
529 | 4,687 | 10.5078 | 2 | 3 | 7 | 14 | 24
530 | 2,842 | 3.9170 | 1 | 2 | 3 | 5 | 8
531 | 3,802 | 9.9408 | 2 | 4 | 7 | 13 | 21
532 | 2,910 | 3.9704 | 1 | 1 | 3 | 5 | 8
533 | 43,264 | 4.1077 | 1 | 1 | 2 | 5 | 9
534 | 52,354 | 2.0108 | 1 | 1 | 1 | 2 | 4
535 | 6,005 | 10.9189 | 2 | 5 | 9 | 14 | 21
536 | 20,565 | 5.7310 | 1 | 2 | 4 | 8 | 12
537 | 6,870 | 7.0199 | 1 | 3 | 5 | 9 | 14
538 | 6,442 | 2.8788 | 1 | 1 | 2 | 4 | 6
539 | 4,472 | 11.1456 | 2 | 4 | 8 | 15 | 24
540 | 1,899 | 4.0590 | 1 | 1 | 3 | 5 | 8
| 11,713,347

Table 8A.—Statewide Average Operating Cost-To-Charge Ratios for Urban and Rural Hospitals (Case Weighted)—March 2003
State | Urban | Rural
Alabama | 0.326 | 0.393
Alaska | 0.401 | 0.662
Arizona | 0.334 | 0.453
Arkansas | 0.424 | 0.413
California | 0.322 | 0.411
Colorado | 0.408 | 0.532
Connecticut | 0.501 | 0.538
Delaware | 0.592 | 0.483
District of Columbia | 0.382 |
Florida | 0.330 | 0.344
Georgia | 0.449 | 0.444
Hawaii | 0.402 | 0.447
Idaho | 0.541 | 0.518
Illinois | 0.384 | 0.476
Indiana | 0.486 | 0.523
Iowa | 0.456 | 0.587
Kansas | 0.376 | 0.558
Kentucky | 0.458 | 0.462
Louisiana | 0.383 | 0.459
Maine | 0.542 | 0.499
Maryland | 0.760 | 0.820
Massachusetts | 0.499 | 0.553
Michigan | 0.438 | 0.534
Minnesota | 0.460 | 0.619
Mississippi | 0.431 | 0.419
Missouri | 0.389 | 0.459
Montana | 0.510 | 0.516
Nebraska | 0.415 | 0.525
Nevada | 0.284 | 0.461
New Hampshire | 0.523 | 0.587
New Jersey | 0.343 |
New Mexico | 0.473 | 0.479
New York | 0.470 | 0.579
North Carolina | 0.503 | 0.468
North Dakota | 0.640 | 0.628
Ohio | 0.481 | 0.567
Oklahoma | 0.371 | 0.466
Oregon | 0.525 | 0.568
Pennsylvania | 0.367 | 0.497
Puerto Rico | 0.479 | 0.569
Rhode Island | 0.484 |
South Carolina | 0.435 | 0.452
South Dakota | 0.484 | 0.535
Tennessee | 0.411 | 0.434
Texas | 0.373 | 0.477
Utah | 0.481 | 0.581
Vermont | 0.522 | 0.596
Virginia | 0.428 | 0.499
Washington | 0.532 | 0.581
West Virginia | 0.572 | 0.545
Wisconsin | 0.509 | 0.583
Wyoming | 0.442 | 0.618

Table 8B.—Statewide Average Capital Cost-to-Charge Ratios (Case Weighted)—March 2003
State | Ratio
Alabama | 0.040
Alaska | 0.053
Arizona | 0.033
Arkansas | 0.042
California | 0.031
Colorado | 0.043
Connecticut | 0.036
Delaware | 0.050
District of Columbia | 0.026
Florida | 0.039
Georgia | 0.047
Hawaii | 0.041
Idaho | 0.045
Illinois | 0.037
Indiana | 0.051
Iowa | 0.046
Kansas | 0.045
Kentucky | 0.045
Louisiana | 0.043
Maine | 0.035
Maryland | 0.013
Massachusetts | 0.049
Michigan | 0.043
Minnesota | 0.042
Mississippi | 0.041
Missouri | 0.040
Montana | 0.049
Nebraska | 0.047
Nevada | 0.032
New Hampshire | 0.059
New Jersey | 0.030
New Mexico | 0.044
New York | 0.047
North Carolina | 0.046
North Dakota | 0.065
Ohio | 0.044
Oklahoma | 0.040
Oregon | 0.043
Pennsylvania | 0.035
Puerto Rico | 0.043
Rhode Island | 0.033
South Carolina | 0.046
South Dakota | 0.051
Tennessee | 0.046
Texas | 0.043
Utah | 0.046
Vermont | 0.046
Virginia | 0.048
Washington | 0.052
West Virginia | 0.045
Wisconsin | 0.050
Wyoming | 0.050

Table 9.—Hospital Reclassifications and Redesignations by Individual Hospital—FY 2004
Provider No. | Actual MSA or rural area | Wage index MSA reclassification | Standardized amount MSA reclassification
010005 | 01 | 3440 | 3440
010008 | 01 | 5240 |
010010 | 01 | 3440 | 3440
010012 | 01 | 2880 |
010022 | 01 | 2880 |
010029 | 0580 | 1800 |
010035 | 01 | 1000 |
010036 | 01 | 2750 |
010043 | 01 | 1000 | 1000
010044 | 01 | 25 |
010072 | 01 | 0450 | 0450
010089 | 01 | 1000 |
010101 | 01 | 0450 | 0450
010118 | 01 | 5240 |
010120 | 01 | 5160 |
010121 | 01 | 5240 |
010126 | 01 | 2180 |
010150 | 01 | 5240 |
010158 | 01 | 2030 |
020008 | 02 | 0380 |
030007 | 03 | 2620 |
030012 | 03 | 6200 |
030033 | 03 | 2620 |
030043 | 03 | 8520 |
040014 | 04 | 4400 |
040017 | 04 | 26 |
040019 | 04 | 4920 |
040020 | 3700 | 4920 |
040026 | 04 | 4400 |
040027 | 04 | 7920 |
040041 | 04 | 4400 |
040066 | 04 | 4400 |
040069 | 04 | 4920 |
040072 | 04 | 4400 |
040076 | 04 | 4400 |
040078 | 04 | 4400 |
040080 | 04 | 3700 |
040088 | 04 | 7680 |
040091 | 04 | 8360 |
040107 | 04 | 8360 |
040119 | 04 | 4400 |
050042 | 05 | 6690 |
050045 | 05 |  | 7320
050071 | 7400 | 5775 |
050073 | 8720 | 5775 |
050101 | 8720 | 5775 |
050150 | 05 | 6920 |
050174 | 7500 | 8720 |
050228 | 7360 | 5775 |
050230 | 5945 | 4480 |
050236 | 8735 |  | 4480
050236 | 8735 | 4480 |
050251 | 05 | 6720 |
050296 | 05 | 7120 |
050325 | 05 | 5170 |
050335 | 05 | 5170 |
050419 | 05 | 6690 |
050457 | 7360 | 5775 |
050464 | 5170 | 8120 |
050494 | 05 | 6920 |
050510 | 7360 | 5775 |
050541 | 7360 | 5775 |
050549 | 8735 | 4480 |
050569 | 05 | 7500 |
050594 | 5945 | 4480 |
050609 | 5945 | 4480 |
050668 | 7360 | 5775 |
050686 | 6780 | 5945 |
060001 | 3060 | 2080 | 2080
060003 | 1125 | 2080 | 2080
060013 | 06 | 0200 |
060023 | 2995 | 6520 |
060027 | 1125 | 2080 | 2080
060044 | 06 | 2080 |
060049 | 06 | 2080 |
060057 | 06 | 2995 |
060075 | 06 | 2995 |
060076 | 06 | 3060 |
060096 | 06 | 2080 |
060103 | 1125 | 2080 | 2080
070006 | 5483 | 5600 |
070018 | 5483 | 5600 |
070033 | 5483 | 5600 |
070034 | 5483 | 5600 |
070036 | 3283 | 5483 |
080002 | 08 |  | 0720
080004 | 2190 | 9160 |
080006 | 08 | 2190 |
080007 | 08 | 0560 |
100022 | 5000 | 2680 |
100023 | 10 | 5960 |
100024 | 10 | 5000 |
100045 | 2020 |  | 5960
100049 | 10 | 3980 |
100098 | 10 | 8960 | 8960
100103 | 10 | 3600 | 3600
100105 | 10 | 4900 |
100109 | 10 | 5960 |
100150 | 10 | 5000 |
100176 | 8960 | 2710 |
100211 | 8280 | 3980 |
100232 | 10 | 5790 | 2900
100239 | 8280 | 7510 |
100249 | 10 | 8280 |
100268 | 8960 | 2680 |
110001 | 11 |  | 0520
110001 | 11 | 0520 |
110002 | 11 | 0520 |
110003 | 11 | 3600 |
110016 | 11 | 1800 |
110023 | 11 | 0520 |
110025 | 11 |  | 3600
110025 | 11 | 3600 |
110029 | 11 | 0520 |
110038 | 11 | 10 |
110040 | 11 | 0500 | 0500
110041 | 11 | 0500 |
110050 | 11 | 0520 |
110054 | 11 | 0520 |
110074 | 0500 |  | 0520
110075 | 11 | 7520 |
110118 | 11 | 0120 |
110122 | 11 | 10 |
110150 | 11 | 4680 |
110168 | 11 | 0520 |
110187 | 11 | 0520 |
110188 | 11 | 0520 |
110189 | 11 | 0520 |
110205 | 11 | 0520 |
120028 | 12 | 3320 |
130002 | 13 | 6340 |
130003 | 13 | 50 |
130011 | 13 | 50 |
130018 | 13 | 6340 |
130026 | 13 | 6340 |
130028 | 6340 | 7160 |
130049 | 13 | 7840 |
130060 | 13 | 1080 |
140014 | 6120 | 1040 |
140015 | 14 | 7040 |
140027 | 14 | 1960 |
140031 | 14 | 1400 |
140032 | 14 | 7040 |
140034 | 14 | 7040 | 7040
140040 | 14 | 6120 |
140043 | 14 | 6880 |
140046 | 14 | 7040 |
140058 | 14 | 7880 |
140064 | 14 | 1960 |
140086 | 14 | 7040 | 7040
140093 | 14 | 1400 |
140102 | 14 | 7880 | 7880
140110 | 14 | 6120 |
140141 | 14 | 7040 | 7040
140143 | 14 | 6120 |
140160 | 14 | 6880 |
140161 | 14 | 1600 |
140164 | 14 | 7040 |
140189 | 14 | 1400 |
140230 | 14 | 1400 | 1400
140234 | 14 | 6120 |
140245 | 14 |  | 7040
140271 | 14 | 7800 | 7800
150002 | 2960 | 1600 | 1600
150004 | 2960 | 1600 | 1600
150006 | 15 | 7800 |
150008 | 2960 | 1600 | 1600
150011 | 15 | 3480 | 3480
150015 | 15 | 1600 | 1600
150027 | 15 |  | 3480
150030 | 15 | 3480 | 3480
150034 | 2960 | 1600 | 1600
150036 | 15 | 3850 |
150048 | 15 | 3200 |
150051 | 1020 |  | 3480
150062 | 15 | 3480 | 3480
150065 | 15 | 3480 |
150067 | 15 |  | 3480
150069 | 15 | 1640 | 1640
150076 | 15 | 7800 |
150090 | 2960 | 1600 | 1600
150096 | 15 | 2330 |
150102 | 15 | 7800 |
150105 | 15 | 3480 |
150112 | 15 | 3480 | 3480
150125 | 2960 | 1600 | 1600
150126 | 2960 | 1600 | 1600
150127 | 15 | 3480 |
150132 | 2960 | 1600 | 1600
150133 | 15 | 2330 |
150146 | 15 | 2330 |
150147 | 2960 | 1600 | 1600
160001 | 16 | 2120 |
160016 | 16 | 2120 |
160026 | 16 | 2120 |
160030 | 16 | 2120 |
160037 | 16 | 24 |
160057 | 16 | 3500 |
160064 | 16 | 24 |
160080 | 16 | 6880 |
160088 | 16 | 2120 |
160089 | 16 | 2120 |
160094 | 16 | 8920 |
160122 | 16 | 14 |
160147 | 16 | 2120 |
170001 | 17 | 9040 |
170006 | 17 | 3710 |
170010 | 17 | 8560 |
170012 | 17 | 9040 |
170013 | 17 | 9040 |
170014 | 17 | 3760 |
170020 | 17 | 9040 |
170022 | 17 | 7000 |
170023 | 17 | 9040 |
170025 | 17 | 9040 |
170033 | 17 | 9040 |
170045 | 17 | 8440 |
170058 | 17 | 3710 |
170060 | 17 | 28 |
170089 | 17 | 0320 |
170094 | 17 | 8440 |
170120 | 17 | 3710 |
170131 | 17 | 8440 | 8440
170142 | 17 | 8440 |
170145 | 17 | 8560 |
170166 | 17 | 0320 |
170175 | 17 | 9040 |
180005 | 18 | 3400 |
180011 | 18 | 4280 |
180012 | 18 | 4520 |
180013 | 18 | 5360 |
180016 | 18 | 4520 |
180018 | 18 | 4280 |
180027 | 18 | 1660 |
180028 | 18 | 3400 |
180029 | 18 | 3660 |
180044 | 18 | 3400 |
180048 | 18 | 4280 |
180054 | 18 | 1660 |
180066 | 18 | 5360 |
180069 | 18 | 3400 |
180078 | 18 | 3400 |
180102 | 18 | 1660 |
180104 | 18 | 1660 |
180116 | 18 | 1660 |
180124 | 18 | 5360 |
180125 | 18 | 3400 |
180127 | 18 | 4520 |
180132 | 18 | 4280 |
180139 | 18 | 4280 |
190001 | 19 |  | 5560
190003 | 19 | 3880 |
190010 | 19 | 5560 |
190015 | 19 | 5560 |
190025 | 19 | 3880 |
190049 | 19 |  | 5560
190054 | 19 | 3880 |
190083 | 19 | 5200 |
190086 | 19 | 5200 |
190099 | 19 | 3880 |
190106 | 19 | 3880 |
190131 | 19 | 5560 |
190218 | 19 | 0220 |
200002 | 20 | 6403 |
200020 | 6403 | 1123 | 1123
200024 | 4243 | 6403 |
200034 | 4243 | 6403 |
200039 | 20 | 6403 |
200040 | 6403 |  | 1123
200050 | 20 | 0733 |
200063 | 20 | 6403 |
220060 | 1123 | 0743 |
220077 | 8003 | 3283 |
220123 | 22 | 0743 |
230022 | 23 | 0440 |
230027 | 23 | 3000 | 3000
230030 | 23 | 6960 |
230036 | 23 | 6960 |
230037 | 23 | 0440 |
230040 | 23 | 3720 | 3000
230054 | 23 | 3080 |
230080 | 23 | 6960 |
230093 | 23 | 3000 |
230096 | 23 | 3720 |
230097 | 23 | 3000 |
230105 | 23 | 6960 |
230106 | 23 | 3000 |
230121 | 23 | 2640 | 2640
230188 | 23 | 6960 | 6960
230199 | 23 | 0870 | 0870
230235 | 23 | 6960 | 6960
230253 | 23 | 2160 |
240011 | 24 | 5120 | 5120
240013 | 24 | 5120 |
240014 | 24 | 5120 |
240016 | 24 | 2520 |
240018 | 24 |  | 5120
240023 | 24 | 5120 |
240045 | 24 | 2240 |
240052 | 24 | 2520 |
240064 | 24 | 2240 |
240069 | 24 | 6820 |
240071 | 24 |  | 5120
240072 | 24 | 2240 |
240075 | 24 | 6980 |
240088 | 24 | 6980 |
240089 | 24 | 5120 |
240100 | 24 | 2985 |
240119 | 24 | 2240 |
240121 | 24 | 2240 |
240139 | 24 | 5120 |
240142 | 24 | 6980 |
240152 | 24 | 5120 |
240187 | 24 | 5120 |
250002 | 25 | 2650 |
250004 | 25 | 4920 |
250009 | 25 | 3580 |
250025 | 25 | 01 |
250030 | 25 | 3560 |
250031 | 25 | 3560 |
250034 | 25 | 4920 |
250042 | 25 | 4920 |
250058 | 25 | 3285 |
250078 | 3285 | 0920 |
250079 | 25 | 3560 |
250081 | 25 | 3560 |
250082 | 25 | 6240 |
250084 | 25 | 19 |
250088 | 25 | 0760 |
250094 | 3285 | 0920 |
250097 | 25 | 0760 |
250100 | 25 | 8600 |
250101 | 25 | 3560 |
250104 | 25 | 3560 |
250122 | 25 | 19 |
250126 | 25 | 4920 |
260009 | 26 | 3760 |
260011 | 26 | 1740 |
260015 | 26 | 3700 |
260017 | 26 | 7040 |
260022 | 26 | 1740 |
260025 | 26 | 7040 |
260034 | 26 | 3760 |
260047 | 26 | 1740 |
260064 | 26 | 1740 |
260074 | 26 | 1740 |
260078 | 26 | 7920 |
260094 | 26 | 7920 |
260110 | 26 | 7040 | 7040
260113 | 26 | 14 |
260116 | 26 | 7040 |
260119 | 26 | 3700 |
260120 | 26 | 3700 |
260127 | 26 | 7040 |
260131 | 26 | 1740 |
260164 | 26 |  | 7040
260183 | 26 | 7040 |
260186 | 26 | 1740 |
270002 | 27 | 0880 |
270003 | 27 | 3040 |
270011 | 27 | 3040 |
270017 | 27 | 5140 |
270051 | 27 | 5140 |
270057 | 27 | 0880 |
270082 | 27 | 3040 |
280009 | 28 | 4360 |
280023 | 28 | 4360 |
280032 | 28 | 4360 |
280054 | 28 | 4360 |
280058 | 28 | 4360 |
280061 | 28 | 53 |
280065 | 28 | 3060 |
280077 | 28 | 5920 |
280111 | 28 | 5920 |
280125 | 28 | 7720 |
290006 | 29 | 6720 |
290008 | 29 | 4120 |
300003 | 30 | 1123 |
300005 | 30 | 1123 |
300019 | 30 | 1123 | 1123
300024 | 30 |  | 1123
310001 | 0875 | 5600 |
310002 | 5640 | 5600 |
310003 | 3640 | 5600 |
310015 | 5640 | 0875 |
310021 | 8480 | 5190 |
310031 | 6160 | 5190 |
310032 | 8760 | 6160 | 6160
310038 | 5015 | 5600 |
310045 | 0875 | 5600 |
310047 | 0560 | 6160 |
310048 | 5015 | 5640 |
310064 | 0560 | 6160 |
310070 | 5015 | 5600 |
310076 | 5640 | 5600 |
310087 | 8760 | 6160 |
310088 | 0560 | 6160 |
310119 | 5640 | 5600 |
320005 | 32 | 0200 |
320006 | 32 | 7490 |
320011 | 32 | 7490 |
320013 | 32 | 7490 |
320063 | 32 | 5800 |
320065 | 32 | 5800 |
330001 | 5660 | 0875 | 0875
330004 | 33 | 2281 |
330023 | 2281 | 5660 | 5600
330027 | 5380 | 5600 |
330084 | 33 | 1303 |
330085 | 33 | 8160 |
330103 | 33 |  | 1280
330106 | 5380 | 5600 |
330126 | 5660 | 0875 | 0875
330135 | 5660 | 0875 | 0875
330136 | 33 | 8160 |
330157 | 33 | 8160 |
330181 | 5380 | 5600 |
330182 | 5380 | 5600 |
330205 | 5660 | 0875 | 0875
330209 | 5660 | 0875 | 0875
330224 | 33 | 3283 |
330235 | 8160 |  | 6840
330239 | 3610 | 2360 |
330250 | 33 | 1303 |
330264 | 5660 | 0875 | 0875
330307 | 33 | 8160 |
330386 | 33 | 5660 |
340003 | 34 | 3120 |
340008 | 34 | 2560 |
340010 | 2980 | 6640 |
340013 | 34 | 1520 |
340017 | 34 | 0480 |
340021 | 34 | 1520 |
340023 | 34 | 0480 |
340027 | 34 | 3150 |
340039 | 34 |  | 1520
340050 | 34 | 2560 |
340051 | 34 | 3290 |
340052 | 3120 | 1520 |
340064 | 34 | 3120 |
340068 | 34 | 9200 |
340071 | 34 | 6640 | 6640
340088 | 34 | 0480 |
340109 | 34 | 5720 | 5720
340115 | 34 | 6640 | 6640
340124 | 34 | 6640 | 6640
340126 | 34 | 6640 | 6640
340131 | 34 | 3150 |
340143 | 3290 | 1520 |
340147 | 6895 | 6640 |
350003 | 35 | 1010 |
350005 | 35 | 2985 |
350006 | 35 | 1010 |
350008 | 35 | 1010 |
350009 | 35 | 2520 |
350038 | 35 | 2985 |
360002 | 36 |  | 1680
360008 | 36 | 3400 |
360010 | 36 | 0080 |
360011 | 36 | 1840 | 1840
360013 | 36 | 2000 |
360014 | 36 | 1840 |
360024 | 36 | 1680 | 1680
360025 | 36 | 1680 | 1680
360036 | 36 | 0080 |
360037 | 1680 | 0080 |
360039 | 36 | 1840 | 1840
360046 | 3200 |  | 1640
360054 | 36 | 1480 |
360056 | 3200 |  | 1640
360063 | 36 | 1680 |
360065 | 36 | 1680 | 1680
360071 | 36 | 4320 | 4320
360076 | 3200 |  | 1640
360078 | 0080 | 1680 | 1680
360081 | 8400 |  | 2160
360084 | 1320 | 0080 |
360088 | 36 | 1840 |
360090 | 8400 |  | 2160
360092 | 36 | 1840 | 1840
360095 | 36 | 8400 |
360107 | 36 | 8400 |
360109 | 36 | 1840 | 1840
360112 | 8400 | 0440 |
360121 | 36 | 0440 |
360132 | 3200 |  | 1640
360142 | 36 |  | 1640
360144 | 1680 | 0080 |
360150 | 0080 |  | 1680
360159 | 36 | 1840 |
360175 | 36 | 3200 |
360186 | 36 | 1640 |
360197 | 36 | 1840 | 1840
360211 | 8080 |  | 6280
370004 | 37 | 3710 |
370006 | 37 | 8560 |
370014 | 37 | 7640 |
370015 | 37 | 8560 |
370018 | 37 | 8560 |
370022 | 37 | 4200 |
370023 | 37 | 4200 |
370025 | 37 | 8560 |
370034 | 37 | 2720 |
370047 | 37 | 7640 |
370048 | 37 | 8360 |
370049 | 37 | 5880 |
370054 | 37 | 5880 |
370084 | 37 | 2720 |
370103 | 37 | 45 |
370153 | 37 | 4200 |
370200 | 37 | 5880 |
380001 | 38 | 6440 |
380002 | 38 | 4890 |
380006 | 38 |  | 6440
380022 | 38 | 1890 |
380027 | 38 | 2400 |
380040 | 38 | 2400 |
380047 | 38 | 2400 |
380050 | 38 | 4890 |
380051 | 7080 |  | 6440
380065 | 38 | 2400 |
380070 | 38 | 6440 |
380090 | 38 | 2400 |
390006 | 39 | 3240 |
390008 | 39 | 6280 | 6280
390013 | 39 | 3240 |
390016 | 39 | 6280 | 6280
390017 | 39 | 6280 | 6280
390030 | 39 | 6680 | 6680
390031 | 39 | 6680 | 6680
390048 | 39 | 3240 |
390052 | 39 | 0280 |
390065 | 39 | 9280 | 9280
390079 | 39 | 0960 |
390091 | 39 | 6280 |
390093 | 39 | 6280 |
390110 | 3680 | 6280 |
390113 | 39 | 9320 |
390133 | 0240 | 6160 |
390138 | 39 | 8840 |
390150 | 39 | 6280 |
390151 | 39 | 8840 |
390163 | 39 | 6280 |
390181 | 39 | 6680 | 6680
390183 | 39 | 6680 | 6680
390189 | 39 | 3240 |
390197 | 0240 | 6160 |
390201 | 39 | 5640 | 5640
390263 | 0240 | 6160 |
400018 | 40 | 1310 |
410001 | 6483 | 1123 | 1123
410004 | 6483 | 1123 | 1123
410005 | 6483 | 1123 | 1123
410006 | 6483 | 1123 | 1123
410007 | 6483 | 1123 | 1123
410008 | 6483 | 1123 | 1123
410009 | 6483 | 1123 | 1123
410010 | 6483 | 1123 | 1123
410011 | 6483 | 1123 | 1123
410012 | 6483 | 1123 | 1123
410013 | 6483 | 1123 | 1123
420020 | 42 | 1440 |
420030 | 42 | 1440 |
420036 | 42 | 1520 |
420059 | 42 | 2655 |
420062 | 42 | 1520 |
420068 | 42 | 0600 |
420070 | 8140 | 1760 |
420071 | 42 | 0600 |
420080 | 42 | 7520 |
420085 | 5330 | 9200 |
430004 | 43 | 6660 |
430008 | 43 | 24 |
430012 | 43 | 7760 |
430013 | 43 | 7760 |
430014 | 43 | 2520 |
430015 | 43 | 6660 |
430047 | 43 | 28 |
430048 | 43 | 53 |
430089 | 43 | 7720 |
440008 | 44 | 3580 |
440020 | 44 | 3440 |
440024 | 44 | 1560 |
440050 | 44 | 0480 |
440058 | 44 | 1560 |
440059 | 44 | 5360 |
440060 | 44 | 3580 |
440067 | 44 | 3840 |
440068 | 44 | 3840 |
440072 | 44 | 4920 |
440073 | 44 | 5360 |
440148 | 44 | 5360 |
440175 | 44 | 3440 |
440180 | 44 | 3840 |
440185 | 44 | 1560 |
440186 | 44 | 5360 |
440187 | 44 | 18 |
440192 | 44 | 5360 |
440200 | 44 | 5360 |
440203 | 44 | 1560 |
450007 | 45 | 7240 |
450014 | 45 | 8750 |
450080 | 45 | 4420 |
450085 | 45 | 9080 |
450098 | 45 | 4420 |
450099 | 45 | 0320 |
450140 | 45 | 5800 |
450144 | 45 | 5800 |
450146 | 45 | 0320 |
450163 | 45 | 1880 |
450178 | 45 | 5800 |
450187 | 45 | 3360 |
450192 | 45 | 1920 |
450194 | 45 | 1920 |
450196 | 45 | 1920 |
450211 | 45 | 3360 |
450214 | 45 | 3360 |
450224 | 45 | 8640 |
450347 | 45 | 3360 |
450351 | 45 | 2800 |
450353 | 45 | 1880 |
450373 | 45 | 4420 |
450395 | 45 | 3360 |
450400 | 45 | 8800 |
450438 | 45 | 0640 |
450447 | 45 | 1920 |
450451 | 45 | 2800 |
450484 | 45 | 3360 |
450508 | 45 | 8640 |
450534 | 45 | 0320 |
450623 | 45 | 1920 |
450626 | 45 | 8750 |
450653 | 45 | 5800 |
450656 | 45 | 8640 |
450694 | 45 | 3360 |
450747 | 45 | 1920 |
450755 | 45 | 4600 |
450763 | 45 | 0320 |
450770 | 45 | 0640 |
460011 | 46 | 6520 |
460021 | 46 | 4120 |
460027 | 46 | 6520 |
460032 | 46 | 6520 |
460036 | 46 | 6520 |
460039 | 46 | 7160 |
470001 | 47 | 30 |
470011 | 47 | 1123 | 1123
470012 | 47 | 6323 |
470018 | 47 | 1123 | 1123
490001 | 49 | 3660 |
490004 | 49 | 1540 |
490005 | 49 | 8840 |
490013 | 49 | 4640 |
490018 | 49 | 4640 |
490038 | 49 | 3660 |
490047 | 49 | 8840 |
490066 | 5720 | 6760 |
490079 | 49 | 3120 | 3120
490126 | 49 | 6800 |
500002 | 50 | 6740 |
500003 | 50 | 7600 |
500007 | 50 | 0860 |
500016 | 50 | 7600 |
500031 | 50 | 5910 |
500041 | 50 | 6440 |
500059 | 50 | 7600 |
500072 | 50 | 7600 |
500079 | 8200 |  | 7600
510001 | 51 | 6280 |
510002 | 51 | 6800 |
510006 | 51 | 6280 |
510024 | 51 | 6280 | 6280
510028 | 51 | 1480 |
510046 | 51 | 1480 |
510047 | 51 | 6280 |
510048 | 51 | 3400 |
510062 | 51 | 1480 |
510070 | 51 | 1480 |
510071 | 51 | 1480 |
520002 | 52 | 8940 |
520006 | 52 | 8940 |
520011 | 52 | 2290 |
520021 | 3800 | 1600 | 1600
520028 | 52 | 4720 |
520032 | 52 | 4720 |
520037 | 52 | 8940 |
520059 | 6600 | 5080 | 5080
520066 | 3620 | 4720 |
520071 | 52 | 5080 | 5080
520076 | 52 | 4720 |
520084 | 52 | 4720 |
520088 | 52 | 5080 |
520091 | 52 | 23 |
520094 | 6600 | 5080 | 5080
520096 | 6600 | 5080 | 5080
520102 | 52 | 5080 | 5080
520107 | 52 | 3080 |
520113 | 52 | 3080 |
520116 | 52 | 5080 | 5080
520152 | 52 | 3080 |
520173 | 52 | 2240 |
520189 | 3800 | 1600 | 1600
530002 | 53 | 1350 |
530008 | 53 | 1350 |
530009 | 53 | 1350 |
530015 | 53 | 6340 |
530025 | 53 | 2670 |
530032 | 53 | 7160 |

Table 10.—Mean and Standard Deviation by Diagnosis-Related Groups (DRGS)—FY 2004 ¹
DRG | Cases | Mean + 1 standard deviation
1 | 23,157 | $71,862
2 | 11,535 | $41,916
3 | 3 | $57,168
6 | 350 | $15,743
7 | 14,489 | $55,309
8 | 4,031 | $33,403
9 | 1,677 | $27,210
10 | 18,339 | $25,124
11 | 3,244 | $17,654
12 | 51,660 | $17,776
13 | 6,919 | $16,312
14 | 233,816 | $24,738
15 | 92,167 | $19,059
16 | 9,810 | $25,016
17 | 2,700 | $13,796
18 | 29,250 | $20,071
19 | 8,385 | $14,298
20 | 6,112 | $57,114
21 | 1,869 | $30,726
22 | 2,746 | $21,754
23 | 11,062 | $16,410
24 | 58,122 | $19,963
25 | 26,945 | $12,212
26 | 18 | $22,836
27 | 4,348 | $27,026
28 | 13,770 | $26,999
29 | 5,226 | $14,276
30 | 2 | $19,365
31 | 3,834 | $18,092
32 | 1,866 | $11,256
34 | 23,474 | $19,760
35 | 7,325 | $12,760
36 | 2,079 | $11,821
37 | 1,351 | $21,123
38 | 94 | $9,781
39 | 547 | $12,494
40 | 1,508 | $17,526
42 | 1,553 | $14,008
43 | 93 | $11,353
44 | 1,185 | $13,306
45 | 2,622 | $14,326
46 | 3,418 | $16,038
47 | 1,373 | $10,908
49 | 2,341 | $34,744
50 | 2,385 | $15,810
51 | 241 | $16,991
52 | 216 | $15,789
53 | 2,435 | $23,943
55 | 1,458 | $18,384
56 | 458 | $16,976
57 | 700 | $21,430
59 | 113 | $16,063
61 | 249 | $24,772
62 | 2 | $20,652
63 | 2,964 | $28,015
64 | 3,064 | $27,189
65 | 39,700 | $11,389
66 | 7,690 | $11,535
67 | 379 | $15,758
68 | 11,373 | $12,869
69 | 3,665 | $9,805
70 | 29 | $6,582
71 | 79 | $13,057
72 | 949 | $13,674
73 | 7,561 | $16,376
75 | 42,731 | $60,129
76 | 43,909 | $56,525
77 | 2,427 | $23,987
78 | 38,870 | $24,907
79 | 165,957 | $32,680
80 | 7,866 | $16,846
81 | 5 | $20,229
82 | 63,317 | $28,781
83 | 6,565 | $19,177
84 | 1,552 | $10,644
85 | 21,981 | $24,242
86 | 2,201 | $13,781
87 | 60,101 | $27,456
88 | 396,200 | $17,702
89 | 523,048 | $20,511
90 | 47,344 | $11,871
91 | 44 | $14,737
92 | 15,549 | $24,280
93 | 1,738 | $14,448
94 | 12,597 | $22,970
95 | 1,622 | $12,263
96 | 55,628 | $14,761
97 | 28,174 | $10,803
98 | 9 | $14,090
99 | 20,984 | $13,983
100 | 8,129 | $10,369
101 | 21,861 | $17,290
102 | 5,503 | $10,797
103 | 484 | $378,244
104 | 20,223 | $150,559
105 | 28,716 | $108,046
106 | 3,432 | $136,812
107 | 81,816 | $99,133
108 | 6,341 | $109,106
109 | 56,282 | $73,253
110 | 53,777 | $81,343
111 | 9,323 | $49,746
113 | 39,244 | $56,405
114 | 8,198 | $33,220
115 | 19,499 | $69,161
116 | 114,338 | $44,903
117 | 4,622 | $27,878
118 | 8,168 | $31,457
119 | 1,211 | $27,147
120 | 37,745 | $46,550
121 | 161,616 | $30,683
122 | 75,737 | $19,715
123 | 38,021 | $32,143
124 | 133,344 | $27,371
125 | 90,371 | $20,832
126 | 5,309 | $51,405
127 | 663,251 | $20,085
128 | 7,042 | $14,239
129 | 3,774 | $20,775
130 | 87,289 | $18,660
131 | 26,583 | $11,113
132 | 140,158 | $12,462
133 | 8,475 | $10,723
134 | 40,649 | $11,970
135 | 7,697 | $17,958
136 | 1,166 | $11,432
138 | 204,872 | $16,521
139 | 86,072 | $10,173
140 | 54,193 | $10,288
141 | 107,180 | $14,813
142 | 51,782 | $11,382
143 | 245,795 | $10,741
144 | 93,108 | $24,851
145 | 7,201 | $11,714
146 | 10,627 | $52,920
147 | 2,602 | $29,373
148 | 132,078 | $67,116
149 | 19,892 | $27,061
150 | 20,888 | $57,096
151 | 5,067 | $25,243
152 | 4,490 | $37,305
153 | 2,025 | $21,509
154 | 27,969 | $82,200
155 | 6,498 | $25,001
156 | 4 | $16,997
157 | 8,150 | $25,875
158 | 4,273 | $12,709
159 | 17,842 | $26,972
160 | 11,973 | $15,839
161 | 10,620 | $22,659
162 | 6,290 | $12,519
163 | 8 | $9,397
164 | 5,322 | $45,313
165 | 2,297 | $22,967
166 | 4,142 | $27,527
167 | 4,013 | $16,618
168 | 1,406 | $26,010
169 | 802 | $14,782
170 | 15,473 | $57,315
171 | 1,495 | $23,568
172 | 30,878 | $28,013
173 | 2,414 | $15,971
174 | 247,933 | $19,856
175 | 34,337 | $11,032
176 | 13,301 | $21,548
177 | 8,939 | $18,108
178 | 3,315 | $13,584
179 | 12,973 | $21,773
180 | 88,999 | $19,227
181 | 26,699 | $10,651
182 | 268,140 | $16,395
183 | 89,558 | $11,492
184 | 69 | $9,542
185 | 5,256 | $17,532
186 | 6 | $17,504
187 | 609 | $15,462
188 | 82,829 | $22,197
189 | 12,856 | $12,176
190 | 75 | $16,578
191 | 9,340 | $88,382
192 | 1,299 | $36,558
193 | 4,733 | $68,254
194 | 638 | $31,775
195 | 3,957 | $59,356
196 | 969 | $30,122
197 | 17,996 | $50,435
198 | 5,289 | $23,379
199 | 1,609 | $48,963
200 | 1,069 | $62,346
201 | 2,100 | $75,551
202 | 26,307 | $26,667
203 | 29,543 | $28,095
204 | 64,510 | $22,991
205 | 27,001 | $24,271
206 | 2,015 | $14,280
207 | 32,214 | $22,980
208 | 9,967 | $13,150
209 | 394,702 | $35,979
210 | 121,348 | $33,587
211 | 29,657 | $22,493
212 | 9 | $31,925
213 | 9,818 | $37,689
216 | 8,691 | $41,935
217 | 17,092 | $61,011
218 | 23,524 | $30,313
219 | 19,672 | $19,359
223 | 13,125 | $20,384
224 | 11,574 | $14,926
225 | 6,390 | $22,849
226 | 5,793 | $30,350
227 | 4,783 | $15,628
228 | 2,495 | $22,908
229 | 1,245 | $13,667
230 | 2,430 | $25,765
232 | 809 | $18,306
233 | 9,829 | $40,036
234 | 5,300 | $24,173
235 | 5,032 | $14,695
236 | 39,468 | $13,922
237 | 1,748 | $11,857
238 | 8,729 | $27,480
239 | 45,525 | $20,661
240 | 11,846 | $26,301
241 | 3,110 | $12,646
242 | 2,542 | $23,380
243 | 94,969 | $15,031
244 | 14,423 | $14,330
245 | 5,746 | $9,757
246 | 1,473 | $11,896
247 | 20,113 | $11,410
248 | 13,674 | $17,154
249 | 12,784 | $13,336
250 | 3,727 | $14,018
251 | 2,332 | $9,097
253 | 21,753 | $14,893
254 | 10,593 | $8,759
256 | 6,586 | $16,469
257 | 15,517 | $16,712
258 | 15,055 | $13,056
259 | 3,486 | $17,996
260 | 4,160 | $12,825
261 | 1,747 | $17,565
262 | 653 | $18,615
263 | 22,868 | $41,675
264 | 3,819 | $21,268
265 | 4,031 | $31,156
266 | 2,516 | $17,172
267 | 238 | $20,021
268 | 895 | $23,309
269 | 9,688 | $35,630
270 | 2,743 | $16,079
271 | 18,989 | $20,610
272 | 5,658 | $20,167
273 | 1,313 | $12,601
274 | 2,264 | $24,353
275 | 223 | $12,616
276 | 1,304 | $13,267
277 | 98,858 | $17,235
278 | 31,750 | $10,661
279 | 10 | $15,979
280 | 17,551 | $13,991
281 | 7,377 | $9,589
283 | 5,976 | $14,555
284 | 1,992 | $8,504
285 | 6,869 | $41,732
286 | 2,477 | $39,318
287 | 6,166 | $37,798
288 | 5,471 | $41,746
289 | 6,830 | $18,048
290 | 9,803 | $16,847
291 | 58 | $13,308
292 | 6,420 | $55,995
293 | 356 | $28,741
294 | 96,631 | $15,356
295 | 3,475 | $16,050
296 | 275,298 | $17,000
297 | 47,552 | $9,995
298 | 109 | $9,503
299 | 1,253 | $18,904
300 | 18,462 | $22,372
301 | 3,554 | $12,547
302 | 8,653 | $61,825
303 | 21,521 | $46,383
304 | 12,430 | $47,807
305 | 3,009 | $23,106
306 | 6,967 | $24,014
307 | 1,983 | $11,422
308 | 7,203 | $31,717
309 | 4,094 | $17,613
310 | 24,593 | $22,507
311 | 7,407 | $11,963
312 | 1,502 | $21,429
313 | 547 | $13,534
314 | 2 | $815,660
315 | 33,535 | $41,732
316 | 117,415 | $26,424
317 | 1,994 | $16,978
318 | 5,685 | $24,541
319 | 403 | $14,083
320 | 184,548 | $17,149
321 | 30,606 | $11,011
322 | 49 | $9,127
323 | 19,641 | $16,239
324 | 6,874 | $9,611
325 | 9,136 | $13,204
326 | 2,696 | $8,569
327 | 7 | $7,111
328 | 732 | $15,295
329 | 93 | $10,358
331 | 50,553 | $21,469
332 | 4,905 | $12,274
333 | 254 | $19,142
334 | 10,300 | $27,789
335 | 12,490 | $19,981
336 | 35,495 | $16,280
337 | 29,140 | $10,776
338 | 929 | $23,997
339 | 1,460 | $22,362
341 | 3,545 | $25,849
342 | 686 | $14,916
344 | 3,549 | $26,710
345 | 1,354 | $22,352
346 | 4,775 | $21,343
347 | 308 | $11,845
348 | 3,361 | $15,104
349 | 604 | $9,831
350 | 6,602 | $14,657
352 | 945 | $14,499
353 | 2,491 | $35,744
354 | 7,324 | $28,230
355 | 5,481 | $16,312
356 | 25,562 | $14,230
357 | 5,570 | $44,892
358 | 21,321 | $22,339
359 | 31,420 | $14,957
360 | 15,538 | $16,445
361 | 339 | $21,352
362 | 5 | $16,578
363 | 2,471 | $18,875
364 | 1,610 | $18,054
365 | 1,815 | $42,185
366 | 4,504 | $25,764
367 | 477 | $11,799
368 | 3,503 | $23,599
369 | 3,419 | $12,532
370 | 1,327 | $18,299
371 | 1,662 | $11,458
372 | 927 | $10,237
373 | 4,076 | $6,914
374 | 89 | $13,913
376 | 316 | $11,055
377 | 47 | $21,747
378 | 171 | $14,743
379 | 349 | $7,238
380 | 98 | $8,554
381 | 188 | $10,611
382 | 48 | $4,333
383 | 1,956 | $10,030
384 | 129 | $7,214
385 | 3 | $34,210
389 | 12 | $23,975
392 | 2,248 | $66,268
394 | 2,567 | $38,588
395 | 105,976 | $16,486
396 | 17 | $16,006
397 | 18,727 | $25,519
398 | 17,860 | $24,884
399 | 1,671 | $13,548
401 | 5,768 | $59,903
402 | 1,454 | $22,863
403 | 31,365 | $37,680
404 | 4,277 | $18,437
406 | 2,391 | $53,929
407 | 634 | $24,003
408 | 2,081 | $44,985
409 | 2,127 | $25,574
410 | 28,001 | $21,908
411 | 7 | $7,483
412 | 15 | $11,456
413 | 5,253 | $27,415
414 | 622 | $15,291
415 | 42,746 | $75,112
416 | 189,451 | $32,070
417 | 38 | $22,076
418 | 25,456 | $21,447
419 | 16,128 | $17,016
420 | 3,139 | $12,214
421 | 10,563 | $14,503
422 | 66 | $12,891
423 | 7,972 | $36,726
424 | 1,224 | $49,024
425 | 15,914 | $13,506
426 | 4,462 | $10,410
427 | 1,557 | $10,483
428 | 782 | $14,266
429 | 26,797 | $15,953
430 | 64,123 | $13,703
431 | 310 | $12,670
432 | 443 | $12,980
433 | 5,479 | $5,805
439 | 1,493 | $34,068
440 | 5,673 | $36,892
441 | 668 | $18,081
442 | 17,291 | $48,763
443 | 3,848 | $19,622
444 | 5,629 | $14,813
445 | 2,485 | $9,965
447 | 6,390 | $10,119
449 | 32,589 | $16,465
450 | 7,304 | $8,328
452 | 25,308 | $20,911
453 | 5,591 | $10,522
454 | 4,691 | $16,299
455 | 1,043 | $9,576
461 | 5,133 | $24,128
462 | 9,531 | $19,503
463 | 26,512 | $13,669
464 | 7,075 | $9,864
465 | 192 | $13,169
466 | 1,684 | $14,122
467 | 1,106 | $10,115
468 | 51,680 | $77,692
470 | 52 | $504,684
471 | 13,167 | $54,184
473 | 7,976 | $72,650
475 | 108,084 | $75,747
476 | 3,608 | $46,392
477 | 25,103 | $37,665
478 | 106,238 | $48,149
479 | 23,387 | $27,938
480 | 610 | $193,008
481 | 819 | $122,102
482 | 5,175 | $70,600
483 | 44,784 | $328,441
484 | 334 | $110,056
485 | 3,178 | $61,849
486 | 2,077 | $99,908
487 | 3,701 | $40,225
488 | 760 | $99,624
489 | 13,168 | $37,620
490 | 5,356 | $21,486
491 | 15,098 | $31,213
492 | 3,052 | $82,667
493 | 58,870 | $35,610
494 | 28,431 | $18,981
495 | 191 | $165,379
496 | 2,444 | $112,012
497 | 21,734 | $66,414
498 | 15,556 | $49,426
499 | 34,350 | $27,633
500 | 49,302 | $17,736
501 | 2,580 | $51,260
502 | 761 | $27,677
503 | 5,883 | $24,011
504 | 125 | $257,167
505 | 134 | $36,044
506 | 916 | $87,492
507 | 337 | $37,309
508 | 612 | $27,746
509 | 155 | $13,241
510 | 1,625 | $23,313
511 | 571 | $13,248
512 | 481 | $101,931
513 | 206 | $107,611
515 | 8,028 | $105,722
516 | 83,464 | $45,394
517 | 194,015 | $35,730
518 | 55,225 | $36,574
519 | 8,892 | $47,738
520 | 12,823 | $29,760
521 | 30,454 | $14,130
522 | 6,008 | $10,049
523 | 15,103 | $7,817
524 | 130,318 | $14,293
525 | 562 | $247,370
526 | 73,724 | $42,080
527 | 194,015 | $33,802
528 | 1,343 | $140,528
529 | 4,633 | $63,385
530 | 2,807 | $24,282
531 | 3,766 | $64,237
532 | 2,888 | $30,290
533 | 42,601 | $32,675
534 | 51,346 | $20,340
535 | 5,896 | $156,207
536 | 20,103 | $118,567
537 | 6,765 | $36,526
538 | 6,350 | $19,355
539 | 4,388 | $69,606
540 | 1,866 | $25,633
¹ Cases are taken from the FY 2002 MedPAR file; DRGs are from GROUPER V21.0.

Table 11.—Proposed LTC-DRGs Relative Weights and Geometric and Five-Sixths of the Average Length of Stay—FY 2004
LTC-DRG | Description | Relative weight | Geo-metric average length of stay | 5/6ths of the average length of stay
1 | ⁵ CRANIOTOMY AGE >17 W CC | 1.9873 | 41.3 | 34.4
2 | ⁸ CRANIOTOMY AGE > 17 W/O CC | 1.9873 | 41.3 | 34.4
3 | ⁸ CRANIOTOMY AGE 0-17 | 1.9873 | 41.3 | 34.4
6 | ⁸ CARPAL TUNNEL RELEASE | 0.5711 | 20.8 | 17.3
7 | PERIPH & CRANIAL NERVE & OTHER NERV SYST PROC W CC | 1.5898 | 42.5 | 35.4
8 | ⁴ PERIPH & CRANIAL NERVE & OTHER NERV SYST PROC W/O CC | 1.4090 | 34.1 | 28.4
9 | SPINAL DISORDERS & INJURIES | 1.5189 | 34.7 | 28.9
10 | NERVOUS SYSTEM NEOPLASMS W CC | 0.7590 | 23.4 | 19.5
11 | NERVOUS SYSTEM NEOPLASMS W/O CC | 0.7322 | 21.2 | 17.6
12 | DEGENERATIVE NERVOUS SYSTEM DISORDERS | 0.7760 | 26.4 | 22.0
13 | MULTIPLE SCLEROSIS & CEREBELLAR ATAXIA | 0.8287 | 28.3 | 23.5
14 | INTERCRANIAL HEMORRHAGE & STROKE W INFARCT | 0.9449 | 27.5 | 22.9
15 | NONSPECIFIC CVA & PRECEREBRAL OCCULUSION W/O INFARCT | 0.9058 | 28.9 | 24.0
16 | NONSPECIFIC CEREBROVASCULAR DISORDERS W CC | 0.9158 | 24.7 | 20.5
17 | NONSPECIFIC CEREBROVASCULAR DISORDERS W/O CC | 0.5478 | 20.0 | 16.6
18 | CRANIAL & PERIPHERAL NERVE DISORDERS W CC | 0.8845 | 24.9 | 20.7
19 | CRANIAL & PERIPHERAL NERVE DISORDERS W/O CC | 0.6378 | 22.6 | 18.8
20 | NERVOUS SYSTEM INFECTION EXCEPT VIRAL MENINGITIS | 1.0135 | 25.1 | 20.9
21 | ² VIRAL MENINGITIS | 0.7347 | 23.1 | 19.2
22 | ² HYPERTENSIVE ENCEPHALOPATHY | 0.7347 | 23.1 | 19.2
23 | NONTRAUMATIC STUPOR & COMA | 1.0331 | 30.8 | 25.6
24 | SEIZURE & HEADACHE AGE >17 W CC | 1.0059 | 28.1 | 23.4
25 | SEIZURE & HEADACHE AGE >17 W/O CC | 0.8044 | 25.6 | 21.3
26 | ⁸ SEIZURE & HEADACHE AGE 0-17 | 0.7347 | 23.1 | 19.2
27 | TRAUMATIC STUPOR & COMA, COMA >1 HR | 1.1071 | 28.8 | 24.0
28 | TRAUMATIC STUPOR & COMA, COMA <1 HR AGE >17 W CC | 1.0527 | 29.2 | 24.3
29 | TRAUMATIC STUPOR & COMA, COMA <1 HR AGE >17 W/O CC | 0.9365 | 26.2 | 21.8
30 | ⁸ TRAUMATIC STUPOR & COMA, COMA <1 HR AGE 0-17 | 0.9785 | 27.4 | 22.8
31 | ³ CONCUSSION AGE >17 W CC | 0.9785 | 27.4 | 22.8
32 | ³ CONCUSSION AGE >17 W/O CC | 0.9785 | 27.4 | 22.8
33 | ⁸ CONCUSSION AGE 0-17 | 0.7347 | 23.1 | 19.2
34 | OTHER DISORDERS OF NERVOUS SYSTEM W CC | 0.9885 | 28.5 | 23.7
35 | OTHER DISORDERS OF NERVOUS SYSTEM W/O CC | 0.7817 | 26.9 | 22.4
36 | ⁸ RETINAL PROCEDURES | 0.5711 | 20.8 | 17.3
37 | ⁸ ORBITAL PROCEDURES | 0.5711 | 20.8 | 17.3
38 | ⁸ PRIMARY IRIS PROCEDURES | 0.5711 | 20.8 | 17.3
39 | ⁸ LENS PROCEDURES WITH OR WITHOUT VITRECTOMY | 0.5711 | 20.8 | 17.3
40 | ⁸ EXTRAOCULAR PROCEDURES EXCEPT ORBIT AGE >17 | 0.5711 | 20.8 | 17.3
41 | ⁸ EXTRAOCULAR PROCEDURES EXCEPT ORBIT AGE 0-17 | 0.5711 | 20.8 | 17.3
42 | ⁸ INTRAOCULAR PROCEDURES EXCEPT RETINA, IRIS & LENS | 0.5711 | 20.8 | 17.3
43 | ⁸ HYPHEMA | 0.5711 | 20.8 | 17.3
44 | ¹ ACUTE MAJOR EYE INFECTIONS | 0.5711 | 20.8 | 17.3
45 | ⁸ NEUROLOGICAL EYE DISORDERS | 0.7347 | 23.1 | 19.2
46 | ² OTHER DISORDERS OF THE EYE AGE >17 W CC | 0.7347 | 23.1 | 19.2
47 | ¹ OTHER DISORDERS OF THE EYE AGE >17 W/O CC | 0.5711 | 20.8 | 17.3
48 | ⁸ OTHER DISORDERS OF THE EYE AGE 0-17 | 0.5711 | 20.8 | 17.3
49 | ⁸ MAJOR HEAD & NECK PROCEDURES | 1.4090 | 34.1 | 28.4
50 | ⁸ SIALOADENECTOMY | 0.9785 | 27.4 | 22.8
51 | ⁸ SALIVARY GLAND PROCEDURES EXCEPT SIALOADENECTOMY | 0.9785 | 27.4 | 22.8
52 | ⁸ CLEFT LIP & PALATE REPAIR | 0.9785 | 27.4 | 22.8
53 | ² SINUS & MASTOID PROCEDURES AGE >17 | 0.7347 | 23.1 | 19.2
54 | ⁸ SINUS & MASTOID PROCEDURES AGE 0-17 | 0.9785 | 27.4 | 22.8
55 | ⁵ MISCELLANEOUS EAR, NOSE, MOUTH & THROAT PROCEDURES | 1.9873 | 41.3 | 34.4
56 | ⁸ RHINOPLASTY | 0.5711 | 20.8 | 17.3
57 | ⁸ T&A PROC, EXCEPT TONSILLECTOMY &/OR ADENOIDECTOMY ONLY, AGE >17 | 0.9785 | 27.4 | 22.8
58 | ⁸ T&A PROC, EXCEPT TONSILLECTOMY &/OR ADENOIDECTOMY ONLY, AGE 0-17 | 0.9785 | 27.4 | 22.8
59 | ⁸ TONSILLECTOMY &/OR ADENOIDECTOMY ONLY, AGE >17 | 0.9785 | 27.4 | 22.8
60 | ⁸ TONSILLECTOMY &/OR ADENOIDECTOMY ONLY, AGE 0-17 | 0.9785 | 27.4 | 22.8
61 | ⁸ MYRINGOTOMY W TUBE INSERTION AGE >17 | 1.4090 | 34.1 | 28.4
62 | ⁸ MYRINGOTOMY W TUBE INSERTION AGE 0-17 | 0.9785 | 27.4 | 22.8
63 | ³ OTHER EAR, NOSE, MOUTH & THROAT O.R. PROCEDURES | 0.9785 | 27.4 | 22.8
64 | EAR, NOSE, MOUTH & THROAT MALIGNANCY | 1.2957 | 27.9 | 23.2
65 | ¹ DYSEQUILIBRIUM | 0.5711 | 20.8 | 17.3
66 | ¹ EPISTAXIS | 0.5711 | 20.8 | 17.3
67 | ⁸ EPIGLOTTITIS | 0.9785 | 27.4 | 22.8
68 | OTITIS MEDIA & URI AGE &>17 W CC | 0.8396 | 23.5 | 19.5
69 | ¹ OTITIS MEDIA & URI AGE &>17 W/O CC | 0.5711 | 20.8 | 17.3
70 | ⁸ OTITIS MEDIA & URI AGE 0-17 | 0.5711 | 20.8 | 17.3
71 | ⁸ LARYNGOTRACHEITIS | 0.7347 | 23.1 | 19.2
72 | ¹ NASAL TRAUMA & DEFORMITY | 0.5711 | 20.8 | 17.3
73 | OTHER EAR, NOSE, MOUTH & THROAT DIAGNOSES AGE >17 | 0.9506 | 23.7 | 19.7
74 | ⁸ OTHER EAR, NOSE, MOUTH & THROAT DIAGNOSES AGE 0-17 | 0.5711 | 20.8 | 17.3
75 | ⁵ MAJOR CHEST PROCEDURES | 1.9873 | 41.3 | 34.4
76 | OTHER RESP SYSTEM O.R. PROCEDURES W CC | 2.3848 | 42.2 | 35.1
77 | ⁵ OTHER RESP SYSTEM O.R. PROCEDURES W/O CC | 1.9873 | 41.3 | 34.4
78 | PULMONARY EMBOLISM | 0.9226 | 24.8 | 20.6
79 | RESPIRATORY INFECTIONS & INFLAMMATIONS AGE >17 W CC | 0.9853 | 23.7 | 19.7
80 | RESPIRATORY INFECTIONS & INFLAMMATIONS AGE >17 W/O CC | 0.8550 | 22.8 | 19.0
81 | ⁸ RESPIRATORY INFECTIONS & INFLAMMATIONS AGE 0-17 | 0.5711 | 20.8 | 17.3
82 | RESPIRATORY NEOPLASMS | 0.7759 | 20.4 | 17.0
83 | ³ MAJOR CHEST TRAUMA W CC | 0.9785 | 27.4 | 22.8
84 | ² MAJOR CHEST TRAUMA W/O CC | 0.7347 | 23.1 | 19.2
85 | PLEURAL EFFUSION W CC | 0.9068 | 23.9 | 19.9
86 | PLEURAL EFFUSION W/O CC | 0.7121 | 24.9 | 20.7
87 | PULMONARY EDEMA & RESPIRATORY FAILURE | 1.7382 | 32.9 | 27.4
88 | CHRONIC OBSTRUCTIVE PULMONARY DISEASE | 0.7996 | 21.0 | 17.5
89 | SIMPLE PNEUMONIA & PLEURISY AGE >17 W CC | 0.8676 | 22.9 | 19.0
90 | SIMPLE PNEUMONIA & PLEURISY AGE >17 W/O CC | 0.7429 | 21.7 | 18.0
91 | ⁸ SIMPLE PNEUMONIA & PLEURISY AGE 0-17 | 0.7347 | 23.1 | 19.2
92 | INTERSTITIAL LUNG DISEASE W CC | 0.8403 | 21.8 | 18.1
93 | INTERSTITIAL LUNG DISEASE W/O CC | 0.7332 | 20.2 | 16.8
94 | ⁷ PNEUMOTHORAX W CC | 0.7917 | 21.1 | 17.5
95 | ⁷ PNEUMOTHORAX W/O CC | 0.7917 | 21.1 | 17.5
96 | BRONCHITIS & ASTHMA AGE >17 W CC | 0.7787 | 20.7 | 17.2
97 | BRONCHITIS & ASTHMA AGE >17 W/O CC | 0.6616 | 22.5 | 18.7
98 | ⁸ BRONCHITIS & ASTHMA AGE 0-17 | 0.7347 | 23.1 | 19.2
99 | RESPIRATORY SIGNS & SYMPTOMS W CC | 1.0818 | 26.9 | 22.4
100 | RESPIRATORY SIGNS & SYMPTOMS W/O CC | 1.0374 | 26.0 | 21.6
101 | OTHER RESPIRATORY SYSTEM DIAGNOSES W CC | 1.0071 | 24.5 | 20.4
102 | OTHER RESPIRATORY SYSTEM DIAGNOSES W/O CC | 0.9460 | 24.2 | 20.1
103 | ⁶ HEART TRANSPLANT | 0.0000 | 0.0 | 0.0
104 | ⁸ CARDIAC VALVE & OTHER MAJOR CARDIOTHORACIC PROC W CARDIAC CATH | 1.9873 | 41.3 | 34.4
105 | ⁸ CARDIAC VALVE & OTHER MAJOR CARDIOTHORACIC PROC W/O CARDIAC CATH | 1.9873 | 41.3 | 34.4
106 | ⁸ CORONARY BYPASS W PTCA | 1.9873 | 41.3 | 34.4
107 | ⁸ CORONARY BYPASS W CARDIAC CATH | 1.9873 | 41.3 | 34.4
108 | ⁵ OTHER CARDIOTHORACIC PROCEDURES | 1.9873 | 41.3 | 34.4
109 | ⁸ CORONARY BYPASS W/O PTCA OR CARDIAC CATH | 1.9873 | 41.3 | 34.4
110 | ⁵ MAJOR CARDIOVASCULAR PROCEDURES W CC | 1.9873 | 41.3 | 34.4
111 | ⁸ MAJOR CARDIOVASCULAR PROCEDURES W/O CC | 1.9873 | 41.3 | 34.4
113 | AMPUTATION FOR CIRC SYSTEM DISORDERS EXCEPT UPPER LIMB & TOE | 1.5870 | 40.5 | 33.7
114 | UPPER LIMB & TOE AMPUTATION FOR CIRC SYSTEM DISORDERS | 1.4854 | 39.9 | 33.2
115 | ⁵ PRM CARD PACEM IMPL W AMI,HRT FAIL OR SHK,OR AICD LEAD OR GNRTR P | 1.9873 | 41.3 | 34.4
116 | ⁵ OTH PERM CARD PACEMAK IMPL OR PTCA W CORONARY ARTERY STENT IMPLNT | 1.9873 | 41.3 | 34.4
117 | ³ CARDIAC PACEMAKER REVISION EXCEPT DEVICE REPLACEMENT | 0.9785 | 27.4 | 22.8
118 | ⁵ CARDIAC PACEMAKER DEVICE REPLACEMENT | 1.9873 | 41.3 | 34.4
119 | ³ VEIN LIGATION & STRIPPING | 0.9785 | 27.4 | 22.8
120 | OTHER CIRCULATORY SYSTEM O.R. PROCEDURES | 1.2476 | 34.1 | 28.4
121 | CIRCULATORY DISORDERS W AMI & MAJOR COMP, DISCHARGED ALIVE | 0.7531 | 21.9 | 18.2
122 | CIRCULATORY DISORDERS W AMI W/O MAJOR COMP, DISCHARGED ALIVE | 0.6915 | 20.0 | 16.6
123 | CIRCULATORY DISORDERS W AMI, EXPIRED | 0.8856 | 19.0 | 15.8
124 | ⁴ CIRCULATORY DISORDERS EXCEPT AMI, W CARD CATH & COMPLEX DIAG | 1.4090 | 34.1 | 28.4
125 | ⁴ CIRCULATORY DISORDERS EXCEPT AMI, W CARD CATH W/O COMPLEX DIAG | 1.4090 | 34.1 | 28.4
126 | ACUTE & SUBACUTE ENDOCARDITIS | 0.8902 | 25.7 | 21.4
127 | HEART FAILURE & SHOCK | 0.7968 | 21.9 | 18.2
128 | ¹ DEEP VEIN THROMBOPHLEBITIS | 0.5711 | 20.8 | 17.3
129 | CARDIAC ARREST, UNEXPLAINED | 1.4170 | 28.5 | 23.7
130 | PERIPHERAL VASCULAR DISORDERS W CC | 0.8207 | 25.0 | 20.8
131 | PERIPHERAL VASCULAR DISORDERS W/O CC | 0.6269 | 22.4 | 18.6
132 | ATHEROSCLEROSIS W CC | 0.8211 | 22.5 | 18.7
133 | ATHEROSCLEROSIS W/O CC | 0.7264 | 22.6 | 18.8
134 | HYPERTENSION | 0.8971 | 28.4 | 23.6
135 | CARDIAC CONGENITAL & VALVULAR DISORDERS AGE >17 W CC | 0.9873 | 23.8 | 19.8
136 | CARDIAC CONGENITAL & VALVULAR DISORDERS AGE >17 W/O CC | 0.7492 | 22.9 | 19.0
137 | ⁸ CARDIAC CONGENITAL & VALVULAR DISORDERS AGE 0-17 | 0.7347 | 23.1 | 19.2
138 | CARDIAC ARRHYTHMIA & CONDUCTION DISORDERS W CC | 0.9390 | 25.2 | 21.0
139 | CARDIAC ARRHYTHMIA & CONDUCTION DISORDERS W/O CC | 0.6224 | 21.9 | 18.2
140 | ANGINA PECTORIS | 0.6056 | 19.3 | 16.0
141 | SYNCOPE & COLLAPSE W CC | 0.6735 | 23.3 | 19.4
142 | SYNCOPE & COLLAPSE W/O CC | 0.5149 | 20.5 | 17.0
143 | CHEST PAIN | 0.7317 | 21.9 | 18.2
144 | OTHER CIRCULATORY SYSTEM DIAGNOSES W CC | 0.8588 | 22.9 | 19.0
145 | OTHER CIRCULATORY SYSTEM DIAGNOSES W/O CC | 0.7001 | 21.4 | 17.8
146 | ⁸ RECTAL RESECTION W CC | 1.9873 | 41.3 | 34.4
147 | ⁸ RECTAL RESECTION W/O CC | 1.9873 | 41.3 | 34.4
148 | MAJOR SMALL & LARGE BOWEL PROCEDURES W CC | 1.9660 | 36.8 | 30.6
149 | ¹ MAJOR SMALL & LARGE BOWEL PROCEDURES W/O CC | 0.5711 | 20.8 | 17.3
150 | ⁴ PERITONEAL ADHESIOLYSIS W CC | 1.4090 | 34.1 | 28.4
151 | ⁸ PERITONEAL ADHESIOLYSIS W/O CC | 1.4090 | 34.1 | 28.4
152 | ⁴ MINOR SMALL & LARGE BOWEL PROCEDURES W CC | 1.4090 | 34.1 | 28.4
153 | ⁸ MINOR SMALL & LARGE BOWEL PROCEDURES W/O CC | 1.4090 | 34.1 | 28.4
154 | ⁵ STOMACH, ESOPHAGEAL & DUODENAL PROCEDURES AGE >17 W CC | 1.9873 | 41.3 | 34.4
155 | ⁸ STOMACH, ESOPHAGEAL & DUODENAL PROCEDURES AGE >17 W/O CC | 1.9873 | 41.3 | 34.4
156 | ⁸ STOMACH, ESOPHAGEAL & DUODENAL PROCEDURES AGE 0-17 | 1.9873 | 41.3 | 34.4
157 | ⁸ ANAL & STOMAL PROCEDURES W CC | 1.4090 | 34.1 | 28.4
158 | ³ ANAL & STOMAL PROCEDURES W/O CC | 0.9785 | 27.4 | 22.8
159 | ⁸ HERNIA PROCEDURES EXCEPT INGUINAL & FEMORAL AGE >17 W CC | 1.4090 | 34.1 | 28.4
160 | ⁸ HERNIA PROCEDURES EXCEPT INGUINAL & FEMORAL AGE >17 W/O CC | 1.4090 | 34.1 | 28.4
161 | ⁴ INGUINAL & FEMORAL HERNIA PROCEDURES AGE >17 W CC | 1.4090 | 34.1 | 28.4
162 | ⁸ INGUINAL & FEMORAL HERNIA PROCEDURES AGE >17 W/O CC | 0.5711 | 20.8 | 17.3
163 | ⁸ HERNIA PROCEDURES AGE 0-17 | 0.5711 | 20.8 | 17.3
164 | ⁸ APPENDECTOMY W COMPLICATED PRINCIPAL DIAG W CC | 1.9873 | 41.3 | 34.4
165 | ⁸ APPENDECTOMY W COMPLICATED PRINCIPAL DIAG W/O CC | 0.5711 | 20.8 | 17.3
166 | ⁸ APPENDECTOMY W/O COMPLICATED PRINCIPAL DIAG W CC | 1.9873 | 41.3 | 34.4
167 | ⁸ APPENDECTOMY W/O COMPLICATED PRINCIPAL DIAG W/O CC | 0.5711 | 20.8 | 17.3
168 | ⁵ MOUTH PROCEDURES W CC | 1.9873 | 41.3 | 34.4
169 | ⁸ MOUTH PROCEDURES W/O CC | 0.5711 | 20.8 | 17.3
170 | ⁷ OTHER DIGESTIVE SYSTEM O.R. PROCEDURES W CC | 1.7827 | 42.2 | 35.1
171 | ⁷ OTHER DIGESTIVE SYSTEM O.R. PROCEDURES W/O CC | 1.7827 | 42.2 | 35.1
172 | DIGESTIVE MALIGNANCY W CC | 0.8857 | 22.4 | 18.6
173 | DIGESTIVE MALIGNANCY W/O CC | 0.7843 | 21.9 | 18.2
174 | G.I. HEMORRHAGE W CC | 0.8741 | 24.8 | 20.6
175 | G.I. HEMORRHAGE W/O CC | 0.6770 | 21.8 | 18.1
176 | COMPLICATED PEPTIC ULCER | 0.7835 | 20.6 | 17.1
177 | ² UNCOMPLICATED PEPTIC ULCER W CC | 0.7347 | 23.1 | 19.2
178 | ¹ UNCOMPLICATED PEPTIC ULCER W/O CC | 0.5711 | 20.8 | 17.3
179 | INFLAMMATORY BOWEL DISEASE | 1.0317 | 26.2 | 21.8
180 | G.I. OBSTRUCTION W CC | 0.9491 | 24.2 | 20.1
181 | G.I. OBSTRUCTION W/O CC | 0.7694 | 21.2 | 17.6
182 | ESOPHAGITIS, GASTROENT & MISC DIGEST DISORDERS AGE >17 W CC | 0.9666 | 25.5 | 21.2
183 | ESOPHAGITIS, GASTROENT & MISC DIGEST DISORDERS AGE >17 W/O CC | 0.7038 | 22.4 | 18.6
184 | ⁸ ESOPHAGITIS, GASTROENT & MISC DIGEST DISORDERS AGE 0-17 | 0.7347 | 23.1 | 19.2
185 | DENTAL & ORAL DIS EXCEPT EXTRACTIONS & RESTORATIONS, AGE >17 | 0.6932 | 24.6 | 20.5
186 | ⁸ DENTAL & ORAL DIS EXCEPT EXTRACTIONS & RESTORATIONS, AGE 0-17 | 0.7347 | 23.1 | 19.2
187 | ⁸ DENTAL EXTRACTIONS & RESTORATIONS | 0.7347 | 23.1 | 19.2
188 | OTHER DIGESTIVE SYSTEM DIAGNOSES AGE >17 W CC | 1.0481 | 26.0 | 21.6
189 | OTHER DIGESTIVE SYSTEM DIAGNOSES AGE >17 W/O CC | 0.8501 | 23.5 | 19.5
190 | ⁸ OTHER DIGESTIVE SYSTEM DIAGNOSES AGE 0-17 | 0.7347 | 23.1 | 19.2
191 | ⁴ PANCREAS, LIVER & SHUNT PROCEDURES W CC | 1.4090 | 34.1 | 28.4
192 | ¹ PANCREAS, LIVER & SHUNT PROCEDURES W/O CC | 0.5711 | 20.8 | 17.3
193 | ² BILIARY TRACT PROC EXCEPT ONLY CHOLECYST W OR W/O C.D.E. W CC | 0.7347 | 23.1 | 19.2
194 | ² BILIARY TRACT PROC EXCEPT ONLY CHOLECYST W OR W/O C.D.E. W/O CC | 0.7347 | 23.1 | 19.2
195 | ⁴ CHOLECYSTECTOMY W C.D.E. W CC | 1.4090 | 34.1 | 28.4
196 | ⁸ CHOLECYSTECTOMY W C.D.E. W/O CC | 0.9785 | 27.4 | 22.8
197 | ³ CHOLECYSTECTOMY EXCEPT BY LAPAROSCOPE W/O C.D.E. W CC | 0.9785 | 27.4 | 22.8
198 | ⁸ CHOLECYSTECTOMY EXCEPT BY LAPAROSCOPE W/O C.D.E. W/O CC | 0.9785 | 27.4 | 22.8
199 | ⁸ HEPATOBILIARY DIAGNOSTIC PROCEDURE FOR MALIGNANCY | 0.7347 | 23.1 | 19.2
200 | ² HEPATOBILIARY DIAGNOSTIC PROCEDURE FOR NON-MALIGNANCY | 0.7347 | 23.1 | 19.2
201 | ⁵ OTHER HEPATOBILIARY OR PANCREAS O.R. PROCEDURES | 1.9873 | 41.3 | 34.4
202 | CIRRHOSIS & ALCOHOLIC HEPATITIS | 0.7529 | 22.7 | 18.9
203 | MALIGNANCY OF HEPATOBILIARY SYSTEM OR PANCREAS | 0.6801 | 19.2 | 16.0
204 | DISORDERS OF PANCREAS EXCEPT MALIGNANCY | 1.0141 | 23.4 | 19.5
205 | DISORDERS OF LIVER EXCEPT MALIG,CIRR,ALC HEPA W CC | 0.7334 | 22.3 | 18.5
206 | ² DISORDERS OF LIVER EXCEPT MALIG,CIRR,ALC HEPA W/O CC | 0.7347 | 23.1 | 19.2
207 | DISORDERS OF THE BILIARY TRACT W CC | 0.7940 | 22.1 | 18.4
208 | ² DISORDERS OF THE BILIARY TRACT W/O CC | 0.7347 | 23.1 | 19.2
209 | ⁵ MAJOR JOINT & LIMB REATTACHMENT PROCEDURES OF LOWER EXTREMITY | 1.9873 | 41.3 | 34.4
210 | ⁴ HIP & FEMUR PROCEDURES EXCEPT MAJOR JOINT AGE >17 W CC | 1.4090 | 34.1 | 28.4
211 | ² HIP & FEMUR PROCEDURES EXCEPT MAJOR JOINT AGE >17 W/O CC | 0.7347 | 23.1 | 19.2
212 | ⁸ HIP & FEMUR PROCEDURES EXCEPT MAJOR JOINT AGE 0-17 | 0.7347 | 23.1 | 19.2
213 | AMPUTATION FOR MUSCULOSKELETAL SYSTEM & CONN TISSUE DISORDERS | 1.3912 | 34.9 | 29.0
216 | ⁵ BIOPSIES OF MUSCULOSKELETAL SYSTEM & CONNECTIVE TISSUE | 1.9873 | 41.3 | 34.4
217 | WND DEBRID & SKN GRFT EXCEPT HAND,FOR MUSCSKELET & CONN TISS DIS | 1.4438 | 39.3 | 32.7
218 | ³ LOWER EXTREM & HUMER PROC EXCEPT HIP,FOOT,FEMUR AGE >17 W CC | 0.9785 | 27.4 | 22.8
219 | ⁸ LOWER EXTREM & HUMER PROC EXCEPT HIP,FOOT,FEMUR AGE >17 W/O CC | 0.9785 | 27.4 | 22.8
220 | ⁸ LOWER EXTREM & HUMER PROC EXCEPT HIP,FOOT,FEMUR AGE 0-17 | 0.9785 | 27.4 | 22.8
223 | ³ MAJOR SHOULDER/ELBOW PROC, OR OTHER UPPER EXTREMITY PROC W CC | 0.9785 | 27.4 | 22.8
224 | ⁸ SHOULDER,ELBOW OR FOREARM PROC,EXC MAJOR JOINT PROC, W/O CC | 0.7347 | 23.1 | 19.2
225 | FOOT PROCEDURES | 0.8912 | 26.7 | 22.2
226 | ⁴ SOFT TISSUE PROCEDURES W CC | 1.4090 | 34.1 | 28.4
227 | ³ SOFT TISSUE PROCEDURES W/O CC | 0.9785 | 27.4 | 22.8
228 | ³ MAJOR THUMB OR JOINT PROC,OR OTH HAND OR WRIST PROC W CC | 0.9785 | 27.4 | 22.8
229 | ⁸ HAND OR WRIST PROC, EXCEPT MAJOR JOINT PROC, W/O CC | 0.7347 | 23.1 | 19.2
230 | ⁴ LOCAL EXCISION & REMOVAL OF INT FIX DEVICES OF HIP & FEMUR | 1.4090 | 34.1 | 28.4
232 | ² ARTHROSCOPY | 0.7347 | 23.1 | 19.2
233 | OTHER MUSCULOSKELET SYS & CONN TISS O.R. PROC W CC | 0.9797 | 28.5 | 23.7
234 | ² OTHER MUSCULOSKELET SYS & CONN TISS O.R. PROC W/O CC | 0.7347 | 23.1 | 19.2
235 | FRACTURES OF FEMUR | 0.8715 | 29.7 | 24.7
236 | FRACTURES OF HIP & PELVIS | 0.7598 | 27.2 | 22.6
237 | ² SPRAINS, STRAINS, & DISLOCATIONS OF HIP, PELVIS & THIGH | 0.7347 | 23.1 | 19.2
238 | OSTEOMYELITIS | 0.8818 | 28.5 | 23.7
239 | PATHOLOGICAL FRACTURES & MUSCULOSKELETAL & CONN TISS MALIGNANCY | 0.6892 | 22.4 | 18.6
240 | CONNECTIVE TISSUE DISORDERS W CC | 0.7118 | 21.4 | 17.8
241 | CONNECTIVE TISSUE DISORDERS W/O CC | 0.4744 | 19.4 | 16.1
242 | SEPTIC ARTHRITIS | 0.7814 | 26.2 | 21.8
243 | MEDICAL BACK PROBLEMS | 0.6867 | 23.5 | 19.5
244 | BONE DISEASES & SPECIFIC ARTHROPATHIES W CC | 0.5664 | 20.1 | 16.7
245 | BONE DISEASES & SPECIFIC ARTHROPATHIES W/O CC | 0.5134 | 19.5 | 16.2
246 | NON-SPECIFIC ARTHROPATHIES | 0.5556 | 23.0 | 19.1
247 | SIGNS & SYMPTOMS OF MUSCULOSKELETAL SYSTEM & CONN TISSUE | 0.5976 | 21.4 | 17.8
248 | TENDONITIS, MYOSITIS & BURSITIS | 0.7623 | 24.9 | 20.7
249 | AFTERCARE, MUSCULOSKELETAL SYSTEM & CONNECTIVE TISSUE | 0.8101 | 27.3 | 22.7
250 | FX, SPRN, STRN & DISL OF FOREARM, HAND, FOOT AGE >17 W CC | 0.8309 | 30.1 | 25.0
251 | FX, SPRN, STRN & DISL OF FOREARM, HAND, FOOT AGE >17 W/O CC | 0.6031 | 26.7 | 22.2
252 | ⁸ FX, SPRN, STRN & DISL OF FOREARM, HAND, FOOT AGE 0-17 | 0.7347 | 23.1 | 19.2
253 | FX, SPRN, STRN & DISL OF UPARM,LOWLEG EX FOOT AGE >17 W CC | 0.8406 | 27.1 | 22.5
254 | FX, SPRN, STRN & DISL OF UPARM,LOWLEG EX FOOT AGE >17 W/O CC | 0.7028 | 25.8 | 21.5
255 | ⁸ FX, SPRN, STRN & DISL OF UPARM,LOWLEG EX FOOT AGE 0-17 | 0.7347 | 23.1 | 19.2
256 | OTHER MUSCULOSKELETAL SYSTEM & CONNECTIVE TISSUE DIAGNOSES | 0.8577 | 26.6 | 22.1
257 | ³ TOTAL MASTECTOMY FOR MALIGNANCY W CC | 0.9785 | 27.4 | 22.8
258 | ⁸ TOTAL MASTECTOMY FOR MALIGNANCY W/O CC | 0.9785 | 27.4 | 22.8
259 | ⁸ SUBTOTAL MASTECTOMY FOR MALIGNANCY W CC | 0.9785 | 27.4 | 22.8
260 | ⁸ SUBTOTAL MASTECTOMY FOR MALIGNANCY W/O CC | 0.9785 | 27.4 | 22.8
261 | ⁵ BREAST PROC FOR NON-MALIGNANCY EXCEPT BIOPSY & LOCAL EXCISION | 1.9873 | 41.3 | 34.4
262 | ¹ BREAST BIOPSY & LOCAL EXCISION FOR NON-MALIGNANCY | 0.5711 | 20.8 | 17.3
263 | SKIN GRAFT &/OR DEBRID FOR SKN ULCER OR CELLULITIS W CC | 1.4696 | 41.1 | 34.2
264 | SKIN GRAFT &/OR DEBRID FOR SKN ULCER OR CELLULITIS W/O CC | 1.2160 | 39.9 | 33.2
265 | ⁷ SKIN GRAFT &/OR DEBRID EXCEPT FOR SKIN ULCER OR CELLULITIS W CC | 1.2294 | 34.7 | 28.9
266 | ⁷ SKIN GRAFT &/OR DEBRID EXCEPT FOR SKIN ULCER OR CELLULITIS W/O CC | 1.2294 | 34.7 | 28.9
267 | ⁸ PERIANAL & PILONIDAL PROCEDURES | 0.5711 | 20.8 | 17.3
268 | ⁴ SKIN, SUBCUTANEOUS TISSUE & BREAST PLASTIC PROCEDURES | 1.4090 | 34.1 | 28.4
269 | OTHER SKIN, SUBCUT TISS & BREAST PROC W CC | 1.5232 | 45.2 | 37.6
270 | OTHER SKIN, SUBCUT TISS & BREAST PROC W/O CC | 1.0105 | 35.9 | 29.9
271 | SKIN ULCERS | 0.9795 | 29.9 | 24.9
272 | MAJOR SKIN DISORDERS W CC | 0.7163 | 22.7 | 18.9
273 | ¹ MAJOR SKIN DISORDERS W/O CC | 0.5711 | 20.8 | 17.3
274 | MALIGNANT BREAST DISORDERS W CC | 0.9469 | 24.9 | 20.7
275 | ² MALIGNANT BREAST DISORDERS W/O CC | 0.7347 | 23.1 | 19.2
276 | ¹ NON-MALIGANT BREAST DISORDERS | 0.5711 | 20.8 | 17.3
277 | CELLULITIS AGE >17 W CC | 0.7762 | 24.1 | 20.0
278 | CELLULITIS AGE >17 W/O CC | 0.6373 | 21.6 | 18.0
279 | CELLULITIS AGE 0-178 | 0.5711 | 20.8 | 17.3
280 | TRAUMA TO THE SKIN, SUBCUT TISS & BREAST AGE >17 W CC | 0.9719 | 29.3 | 24.4
281 | TRAUMA TO THE SKIN, SUBCUT TISS & BREAST AGE >17 W/O CC | 0.7915 | 27.8 | 23.1
282 | ⁸ TRAUMA TO THE SKIN, SUBCUT TISS & BREAST AGE 0-17 | 0.7347 | 23.1 | 19.2
283 | MINOR SKIN DISORDERS W CC | 0.6998 | 20.7 | 17.2
284 | MINOR SKIN DISORDERS W/O CC | 0.6259 | 23.0 | 19.1
285 | AMPUTAT OF LOWER LIMB FOR ENDOCRINE,NUTRIT,& METABOL DISORDERS | 1.5856 | 38.6 | 32.1
286 | ADRENAL & PITUITARY PROCEDURES8 | 1.4090 | 34.1 | 28.4
287 | SKIN GRAFTS & WOUND DEBRID FOR ENDOC, NUTRIT & METAB DISORDERS | 1.4793 | 41.7 | 34.7
288 | ⁵ O.R. PROCEDURES FOR OBESITY | 1.9873 | 41.3 | 34.4
289 | ⁸ PARATHYROID PROCEDURES | 0.9785 | 27.4 | 22.8
290 | ⁸ THYROID PROCEDURES | 0.9785 | 27.4 | 22.8
291 | ⁸ THYROGLOSSAL PROCEDURES | 0.9785 | 27.4 | 22.8
292 | OTHER ENDOCRINE, NUTRIT & METAB O.R. PROC W CC | 1.5633 | 35.8 | 29.8
293 | ³ OTHER ENDOCRINE, NUTRIT & METAB O.R. PROC W/O CC | 0.9785 | 27.4 | 22.8
294 | DIABETES AGE >35 | 0.8729 | 26.6 | 22.1
295 | ³ DIABETES AGE 0-35 | 0.9785 | 27.4 | 22.8
296 | NUTRITIONAL & MISC METABOLIC DISORDERS AGE >17 W CC | 0.9560 | 26.3 | 21.9
297 | NUTRITIONAL & MISC METABOLIC DISORDERS AGE >17 W/O CC | 0.7552 | 26.4 | 22.0
298 | ⁸ NUTRITIONAL & MISC METABOLIC DISORDERS AGE 0-17 | 0.7347 | 23.1 | 19.2
299 | ² INBORN ERRORS OF METABOLISM | 0.7347 | 23.1 | 19.2
300 | ENDOCRINE DISORDERS W CC | 0.8175 | 23.9 | 19.9
301 | ENDOCRINE DISORDERS W/O CC | 0.7287 | 22.9 | 19.0
302 | ⁶ KIDNEY TRANSPLANT | 0.0000 | 0.0 | 0.0
303 | ⁸ KIDNEY,URETER & MAJOR BLADDER PROCEDURES FOR NEOPLASM | 1.9873 | 41.3 | 34.4
304 | ⁵ KIDNEY,URETER & MAJOR BLADDER PROC FOR NON-NEOPL W CC | 1.9873 | 41.3 | 34.4
305 | ¹ KIDNEY,URETER & MAJOR BLADDER PROC FOR NON-NEOPL W/O CC | 0.5711 | 20.8 | 17.3
306 | ⁴ PROSTATECTOMY W CC | 1.4090 | 34.1 | 28.4
307 | ⁸ PROSTATECTOMY W/O CC | 1.4090 | 34.1 | 28.4
308 | ⁴ MINOR BLADDER PROCEDURES W CC | 1.4090 | 34.1 | 28.4
309 | ² MINOR BLADDER PROCEDURES W/O CC | 0.7347 | 23.1 | 19.2
310 | ⁴ TRANSURETHRAL PROCEDURES W CC | 1.4090 | 34.1 | 28.4
311 | ¹ TRANSURETHRAL PROCEDURES W/O CC | 0.5711 | 20.8 | 17.3
312 | ⁴ URETHRAL PROCEDURES, AGE >17 W CC | 1.4090 | 34.1 | 28.4
313 | ⁸ URETHRAL PROCEDURES, AGE >17 W/O CC | 0.5711 | 20.8 | 17.3
314 | ⁸ URETHRAL PROCEDURES, AGE 0-17 | 0.5711 | 20.8 | 17.3
315 | OTHER KIDNEY & URINARY TRACT O.R. PROCEDURES | 1.5690 | 36.4 | 30.3
316 | RENAL FAILURE | 0.9869 | 24.5 | 20.4
317 | ³ ADMIT FOR RENAL DIALYSIS | 0.9785 | 27.4 | 22.8
318 | KIDNEY & URINARY TRACT NEOPLASMS W CC | 0.7466 | 21.7 | 18.0
319 | ¹ KIDNEY & URINARY TRACT NEOPLASMS W/O CC | 0.5711 | 20.8 | 17.3
320 | KIDNEY & URINARY TRACT INFECTIONS AGE >17 W CC | 0.7744 | 23.5 | 19.5
321 | KIDNEY & URINARY TRACT INFECTIONS AGE >17 W/O CC | 0.6641 | 23.0 | 19.1
322 | ⁸ KIDNEY & URINARY TRACT INFECTIONS AGE 0-17 | 0.7347 | 23.1 | 19.2
323 | ² URINARY STONES W CC, &/OR ESW LITHOTRIPSY | 0.7347 | 23.1 | 19.2
324 | ² URINARY STONES W/O CC | 0.7347 | 23.1 | 19.2
325 | KIDNEY & URINARY TRACT SIGNS & SYMPTOMS AGE >17 W CC | 0.8854 | 27.2 | 22.6
326 | KIDNEY & URINARY TRACT SIGNS & SYMPTOMS AGE >17 W/O CC | 0.7590 | 24.7 | 20.5
327 | ⁸ KIDNEY & URINARY TRACT SIGNS & SYMPTOMS AGE 0-17 | 0.7347 | 23.1 | 19.2
328 | ¹ URETHRAL STRICTURE AGE >17 W CC | 0.5711 | 20.8 | 17.3
329 | ⁸ URETHRAL STRICTURE AGE >17 W/O CC | 0.5711 | 20.8 | 17.3
330 | ⁸ URETHRAL STRICTURE AGE 0-17 | 0.5711 | 20.8 | 17.3
331 | OTHER KIDNEY & URINARY TRACT DIAGNOSES AGE >17 W CC | 0.8847 | 23.8 | 19.8
332 | OTHER KIDNEY & URINARY TRACT DIAGNOSES AGE >17 W/O CC | 0.6201 | 22.1 | 18.4
333 | ⁸ OTHER KIDNEY & URINARY TRACT DIAGNOSES AGE 0-17 | 0.5711 | 20.8 | 17.3
334 | ⁸ MAJOR MALE PELVIC PROCEDURES W CC | 0.9785 | 27.4 | 22.8
335 | ⁸ MAJOR MALE PELVIC PROCEDURES W/O CC | 0.9785 | 27.4 | 22.8
336 | ⁸ TRANSURETHRAL PROSTATECTOMY W CC | 0.7347 | 23.1 | 19.2
337 | ⁸ TRANSURETHRAL PROSTATECTOMY W/O CC | 0.7347 | 23.1 | 19.2
338 | ⁸ TESTES PROCEDURES, FOR MALIGNANCY | 0.5711 | 20.8 | 17.3
339 | ¹ TESTES PROCEDURES, NON-MALIGNANCY AGE >17 | 0.5711 | 20.8 | 17.3
340 | ⁸ TESTES PROCEDURES, NON-MALIGNANCY AGE 0-17 | 0.5711 | 20.8 | 17.3
341 | ² PENIS PROCEDURES | 0.7347 | 23.1 | 19.2
342 | ¹ CIRCUMCISION AGE >17 | 0.5711 | 20.8 | 17.3
343 | ⁸ CIRCUMCISION AGE 0-17 | 0.5711 | 20.8 | 17.3
344 | ² OTHER MALE REPRODUCTIVE SYSTEM O.R. PROCEDURES FOR MALIGNANCY | 0.7347 | 23.1 | 19.2
345 | ³ OTHER MALE REPRODUCTIVE SYSTEM O.R. PROC EXCEPT FOR MALIGNANCY | 0.9785 | 27.4 | 22.8
346 | ⁷ MALIGNANCY, MALE REPRODUCTIVE SYSTEM, W CC | 0.7787 | 22.3 | 18.5
347 | ⁷ MALIGNANCY, MALE REPRODUCTIVE SYSTEM, W/O CC | 0.7787 | 22.3 | 18.5
348 | ¹ BENIGN PROSTATIC HYPERTROPHY W CC | 0.5711 | 20.8 | 17.3
349 | ¹ BENIGN PROSTATIC HYPERTROPHY W/O CC | 0.5711 | 20.8 | 17.3
350 | INFLAMMATION OF THE MALE REPRODUCTIVE SYSTEM | 1.1947 | 25.6 | 21.3
351 | ⁸ STERILIZATION, MALE | 0.5711 | 20.8 | 17.3
352 | ³ OTHER MALE REPRODUCTIVE SYSTEM DIAGNOSES | 0.9785 | 27.4 | 22.8
353 | ⁸ PELVIC EVISCERATION, RADICAL HYSTERECTOMY & RADICAL VULVECTOMY | 1.9873 | 41.3 | 34.4
354 | ⁸ UTERINE,ADNEXA PROC FOR NON-OVARIAN/ADNEXAL MALIG W CC | 1.9873 | 41.3 | 34.4
355 | ⁸ UTERINE,ADNEXA PROC FOR NON-OVARIAN/ADNEXAL MALIG W/O CC | 1.9873 | 41.3 | 34.4
356 | ⁸ FEMALE REPRODUCTIVE SYSTEM RECONSTRUCTIVE PROCEDURES | 1.4090 | 34.1 | 28.4
357 | ⁸ UTERINE & ADNEXA PROC FOR OVARIAN OR ADNEXAL MALIGNANCY | 1.4090 | 34.1 | 28.4
358 | ⁸ UTERINE & ADNEXA PROC FOR NON-MALIGNANCY W CC | 1.4090 | 34.1 | 28.4
359 | ⁸ UTERINE & ADNEXA PROC FOR NON-MALIGNANCY W/O CC | 1.4090 | 34.1 | 28.4
360 | ⁴ VAGINA, CERVIX & VULVA PROCEDURES | 1.4090 | 34.1 | 28.4
361 | ⁸ LAPAROSCOPY & INCISIONAL TUBAL INTERRUPTION | 0.5711 | 20.8 | 17.3
362 | ⁸ ENDOSCOPIC TUBAL INTERRUPTION | 0.5711 | 20.8 | 17.3
363 | ⁸ D&C, CONIZATION & RADIO-IMPLANT, FOR MALIGNANCY | 0.7347 | 23.1 | 19.2
364 | ⁸ D&C, CONIZATION EXCEPT FOR MALIGNANCY | 0.7347 | 23.1 | 19.2
365 | ⁵ OTHER FEMALE REPRODUCTIVE SYSTEM O.R. PROCEDURES | 1.9873 | 41.3 | 34.4
366 | MALIGNANCY, FEMALE REPRODUCTIVE SYSTEM W CC | 0.8153 | 23.0 | 19.1
367 | ² MALIGNANCY, FEMALE REPRODUCTIVE SYSTEM W/O CC | 0.7347 | 23.1 | 19.2
368 | INFECTIONS, FEMALE REPRODUCTIVE SYSTEM | 0.6911 | 20.1 | 16.7
369 | ³ MENSTRUAL & OTHER FEMALE REPRODUCTIVE SYSTEM DISORDERS | 0.9785 | 27.4 | 22.8
370 | ⁸ CESAREAN SECTION W CC | 0.9785 | 27.4 | 22.8
371 | ⁸ CESAREAN SECTION W/O CC | 0.7347 | 23.1 | 19.2
372 | ⁸ VAGINAL DELIVERY W COMPLICATING DIAGNOSES | 0.7347 | 23.1 | 19.2
373 | ⁸ VAGINAL DELIVERY W/O COMPLICATING DIAGNOSES | 0.7347 | 23.1 | 19.2
374 | ⁸ VAGINAL DELIVERY W STERILIZATION &/OR D&C | 0.7347 | 23.1 | 19.2
375 | ⁸ VAGINAL DELIVERY W O.R. PROC EXCEPT STERIL &/OR D&C | 0.7347 | 23.1 | 19.2
376 | ¹ POSTPARTUM & POST ABORTION DIAGNOSES W/O O.R. PROCEDURE | 0.5711 | 20.8 | 17.3
377 | ⁸ POSTPARTUM & POST ABORTION DIAGNOSES W O.R. PROCEDURE | 0.7347 | 23.1 | 19.2
378 | ⁸ ECTOPIC PREGNANCY | 0.9785 | 27.4 | 22.8
379 | ⁸ THREATENED ABORTION | 0.5711 | 20.8 | 17.3
380 | ⁸ ABORTION W/O D&C | 0.5711 | 20.8 | 17.3
381 | ⁸ ABORTION W D&C, ASPIRATION CURETTAGE OR HYSTEROTOMY | 0.5711 | 20.8 | 17.3
382 | ⁸ FALSE LABOR | 0.5711 | 20.8 | 17.3
383 | ⁸ OTHER ANTEPARTUM DIAGNOSES W MEDICAL COMPLICATIONS | 0.5711 | 20.8 | 17.3
384 | ⁸ OTHER ANTEPARTUM DIAGNOSES W/O MEDICAL COMPLICATIONS | 0.5711 | 20.8 | 17.3
385 | ¹ NEONATES, DIED OR TRANSFERRED TO ANOTHER ACUTE CARE FACILITY | 0.5711 | 20.8 | 17.3
386 | ⁸ EXTREME IMMATURITY | 0.7347 | 23.1 | 19.2
387 | ⁸ PREMATURITY W MAJOR PROBLEMS | 0.7347 | 23.1 | 19.2
388 | ⁸ PREMATURITY W/O MAJOR PROBLEMS | 0.7347 | 23.1 | 19.2
389 | ⁸ FULL TERM NEONATE W MAJOR PROBLEMS | 0.7347 | 23.1 | 19.2
390 | ⁸ NEONATE W OTHER SIGNIFICANT PROBLEMS | 0.7347 | 23.1 | 19.2
391 | ⁸ NORMAL NEWBORN | 0.5711 | 20.8 | 17.3
392 | ⁸ SPLENECTOMY AGE >17 | 0.7347 | 23.1 | 19.2
393 | ⁸ SPLENECTOMY AGE 0-17 | 0.7347 | 23.1 | 19.2
394 | ³ OTHER O.R. PROCEDURES OF THE BLOOD AND BLOOD FORMING ORGANS4 | 1.4090 | 34.1 | 28.4
395 | RED BLOOD CELL DISORDERS AGE >17 | 0.9050 | 26.8 | 22.3
396 | ⁸ RED BLOOD CELL DISORDERS AGE 0-17 | 0.5711 | 20.8 | 17.3
397 | COAGULATION DISORDERS | 1.0816 | 25.2 | 21.0
398 | RETICULOENDOTHELIAL & IMMUNITY DISORDERS W CC | 0.9248 | 23.0 | 19.1
399 | ¹ RETICULOENDOTHELIAL & IMMUNITY DISORDERS W/O CC | 0.5711 | 20.8 | 17.3
401 | ⁵ LYMPHOMA & NON-ACUTE LEUKEMIA W OTHER O.R. PROC W CC | 1.9873 | 41.3 | 34.4
402 | ³ LYMPHOMA & NON-ACUTE LEUKEMIA W OTHER O.R. PROC W/O CC | 0.9785 | 27.4 | 22.8
403 | LYMPHOMA & NON-ACUTE LEUKEMIA W CC | 0.9099 | 22.7 | 18.9
404 | LYMPHOMA & NON-ACUTE LEUKEMIA W/O CC | 0.7410 | 17.9 | 14.9
405 | ⁸ ACUTE LEUKEMIA W/O MAJOR O.R. PROCEDURE AGE 0-17 | 0.7347 | 23.1 | 19.2
406 | ⁵ MYELOPROLIF DISORD OR POORLY DIFF NEOPL W MAJ O.R.PROC W CC | 1.9873 | 41.3 | 34.4
407 | ⁸ MYELOPROLIF DISORD OR POORLY DIFF NEOPL W MAJ O.R.PROC W/O CC | 0.9785 | 27.4 | 22.8
408 | ³ MYELOPROLIF DISORD OR POORLY DIFF NEOPL W OTHER O.R.PROC | 0.9785 | 27.4 | 22.8
409 | RADIOTHERAPY | 0.8961 | 25.1 | 20.9
410 | ³ CHEMOTHERAPY W/O ACUTE LEUKEMIA AS SECONDARY DIAGNOSIS | 0.9785 | 27.4 | 22.8
411 | ³ HISTORY OF MALIGNANCY W/O ENDOSCOPY | 0.9785 | 27.4 | 22.8
412 | ⁵ HISTORY OF MALIGNANCY W ENDOSCOPY | 1.9873 | 41.3 | 34.4
413 | OTHER MYELOPROLIF DIS OR POORLY DIFF NEOPL DIAG W CC | 0.9603 | 25.2 | 21.0
414 | ² OTHER MYELOPROLIF DIS OR POORLY DIFF NEOPL DIAG W/O CC | 0.7347 | 23.1 | 19.2
415 | O.R. PROCEDURE FOR INFECTIOUS & PARASITIC DISEASES | 1.7239 | 40.9 | 34.0
416 | SEPTICEMIA AGE >17 | 0.9553 | 25.2 | 21.0
417 | ⁸ SEPTICEMIA AGE 0-17 | 0.9785 | 27.4 | 22.8
418 | POSTOPERATIVE & POST-TRAUMATIC INFECTIONS | 0.8612 | 25.3 | 21.0
419 | ³ FEVER OF UNKNOWN ORIGIN AGE >17 W CC | 0.9785 | 27.4 | 22.8
420 | ¹ FEVER OF UNKNOWN ORIGIN AGE >17 W/O CC | 0.5711 | 20.8 | 17.3
421 | ² VIRAL ILLNESS AGE >17 | 0.7347 | 23.1 | 19.2
422 | ⁸ VIRAL ILLNESS & FEVER OF UNKNOWN ORIGIN AGE 0-17 | 0.5711 | 20.8 | 17.3
423 | OTHER INFECTIOUS & PARASITIC DISEASES DIAGNOSES | 0.9930 | 25.9 | 21.5
424 | O.R. PROCEDURE W PRINCIPAL DIAGNOSES OF MENTAL ILLNESS | 1.2281 | 44.2 | 36.8
425 | ACUTE ADJUSTMENT REACTION & PSYCHOLOGICAL DYSFUNCTION | 0.6040 | 26.9 | 22.4
426 | DEPRESSIVE NEUROSES | 0.5583 | 23.3 | 19.4
427 | ⁴ NEUROSES EXCEPT DEPRESSIVE | 1.4090 | 34.1 | 28.4
428 | ¹ DISORDERS OF PERSONALITY & IMPULSE CONTROL | 0.5711 | 20.8 | 17.3
429 | ORGANIC DISTURBANCES & MENTAL RETARDATION | 0.6562 | 27.4 | 22.8
430 | PSYCHOSES | 0.4808 | 22.6 | 18.8
431 | ¹ CHILDHOOD MENTAL DISORDERS | 0.5711 | 20.8 | 17.3
432 | ¹ OTHER MENTAL DISORDER DIAGNOSES | 0.5711 | 20.8 | 17.3
433 | ALCOHOL/DRUG ABUSE OR DEPENDENCE, LEFT AMA | 0.3416 | 14.6 | 12.1
439 | SKIN GRAFTS FOR INJURIES | 1.4429 | 41.2 | 34.3
440 | WOUND DEBRIDEMENTS FOR INJURIES | 1.6794 | 39.4 | 32.8
441 | ⁵ HAND PROCEDURES FOR INJURIES | 1.9873 | 41.3 | 34.4
442 | OTHER O.R. PROCEDURES FOR INJURIES W CC | 1.6280 | 46.4 | 38.6
443 | ³ OTHER O.R. PROCEDURES FOR INJURIES W/O CC | 0.9785 | 27.4 | 22.8
444 | TRAUMATIC INJURY AGE >17 W CC | 0.9311 | 30.7 | 25.5
445 | TRAUMATIC INJURY AGE >17 W/O CC | 0.8278 | 27.3 | 22.7
446 | ⁸ TRAUMATIC INJURY AGE 0-17 | 0.7347 | 23.1 | 19.2
447 | ³ ALLERGIC REACTIONS AGE >17 | 0.9785 | 27.4 | 22.8
448 | ⁸ ALLERGIC REACTIONS AGE 0-17 | 0.5711 | 20.8 | 17.3
449 | ³ POISONING & TOXIC EFFECTS OF DRUGS AGE >17 W CC | 0.9785 | 27.4 | 22.8
450 | ³ POISONING & TOXIC EFFECTS OF DRUGS AGE >17 W/O CC | 0.9785 | 27.4 | 22.8
451 | ⁸ POISONING & TOXIC EFFECTS OF DRUGS AGE 0-17 | 0.5711 | 20.8 | 17.3
452 | COMPLICATIONS OF TREATMENT W CC | 0.9830 | 25.5 | 21.2
453 | COMPLICATIONS OF TREATMENT W/O CC | 0.8894 | 25.5 | 21.2
454 | ² OTHER INJURY, POISONING & TOXIC EFFECT DIAG W CC | 0.7347 | 23.1 | 19.2
455 | ¹ OTHER INJURY, POISONING & TOXIC EFFECT DIAG W/O CC | 0.5711 | 20.8 | 17.3
461 | O.R. PROC W DIAGNOSES OF OTHER CONTACT W HEALTH SERVICES | 1.4214 | 36.6 | 30.5
462 | REHABILITATION | 0.6528 | 22.7 | 18.9
463 | SIGNS & SYMPTOMS W CC | 0.7824 | 26.4 | 22.0
464 | SIGNS & SYMPTOMS W/O CC | 0.6259 | 25.2 | 21.0
465 | ¹ AFTERCARE W HISTORY OF MALIGNANCY AS SECONDARY DIAGNOSIS | 0.5711 | 20.8 | 17.3
466 | AFTERCARE W/O HISTORY OF MALIGNANCY AS SECONDARY DIAGNOSIS | 0.7783 | 22.6 | 18.8
467 | OTHER FACTORS INFLUENCING HEALTH STATUS | 1.4773 | 32.6 | 27.1
468 | EXTENSIVE O.R. PROCEDURE UNRELATED TO PRINCIPAL DIAGNOSIS | 2.0716 | 43.7 | 36.4
469 | ⁶ PRINCIPAL DIAGNOSIS INVALID AS DISCHARGE DIAGNOSIS | 0.0000 | 0.0 | 0.0
470 | ⁶ UNGROUPABLE | 0.0000 | 0.0 | 0.0
471 | ⁵ BILATERAL OR MULTIPLE MAJOR JOINT PROCS OF LOWER EXTREMITY | 1.9873 | 41.3 | 34.4
473 | ² ACUTE LEUKEMIA W/O MAJOR O.R. PROCEDURE AGE >17 | 0.7347 | 23.1 | 19.2
475 | RESPIRATORY SYSTEM DIAGNOSIS WITH VENTILATOR SUPPORT | 2.0241 | 33.0 | 27.5
476 | PROSTATIC O.R. PROCEDURE UNRELATED TO PRINCIPAL DIAGNOSIS | 1.0056 | 32.9 | 27.4
477 | NON-EXTENSIVE O.R. PROCEDURE UNRELATED TO PRINCIPAL DIAGNOSIS | 1.8688 | 40.7 | 33.9
478 | ⁷ OTHER VASCULAR PROCEDURES W CC | 1.3238 | 34.9 | 29.0
479 | ⁷ OTHER VASCULAR PROCEDURES W/O CC | 1.3238 | 34.9 | 29.0
480 | ⁶ LIVER TRANSPLANT | 0.0000 | 0.0 | 0.0
481 | ⁸ BONE MARROW TRANSPLANT | 0.5711 | 20.8 | 17.3
482 | ⁵ TRACHEOSTOMY FOR FACE,MOUTH & NECK DIAGNOSES | 1.9873 | 41.3 | 34.4
483 | TRACH W MECH VENT 96+ HRS OR PDX EXCEPT FACE,MOUTH & NECK DIAG | 3.1562 | 54.9 | 45.7
484 | ⁸ CRANIOTOMY FOR MULTIPLE SIGNIFICANT TRAUMA | 1.9873 | 41.3 | 34.4
485 | ⁸ LIMB REATTACHMENT, HIP AND FEMUR PROC FOR MULTIPLE SIGNIFICANT TR | 1.9873 | 41.3 | 34.4
486 | ⁴ OTHER O.R. PROCEDURES FOR MULTIPLE SIGNIFICANT TRAUMA | 1.4090 | 34.1 | 28.4
487 | OTHER MULTIPLE SIGNIFICANT TRAUMA | 1.2653 | 33.2 | 27.6
488 | ⁵ HIV W EXTENSIVE O.R. PROCEDURE | 1.9873 | 41.3 | 34.4
489 | HIV W MAJOR RELATED CONDITION | 0.9656 | 22.1 | 18.4
490 | HIV W OR W/O OTHER RELATED CONDITION | 0.7956 | 20.5 | 17.0
491 | ⁸ MAJOR JOINT & LIMB REATTACHMENT PROCEDURES OF UPPER EXTREMITY | 1.9873 | 41.3 | 34.4
492 | ⁸ CHEMOTHERAPY W ACUTE LEUKEMIA AS SECONDARY DIAGNOSIS OR W USE HIGH DOSE CHEMOTHERAPY AGENT | 0.9785 | 27.4 | 22.8
493 | ⁴ LAPAROSCOPIC CHOLECYSTECTOMY W/O C.D.E. W CC | 1.4090 | 34.1 | 28.4
494 | ⁴ LAPAROSCOPIC CHOLECYSTECTOMY W/O C.D.E. W/O CC | 1.4090 | 34.1 | 28.4
495 | ⁶ LUNG TRANSPLANT | 0.0000 | 0.0 | 0.0
496 | ⁸ COMBINED ANTERIOR/POSTERIOR SPINAL FUSION | 1.4090 | 34.1 | 28.4
497 | ³ SPINAL FUSION W CC | 0.9785 | 27.4 | 22.8
498 | ³ SPINAL FUSION W/O CC | 0.9785 | 27.4 | 22.8
499 | ⁵ BACK & NECK PROCEDURES EXCEPT SPINAL FUSION W CC | 1.9873 | 41.3 | 34.4
500 | ⁴ BACK & NECK PROCEDURES EXCEPT SPINAL FUSION W/O CC | 1.4090 | 34.1 | 28.4
501 | ⁵ KNEE PROCEDURES W PDX OF INFECTION W CC | 1.9873 | 41.3 | 34.4
502 | ² KNEE PROCEDURES W PDX OF INFECTION W/O CC | 0.7347 | 23.1 | 19.2
503 | ³ KNEE PROCEDURES W/O PDX OF INFECTION | 0.9785 | 27.4 | 22.8
504 | ⁸ EXTENSIVE 3RD DEGREE BURNS W SKIN GRAFT | 1.9873 | 41.3 | 34.4
505 | ³ EXTENSIVE 3RD DEGREE BURNS W/O SKIN GRAFT | 0.9785 | 27.4 | 22.8
506 | ² FULL THICKNESS BURN W SKIN GRAFT OR INHAL INJ W CC OR SIG TRAUMA | 0.7347 | 23.1 | 19.2
507 | ² FULL THICKNESS BURN W SKIN GRFT OR INHAL INJ W/O CC OR SIG TRAUMA | 0.7347 | 23.1 | 19.2
508 | ² FULL THICKNESS BURN W/O SKIN GRFT OR INHAL INJ W CC OR SIG TRAUMA | 0.7347 | 23.1 | 19.2
509 | ¹ FULL THICKNESS BURN W/O SKIN GRFT OR INH INJ W/O CC OR SIG TRAUMA | 0.5711 | 20.8 | 17.3
510 | ² NON-EXTENSIVE BURNS W CC OR SIGNIFICANT TRAUMA | 0.7347 | 23.1 | 19.2
511 | ¹ NON-EXTENSIVE BURNS W/O CC OR SIGNIFICANT TRAUMA | 0.5711 | 20.8 | 17.3
512 | ⁶ SIMULTANEOUS PANCREAS/KIDNEY TRANSPLANT | 0.0000 | 0.0 | 0.0
513 | ⁶ PANCREAS TRANSPLANT | 0.0000 | 0.0 | 0.0
515 | ⁵ CARDIAC DEFIBRILATOR IMPLANT W/O CARDIAC CATH | 1.9873 | 41.3 | 34.4
516 | ⁸ PERCUTANEOUS CARDIVASCULAR PROCEDURE W AMI | 0.9785 | 27.4 | 22.8
517 | ⁴ PERCUTANEOUS CARDIVASCULAR PROC W NON-DRUG ELUTING STENT W/O AMI | 1.4090 | 34.1 | 28.4
518 | ³ PERCUTANEOUS CARDIVASCULAR PROC W/O CORONARY ARTERY STENT OR AMI | 0.9785 | 27.4 | 22.8
519 | ⁴ CERVICAL SPINAL FUSION W CC | 1.4090 | 34.1 | 28.4
520 | ⁸ CERVICAL SPINAL FUSION W/O CC | 0.9785 | 27.4 | 22.8
521 | ALCOHOL/DRUG ABUSE OR DEPENDENCE W CC | 0.5064 | 20.9 | 17.4
522 | ALCOHOL/DRUG ABUSE OR DEPENDENCE W REHABILITATION THERAPY W/O CC | 0.4221 | 19.5 | 16.2
523 | ALCOHOL/DRUG ABUSE OR DEPENDENCE W/O REHABILITATION THERAPY W/O CC | 0.4366 | 21.9 | 18.2
524 | TRANSIENT ISCHEMIA | 0.6178 | 23.4 | 19.5
525 | ⁸ HEART ASSIST SYSTEM IMPLANT | 1.9873 | 41.3 | 34.4
526 | ⁸ PERCUTANEOUS CARVIOVASCULAR PROC W DRUG-ELUTING STENT W AMI | 1.4090 | 34.1 | 28.4
527 | ⁸ PERCUTANEOUS CARVIOVASCULAR PROC W DRUG-ELUTING STENT W/O AMI | 1.4090 | 34.1 | 28.4
528 | ⁸ INTRACRANIAL VASCLUAR PROCEDURES WITH PDX HEMORRHAGE | 1.9873 | 41.3 | 34.4
529 | ² VENTRICULAR SHUNT PROCEDURES WITH CC | 0.7347 | 23.1 | 19.2
530 | ⁸ VENTRICULAR SHUNT PROCEDURES WITHOUT CC | 0.7347 | 23.1 | 19.2
531 | ⁸ SPINAL PROCEDURES WITH CC | 1.4090 | 34.1 | 28.4
532 | ⁴ SPINAL PROCEDURES WITHOUT CC | 1.4090 | 34.1 | 28.4
533 | ⁸ EXTRACRANIAL VASCULAR PROCEDURES WITH CC | 1.9873 | 41.3 | 34.4
534 | ⁵ EXTRACRANIAL VASCULAR PROCEDURES WITHOUT CC | 1.9873 | 41.3 | 34.4
535 | ⁸ CARDIAC DEFIB IMPLANT WITH CARDIAC CATH WITH AMI/HF/SHOCK | 1.9873 | 41.3 | 34.4
536 | ⁵ CARDIAC DEFIB IMPLANT WITH CARDIAC CATH WITHOUT AMI/HF/SHOCK | 1.9873 | 41.3 | 34.4
537 | ⁸ LOCAL EXCISION AND REMOVAL OF INTERNAL FIXATION DEVICES EXCEPT HIP AND FEMUR WITH CC | 0.7347 | 23.1 | 19.2
538 | ⁴ LOCAL EXCISION AND REMOVAL OF INTERNAL FIXATION DEVICES EXCEPT HIP AND FEMUR WITHOUT CC | 1.4090 | 34.1 | 28.4
539 | ⁸ LYMPHOMA AND LEUKEMIA WITH MAJOR O.R. PROCEDURE WITH CC | 1.9873 | 41.3 | 34.4
540 | ¹ LYMPHOMA AND LEUKEMIA WITH MAJOR O.R. PROCEDURE WITHOUT CC | 0.5711 | 20.8 | 17.3
¹ Proposed relative weights for these proposed LTC-DRGs were determined by assigning these cases to proposed low volume quintile 1.
² Proposed relative weights for these proposed LTC-DRGs were determined by assigning these cases to proposed low volume quintile 2.
³ Proposed relative weights for these proposed LTC-DRGs were determined by assigning these cases to proposed low volume quintile 3.
⁴ Proposed relative weights for these proposed LTC-DRGs were determined by assigning these cases to proposed low volume quintile 4.
⁵ Proposed relative weights for these proposed LTC-DRGs were determined by assigning these cases to proposed low volume quintile 5.
⁶ Proposed relative weights for these proposed LTC-DRGs were assigned a value of 0.0000.
⁷ Proposed relative weights for these proposed LTC-DRGs were determined after adjusting to account for nonmonotonicity (see step 5 above).
⁸ Proposed relative weights for these proposed LTC-DRGs were determined by assigning these cases to the appropriate proposed low volume quintile because they had no LTCH cases in the FY 2002 MedPAR.

Appendix A—Regulatory Analysis of Impacts

I. Background and Summary

We have examined the impacts of this proposed rule as required by Executive Order 12866 (September 1993, Regulatory Planning and Review) and the Regulatory Flexibility Act (RFA) (September 19, 1980, Pub. L. 96-354), section 1102(b) of the Social Security Act, the Unfunded Mandates Reform Act of 1995 (Pub. L. 104-4), and Executive Order 13132.

Executive Order 12866 directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year).

We have determined that this proposed rule is a major rule as defined in 5 U.S.C. 804(2). Based on the overall percentage change in payments per case estimated using our payment simulation model (a 2.5 percent increase), we estimate that the total impact of these proposed changes for FY 2004 payments compared to FY 2003 payments to be approximately a $2.1 billion increase. This amount does not reflect changes in hospital admissions or case-mix intensity, which would also affect overall payment changes.

The RFA requires agencies to analyze options for regulatory relief of small businesses. For purposes of the RFA, small entities include small businesses, nonprofit organizations, and government agencies. Most hospitals and most other providers and suppliers are small entities, either by nonprofit status or by having revenues of $5 million to $25 million in any 1 year. For purposes of the RFA, all hospitals and other providers and suppliers are considered to be small entities. Individuals and States are not included in the definition of a small entity.

In addition, section 1102(b) of the Act requires us to prepare a regulatory impact analysis for any proposed rule that may have a significant impact on the operations of a substantial number of small rural hospitals. This analysis must conform to the provisions of section 603 of the RFA. With the exception of hospitals located in certain New England counties, for purposes of section 1102(b) of the Act, we define a small rural hospital as a hospital with fewer than 100 beds that is located outside of a Metropolitan Statistical Area (MSA) or New England County Metropolitan Area (NECMA). Section 601(g) of the Social Security Amendments of 1983 (Pub. L. 98-21) designated hospitals in certain New England counties as belonging to the adjacent NECMA. Thus, for purposes of the acute care hospital inpatient prospective payment systems, we classify these hospitals as urban hospitals.

Section 202 of the Unfunded Mandates Reform Act of 1995 (Pub. L. 104-4) also requires that agencies assess anticipated costs and benefits before issuing any proposed rule (or a final rule that has been preceded by a proposed rule) that may result in an expenditure in any one year by State, local, or tribal governments, in the aggregate, or by the private sector, of $110 million. This proposed rule would not mandate any requirements for State, local, or tribal governments.

Executive Order 13132 establishes certain requirements that an agency must meet when it promulgates a proposed rule (and subsequent final rule) that imposes substantial direct requirement costs on State and local governments, preempts State law, or otherwise has Federalism implications. We have reviewed this proposed rule in light of Executive Order 13132 and have determined that it would not have any negative impact on the rights, roles, and responsibilities of State, local, or tribal governments.

In accordance with the provisions of Executive Order 12866, this proposed rule was reviewed by the Office of Management and Budget.

The following analysis, in conjunction with the remainder of this document, demonstrates that this proposed rule is consistent with the regulatory philosophy and principles identified in Executive Order 12866, the RFA, and section 1102(b) of the Act. The proposed rule would affect payments to a substantial number of small rural hospitals as well as other classes of hospitals, and the effects on some hospitals may be significant.

II. Objectives

The primary objective of the IPPS is to create incentives for hospitals to operate efficiently and minimize unnecessary costs while at the same time ensuring that payments are sufficient to adequately compensate hospitals for their legitimate costs. In addition, we share national goals of preserving the Medicare Trust Fund.

We believe the changes in this proposed rule would further each of these goals while maintaining the financial viability of the hospital industry and ensuring access to high quality health care for Medicare beneficiaries. We expect that these proposed changes would ensure that the outcomes of this payment system are reasonable and equitable while avoiding or minimizing unintended adverse consequences.

III. Limitations of Our Analysis

The following quantitative analysis presents the projected effects of our proposed policy changes, as well as statutory changes effective for FY 2004, on various hospital groups. We estimate the effects of individual proposed policy changes by estimating payments per case while holding all other payment policies constant. We use the best data available, but we do not attempt to predict behavioral responses to our proposed policy changes, and we do not make adjustments for future changes in such variables as admissions, lengths of stay, or case-mix. As we have done in previous proposed rules, we are soliciting comments and information about the anticipated effects of these proposed changes on hospitals and our methodology for estimating them.

IV. Hospitals Included In and Excluded From the IPPS

The prospective payment systems for hospital inpatient operating and capital-related costs encompass nearly all general short-term, acute care hospitals that participate in the Medicare program. There were 45 Indian Health Service hospitals in our database, which we excluded from the analysis due to the special characteristics of the prospective payment method for these hospitals. Among other short-term, acute care hospitals, only the 48 such hospitals in Maryland remain excluded from the IPPS under the waiver at section 1814(b)(3) of the Act.

There are approximately 729 critical access hospitals (CAHs). These small, limited service hospitals are paid on the basis of reasonable costs rather than under the IPPS. The remaining 20 percent are specialty hospitals that are excluded from the IPPS. These specialty hospitals include psychiatric hospitals and units, rehabilitation hospitals and units, long-term care hospitals, children's hospitals, and cancer hospitals. The impacts of our proposed policy changes on these hospitals are discussed below.

Thus, as of April 2003, we have included 4,087 hospitals in our analysis. This represents about 80 percent of all Medicare-participating hospitals. The majority of this impact analysis focuses on this set of hospitals.

V. Impact on Excluded Hospitals and Hospital Units

As of April 2003, there were 1,085 specialty hospitals excluded from the IPPS that were paid instead on a reasonable cost basis subject to the rate-of-increase ceiling under § 413.40. Broken down by specialty, there were 484 psychiatric, 214 rehabilitation, 296 long-term care, 80 children's, and 11 cancer hospitals. In addition, there were 1,410 psychiatric units and 979 rehabilitation units in hospitals otherwise subject to the IPPS. Under § 413.40(a)(2)(i)(A), the rate-of-increase ceiling is not applicable to the 48 specialty hospitals and units in Maryland that are paid in accordance with the waiver at section 1814(b)(3) of the Act.

In the past, hospitals and units excluded from the IPPS have been paid based on their reasonable costs subject to limits as established by the Tax Equity and Fiscal Responsibility Act of 1982 (TEFRA). Hospitals that continue to be paid based on their reasonable costs are subject to TEFRA limits for FY 2004. For these hospitals, the proposed update is the percentage increase in the excluded hospital market basket (currently estimated at 3.5 percent).

Inpatient rehabilitation facilities (IRFs) are paid under a prospective payment system (IRF PPS) for cost reporting periods beginning on or after January 1, 2002. For cost reporting periods beginning during FY 2004, the IRF PPS is based on 100 percent of the adjusted Federal IRF prospective payment amount, updated annually. Therefore, these hospitals would not be impacted by this proposed rule.

Effective for cost reporting periods beginning on or after October 1, 2002, LTCHs are paid under a LTCH PPS, based on the adjusted Federal prospective payment amount, updated annually. LTCHs will receive a blended payment (Federal prospective payment and a reasonable cost-based payment) over a 5-year transition period. However, under the LTCH PPS, a LTCH may also elect to be paid at 100 percent of the Federal prospective rate at the beginning of any of its cost reporting periods during the 5-year transition period. For purposes of the update factor, the portion of the LTCH PPS transition blend payment based on reasonable costs for inpatient operating services would be determined by updating the LTCH's TEFRA limit by the estimate of the excluded hospital market basket (or 3.5 percent).

The impact on excluded hospitals and hospital units of the update in the rate-of-increase limit depends on the cumulative cost increases experienced by each excluded hospital or unit since its applicable base period. For excluded hospitals and units that have maintained their cost increases at a level below the rate-of-increase limits since their base period, the major effect would be on the level of incentive payments these hospitals and hospital units receive. Conversely, for excluded hospitals and hospital units with per-case cost increases above the cumulative update in their rate-of-increase limits, the major effect would be the amount of excess costs that would not be reimbursed.

We note that, under § 413.40(d)(3), an excluded hospital or unit whose costs exceed 110 percent of its rate-of-increase limit receives its rate-of-increase limit plus 50 percent of the difference between its reasonable costs and 110 percent of the limit, not to exceed 110 percent of its limit. In addition, under the various provisions set forth in § 413.40, certain excluded hospitals and hospital units can obtain payment adjustments for justifiable increases in operating costs that exceed the limit. At the same time, however, by generally limiting payment increases, we continue to provide an incentive for excluded hospitals and hospital units to restrain the growth in their spending for patient services.

VI. Quantitative Impact Analysis of the Proposed Policy Changes Under the IPPS for Operating Costs

A. Basis and Methodology of Estimates

In this proposed rule, we are announcing policy changes and payment rate updates for the IPPS for operating and capital-related costs. Based on the overall percentage change in payments per case estimated using our payment simulation model (a 2.5 percent increase), we estimate the total impact of these changes for FY 2004 payments compared to FY 2003 payments to be approximately a $2.1 billion increase. This amount does not reflect changes in hospital admissions or case-mix intensity, which would also affect overall payment changes.

We have prepared separate impact analyses of the proposed changes to each system. This section deals with changes to the operating prospective payment system. Our payment simulation model relies on available data to enable us to estimate the impacts on payments per case of certain changes we are proposing in this proposed rule. However, there are other changes we are proposing for which we do not have data available that would allow us to estimate the payment impacts using this model. For those proposals, we have attempted to predict the payment impacts of those proposed changes based upon our experience and other more limited data.

The data used in developing the quantitative analyses of changes in payments per case presented below are taken from the FY 2002 MedPAR file and the most current Provider-Specific File that is used for payment purposes. Although the analyses of the changes to the operating PPS do not incorporate cost data, data from the most recently available hospital cost report were used to categorize hospitals. Our analysis has several qualifications. First, we do not make adjustments for behavioral changes that hospitals may adopt in response to these proposed policy changes, and we do not adjust for future changes in such variables as admissions, lengths of stay, or case-mix. Second, due to the interdependent nature of the IPPS payment components, it is very difficult to precisely quantify the impact associated with each proposed change. Third, we draw upon various sources for the data used to categorize hospitals in the tables. In some cases, particularly the number of beds, there is a fair degree of variation in the data from different sources. We have attempted to construct these variables with the best available source overall. However, for individual hospitals, some miscategorizations are possible.

Using cases in the FY 2002 MedPAR file, we simulated payments under the operating IPPS given various combinations of payment parameters. Any short-term, acute care hospitals not paid under the IPPSs (Indian Health Service hospitals and hospitals in Maryland) were excluded from the simulations. The impact of payments under the capital IPPS, or the impact of payments for costs other than inpatient operating costs, are not analyzed in this section. Estimated payment impacts of proposed FY 2004 changes to the capital IPPS are discussed in section IX. of this Appendix.

The proposed changes discussed separately below are the following:

• The effects of expanding the postacute care transfer policy to 19 additional DRGs.

• The effects of the proposed annual reclassification of diagnoses and procedures and the recalibration of the DRG relative weights required by section 1886(d)(4)(C) of the Act.

• The effects of the proposed changes in hospitals' wage index values reflecting wage data from hospitals' cost reporting periods beginning during FY 2000, compared to the FY 1999 wage data, including the effects of removing wage data for Part B costs of RCHs and FQHCs.

• The effects of geographic reclassifications by the MGCRB that will be effective in FY 2004.

• The total change in payments based on proposed FY 2004 policies relative to payments based on FY 2003 policies.

To illustrate the impacts of the proposed FY 2004 changes, our analysis begins with a FY 2004 baseline simulation model using: the FY 2003 DRG GROUPER (version 20.0); the current postacute care transfer policy for 10 DRGs; the FY 2003 wage index; and no MGCRB reclassifications. Outlier payments are set at 5.1 percent of total operating DRG and outlier payments.

Each proposed and statutory policy change is then added incrementally to this baseline model, finally arriving at an FY 2004 model incorporating all of the proposed changes. This allows us to isolate the effects of each proposed change.

Our final comparison illustrates the percent change in payments per case from FY 2003 to FY 2004. Five factors have significant impacts here. The first is the update to the standardized amounts. In accordance with section 1886(b)(3)(B)(i) of the Act, we are proposing to update the large urban and the other areas average standardized amounts for FY 2004 using the most recently forecasted hospital market basket increase for FY 2004 of 3.5 percent. Under section 1886(b)(3)(B)(iv) of the Act, the updates to the hospital-specific amounts for sole community hospitals (SCHs) and for Medicare-dependent small rural hospitals (MDHs) are also equal to the market basket increase, or 3.5 percent.

A second significant factor that impacts changes in hospitals' payments per case from FY 2003 to FY 2004 is the change in MGCRB status from one year to the next. That is, hospitals reclassified in FY 2003 that are no longer reclassified in FY 2004 may have a negative payment impact going from FY 2003 to FY 2004; conversely, hospitals not reclassified in FY 2003 that are reclassified in FY 2004 may have a positive impact. In some cases, these impacts can be quite substantial, so if a relatively small number of hospitals in a particular category lose their reclassification status, the percentage change in payments for the category may be below the national mean. However, this effect is alleviated by section 1886(d)(10)(D)(v) of the Act, which provides that reclassifications for purposes of the wage index are for a 3-year period.

A third significant factor is that we currently estimate that actual outlier payments during FY 2003 will be 5.5 percent of total DRG payments. When the FY 2003 final rule was published, we projected FY 2003 outlier payments would be 5.1 percent of total DRG plus outlier payments; the average standardized amounts were offset correspondingly. The effects of the higher than expected outlier payments during FY 2003 (as discussed in the Addendum to this proposed rule) are reflected in the analyses below comparing our current estimates of FY 2003 payments per case to estimated FY 2004 payments per case.

Fourth, we are proposing to expand the postacute care transfer policy to 19 additional DRGs. This proposed expansion would result in Medicare savings of $160 million because we would no longer pay a full DRG payment for these cases. As a result, there would be a lower total increase in Medicare spending for FY 2004.

Fifth, section 402(b) of Pub. L. 108-7 provided that the large urban standardized amount of the Federal rate is applicable for all IPPS hospitals for discharges occurring on or after April 1, 2003, and before October 1, 2003. For discharges occurring on or after October 1, 2003, the Federal rate will again be based on separate average standardized amounts for hospitals in large urban areas and for hospitals in other areas. The effect is to reduce the percent increase in FY 2004 payments compared to those made in FY 2003.

B. Analysis of Table I

Table I demonstrates the results of our analysis. The table categorizes hospitals by various geographic and special payment consideration groups to illustrate the varying impacts on different types of hospitals. The top row of the table shows the overall impact on the 4,087 hospitals included in the analysis. This number is 143 fewer hospitals than were included in the impact analysis in the FY 2003 final rule (67 FR 50279). There are 98 new CAHs that were excluded from last year's analysis.

The next four rows of Table I contain hospitals categorized according to their geographic location: all urban, which is further divided into large urban and other urban; and rural. There are 2,582 hospitals located in urban areas (MSAs or NECMAs) included in our analysis. Among these, there are 1,493 hospitals located in large urban areas (populations over 1 million), and 1,089 hospitals in other urban areas (populations of 1 million or fewer). In addition, there are 1,505 hospitals in rural areas. The next two groupings are by bed-size categories, shown separately for urban and rural hospitals. The final groupings by geographic location are by census divisions, also shown separately for urban and rural hospitals.

The second part of Table I shows hospital groups based on hospitals' FY 2004 payment classifications, including any reclassifications under section 1886(d)(10) of the Act. For example, the rows labeled urban, large urban, other urban, and rural show that the number of hospitals paid based on these categorizations after consideration of geographic reclassifications are 2,591, 1,572, 1,019, and 1,496, respectively.

The next three groupings examine the impacts of the proposed changes on hospitals grouped by whether or not they have GME residency programs (teaching hospitals that receive an IME adjustment) or receive DSH payments, or some combination of these two adjustments. There are 2,976 nonteaching hospitals in our analysis, 873 teaching hospitals with fewer than 100 residents, and 238 teaching hospitals with 100 or more residents.

In the DSH categories, hospitals are grouped according to their DSH payment status, and whether they are considered urban or rural after MGCRB reclassifications. Therefore, hospitals in the rural DSH categories represent hospitals that were not reclassified for purposes of the standardized amount or for purposes of the DSH adjustment. (However, they may have been reclassified for purposes of the wage index.)

The next category groups hospitals considered urban after geographic reclassification, in terms of whether they receive the IME adjustment, the DSH adjustment, both, or neither.

The next five rows examine the impacts of the proposed changes on rural hospitals by special payment groups (SCHs, rural referral centers (RRCs), and MDHs), as well as rural hospitals not receiving a special payment designation. The RRCs (149), SCHs (494), MDHs (254), and hospitals that are both SCH and RRC (78) shown here were not reclassified for purposes of the standardized amount.

The next two groupings are based on type of ownership and the hospital's Medicare utilization expressed as a percent of total patient days. These data are taken primarily from the FY 2000 Medicare cost report files, if available (otherwise FY 1999 data are used). Data needed to determine ownership status were unavailable for 120 hospitals. Similarly, the data needed to determine Medicare utilization were unavailable for 104 hospitals.

The next series of groupings concern the geographic reclassification status of hospitals. The first grouping displays all hospitals that were reclassified by the MGCRB for FY 2004. The next two groupings separate the hospitals in the first group by urban and rural status. The final row in Table I contains hospitals located in rural counties but deemed to be urban under section 1886(d)(8)(B) of the Act.

Table I.—Impact Analysis of Proposed Changes for FY 2004 Operating Prospective Payment System
[Percent changes in payments per case]
| Number of hosps.¹ | Transfer changes 2004 base ² | DRG changes ³ | New wage data ⁴ | New wage index without nonphys. part B ⁵ | DRG & wage index changes ⁶ | MCGRB reclassi- fication ⁷ | ALL FY 2004 changes ⁸
| (1) | (2) | (3) | (4) | (5) | (6) | (7) | (8)
By Geographic Location:
All hospitals | 4,087 | −0.2 | 0.0 | −0.4 | 0.1 | 0.0 | 0.0 | 2.5
Urban hospitals | 2,582 | −0.2 | 0.0 | −0.5 | 0.1 | 0.0 | −0.4 | 2.5
Large urban areas (populations over 1 million) | 1,493 | −0.2 | 0.0 | −0.4 | 0.0 | −0.1 | −0.4 | 2.6
Other urban areas (populations of 1 million of fewer) | 1,089 | −0.2 | −0.1 | −0.5 | 0.3 | 0.1 | −0.2 | 2.2
Rural hospitals | 1,505 | −0.2 | 0.0 | −0.2 | 0.0 | 0.5 | 2.6 | 3.1
Bed Size (Urban):
0-99 beds | 626 | −0.3 | 0.0 | −0.1 | 0.3 | 0.6 | −0.7 | 2.7
100-199 beds | 916 | −0.2 | 0.0 | −0.4 | 0.2 | 0.1 | −0.4 | 2.6
200-299 beds | 507 | −0.2 | 0.0 | −0.5 | 0.1 | −0.1 | −0.3 | 2.3
300-499 beds | 377 | −0.2 | 0.0 | −0.3 | 0.1 | 0.1 | −0.3 | 2.5
500 or more beds | 156 | −0.1 | −0.1 | −0.8 | 0.1 | −0.5 | −0.4 | 2.3
Bed Size (Rural):
0-49 beds | 690 | −0.2 | 0.2 | −0.3 | 0.0 | 0.7 | 0.6 | 3.4
50-99 beds | 477 | −0.2 | 0.0 | −0.2 | 0.0 | 0.5 | 1.0 | 3.3
100-149 beds | 202 | −0.2 | 0.0 | −0.3 | 0.0 | 0.3 | 2.9 | 2.8
150-199 beds | 70 | −0.2 | −0.1 | 0.0 | 0.0 | 0.7 | 4.6 | 2.7
200 or more beds | 66 | −0.1 | −0.1 | −0.1 | 0.0 | 0.4 | 4.8 | 3.0
Urban by Region:
New England | 134 | −0.4 | 0.0 | −1.0 | 0.8 | 1.1 | −0.1 | 2.7
Middle Atlantic | 394 | −0.2 | 0.0 | −1.0 | 0.1 | −0.7 | 0.1 | 1.7
South Atlantic | 372 | −0.2 | 0.0 | −0.4 | 0.1 | −0.1 | −0.5 | 2.5
East North Central | 429 | −0.2 | 0.0 | −0.5 | 0.1 | −0.1 | −0.4 | 2.5
East South Central | 155 | −0.1 | −0.1 | 0.3 | 0.1 | 0.6 | −0.6 | 3.1
West North Central | 176 | −0.2 | −0.1 | 0.1 | 0.1 | 0.3 | −0.7 | 2.8
West South Central | 329 | −0.1 | 0.0 | −0.4 | 0.0 | −0.2 | −0.6 | 2.5
Mountain | 131 | −0.2 | −0.2 | 0.5 | 0.1 | 0.7 | −0.5 | 3.5
Pacific | 416 | −0.2 | −0.1 | −0.4 | 0.1 | −0.1 | −0.4 | 2.5
Puerto Rico | 46 | 0.0 | −0.1 | −0.1 | 0.0 | −0.1 | −0.7 | 2.9
Rural by Region:
New England | 38 | −0.2 | −0.1 | 0.3 | 0.0 | 0.8 | 2.6 | 3.3
Middle Atlantic | 67 | −0.2 | 0.1 | −0.1 | 0.0 | 0.3 | 2.4 | 2.6
South Atlantic | 221 | −0.2 | 0.0 | −0.3 | 0.0 | 0.2 | 2.9 | 2.3
East North Central | 199 | −0.2 | −0.1 | 0.2 | 0.0 | 0.8 | 2.1 | 3.1
East South Central | 232 | −0.2 | 0.1 | −0.2 | 0.0 | 0.4 | 2.8 | 3.0
West North Central | 254 | −0.1 | −0.1 | −0.2 | 0.1 | 1.0 | 1.9 | 3.8
West South Central | 273 | −0.1 | 0.1 | −0.4 | 0.1 | 0.2 | 3.7 | 3.5
Mountain | 127 | −0.1 | −0.1 | −0.2 | 0.0 | 0.3 | 1.5 | 3.2
Pacific | 89 | −0.2 | −0.1 | −0.5 | 0.1 | 0.5 | 2.5 | 3.5
Puerto Rico | 5 | 0.0 | −0.1 | −4.1 | 0.0 | −4.1 | 0.4 | −0.2
By Payment Classification:
Urban hospitals | 2,591 | −0.2 | 0.0 | −0.5 | 0.1 | 0.0 | −0.3 | 2.5
Large urban areas (populations over 1 million) | 1,572 | −0.2 | 0.0 | −0.4 | 0.1 | −0.1 | −0.2 | 2.7
Other urban areas (populations of 1 million of fewer) | 1,019 | −0.2 | −0.1 | −0.5 | 0.3 | 0.1 | −0.4 | 2.2
Rural areas | 1,496 | −0.2 | 0.0 | −0.2 | 0.0 | 0.5 | 2.2 | 3.0
Teaching Status:
Non-teaching | 2,976 | −0.2 | 0.0 | −0.3 | 0.1 | 0.2 | 0.4 | 2.6
Fewer than 100 Residents | 873 | −0.2 | −0.1 | −0.2 | 0.1 | 0.2 | −0.2 | 2.6
100 or more Residents | 238 | −0.2 | −0.1 | −0.9 | 0.1 | −0.5 | −0.1 | 2.3
Urban DSH:
Non-DSH | 1,381 | −0.2 | −0.1 | −0.2 | 0.1 | 0.2 | 0.0 | 2.7
100 or more beds | 1,398 | −0.2 | 0.0 | −0.6 | 0.1 | −0.1 | −0.3 | 2.4
Less than 100 beds | 276 | −0.3 | 0.0 | −0.2 | 0.3 | 0.5 | −0.5 | 2.4
Rural DSH:
Sole Community (SCH) | 484 | −0.1 | 0.1 | −0.2 | 0.0 | 0.5 | 0.4 | 3.7
Referral Center (RRC) | 161 | −0.1 | −0.1 | −0.1 | 0.0 | 0.4 | 4.6 | 2.8
Other Rural: 100 or more beds | 75 | −0.3 | 0.1 | −0.5 | 0.0 | 0.1 | 1.0 | 1.9
Less than 100 beds | 312 | −0.3 | 0.2 | −0.4 | 0.0 | 0.3 | 1.0 | 2.5
Urban teaching and DSH:
DSH | 771 | −0.2 | 0.0 | −0.6 | 0.1 | −0.1 | −0.3 | 2.5
Teaching and no DSH | 273 | −0.2 | −0.1 | −0.3 | 0.1 | 0.0 | −0.2 | 2.6
No teaching and DSH | 903 | −0.2 | 0.0 | −0.5 | 0.2 | 0.0 | −0.2 | 2.3
No teaching and no DSH | 644 | −0.2 | 0.0 | −0.2 | 0.1 | 0.3 | −0.3 | 2.7
Rural Hospital Types:
Non special status hospitals | 521 | −0.3 | 0.1 | −0.4 | 0.0 | 0.3 | 1.0 | 2.2
RRC | 149 | −0.2 | −0.1 | −0.1 | 0.0 | 0.6 | 5.9 | 2.6
SCH | 494 | −0.1 | 0.0 | −0.1 | 0.0 | 0.5 | 0.3 | 3.9
Medicare-dependent hospitals (MDH) | 254 | −0.3 | 0.2 | −0.2 | 0.0 | 0.8 | 0.7 | 3.3
SCH and RRC | 78 | 0.0 | −0.1 | −0.1 | 0.0 | 0.3 | 1.4 | 3.3
Type of Ownership:
Voluntary | 2,435 | −0.2 | 0.0 | −0.5 | 0.1 | 0.0 | 0.0 | 2.5
Proprietary | 699 | −0.2 | 0.0 | −0.2 | 0.1 | 0.2 | 0.0 | 2.6
Government | 833 | −0.2 | 0.0 | −0.4 | 0.1 | 0.0 | 0.3 | 2.7
Unknown | 120 | −0.1 | 0.0 | −1.1 | 0.0 | −0.8 | −0.4 | 1.8
Medicare Utilization as a Percent of Inpatient Days:
0-25 | 304 | −0.2 | −0.1 | 0.0 | 0.0 | 0.1 | −0.3 | 3.0
25-50 | 1,557 | −0.2 | 0.0 | −0.5 | 0.1 | −0.1 | −0.2 | 2.5
50-65 | 1,663 | −0.2 | 0.0 | −0.4 | 0.2 | 0.2 | 0.3 | 2.5
Over 65 | 459 | −0.2 | 0.0 | −0.1 | 0.1 | 0.4 | 0.7 | 2.7
Unknown | 104 | −0.2 | −0.1 | 0.0 | 0.0 | 0.2 | −0.6 | 3.0
Hospitals Reclassified by the Medicare Geographic Classification Review Board: FY 2004 Reclassifications:
All Reclassified Hospitals | 639 | −0.2 | 0.0 | −0.3 | 0.1 | 0.3 | 4.3 | 3.0
Standardized Amount Only | 22 | −0.2 | 0.0 | −0.7 | 0.5 | 0.0 | 3.9 | 5.8
Wage Index Only | 556 | −0.2 | 0.0 | −0.4 | 0.2 | 0.3 | 4.3 | 2.4
Both | 33 | −0.2 | −0.1 | −0.4 | 0.2 | 0.2 | 6.0 | 3.1
Nonreclassified Hospitals | 3,442 | −0.2 | 0.0 | −0.4 | 0.1 | 0.0 | −0.62.5
All Reclassified Urban Hospitals | 136 | −0.2 | 0.0 | −0.5 | 0.3 | 0.1 | 4.0 | 2.7
Standardized Amount Only | 13 | −0.2 | −0.1 | −1.4 | 0.2 | −1.2 | 0.9 | 2.4
Wage Index Only | 82 | −0.2 | 0.0 | −0.7 | 0.3 | 0.1 | 3.9 | 2.3
Both | 41 | −0.3 | 0.0 | 0.1 | 0.2 | 0.6 | 5.4 | 3.8
Urban Nonreclassified Hospitals | 2,415 | −0.2 | 0.0 | −0.5 | 0.1 | −0.1 | −0.6 | 2.4
All Reclassified Rural Hospitals | 503 | −0.2 | −0.1 | −0.1 | 0.0 | 0.5 | 4.6 | 3.2
Standardized Amount Only | 15 | −0.2 | 0.1 | −0.4 | 0.1 | 0.4 | 4.8 | 2.1
Wage Index Only | 464 | −0.1 | −0.1 | −0.1 | 0.0 | 0.5 | 4.2 | 3.2
Both | 24 | −0.2 | 0.0 | −0.1 | 0.0 | 0.5 | 8.7 | 3.8
Rural Nonreclassified Hospitals | 999 | −0.2 | 0.1 | −0.3 | 0.0 | 0.5 | −0.5 | 2.8
Other Reclassified Hospitals (Section 1886(D)(8)(B)) | 34 | −0.2 | 0.1 | 0.0 | 0.0 | 0.4 | −2.0 | 1.8
¹ Because data necessary to classify some hospitals by category were missing, the total number of hospitals in each category may not equal the national total. Discharge data are from FY 2002, and hospital cost report data are from reporting periods beginning in FY 2000 and FY 1999.
² This column displays the payment impact of the expanded postacute care transfer policy.
³ This column displays the payment impact of the recalibration of the DRG weights based on FY 2002 MedPAR data and the DRG reclassification changes, in accordance with section 1886(d)(4)(C) of the Act.
⁴ This column displays the impact of updating the wage index with wage data from hospitals' FY 2000 cost reports.
⁵ This column displays the impact of removing nonphysician Part B costs and hours from cost report data (Worksheet S-3, Part II, Line 5.01).
⁶ This column displays the combined impact of the reclassification and recalibration of the DRGs, the updated and revised wage data used to calculate the wage index, the removal of nonphysician Part B costs and hours, and the budget neutrality adjustment factor for DRG and wage index changes, in accordance with sections 1886(d)(4)(C)(iii) and 1886(d)(3)(E) of the Act. Thus, it represents the combined impacts shown in columns 3, 4, and 5, and the proposed FY 2004 budget neutrality factor of 1.003133.
⁷ Shown here are the effects of geographic reclassifications by the Medicare Geographic Classification Review Board (MGCRB). The effects demonstrate the FY 2004 payment impact of going from no reclassifications to the reclassifications scheduled to be in effect for FY 2004. Reclassification for prior years has no bearing on the payment impacts shown here.
⁸ This column shows changes in payments from FY 2003 to FY 2004. It incorporates all of the changes displayed in columns 2, 6, and 7 (the changes displayed in columns 3, 4, and 5 are included in column 6). It also reflects the impact of the FY 2004 update, changes in hospitals' reclassification status in FY 2004 compared to FY 2003, and the difference in outlier payments from FY 2003 to FY 2004. The sum of these impacts may be different from the percentage changes shown here due to rounding and interactive effect.

C. Impact of the Proposed Changes to the Postacute Care Transfer Policy (Column 2)

In column 2 of Table I, we present the effects of the postacute care transfer policy expansion, as discussed in section IV.A. of the preamble to this proposed rule. We compared aggregate payments using the FY 2003 DRG relative weights (GROUPER version 21.0) with the expanded postacute care transfer policy to aggregate payments using the proposed expanded postacute care transfer policy (with the additional 19 DRGs). The changes we are proposing to make would result in 0.2 percent lower payments to hospitals overall. We estimate the total savings at approximately $160 million.

To simulate the impact of this proposed policy, we calculated hospitals' transfer-adjusted discharges and case-mix index values, including the proposed additional 19 DRGs. The transfer-adjusted discharge fraction is calculated in one of two ways, depending on the transfer payment methodology. Under our current transfer payment methodology, for all but the three DRGs receiving special payment consideration (DRGs 209, 210, and 211), this adjustment is made by adding 1 to the length of stay and dividing that amount by the geometric mean length of stay for the DRG (with the resulting fraction not to exceed 1.0). For example, a transfer after 3 days from a DRG with a geometric mean length of stay of 6 days would have a transfer-adjusted discharge fraction of 0.667 ((3+1)/6).

For transfers from any one of the three DRGs receiving the alternative payment methodology, the transfer-adjusted discharge fraction is 0.5 (to reflect that these cases receive half the full DRG amount the first day), plus one half of the result of dividing 1 plus the length of stay prior to transfer by the geometric mean length of stay for the DRG. None of the proposed 19 additional DRGs would receive the alternative payment methodology. As with the above adjustment, the result is equal to the lesser of the transfer-adjusted discharge fraction or 1.

The transfer-adjusted case-mix index values are calculated by summing the transfer-adjusted DRG weights and dividing by the transfer-adjusted discharges. The transfer-adjusted DRG weights are calculated by multiplying the DRG weight by the lesser of 1 or the transfer-adjusted discharge fraction for the case, divided by the geometric mean length of stay for the DRG. In this way, simulated payments per case can be compared before and after the proposed change to the transfer policy.

This proposed expansion of the policy has a negative 0.2 percent payment impact overall among both urban and rural hospitals. There is very small variation among all of the hospital categories from this negative 0.2 percent impact. This outcome is different than the impacts exhibited when we implemented the postacute care transfer policy for the current 10 DRGs in the July 31, 1998 Federal Register (63 FR 41108). At that time, the impact of going from no postacute transfer policy to a postacute care transfer policy applicable to 10 DRGs was a 0.6 percent decrease in payments per case. In addition, at that time, the impact was greatest among urban hospitals (0.7 percent payment decrease, compared to 0.4 percent among rural hospitals).

The less dramatic impact observed for this proposed expansion to additional DRGs is not surprising. The movement to transfer more and more patients for postacute care sooner appears to have abated in recent years. While it does appear that many patients continue to be transferred for postacute care early in the course of their acute care treatment, the rapid expansion of this trend that was apparent during the mid-90s appears to have subsided. To a large extent, this decline probably stems from the decreased payment incentives to transfer patients to postacute care settings as a result of the implementation of prospective payment systems for IRFs, SNFs, LTCHs, and HHAs.

D. Impact of the Proposed Changes to the DRG Reclassifications and Recalibration of Relative Weights (Column 3)

In column 3 of Table I, we present the combined effects of the DRG reclassifications and recalibration, as discussed in section II. of the preamble to this proposed rule. Section 1886(d)(4)(C)(i) of the Act requires us annually to make appropriate classification changes and to recalibrate the DRG weights in order to reflect changes in treatment patterns, technology, and any other factors that may change the relative use of hospital resources.

We compared aggregate payments using the FY 2003 DRG relative weights (GROUPER version 20.0) to aggregate payments using the proposed FY 2004 DRG relative weights (GROUPER version 21.0). Both simulations reflected the proposed expansion of the postacute care transfer policy. We note that, consistent with section 1886(d)(4)(C)(iii) of the Act, we have applied a budget neutrality factor to ensure that the overall payment impact of the DRG changes (combined with the wage index changes) is budget neutral. This proposed budget neutrality factor of 1.003133 is applied to payments in Column 6. Because this is a combined DRG reclassification and recalibration and wage index budget neutrality factor, it is not applied to payments in this column.

The major DRG classification changes we are proposing are: Creating additional DRGs that are split based on the presence or absence of CCs; creating a new DRG for cases with ruptured brain aneurysms; and creating a new DRG for cases involving the implantation of a cardiac defibrillator where the patient experiences acute myocardial infarction, heart failure, or shock. In the aggregate, these proposed changes would result in 0.0 percent change in overall payments to hospitals.

The overall level of the DRG weights are determined by the normalization factor intended to ensure that recalibration by itself neither increases nor decreases total payments under the IPPS. Because we count transfer cases as a fraction of a case in the recalibration process, expanding the postacute care transfer policy to 19 additional DRGs would affect the proposed relative weights for those DRGs. Therefore, we calculated the proposed FY 2004 normalization factor comparing the case-mix using the proposed FY 2004 DRG relative weights in which we treated postacute care transfer cases in the 19 additional DRGs being proposed for FY 2004 as a fraction of a case with the case-mix using the FY 2003 DRG relative weights without treating cases in these 19 additional DRGs as transfer cases. As noted above, the proposed expansion of the postacute care transfer policy impacts the overall level of the DRG weights, contributing to the impacts seen in this column.

Rural hospitals with fewer than 50 beds would experience a 0.2 percent increase due to these changes, while rural hospitals with more than 150 beds will experience a 0.1 percent decrease. Also, RRCs and hospitals classified with both SCH and RRC would experience a 0.1 percent decrease. MDHs would experience a 0.2 percent increase. Hospitals in the urban Mountain census division would experience the largest change, with a 0.2 percent decrease. Again, these impacts are ultimately offset by the budget neutrality factor of 1.003133.

E. Impact of Proposed Wage Index Changes (Columns 4 and 5)

Section 1886(d)(3)(E) of the Act requires that, beginning October 1, 1993, we annually update the wage data used to calculate the wage index. In accordance with this requirement, the proposed wage index for FY 2004 is based on data submitted for hospital cost reporting periods beginning on or after October 1, 1999 and before October 1, 2000. As with column 3, the impact of the new data on hospital payments is isolated in column 4 by holding the other payment parameters constant in this simulation. That is, column 4 shows the percentage changes in payments when going from a model using the FY 2003 wage index (based on FY 1999 wage data to a model using the FY 2004 pre-reclassification wage index based on FY 2000 wage data).

The wage data collected on the FY 2000 cost reports are similar to the data used in the calculation of the FY 2003 wage index. Also, as described in section III.B of this preamble, the proposed FY 2004 wage index is calculated by removing the nonphysician Part B costs and hours of RHCs and FQHCs, shown in column 5.

Column 4 shows the impacts of updating the wage data using FY 2000 cost reports. Overall, the new wage data would lead to a 0.4 percent reduction, but this reduction is offset by the budget neutrality factor. Urban hospitals' wage indexes would decline by 0.5 percent, and rural hospitals' wage indexes would decline by 0.2 percent. Among regions, the largest impact of updating the wage data is seen in rural Puerto Rico (a 4.1 percent decrease). Rural hospitals in the Pacific and West South Central regions would experience the next largest impact, a 0.5 percent and 0.4 percent decrease, respectively. Rural New England and East North Central regions would experience an increase of 0.3 percent and 0.2 percent, respectively.

Among urban hospitals, New England and the Middle Atlantic regions would experience 1.0 percent decreases, respectively. These impacts result, respectively, from a 9.0 percent decrease in the proposed FY 2004 wage index for Springfield, Massachusetts, and a 6.1 percent decrease in the Pittsburgh, Pennsylvania wage index. The East South Central, West North Central, and Mountain regions would experience increases of 0.3 percent, 0.1 percent, and 0.5 percent, respectively.

The next column shows the impacts on the calculation of the proposed FY 2004 wage index of removing nonphysician Part B data for RHCs and FQHCs. Column 5 shows the impacts of removing nonphysician Part B costs for RHCs and FQHCs. The effects of this proposed change are relatively small with the exception of New England, which would experience a 0.8 percent decrease.

We note that the wage data used for the proposed wage index are based upon the data available as of March 2003 and, therefore, do not reflect revision requests received and processed by the fiscal intermediaries after that date. To the extent these requests are granted by hospitals' fiscal intermediaries, these revisions will be reflected in the final rule. In addition, we continue to verify the accuracy of the data for hospitals with extraordinary changes in their data from the prior year.

The following chart compares the shifts in wage index values for labor market areas for FY 2004 relative to FY 2003. This chart demonstrates the impact of the changes for the proposed FY 2004 wage index, including updating to FY 2000 wage data. The majority of labor market areas (331) would experience less than a 5-percent change. A total of 13 labor market areas would experience an increase of more than 5 percent and less than 10 percent. Two areas would experience an increase greater than 10 percent. A total of 24 areas would experience decreases of more than 5 percent and less than 10 percent. Finally, 3 areas would experience declines of 10 percent or more.

Percentage change in area wage index values | Number of labor market areas: FY 2003 | Number of labor market areas: FY 2004
Increase more than 10 percent | 3 | 2
Increase more than 5 percent and less than 10 percent | 11 | 13
Increase or decrease less than 5 percent | 343 | 331
Decrease more than 5 percent and less than 10 percent | 15 | 24
Decrease more than 10 percent | 1 | 3

Among urban hospitals, 45 would experience an increase of between 5 and 10 percent and 8 more than 10 percent. A total of 64 rural hospitals would experience increases greater than 5 percent, but none would experience greater than 10-percent increases. On the negative side, 109 urban hospitals would experience decreases in their wage index values of at least 5 percent but less than 10 percent. Nine urban hospitals and one rural hospital would experience decreases in their wage index values greater than 10 percent. There are 25 rural hospitals that would experience decreases in their wage index values of greater than 5 percent but less than 10 percent. The following chart shows the projected impact for urban and rural hospitals.

Percentage change in area wage index values | Number of hospitals: Urban | Number of hospitals: Rural
Increase more than 10 percent | 8 | 0
Increase more than 5 percent and less than 10 percent | 45 | 64
Increase or decrease less than 5 percent | 2,436 | 1,714
Decrease more than 5 percent and less than 10 percent | 109 | 25
Decrease more than 10 percent | 9 | 1

F. Combined Impact of Proposed DRG and Wage Index Changes, Including Budget Neutrality Adjustment (Column 6)

The impact of the DRG reclassifications and recalibration on aggregate payments is required by section 1886(d)(4)(C)(iii) of the Act to be budget neutral. In addition, section 1886(d)(3)(E) of the Act specifies that any updates or adjustments to the wage index are to be budget neutral. As noted in the Addendum to this proposed rule, we compared simulated aggregate payments using the FY 2003 DRG relative weights and wage index to simulated aggregate payments using the proposed FY 2004 DRG relative weights and blended wage index. In addition, we are required to ensure that any add-on payments for new technology under section 1886(d)(5)(K) of the Act are budget neutral. As discussed in section II.E. of the preamble of this proposed rule, we are proposing to maintain the new technology status of Xigris™ (approved in last year's final rule at 67 FR 50013). We estimate the proposed total add-on payments for this new technology for FY 2004 would be $50 million.

We computed a proposed wage and recalibration budget neutrality factor of 1.003133. The 0.0 percent impact for all hospitals demonstrates that these proposed changes, in combination with the proposed budget neutrality factor, are budget neutral. In Table I, the combined overall impacts of the effects of both the proposed DRG reclassifications and recalibration and the proposed updated wage index are shown in column 6. The proposed changes in this column are the sum of the proposed changes in columns 3, 4, and 5, combined with the budget neutrality factor and the wage index floor for urban areas required by section 4410 of Pub. L. 105-33 to be budget neutral. There also may be some variation of plus or minus 0.1 percentage point due to rounding.

G. Impact of MGCRB Reclassifications (Column 7)

Our impact analysis to this point has assumed hospitals are paid on the basis of their actual geographic location (with the exception of ongoing policies that provide that certain hospitals receive payments on bases other than where they are geographically located, such as hospitals in rural counties that are deemed urban under section 1886(d)(8)(B) of the Act). The changes in column 7 reflect the per case payment impact of moving from this baseline to a simulation incorporating the MGCRB decisions for FY 2004. These decisions affect hospitals' standardized amount and wage index area assignments.

By February 28 of each year, the MGCRB makes reclassification determinations that will be effective for the next fiscal year, which begins on October 1. The MGCRB may approve a hospital's reclassification request for the purpose of using another area's standardized amount, wage index value, or both. The proposed FY 2004 wage index values incorporate all of the MGCRB's reclassification decisions for FY 2004. The wage index values also reflect any decisions made by the CMS Administrator through the appeals and review process as of February 28, 2003. Additional changes that result from the Administrator's review of MGCRB decisions or a request by a hospital to withdraw its application will be reflected in the final rule for FY 2004.

The overall effect of geographic reclassification is required by section 1886(d)(8)(D) of the Act to be budget neutral. Therefore, we applied an adjustment of 1.003133 to ensure that the effects of reclassification are budget neutral. (See section II.A.4.b. of the Addendum to this proposed rule.)

As a group, rural hospitals benefit from geographic reclassification. Their payments would rise 2.6 percent in column 7. Payments to urban hospitals would decline 0.4 percent. Hospitals in other urban areas would experience an overall decrease in payments of 0.2 percent, while large urban hospitals would lose 0.4 percent. Among urban hospital groups (that is, bed size, census division, and special payment status), payments generally would decline.

A positive impact is evident among most of the rural hospital groups. The smallest increases among the rural census divisions are 0.4 and 1.5 percent for the Puerto Rico and Mountain regions, respectively. The largest increases are in the rural South Atlantic and West South Central regions. These regions would experience increases of 2.9 and 3.7 percent, respectively.

Among all the hospitals that were reclassified for FY 2004 (including hospitals that received wage index reclassifications in FY 2002 or FY 2003 that extend for 3 years), the MGCRB changes are estimated to provide a 4.3 percent increase in payments. Urban hospitals reclassified for FY 2004 are expected to receive an increase of 4.0 percent, while rural reclassified hospitals are expected to benefit from the MGCRB changes with a 4.6 percent increase in payments. Overall, among hospitals that were reclassified for purposes of the standardized amount only, a payment increase of 3.9 percent is expected, while those reclassified for purposes of the wage index only show a 4.3 percent increase in payments. Payments to urban and rural hospitals that did not reclassify are expected to decrease slightly due to the MGCRB changes, decreasing by 0.6 percent for urban hospitals and 0.5 percent for rural hospitals.

H. All Changes (Column 8)

Column 8 compares our estimate of payments per case, incorporating all changes reflected in this proposed rule for FY 2004 (including statutory changes), to our estimate of payments per case in FY 2003. This column includes all of the proposed policy changes. Because the reclassifications shown in column 7 do not reflect FY 2003 reclassifications, the impacts of FY 2004 reclassifications only affect the impacts from FY 2003 to FY 2004 if the reclassification impacts for any group of hospitals are different in FY 2004 compared to FY 2003.

Column 8 includes the effects of the 3.5 percent update to the standardized amounts and the hospital-specific rates for MDHs and SCHs. It also reflects the 0.4 percentage point difference between the projected outlier payments in FY 2003 (5.1 percent of total DRG payments) and the current estimate of the percentage of actual outlier payments in FY 2003 (5.5 percent), as described in the introduction to this Appendix and the Addendum to this proposed rule. As a result, payments are projected to be 0.4 percent higher in FY 2003 than originally estimated, resulting in a 0.4 percent smaller increase than would otherwise occur.

Section 213 of Public Law 106-554 provides that all SCHs may receive payment on the basis of their costs per case during their cost reporting period that began during 1996. For FY 2004, eligible SCHs receive 100 percent of their 1996 hospital-specific rate. The impact of this provision is modeled in column 8 as well.

The proposed expansion of the postacute care transfer policy also reduces payments by paying for discharges to postacute care in 19 additional DRGs as transfers. Because FY 2003 payments reflect full DRG payments for all cases in these 19 DRGs, there is a negative impact due to the proposed expansion of this policy compared to FY 2003. The net effect of this proposed policy, as displayed in column 2, is also seen in the lower overall percent change shown in column 8 comparing FY 2004 simulated payments per case to FY 2003 payments.

Another influence on the overall change reflected in this column is the requirement of section 402(b) of Public Law 108-7 that all hospitals receive the large urban standardized amount for all discharges occurring on or after April 1, 2003, and before October 1, 2003. For discharges occurring on or after October 1, 2003, the Federal rate will again be calculated based on separate average standardized amounts for hospitals in large urban areas and for hospitals in other areas. The effect is to reduce the percent increase reflected in the “all changes” column.

There might also be interactive effects among the various factors comprising the payment system that we are not able to isolate. For these reasons, the values in column 8 may not equal the sum of the changes described above.

The overall change in payments per case for hospitals in FY 2004 would increases by 2.5 percent. Hospitals in urban areas would experience a 2.5 percent increase in payments per case compared to FY 2003. Hospitals in rural areas, meanwhile, would experience a 3.1 percent payment increase. Hospitals in large urban areas would experience a 2.6 percent increase in payments.

Among urban census divisions, the largest payment increase was 3.5 percent in the Mountain region. Hospitals in the urban East South Central region and in Puerto Rico would experience an overall increase of 3.1 percent and 2.9 percent, respectively. The smallest increase would occur in the Middle Atlantic, with an increase of 1.7 percent. These below average increases are primarily due to the inflated outlier payments for some of these hospitals during FY 2003 compared to FY 2004. Among rural regions, the only hospital category that would experience overall payment decreases is Puerto Rico, where payments would decrease by 0.2 percent, largely due to the updated wage data. In the West North Central region, payments are projected to increase by 3.8 percent. West South Central and Pacific regions also would benefit, both with 3.5 percent increases.

Among special categories of rural hospitals, those hospitals receiving payment under the hospital-specific methodology (SCHs, MDHs, and SCH/RRCs) would experience payment increases of 3.9 percent, 3.3 percent, and 3.3 percent, respectively. This outcome is primarily related to the fact that, for hospitals receiving payments under the hospital-specific methodology, there are no outlier payments. Therefore, these hospitals would not experience negative payment impacts from the decline in outlier payments from FY 2003 to FY 2004 as would hospitals paid based on the national standardized amounts.

Hospitals that were reclassified for FY 2004 are estimated to receive a 3.0 percent increase in payments. Urban hospitals reclassified for FY 2004 are anticipated to receive an increase of 2.7 percent, while rural reclassified hospitals are expected to benefit from reclassification with a 3.2 percent increase in payments. Overall, among hospitals reclassified for purposes of the standardized amount, a payment increase of 5.8 percent is expected, while those hospitals reclassified for purposes of the wage index only would show an expected 2.4 percent increase in payments. Those hospitals located in rural counties but deemed to be urban under section 1886(d)(8)(B) of the Act are expected to receive an increase in payments of 1.8 percent.

Table II.—Impact Analysis of Proposed Changes for FY 2004 Operating Prospective Payment System
[Payments per case]
| Number of hospitals | Average FY 2003 payment per case ¹ | Average FY 2004 payment per case ¹ | All FY 2004 changes
| (1) | (2) | (3) | (4)
By Geographic Location:
All hospitals | 4,087 | 7,423 | 7,612 | 2.5
Urban hospitals | 2,582 | 7,890 | 8,084 | 2.5
Large urban areas (populations over 1 million) | 1,493 | 8,368 | 8,586 | 2.6
Other urban areas (populations of 1 million or fewer) | 1,089 | 7,257 | 7,418 | 2.2
Rural hospitals | 1,505 | 5,393 | 5,558 | 3.1
Bed Size (Urban):
0-99 beds | 626 | 5,479 | 5,625 | 2.7
100-199 beds | 916 | 6,658 | 6,829 | 2.6
200-299 beds | 507 | 7,610 | 7,788 | 2.3
300-499 beds | 377 | 8,445 | 8,660 | 2.5
500 or more beds | 156 | 10,027 | 10,261 | 2.3
Bed Size (Rural):
0-49 beds | 690 | 4,468 | 4,620 | 3.4
50-99 beds | 477 | 5,037 | 5,204 | 3.3
100-149 beds | 202 | 5,430 | 5,582 | 2.8
150-199 beds | 70 | 5,780 | 5,937 | 2.7
200 or more beds | 66 | 6,792 | 6,993 | 3.0
Urban by Region:
New England | 134 | 8,326 | 8,555 | 2.7
Middle Atlantic | 394 | 8,916 | 9,064 | 1.7
South Atlantic | 372 | 7,454 | 7,640 | 2.5
East North Central | 429 | 7,416 | 7,604 | 2.5
East South Central | 155 | 7,156 | 7,376 | 3.1
West North Central | 176 | 7,659 | 7,875 | 2.8
West South Central | 329 | 7,343 | 7,523 | 2.5
Mountain | 131 | 7,697 | 7,967 | 3.5
Pacific | 416 | 9,598 | 9,840 | 2.5
Puerto Rico | 46 | 3,329 | 3,426 | 2.9
Rural by Region:
New England | 38 | 6,841 | 7,067 | 3.3
Middle Atlantic | 67 | 5,426 | 5,565 | 2.6
South Atlantic | 221 | 5,486 | 5,614 | 2.3
East North Central | 199 | 5,451 | 5,622 | 3.1
East South Central | 232 | 4,922 | 5,071 | 3.0
West North Central | 254 | 5,294 | 5,497 | 3.8
West South Central | 273 | 4,711 | 4,875 | 3.5
Mountain | 127 | 6,235 | 6,436 | 3.2
Pacific | 89 | 7,151 | 7,399 | 3.5
Puerto Rico | 5 | 2,553 | 2,548 | −0.2
By Payment Classification:
Urban hospitals | 2,591 | 7,886 | 8,080 | 2.5
Large urban areas (populations over 1 million) | 1,572 | 8,283 | 8,502 | 2.7
Other urban areas (populations of 1 million of fewer) | 1,019 | 7,302 | 7,460 | 2.2
Rural areas | 1,496 | 5,355 | 5,516 | 3.0
Teaching Status:
Non-teaching | 2,976 | 6,132 | 6,293 | 2.6
Fewer than 100 Residents | 873 | 7,666 | 7,867 | 2.6
100 or more Residents | 238 | 11,347 | 11,603 | 2.3
Urban DSH:
Non-DSH | 1,381 | 6,624 | 6,803 | 2.7
100 or more beds | 1,398 | 8,502 | 8,706 | 2.4
Less than 100 beds | 276 | 5,447 | 5,579 | 2.4
Rural DSH:
Sole Community (SCH) | 484 | 5,239 | 5,434 | 3.7
Referral Center (RRC) | 161 | 6,159 | 6,331 | 2.8
Other Rural: 100 or more beds | 75 | 4,696 | 4,785 | 1.9
Less than 100 beds | 312 | 4,278 | 4,386 | 2.5
Urban teaching and DSH:
Both teaching and DSH | 771 | 9,333 | 9,562 | 2.5
Teaching and no DSH | 273 | 7,618 | 7,814 | 2.6
No teaching and DSH | 903 | 6,852 | 7,009 | 2.3
No teaching and no DSH | 644 | 6,174 | 6,341 | 2.7
Rural Hospital Types:
Non special status hospitals | 521 | 4,445 | 4,544 | 2.2
RRC | 149 | 5,851 | 6,003 | 2.6
SCH | 494 | 5,630 | 5,849 | 3.9
Medicare-dependent hospitals (MDH) | 254 | 4,168 | 4,305 | 3.3
SCH and RRC | 78 | 6,757 | 6,982 | 3.3
Type of Ownership:
Voluntary | 2,435 | 7,532 | 7,722 | 2.5
Proprietary | 699 | 7,087 | 7,272 | 2.6
Government | 833 | 7,164 | 7,356 | 2.7
Unknown | 120 | 7,431 | 7,565 | 1.8
Medicare Utilization as a Percent of Inpatient Days:
0-25 | 304 | 9,997 | 10,294 | 3.0
25-50 | 1,557 | 8,448 | 8,657 | 2.5
50-65 | 1,663 | 6,450 | 6,613 | 2.5
Over 65 | 459 | 5,764 | 5,916 | 2.7
Unknown | 104 | 6,720 | 6,921 | 3.0
Hospitals Reclassified by the Medicare Geographic Classification Review Board: FY 2004 Reclassifications:
All Reclassified Hospitals | 639 | 6,883 | 7,088 | 3.0
Standardized Amount Only | 22 | 5,590 | 5,912 | 5.8
Wage Index Only | 556 | 6,914 | 7,077 | 2.4
Both | 33 | 6,081 | 6,269 | 3.1
All Nonreclassified Hospitals | 3,442 | 7,542 | 7,734 | 2.5
All Urban Reclassified Hospitals | 136 | 8,787 | 9,020 | 2.7
Urban Nonreclassified Hospitals | 13 | 6,211 | 6,358 | 2.4
Standardized Amount Only | 82 | 9,866 | 10,098 | 2.3
Wage Index Only | 41 | 6,934 | 7,200 | 3.8
Both | 2,415 | 7,853 | 8,045 | 2.4
All Reclassified Rural Hospitals | 503 | 6,006 | 6,199 | 3.2
Standardized Amount Only | 15 | 4,743 | 4,843 | 2.1
Wage Index Only | 464 | 6,014 | 6,205 | 3.2
Both | 24 | 6,242 | 6,482 | 3.8
Rural Nonreclassified Hospitals | 999 | 4,624 | 4,756 | 2.8
Other Reclassified Hospitals (Section 1886(d)(8)(B)) | 34 | 4,950 | 5,039 | 1.8
¹ These payment amounts per case do not reflect any estimates of annual case-mix increase.

Table II presents the projected impact of the proposed changes for FY 2004 for urban and rural hospitals and for the different categories of hospitals shown in Table I. It compares the estimated payments per case for FY 2003 with the average estimated per case payments for FY 2004, as calculated under our models. Thus, this table presents, in terms of the average dollar amounts paid per discharge, the combined effects of the changes presented in Table I. The percentage changes shown in the last column of Table II equal the percentage changes in average payments from column 8 of Table I.

VII. Impact of Other Policy Changes

In addition to those proposed changes discussed above that we are able to model using our IPPS payment simulation model, we are proposing various other changes in this proposed rule. Generally, we have limited or no specific data available with which to estimate the impacts of these proposed changes. Our estimates of the likely impacts associated with these other proposed changes are discussed below.

A. Changes to Bed and Patient Day Counting Policies

1. Background

Under IPPS, both the IME and the DSH adjustments utilize statistics regarding the number of beds and patient days of a hospital to determine the level of the respective payment adjustment. For IME, hospitals receiving this adjustment want to minimize their numbers of beds in order to maximize their resident-to-bed ratio. For DSH, urban hospitals with 100 or more beds qualify for a higher payment adjustment, so some hospitals have an incentive to maximize their bed count to qualify for higher payments. Existing regulations specify that the number of beds is determined by counting the number of available bed days during the cost reporting period and dividing that number by the number of days in the cost reporting period.

2. Unoccupied Beds

Over the years, questions have arisen as to whether beds in rooms or entire units that are unoccupied for extended periods of time should continue to be counted on the basis that, if there would ever be a need, they could be put into use. In section IV.C. of the preamble of this proposed rule, we are proposing to base the determination of whether a bed is available upon whether the unit where the bed is located is staffed for patient care. If the bed is located in a unit that was staffed by nurses to provide patient care at any time during the 3 preceding months, all of the beds in the unit would be counted for purposes of determining available bed days during the current month. If no patient care were provided in that unit during the 3 preceding months, the beds in the unit would be excluded from the determination of available bed days during the current month.

This proposal is primarily intended to establish clear and consistent guidelines for hospitals and fiscal intermediaries to use when determining whether beds should be counted. We do not anticipate this proposal would have a significant impact on payments. In some cases, previously uncounted beds would now be counted, such as when a hospital is undertaking to remodel a unit and that unit is temporarily unavailable for patient occupancy. Under the proposed policy, if the remodeling is completed in less than 3 months and patients are again being treated in the unit, all of the beds in the unit would be counted as available for the entire year.

3. Nonacute Care Beds and Days

The proposed rule would clarify that days attributable to a nonacute care unit or ward, regardless of whether the unit or ward is separately certified by Medicare or is adjacent to a unit or ward used to provide an acute level of care, would not be included in the count of bed or patient days. In a recent decision by the Ninth Circuit Court of Appeals (Alhambra Hosp. v. Thompson, 259 F.3d 1017 (9th Cir. 2001)), the court found that our policy for counting patient days did not preclude a hospital from counting the patient days attributable to a nonacute care unit adjacent to an area of the hospital subject to the IPPS. Under this ruling, hospitals within the jurisdiction of the Ninth Circuit would be able to count those patient days.

Because the Alhambra decision was based on a regulatory interpretation, this proposed rule, when finalized, would supersede the Alhambra decision in the Ninth Circuit. We estimate that if all hospitals in the Ninth Circuit that could take advantage of this ruling were currently doing so, the impact of this provision of the proposed rule would be $184 million in reduced Medicare program payments to the affected hospitals in FY 2004 for DSH. This estimate reflects the impact of adding all days of non-Medicare certified nursing facilities to the count of inpatient days for hospitals in the nine States under the jurisdiction of the Ninth Circuit. For example, in Alaska, nursing facility days constitute 11 percent of total Medicaid inpatient days. If all of these nursing facility days are currently included in the Medicaid inpatient days count, we estimate this proposed provision would reduce Medicare DSH payments to Alaska's hospitals by $662,097.

We are unable to estimate the effect of this proposed provision on specific hospitals because we are not aware of specific hospitals that are presently including those inpatient days in their calculation of Medicaid days for purposes of determining their Medicare DSH percentage. However, we expect the impact on any particular hospital would be minimal (with no impact on the level of beneficiary services), because the days attributable to patients receiving these limited benefit programs should be only a small portion of the overall Medicaid days at any particular hospital. No other provider types would be affected. However, because our policy is to count patient days and beds consistently, inclusion of the days of postacute care units in the DSH calculation would lead to an offsetting negative payment impact for teaching hospitals. The inclusion of additional beds decreases the resident-to-bed ratios used to calculate the IME adjustments. Therefore, the actual potential impact on hospitals of this policy clarification is likely to be significantly less than $184 million.

4. Observation and Swing-Beds

We are proposing to revise our regulations to clarify that swing-bed and observation bed days are to be excluded from the count of bed and patient days. Because this certification reflects our current policy, despite the fact that there has been some confusion and we have had adverse court decisions, we do not anticipate this clarification would have a significant impact on payments. We do not have data available that would enable us to identify those hospitals that have not been applying this policy and, therefore, would be required to change their policy. Consequently, we are unable to quantify the impacts of this clarification.

5. Labor, Delivery, Recovery, and Postpartum Beds and Days

Similarly, in the case of labor, delivery, recovery, and postpartum rooms, we would clarify that it is necessary to apportion the days and costs of a patient stay between the labor/delivery ancillary cost centers and the routine adults and pediatrics cost center on the basis of the percentage of time during the entire stay associated with these various services. Because this is a clarification of existing policy, we do not anticipate this proposed change would have a significant payment impact. However, we do not have data available that would enable us to identify those hospitals that have not been applying this policy and, therefore, would be required to change their policy. Consequently, we are unable to quantify the impacts of this clarification.

6. Days Associated With Demonstration Projects Under Section 1115 of the Act

Some States have demonstration projects that provide family planning or outpatient drug benefits that are limited benefits that do not include Medicaid coverage for inpatient services. In this proposed rule, we also would clarify that any hospital inpatient days attributed to a patient who is not eligible for Medicaid inpatient hospital benefits either under the approved State plan or through a section 1115 waiver must not be counted in the calculation of Medicaid days for purposes of determining a hospital's DSH percentage.

We estimated the potential impact of the proposed clarification to our policy of excluding days associated with inpatients who are eligible only for Medicaid outpatient benefits. We identified the percentage of individuals receiving only outpatient family planning benefits under Medicaid compared to all Medicaid-eligible beneficiaries (this is currently the only outpatient-only category for which we have numbers of eligible beneficiaries). These percentages were calculated on a statewide basis for each State with a family planning benefit. Based on these percentages, assuming family planning beneficiaries use inpatient services at the same rate as all other Medicaid beneficiaries, we estimated the amount of total Medicare DSH payments for each State that may be attributable to family planning beneficiaries' use of inpatient services.

For example, in Alabama, total Medicare DSH payments in 1999 (the latest year for which a complete database of cost reports from all hospitals is available) were $97.1 million. Because the percentage of family planning beneficiaries to total Medicaid eligible beneficiaries is 11.24 percent, we estimated 11.24 percent of $97.1 million in Medicare DSH payments, or $10.9 million, is the maximum amount of Medicare DSH that may currently be attributable to the inclusion of inpatient days for individuals who are only eligible for outpatient family planning Medicaid benefits. Based on this analysis, we have identified the potential impact upon hospitals to be as much as $290 million in reduced DSH payments from the Medicare program to those hospitals in FY 2004. Of this amount, $170 million is attributable to California. This amount is not an impact on State programs nor does it require States to spend any additional money. We also note that we are not aware of any specific hospitals that are including inpatient days attributable to individuals with no inpatient Medicaid benefits. Therefore, this estimate reflects the maximum potential impact, but the actual impact is very likely to be much less.

We are unable to estimate the effect of this clarification on specific hospitals because we are not aware of specific hospitals that are presently including those inpatient days in their calculation of Medicaid days for purposes of determining their Medicare DSH percentage. However, we expect the impact on any particular hospital would be minimal (with no impact on the level of beneficiary services), because the days attributable to patients receiving these limited benefit programs should be only a small portion of the overall Medicaid days at any particular hospital. No other provider types would be affected.

7. Dual-Eligible Patient Days

We are proposing to change our policy for counting days for patients who are Medicare beneficiaries and also eligible for Medicaid, to begin to count in the Medicaid fraction of the DSH patient percentage the patient days of these dual-eligible Medicare beneficiaries whose Medicare coverage has expired. Our current policy regarding dual-eligible patient days is they are counted in the Medicare fraction and excluded from the Medicaid fraction, even if the patient has no Medicare Part A coverage or coverage has been exhausted. However, we recognize it is often difficult for fiscal intermediaries to differentiate the days for dual-eligible patients whose Part A coverage has been exhausted. We believe the impact of this proposed change would be minimal, both because situations where dual-eligible patients exhaust their Medicare benefits occur infrequently, and because, due to the administrative difficulty separately identifying these days, in many cases they are already included in the hospital's Medicaid fraction. Accordingly, we do not have data available to allow us to quantify the impact of this proposed change precisely.

8. Medicare+Choice (M+C) Days

We have received questions whether patients enrolled in a Medicare+Choice (M+C) Plan should be counted in the Medicare fraction or the Medicaid fraction of the DSH patient percentage calculation. The questions stem from whether M+C plan enrollees are entitled to Medicare Part A because M+C plans are administered through Medicare Part C. We are proposing to clarify that once a beneficiary elects Medicare Part C, those patient days attributable to the beneficiary should not be included in the Medicare fraction of the DSH patient percentage. These patient days should be included in the count of total patient days in the Medicaid fraction (the denominator), and the patient's days for an M+C beneficiary who is also eligible for Medicaid would be included in the numerator of the Medicaid fraction.

We do not have data readily available to assess the impacts of this proposed change. In particular, it appears likely that there is some variation in how these days are currently being handled from one hospital and fiscal intermediary to the next. Nonetheless, we believe there should not be a major impact associated with this proposed change.

B. Costs of Approved Nursing and Allied Health Education Activities

1. Continuing Education

In section IV.E. of the preamble of this proposed rule, we are proposing to clarify further the distinction between continuing education, which is not eligible for pass-through payment, and approved educational programs, which are eligible for pass-through payment. An approved program that qualifies for pass-through payment is generally a program of long duration designed to develop trained practitioners in a nursing or allied health discipline, such as professional nursing, in which the individual learns “value-added” skills that enable him or her to work in a particular capacity upon completion of the program. Such a program is in contrast to a continuing education program in which a practitioner, such as a registered nurse, receives training in a specialized skill or a new technology. While such training is undoubtedly valuable in enabling the nurse to treat patients with special needs, the nurse, upon completion of the program, continues to function as a registered nurse, albeit one with an additional skill. We are proposing to clarify our policy concerning not allowing pass-through payment for continuing education because it has come to our attention that certain programs, which in our view constitute continuing education, such as pharmacy or clinical pastoral education, are inappropriately receiving pass-through payment.

To the extent that Medicare would no longer pay for such programs as pharmacy and clinical pastoral education, Medicare payments would be reduced. We believe that these two programs comprise a small fraction of the approximately $230 million that are paid for all nursing and allied health education programs under Medicare.

2. Nonprovider-Operated Nursing and Allied Health Education Programs With Wholly Owned Subsidiary Educational Institutions

As discussed in section IV.E.3. of this proposed rule, we are proposing that Medicare would not recoup reasonable cost payment from hospitals that have received pass-through payment for portions of cost reporting periods occurring on or before October 1, 2003 (the effective date of finalizing this proposed rule) for costs of nursing or allied health education program(s) where the program(s) had originally been operated by the hospital, and then operation of program(s) had been transferred by the hospital to a wholly owned subsidiary educational institution in order to meet accreditation standards prior to October 1, 2003, and where the hospital had continued to incur the costs of both the classroom and clinical training portions of the programs while the program(s) were operated by the educational institution. We estimate that the costs to the Medicare program of this proposal would be approximately $10 to $20 million. We do not believe many hospitals fit the criteria described above of previously receiving Medicare payment for direct operation of nursing or allied health education program(s) and then transferring operation of the program(s) to a wholly owned subsidiary educational institution, all the while incurring the classroom and clinical training costs of the program(s).

In addition, we are also proposing that, for portions of cost reporting periods beginning on or after October 1, 2003, a hospital that meets the criteria described above may continue to receive reasonable cost payments for clinical training costs incurred by the hospital for the nursing and allied health education program(s) that were operated by the hospital prior to the date the hospital transferred operation of the program(s) to its wholly owned subsidiary educational institution (and ceased to be a provider-operated program). We are further proposing that, with respect to classroom costs, only those classroom costs incurred by the hospital for the courses that were paid by Medicare on a reasonable cost basis and included in the hospital's provider-operated program(s) could continue to be reimbursed on a reasonable cost basis. We estimate the costs to the Medicare program for this proposal would be $1 to $2 million per year.

C. Prohibition Against Counting Residents Where Other Entities Have Previously Incurred the Training Costs

As we explain in section IV.F.2. of the preamble of this proposed rule, under section 1886(h) of the Act, hospitals may count the time that residents spend training in nonhospital sites if they meet certain conditions, including incurring “all or substantially all” of the costs of training at the nonhospital site. Legislative history indicates that the purpose of this provision is to encourage hospitals to provide more training outside the traditional hospital environment.

It has come to our attention that hospitals have been incurring the costs of and receiving direct GME and IME payment for residency training that had previously been occurring in nonhospital settings, without the financial support of the hospitals. We believe that where no new or additional training is provided in these nonhospital settings, the receipt of Medicare payment in such cases is contrary to Congressional intent and is, therefore, inappropriate. In addition, it violates Medicare's anti-redistribution principle, which states that Medicare will not share in the costs of educational activities of a hospital that represent a redistribution of costs from the community to the hospital. Accordingly, we are proposing to revise our policy concerning counting residents to ensure that Medicare IME and direct GME payments are not made to hospitals for training that had already been in place in the absence of the hospital's financial support. We are proposing that effective October 1, 2003, in order for a hospital to receive IME and direct GME payment, the hospital must have been continuously incurring the direct GME costs of residents training in a particular program since the date the resident first began training in the program in order for the hospital to count the FTE residents.

By prohibiting payment for residency training that had been previously supported by nonhospital institutions, this proposal would reduce the amount of direct GME and IME payments received by hospitals. Although we cannot estimate the impact on programs nationally, we are aware that two hospitals in New York were receiving over $10 million annually for payments for dental residents training in nonhospital sites (including a site in Hawaii). Another hospital in Boston was receiving over $2 million annually for dental residents training at a dental school.

D. Rural Track GME Training Programs

1. Reduction in the Time Required for Training Residents in a Rural Area

As explained in section IV.F.3 of the preamble of this proposed rule, under existing regulations, if an urban hospital rotates residents to a separately accredited rural track program in a rural area for two-thirds of the duration of the training program, the urban hospital may receive an increase in its FTE cap to reflect the time those residents train at the urban hospital. When we first implemented these regulations, we did so based on our understanding that the Accreditation Council for Graduate Medical Education (ACGME) requires that at least two-thirds of the duration of the program be spent in a rural area. However, it has come to our attention that, while the ACGME generally follows a one-third/two-thirds model for accreditation, the rural training requirement is actually somewhat less than two-thirds of the duration of the program. Therefore, we are proposing to revise the regulations to state that if an urban hospital rotates residents to a separately accredited rural track program in a rural area for more than 50 percent of the duration of the training program, the urban hospital may receive an increase in its FTE cap to reflect the time those residents train at the urban hospital. We estimate that this proposal would only slightly increase Medicare payments for IME and direct GME costs.

2. Inclusion of Rural Track FTE Residents in the Rolling Average Calculation

As explained in section IV.F.4 of the preamble of this proposed rule, when we first issued the regulations concerning residents training in a rural track program, we inadvertently did not specify in regulations that these residents would be included in the hospital's rolling average count of FTE residents used for computing GME payment. We are proposing to make this technical clarification to the regulations. We believe that this proposed provision would not have a budget impact because it is a clarification of existing policy.

VIII. Impact of Proposed Changes in the Capital PPS

A. General Considerations

Fiscal year 2001 was the last year of the 10-year transition period established to phase in the PPS for hospital capital-related costs. During the transition period, hospitals were paid under one of two payment methodologies: Fully prospective or hold harmless. Under the fully prospective methodology, hospitals were paid a blend of the Federal rate and their hospital-specific rate (see § 412.340). Under the hold-harmless methodology, unless a hospital elected payment based on 100 percent of the Federal rate, hospitals were paid 85 percent of reasonable costs for old capital costs (100 percent for SCHs) plus an amount for new capital costs based on a proportion of the Federal rate (see § 412.344). As we state in section V. of the preamble of this proposed rule, with the 10-year transition period ending with hospital cost reporting periods beginning on or after October 1, 2001 (FY 2002), beginning in FY 2004 capital prospective payment system payments for most hospitals are based solely on the Federal rate. Therefore, we no longer include information on obligated capital costs or projections of old capital costs and new capital costs, which were factors needed to calculate payments during the transition period, for our impact analysis.

In accordance with § 412.312, the basic methodology for determining a capital prospective payment system payment is:

(Standard Federal Rate) × (DRG weight) × (Geographic Adjustment Factor (GAF)) × (Large Urban Add-on, if applicable) × (COLA adjustment for hospitals located in Alaska and Hawaii) × (1 + Disproportionate Share (DSH) Adjustment Factor + Indirect Medical Education (IME) Adjustment Factor, if applicable).

In addition, hospitals may also receive outlier payments for those cases that qualify under the threshold established for each fiscal year.

The data used in developing the impact analysis presented below are taken from the December 2002 update of the FY 2002 MedPAR file and the December 2002 update of the Provider Specific File that is used for payment purposes. Although the analyses of the changes to the capital prospective payment system do not incorporate cost data, we used the December 2002 update of the most recently available hospital cost report data (FY 2000) to categorize hospitals. Our analysis has several qualifications. First, we do not make adjustments for behavioral changes that hospitals may adopt in response to policy changes. Second, due to the interdependent nature of the prospective payment system, it is very difficult to precisely quantify the impact associated with each proposed change. Third, we draw upon various sources for the data used to categorize hospitals in the tables. In some cases (for instance, the number of beds), there is a fair degree of variation in the data from different sources. We have attempted to construct these variables with the best available sources overall. However, for individual hospitals, some miscategorizations are possible.

Using cases from the December 2002 update of the FY 2002 MedPAR file, we simulated payments under the capital prospective payment system for FY 2003 and FY 2004 for a comparison of total payments per case. Any short-term, acute care hospitals not paid under the general hospital inpatient prospective payment systems (Indian Health Service Hospitals and hospitals in Maryland) are excluded from the simulations.

As we explain in section III.A.4. of the Addendum of this proposed rule, payments will no longer be made under the regular exceptions provision under §§ 412.348(b) through (e). Therefore, we are no longer using the actuarial capital cost model (described in Appendix B of August 1, 2001 final rule (66 FR 40099)). We modeled payments for each hospital by multiplying the Federal rate by the GAF and the hospital's case-mix. We then added estimated payments for indirect medical education, disproportionate share, large urban add-on, and outliers, if applicable. For purposes of this impact analysis, the model includes the following assumptions:

• We estimate that the Medicare case-mix index would increase by 1.01505 percent in FY 2003 and would increase by 1.02010 percent in FY 2004.

• We estimate that the Medicare discharges will be 14,288,000 in FY 2003 and 14,507,000 in FY 2004 for a 1.5 percent increase from FY 2003 to FY 2004.

• The Federal capital rate was updated beginning in FY 1996 by an analytical framework that considers changes in the prices associated with capital-related costs and adjustments to account for forecast error, changes in the case-mix index, allowable changes in intensity, and other factors. The proposed FY 2004 update is 0.7 percent (see section III.A.1.a. of the Addendum to this proposed rule).

• In addition to the proposed FY 2004 update factor, the proposed FY 2004 Federal rate was calculated based on a GAF/DRG budget neutrality factor of 1.0038, an outlier adjustment factor of 0.9455, and a (special) exceptions adjustment factor of 0.9995.

2. Results

In the past, in this impact section we presented the redistributive effects that were expected to occur between “hold-harmless” hospitals and “fully prospective” hospitals and a cross-sectional summary of hospital groupings by the capital prospective payment system transition period payment methodology. We are no longer including this information since all hospitals (except new hospitals under § 412.324(b) and under § 412.304(c)(2)) are paid 100 percent of the Federal rate in FY 2004.

We used the actuarial model described above to estimate the potential impact of our proposed changes for FY 2004 on total capital payments per case, using a universe of 3,922 hospitals. As described above, the individual hospital payment parameters are taken from the best available data, including the December 2002 update of the FY 2002 MedPAR file, the December 2002 update to the Provider-Specific File, and the most recent cost report data from the December 2002 update of HCRIS. In Table III, we present a comparison of total payments per case for FY 2003 compared to FY 2004 based on the proposed FY 2004 payment policies. Column 2 shows estimates of payments per case under our model for FY 2003. Column 3 shows estimates of payments per case under our model for FY 2004. Column 4 shows the total percentage change in payments from FY 2003 to FY 2004. The change represented in Column 4 includes the 0.7 percent update to the Federal rate, a 1.02010 percent increase in case-mix, changes in the adjustments to the Federal rate (for example, the effect of the new hospital wage index on the geographic adjustment factor), and reclassifications by the MGCRB, as well as changes in special exception payments. The comparisons are provided by: (1) Geographic location; (2) region; and (3) payment classification.

The simulation results show that, on average, capital payments per case can be expected to increase 1.0 percent in FY 2004. Our comparison by geographic location shows an overall increase in payments to hospitals in all areas. This comparison also shows that urban and rural hospitals will experience different rates of increase in capital payments per case (0.9 percent and 1.5 percent, respectively). This difference is due to a projection that rural hospitals will experience a larger increase in the GAF due to reclassifications from rural to urban and a slightly larger increase in DSH and IME payments from FY 2003 to FY 2004 compared to urban hospitals.

All regions are estimated to receive an increase in total capital payments per case. Changes by region vary from a minimum increase of 0.4 percent (Middle Atlantic urban region) to a maximum increase of 2.1 percent (New England rural region). Hospitals located in Puerto Rico are expected to experience an increase in total capital payments per case of 1.3 percent.

By type of ownership, government hospitals are projected to have the largest rate of increase of total payment changes (1.2 percent). Similarly, payments to voluntary hospitals will increase 1.0 percent, while payments to proprietary hospitals will increase 0.9 percent.

Section 1886(d)(10) of the Act established the MGCRB. Hospitals may apply for reclassification for purposes of the standardized amount, wage index, or both. Although the Federal capital rate is not affected, a hospital's geographic classification for purposes of the operating standardized amount does affect a hospital's capital payments as a result of the large urban adjustment factor and the disproportionate share adjustment for urban hospitals with 100 or more beds. Reclassification for wage index purposes also affects the geographic adjustment factor, since that factor is constructed from the hospital wage index.

To present the effects of the hospitals being reclassified for FY 2004 compared to the effects of reclassification for FY 2003, we show the average payment percentage increase for hospitals reclassified in each fiscal year and in total. The reclassified groups are compared to all other nonreclassified hospitals. These categories are further identified by urban and rural designation.

Hospitals reclassified for FY 2004 as a whole are projected to experience a 1.7 percent increase in payments. Payments to nonreclassified hospitals would increase almost half as much (0.9 percent) as reclassified hospitals, overall. Hospitals reclassified during both FY 2003 and FY 2004 are projected to receive an increase in payments of 1.4 percent. Hospitals reclassified during FY 2004 only are projected to receive an increase in payments of 4.9 percent. This increase is primarily due to changes in the GAF (wage index).

Table III.—Comparison of Total Payments Per Case
[FY 2003 payments compared to proposed FY 2004 payments]
| Number of hospitals | Average FY 2003 payments/case | Average FY 2004 payments/case | Change
By Geographic Location:
All hospitals | 3,922 | 706 | 713 | 1.0
Large urban areas (populations over 1 million) | 1,420 | 808 | 815 | 0.9
Other urban areas (populations of 1 million of fewer) | 1,041 | 693 | 700 | 1.0
Rural areas | 1,461 | 476 | 483 | 1.5
Urban hospitals | 2,461 | 758 | 765 | 0.9
0-99 beds | 549 | 529 | 535 | 1.0
100-199 beds | 884 | 643 | 649 | 1.0
200-299 beds | 501 | 728 | 735 | 0.9
300-499 beds | 373 | 809 | 817 | 1.1
500 or more beds | 154 | 959 | 967 | 0.8
Rural hospitals | 1,461 | 476 | 483 | 1.5
0-49 beds | 659 | 390 | 396 | 1.6
50-99 beds | 469 | 440 | 446 | 1.4
100-149 beds | 198 | 483 | 488 | 1.2
150-199 beds | 70 | 524 | 530 | 1.3
200 or more beds | 65 | 594 | 606 | 2.0
By Region:
Urban by Region | 2,461 | 758 | 765 | 0.9
New England | 131 | 808 | 820 | 1.5
Middle Atlantic | 386 | 851 | 854 | 0.4
South Atlantic | 356 | 724 | 729 | 0.8
East North Central | 409 | 726 | 734 | 1.0
East South Central | 152 | 684 | 695 | 1.6
West North Central | 168 | 732 | 741 | 1.3
West South Central | 303 | 711 | 715 | 0.6
Mountain | 119 | 732 | 744 | 1.6
Pacific | 393 | 893 | 904 | 1.2
Puerto Rico | 44 | 317 | 322 | 1.3
Rural by Region | 1,461 | 476 | 483 | 1.5
New England | 38 | 591 | 603 | 2.1
Middle Atlantic | 66 | 500 | 506 | 1.0
South Atlantic | 218 | 490 | 496 | 1.2
East North Central | 195 | 490 | 497 | 1.6
East South Central | 229 | 435 | 443 | 1.6
West North Central | 248 | 468 | 477 | 1.9
West South Central | 263 | 426 | 432 | 1.5
Mountain | 117 | 506 | 511 | 0.9
Pacific | 82 | 564 | 574 | 1.7
By Payment Classification:
All hospitals | 3,922 | 706 | 713 | 1.0
Large urban areas (populations over 1 million) | 1,497 | 799 | 807 | 1.0
Other urban areas (populations of 1 million of fewer) | 972 | 697 | 703 | 0.9
Rural areas | 1,453 | 474 | 479 | 1.2
Teaching Status:
Non-teaching | 2,829 | 580 | 586 | 1.0
Fewer than 100 Residents | 857 | 733 | 741 | 1.1
100 or more Residents | 236 | 1,074 | 1,083 | 0.8
Urban DSH:
100 or more beds | 1,373 | 798 | 806 | 1.0
Less than 100 beds | 258 | 528 | 531 | 0.7
Rural DSH:
Sole Community (SCH/EACH) | 476 | 417 | 423 | 1.5
Referral Center (RRC/EACH) | 161 | 546 | 553 | 1.2
Other Rural:
100 or more beds | 72 | 447 | 448 | 0.3
Less than 100 beds | 301 | 405 | 410 | 1.3
Urban teaching and DSH:
Both teaching and DSH | 762 | 876 | 885 | 1.0
Teaching and no DSH | 264 | 766 | 774 | 1.0
No teaching and DSH | 869 | 644 | 650 | 0.8
No teaching and no DSH | 574 | 627 | 634 | 1.1
Rural Hospital Types:
Non special status hospitals | 495 | 426 | 430 | 0.8
RRC/EACH | 148 | 554 | 561 | 1.2
SCH/EACH | 482 | 437 | 444 | 1.4
Medicare-dependent hospitals (MDH) | 250 | 394 | 400 | 1.6
SCH, RRC and EACH | 78 | 540 | 546 | 1.2
Hospitals Reclassified by the Medicare Geographic Classification Review Board:
Reclassification Status During FY2003 and FY2004:
Reclassified During Both FY2003 and FY2004 | 562 | 621 | 629 | 1.4
Reclassified During FY2004 Only | 68 | 600 | 630 | 4.9
Reclassified During FY2003 Only | 43 | 601 | 575 | −4.2
FY2004 Reclassifications:
All Reclassified Hospitals | 630 | 619 | 630 | 1.7
All Nonreclassified Hospitals | 3,258 | 723 | 729 | 0.9
All Urban Reclassified Hospitals | 131 | 815 | 828 | 1.6
Urban Nonreclassified Hospitals | 2,299 | 756 | 763 | 0.9
All Reclassified Rural Hospitals | 499 | 528 | 537 | 1.8
Rural Nonreclassified Hospitals | 959 | 410 | 414 | 0.9
Other Reclassified Hospitals (Section 1886(D)(8)(B)) | 34 | 486 | 472 | −2.8
Type of Ownership:
Voluntary | 2,404 | 719 | 726 | 1.0
Proprietary | 674 | 691 | 697 | 0.9
Government | 813 | 645 | 652 | 1.2
Medicare Utilization as a Percent of Inpatient Days:
0-25 | 291 | 901 | 914 | 1.4
25-50 | 1,529 | 804 | 812 | 0.9
50-65 | 1,645 | 615 | 621 | 1.0
Over 65 | 446 | 556 | 561 | 1.0

Appendix B: Recommendation of Update Factors for Operating Cost Rates of Payment for Inpatient Hospital Services

I. Background

Section 1886(e)(4)(A) of the Act requires that the Secretary, taking into consideration the recommendations of the Medicare Payment Advisory Commission (MedPAC), recommend update factors for inpatient hospital services for each fiscal year that take into account the amounts necessary for the efficient and effective delivery of medically appropriate and necessary care of high quality. Under section 1886(e)(5) of the Act, we are required to publish the proposed update factors recommended under section 1886(e)(4) of the Act in this proposed rule, and the final update factors recommended by the Secretary in the final rule. Accordingly, this Appendix provides the recommendations of appropriate update factors for the IPPS standardized amounts, the hospital-specific rates for SCHs and MDHs, and the rate-of-increase limits for hospitals and hospitals units excluded from the IPPS. We also discuss our update framework and respond to MedPAC's recommendations concerning the update factors.

II. Secretary's Recommendations

Section 1886(b)(3)(B)(i)(XIX) of the Act sets the FY 2004 percentage increase in the operating cost standardized amounts equal to the rate of increase in the hospital market basket for IPPS hospitals in all areas. Based on the Office of the Actuary's first quarter 2003 forecast of the FY 2004 market basket increase, the proposed update to the standardized amounts is 3.5 percent (that is, the market basket rate of increase) for hospitals in both large urban and other areas.

Section 1886(b)(3)(B)(iv) of the Act sets the FY 2004 percentage increase in the hospital-specific rates applicable to SCHs and MDHs equal to the rate set forth in section 1886(b)(3)(B)(i) of the Act (that is, the same update factor as all other hospitals subject to the IPPS, or the rate of increase in the market basket). Therefore, the proposed update to the hospital-specific rate applicable to SCHs and MDHs is also 3.5 percent.

Under section 1886(b)(3)(B)(ii) of the Act, the FY 2004 percentage increase in the rate-of-increase limits for hospitals and hospital units excluded from the IPPS (psychiatric hospitals and units, rehabilitation hospitals and units (now referred to as IRFs), LTCHs, cancer hospitals, and children's hospitals) is the market basket percentage increase. In the past, hospitals and hospital units excluded from the IPPS have been paid based on their reasonable costs subject to limits as established by the Tax Equity and Fiscal Responsibility Act of 1982 (TEFRA). However, some of these categories of excluded hospitals and units have begun to be paid under prospective payment systems. Hospitals and units that receive any hospital-specific payments will have those payments subject to TEFRA limits for FY 2004. For these hospitals, the proposed update is the percentage increase in the excluded hospital market basket (currently estimated at 3.5 percent).

IRFs are paid under the IRF PPS for cost reporting periods beginning on or after January 1, 2002. For cost reporting periods beginning during FY 2004, the Federal prospective payment for IRFs is based on 100 percent of the adjusted Federal IRF prospective payment amount, updated annually.

Effective for cost reporting periods beginning during FY 2003, LTCHs are paid under the LTCH PPS under which they receive payment based on a 5-year transition period (see the August 30, 2002 final rule (67 FR 55954)). An LTCH may elect to be paid on 100 percent of the Federal prospective rate at the start of any of its cost reporting periods during the 5-year transition period. For purposes of the update factor, the portion of the LTCH PPS transition blend payment based on reasonable costs for inpatient operating services is determined by updating the LTCH's TEFRA limit by the current estimate of the excluded hospital market basket (or 3.5 percent).

III. Update Framework

Consistent with current law, we are proposing an update recommendation equal to the full market basket percentage increase for the IPPS operating cost standardized amounts for FY 2004. We also have analyzed changes in hospital productivity, scientific and technological advances, practice pattern changes, changes in case-mix, the effect of reclassification on recalibration, and forecast error correction. A discussion of this analysis is below.

A. Productivity

Service level labor productivity is defined as the ratio of total service output to full-time equivalent employees (FTEs). While we recognize that productivity is a function of many variables (for example, labor, nonlabor material, and capital inputs), we use the portion of productivity attributed to direct labor since this update framework applies to operating payment. To recognize that we are apportioning the short-run output changes to the labor input and not considering the nonlabor inputs, we weight our productivity measure by the share of direct labor services in the market basket to determine the expected effect on cost per case.

Our recommendation for the service productivity component is based on historical trends in productivity and total output for both the hospital industry and the general economy, and projected levels of future hospital service output. MedPAC's predecessor, the Prospective Payment Assessment Commission (ProPAC), estimated cumulative service productivity growth to be 4.9 percent from 1985 through 1989 or 1.2 percent annually. At the same time, ProPAC estimated total output growth at 3.4 percent annually, implying a ratio of service productivity growth to output growth of 0.35.

Absent a productivity measure specific to Medicare patients, we examined productivity (output per hour) and output (gross domestic product) for the economy. Depending on the exact time period, annual changes in productivity range from 0.30 to 0.35 percent of the change in output (that is, a 1.0 percent increase in output would be correlated with a 0.30 percent to a 0.35 percent change in output per hour).

Under our framework, the recommended update is based in part on expected productivity—that is, projected service output during the year, multiplied by the historical ratio of service productivity to total service output, multiplied by the share of direct labor in total operating inputs, as calculated in the hospital market basket. This method estimates an expected productivity improvement in the same proportion to expected total service growth that has occurred in the past and assumes that, at a minimum, growth in FTEs changes proportionally to the growth in total service output. Thus, the recommendation allows for unit productivity to be smaller than the historical averages in years during which output growth is relatively low and larger in years during which output growth is higher than the historical averages. Based on the above estimates from both the hospital industry and the economy, we have chosen to employ the range of ratios of productivity change to output change of 0.30 to 0.35.

The expected change in total hospital service output is the product of projected growth in total admissions (adjusted for outpatient usage), projected real case-mix growth, expected quality-enhancing intensity growth, and net of expected decline in intensity due to reduction of cost-ineffective practice. Case-mix growth and intensity numbers for Medicare are used as proxies for those of the total hospital, since case-mix increases (used in the intensity measure as well) are unavailable for non-Medicare patients. Normally, the expected FY 2004 hospital output growth would be simply the sum of the expected change in intensity (1.0 percent), projected admissions change (1.6 percent), and projected real case-mix growth (1.0 percent—a definition of real case mix growth appears below), or 3.6 percent. However, as discussed below and in relation to the proposed capital update, we believe our intensity estimate is skewed by hospitals' charge data. Therefore, we are including only the projected changes in admissions and real case-mix in our calculation of productivity gains. This results in an estimate of 2.6 percent.

The share of direct labor services in the market basket (consisting of wages, salaries, and employee benefits) is 61.6 percent. Multiplying the expected change in total hospital service output (2.6 percent) by the ratio of historical service productivity change to total service growth of 0.30 to 0.35 and by the direct labor share percentage of 61.6 provides our productivity standard of -0.6 to -0.5 percent. Because productivity gains hold down the rate of increase in hospitals' costs, this factor is applied as a negative offset to the market basket increase.

B. Intensity

The intensity factor for the operating update framework reflects how hospital services are utilized to produce the final product, that is, the discharge. This component accounts for changes in the use of quality-enhancing services, changes in within-DRG severity, and expected modification of practice patterns to remove non-cost-effective services. Under the capital IPPS framework, we also make an adjustment for changes in intensity. We calculate this adjustment using the same methodology and data that are used in the framework for the operating IPPS.

We calculate case-mix constant intensity as the change in total Medicare charges per admission, adjusted for price level changes (the Consumer Price Index (CPI) for hospital and related services) and changes in real case-mix. The use of total charges in the calculation of the intensity factor makes it a total intensity factor, that is, charges for capital services are already built into the calculation of the factor.

However, as discussed above in relation to the proposed capital update, because our intensity calculation relies heavily upon charge data and we believe that this charge data may be inappropriately inflated due to manipulation of charges to maximize outlier payments, we are proposing a 0.0 percent adjustment for intensity in FY 2004. In past fiscal years (1996 through 2000) when we found intensity to be declining, we believed a zero (rather then negative) intensity adjustment was appropriate. Similarly, we believe that it is appropriate to propose a zero intensity adjustment for FY 2004 until we determine that any increase in charges can be tied to intensity, rather than to attempts to maximize outlier payments.

C. Change in Case-Mix

Our analysis takes into account projected changes in real case-mix, less the changes attributable to improved coding practices. We define real case-mix change as actual changes in the mix (and resource requirements) of Medicare patients, as opposed to changes in coding behavior that result in assignment of cases to higher-weighted DRGs but do not reflect greater resource requirements. For our FY 2004 update recommendation, we are projecting a 1.0 percent increase in the case-mix index. We do not believe changes in coding behavior will impact the overall case-mix in FY 2004. As such, for FY 2004, we estimate that real case-mix is equal to projected change in case-mix. Thus, we are recommending a 0.0 percent adjustment for case-mix.

D. Effect of FY 2002 DRG Reclassification and Recalibration

We estimate that DRG reclassification and recalibration for FY 2002 (GROUPER version 19.0) resulted in a 0 percent change in the case-mix index when compared with the case-mix index that would have resulted if we had not made the reclassification and recalibration changes to the GROUPER (version 18.0). Therefore, we are recommending a 0 percent adjustment for the effect of FY 2002 DRG reclassification and recalibration.

E. Forecast Error Correction

We make a forecast error correction if the actual market basket changes differ from the forecasted market basket by 0.25 percentage points or more. There is a 2-year lag between the forecast and the measurement of forecast error. The estimated market basket percentage increase used to update the FY 2002 payment rates was 3.3 percent. Our most recent data indicates the actual FY 2002 increase was 2.9 percent. The resulting forecast error in the FY 2002 market basket rate of increase is (-0.4) percentage points. This overestimate was due largely to a lower-than-expected increase in energy costs that impacted natural gas and chemical prices. This follows consecutive years where the market basket was under-forecast by 0.7 percentage points each year.

The following is a summary of the update range supported by our analyses:

HHS's FY 2004 Update Recommendation
Market basket | MB
Policy Adjustment Factors:
Productivity | −0.6 to −0.5
Intensity | 0.0
Subtotal | −0.6 to −0.5
Case-Mix Adjustment Factors:
Projected Case-Mix Change | 1.0
Real Across DRG Change | −1.0
Subtotal | 0.0
Effect of FY 2002 DRG Reclassification and Recalibration | 0.0
Forecast Error Correction | −0.4
Total Recommendation Update | −1.0 to −0.9

IV. MedPAC Recommendations for Assessing Payment Adequacy and Updating Payments in Traditional Medicare

In the past, MedPAC recommended specific adjustments to its update recommendation for each of the factors discussed under section III. of this Appendix. In its March 2003 Report to Congress, MedPAC assesses the adequacy of current payments and costs and the relationship between payments and an appropriate cost base. MedPAC stresses that the issue at hand is whether payments are too high or too low, and not how they became such.

In the first portion of MedPAC's analysis on the assessment of payment adequacy, the Commission reviews the relationship between costs and payments (typically represented as a margin). Based on the latest cost report data available, MedPAC estimated an inpatient Medicare operating margin for FY 2000 of 10.8 percent (down from 12.3 percent for FY 1999).

MedPAC also projects margins through FY 2003, making certain assumptions about changes in payments and costs. On the payment side, MedPAC applied the annual payment updates (as specified by law for FYs 2001 through 2003) and then modeled the effects of other policy changes that have affected the level of payments. On the cost side, MedPAC estimated the increases in cost per unit of output over the same time period at the rate of inflation as measured by the applicable market basket index generated by CMS adjusted downward, anticipating improvements in productivity. While no specific Medicare inpatient margin is identified for a calendar year beyond 2000, MedPAC projected an overall Medicare margin for FY 2003 of 3.9 percent (page 41). The FY 2000 overall Medicare margin, as estimated by MedPAC, was 5.0 percent.

In addition to considering the relationship between estimated payments and costs, MedPAC also considered the following three factors to assess whether current payments are adequate (page 42):

• Changes in access to or quality of care;

• Changes in the volume of services or number of providers; and

• Change in providers' access to capital.

MedPAC's assessment of aggregate Medicare payments finds that payments were at least adequate as of FY 2003.

MedPAC's recommendation related to updating payments under the IPPS is that the Congress should increase the payment rates for the IPPS by the rate of increase in the hospital market basket, less 0.4 percent, for FY 2004. MedPAC focuses on the operating update exclusively because operating costs account for about 92 percent of total hospital costs and because the operating update is of most interest to Congress. Based on the current market basket estimate for FY 2003 of 3.5 percent, this update would increase Medicare inpatient payments to hospitals covered by IPPS by 3.1 percent.

Response: As described above, we are recommending a full market basket update for FY 2004 consistent with current law. We believe this will appropriately balance incentives for hospitals to operate efficiently with the need to provide sufficient payments to maintain access to quality care for Medicare beneficiaries.

Because the operating and capital prospective payment systems remain separate, CMS continues to use separate updates for operating and capital payments. The proposed update to the capital payment rate is discussed in section III. of the Addendum to this proposed rule.

[FR Doc. 03-11966 Filed 5-9-03; 3:51 pm]

BILLING CODE 4120-03-P